FEDERAL EMERGENCY MANAGEMENT AGENCY

Compendium of Flood Map Changes

AGENCY: Federal Emergency Management Agency (FEMA).

ACTION: Notice.

SUMMARY: This Notice provides listings of changes made to National Flood Insurance Program (NFIP) maps produced by FEMA effective during the first 6 months of 2001.

DATES: The listings include changes to NFIP maps that became effective January 1, 2001, through June 30, 2001.

FOR FURTHER INFORMATION CONTACT: Michael K. Buckley, P.E., Director, Hazard Mapping Division, Federal Insurance and Mitigation Administration, Federal Emergency Management Agency, Washington, DC 20472, (202)646-2756.

SUPPLEMENTARY INFORMATION: In accordance with Section 1360(i) of the National Flood Insurance Reform Act of 1994, this Notice is provided to inform interested parties of changes made by FEMA to NFIP maps. The two listings provided show communities affected by map changes made by letter and communities affected by physical map changes. For each Letter of Map Change, the first listing provides the map panel(s) affected, effective (determination) date of the change, case number, and determination type. For each physical map change, the Map Revision listing provides the map panel(s) affected and the effective date of the change. The listing also identifies: (1) those panels on which the Special Flood Hazard Areas have not been changed or have been changed only to incorporate the Letters of Map Change issued before the effective date; and (2) those panels for which a Flood Insurance Rate Map is produced for the first time, resulting only in changes to flood insurance and floodplain management requirements in the affected community. Future notices of changes to NFIP maps will be published approximately every 6 months.

Dated: August 21, 2001.
Robert F. Shea,
Acting Administrator, Federal Insurance and Mitigation Administration.

Two listings are provided below. The first listing includes all Letters of Map Change issued by FEMA from January 1 through June 30, 2001. The following types of letters are included in the listing:

Type | Description
01 | Letter of Map Revision Based on Fill (218-65)
02 | Letter of Map Amendment (218-70)
05 | Letter of Map Revision With Base Flood Elevation Changes
06 | Letter of Map Revision Without Base Flood Elevation Changes
08 | Denial
12 | Floodway Revision
17 | Letter of Map Revision-inadvertent inclusion in floodway (218-65)
18 | Letter of Map Revision-inadvertent inclusion in V zone (218-65)
19 | Letter of Map Change Revalidation.

The second listing includes map panels that FEMA physically revised and republished from January 1 through June 30, 2001. For those map panels on which the Special Flood Hazard Areas have not been changed or have been changed only to incorporate Letters of Map Change issued before the effective date, two asterisks(**) are shown to the right of the map panel number. For those map panels for which a Flood Insurance Rate Map is produced for the first time, resulting only in changes to flood insurance and floodplain management requirements in the affected community, three asterisks(***) are shown to the right of the map panel number.

For both listings, a single asterisk is shown to the right of each county name that appears in the ”Community” column. This asterisk indicates the area covered is the unincorporated areas of that county.

Region | State | Community | Map panel | Determination date | Case No. | Type
01 | CT | ASHFORD, TOWN OF | 0901650020C | 25-APR-2001 | 01-01-0712A | 02
01 | CT | BERLIN, TOWN OF | 0900220010D | 21-MAR-2001 | 01-01-0328A | 02
01 | CT | BETHLEHEM, TOWN OF | 0901780005A | 02-APR-2001 | 00-01-039P | 05
01 | CT | BRANFORD, TOWN OF | 0900730010C | 01-JUN-2001 | 00-01-025P | 05
01 | CT | BRANFORD, TOWN OF | 0900730006C | 31-JAN-2001 | 01-01-0184A | 02
01 | CT | BRIDGEPORT, CITY OF | 0900020001B | 09-MAR-2001 | 01-01-0384A | 02
01 | CT | BRISTOL, CITY OF | 0900230004B | 11-MAY-2001 | 01-01-0808A | 02
01 | CT | CLINTON, TOWN OF | 0900610005F | 07-FEB-2001 | 01-01-0442A | 02
01 | CT | CROMWELL, TOWN OF | 0901230010E | 08-JAN-2001 | 00-01-017P | 05
01 | CT | DANBURY, CITY OF | 0900040010B | 02-MAY-2001 | 01-01-0120A | 02
01 | CT | FAIRFIELD, TOWN OF | 0900070008C | 23-MAY-2001 | 01-01-0838A | 02
01 | CT | FARMINGTON, TOWN OF | 0900290010C | 25-MAY-2001 | 00-01-1156A | 01
01 | CT | GOSHEN, TOWN OF | 0901770015A | 20-JUN-2001 | 01-01-0890A | 02
01 | CT | GROTON, TOWN OF | 0900970010C | 28-FEB-2001 | 01-01-0532A | 02
01 | CT | GUILFORD, TOWN OF | 0900770010B | 10-JAN-2001 | 01-01-0258A | 02
01 | CT | GUILFORD, TOWN OF | 0900770015B | 02-MAR-2001 | 01-01-0504A | 02
01 | CT | GUILFORD, TOWN OF | 0900770015B | 16-MAR-2001 | 01-01-0610A | 02
01 | CT | HAMDEN, TOWN OF | 0900780010B | 20-JUN-2001 | 01-01-0568A | 02
01 | CT | LEBANON, TOWN OF | 0901550005B | 21-FEB-2001 | 01-01-0300A | 02
01 | CT | LITCHFIELD, TOWN OF | 0900470010B | 10-APR-2001 | 01-01-0668A | 02
01 | CT | MERIDEN, CITY OF | 0900810004C | 23-MAR-2001 | 01-01-0594A | 02
01 | CT | MERIDEN, CITY OF | 0900810005C | 25-APR-2001 | 01-01-0730A | 02
01 | CT | MERIDEN, CITY OF | 0900810005C | 25-MAY-2001 | 01-01-0598A | 02
01 | CT | MERIDEN, CITY OF | 0900810004C | 13-JUN-2001 | 01-01-0866A | 02
01 | CT | MIDDLETOWN, CITY OF | 0900680007C | 08-MAR-2001 | 01-01-0578V | 19
01 | CT | MILFORD, CITY OF | 0900820003D | 20-JUN-2001 | 01-01-0906A | 02
01 | CT | MONROE, TOWN OF | 0900090010B | 21-FEB-2001 | 01-01-0378A | 02
01 | CT | NORTH CANAAN, TOWN OF | 0901490002B | 07-MAR-2001 | 01-01-0270A | 02
01 | CT | NORTH CANAAN, TOWN OF | 0901490002B | 11-MAY-2001 | 01-01-0484A | 02
01 | CT | OLD SAYBROOK, TOWN OF | 0900690004D | 14-FEB-2001 | 01-01-0370A | 02
01 | CT | OLD SAYBROOK, TOWN OF | 0900690002C | 07-MAR-2001 | 01-01-0556A | 02
01 | CT | SHARON, TOWN OF | 0900530015B | 30-MAR-2001 | 01-01-0646A | 02
01 | CT | SOMERS, TOWN OF | 0901120006B | 06-JUN-2001 | 01-01-0846A | 02
01 | CT | SOUTHINGTON, TOWN OF | 0900370005D | 31-JAN-2001 | 01-01-0422A | 02
01 | CT | STAMFORD, CITY OF | 0900150009D | 23-FEB-2001 | 01-01-0474A | 02
01 | CT | STAMFORD, CITY OF | 0900150007D | 30-MAR-2001 | 01-01-0622A | 02
01 | CT | STRATFORD, TOWN OF | 0900160003D | 02-JAN-2001 | 01-01-0252A | 02
01 | CT | STRATFORD, TOWN OF | 0900160004D | 10-JAN-2001 | 01-01-0260A | 02
01 | CT | STRATFORD, TOWN OF | 0900160003C | 11-APR-2001 | 01-01-0670A | 02
01 | CT | STRATFORD, TOWN OF | 0900160003D | 20-JUN-2001 | 01-01-0924A | 02
01 | CT | STRATFORD, TOWN OF | 0900160002C | 22-JUN-2001 | 01-01-0958A | 02
01 | CT | TORRINGTON, CITY OF | 0950810004B | 15-JUN-2001 | 01-01-0810A | 02
01 | CT | WALLINGFORD, TOWN OF | 0900900008C | 06-APR-2001 | 01-01-0684A | 02
01 | CT | WEST HAVEN, CITY OF | 0900920004B | 10-JAN-2001 | 01-01-0174A | 02
01 | CT | WESTPORT, TOWN OF | 0900190003C | 07-MAR-2001 | 01-01-0414A | 02
01 | CT | WESTPORT, TOWN OF | 0900190003C | 23-MAR-2001 | 01-01-0592A | 02
01 | CT | WOODBURY, TOWN OF | 0901330001A | 02-APR-2001 | 00-01-039P | 05
01 | CT | WOODSTOCK, TOWN OF | 0901200016B | 10-JAN-2001 | 01-01-0208A | 02
01 | CT | WOODSTOCK, TOWN OF | 0901200015B | 06-JUN-2001 | 01-01-0862A | 02
01 | MA | AGAWAM, TOWN OF | 2501330002A | 21-FEB-2001 | 01-01-0490A | 02
01 | MA | AGAWAM, TOWN OF | 2501330002A | 04-MAY-2001 | 01-01-0678A | 02
01 | MA | AGAWAM, TOWN OF | 2501330002A | 20-JUN-2001 | 01-01-0902A | 02
01 | MA | AMESBURY, TOWN OF | 2500750004C | 10-JAN-2001 | 01-01-0278A | 02
01 | MA | ATTLEBORO, CITY OF | 2500490010C | 04-MAY-2001 | 01-01-0664A | 02
01 | MA | ATTLEBORO, CITY OF | 2500490005C | 16-MAY-2001 | 01-01-0436A | 02
01 | MA | BEDFORD, TOWN OF | 2552090004C | 06-JUN-2001 | 01-01-0856A | 02
01 | MA | BERKLEY, TOWN OF | 2500500002B | 14-FEB-2001 | 01-01-0470A | 02
01 | MA | BERKLEY, TOWN OF | 2500500001B | 27-APR-2001 | 01-01-0574A | 02
01 | MA | BILLERICA, TOWN OF | 2501830005C | 16-FEB-2001 | 00-01-047X | 05
01 | MA | BILLERICA, TOWN OF | 2501830005C | 06-JUN-2001 | 01-01-0706A | 02
01 | MA | BOURNE, TOWN OF | 2552100001E | 10-MAY-2001 | 01-01-021P | 05
01 | MA | BROCKTON, CITY OF | 2502610005C | 21-FEB-2001 | 01-01-0462X | 02
01 | MA | BROCKTON, CITY OF | 2502610005C | 28-FEB-2001 | 01-01-0518A | 02
01 | MA | CLINTON, TOWN OF | 2503000002B | 23-MAY-2001 | 01-01-0676A | 02
01 | MA | DUNSTABLE, TOWN OF | 2501910006B | 13-JUN-2001 | 01-01-0852A | 02
01 | MA | EASTON, TOWN OF | 2500530005C | 01-FEB-2001 | 01-01-003P | 06
01 | MA | EASTON, TOWN OF | 2500530010E | 24-JAN-2001 | 01-01-0050A | 02
01 | MA | EASTON, TOWN OF | 2500530010E | 02-FEB-2001 | 01-01-0366A | 02
01 | MA | EASTON, TOWN OF | 2500530010E | 09-MAR-2001 | 01-01-0530A | 02
01 | MA | EASTON, TOWN OF | 2500530010E | 11-APR-2001 | 01-01-0714A | 02
01 | MA | EASTON, TOWN OF | 2500530010B | 01-JUN-2001 | 01-01-0662A | 02
01 | MA | EASTON, TOWN OF | 2500530005C | 06-JUN-2001 | 01-01-0772A | 02
01 | MA | FAIRHAVEN, TOWN OF | 2500540002C | 04-MAY-2001 | 01-01-0774A | 02
01 | MA | FALMOUTH, TOWN OF | 2552110008G | 28-MAR-2001 | 01-01-0630A | 02
01 | MA | FALMOUTH, TOWN OF | 2552110001G | 02-MAY-2001 | 01-01-0582A | 02
01 | MA | FRAMINGHAM, TOWN OF | 2501930005C | 18-APR-2001 | 01-01-0710A | 02
01 | MA | FRAMINGHAM, TOWN OF | 2501930008C | 06-JUN-2001 | 01-01-0910A | 02
01 | MA | FRAMINGHAM, TOWN OF | 2501930011B | 20-JUN-2001 | 01-01-0778A | 02
01 | MA | FREETOWN, TOWN OF | 2500560005B | 16-MAY-2001 | 01-01-0638A | 02
01 | MA | HANOVER, TOWN OF | 2502660003B | 02-MAY-2001 | 01-01-0756A | 02
01 | MA | HAVERHILL, CITY OF | 2500850010B | 31-JAN-2001 | 01-01-0364A | 02
01 | MA | HINGHAM, TOWN OF | 2502680010B | 23-MAY-2001 | 01-01-0608A | 02
01 | MA | HOLLAND, TOWN OF | 2501410005B | 13-JUN-2001 | 01-01-0584A | 02
01 | MA | LANCASTER, TOWN OF | 2503120008B | 06-JUN-2001 | 01-01-0884A | 02
01 | MA | LAWRENCE, CITY OF | 2500870004B | 23-MAY-2001 | 01-01-0794A | 02
01 | MA | LOWELL, CITY OF | 2502010003D | 02-MAR-2001 | 01-01-0534A | 02
01 | MA | LYNNFIELD, TOWN OF | 2500890005C | 02-JAN-2001 | 01-01-0236A | 02
01 | MA | MASHPEE, TOWN OF | 2500090008F | 16-MAR-2001 | 01-01-0124A | 01
01 | MA | MATTAPOISETT, TOWN OF | 2552140009E | 17-JAN-2001 | 01-01-0296A | 02
01 | MA | MELROSE , CITY OF | 2502060001B | 22-JUN-2001 | 01-01-0522A | 02
01 | MA | MENDON, TOWN OF | 2503160005B | 21-FEB-2001 | 01-01-0170A | 02
01 | MA | NAHANT, TOWN OF | 2500950004B | 22-JUN-2001 | 01-01-0972A | 02
01 | MA | NANTUCKET, TOWN OF | 2502300004D | 17-JAN-2001 | 01-01-0256A | 02
01 | MA | NORTHAMPTON, CITY OF | 2501670001A | 02-MAR-2001 | 01-01-0406A | 02
01 | MA | NORTON, TOWN OF | 2500600002C | 18-APR-2001 | 01-01-0202A | 02
01 | MA | PITTSFIELD, CITY OF | 2500370020C | 09-MAR-2001 | 01-01-0220A | 02
01 | MA | PLAINVILLE, TOWN OF | 2502490003B | 11-APR-2001 | 01-01-0626A | 02
01 | MA | QUINCY, CITY OF | 2552190016B | 27-JUN-2001 | 01-01-0796A | 02
01 | MA | QUINCY, CITY OF | 2502190004C | 29-JUN-2001 | 01-01-1008A | 02
01 | MA | QUINCY, CITY OF | 2552190002C | 23-MAY-2001 | 01-01-0748A | 01
01 | MA | RANDOLPH, TOWN OF | 2502510004D | 21-FEB-2001 | 01-01-0456A | 02
01 | MA | RAYNHAM, TOWN OF | 2500610002B | 09-MAR-2001 | 01-01-0254A | 02
01 | MA | READING, TOWN OF | 2502110001B | 22-JUN-2001 | 01-01-0868A | 02
01 | MA | REVERE, CITY OF | 2502880001B | 26-JAN-2001 | 01-01-0150A | 02
01 | MA | REVERE, CITY OF | 2502880001B | 27-JUN-2001 | 01-01-0966A | 02
01 | MA | REVERE, CITY OF | 2502880003B | 22-JUN-2001 | 01-01-0606A | 01
01 | MA | ROCKLAND, TOWN OF | 2502810003B | 24-JAN-2001 | 01-01-0240A | 02
01 | MA | ROCKLAND, TOWN OF | 2502810001B | 14-FEB-2001 | 00-01-1058A | 01
01 | MA | SALEM, CITY OF | 2501020001B | 31-JAN-2001 | 01-01-0342A | 02
01 | MA | SALEM, CITY OF | 2501020002B | 13-JUN-2001 | 01-01-0914A | 02
01 | MA | SAUGUS, TOWN OF | 2501040004B | 11-MAY-2001 | 01-01-0804A | 02
01 | MA | SCITUATE, TOWN OF | 2502820001D | 23-MAY-2001 | 01-01-0466A | 02
01 | MA | SCITUATE, TOWN OF | 2502820002D | 13-JUN-2001 | 01-01-0516A | 02
01 | MA | STOUGHTON, TOWN OF | 2502530001B | 27-JUN-2001 | 01-01-0828A | 02
01 | MA | SWANSEA, TOWN OF | 2552210009C | 31-JAN-2001 | 01-01-0312A | 02
01 | MA | SWANSEA, TOWN OF | 2552210009C | 06-JUN-2001 | 01-01-0746A | 02
01 | MA | TOPSFIELD, TOWN OF | 2501060001D | 06-APR-2001 | 01-01-0650A | 02
01 | MA | WAREHAM, TOWN OF | 2552230007D | 24-JAN-2001 | 01-01-0308A | 02
01 | MA | WAREHAM, TOWN OF | 2552230011D | 20-APR-2001 | 01-01-0506A | 01
01 | MA | WESTHAMPTON, TOWN OF | 2501730009B | 02-MAR-2001 | 01-01-0406D | 02
01 | MA | WESTWOOD, TOWN OF | 2552250005C | 21-FEB-2001 | 01-01-0440A | 02
01 | MA | WEYMOUTH, TOWN OF | 2502570006C | 25-APR-2001 | 01-01-0708A | 02
01 | MA | WINCHENDON, TOWN OF | 2503480010B | 25-APR-2001 | 99-01-031P | 05
01 | MA | WRENTHAM, TOWN OF | 2502580002B | 04-MAY-2001 | 01-01-0476A | 02
01 | MA | YARMOUTH, TOWN OF | 2500150005D | 17-JAN-2001 | 01-01-0284A | 02
01 | ME | ALNA, TOWN OF | 230083 | 10-JAN-2001 | 01-01-0234A | 02
01 | ME | ARROWSIC, TOWN OF | 2302080005A | 22-JUN-2001 | 01-01-0954A | 02
01 | ME | AUBURN, CITY OF | 2300010006C | 19-JAN-2001 | 00-01-049P | 05
01 | ME | AUBURN, CITY OF | 2300010008C | 14-MAR-2001 | 01-01-0452A | 02
01 | ME | BAR HARBOR, TOWN OF | 2300640005B | 06-JUN-2001 | 01-01-0842A | 18
01 | ME | BELFAST, CITY OF | 2301290016B | 03-JAN-2001 | 01-01-0186A | 18
01 | ME | BELGRADE, TOWN OF | 2302320010B | 25-APR-2001 | 01-01-0716A | 02
01 | ME | BELGRADE, TOWN OF | 2302320010B | 27-APR-2001 | 01-01-0726A | 02
01 | ME | BELGRADE, TOWN OF | 2302320005B | 20-JUN-2001 | 01-01-0926A | 02
01 | ME | BETHEL, TOWN OF | 2300880005C | 10-JAN-2001 | 01-01-0292A | 02
01 | ME | BOOTHBAY, TOWN OF | 2302120010B | 28-MAR-2001 | 01-01-0348A | 02
01 | ME | BRIDGTON, TOWN OF | 2300410005B | 02-FEB-2001 | 01-01-0326A | 02
01 | ME | BRISTOL, TOWN OF | 2302150015B | 16-MAR-2001 | 01-01-0356A | 02
01 | ME | BROWNFIELD, TOWN OF | 2300890016B | 22-JUN-2001 | 01-01-0998A | 02
01 | ME | BRUNSWICK, TOWN OF | 2300420015B | 01-JUN-2001 | 01-01-0188A | 02
01 | ME | BUXTON, TOWN OF | 2301460010B | 28-MAR-2001 | 01-01-0358A | 02
01 | ME | CAMDEN, TOWN OF | 2300740014B | 09-MAR-2001 | 01-01-005P | 05
01 | ME | CONCORD, TOWNSHIP OF | 230466A | 07-FEB-2001 | 00-01-1028A | 02
01 | ME | DEER ISLE, TOWN OF | 2302800015B | 14-FEB-2001 | 01-01-0408A | 02
01 | ME | DURHAM, TOWN OF | 2300020005B | 06-APR-2001 | 01-01-0640A | 02
01 | ME | EDMUNDS, TOWNSHIP OF | 230471A | 27-APR-2001 | 01-01-0722A | 02
01 | ME | ENFIELD, TOWN OF | 2303840010A | 06-JUN-2001 | 01-01-0898A | 02
01 | ME | FREEPORT, TOWN OF | 2300460014B | 15-FEB-2001 | 01-01-007P | 06
01 | ME | FREEPORT, TOWN OF | 2300460014B | 14-MAR-2001 | 01-01-0286A | 02
01 | ME | GLENBURN, TOWN OF | 2301060005C | 06-JUN-2001 | 01-01-0840A | 02
01 | ME | GRAY, TOWN OF | 2300480005A | 14-MAR-2001 | 01-01-0524A | 02
01 | ME | GUILFORD, TOWN OF | 230117 | 02-MAY-2001 | 01-01-0718A | 02
01 | ME | HANCOCK, TOWN OF | 2302840005A | 18-MAY-2001 | 01-01-0844A | 02
01 | ME | HARMONY, TOWN OF | 2303600011B | 27-APR-2001 | 01-01-0704A | 02
01 | ME | HARPSWELL, TOWN OF | 2301690014D | 04-APR-2001 | 01-01-0550A | 18
01 | ME | HARPSWELL, TOWN OF | 2301690005B | 04-MAY-2001 | 01-01-0764A | 02
01 | ME | HARTLAND, TOWN OF | 230361A | 27-APR-2001 | 01-01-0744A | 02
01 | ME | ISLESBORO, TOWN OF | 2302560005C | 28-FEB-2001 | 01-01-0430A | 02
01 | ME | JACKMAN, TOWN OF | 230362B | 02-MAY-2001 | 01-01-0634A | 02
01 | ME | KENNEBUNKPORT, TOWN OF | 2301700007B | 13-JUN-2001 | 01-01-0576A | 02
01 | ME | LAMOINE, TOWN OF | 2302850010A | 24-JAN-2001 | 01-01-0324A | 02
01 | ME | LAMOINE, TOWN OF | 2302850010A | 07-FEB-2001 | 01-01-0376A | 02
01 | ME | LAMOINE, TOWN OF | 2302850010A | 25-APR-2001 | 01-01-0674A | 02
01 | ME | LAMOINE, TOWN OF | 2302850010A | 23-MAY-2001 | 01-01-0818A | 02
01 | ME | LEBANON, TOWN OF | 230193 | 29-JUN-2001 | 01-01-1004A | 02
01 | ME | LIMINGTON, TOWN OF | 2301520015C | 06-APR-2001 | 01-01-0396A | 02
01 | ME | LINCOLN, TOWN OF | 2301090020B | 19-JAN-2001 | 01-01-0338A | 02
01 | ME | MAPLETON, TOWN OF | 230025B | 11-APR-2001 | 01-01-0038A | 02
01 | ME | MARIAVILLE, TOWN OF | 230286 | 18-MAY-2001 | 01-01-0834A | 02
01 | ME | MT. VERNON, TOWN OF | 230241A | 25-APR-2001 | 01-01-0432A | 02
01 | ME | NAPLES, TOWN OF | 2300500005B | 02-MAY-2001 | 01-01-0682A | 01
01 | ME | NEWFIELD, TOWN OF | 2301960011B | 24-JAN-2001 | 01-01-0380X | 02
01 | ME | NORRIDGEWOCK, TOWN OF | 2301780016C | 23-MAR-2001 | 01-01-0562A | 02
01 | ME | NORTH BERWICK, TOWN OF | 2301970007C | 19-JAN-2001 | 01-01-0314A | 02
01 | ME | NORWAY, TOWN OF | 2300960005B | 14-FEB-2001 | 01-01-0404A | 02
01 | ME | ORLAND,TOWN OF | 230288A | 12-JAN-2001 | 01-01-0302A | 02
01 | ME | OTISFIELD, TOWN OF | 2302030004B | 16-MAR-2001 | 01-01-0402A | 02
01 | ME | OWL'S HEAD, TOWN OF | 2300750005B | 10-JAN-2001 | 01-01-0316A | 18
01 | ME | OWL'S HEAD, TOWN OF | 2300750005B | 23-MAR-2001 | 01-01-0566A | 18
01 | ME | OWL'S HEAD, TOWN OF | 2300750005B | 23-MAR-2001 | 01-01-0554A | 18
01 | ME | OWL'S HEAD, TOWN OF | 2300750005B | 23-MAR-2001 | 01-01-0552A | 18
01 | ME | PALERMO,TOWN OF | 230263B | 13-JUN-2001 | 01-01-0728A | 02
01 | ME | PENOBSCOT, TOWN OF | 2302900015A | 19-JAN-2001 | 01-01-0294A | 02
01 | ME | POLAND, TOWN OF | 2300090005D | 07-FEB-2001 | 01-01-0298A | 02
01 | ME | POLAND, TOWN OF | 2300090005D | 28-MAR-2001 | 01-01-0588A | 02
01 | ME | PORTLAND, CITY OF | 2300510007C | 21-FEB-2001 | 01-01-0388A | 02
01 | ME | PORTLAND, CITY OF | 2300510013B | 04-MAY-2001 | 01-01-0624A | 02
01 | ME | PORTLAND, CITY OF | 2300510007C | 29-JUN-2001 | 01-01-1030A | 02
01 | ME | RANGELEY, TOWN OF | 2303520007B | 04-APR-2001 | 01-01-0586A | 02
01 | ME | RAYMOND, TOWN OF | 2302050020B | 14-MAR-2001 | 01-01-0496A | 02
01 | ME | ROXBURY, TOWN OF | 230181A | 10-JAN-2001 | 01-01-0266A | 02
01 | ME | ROXBURY, TOWN OF | 230181A | 13-JUN-2001 | 01-01-0502A | 02
01 | ME | RUMFORD, TOWN OF | 2300990012B | 22-JUN-2001 | 01-01-0960A | 02
01 | ME | SEBAGO, TOWN OF | 2302060018B | 06-JUN-2001 | 01-01-0760A | 02
01 | ME | SOUTH THOMASTON, TOWN OF | 2300780005B | 28-FEB-2001 | 01-01-0468A | 02
01 | ME | ST. ALBANS, TOWN OF | 230369A | 21-FEB-2001 | 01-01-0454A | 02
01 | ME | ST. ALBANS, TOWN OF | 230369A | 21-FEB-2001 | 01-01-0426A | 02
01 | ME | ST. GEORGE, TOWN OF | 2302290010C | 23-MAR-2001 | 01-01-0528A | 18
01 | ME | ST. GEORGE, TOWN OF | 2302290010C | 07-MAR-2001 | 01-01-0494A | 02
01 | ME | ST. GEORGE, TOWN OF | 2302290015C | 27-APR-2001 | 01-01-0666A | 02
01 | ME | STANDISH, TOWN OF | 2302070040B | 16-MAR-2001 | 01-01-0510A | 02
01 | ME | STARKS, TOWN OF | 2303720005C | 28-MAR-2001 | 01-01-0514A | 02
01 | ME | SURRY, TOWN OF | 2302960010B | 18-APR-2001 | 01-01-0410A | 18
01 | ME | SURRY, TOWN OF | 2302960010B | 02-FEB-2001 | 01-01-0386A | 02
01 | ME | SURRY, TOWN OF | 2302960005B | 21-FEB-2001 | 01-01-0412A | 02
01 | ME | SWANS ISLAND,TOWN OF | 230297A | 25-MAY-2001 | 01-01-0860A | 02
01 | ME | SWANS ISLAND,TOWN OF | 230297A | 22-JUN-2001 | 01-01-0978A | 02
01 | ME | SWANS ISLAND,TOWN OF | 230297A | 29-JUN-2001 | 01-01-1006A | 02
01 | ME | T17 R04 WELS, TOWNSHIP OF | 230453A | 28-FEB-2001 | 01-01-0334A | 02
01 | ME | T17 R04 WELS, TOWNSHIP OF | 230453A | 25-MAY-2001 | 01-01-0880A | 02
01 | ME | TRENTON, TOWN OF | 2302990005A | 07-FEB-2001 | 01-01-0372A | 18
01 | ME | UNION,TOWN OF | 2300800015C | 04-MAY-2001 | 01-01-0762A | 02
01 | ME | VINALHAVEN, TOWN OF | 230230A | 27-APR-2001 | 01-01-0768A | 02
01 | ME | WARREN, TOWN OF | 2300810005B | 12-JAN-2001 | 01-01-0320A | 02
01 | ME | WATERBORO, TOWN OF | 2301990004C | 24-JAN-2001 | 01-01-0382A | 02
01 | ME | WATERBORO, TOWN OF | 2301990004C | 07-FEB-2001 | 01-01-0368A | 02
01 | ME | WATERBORO, TOWN OF | 230199 003C | 02-MAY-2001 | 01-01-0736A | 02
01 | ME | WATERFORD, TOWN OF | 2303430015A | 14-FEB-2001 | 01-01-0392A | 02
01 | ME | WATERVILLE, CITY OF | 2300700006C | 08-MAY-2001 | 01-01-0802V | 19
01 | ME | WINDHAM, TOWN OF | 2301890015B | 06-APR-2001 | 01-01-0472A | 02
01 | ME | YORK, TOWN OF | 2301590024B | 27-JUN-2001 | 01-01-0940A | 02
01 | NH | AMHERST, TOWN OF | 3300810010B | 09-MAY-2001 | 01-01-0750A | 02
01 | NH | BARTLETT, TOWN OF | 3300100010C | 07-MAR-2001 | 01-01-0492A | 02
01 | NH | BARTLETT, TOWN OF | 3300100010C | 08-JUN-2001 | 01-01-0658A | 02
01 | NH | BEDFORD, TOWN OF | 3300830005C | 25-APR-2001 | 01-01-0742A | 02
01 | NH | BOW, TOWN OF | 3301070001D | 08-JUN-2001 | 01-01-0886A | 02
01 | NH | BRENTWOOD, TOWN OF | 3301250003C | 16-MAR-2001 | 01-01-0580A | 02
01 | NH | BRISTOL, TOWN OF | 3300470007B | 14-MAR-2001 | 01-01-0538A | 02
01 | NH | COLEBROOK, TOWN OF | 3300310005B | 02-MAY-2001 | 01-01-0734A | 02
01 | NH | CORNISH, TOWN OF | 3301550010B | 06-APR-2001 | 01-01-0268A | 02
01 | NH | DERRY, TOWN OF | 3301280011B | 07-MAR-2001 | 01-01-0458A | 02
01 | NH | ENFIELD, TOWN OF | 3300520005B | 23-MAR-2001 | 01-01-0178A | 02
01 | NH | ENFIELD, TOWN OF | 3300520002B | 08-JUN-2001 | 01-01-0912A | 02
01 | NH | ENFIELD, TOWN OF | 3300520020B | 15-JUN-2001 | 01-01-0892A | 02
01 | NH | FREMONT, TOWN OF | 3301310005C | 14-MAR-2001 | 01-01-0604A | 02
01 | NH | FREMONT, TOWN OF | 3301310005C | 16-MAR-2001 | 01-01-0602A | 02
01 | NH | FREMONT, TOWN OF | 3301310005C | 21-MAR-2001 | 01-01-0620A | 02
01 | NH | FREMONT, TOWN OF | 3301310005C | 04-MAY-2001 | 01-01-0644A | 02
01 | NH | FREMONT, TOWN OF | 3301310005C | 04-MAY-2001 | 01-01-0536A | 02
01 | NH | FREMONT, TOWN OF | 3301310005C | 09-MAY-2001 | 01-01-0782A | 02
01 | NH | HAMPTON, TOWN OF | 3301320008B | 28-MAR-2001 | 01-01-0544A | 02
01 | NH | KEENE, CITY OF | 3300230009C | 10-JAN-2001 | 01-01-0176A | 02
01 | NH | KEENE, CITY OF | 3300230009C | 22-JUN-2001 | 01-01-0872A | 02
01 | NH | KEENE, CITY OF | 3300230008C | 02-MAR-2001 | 01-01-0250A | 01
01 | NH | KINGSTON, TOWN OF | 3302170005C | 09-FEB-2001 | 01-01-0398A | 02
01 | NH | LITCHFIELD, TOWN OF | 3300930010B | 26-JAN-2001 | 01-01-0336A | 02
01 | NH | MERRIMACK, TOWN OF | 3300950005A | 23-FEB-2001 | 01-01-0480A | 02
01 | NH | MILTON, TOWN OF | 3301490003B | 09-MAY-2001 | 01-01-0548A | 02
01 | NH | NEW DURHAM, TOWN OF | 3302270010B | 14-MAR-2001 | 01-01-0488A | 02
01 | NH | NEWFIELDS, TOWN OF | 3302280005B | 26-JAN-2001 | 01-01-0306A | 02
01 | NH | OSSIPEE, TOWN OF | 3300160008C | 28-MAR-2001 | 01-01-0486A | 02
01 | NH | PELHAM, TOWN OF | 3301000005B | 12-JAN-2001 | 01-01-0332A | 02
01 | NH | ROCHESTER, CITY OF | 3301500020B | 20-APR-2001 | 01-01-0482A | 01
01 | NH | RYE, TOWN OF | 3301410002B | 15-FEB-2001 | 00-01-007P | 05
01 | NH | SALEM, TOWN OF | 3301420010C | 20-JUN-2001 | 01-01-0942A | 02
01 | NH | STEWARTSTOWN, TOWN OF | 330194A | 01-JUN-2001 | 01-01-0874A | 02
01 | NH | STRAFFORD, TOWN OF | 330196B | 05-JAN-2001 | 01-01-0304A | 02
01 | NH | STRAFFORD, TOWN OF | 330196B | 24-JAN-2001 | 01-01-0374A | 02
01 | NH | STRAFFORD, TOWN OF | 330196B | 27-APR-2001 | 01-01-0766A | 02
01 | NH | WILMOT, TOWN OF | 330124B | 14-FEB-2001 | 01-01-0360A | 02
01 | RI | BARRINGTON, TOWN OF | 44001C0007F | 23-MAR-2001 | 01-01-0560A | 02
01 | RI | COVENTRY, TOWN OF | 4400040007B | 22-MAY-2001 | 01-01-0800V | 19
01 | RI | COVENTRY, TOWN OF | 4400040015A | 19-JAN-2001 | 01-01-0288A | 02
01 | RI | COVENTRY, TOWN OF | 4400040015A | 23-MAR-2001 | 01-01-0596A | 02
01 | RI | COVENTRY, TOWN OF | 440040007B | 01-JUN-2001 | 01-01-0540A | 02
01 | RI | CRANSTON, CITY OF | 4453960009B | 16-MAY-2001 | 01-01-0672A | 17
01 | RI | CRANSTON, CITY OF | 4453960002B | 07-JUN-2001 | 00-01-023P | 06
01 | RI | CRANSTON, CITY OF | 445396 0005 | 08-JUN-2001 | 01-01-0814A | 02
01 | RI | GLOCESTER, TOWN OF | 4400340010C | 19-JAN-2001 | 01-01-0246A | 02
01 | RI | JOHNSTON, TOWN OF | 4400180010C | 18-APR-2001 | 01-01-0700A | 02
01 | RI | NEWPORT, CITY OF | 4454030002F | 21-MAR-2001 | 01-01-0614A | 02
01 | RI | NORTH KINGSTOWN, TOWN OF | 4454040004C | 23-MAR-2001 | 01-01-0428A | 02
01 | RI | NORTH KINGSTOWN, TOWN OF | 4454040012B | 06-APR-2001 | 01-01-0642A | 02
01 | RI | NORTH KINGSTOWN, TOWN OF | 4454040012B | 06-APR-2001 | 01-01-0632A | 02
01 | RI | NORTH KINGSTOWN, TOWN OF | 4454040013C | 27-APR-2001 | 01-01-0752A | 02
01 | RI | NORTH KINGSTOWN, TOWN OF | 4454040012B | 23-MAY-2001 | 01-01-0694A | 02
01 | RI | NORTH PROVIDENCE, TOWN OF | 4400200001C | 24-JAN-2001 | 01-01-0238A | 02
01 | RI | NORTH PROVIDENCE, TOWN OF | 4400200001C | 16-MAR-2001 | 01-01-0616A | 02
01 | RI | NORTH PROVIDENCE, TOWN OF | 4400200001C | 27-JUN-2001 | 01-01-0854A | 02
01 | RI | RICHMOND, TOWN OF | 4400310010B | 19-JAN-2001 | 01-01-0168A | 02
01 | RI | SOUTH KINGSTOWN, TOWN OF | 4454070003D | 11-APR-2001 | 01-01-0698A | 02
01 | RI | WARREN, TOWN OF | 44001C0012F | 10-JAN-2001 | 01-01-0200A | 02
01 | RI | WEST WARWICK, TOWN OF | 4400070002B | 11-APR-2001 | 01-01-0680A | 02
01 | RI | WESTERLY, CITY OF | 4454100015D | 24-JAN-2001 | 01-01-0322A | 02
01 | VT | BERLIN, TOWN OF | 5001060008B | 16-MAR-2001 | 01-01-0352A | 02
01 | VT | CALAIS, TOWN OF | 500109B | 01-JUN-2001 | 01-01-0848A | 02
01 | VT | CAVENDISH, TOWN OF | 5001450020B | 02-MAY-2001 | 01-01-0790A | 02
01 | VT | FAYSTON, TOWN OF | 5003260011A | 11-APR-2001 | 01-01-0628A | 17
01 | VT | GLOVER, TOWN OF | 5002510010B | 20-JUN-2001 | 01-01-1002A | 02
01 | VT | GROTON, TOWN OF | 5000260016B | 12-JAN-2001 | 01-01-0346A | 17
01 | VT | ISLE LA MOTTE, TOWN OF | 5002240010B | 08-JUN-2001 | 01-01-0904A | 02
01 | VT | LOWELL, TOWN OF | 550254B | 16-MAY-2001 | 01-01-0832A | 02
01 | VT | LOWELL, TOWN OF | 550254B | 29-JUN-2001 | 01-01-0968A | 02
01 | VT | LYNDON, TOWN OF | 5000280020B | 20-JUN-2001 | 01-01-0992A | 02
01 | VT | MANCHESTER, TOWN OF | 5000150020B | 10-JAN-2001 | 01-01-0330A | 02
01 | VT | MANCHESTER, TOWN OF | 5000150010B | 09-MAY-2001 | 01-01-0806A | 02
01 | VT | MONTPELIER, CITY OF | 5055180002A | 23-MAY-2001 | 01-01-0816A | 02
01 | VT | MORGAN, TOWN OF | 500255 | 01-JUN-2001 | 01-01-0878A | 02
01 | VT | PITTSFORD, TOWN OF | 5000980025B | 09-MAY-2001 | 01-01-0812A | 02
01 | VT | RICHMOND, TOWN OF | 5000400008B | 27-APR-2001 | 01-01-0688A | 02
01 | VT | RICHMOND, TOWN OF | 5000400006B | 16-MAY-2001 | 01-01-0836A | 02
01 | VT | SHREWSBURY, TOWN OF | 5001020015B | 19-JAN-2001 | 01-01-0318A | 02
01 | VT | TROY, TOWN OF | 5000890005B | 29-JUN-2001 | 01-01-0928A | 02
01 | VT | WARREN, TOWN OF | 5001210003B | 18-APR-2001 | 01-01-0690A | 02
01 | VT | WATERBURY, TOWN OF | 5001230024B | 14-FEB-2001 | 01-01-0450A | 02
01 | VT | WATERBURY, TOWN OF | 5001230031C | 21-MAR-2001 | 01-01-0512A | 02
02 | NJ | ALLENDALE, BOROUGH OF | 34003C0069G | 20-JUN-2001 | 01-02-0826A | 02
02 | NJ | BERKELEY HEIGHTS, TOWNSHIP OF | 3404590002D | 12-JAN-2001 | 01-02-0224A | 02
02 | NJ | BERKELEY HEIGHTS, TOWNSHIP OF | 340459 | 02-MAY-2001 | 01-02-0764A | 02
02 | NJ | BOONTON, TOWNSHIP OF | 3403360010C | 09-MAY-2001 | 01-02-0608A | 02
02 | NJ | CAMDEN, CITY OF | 3401280003B | 27-APR-2001 | 01-02-0526A | 01
02 | NJ | CHATHAM, TOWNSHIP OF | 3405040004B | 06-JUN-2001 | 01-02-0772A | 02
02 | NJ | CINNAMINSON, TOWNSHIP OF | 3400920005B | 02-JAN-2001 | 01-02-0166A | 02
02 | NJ | COLLINGSWOOD, BOROUGH OF | 3401310005B | 16-MAY-2001 | 01-02-0380A | 02
02 | NJ | EDISON, TOWNSHIP OF | 3402610006C | 21-MAR-2001 | 01-02-0044A | 02
02 | NJ | EVESHAM, TOWNSHIP OF | 3400970005C | 31-JAN-2001 | 00-02-1142A | 02
02 | NJ | EWING, TOWNSHIP OF | 3452940003D | 20-JUN-2001 | 01-02-0756A | 02
02 | NJ | FAIRFIELD, BOROUGH OF | 3452950003C | 10-JAN-2001 | 01-02-0122A | 02
02 | NJ | FAIRFIELD, BOROUGH OF | 3452950003C | 23-MAY-2001 | 01-02-0790A | 02
02 | NJ | HACKENSACK MEADOWLANDS COMMISSION | 34003C0262F | 04-MAY-2001 | 01-02-0708A | 02
02 | NJ | HAMILTON, TOWNSHIP OF | 3402460015C | 21-FEB-2001 | 01-02-0302A | 02
02 | NJ | HAMILTON, TOWNSHIP OF | 3402460015C | 20-APR-2001 | 01-02-0502A | 02
02 | NJ | HAMILTON, TOWNSHIP OF | 3402460015C | 20-APR-2001 | 01-02-0216A | 02
02 | NJ | HAMILTON, TOWNSHIP OF | 3202460015C | 25-APR-2001 | 01-02-0712A | 02
02 | NJ | HAMILTON, TOWNSHIP OF | 3402460015C | 13-JUN-2001 | 01-02-0958A | 02
02 | NJ | HARRINGTON PARK, BOROUGH OF | 34003C0113F | 04-MAY-2001 | 01-02-0672A | 02
02 | NJ | HAZLET, TOWNSHIP OF | 3402980002B | 11-APR-2001 | 01-02-0064A | 02
02 | NJ | HILLSBOROUGH, TOWNSHIP OF | 3404360010B | 27-JUN-2001 | 01-02-0754A | 02
02 | NJ | HILLSIDE, TOWNSHIP OF | 3403650001B | 09-MAY-2001 | 01-02-0742A | 02
02 | NJ | HOWELL, TOWNSHIP OF | 3403010010B | 01-JUN-2001 | 01-02-0740A | 01
02 | NJ | LACEY, TOWNSHIP OF | 340376A | 20-APR-2001 | 01-02-0760A | 02
02 | NJ | LITTLE SILVER, BOROUGH OF | 3403050002C | 09-MAY-2001 | 01-02-0670A | 02
02 | NJ | MAHWAH, TOWNSHIP OF | 34003C0066F | 02-JAN-2001 | 01-02-0114A | 02
02 | NJ | MANASQUAN, BOROUGH OF | 3453030001C | 11-MAY-2001 | 01-02-0684A | 02
02 | NJ | MANASQUAN, BOROUGH OF | 3453030001C | 27-JUN-2001 | 01-02-0892A | 02
02 | NJ | MONROE, TOWNSHIP OF | 3402690003C | 27-APR-2001 | 01-02-0378A | 02
02 | NJ | MONTAGUE, TOWNSHIP OF | 3405590020B | 09-MAR-2001 | 00-02-0924A | 02
02 | NJ | MONTVALE, BOROUGH OF | 34003C0091F | 11-APR-2001 | 01-02-0338A | 02
02 | NJ | MORRIS, TOWNSHIP OF | 3403500002B | 11-MAY-2001 | 01-02-0758A | 02
02 | NJ | MOUNTAINSIDE, BOROUGH OF | 3404680001A | 06-APR-2001 | 01-02-0058A | 02
02 | NJ | NEPTUNE, TOWNSHIP OF | 3403170003C | 11-APR-2001 | 01-02-0606A | 02
02 | NJ | NEPTUNE, TOWNSHIP OF | 3403170003C | 27-JUN-2001 | 01-02-1020A | 02
02 | NJ | NUTLEY,TOWN OF | 3401910001C | 30-MAR-2001 | 01-02-0150A | 02
02 | NJ | OAKLAND, BOROUGH OF | 34003C0061F | 11-MAY-2001 | 01-02-0698A | 02
02 | NJ | OAKLAND, BOROUGH OF | 34003C0061F | 13-JUN-2001 | 01-02-0988X | 02
02 | NJ | OAKLAND, BOROUGH OF | 34003C0061F | 22-JUN-2001 | 01-02-1050X | 02
02 | NJ | OLD BRIDGE, TOWN OF | 3402650004D | 18-MAY-2001 | 01-02-0532A | 02
02 | NJ | OLD BRIDGE, TOWN OF | 3402650004D | 18-MAY-2001 | 01-02-0534A | 02
02 | NJ | OLD BRIDGE, TOWN OF | 3402650004D | 18-MAY-2001 | 01-02-0414A | 02
02 | NJ | PALMYRA, BOROUGH OF | 3401100001C | 21-MAR-2001 | 01-02-0428A | 01
02 | NJ | PALMYRA, BOROUGH OF | 3401100001C | 06-APR-2001 | 01-02-0450A | 01
02 | NJ | PALMYRA, BOROUGH OF | 3401100001C | 20-JUN-2001 | 01-02-0704A | 01
02 | NJ | PARAMUS, BOROUGHS OF | 34003C0177F | 25-APR-2001 | 01-02-0258A | 17
02 | NJ | PARAMUS, BOROUGHS OF | 34003C0178F | 25-APR-2001 | 01-02-0050A | 01
02 | NJ | PARSIPPANY-TROY HILLS, TOWNSHIP OF | 3403550003B | 15-FEB-2001 | 01-02-0084A | 02
02 | NJ | PATERSON, CITY OF | 3404040001A | 18-APR-2001 | 01-02-0320A | 17
02 | NJ | PATERSON, CITY OF | 3404040001A | 08-JUN-2001 | 01-02-0834A | 02
02 | NJ | PATERSON, CITY OF | 3404040001A | 20-JUN-2001 | 01-02-1026X | 02
02 | NJ | PAULSBORO, BOROUGH OF | 3402100001B | 16-FEB-2001 | 01-02-0392A | 02
02 | NJ | PEQUANNOCK, TOWNSHIP OF | 3453110001C | 12-JAN-2001 | 01-02-0162A | 02
02 | NJ | PEQUANNOCK, TOWNSHIP OF | 3453110003C | 12-JAN-2001 | 01-02-0148A | 02
02 | NJ | PEQUANNOCK, TOWNSHIP OF | 3453110001C | 20-APR-2001 | 01-02-0680A | 02
02 | NJ | PEQUANNOCK, TOWNSHIP OF | 3453110003C | 20-APR-2001 | 01-02-0652A | 02
02 | NJ | PLUMSTED, TOWNSHIP OF | 3403860020B | 16-MAY-2001 | 01-02-0778A | 02
02 | NJ | POINT PLEASANT BEACH, BOROUGH OF | 3403880001D | 26-JAN-2001 | 01-02-0202A | 02
02 | NJ | POINT PLEASANT BEACH, BOROUGH OF | 3403880001D | 09-FEB-2001 | 01-02-0446X | 02
02 | NJ | POINT PLEASANT BEACH, BOROUGH OF | 3403880001D | 25-APR-2001 | 01-02-0562A | 02
02 | NJ | POINT PLEASANT, BOROUGH OF | 3453130001B | 18-MAY-2001 | 01-02-0360A | 02
02 | NJ | SCOTCH PLAINS, TOWNSHIP OF | 3404740005C | 16-MAY-2001 | 01-02-0388A | 02
02 | NJ | SEASIDE PARK, BOROUGH OF | 3453190001D | 16-MAY-2001 | 01-02-0766A | 02
02 | NJ | SPOTSWOOD, BOROUGH OF | 3402820001D | 21-FEB-2001 | 01-02-0410A | 02
02 | NJ | SPOTSWOOD, BOROUGH OF | 3402820001D | 11-MAY-2001 | 01-02-0710A | 02
02 | NJ | STAFFORD, TOWNSHIP OF | 3403930009B | 15-JUN-2001 | 01-02-0648A | 02
02 | NJ | SUMMIT, CITY OF | 3404760001A | 11-APR-2001 | 01-02-0278A | 02
02 | NJ | UPPER SADDLE RIVER, BOROUGH OF | 34003C0078G | 04-MAY-2001 | 01-02-0714A | 17
02 | NJ | UPPER, TOWNSHIP OF | 3401590014C | 23-MAY-2001 | 01-02-0716A | 02
02 | NJ | VERNON, TOWNSHIP OF | 3405610035A | 25-APR-2001 | 01-02-0352A | 02
02 | NJ | VINELAND, CITY OF | 3401760020B | 16-MAY-2001 | 01-02-0274A | 02
02 | NJ | WARREN, TOWNSHIP OF | 3404460002A | 27-JUN-2001 | 01-02-0978A | 02
02 | NJ | WEST MILFORD, TOWNSHIP OF | 3404110009B | 18-MAY-2001 | 01-02-0666A | 02
02 | NJ | WEST ORANGE, TOWN OF | 3401970005B | 25-APR-2001 | 01-02-0422A | 02
02 | NJ | WESTFIELD, TOWN OF | 3404780001B | 24-JAN-2001 | 01-02-0046A | 02
02 | NJ | WINSLOW, TOWNSHIP OF | 3401480013B | 13-APR-2001 | 01-02-0452A | 02
02 | NY | ALMOND, VILLAGE OF | 3600210001B | 27-JUN-2001 | 01-02-0968A | 02
02 | NY | AMHERST, TOWN OF | 3602260007E | 07-MAR-2001 | 01-02-0434A | 02
02 | NY | AMHERST, TOWN OF | 3602260002E | 09-MAR-2001 | 01-02-0328A | 02
02 | NY | AMHERST, TOWN OF | 3602260006E | 21-MAR-2001 | 01-02-0048A | 02
02 | NY | AMHERST, TOWN OF | 3602260002E | 06-APR-2001 | 01-02-0674A | 02
02 | NY | AMHERST, TOWN OF | 3602260007E | 11-APR-2001 | 01-02-0574A | 02
02 | NY | AMHERST, TOWN OF | 3602260007E | 11-APR-2001 | 01-02-0576A | 02
02 | NY | AMHERST, TOWN OF | 3602260004D | 11-APR-2001 | 01-02-0602A | 02
02 | NY | AMHERST, TOWN OF | 3602260004D | 13-APR-2001 | 01-02-0568A | 02
02 | NY | AMHERST, TOWN OF | 3602260004D | 13-APR-2001 | 01-02-0580A | 02
02 | NY | AMHERST, TOWN OF | 3602260007E | 18-APR-2001 | 01-02-0584A | 02
02 | NY | AMHERST, TOWN OF | 3602260007E | 18-APR-2001 | 01-02-0592A | 02
02 | NY | AMHERST, TOWN OF | 3602260004D | 18-APR-2001 | 01-02-0594A | 02
02 | NY | AMHERST, TOWN OF | 3602260004D | 18-APR-2001 | 01-02-0596A | 02
02 | NY | AMHERST, TOWN OF | 3602260004D | 20-APR-2001 | 01-02-0448A | 02
02 | NY | AMHERST, TOWN OF | 3602260007E | 20-APR-2001 | 01-02-0572A | 02
02 | NY | AMHERST, TOWN OF | 3602260007E | 20-APR-2001 | 01-02-0586A | 02
02 | NY | AMHERST, TOWN OF | 3602260007E | 20-APR-2001 | 01-02-0590A | 02
02 | NY | AMHERST, TOWN OF | 3602260007E | 25-APR-2001 | 01-02-0570A | 02
02 | NY | AMHERST, TOWN OF | 3602260007E | 25-APR-2001 | 01-02-0578A | 02
02 | NY | AMHERST, TOWN OF | 3602260007E | 25-APR-2001 | 01-02-0582A | 02
02 | NY | AMHERST, TOWN OF | 3602260007E | 25-APR-2001 | 01-02-0588A | 02
02 | NY | AMHERST, TOWN OF | 3602260003E | 09-MAY-2001 | 01-02-0130A | 02
02 | NY | AMHERST, TOWN OF | 3602260004D | 11-MAY-2001 | 01-02-0598A | 02
02 | NY | AMHERST, TOWN OF | 3602260007E | 16-MAY-2001 | 01-02-0484A | 02
02 | NY | AMHERST, TOWN OF | 3602260004D | 16-MAY-2001 | 01-02-0600A | 02
02 | NY | AMHERST, TOWN OF | 3602260004D | 06-JUN-2001 | 01-02-0794A | 02
02 | NY | AMHERST, TOWN OF | 3602260007A | 20-JUN-2001 | 01-02-0768A | 02
02 | NY | AMHERST, TOWN OF | 3602260009E | 27-JUN-2001 | 01-02-0994A | 02
02 | NY | AMHERST, TOWN OF | 3602260007E | 27-JUN-2001 | 01-02-0960A | 02
02 | NY | AMHERST, TOWN OF | 3602260007E | 27-JUN-2001 | 01-02-0962A | 02
02 | NY | AMHERST, TOWN OF | 3602260007E | 12-JAN-2001 | 01-02-0176A | 01
02 | NY | BATAVIA, CITY OF | 3602790001B | 07-MAR-2001 | 01-02-0462A | 02
02 | NY | BEEKMAN, TOWN OF | 3613330011C | 02-MAR-2001 | 01-02-0112A | 02
02 | NY | BELLMONT, TOWN OF | 361392A | 28-FEB-2001 | 01-02-0212A | 02
02 | NY | BELLMONT, TOWN OF | 361392A | 28-FEB-2001 | 01-02-0214A | 02
02 | NY | BLOOMING GROVE, TOWN OF | 3606080005B | 28-FEB-2001 | 01-02-0332A | 02
02 | NY | BROOKHAVEN,TOWN OF | 36103C0761G | 23-MAY-2001 | 01-02-0900A | 02
02 | NY | BUFFALO, CITY OF | 3602300010C | 19-JAN-2001 | 00-02-1336A | 02
02 | NY | BUFFALO, CITY OF | 3602300010C | 19-JAN-2001 | 00-02-1340A | 02
02 | NY | BUFFALO, CITY OF | 3602300010C | 26-JAN-2001 | 00-02-1338A | 02
02 | NY | BUFFALO, CITY OF | 3602300010B | 09-MAR-2001 | 01-02-0432A | 02
02 | NY | BUFFALO, CITY OF | 3602300010C | 20-APR-2001 | 01-02-0690A | 02
02 | NY | CAMDEN, TOWN OF | 3605230082D | 06-JUN-2001 | 01-02-0906A | 02
02 | NY | CAMILLUS, TOWN OF | 3605700004D | 10-JAN-2001 | 00-02-0798A | 02
02 | NY | CAMILLUS, TOWN OF | 3605700009D | 17-JAN-2001 | 01-02-0088A | 02
02 | NY | CANADICE, TOWN OF | 3612970007B | 05-APR-2001 | 01-02-0622A | 02
02 | NY | CHAUTAUQUA, TOWN OF | 3610710035A | 20-APR-2001 | 01-02-0528A | 02
02 | NY | CHAUTAUQUA, TOWN OF | 3610710013A | 30-MAY-2001 | 01-02-0940A | 02
02 | NY | CHERRY VALLEY, TOWN OF | 361269B | 06-JUN-2001 | 01-02-0260A | 02
02 | NY | CHESTER, TOWN OF | 360609A | 30-MAR-2001 | 01-02-0344A | 02
02 | NY | CHESTER, VILLAGE OF | 3615410001B | 04-MAY-2001 | 01-02-0846A | 02
02 | NY | CICERO, TOWN OF | 3605720005D | 17-JAN-2001 | 01-02-0348A | 02
02 | NY | CICERO, TOWN OF | 3605720006D | 31-JAN-2001 | 01-02-0272A | 02
02 | NY | CICERO, TOWN OF | 3605720003D | 28-FEB-2001 | 01-02-0262A | 02
02 | NY | CICERO, TOWN OF | 3605720008D | 14-MAR-2001 | 01-02-0362A | 02
02 | NY | CICERO, TOWN OF | 3605720009D | 18-APR-2001 | 01-02-0546A | 02
02 | NY | CICERO, TOWN OF | 3605720006D | 18-APR-2001 | 01-02-0530A | 02
02 | NY | CICERO, TOWN OF | 3605720015D | 18-MAY-2001 | 01-02-0738A | 02
02 | NY | CICERO, TOWN OF | 3605720006D | 18-MAY-2001 | 01-02-0724A | 02
02 | NY | CICERO, TOWN OF | 3605720005D | 23-MAY-2001 | 01-02-0824A | 02
02 | NY | CICERO, TOWN OF | 3605720004D | 06-JUN-2001 | 01-02-0832A | 02
02 | NY | CLARENCE, TOWN OF | 3602320011C | 31-JAN-2001 | 01-02-0304A | 17
02 | NY | CLARENCE, TOWN OF | 3602320013C | 17-JAN-2001 | 01-02-0140A | 02
02 | NY | CLARENCE, TOWN OF | 3602320005C | 24-JAN-2001 | 01-02-0326A | 02
02 | NY | CLARENCE, TOWN OF | 3602320005C | 24-JAN-2001 | 01-02-0102A | 02
02 | NY | CLARENCE, TOWN OF | 3602320005C | 31-JAN-2001 | 01-02-0196A | 02
02 | NY | CLARENCE, TOWN OF | 3602320005C | 07-FEB-2001 | 01-02-0306A | 02
02 | NY | CLARENCE, TOWN OF | 3602320010C | 07-MAR-2001 | 01-02-0384A | 02
02 | NY | CLARENCE, TOWN OF | 3602320005C | 21-MAR-2001 | 01-02-0470A | 02
02 | NY | CLARENCE, TOWN OF | 3602320005C | 21-MAR-2001 | 01-02-0466A | 02
02 | NY | CLARENCE, TOWN OF | 3602320005C | 21-MAR-2001 | 01-02-0408A | 02
02 | NY | CLARENCE, TOWN OF | 3602320005C | 04-APR-2001 | 01-02-0610A | 02
02 | NY | CLARENCE, TOWN OF | 3602320011C | 06-APR-2001 | 01-02-0556A | 02
02 | NY | CLARENCE, TOWN OF | 3602320011C | 20-APR-2001 | 01-02-0696A | 02
02 | NY | CLARENCE, TOWN OF | 3602320011C | 20-JUN-2001 | 01-02-0816A | 02
02 | NY | CLARENCE, TOWN OF | 3602320013C | 27-JUN-2001 | 01-02-0970A | 02
02 | NY | CLARENCE, TOWN OF | 3602320013C | 30-MAR-2001 | 00-02-1156A | 01
02 | NY | CLARENCE, TOWN OF | 3602320013C | 16-MAY-2001 | 01-02-0624A | 01
02 | NY | CLARKSTOWN, TOWN OF | 3606790014E | 24-JAN-2001 | 01-02-0250A | 02
02 | NY | CLARKSTOWN, TOWN OF | 3606790004E | 07-MAR-2001 | 01-02-0170A | 02
02 | NY | CLARKSTOWN, TOWN OF | 3606790004E | 16-MAR-2001 | 01-02-0402A | 02
02 | NY | CLARKSTOWN, TOWN OF | 3606790004E | 21-MAR-2001 | 01-02-0354A | 02
02 | NY | CLARKSTOWN, TOWN OF | 3606790004E | 11-APR-2001 | 01-02-0204A | 02
02 | NY | CLARKSTOWN, TOWN OF | 3606790008E | 18-APR-2001 | 01-02-0406A | 02
02 | NY | CLARKSTOWN, TOWN OF | 3606790004E | 20-APR-2001 | 01-02-0280A | 02
02 | NY | CLARKSTOWN, TOWN OF | 3606790004E | 18-MAY-2001 | 01-02-0820A | 02
02 | NY | CLARKSTOWN, TOWN OF | 3606790008E | 18-MAY-2001 | 01-02-0802A | 02
02 | NY | CLARKSTOWN, TOWN OF | 3606790008E | 18-MAY-2001 | 01-02-0804A | 02
02 | NY | CLARKSTOWN, TOWN OF | 3606790008E | 18-MAY-2001 | 01-02-0806A | 02
02 | NY | CLARKSTOWN, TOWN OF | 3606790010E | 27-JUN-2001 | 01-02-0676A | 02
02 | NY | CLARKSTOWN, TOWN OF | 3606790014E | 04-APR-2001 | 01-02-0494A | 01
02 | NY | CLARKSTOWN, TOWN OF | 3606790014E | 13-JUN-2001 | 01-02-0928A | 01
02 | NY | CONKLIN, TOWN OF | 3600420005C | 19-JAN-2001 | 00-02-1290A | 02
02 | NY | CONKLIN, TOWN OF | 3600420005C | 27-APR-2001 | 01-02-0464A | 02
02 | NY | COPAKE, TOWN OF | 360174B | 20-JUN-2001 | 01-02-0744A | 02
02 | NY | CORTLAND, CITY OF | 3601780001C | 10-JAN-2001 | 01-02-0190A | 02
02 | NY | CORTLAND, CITY OF | 3601780001C | 07-FEB-2001 | 01-02-0188A | 02
02 | NY | CORTLANDT, TOWN OF | 3609060005B | 14-MAR-2001 | 01-02-0236A | 02
02 | NY | CORTLANDT, TOWN OF | 3609060005B | 06-APR-2001 | 00-02-0960A | 02
02 | NY | COXSACKIE, VILLAGE OF | 3602880001C | 17-JAN-2001 | 01-02-0192A | 02
02 | NY | DANSVILLE, VILLAGE OF | 3603830001A | 11-APR-2001 | 01-02-0198A | 02
02 | NY | DARIEN, TOWN OF | 361140A | 02-MAY-2001 | 01-02-0458A | 02
02 | NY | DOVER, TOWN OF | 3613350008A | 02-MAR-2001 | 01-02-0318A | 02
02 | NY | DUNKIRK, CITY OF | 3601370005B | 02-JAN-2001 | 00-02-1012A | 02
02 | NY | EAST OTTO, TOWN OF | 360067B | 06-JUN-2001 | 01-02-0896A | 02
02 | NY | EAST ROCKAWAY, VILLAGE OF | 36059C0218F | 23-MAR-2001 | 01-02-0620A | 02
02 | NY | ELLENBURG, TOWN OF | 361382A | 30-MAR-2001 | 01-02-0628A | 02
02 | NY | ERWIN, TOWN OF | 3607740015B | 18-APR-2001 | 01-02-0650A | 17
02 | NY | FORT ANN, TOWN OF | 3612310050B | 02-MAY-2001 | 00-02-1262A | 02
02 | NY | FOWLER, TOWN OF | 3606980005B | 27-APR-2001 | 01-02-0314A | 02
02 | NY | FOWLER, TOWN OF | 3606980015B | 16-MAY-2001 | 01-02-0218A | 02
02 | NY | FRANKFORT, TOWN OF | 3603030010D | 20-JUN-2001 | 01-02-0964A | 02
02 | NY | FRANKFORT, VILLAGE OF | 3603040001C | 16-MAR-2001 | 01-02-0252A | 02
02 | NY | GLENVILLE,TOWN OF | 3607380041B | 07-MAR-2001 | 00-02-0950A | 02
02 | NY | GLENVILLE,TOWN OF | 3607380041B | 20-APR-2001 | 01-02-0630A | 02
02 | NY | GLENVILLE,TOWN OF | 3607380041B | 23-MAY-2001 | 01-02-0658X | 02
02 | NY | GRANVILLE, TOWN OF | 361232A | 14-FEB-2001 | 01-02-0096A | 02
02 | NY | GRANVILLE, TOWN OF | 361232A | 04-APR-2001 | 01-02-0552A | 02
02 | NY | GREECE, TOWN OF | 3604170006E | 04-APR-2001 | 01-02-0368A | 17
02 | NY | GREECE, TOWN OF | 3604170004E | 02-MAR-2001 | 01-02-0322A | 01
02 | NY | GREECE, TOWN OF | 3604170004E | 25-APR-2001 | 01-02-0800A | 01
02 | NY | GREIG, TOWN OF | 360365B | 19-JAN-2001 | 00-02-0452A | 02
02 | NY | GREIG, TOWN OF | 360365B | 28-MAR-2001 | 01-02-0520A | 02
02 | NY | GROVELAND, TOWN OF | 3603850005C | 11-APR-2001 | 01-02-0626A | 02
02 | NY | HENRIETTA, TOWN OF | 3604190005E | 05-JAN-2001 | 00-02-1056A | 02
02 | NY | HENRIETTA, TOWN OF | 3604190005E | 11-MAY-2001 | 01-02-0518A | 02
02 | NY | HORNELLSVILLE, TOWN OF | 3607770010B | 30-MAR-2001 | 00-02-0612A | 01
02 | NY | HORSEHEADS, TOWN OF | 3601530005C | 09-FEB-2001 | 01-02-0282A | 17
02 | NY | HUNTINGTON, TOWN OF | 36103C0602G | 13-JUN-2001 | 01-02-0838A | 02
02 | NY | IRONDEQUOIT, TOWN OF | 3604220005B | 16-MAR-2001 | 00-02-1268A | 02
02 | NY | JAY, TOWN OF | 3602650030C | 27-JUN-2001 | 01-02-0910A | 02
02 | NY | JERUSALEM, TOWN OF | 360959C | 27-APR-2001 | 01-02-0786A | 02
02 | NY | LAGRANGE, TOWN OF | 3610110005D | 04-APR-2001 | 01-02-0560A | 02
02 | NY | LANCASTER, TOWN OF | 3602490001C | 25-FEB-2001 | 01-02-0678V | 19
02 | NY | LANCASTER, TOWN OF | 3602490002C | 25-FEB-2001 | 01-02-0678V | 19
02 | NY | LE ROY, TOWN OF | 3602800003B | 07-FEB-2001 | 01-02-0270A | 02
02 | NY | LE ROY, TOWN OF | 3602800002B | 21-FEB-2001 | 00-02-0978A | 02
02 | NY | LLOYD, TOWN OF | 3610120003D | 14-MAR-2001 | 01-02-0126A | 02
02 | NY | LOCKPORT, TOWN OF | 3610130005B | 21-FEB-2001 | 00-02-0832A | 02
02 | NY | LYME, TOWN OF | 3603430050C | 16-MAR-2001 | 01-02-0254A | 02
02 | NY | MALTA, TOWN OF | 36091C0444E | 09-MAY-2001 | 01-02-0734A | 02
02 | NY | MANCHESTER, VILLAGE OF | 3610140001B | 02-MAR-2001 | 00-02-0954A | 02
02 | NY | MANCHESTER, VILLAGE OF | 361014B | 16-MAR-2001 | 00-02-0952A | 02
02 | NY | MANLIUS, TOWN OF | 3605840010D | 09-MAR-2001 | 01-02-0416A | 02
02 | NY | MANLIUS, VILLAGE OF | 3609770005C | 14-MAR-2001 | 01-02-0420A | 02
02 | NY | MOHAWK, VILLAGE OF | 3603140001C | 23-FEB-2001 | 00-02-019P | 05
02 | NY | MONTGOMERY, TOWN OF | 3606230012B | 10-JAN-2001 | 01-02-0172A | 02
02 | NY | MORAVIA, TOWN OF | 360117B | 17-JAN-2001 | 01-02-0174A | 02
02 | NY | NEW LEBANON, TOWN OF | 360176C | 06-APR-2001 | 01-02-0424A | 02
02 | NY | NEW PALTZ, TOWN OF | 3608590005D | 10-JAN-2001 | 01-02-0208A | 02
02 | NY | NEW YORK, CITY OF | 3604970082E | 21-MAY-2001 | 01-02-0950V | 19
02 | NY | NEW YORK, CITY OF | 3604970124E | 21-MAY-2001 | 01-02-0950V | 19
02 | NY | NEW YORK, CITY OF | 3604970125E | 21-MAY-2001 | 01-02-0950V | 19
02 | NY | NEW YORK, CITY OF | 3604970126E | 21-MAY-2001 | 01-02-0950V | 19
02 | NY | NEW YORK, CITY OF | 3604970129E | 21-MAY-2001 | 01-02-0950V | 19
02 | NY | NEW YORK, CITY OF | 3604970130E | 21-MAY-2001 | 01-02-0950V | 19
02 | NY | NEW YORK, CITY OF | 3604970131E | 21-MAY-2001 | 01-02-0950V | 19
02 | NY | NEW YORK, CITY OF | 3604970134E | 21-MAY-2001 | 01-02-0950V | 19
02 | NY | NEW YORK, CITY OF | 3604970136E | 21-MAY-2001 | 01-02-0950V | 19
02 | NY | NEW YORK, CITY OF | 3604970137E | 21-MAY-2001 | 01-02-0950V | 19
02 | NY | NEW YORK, CITY OF | 3604970138E | 21-MAY-2001 | 01-02-0950V | 19
02 | NY | NEW YORK, CITY OF | 3604970139E | 21-MAY-2001 | 01-02-0950V | 19
02 | NY | NEW YORK, CITY OF | 3604970144E | 21-MAY-2001 | 01-02-0950V | 19
02 | NY | NEW YORK, CITY OF | 3604970145E | 21-MAY-2001 | 01-02-0950V | 19
02 | NY | NEW YORK, CITY OF | 3604970146E | 21-MAY-2001 | 01-02-0950V | 19
02 | NY | NEW YORK, CITY OF | 3604970148E | 21-MAY-2001 | 01-02-0950V | 19
02 | NY | NEW YORK, CITY OF | 3604970149E | 21-MAY-2001 | 01-02-0950V | 19
02 | NY | NEW YORK, CITY OF | 3604970150E | 21-MAY-2001 | 01-02-0950V | 19
02 | NY | NEW YORK, CITY OF | 3604970114D | 02-JAN-2001 | 01-02-0264A | 02
02 | NY | NEW YORK, CITY OF | 3604970125D | 02-JAN-2001 | 01-02-0052A | 02
02 | NY | NEW YORK, CITY OF | 3604970104C | 05-JAN-2001 | 00-02-1164A | 02
02 | NY | NEW YORK, CITY OF | 3604970081C | 09-JAN-2001 | 00-02-1396A | 02
02 | NY | NEW YORK, CITY OF | 3604970092C | 09-JAN-2001 | 00-02-1050A | 02
02 | NY | NEW YORK, CITY OF | 3604970082C | 10-JAN-2001 | 01-02-0268A | 02
02 | NY | NEW YORK, CITY OF | 3604970081C | 10-JAN-2001 | 01-02-0094A | 02
02 | NY | NEW YORK, CITY OF | 3604970082C | 17-JAN-2001 | 01-02-0284A | 02
02 | NY | NEW YORK, CITY OF | 3604970115B | 19-JAN-2001 | 01-02-0276A | 02
02 | NY | NEW YORK, CITY OF | 3604970092C | 24-JAN-2001 | 01-02-0066A | 02
02 | NY | NEW YORK, CITY OF | 3604970140E | 24-JAN-2001 | 00-02-1398A | 02
02 | NY | NEW YORK, CITY OF | 3604970126B | 31-JAN-2001 | 01-02-0366X | 02
02 | NY | NEW YORK, CITY OF | 3604970128D | 07-FEB-2001 | 01-02-0350A | 02
02 | NY | NEW YORK, CITY OF | 3604970129D | 07-FEB-2001 | 00-02-1356A | 02
02 | NY | NEW YORK, CITY OF | 3604970131C | 28-FEB-2001 | 01-02-0330A | 02
02 | NY | NEW YORK, CITY OF | 3604970125D | 28-FEB-2001 | 01-02-0312A | 02
02 | NY | NEW YORK, CITY OF | 3604970125D | 02-MAR-2001 | 01-02-0404A | 02
02 | NY | NEW YORK, CITY OF | 3604970128D | 02-MAR-2001 | 01-02-0376A | 02
02 | NY | NEW YORK, CITY OF | 3604970104C | 02-MAR-2001 | 01-02-0364A | 02
02 | NY | NEW YORK, CITY OF | 3604970092C | 02-MAR-2001 | 01-02-0356A | 02
02 | NY | NEW YORK, CITY OF | 3604970129D | 02-MAR-2001 | 01-02-0310A | 02
02 | NY | NEW YORK, CITY OF | 3604970115B | 16-MAR-2001 | 01-02-0472A | 02
02 | NY | NEW YORK, CITY OF | 3604970125D | 16-MAR-2001 | 01-02-0468A | 02
02 | NY | NEW YORK, CITY OF | 3604970082C | 16-MAR-2001 | 01-02-0440A | 02
02 | NY | NEW YORK, CITY OF | 3604970114D | 16-MAR-2001 | 01-02-0426A | 02
02 | NY | NEW YORK, CITY OF | 3604970125D | 16-MAR-2001 | 01-02-0382A | 02
02 | NY | NEW YORK, CITY OF | 3604970082C | 21-MAR-2001 | 01-02-0474A | 02
02 | NY | NEW YORK, CITY OF | 3604970082C | 21-MAR-2001 | 01-02-0476A | 02
02 | NY | NEW YORK, CITY OF | 3604970081C | 21-MAR-2001 | 00-02-1412A | 02
02 | NY | NEW YORK, CITY OF | 3604970092C | 23-MAR-2001 | 01-02-0604A | 02
02 | NY | NEW YORK, CITY OF | 2604970103B | 23-MAR-2001 | 01-02-0612A | 02
02 | NY | NEW YORK, CITY OF | 3604970128D | 23-MAR-2001 | 01-02-0396A | 02
02 | NY | NEW YORK, CITY OF | 3604970128D | 11-APR-2001 | 01-02-0726A | 02
02 | NY | NEW YORK, CITY OF | 3604970128D | 11-APR-2001 | 01-02-0496A | 02
02 | NY | NEW YORK, CITY OF | 3604970124D | 11-APR-2001 | 01-02-0442A | 02
02 | NY | NEW YORK, CITY OF | 3604970129D | 20-APR-2001 | 01-02-0718A | 02
02 | NY | NEW YORK, CITY OF | 3604970094C | 20-APR-2001 | 01-02-0720A | 02
02 | NY | NEW YORK, CITY OF | 3604970125D | 20-APR-2001 | 01-02-0478A | 02
02 | NY | NEW YORK, CITY OF | 3604970081C | 25-APR-2001 | 01-02-0646A | 02
02 | NY | NEW YORK, CITY OF | 3604970125D | 04-MAY-2001 | 01-02-0638A | 02
02 | NY | NEW YORK, CITY OF | 3604970125D | 09-MAY-2001 | 01-02-0634A | 02
02 | NY | NEW YORK, CITY OF | 3604970140E | 14-MAY-2001 | 01-02-0916A | 02
02 | NY | NEW YORK, CITY OF | 3604970140E | 16-MAY-2001 | 01-02-0942A | 02
02 | NY | NEW YORK, CITY OF | 3604970125D | 18-MAY-2001 | 01-02-0722A | 02
02 | NY | NEW YORK, CITY OF | 3604970130B | 18-MAY-2001 | 01-02-0358A | 02
02 | NY | NEW YORK, CITY OF | 3604970124D | 06-JUN-2001 | 01-02-0550A | 02
02 | NY | NEWARK VALLEY, VILLAGE OF | 3608360001B | 13-JUN-2001 | 01-02-0920A | 02
02 | NY | NEWBURGH, TOWN OF | 3606270010A | 11-APR-2001 | 01-02-0692A | 02
02 | NY | NEWSTEAD, TOWN OF | 3602510010D | 18-APR-2001 | 01-02-0522A | 02
02 | NY | NIAGARA FALLS, CITY OF | 3605060003C | 09-FEB-2001 | 01-02-0120A | 02
02 | NY | NIAGARA FALLS, CITY OF | 3605060002B | 11-APR-2001 | 01-02-0506A | 02
02 | NY | NIAGARA FALLS, CITY OF | 3605060002B | 11-APR-2001 | 01-02-0266A | 02
02 | NY | NIAGARA FALLS, CITY OF | 3605060003C | 18-APR-2001 | 01-02-0688A | 02
02 | NY | ONEIDA, CITY OF | 3604080004D | 24-FEB-2001 | 01-02-0996V | 19
02 | NY | ONEIDA, CITY OF | 3604080005D | 30-MAR-2001 | 01-02-0558A | 02
02 | NY | ONEIDA, CITY OF | 3604080005D | 20-JUN-2001 | 01-02-0662A | 02
02 | NY | ORANGETOWN, TOWN OF | 3606860002C | 30-MAR-2001 | 01-02-0668A | 02
02 | NY | OYSTER BAY, TOWN OF | 36059C0264F | 23-MAY-2001 | 01-02-0784A | 02
02 | NY | POUGHKEEPSIE, TOWN OF | 3611420005C | 04-JUN-2001 | 01-02-0060A | 17
02 | NY | POUGHKEEPSIE, TOWN OF | 3611420007C | 27-JUN-2001 | 01-02-0516A | 02
02 | NY | RIVERHEAD, TOWN OF | 36103C0479G | 28-MAR-2001 | 01-02-0498A | 02
02 | NY | RIVERHEAD, TOWN OF | 36103C0479G | 01-JUN-2001 | 01-02-0822A | 02
02 | NY | ROME, CITY OF | 3605420020B | 20-JUN-2001 | 01-02-0926A | 02
02 | NY | ROSEBOOM, TOWN OF | 361421A | 07-MAR-2001 | 01-02-0072A | 02
02 | NY | ROTTERDAM, TOWN OF | 3607400012B | 23-MAY-2001 | 01-02-0774A | 02
02 | NY | SALINA, TOWN OF | 3605910002A | 16-MAR-2001 | 01-02-0372A | 02
02 | NY | SARDINIA, TOWN OF | 3602560010B | 28-FEB-2001 | 00-02-1408A | 02
02 | NY | SCIO, TOWN OF | 3600340010C | 14-MAR-2001 | 01-02-0308A | 02
02 | NY | SCIO, TOWN OF | 3600340010C | 04-APR-2001 | 01-02-0700X | 02
02 | NY | SCOTIA, VILLAGE OF | 3607420001C | 27-JUN-2001 | 01-02-0810A | 02
02 | NY | SOUTHAMPTON, TOWN OF | 36103C0514G | 20-APR-2001 | 01-02-0460A | 02
02 | NY | SOUTHAMPTON, TOWN OF | 36103C0779G | 04-MAY-2001 | 01-02-0808A | 02
02 | NY | SOUTHOLD,TOWN OF | 36103C0166G | 20-JUN-2001 | 01-02-0840A | 02
02 | NY | SPRING VALLEY, VILLAGE OF | 3653440002C | 23-MAY-2001 | 01-02-0116A | 02
02 | NY | STONY POINT, TOWN OF | 3606930011C | 17-JAN-2001 | 00-02-0666A | 02
02 | NY | STONY POINT, TOWN OF | 3606930011C | 09-FEB-2001 | 00-02-1146A | 02
02 | NY | STONY POINT, TOWN OF | 3606930011C | 23-MAR-2001 | 01-02-0616A | 02
02 | NY | VALLEY STREAM, VILLAGE OF | 36059C0212F | 21-MAR-2001 | 01-02-0418A | 02
02 | NY | WALES, TOWN OF | 3602610004B | 07-MAR-2001 | 01-02-0300A | 02
02 | NY | WARWICK, TOWN OF | 3606360003B | 20-JUN-2001 | 01-02-0912A | 02
02 | NY | WATERFORD, TOWN OF | 36091C0691E | 06-APR-2001 | 01-02-0524A | 02
02 | NY | WATERFORD, TOWN OF | 36091C0691E | 18-APR-2001 | 01-02-0642A | 02
02 | NY | WATERTOWN, CITY OF | 3603540001E | 18-MAY-2001 | 01-02-0286A | 02
02 | NY | WATERVLIET, CITY OF | 3600160001B | 19-JAN-2001 | 00-02-1410A | 02
02 | NY | WAYNE, TOWN OF | 3607850001B | 06-JUN-2001 | 01-02-0798A | 02
02 | NY | WEBB, TOWN OF | 360321A | 09-FEB-2001 | 00-02-1316A | 02
02 | NY | WEBB, TOWN OF | 360321A | 16-MAR-2001 | 01-02-0436A | 02
02 | NY | WEBB, TOWN OF | 360321A | 27-JUN-2001 | 01-02-0770A | 02
02 | NY | WEEDSPORT, VILLAGE OF | 3601320001C | 11-APR-2001 | 01-02-0400A | 02
02 | NY | WHEATFIELD, TOWN OF | 3605130007D | 21-MAR-2001 | 01-02-0444A | 02
02 | NY | WHEATFIELD, TOWN OF | 3605130009B | 07-FEB-2001 | 00-02-1296A | 01
02 | NY | WHEATLAND, TOWN OF | 3604380005B | 17-JAN-2001 | 01-02-0242A | 02
02 | NY | WILSON, TOWN OF | 3605140020C | 06-APR-2001 | 01-02-0564A | 02
02 | NY | WOLCOTT, TOWN OF | 360901C | 20-JUN-2001 | 01-02-0694A | 02
02 | NY | YORKTOWN, TOWN OF | 3609370007C | 29-JUN-2001 | 01-02-0812A | 02
02 | PR | PUERTO RICO,COMMONWEALTH OF | 7200000049C | 06-MAR-2001 | 01-02-011P | 06
02 | PR | PUERTO RICO,COMMONWEALTH OF | 7200000177D | 12-JAN-2001 | 98-02-013P | 05
02 | PR | PUERTO RICO,COMMONWEALTH OF | 7200000021C | 21-MAY-2001 | 99-02-029P | 05
02 | PR | PUERTO RICO,COMMONWEALTH OF | 7200000046D | 05-JAN-2001 | 00-02-0616A | 02
02 | PR | PUERTO RICO,COMMONWEALTH OF | 7200000049C | 04-APR-2001 | 01-02-0454A | 02
02 | PR | PUERTO RICO,COMMONWEALTH OF | 7200000049C | 04-APR-2001 | 01-02-0456A | 02
02 | PR | PUERTO RICO,COMMONWEALTH OF | 7200000174B | 04-APR-2001 | 01-02-0002A | 02
02 | PR | PUERTO RICO,COMMONWEALTH OF | 7200000047E | 18-APR-2001 | 01-02-0656A | 02
02 | PR | PUERTO RICO,COMMONWEALTH OF | 720000047E | 23-MAY-2001 | 01-02-0750A | 02
02 | PR | PUERTO RICO,COMMONWEALTH OF | 7200000056D | 06-JUN-2001 | 01-02-0848A | 02
02 | PR | PUERTO RICO,COMMONWEALTH OF | 720000047E | 06-JUN-2001 | 01-02-0686A | 02
02 | PR | PUERTO RICO,COMMONWEALTH OF | 7200000025D | 21-JUN-2001 | 01-02-0880A | 02
02 | PR | PUERTO RICO,COMMONWEALTH OF | 7200000053D | 27-JUN-2001 | 01-02-0850A | 02
02 | PR | PUERTO RICO,COMMONWEALTH OF | 7200000053D | 29-JUN-2001 | 01-02-0858A | 02
02 | PR | PUERTO RICO,COMMONWEALTH OF | 7200000045E | 02-JAN-2001 | 00-02-1140A | 01
02 | PR | PUERTO RICO,COMMONWEALTH OF | 7200000058D | 05-JAN-2001 | 00-02-1402A | 01
02 | PR | PUERTO RICO,COMMONWEALTH OF | 7200000252C | 12-JAN-2001 | 00-02-0016A | 01
02 | PR | PUERTO RICO,COMMONWEALTH OF | 7200000177D | 26-JAN-2001 | 99-02-018A | 01
02 | PR | PUERTO RICO,COMMONWEALTH OF | 7200000134E | 31-JAN-2001 | 00-02-0350A | 01
02 | PR | PUERTO RICO,COMMONWEALTH OF | 7200000277D | 28-FEB-2001 | 00-02-1270A | 01
02 | PR | PUERTO RICO,COMMONWEALTH OF | 7200000045E | 16-MAR-2001 | 01-02-0430A | 01
02 | PR | PUERTO RICO,COMMONWEALTH OF | 7200000053D | 27-JUN-2001 | 01-02-0856A | 01
02 | PR | PUERTO RICO,COMMONWEALTH OF | 7200000219C | 29-JUN-2001 | 01-02-0854A | 01
03 | DE | ELSMERE, TOWN OF | 10003C0152G | 15-MAY-2001 | 01-03-0846A | 02
03 | DE | ELSMERE, TOWN OF | 10003C0151G | 13-JUN-2001 | 01-03-1180A | 02
03 | DE | KENT COUNTY * | 1000010075B | 26-JAN-2001 | 01-03-0102A | 02
03 | DE | KENT COUNTY * | 1000010075B | 02-MAR-2001 | 01-03-0466A | 02
03 | DE | KENT COUNTY * | 1000010075C | 27-APR-2001 | 01-03-0638A | 02
03 | DE | KENT COUNTY * | 1000010075B | 04-MAY-2001 | 01-03-0718A | 02
03 | DE | KENT COUNTY * | 1000010075B | 06-JUN-2001 | 01-03-1116A | 02
03 | DE | KENT COUNTY * | 1000010075B | 06-JUN-2001 | 01-03-1074A | 02
03 | DE | NEW CASTLE COUNTY * | 10003C0235G | 21-MAR-2001 | 01-03-0050A | 02
03 | DE | NEW CASTLE COUNTY * | 10003C0103G | 11-APR-2001 | 01-03-0722A | 02
03 | DE | NEW CASTLE COUNTY * | 10003C0230G | 20-APR-2001 | 01-03-0812A | 02
03 | DE | NEW CASTLE COUNTY * | 10003C0230G | 20-APR-2001 | 01-03-0810A | 02
03 | DE | NEW CASTLE COUNTY * | 10003C0230G | 16-MAY-2001 | 01-03-0902A | 02
03 | DE | NEW CASTLE COUNTY * | 10003C0310G | 16-MAY-2001 | 01-03-0832A | 02
03 | DE | NEW CASTLE COUNTY * | 10003C0067G | 06-JUN-2001 | 01-03-0946A | 02
03 | DE | NEW CASTLE COUNTY * | 10003C0130G | 08-JUN-2001 | 01-03-1058X | 02
03 | DE | NEW CASTLE COUNTY * | 10003C0040G | 08-JUN-2001 | 01-03-1054A | 02
03 | DE | NEW CASTLE COUNTY * | 1050850151G | 13-JUN-2001 | 01-03-0848A | 02
03 | DE | NEW CASTLE COUNTY * | 10003C0140G | 22-JUN-2001 | 01-03-1112A | 02
03 | DE | NEW CASTLE COUNTY * | 10003C0040G | 29-JUN-2001 | 01-03-1064A | 02
03 | DE | NEW CASTLE COUNTY * | 10003C0230G | 20-APR-2001 | 01-03-0814A | 01
03 | DE | NEW CASTLE COUNTY * | 10003C0230G | 20-APR-2001 | 01-03-0628A | 01
03 | DE | NEW CASTLE, CITY OF | 10003C0160G | 17-JAN-2001 | 01-03-0110A | 02
03 | DE | NEWARK,CITY OF | 10003C0110H | 09-MAR-2001 | 01-03-0448A | 02
03 | DE | SUSSEX COUNTY* | 10005C0275F | 17-JAN-2001 | 01-03-0320A | 02
03 | DE | SUSSEX COUNTY* | 10005C0100F | 26-JAN-2001 | 01-03-0318A | 02
03 | DE | SUSSEX COUNTY* | 10005C0400F | 18-APR-2001 | 01-03-0850A | 02
03 | DE | SUSSEX COUNTY* | 10005C0355G | 16-MAY-2001 | 01-03-0798A | 02
03 | DE | SUSSEX COUNTY* | 10005C0485F | 16-MAY-2001 | 01-03-0746A | 02
03 | DE | SUSSEX COUNTY* | 10005C0485F | 29-JUN-2001 | 01-03-1184A | 02
03 | MD | ANNE ARUNDEL COUNTY * | 2400080055C | 10-JAN-2001 | 00-03-2024A | 02
03 | MD | BALTIMORE COUNTY* | 2400100245E | 20-JUN-2001 | 01-03-1170A | 17
03 | MD | BALTIMORE COUNTY* | 2400100265B | 05-JAN-2001 | 01-03-0292A | 02
03 | MD | BALTIMORE COUNTY* | 2400100390B | 09-FEB-2001 | 01-03-0256A | 02
03 | MD | BALTIMORE COUNTY* | 2400100390B | 09-FEB-2001 | 01-03-0188A | 02
03 | MD | BALTIMORE COUNTY* | 2400100210B | 14-FEB-2001 | 01-03-0452A | 02
03 | MD | BALTIMORE COUNTY* | 2400100235B | 14-FEB-2001 | 01-03-0328A | 02
03 | MD | BALTIMORE COUNTY* | 2400100555B | 25-APR-2001 | 01-03-0866A | 02
03 | MD | BALTIMORE COUNTY* | 2400100455B | 13-JUN-2001 | 01-03-0768A | 02
03 | MD | BALTIMORE COUNTY* | 2400100440C | 20-JUN-2001 | 01-03-1114A | 02
03 | MD | CARROLL COUNTY * | 2400150025B | 25-MAY-2001 | 01-03-0924A | 02
03 | MD | CECIL COUNTY * | 2400190023A | 12-JAN-2001 | 01-03-0146A | 02
03 | MD | CHARLES COUNTY * | 2400890114B | 17-JAN-2001 | 01-03-0180A | 02
03 | MD | DORCHESTER COUNTY * | 2400260200A | 28-MAR-2001 | 01-03-0508A | 02
03 | MD | FREDERICK COUNTY * | 2400270180A | 15-FEB-2001 | 00-03-1840A | 17
03 | MD | FREDERICK COUNTY * | 2400270180A | 31-JAN-2001 | 00-03-2038A | 02
03 | MD | FREDERICK COUNTY * | 2400270045A | 07-MAR-2001 | 01-03-0624A | 02
03 | MD | FREDERICK COUNTY * | 2400270180A | 21-MAR-2001 | 01-03-0662A | 02
03 | MD | HARFORD COUNTY * | 24025C0232D | 17-JAN-2001 | 01-03-0360A | 02
03 | MD | HARFORD COUNTY * | 24025C0257D | 25-MAY-2001 | 01-03-1066X | 01
03 | MD | HOWARD COUNTY* | 2400440028B | 27-APR-2001 | 01-03-0686A | 02
03 | MD | MONTGOMERY COUNTY * | 2400490175C | 21-MAR-2001 | 01-03-0540A | 01
03 | MD | OXFORD TOWNSHIP OF | 2400680001A | 20-JUN-2001 | 01-03-1128A | 02
03 | MD | PRINCE GEORGES COUNTY * | 2452060050C | 28-MAR-2001 | 01-03-0666A | 02
03 | MD | QUEEN ANNES COUNTY * | 2400540053B | 21-MAR-2001 | 01-03-0682A | 02
03 | MD | QUEEN ANNES COUNTY * | 2400540059B | 18-APR-2001 | 01-03-0782A | 02
03 | MD | SOMERSET COUNTY * | 2400610125D | 02-MAR-2001 | 01-03-0458A | 02
03 | MD | SOMERSET COUNTY * | 2400610300A | 25-MAY-2001 | 01-03-0994A | 02
03 | MD | TALBOT COUNTY * | 2400660037A | 12-JAN-2001 | 01-03-0106A | 02
03 | MD | TALBOT COUNTY * | 2400660031A | 17-JAN-2001 | 01-03-0412A | 02
03 | MD | TALBOT COUNTY * | 2400660037A | 23-FEB-2001 | 01-03-0372A | 02
03 | MD | TALBOT COUNTY * | 2400660045A | 07-MAR-2001 | 01-03-0502A | 02
03 | MD | TALBOT COUNTY * | 2400660023A | 02-MAY-2001 | 01-03-0842A | 02
03 | MD | TALBOT COUNTY * | 2400660029A | 06-JUN-2001 | 01-03-1096A | 02
03 | MD | TALBOT COUNTY * | 2400660024A | 22-JUN-2001 | 01-03-1174A | 02
03 | MD | WICOMICO COUNTY * | 2400780037C | 26-JAN-2001 | 01-03-0348A | 02
03 | MD | WICOMICO COUNTY * | 2400780028C | 04-MAY-2001 | 01-03-0794A | 02
03 | PA | ABINGTON, TOWNSHIP OF | 42091C0294E | 14-MAR-2001 | 00-03-093P | 05
03 | PA | ABINGTON, TOWNSHIP OF | 42091C0401E | 16-MAR-2001 | 00-03-143P | 05
03 | PA | ALSACE, TOWNSHIP OF | 42011C0369F | 22-MAY-2001 | 01-03-1118V | 19
03 | PA | BEAR CREEK, TOWNSHIP OF | 4211360020B | 14-MAR-2001 | 01-03-0664A | 02
03 | PA | BENSALEM TOWNSHIP OF | 42017C0444F | 09-MAY-2001 | 01-03-0742A | 02
03 | PA | BERN, TOWNSHIP OF | 42011C0364E | 22-MAY-2001 | 01-03-1120V | 19
03 | PA | BETHEL, TOWNSHIP OF | 4224290020B | 23-MAY-2001 | 01-03-0802A | 01
03 | PA | BETHLEHEM, TOWNSHIP OF | 42095C0268D | 07-APR-2001 | 01-03-0878V | 19
03 | PA | BRISTOL, TOWNSHIP OF | 42017C0462F | 07-MAR-2001 | 01-03-0530A | 02
03 | PA | BRISTOL, TOWNSHIP OF | 42017C0444F | 04-APR-2001 | 01-03-0674A | 02
03 | PA | BROTHERSVALLEY, TOWNSHIP OF | 422511A | 22-JUN-2001 | 01-03-0726A | 02
03 | PA | CAMBRIDGE, TOWNSHIP OF | 4215640005C | 06-JUN-2001 | 01-03-0764A | 02
03 | PA | COAL, TOWNSHIP OF | 4219360003B | 25-MAY-2001 | 01-03-0632A | 02
03 | PA | CONEMAUGH, TOWNSHIP OF | 4220470010A | 02-MAR-2001 | 01-03-0324A | 02
03 | PA | CONEWAGO, TOWNSHIP OF | 4212480005B | 23-JAN-2001 | 01-03-0406A | 02
03 | PA | COOLBOUGH, TOWNSHIP OF | 4218860005B | 30-MAR-2001 | 01-03-0276A | 02
03 | PA | DAMACUS, TOWNSHIP OF | 4221630015A | 22-JUN-2001 | 01-03-1164A | 02
03 | PA | DELMAR, TOWNSHIP OF | 4211770005A | 22-JUN-2001 | 01-03-0900A | 02
03 | PA | EAST ALLEN, TOWNSHIP OF | 42095C0235D | 07-APR-2001 | 01-03-0876V | 19
03 | PA | EAST BRANDYWINE, TOWNSHIP OF | 42029C0169D | 11-APR-2001 | 01-03-0602A | 02
03 | PA | EAST BRANDYWINE, TOWNSHIP OF | 42029C0167D | 29-JUN-2001 | 01-03-1072A | 02
03 | PA | EAST COCALICO, TOWNSHIP OF | 4205470008C | 15-MAR-2001 | 01-03-033P | 06
03 | PA | EAST GOSHEN, TOWNSHIP OF | 42029C0218D | 09-JAN-2001 | 01-03-0148A | 02
03 | PA | EAST GOSHEN, TOWNSHIP OF | 42029C0356D | 16-MAY-2001 | 01-03-0762A | 02
03 | PA | EAST GOSHEN, TOWNSHIP OF | 42029C0218D | 27-JUN-2001 | 01-03-1206A | 02
03 | PA | EASTTOWN, TOWNSHIP OF | 42029C0236D | 15-MAY-2001 | 01-03-101P | 06
03 | PA | EASTTOWN, TOWNSHIP OF | 42029C0236D | 10-FEB-2001 | 01-03-015P | 05
03 | PA | FERGUSON, TOWNSHIP OF | 4202600005D | 11-APR-2001 | 01-03-0370A | 02
03 | PA | FORKS, TOWNSHIP OF | 42095C0276D | 07-APR-2001 | 01-03-0872V | 19
03 | PA | GREENE, TOWNSHIP OF | 4216490010C | 22-JUN-2001 | 01-03-1168A | 02
03 | PA | GREGG, TOWNSHIP OF | 4211940025B | 21-MAR-2001 | 01-03-0594A | 01
03 | PA | HAINES TOWNSHIP OF | 4202610005B | 20-JUN-2001 | 01-03-1038A | 02
03 | PA | HARRIS, TOWNSHIP OF | 4202620005B | 23-FEB-2001 | 01-03-0374A | 02
03 | PA | HEIDELBERG, TOWNSHIP OF | 4218090010C | 21-MAR-2001 | 01-03-0534A | 02
03 | PA | HILLTOWN, TOWNSHIP OF | 42017C0276F | 28-FEB-2001 | 01-03-0572A | 02
03 | PA | JEANNETTE, CITY OF | 42129C0403D | 07-MAR-2001 | 01-03-0414A | 02
03 | PA | JOHNSTOWN, CITY OF | 4202310010C | 12-JAN-2001 | 01-03-0388A | 02
03 | PA | JOHNSTOWN, CITY OF | 4202310010C | 14-FEB-2001 | 01-03-0552A | 02
03 | PA | JOHNSTOWN, CITY OF | 4202310010C | 02-MAY-2001 | 01-03-0910A | 02
03 | PA | KENNETT, TOWNSHIP OF | 42029C0482D | 21-FEB-2001 | 01-03-0536A | 02
03 | PA | KENNETT, TOWNSHIP OF | 42029C0484D | 23-MAY-2001 | 01-03-1044A | 02
03 | PA | LANCASTER, CITY OF | 4205520005B | 05-MAY-2001 | 01-03-035P | 05
03 | PA | LANCASTER, CITY OF | 4205520005B | 22-JUN-2001 | 01-03-1082A | 02
03 | PA | LEHIGH, TOWNSHIP OF | 42095C0095D | 07-APR-2001 | 01-03-0880V | 19
03 | PA | LEHIGH, TOWNSHIP OF | 42095C0115D | 07-APR-2001 | 01-03-0880V | 19
03 | PA | LEHIGH, TOWNSHIP OF | 42095C0226D | 07-APR-2001 | 01-03-0880V | 19
03 | PA | LENOX, TOWNSHIP OF | 4220860010A | 07-MAR-2001 | 01-03-0322A | 02
03 | PA | LOWER ALSACE, TOWNSHIP OF | 42011C0509E | 06-JUN-2001 | 01-03-0834A | 02
03 | PA | LOWER FREDERICK, TOWNSHIP OF | 42091C0112E | 22-JUN-2001 | 01-03-1040A | 02
03 | PA | LOWER MAKEFIELD, TOWNSHIP OF | 42017C0363F | 02-MAR-2001 | 01-03-0376A | 02
03 | PA | LOWER MAKEFIELD, TOWNSHIP OF | 42017C0454F | 23-MAR-2001 | 01-03-0712A | 02
03 | PA | LOWER MAKEFIELD, TOWNSHIP OF | 42017C0344F | 04-APR-2001 | 01-03-0750A | 02
03 | PA | LOWER MERION, TOWNSHIP OF | 42091C0432E | 17-JAN-2001 | 01-03-0258A | 02
03 | PA | LOWER MOUNT BETHEL, TOWNSHIP OF | 42095C0167D | 07-APR-2001 | 01-03-0894V | 19
03 | PA | LOWER MOUNT BETHEL, TOWNSHIP OF | 4207240015B | 24-JAN-2001 | 01-03-0378A | 02
03 | PA | LOWER NAZERETH, TOWNSHIP OF | 42095C0255D | 07-APR-2001 | 01-03-0874V | 19
03 | PA | LYNN, TOWNSHIP OF | 4218120015A | 07-FEB-2001 | 01-03-0228A | 02
03 | PA | MAIDENCREEK, TOWNSHIP OF | 42011C0367E | 20-MAY-2001 | 01-03-1123V | 19
03 | PA | MANCHESTER, TOWNSHIP OF | 4209310002B | 01-JUN-2001 | 01-03-1146A | 02
03 | PA | MANHEIM, TOWNSHIP OF | 4205560005D | 05-MAY-2001 | 01-03-035P | 05
03 | PA | MANOR, BOROUGH OF | 42129C0382D | 09-MAR-2001 | 01-03-0270A | 02
03 | PA | MARION, TOWNSHIP OF | 42011C0460E | 22-MAY-2001 | 01-03-1226V | 19
03 | PA | MATAMORAS, BOROUGH OF | 42103C0352C | 05-JAN-2001 | 01-03-0280A | 02
03 | PA | MATAMORAS, BOROUGH OF | 42103C0352C | 12-JAN-2001 | 01-03-0046 | 02
03 | PA | MATAMORAS, BOROUGH OF | 42103C0352C | 06-JUN-2001 | 01-03-1158A | 02
03 | PA | MILLHEIM, BOROUGH OF | 4202650001B | 14-MAR-2001 | 01-03-0614A | 02
03 | PA | MILLVALE, BOROUGH OF | 42003C0351F | 28-MAR-2001 | 01-03-0702A | 02
03 | PA | MUHLENBERG, TOWNSHIP OF | 42011C0364E | 22-MAY-2001 | 01-03-1124V | 19
03 | PA | MUHLENBERG, TOWNSHIP OF | 42011C0364E | 07-MAR-2001 | 01-03-0616A | 02
03 | PA | NEW BRITAIN, TOWNSHIP OF | 42017C0288F | 06-APR-2001 | 01-03-0732A | 02
03 | PA | NEW FREEDOM, BOROUGH OF | 4209320001B | 25-MAY-2001 | 01-03-1084A | 02
03 | PA | NEW HOPE, BOROUGH OF | 42017C0327F | 10-MAY-2001 | 01-03-105P | 05
03 | PA | NEWRY, BOROUGH OF | 4223330001A | 09-MAY-2001 | 01-03-0956A | 02
03 | PA | NOCKAMIXON, TOWNSHIP OF | 42017C0068F | 18-MAY-2001 | 01-03-0940A | 02
03 | PA | NORTH EAST, BOROUGH OF | 4213590001B | 11-APR-2001 | 01-03-0862A | 02
03 | PA | NORTH EAST, BOROUGH OF | 4213590001B | 18-APR-2001 | 01-03-0080A | 02
03 | PA | NORTH LONDONDERRY, TOWNSHIP OF | 4205770005B | 08-JUN-2001 | 01-03-1068A | 02
03 | PA | NORTH UNION, TOWNSHIP OF | 4216330008B | 09-JAN-2001 | 01-03-0064A | 02
03 | PA | NORTHAMPTON, BOROUGH OF | 42095C0228D | 07-APR-2001 | 01-03-0978V | 19
03 | PA | NORTHAMPTON, TOWNSHIP OF | 42017C0427F | 17-JAN-2001 | 01-03-0294A | 02
03 | PA | NORTHAMPTON, TOWNSHIP OF | 42017C0427F | 17-JAN-2001 | 01-03-0136A | 02
03 | PA | OLEY, TOWNSHIP OF | 42011C0551E | 13-JUN-2001 | 01-03-0936A | 02
03 | PA | PALO ALTO, BOROUGH OF | 420780B | 25-APR-2001 | 01-03-0698A | 01
03 | PA | PARADISE, TOWNSHIP OF | 4209340020B | 31-JAN-2001 | 01-03-0444A | 02
03 | PA | PENN, TOWNSHIP OF | 4210240005B | 20-JUN-2001 | 01-03-0610A | 02
03 | PA | PERKASIE, BOROUGH OF | 42017C0143F | 28-FEB-2001 | 01-03-0542A | 02
03 | PA | PERKASIE, BOROUGH OF | 42017C0143F | 14-MAR-2001 | 01-03-0380A | 02
03 | PA | PERKIOMEN, TOWNSHIP OF | 42091C0226E | 17-MAR-2001 | 01-03-047P | 05
03 | PA | PETERS, TOWNSHIP OF | 4221520010A | 13-APR-2001 | 01-03-0806A | 02
03 | PA | PHOENIXVILLE, BOROUGH OF | 42029C0093D | 21-FEB-2001 | 01-03-0586A | 02
03 | PA | PHOENIXVILLE, BOROUGH OF | 42029C0093D | 09-FEB-2001 | 01-03-0126A | 01
03 | PA | PITTSBURGH, CITY OF | 42003C0353F | 17-JAN-2001 | 01-03-0160A | 02
03 | PA | PITTSBURGH, CITY OF | 42003C0353F | 17-JAN-2001 | 01-03-0162A | 01
03 | PA | PLAINS, TOWNSHIP OF | 4206210005C | 12-JAN-2001 | 01-03-029P | 06
03 | PA | PLAINS, TOWNSHIP OF | 4206210005C | 21-JAN-2001 | 01-03-029P | 06
03 | PA | PORTER, TOWNSHIP OF | 420656B | 14-MAR-2001 | 01-03-0570A | 02
03 | PA | POTTSVILLE, CITY OF | 4207850001B | 23-MAR-2001 | 99-03-115P | 05
03 | PA | POTTSVILLE, CITY OF | 4207850001B | 25-APR-2001 | 01-03-0698D | 01
03 | PA | QUAKERTOWN, BOROUGH OF | 42017C0137F | 16-MAY-2001 | 01-03-0140A | 02
03 | PA | RADNOR, TOWNSHIP OF | 42015C0002D | 02-MAR-2001 | 01-03-0584A | 02
03 | PA | RADNOR, TOWNSHIP OF | 42045C0008D | 23-MAY-2001 | 01-03-0804A | 02
03 | PA | ROCKEFELLER, CITY OF | 421152B | 22-JUN-2001 | 01-03-1076A | 02
03 | PA | ROCKLAND, TOWNSHIP OF | 42011C0395E | 18-APR-2001 | 01-03-0728A | 02
03 | PA | SALFORD, TOWNSHIP OF | 42091C0109E | 26-JAN-2001 | 01-03-0460A | 17
03 | PA | SHESHEQUIN, TOWNSHIP OF | 4211020005B | 14-FEB-2001 | 01-03-0368A | 02
03 | PA | SILVER SPRING, TOWNSHIP OF | 4203700020C | 18-JUN-2001 | 01-03-1240A | 01
03 | PA | SOLEBURY, TOWNSHIP OF | 42017C0215F | 15-JUN-2001 | 01-03-0854A | 17
03 | PA | SOMERSET, BOROUGH OF | 4208030001C | 09-JAN-2001 | 00-03-2022A | 02
03 | PA | SOUTH HUNTINGDON, TOWNSHIP OF | 42129C0615D | 13-JUN-2001 | 01-03-0882A | 02
03 | PA | SPRING, TOWNSHIP OF | 42011C0501E | 25-JAN-2001 | 01-03-027P | 05
03 | PA | THORNBURY, TOWNSHIP OF | 42029C0362D | 20-JUN-2001 | 01-03-0992A | 02
03 | PA | THORNBURY, TOWNSHIP OF | 42029C0362D | 22-JUN-2001 | 01-03-0890A | 01
03 | PA | TREDYFFRIN, TOWNSHIP OF | 42029C0236D | 15-MAY-2001 | 01-03-101P | 06
03 | PA | TREDYFFRIN, TOWNSHIP OF | 42029C0236D | 10-FEB-2001 | 01-03-015P | 05
03 | PA | TULPEHOCKEN, TOWHSHIP OF | 42011C0315E | 08-JUN-2001 | 01-03-0984A | 02
03 | PA | UPPER MAKEFIELD, TOWNSHIP OF | 42017C0330F | 18-JAN-2001 | 00-03-157P | 05
03 | PA | UPPER MORELAND, TOWNSHIP OF | 42091C0312E | 27-APR-2001 | 01-03-0756A | 02
03 | PA | UPPER NAZARETH, TOWNSHIP OF | 42095C0145D | 07-APR-2001 | 01-03-0884V | 19
03 | PA | UPPER OXFORD, TOWNSHIP OF | 42029C0435D | 17-JAN-2001 | 01-03-0392A | 02
03 | PA | UPPER SOUTHAMPTON, TOWNSHIP OF | 42017C0416F | 12-JAN-2001 | 01-03-0350A | 02
03 | PA | VALLEY, TOWNSHIP OF | 42029C0301D | 01-FEB-2001 | 99-03-195P | 05
03 | PA | WARMINSTER, TOWNSHIP OF | 42017C0384F | 23-JAN-2001 | 01-03-0438A | 17
03 | PA | WARMINSTER, TOWNSHIP OF | 42017C0401F | 15-JUN-2001 | 01-03-0820A | 02
03 | PA | WARRIORS MARK, TOWNSHIP OF | 4217050010B | 15-JUN-2001 | 01-03-1106A | 02
03 | PA | WARWICK, TOWNSHIP OF | 42017C0313F | 18-APR-2001 | 01-03-0642A | 02
03 | PA | WASHINGTON, TOWNSHIP OF | 42095C0155D | 07-APR-2001 | 01-03-0886V | 19
03 | PA | WELLS, TOWNSHIP OF | 4211210005B | 25-APR-2001 | 01-03-0672A | 02
03 | PA | WEST CALN, TOWNSHIP OF | 42029C0139D | 12-JAN-2001 | 01-03-0304A | 02
03 | PA | WEST NEWTON, BOROUGH OF | 42129C0584D | 25-MAY-2001 | 01-03-0748A | 02
03 | PA | WEST PENN, TOWNSHIP OF | 4220290010A | 12-JAN-2001 | 00-03-1880A | 01
03 | PA | WEST PENN, TOWNSHIP OF | 4220290015A | 25-MAY-2001 | 01-03-0676A | 01
03 | PA | WEST VINCENT, TOWNSHIP OF | 42029C0088D | 21-MAR-2001 | 01-03-0518A | 02
03 | PA | WESTFALL, TOWNSHIP OF | 42103C0351C | 30-MAR-2001 | 01-03-0598A | 02
03 | PA | WIND GAP, BOROUGH OF | 42095C0132D | 07-APR-2001 | 01-03-0892V | 19
03 | PA | WYOMISSING, BOROUGH OF | 42011C0503E | 14-FEB-2001 | 01-03-0564A | 02
03 | PA | ZELIENOPLE, BOROUGH OF | 4202260001B | 16-MAY-2001 | 01-03-0778A | 02
03 | VA | ACCOMACK COUNTY * | 5100010115B | 14-FEB-2001 | 01-03-0560A | 02
03 | VA | ALBEMARLE COUNTY * | 5100060375B | 16-MAY-2001 | 01-03-0914A | 02
03 | VA | ARLINGTON COUNTY | 5155200017B | 18-FEB-2001 | 00-03-061P | 05
03 | VA | ARLINGTON COUNTY | 5155200002B | 22-JUN-2001 | 01-03-1262A | 02
03 | VA | AUGUSTA COUNTY * | 5100130100B | 11-MAY-2001 | 01-03-069P | 05
03 | VA | BEDFORD COUNTY * | 5100160100A | 17-JAN-2001 | 01-03-0364A | 02
03 | VA | BOTETOURT COUNTY * | 5100180150A | 31-JAN-2001 | 00-03-1950A | 01
03 | VA | BOTETOURT COUNTY * | 5100180150A | 02-MAY-2001 | 01-03-0556A | 01
03 | VA | BOTETOURT COUNTY * | 5100180150A | 02-MAY-2001 | 01-03-0958A | 01
03 | VA | BOTETOURT COUNTY * | 5100180150A | 02-MAY-2001 | 01-03-0960A | 01
03 | VA | BUCHANAN COUNTY* | 51027C0152E | 12-JAN-2001 | 01-03-021X | 05
03 | VA | CHESAPEAKE, CITY OF | 5100340002C | 23-FEB-2001 | 01-03-0400A | 02
03 | VA | CHESTERFIELD COUNTY * | 5100350049B | 28-FEB-2001 | 01-03-0456A | 02
03 | VA | CLARKE COUNTY * | 5100360012A | 13-JUN-2001 | 01-03-1110A | 02
03 | VA | EMPORIA, CITY OF | 5100470002B | 07-MAR-2001 | 01-03-0450A | 02
03 | VA | FAIRFAX COUNTY * | 5155250137D | 08-JAN-2001 | 01-03-0288A | 02
03 | VA | FAIRFAX COUNTY * | 5155250083D | 17-JAN-2001 | 01-03-0316A | 02
03 | VA | FAIRFAX COUNTY * | 5155250125D | 31-JAN-2001 | 01-03-0520A | 02
03 | VA | FAIRFAX COUNTY * | 5155250050D | 07-FEB-2001 | 01-03-0422A | 02
03 | VA | FAIRFAX COUNTY * | 5155250075D | 07-FEB-2001 | 01-03-0186A | 02
03 | VA | FAIRFAX COUNTY * | 5155250025D | 27-FEB-2001 | 01-03-0488A | 02
03 | VA | FAIRFAX COUNTY * | 5155250137D | 28-FEB-2001 | 01-03-0488A | 02
03 | VA | FAIRFAX COUNTY * | 5155250117D | 21-MAR-2001 | 01-03-0734A | 02
03 | VA | FAIRFAX COUNTY * | 5155250150D | 28-MAR-2001 | 01-03-0704A | 02
03 | VA | FAIRFAX COUNTY * | 5155250100D | 27-APR-2001 | 01-03-0784A | 02
03 | VA | FAIRFAX COUNTY * | 5155250100D | 27-APR-2001 | 01-03-0912A | 02
03 | VA | FAIRFAX COUNTY * | 5155250137D | 11-MAY-2001 | 01-03-0772A | 02
03 | VA | FAIRFAX COUNTY * | 5155250150D | 16-MAY-2001 | 01-03-0950A | 02
03 | VA | FAIRFAX COUNTY * | 5155250050D | 16-MAY-2001 | 01-03-0930A | 02
03 | VA | FAIRFAX COUNTY * | 5155250100D | 01-JUN-2001 | 01-03-1148A | 02
03 | VA | FAIRFAX COUNTY * | 5155250050D | 01-JUN-2001 | 01-03-1088A | 02
03 | VA | FALLS CHURCH, CITY OF | 5100540001B | 18-FEB-2001 | 00-03-061P | 05
03 | VA | FRANKLIN COUNTY * | 5100610250A | 23-JAN-2001 | 01-03-0382A | 02
03 | VA | FRANKLIN COUNTY * | 5100610250A | 02-FEB-2001 | 01-03-0446A | 02
03 | VA | FRANKLIN COUNTY * | 5100610210A | 09-FEB-2001 | 01-03-0524A | 02
03 | VA | FRANKLIN COUNTY * | 5100610215A | 23-MAR-2001 | 01-03-0696A | 02
03 | VA | FRANKLIN COUNTY * | 5100610100A | 04-APR-2001 | 01-03-0730A | 02
03 | VA | FRANKLIN COUNTY * | 5100610220A | 20-APR-2001 | 01-03-0858A | 02
03 | VA | FRANKLIN COUNTY * | 5100610100A | 25-APR-2001 | 01-03-0826A | 02
03 | VA | FRANKLIN COUNTY * | 5100610215A | 27-APR-2001 | 01-03-0856A | 02
03 | VA | FRANKLIN COUNTY * | 5100610330A | 04-MAY-2001 | 01-03-0980A | 02
03 | VA | FRANKLIN COUNTY * | 5100610210A | 18-MAY-2001 | 01-03-0944A | 02
03 | VA | FRANKLIN COUNTY * | 5100610210A | 25-MAY-2001 | 01-03-1104A | 02
03 | VA | FRANKLIN COUNTY * | 5100610215A | 25-MAY-2001 | 01-03-1094A | 02
03 | VA | FRANKLIN COUNTY * | 5100610215A | 25-MAY-2001 | 01-03-0868A | 02
03 | VA | FRANKLIN COUNTY * | 5100610215A | 06-JUN-2001 | 01-03-1176A | 02
03 | VA | FRANKLIN COUNTY * | 5100310100A | 13-JUN-2001 | 01-03-1178A | 02
03 | VA | FRANKLIN COUNTY * | 5100610210A | 13-JUN-2001 | 01-03-1098A | 02
03 | VA | FRANKLIN COUNTY * | 5100610250A | 13-JUN-2001 | 01-03-0760A | 02
03 | VA | HANOVER COUNTY * | 5102370320A | 20-APR-2001 | 00-03-2048A | 02
03 | VA | HANOVER COUNTY * | 5102370170A | 29-JUN-2001 | 01-03-0496A | 02
03 | VA | HANOVER COUNTY * | 5102370305A | 24-JAN-2001 | 00-03-1932A | 01
03 | VA | HENRICO COUNTY * | 5100770050B | 20-FEB-2001 | 00-03-095P | 05
03 | VA | HENRICO COUNTY * | 5100770025B | 21-MAR-2001 | 01-03-0680A | 02
03 | VA | HENRICO COUNTY * | 5100770050B | 18-APR-2001 | 01-03-0688A | 01
03 | VA | HENRICO COUNTY * | 5100770050B | 18-APR-2001 | 01-03-0860A | 01
03 | VA | HERNDON, TOWN OF | 5100520001B | 09-MAR-2001 | 01-03-0656A | 02
03 | VA | HERNDON, TOWN OF | 5100520001B | 09-MAR-2001 | 01-03-0654A | 01
03 | VA | HERNDON, TOWN OF | 5100520001B | 09-MAR-2001 | 01-03-0566A | 01
03 | VA | ISLE OF WIGHT COUNTY * | 5103030060B | 08-JUN-2001 | 01-03-0948A | 02
03 | VA | LANCASTER COUNTY* | 5100840030A | 07-FEB-2001 | 01-03-0514A | 02
03 | VA | LOUDOUN COUNTY * | 5100900110C | 07-FEB-2001 | 01-03-0386A | 02
03 | VA | LOUDOUN COUNTY * | 5100900110C | 04-MAY-2001 | 01-03-0740A | 02
03 | VA | LOUDOUN COUNTY * | 5100900120C | 16-MAY-2001 | 01-03-0864A | 02
03 | VA | LOUDOUN COUNTY * | 5100900105C | 16-MAY-2001 | 01-03-0852A | 02
03 | VA | MONTGOMERY COUNTY * | 5100990050B | 09-MAR-2001 | 01-03-0622A | 17
03 | VA | MT. CRAWFORD, TOWN OF | 5101330095B | 05-JAN-2001 | 01-03-0336A | 02
03 | VA | NARROWS, TOWN OF | 5100680001B | 09-MAY-2001 | 01-03-0954A | 02
03 | VA | NELSON COUNTY * | 5101020100A | 10-JAN-2001 | 00-03-1632A | 02
03 | VA | NEWPORT NEWS, CITY OF | 5101030007A | 19-JAN-2001 | 01-03-0440A | 02
03 | VA | NEWPORT NEWS, CITY OF | 5101030006C | 06-APR-2001 | 01-03-0830A | 02
03 | VA | NEWPORT NEWS, CITY OF | 5101030010C | 20-JUN-2001 | 01-03-1194A | 02
03 | VA | NORFOLK, CITY OF | 5101040005D | 30-MAR-2001 | 01-03-0724A | 02
03 | VA | NORTHUMBERLAND COUNTY * | 5101070018B | 05-JAN-2001 | 01-03-0356A | 02
03 | VA | PRINCE GEORGE COUNTY * | 5102040075A | 25-APR-2001 | 01-03-0498A | 02
03 | VA | PRINCE WILLIAM COUNTY * | 51153C0156D | 04-APR-2001 | 00-03-139P | 05
03 | VA | PRINCE WILLIAM COUNTY * | 51153C0116D | 27-JUN-2001 | 01-03-1212A | 02
03 | VA | PULASKI, TOWN OF | 5101260005F | 13-JUN-2001 | 01-03-1150A | 02
03 | VA | ROANOKE COUNTY * | 51161C0044D | 16-MAR-2001 | 01-03-0684A | 02
03 | VA | ROANOKE COUNTY * | 51161C0043D | 02-MAY-2001 | 01-03-0714A | 01
03 | VA | ROANOKE, CITY OF | 51161C0044D | 02-MAY-2001 | 01-03-0574A | 17
03 | VA | ROANOKE, CITY OF | 51161C0044D | 16-FEB-2001 | 01-03-0580A | 02
03 | VA | ROANOKE, CITY OF | 51161C0044D | 01-JUN-2001 | 01-03-1100A | 01
03 | VA | SHENANDOAH COUNTY * | 5101470175B | 09-MAY-2001 | 01-03-0790A | 02
03 | VA | SMITHFIELD, TOWN OF | 5100810005C | 16-MAR-2001 | 01-03-0640A | 02
03 | VA | SPOTSYLVANIA COUNTY* | 5103080175C | 21-MAR-2001 | 01-03-0532A | 02
03 | VA | TAZEWELL COUNTY * | 5101600029B | 14-FEB-2001 | 00-03-0032A | 01
03 | VA | VINTON, TOWN OF | 51161C0046D | 02-MAR-2001 | 01-03-0436A | 02
03 | VA | VIRGINIA BEACH, CITY OF | 5155310038E | 17-JAN-2001 | 01-03-0424A | 02
03 | VA | VIRGINIA BEACH, CITY OF | 5155310026E | 24-JAN-2001 | 01-03-0354A | 02
03 | VA | VIRGINIA BEACH, CITY OF | 5155310005E | 14-FEB-2001 | 01-03-0554A | 01
03 | VA | VIRGINIA BEACH, CITY OF | 5155310005E | 04-APR-2001 | 01-03-0800A | 01
03 | VA | WARREN COUNTY * | 5101660130A | 11-MAY-2001 | 01-03-0744A | 02
03 | VA | WESTMORELAND COUNTY* | 5102500025C | 04-APR-2001 | 01-03-0780A | 02
03 | VA | YORK COUNTY * | 5101820041B | 07-MAR-2001 | 01-03-0612A | 08
03 | VA | YORK COUNTY * | 5101820043B | 17-JAN-2001 | 01-03-0404A | 02
03 | WV | BOONE COUNTY * | 54005C0040B | 21-MAR-2001 | 01-03-0620A | 08
03 | WV | BOONE COUNTY * | 54005C0060C | 29-JUN-2001 | 01-03-0898A | 02
03 | WV | CHARLESTON, CITY OF | 5400730004C | 21-MAR-2001 | 01-03-0558A | 02
03 | WV | CHARLESTON, CITY OF | 5400730003C | 30-MAR-2001 | 01-03-0302A | 02
03 | WV | CHARLESTON, CITY OF | 5400730002C | 25-MAY-2001 | 01-03-0706A | 02
03 | WV | CHARLESTON, CITY OF | 5400730004C | 08-JUN-2001 | 01-03-1092A | 02
03 | WV | CLAY, COUNTY * | 54015C0010B | 29-JUN-2001 | 01-03-1140A | 02
03 | WV | DUNBAR, CITY OF | 5400760001C | 26-JAN-2001 | 01-03-0410A | 02
03 | WV | DUNBAR, CITY OF | 5400760001C | 04-MAY-2001 | 01-03-0510A | 02
03 | WV | DUNBAR, CITY OF | 5400760001C | 06-JUN-2001 | 01-03-0982A | 02
03 | WV | ELIZABETH, TOWN OF | 5402120001B | 04-APR-2001 | 01-03-0578A | 02
03 | WV | JEFFERSON COUNTY * | 5400650010B | 05-JAN-2001 | 00-03-1342A | 02
03 | WV | JEFFERSON COUNTY * | 5400650035C | 14-MAR-2001 | 01-03-0548A | 02
03 | WV | LOGAN COUNTY * | 5455360064B | 23-FEB-2001 | 01-03-0568A | 02
03 | WV | MARION COUNTY* | 5400970079C | 20-APR-2001 | 01-03-0224A | 02
03 | WV | MASON COUNTY * | 5401120280A | 09-MAR-2001 | 01-03-0538A | 02
03 | WV | MINERAL COUNTY * | 5401290019A | 09-MAY-2001 | 01-03-0512A | 17
03 | WV | MONROE COUNTY * | 5402780200B | 29-JUN-2001 | 01-03-0974A | 02
03 | WV | NEW MARTINSVILLE, CITY OF | 5402080002B | 04-MAY-2001 | 01-03-0690A | 02
03 | WV | PUTNAM COUNTY* | 5401640090B | 04-MAY-2001 | 01-03-0904A | 02
03 | WV | RALEIGH COUNTY * | 5401690095C | 23-JAN-2001 | 01-03-0442A | 02
03 | WV | ST. MARY'S, CITY OF | 54073C0030B | 23-JAN-2001 | 01-03-0310A | 02
03 | WV | WAYNE COUNTY* | 5402000107B | 16-FEB-2001 | 01-03-0298A | 02
03 | WV | WAYNE COUNTY* | 5402000129B | 02-MAR-2001 | 01-03-0432A | 02
03 | WV | WAYNE COUNTY* | 5402000136B | 09-MAR-2001 | 01-03-0492A | 02
03 | WV | WAYNE COUNTY* | 5402000125B | 04-APR-2001 | 01-03-0296A | 02
03 | WV | WAYNE COUNTY* | 5402000103B | 04-MAY-2001 | 01-03-0844A | 02
03 | WV | WAYNE COUNTY* | 5402000103B | 04-MAY-2001 | 01-03-0332A | 02
04 | AL | ALABASTER, CITY OF | 0101910100B | 06-MAR-2001 | 01-04-0360A | 01
04 | AL | AUTAUGA COUNTY * | 0103140185B | 26-MAR-2001 | 00-04-135P | 05
04 | AL | AUTAUGA COUNTY * | 0103140105B | 05-JAN-2001 | 01-04-0906A | 02
04 | AL | BIRMINGHAM, CITY OF | 01073C0329E | 20-JUN-2001 | 01-04-4536A | 02
04 | AL | BIRMINGHAM, CITY OF | 01073C0338E | 29-JUN-2001 | 01-04-4380A | 02
04 | AL | CHEROKEE COUNTY* | 0102340100B | 11-APR-2001 | 01-04-3134A | 02
04 | AL | CHEROKEE COUNTY* | 0102340125B | 02-MAY-2001 | 01-04-1978A | 02
04 | AL | COLBERT COUNTY | 0103180125B | 23-MAR-2001 | 01-04-2758A | 02
04 | AL | COLBERT COUNTY | 0103180125B | 20-APR-2001 | 01-04-3142A | 02
04 | AL | CULLMAN COUNTY * | 0102470100B | 13-APR-2001 | 01-04-2708A | 02
04 | AL | DECATUR, CITY OF | 01103C0070D | 30-MAR-2001 | 01-04-2592A | 02
04 | AL | DECATUR, CITY OF | 01103C0070D | 26-JUN-2001 | 01-04-4154A | 02
04 | AL | DECATUR, CITY OF | 01103C0070D | 30-MAY-2001 | 01-04-3266A | 01
04 | AL | DOTHAN, CITY OF | 0101040028D | 15-JUN-2001 | 01-04-4010A | 02
04 | AL | ELMORE COUNTY* | 0104060100B | 28-FEB-2001 | 01-04-1522A | 02
04 | AL | ELMORE COUNTY* | 0104060100B | 28-FEB-2001 | 01-04-0954A | 02
04 | AL | ELMORE COUNTY* | 0104060025B | 28-FEB-2001 | 01-04-0816A | 02
04 | AL | ELMORE COUNTY* | 0104060100B | 14-MAR-2001 | 01-04-2434A | 02
04 | AL | ELMORE COUNTY* | 0104060200B | 06-JUN-2001 | 01-04-4020A | 02
04 | AL | FLORENCE, CITY OF | 0101400006C | 04-MAY-2001 | 01-04-2904A | 17
04 | AL | FORT PAYNE, CITY OF | 0100670004A | 27-JUN-2001 | 01-04-2270A | 01
04 | AL | HOUSTON COUNTY * | 0100980350B | 14-FEB-2001 | 01-04-0894A | 02
04 | AL | HUEYTOWN, CITY OF | 01073C0461E | 28-FEB-2001 | 01-04-1656A | 02
04 | AL | HUNTSVILLE, CITY OF | 01089C0211D | 09-MAR-2001 | 01-04-2298A | 02
04 | AL | JEFFERSON COUNTY * | 01073C0492E | 30-MAY-2001 | 01-04-137X | 05
04 | AL | JEFFERSON COUNTY * | 01073C0282E | 31-JAN-2001 | 01-04-1328A | 02
04 | AL | JEFFERSON COUNTY * | 01073C0491E | 28-FEB-2001 | 01-04-1652A | 02
04 | AL | JEFFERSON COUNTY * | 01073C0250E | 28-FEB-2001 | 01-04-1150A | 02
04 | AL | JEFFERSON COUNTY * | 01073C0100E | 14-MAR-2001 | 01-04-2376A | 02
04 | AL | JEFFERSON COUNTY * | 01073C0491E | 21-MAR-2001 | 01-04-1638A | 02
04 | AL | JEFFERSON COUNTY * | 01073C0250E | 20-JUN-2001 | 01-04-3892A | 02
04 | AL | JEFFERSON COUNTY * | 01073C0492E | 14-FEB-2001 | 01-04-1990A | 01
04 | AL | LAUDERDALE COUNTY * | 0103230180C | 11-APR-2001 | 01-04-2812A | 02
04 | AL | LAUDERDALE COUNTY * | 0103230180C | 06-JUN-2001 | 01-04-3856A | 02
04 | AL | LAUDERDALE COUNTY * | 0103230050B | 06-JUN-2001 | 01-04-1998A | 02
04 | AL | LEE COUNTY * | 0102500125C | 29-JUN-2001 | 01-04-4142A | 02
04 | AL | LIMESTONE COUNTY * | 0103070075B | 05-JAN-2001 | 01-04-1416X | 02
04 | AL | LIMESTONE COUNTY * | 0103070100B | 21-MAR-2001 | 01-04-2428A | 02
04 | AL | MADISON COUNTY * | 01089C0211D | 17-JAN-2001 | 01-04-1002A | 02
04 | AL | MADISON COUNTY * | 01089C0211D | 24-JAN-2001 | 01-04-1608A | 02
04 | AL | MADISON COUNTY * | 01089C0211D | 11-MAY-2001 | 01-04-3562A | 02
04 | AL | MADISON COUNTY * | 01089C0025D | 01-JUN-2001 | 01-04-3274A | 02
04 | AL | MADISON COUNTY * | 01089C0025D | 06-JUN-2001 | 01-04-3608A | 02
04 | AL | MADISON, CITY OF | 01089C0284D | 07-MAR-2001 | 01-04-1210A | 02
04 | AL | MADISON, CITY OF | 01089C0284D | 04-MAY-2001 | 01-04-2782A | 02
04 | AL | MONTGOMERY COUNTY * | 01101C0135F | 06-APR-2001 | 01-04-2596A | 02
04 | AL | MONTGOMERY, CITY OF | 01101C0070F | 22-MAR-2001 | 01-04-045P | 05
04 | AL | MONTGOMERY, CITY OF | 01101C0135F | 16-MAR-2001 | 01-04-2530A | 02
04 | AL | MONTGOMERY, CITY OF | 01101C0065F | 29-JUN-2001 | 01-04-4194A | 02
04 | AL | MONTGOMERY, CITY OF | 011011C0065 | 18-MAY-2001 | 01-04-2108A | 01
04 | AL | MUSCLE SHOALS, CITY OF | 0100470005C | 09-MAY-2001 | 01-04-2710A | 02
04 | AL | OXFORD, CITY OF | 0100230004C | 24-JAN-2001 | 01-04-1540A | 02
04 | AL | OXFORD, CITY OF | 0100230004C | 14-MAR-2001 | 01-04-1660A | 02
04 | AL | PELHAM, TOWN OF | 0101830002B | 07-MAR-2001 | 01-04-2120A | 17
04 | AL | PELHAM, TOWN OF | 0101930004B | 04-MAY-2001 | 01-04-3216A | 01
04 | AL | PELHAM, TOWN OF | 0101930004B | 11-MAY-2001 | 01-04-3484A | 01
04 | AL | PIKE COUNTY* | 0102860022A | 23-MAR-2001 | 01-04-2134A | 02
04 | AL | SHELBY COUNTY* | 0101910150B | 06-APR-2001 | 01-04-2566A | 02
04 | AL | SHELBY COUNTY* | 0101910175B | 16-MAY-2001 | 01-04-3330A | 02
04 | AL | SHELBY COUNTY* | 0101910175B | 18-MAY-2001 | 01-04-3852A | 02
04 | AL | ST. CLAIR COUNTY * | 0102900350B | 24-JAN-2001 | 01-04-1326A | 02
04 | AL | ST. CLAIR COUNTY * | 0102900325B | 18-MAY-2001 | 01-04-3658A | 02
04 | AL | TALLADEGA COUNTY * | 0102970050B | 29-JUN-2001 | 01-04-4548A | 02
04 | AL | TUSCALOOSA COUNTY * | 01125C0300E | 14-MAR-2001 | 01-04-2274A | 02
04 | AL | TUSCALOOSA COUNTY * | 01125C0725E | 13-JUN-2001 | 01-04-3246A | 02
04 | AL | TUSCALOOSA, CITY OF | 01125C0545E | 30-MAR-2001 | 01-04-2128A | 17
04 | AL | TUSCALOOSA, CITY OF | 01125C0506E | 04-JAN-2001 | 01-04-1250A | 02
04 | AL | TUSCALOOSA, CITY OF | 01125C0536E | 24-JAN-2001 | 01-04-1440A | 02
04 | AL | TUSCALOOSA, CITY OF | 01125C0700E | 09-FEB-2001 | 01-04-1862A | 02
04 | AL | TUSCALOOSA, CITY OF | 01125C0700E | 09-FEB-2001 | 01-04-1862A | 02
04 | AL | TUSCALOOSA, CITY OF | 01125C0700E | 28-FEB-2001 | 01-04-2028A | 02
04 | AL | TUSCALOOSA, CITY OF | 01125C0517E | 13-APR-2001 | 01-04-2922A | 02
04 | AL | TUSCALOOSA, CITY OF | 01125C0700E | 25-APR-2001 | 01-04-3014A | 02
04 | AL | TUSCALOOSA, CITY OF | 01125C0700E | 16-MAY-2001 | 01-04-2964A | 02
04 | AL | TUSCALOOSA, CITY OF | 01125C0700E | 18-MAY-2001 | 01-04-3894A | 02
04 | AL | TUSCALOOSA, CITY OF | 01125C0700E | 25-MAY-2001 | 01-04-3250A | 02
04 | AL | WALKER COUNTY * | 0103010055B | 28-FEB-2001 | 01-04-1884A | 02
04 | AL | WETUMPKA, CITY OF | 0100700005B | 14-FEB-2001 | 01-04-1890A | 02
04 | AL | WILSONVILLE, TOWN OF | 0104040001B | 04-MAY-2001 | 01-04-3016A | 02
04 | FL | ALACHUA COUNTY* | 1200010400A | 26-FEB-2001 | 01-04-017P | 05
04 | FL | ALACHUA COUNTY* | 1200010259A | 24-JAN-2001 | 01-04-1138A | 02
04 | FL | ALACHUA COUNTY* | 1200010190B | 14-MAR-2001 | 01-04-2296A | 02
04 | FL | ALACHUA COUNTY* | 1200010259A | 20-JUN-2001 | 01-04-3782A | 02
04 | FL | APOPKA, CITY OF | 12095C0110E | 31-JAN-2001 | 01-04-043X | 06
04 | FL | AUBURNDALE, CITY OF | 12105C0330F | 05-JAN-2001 | 01-04-0566A | 02
04 | FL | AUBURNDALE, CITY OF | 12105C0335F | 09-MAR-2001 | 01-04-2482A | 02
04 | FL | BAY COUNTY* | 1200040335D | 02-FEB-2001 | 01-04-1384A | 02
04 | FL | BAY COUNTY* | 1200040370D | 21-FEB-2001 | 01-04-1900A | 02
04 | FL | BOYNTON BEACH, CITY OF | 1201960004C | 30-MAY-2001 | 01-04-4018A | 02
04 | FL | BREVARD COUNTY * | 1250920441F | 09-JAN-2001 | 98-04-2974V | 19
04 | FL | BREVARD COUNTY * | 1250920435E | 09-JAN-2001 | 98-04-2974V | 19
04 | FL | BREVARD COUNTY * | 12009C0365E | 16-FEB-2001 | 00-04-277P | 06
04 | FL | BREVARD COUNTY * | 12009C0430E | 02-JAN-2001 | 01-04-1164A | 02
04 | FL | BREVARD COUNTY * | 12009C0360E | 12-JAN-2001 | 01-04-1346A | 02
04 | FL | BREVARD COUNTY * | 12009C0260E | 24-JAN-2001 | 01-04-1454A | 02
04 | FL | BREVARD COUNTY * | 12009C0430E | 26-JAN-2001 | 01-04-1510A | 02
04 | FL | BREVARD COUNTY * | 12009C0260E | 21-FEB-2001 | 01-04-1942A | 02
04 | FL | BREVARD COUNTY * | 12009C0270E | 21-FEB-2001 | 01-04-1640A | 02
04 | FL | BREVARD COUNTY * | 12009C0270E | 23-FEB-2001 | 01-04-2006A | 02
04 | FL | BREVARD COUNTY * | 12009C0295E | 07-MAR-2001 | 01-04-2384A | 02
04 | FL | BREVARD COUNTY * | 12009C0439E | 23-MAR-2001 | 01-04-2598A | 02
04 | FL | BREVARD COUNTY * | 12009C0430E | 28-MAR-2001 | 01-04-2736A | 02
04 | FL | BREVARD COUNTY * | 12009C0260E | 30-MAR-2001 | 01-04-2464A | 02
04 | FL | BREVARD COUNTY * | 12009C0350E | 11-APR-2001 | 01-04-2962A | 02
04 | FL | BREVARD COUNTY * | 12009C0360E | 13-APR-2001 | 01-04-3028A | 02
04 | FL | BREVARD COUNTY * | 12009C0350E | 18-APR-2001 | 01-04-3164A | 02
04 | FL | BREVARD COUNTY * | 12009C0350E | 09-MAY-2001 | 01-04-3264A | 02
04 | FL | BREVARD COUNTY * | 12009C0435E | 09-MAY-2001 | 01-04-2986A | 02
04 | FL | BREVARD COUNTY * | 12009C0100E | 23-MAY-2001 | 01-04-2896A | 02
04 | FL | BREVARD COUNTY * | 12009C0295E | 06-JUN-2001 | 01-04-4072A | 02
04 | FL | BREVARD COUNTY * | 12009C0430E | 15-JUN-2001 | 01-04-4084A | 02
04 | FL | BREVARD COUNTY * | 12009C0260E | 27-JUN-2001 | 01-04-4458A | 02
04 | FL | BREVARD COUNTY * | 12009C0440E | 27-JUN-2001 | 01-04-3336A | 02
04 | FL | BREVARD COUNTY * | 12009C0275E | 24-JAN-2001 | 01-04-1446A | 01
04 | FL | BREVARD COUNTY * | 12009C0430E | 26-JAN-2001 | 01-04-1620A | 01
04 | FL | BREVARD COUNTY * | 12009C0270E | 23-FEB-2001 | 01-04-2136A | 01
04 | FL | BREVARD COUNTY * | 12009C0430E | 28-FEB-2001 | 01-04-1798A | 01
04 | FL | BREVARD COUNTY * | 12009C0365E | 28-FEB-2001 | 01-04-1096A | 01
04 | FL | BREVARD COUNTY * | 12009C0260E | 11-APR-2001 | 01-04-2946A | 01
04 | FL | BREVARD COUNTY * | 12009C0365E | 13-APR-2001 | 01-04-1090A | 01
04 | FL | BREVARD COUNTY * | 12009C0430E | 25-APR-2001 | 01-04-3100A | 01
04 | FL | BREVARD COUNTY * | 12009C0365E | 25-APR-2001 | 01-04-2798A | 01
04 | FL | BREVARD COUNTY * | 12009C0607F | 02-MAY-2001 | 01-04-3276A | 01
04 | FL | BREVARD COUNTY * | 12009C0290E | 04-MAY-2001 | 01-04-2960A | 01
04 | FL | BREVARD COUNTY * | 12009C0100E | 09-MAY-2001 | 01-04-3606A | 01
04 | FL | BREVARD COUNTY * | 12009C0430E | 16-MAY-2001 | 01-04-3818A | 01
04 | FL | BREVARD COUNTY * | 12009C0430E | 08-JUN-2001 | 01-04-3860A | 01
04 | FL | BREVARD COUNTY * | 12009C0365E | 20-JUN-2001 | 01-04-4204A | 01
04 | FL | BREVARD COUNTY * | 12009C0443E | 27-JUN-2001 | 01-04-4480A | 01
04 | FL | BROWARD COUNTY* | 12011C0306F | 05-JAN-2001 | 01-04-1252A | 02
04 | FL | BROWARD COUNTY* | 12011C0207G | 31-JAN-2001 | 01-04-1716A | 02
04 | FL | BROWARD COUNTY* | 12011C0120F | 18-MAY-2001 | 01-04-3350A | 02
04 | FL | CAPE CORAL, CITY OF | 1250950035C | 04-JAN-2001 | 01-04-1192A | 01
04 | FL | CAPE CORAL, CITY OF | 1250950035C | 04-JAN-2001 | 01-04-0792A | 01
04 | FL | CAPE CORAL, CITY OF | 1250950030C | 05-JAN-2001 | 01-04-1264A | 01
04 | FL | CAPE CORAL, CITY OF | 1250950020C | 12-JAN-2001 | 01-04-1332A | 01
04 | FL | CAPE CORAL, CITY OF | 1250950045C | 19-JAN-2001 | 01-04-1502A | 01
04 | FL | CAPE CORAL, CITY OF | 1250950020C | 09-FEB-2001 | 01-04-1762A | 01
04 | FL | CAPE CORAL, CITY OF | 1250950030C | 21-FEB-2001 | 01-04-1960A | 01
04 | FL | CAPE CORAL, CITY OF | 1250950030C | 21-FEB-2001 | 01-04-1960A | 01
04 | FL | CAPE CORAL, CITY OF | 1250950035C | 28-FEB-2001 | 01-04-1958A | 01
04 | FL | CAPE CORAL, CITY OF | 1250950040C | 16-MAR-2001 | 01-04-2514A | 01
04 | FL | CAPE CORAL, CITY OF | 1250950030C | 21-MAR-2001 | 01-04-2512A | 01
04 | FL | CAPE CORAL, CITY OF | 1250950030C | 21-MAR-2001 | 01-04-2546A | 01
04 | FL | CAPE CORAL, CITY OF | 1250950020C | 06-APR-2001 | 01-04-2510A | 01
04 | FL | CAPE CORAL, CITY OF | 1250950020C | 02-MAY-2001 | 01-04-3436A | 01
04 | FL | CAPE CORAL, CITY OF | 1250950030C | 09-MAY-2001 | 01-04-3198A | 01
04 | FL | CAPE CORAL, CITY OF | 1250950040C | 16-MAY-2001 | 01-04-3576A | 01
04 | FL | CAPE CORAL, CITY OF | 1250950030C | 16-MAY-2001 | 01-04-3496A | 01
04 | FL | CAPE CORAL, CITY OF | 1250950020C | 18-MAY-2001 | 01-04-3592A | 01
04 | FL | CAPE CORAL, CITY OF | 1250950020C | 18-MAY-2001 | 01-04-3594A | 01
04 | FL | CAPE CORAL, CITY OF | 1250950040C | 18-MAY-2001 | 01-04-3596A | 01
04 | FL | CAPE CORAL, CITY OF | 1250950030C | 23-MAY-2001 | 01-04-3578A | 01
04 | FL | CAPE CORAL, CITY OF | 1250950040C | 23-MAY-2001 | 01-04-3580A | 01
04 | FL | CAPE CORAL, CITY OF | 1250950035C | 30-MAY-2001 | 01-04-3992A | 01
04 | FL | CAPE CORAL, CITY OF | 1250950030C | 08-JUN-2001 | 01-04-3986A | 01
04 | FL | CAPE CORAL, CITY OF | 1250950030C | 08-JUN-2001 | 01-04-3988A | 01
04 | FL | CAPE CORAL, CITY OF | 1250950030C | 08-JUN-2001 | 01-04-3990A | 01
04 | FL | CAPE CORAL, CITY OF | 1250950020C | 20-JUN-2001 | 01-04-3758A | 01
04 | FL | CAPE CORAL, CITY OF | 1250950035C | 27-JUN-2001 | 01-04-3932A | 01
04 | FL | CHARLOTTE COUNTY * | 1200610104E | 23-FEB-2001 | 00-04-379P | 06
04 | FL | CHARLOTTE COUNTY * | 1200610035E | 13-APR-2001 | 00-04-5320A | 02
04 | FL | CITRUS COUNTY * | 1200630270B | 19-JAN-2001 | 01-04-1130A | 02
04 | FL | CITRUS COUNTY * | 1200630270B | 21-FEB-2001 | 01-04-1996A | 02
04 | FL | CITRUS COUNTY * | 1200630270B | 02-MAY-2001 | 01-04-3340A | 02
04 | FL | CITRUS COUNTY * | 1200630175B | 09-MAY-2001 | 01-04-3600A | 02
04 | FL | CITRUS COUNTY * | 1200630260B | 16-MAY-2001 | 01-04-3784A | 02
04 | FL | CITRUS COUNTY * | 1200630115B | 25-MAY-2001 | 01-04-3910A | 02
04 | FL | CITRUS COUNTY * | 1200630210B | 13-JUN-2001 | 01-04-4156A | 02
04 | FL | CITRUS COUNTY * | 1200630270B | 13-JUN-2001 | 01-04-3332A | 02
04 | FL | CITRUS COUNTY * | 1200630260B | 04-JAN-2001 | 01-04-1236A | 01
04 | FL | CLAY COUNTY * | 1200640155D | 27-MAR-2001 | 00-04-331P | 05
04 | FL | CLAY COUNTY * | 1200640155D | 11-MAY-2001 | 01-04-2868A | 02
04 | FL | CLAY COUNTY * | 1200640065D | 01-JUN-2001 | 01-04-3998A | 02
04 | FL | CLAY COUNTY * | 1200640155D | 10-JAN-2001 | 01-04-0056A | 01
04 | FL | CLAY COUNTY * | 1200640135D | 20-APR-2001 | 01-04-2704A | 01
04 | FL | COCONUT CREEK, CITY OF | 12011C0105F | 09-MAY-2001 | 01-04-2732A | 01
04 | FL | COLLIER COUNTY * | 1200670193D | 07-MAR-2001 | 01-04-1976A | 02
04 | FL | COLLIER COUNTY * | 1200670605E | 05-JAN-2001 | 01-04-0246A | 01
04 | FL | COLLIER COUNTY * | 1200670605E | 17-JAN-2001 | 00-04-5826A | 01
04 | FL | COLLIER COUNTY * | 1200670605E | 21-FEB-2001 | 01-04-2102A | 01
04 | FL | COLLIER COUNTY * | 1200670605E | 13-JUN-2001 | 01-04-3938A | 01
04 | FL | COLLIER COUNTY * | 1200670605E | 13-JUN-2001 | 01-04-3940A | 01
04 | FL | COLLIER COUNTY * | 1200670605E | 20-JUN-2001 | 01-04-4532A | 01
04 | FL | COLLIER COUNTY * | 1200670195D | 20-JUN-2001 | 01-04-2330A | 01
04 | FL | COLUMBIA COUNTY* | 1200700175B | 26-JAN-2001 | 01-04-1578A | 01
04 | FL | CORAL SPRINGS, CITY OF | 12011C0115F | 12-JAN-2001 | 01-04-1228A | 02
04 | FL | CORAL SPRINGS, CITY OF | 12011C0115F | 16-MAR-2001 | 01-04-2368A | 02
04 | FL | CORAL SPRINGS, CITY OF | 12011C0095F | 20-JUN-2001 | 01-04-4186A | 01
04 | FL | DADE COUNTY* | 12025C0260J | 10-JAN-2001 | 01-04-1488A | 02
04 | FL | DADE COUNTY* | 12025C0080J | 09-FEB-2001 | 01-04-1788A | 02
04 | FL | DADE COUNTY* | 12025C0080J | 09-FEB-2001 | 01-04-1788A | 02
04 | FL | DADE COUNTY* | 12025C0265J | 18-APR-2001 | 01-04-2950A | 02
04 | FL | DADE COUNTY* | 12025C0160J | 10-JAN-2001 | 01-04-1178A | 01
04 | FL | DADE COUNTY* | 12025C0160J | 23-JAN-2001 | 01-04-1394A | 01
04 | FL | DADE COUNTY* | 12025C0355J | 24-JAN-2001 | 01-04-1042A | 01
04 | FL | DADE COUNTY* | 12025C0075J | 21-FEB-2001 | 01-04-2090A | 01
04 | FL | DADE COUNTY* | 12025C0075J | 21-FEB-2001 | 01-04-2046A | 01
04 | FL | DADE COUNTY* | 12025C0160J | 21-FEB-2001 | 01-04-1962A | 01
04 | FL | DADE COUNTY* | 12025C0160J | 21-FEB-2001 | 01-04-1964A | 01
04 | FL | DADE COUNTY* | 12025C0255J | 21-MAR-2001 | 01-04-2538A | 01
04 | FL | DADE COUNTY* | 12025C0160J | 23-MAR-2001 | 01-04-2572A | 01
04 | FL | DADE COUNTY* | 12025C0075J | 28-MAR-2001 | 01-04-2570A | 01
04 | FL | DADE COUNTY* | 12025C0160J | 06-JUN-2001 | 01-04-4110A | 01
04 | FL | DADE COUNTY* | 12025C0075J | 08-JUN-2001 | 01-04-4112A | 01
04 | FL | DAVIE, CITY OF | 12011C0305F | 11-APR-2001 | 01-04-2724A | 01
04 | FL | DEERFIELD BEACH, CITY OF | 12011C0108F | 14-FEB-2001 | 01-04-1360A | 02
04 | FL | DEERFIELD BEACH, CITY OF | 12011C0108F | 20-FEB-2001 | 01-04-0626A | 02
04 | FL | DEERFIELD BEACH, CITY OF | 12011C0108F | 02-MAR-2001 | 01-04-2164A | 02
04 | FL | DEERFIELD BEACH, CITY OF | 12011C0120F | 11-MAY-2001 | 01-04-2706A | 02
04 | FL | DEERFIELD BEACH, CITY OF | 12011C0108F | 13-JUN-2001 | 01-04-2754A | 01
04 | FL | DELRAY BEACH, CITY OF | 1251020001D | 17-JAN-2001 | 01-04-0842A | 02
04 | FL | DELRAY BEACH, CITY OF | 1251020002D | 14-MAR-2001 | 01-04-1436A | 02
04 | FL | DIXIE COUNTY * | 1203360330B | 29-JUN-2001 | 01-04-4484A | 02
04 | FL | ESCAMBIA COUNTY* | 12033C0509F | 12-JAN-2001 | 01-04-1458A | 02
04 | FL | EUSTIS, CITY OF | 1201340005B | 25-MAY-2001 | 01-04-3942A | 02
04 | FL | FLAGLER COUNTY* | 1200850045B | 28-MAR-2001 | 01-04-2766A | 02
04 | FL | FORT LAUDERDALE, CITY OF | 12011C0217F | 24-JAN-2001 | 01-04-0778A | 02
04 | FL | FORT LAUDERDALE, CITY OF | 12011C0207G | 16-MAY-2001 | 01-04-3154A | 01
04 | FL | GADSDEN COUNTY * | 1200910300A | 10-JAN-2001 | 01-04-0644A | 02
04 | FL | GAINESVILLE, CITY OF | 1251070004B | 23-FEB-2001 | 01-04-1670A | 02
04 | FL | GAINESVILLE, CITY OF | 1251070004B | 28-FEB-2001 | 01-04-2268A | 02
04 | FL | GAINESVILLE, CITY OF | 1200010275A | 18-APR-2001 | 01-04-1754A | 02
04 | FL | GAINESVILLE, CITY OF | 1251070005C | 06-JUN-2001 | 01-04-4148A | 02
04 | FL | GULF BREEZE, CITY OF | 1202750011F | 05-JAN-2001 | 01-04-0492A | 02
04 | FL | GULF COUNTY * | 1200980175D | 14-FEB-2001 | 01-04-1278A | 18
04 | FL | GULF COUNTY * | 1200980175D | 18-MAY-2001 | 01-04-3598A | 02
04 | FL | HERNANDO COUNTY * | 1201100300B | 02-JAN-2001 | 01-04-0724A | 02
04 | FL | HERNANDO COUNTY * | 1201100280B | 04-JAN-2001 | 00-04-4084A | 02
04 | FL | HERNANDO COUNTY * | 1201100375B | 10-JAN-2001 | 01-04-0594A | 02
04 | FL | HERNANDO COUNTY * | 1201100280B | 21-FEB-2001 | 01-04-2142A | 02
04 | FL | HERNANDO COUNTY * | 1201100280B | 16-MAR-2001 | 01-04-2600A | 02
04 | FL | HERNANDO COUNTY * | 1201100300B | 18-MAY-2001 | 01-04-3638A | 02
04 | FL | HERNANDO COUNTY * | 1201100300B | 13-JUN-2001 | 01-04-3636A | 02
04 | FL | HIALEAH, CITY OF | 12025C0180J | 19-JAN-2001 | 01-04-0574A | 01
04 | FL | HILLSBOROUGH COUNTY* | 1201120415C | 17-JAN-2001 | 01-04-1508A | 02
04 | FL | HILLSBOROUGH COUNTY* | 1201120190D | 19-JAN-2001 | 01-04-0830A | 02
04 | FL | HILLSBOROUGH COUNTY* | 1201120238C | 19-JAN-2001 | 01-04-0404A | 02
04 | FL | HILLSBOROUGH COUNTY* | 1201120425C | 24-JAN-2001 | 01-04-1566A | 02
04 | FL | HILLSBOROUGH COUNTY* | 1201120185F | 31-JAN-2001 | 01-04-1678A | 02
04 | FL | HILLSBOROUGH COUNTY* | 1201120205D | 02-MAR-2001 | 01-04-2300A | 02
04 | FL | HILLSBOROUGH COUNTY* | 1201120205D | 23-MAR-2001 | 01-04-2422A | 02
04 | FL | HILLSBOROUGH COUNTY* | 1201120385E | 30-MAR-2001 | 01-04-2826A | 02
04 | FL | HILLSBOROUGH COUNTY* | 1201120180F | 11-APR-2001 | 01-04-2968A | 02
04 | FL | HILLSBOROUGH COUNTY* | 1201120192A | 25-APR-2001 | 01-04-1614A | 02
04 | FL | HILLSBOROUGH COUNTY* | 1201120190D | 02-MAY-2001 | 01-04-3284A | 02
04 | FL | HILLSBOROUGH COUNTY* | 1201120185F | 16-MAY-2001 | 01-04-3722A | 02
04 | FL | HILLSBOROUGH COUNTY* | 1201120195D | 18-MAY-2001 | 01-04-2820A | 02
04 | FL | HILLSBOROUGH COUNTY* | 1201120387E | 01-JUN-2001 | 01-04-3080A | 02
04 | FL | HILLSBOROUGH COUNTY* | 1201120205D | 06-JUN-2001 | 01-04-4230A | 02
04 | FL | HILLSBOROUGH COUNTY* | 1201120185F | 06-JUN-2001 | 01-04-3950A | 02
04 | FL | HILLSBOROUGH COUNTY* | 1201120385E | 06-JUN-2001 | 01-04-3724A | 02
04 | FL | HILLSBOROUGH COUNTY* | 1201120185F | 13-JUN-2001 | 01-04-4322A | 02
04 | FL | HILLSBOROUGH COUNTY* | 1201120380E | 17-JAN-2001 | 01-04-0860A | 01
04 | FL | HILLSBOROUGH COUNTY* | 1201120180F | 24-JAN-2001 | 01-04-1062A | 01
04 | FL | HILLSBOROUGH COUNTY* | 1201120045D | 02-FEB-2001 | 01-04-1064A | 01
04 | FL | HILLSBOROUGH COUNTY* | 1201120160C | 02-FEB-2001 | 01-04-0862A | 01
04 | FL | HILLSBOROUGH COUNTY* | 1201120160C | 07-FEB-2001 | 01-04-1844A | 01
04 | FL | HILLSBOROUGH COUNTY* | 1201120380E | 14-FEB-2001 | 01-04-2036A | 01
04 | FL | HILLSBOROUGH COUNTY* | 1201120205D | 23-MAR-2001 | 01-04-2610A | 01
04 | FL | HILLSBOROUGH COUNTY* | 1201120415C | 28-MAR-2001 | 01-04-2602A | 01
04 | FL | HILLSBOROUGH COUNTY* | 1201120530C | 28-MAR-2001 | 01-04-0780A | 01
04 | FL | HILLSBOROUGH COUNTY* | 1201120210E | 28-MAR-2001 | 00-04-5250A | 01
04 | FL | HILLSBOROUGH COUNTY* | 1201120205D | 04-APR-2001 | 01-04-1388A | 01
04 | FL | HILLSBOROUGH COUNTY* | 1201120160C | 13-APR-2001 | 01-04-2852A | 01
04 | FL | HILLSBOROUGH COUNTY* | 1201120395E | 25-APR-2001 | 01-04-3474A | 01
04 | FL | HILLSBOROUGH COUNTY* | 1201120520C | 09-MAY-2001 | 01-04-2078A | 01
04 | FL | HILLSBOROUGH COUNTY* | 1201120395E | 16-MAY-2001 | 01-04-3476A | 01
04 | FL | HILLSBOROUGH COUNTY* | 1201120185F | 23-MAY-2001 | 01-04-2532A | 01
04 | FL | HILLSBOROUGH COUNTY* | 1201120387E | 25-MAY-2001 | 01-04-3374A | 01
04 | FL | HILLSBOROUGH COUNTY* | 1201120530C | 30-MAY-2001 | 01-04-3248A | 01
04 | FL | HILLSBOROUGH COUNTY* | 1201120415C | 06-JUN-2001 | 01-04-3556A | 01
04 | FL | HILLSBOROUGH COUNTY* | 1201120389D | 13-JUN-2001 | 01-04-4242A | 01
04 | FL | HILLSBOROUGH COUNTY* | 1201120205D | 13-JUN-2001 | 01-04-3526A | 01
04 | FL | HILLSBOROUGH COUNTY* | 1201120180F | 20-JUN-2001 | 01-04-3378A | 01
04 | FL | HILLSBOROUGH COUNTY* | 1201120210E | 22-JUN-2001 | 01-04-4558A | 01
04 | FL | INDIAN RIVER COUNTY * | 12061C0165E | 13-JUN-2001 | 01-04-3462A | 01
04 | FL | INDIAN RIVER SHORES, TOWN OF | 12061C0091E | 08-MAR-2001 | 00-04-4912A | 01
04 | FL | JACKSONVILLE, CITY OF | 1200770159E | 28-MAR-2001 | 00-04-303P | 05
04 | FL | JACKSONVILLE, CITY OF | 1200770156E | 24-JAN-2001 | 01-04-1634A | 02
04 | FL | JACKSONVILLE, CITY OF | 1200770243E | 30-MAR-2001 | 01-04-2834A | 02
04 | FL | JACKSONVILLE, CITY OF | 1200770236E | 25-APR-2001 | 01-04-2990A | 02
04 | FL | JACKSONVILLE, CITY OF | 1200770236E | 24-JAN-2001 | 01-04-1552A | 01
04 | FL | JACKSONVILLE, CITY OF | 1200770219E | 14-MAR-2001 | 01-04-1102A | 01
04 | FL | JACKSONVILLE, CITY OF | 1200770236E | 20-APR-2001 | 01-04-2978A | 01
04 | FL | KISSIMMEE, CITY OF | 12097C0065F | 08-MAY-2001 | 01-04-3512V | 19
04 | FL | KISSIMMEE, CITY OF | 12097C0066F | 08-MAY-2001 | 01-04-3512V | 19
04 | FL | KISSIMMEE, CITY OF | 12097C0067F | 08-MAY-2001 | 01-04-3512V | 19
04 | FL | KISSIMMEE, CITY OF | 12097C0055F | 07-JUN-2001 | 01-04-4872V | 19
04 | FL | KISSIMMEE, CITY OF | 12097C0065F | 07-JUN-2001 | 01-04-4872V | 19
04 | FL | KISSIMMEE, CITY OF | 12097C0066F | 07-JUN-2001 | 01-04-4872V | 19
04 | FL | KISSIMMEE, CITY OF | 12097C0067F | 07-JUN-2001 | 01-04-4872V | 19
04 | FL | LAKE COUNTY * | 1204210300B | 26-APR-2001 | 01-04-023P | 05
04 | FL | LAKE COUNTY * | 1204210225B | 24-JAN-2001 | 01-04-1482A | 02
04 | FL | LAKE COUNTY * | 1204210200B | 07-FEB-2001 | 01-04-1142A | 02
04 | FL | LAKE COUNTY * | 1204210125B | 28-FEB-2001 | 01-04-2202A | 02
04 | FL | LAKE COUNTY * | 1204210225B | 14-MAR-2001 | 01-04-2476A | 02
04 | FL | LAKE COUNTY * | 1204210125B | 14-MAR-2001 | 01-04-2396A | 02
04 | FL | LAKE COUNTY * | 1204210225B | 14-MAR-2001 | 01-04-2260A | 02
04 | FL | LAKE COUNTY * | 1204210100B | 21-MAR-2001 | 01-04-2648A | 02
04 | FL | LAKE COUNTY * | 1204210225B | 21-MAR-2001 | 01-04-2606A | 02
04 | FL | LAKE COUNTY * | 1204210050B | 21-MAR-2001 | 01-04-2480A | 02
04 | FL | LAKE COUNTY * | 1204210200B | 11-APR-2001 | 01-04-3058A | 02
04 | FL | LAKE COUNTY * | 1204210225B | 18-APR-2001 | 01-04-2972A | 02
04 | FL | LAKE COUNTY * | 1204210150B | 09-MAY-2001 | 01-04-3200A | 02
04 | FL | LAKE COUNTY * | 1204210150B | 11-MAY-2001 | 01-04-1870A | 02
04 | FL | LAKE COUNTY * | 1204210125B | 16-MAY-2001 | 01-04-3558A | 02
04 | FL | LAKE COUNTY * | 1204210200B | 16-MAY-2001 | 01-04-3364A | 02
04 | FL | LAKE COUNTY * | 1204210100B | 16-MAY-2001 | 01-04-2926A | 02
04 | FL | LAKE COUNTY * | 1204210150B | 06-JUN-2001 | 01-04-4158A | 02
04 | FL | LAKE COUNTY * | 1204210375B | 21-MAR-2001 | 01-04-2522A | 01
04 | FL | LAKE HAMILTON, TOWN OF | 12105C0367F | 16-MAY-2001 | 01-04-3788A | 02
04 | FL | LAKE MARY, CITY OF | 12117C0040E | 12-JAN-2001 | 01-04-1322A | 02
04 | FL | LAKE MARY, CITY OF | 12117C0040E | 16-MAY-2001 | 01-04-2984A | 01
04 | FL | LAKELAND, CITY OF | 12105C0485F | 23-FEB-2001 | 01-04-522P | 05
04 | FL | LAKELAND, CITY OF | 12105C0320F | 16-MAY-2001 | 01-04-3466A | 02
04 | FL | LAUDERDALE LAKES, CITY OF | 12011C0204F | 14-MAR-2001 | 01-04-2276A | 02
04 | FL | LAUDERDALE LAKES, CITY OF | 12011C0204F | 09-MAY-2001 | 01-04-3192A | 02
04 | FL | LAUDERDALE LAKES, CITY OF | 12011C0204F | 09-MAY-2001 | 01-04-3140A | 02
04 | FL | LAUDERDALE LAKES, CITY OF | 12011C0204F | 16-MAY-2001 | 01-04-3280A | 02
04 | FL | LAUDERDALE LAKES, CITY OF | 12011C0204F | 13-JUN-2001 | 01-04-3478A | 02
04 | FL | LAUDERHILL, CITY OF | 12011C0204F | 31-JAN-2001 | 01-04-1628A | 02
04 | FL | LAUDERHILL, CITY OF | 12011C0205F | 11-MAY-2001 | 01-04-3262A | 02
04 | FL | LEE COUNTY* | 1251240510D | 04-JAN-2001 | 01-04-1154A | 02
04 | FL | LEE COUNTY* | 1251240510D | 12-JAN-2001 | 01-04-1560X | 02
04 | FL | LEE COUNTY* | 1251240225C | 08-JUN-2001 | 01-04-3944A | 02
04 | FL | LEE COUNTY* | 1251240510D | 05-JAN-2001 | 01-04-1088A | 01
04 | FL | LEE COUNTY* | 1251240510D | 09-FEB-2001 | 01-04-1916A | 01
04 | FL | LEE COUNTY* | 1251240350B | 14-FEB-2001 | 01-04-1602A | 01
04 | FL | LEE COUNTY* | 1251240510D | 09-MAY-2001 | 01-04-3538A | 01
04 | FL | LEE COUNTY* | 1251240510D | 09-MAY-2001 | 01-04-3540A | 01
04 | FL | LEE COUNTY* | 1251240510D | 09-MAY-2001 | 01-04-3542A | 01
04 | FL | LEESBURG, CITY OF | 1201360002C | 04-JAN-2001 | 00-04-5742A | 02
04 | FL | LEON COUNTY * | 12073C0350D | 31-JAN-2001 | 01-04-1776A | 02
04 | FL | LEON COUNTY * | 12073C0430D | 11-APR-2001 | 01-04-2878A | 02
04 | FL | LEVY COUNTY * | 1201450400D | 09-MAR-2001 | 01-04-2470A | 02
04 | FL | LYNN HAVEN, CITY OF | 1200040335D | 27-JUN-2001 | 01-04-4164A | 02
04 | FL | MAITLAND, CITY OF | 12095C0255E | 08-JUN-2001 | 01-04-4180A | 02
04 | FL | MANATEE COUNTY * | 1201530339B | 04-APR-2001 | 00-04-355P | 05
04 | FL | MANATEE COUNTY * | 1201530365C | 02-JAN-2001 | 01-04-0448A | 02
04 | FL | MANATEE COUNTY * | 1201530365C | 01-JUN-2001 | 01-04-3326A | 01
04 | FL | MARGATE, CITY OF | 12011C0115F | 10-JAN-2001 | 01-04-1194A | 02
04 | FL | MARGATE, CITY OF | 12011C0115F | 06-APR-2001 | 01-04-2516A | 02
04 | FL | MARGATE, CITY OF | 12011C0115F | 30-MAY-2001 | 01-04-3282A | 02
04 | FL | MARGATE, CITY OF | 12011C0115F | 01-JUN-2001 | 01-04-3930A | 02
04 | FL | MARGATE, CITY OF | 12011C0115F | 11-APR-2001 | 01-04-2684A | 01
04 | FL | MARION COUNTY * | 1201600500B | 09-MAR-2001 | 01-04-2062A | 02
04 | FL | MARION COUNTY * | 1201600500B | 16-MAY-2001 | 01-04-3716A | 02
04 | FL | MELBOURNE, CITY OF | 12009C0441F | 04-APR-2001 | 01-04-1076A | 01
04 | FL | MIAMI, CITY OF | 12025C0181J | 13-APR-2001 | 01-04-3122A | 02
04 | FL | MIRAMAR, CITY OF | 12011C0295F | 18-APR-2001 | 01-04-2876X | 02
04 | FL | MIRAMAR, CITY OF | 12011C0295F | 28-FEB-2001 | 01-04-1742A | 01
04 | FL | MIRAMAR, CITY OF | 12011C0290F | 30-MAY-2001 | 01-04-3372A | 01
04 | FL | MIRAMAR, CITY OF | 1200480315F | 08-JUN-2001 | 01-04-4052A | 01
04 | FL | MIRAMAR, CITY OF | 12011C0315F | 20-JUN-2001 | 01-04-3528A | 01
04 | FL | MONROE COUNTY* | 12087C1727H | 27-FEB-2001 | 01-04-075P | 05
04 | FL | MONROE COUNTY* | 12087C0844G | 07-MAR-2001 | 01-04-2380A | 02
04 | FL | MONROE COUNTY* | 12087C1129H | 28-MAR-2001 | 01-04-2358A | 02
04 | FL | NAPLES, CITY OF | 1200670393D | 16-MAR-2001 | 01-04-1014A | 01
04 | FL | NEW PORT RICHEY, CITY OF | 1202300189C | 30-MAY-2001 | 01-04-3684A | 02
04 | FL | NEW PORT RICHEY, CITY OF | 1202300189C | 09-MAR-2001 | 01-04-2436A | 01
04 | FL | NICEVILLE, CITY OF | 1203380005B | 14-MAR-2001 | 01-04-2388A | 02
04 | FL | NORTH PALM BEACH, VILLAGE OF | 1201920127B | 09-MAR-2001 | 01-04-2194A | 01
04 | FL | NORTH PALM BEACH, VILLAGE OF | 1201920127B | 09-MAR-2001 | 01-04-2144A | 01
04 | FL | NORTH PORT, CITY OF | 1201790005B | 14-MAR-2001 | 01-04-2366A | 01
04 | FL | OCOEE, CITY OF | 12095C0210E | 29-JUN-2001 | 01-04-4796A | 02
04 | FL | OKALOOSA COUNTY * | 1201730205E | 28-MAR-2001 | 01-04-2786A | 02
04 | FL | OKALOOSA COUNTY * | 1201730205E | 28-MAR-2001 | 01-04-2788A | 02
04 | FL | OKALOOSA COUNTY * | 1201730205E | 28-MAR-2001 | 01-04-2790A | 02
04 | FL | OKALOOSA COUNTY * | 1201730205E | 28-MAR-2001 | 01-04-2792A | 02
04 | FL | OKALOOSA COUNTY * | 1201730205E | 29-JUN-2001 | 01-04-4564A | 02
04 | FL | OLDSMAR, CITY OF | 1202500004B | 29-JUN-2001 | 01-04-4366A | 01
04 | FL | ORANGE COUNTY * | 12095C0280E | 22-MAY-2001 | 01-04-223P | 06
04 | FL | ORANGE COUNTY * | 12095C0215E | 05-JAN-2001 | 01-04-0956A | 02
04 | FL | ORANGE COUNTY * | 12095C0285E | 10-JAN-2001 | 01-04-1174A | 02
04 | FL | ORANGE COUNTY * | 12095C0020E | 17-JAN-2001 | 01-04-1600X | 02
04 | FL | ORANGE COUNTY * | 12095C0410E | 31-JAN-2001 | 01-04-1528A | 02
04 | FL | ORANGE COUNTY * | 12095C0215E | 02-FEB-2001 | 01-04-1786A | 02
04 | FL | ORANGE COUNTY * | 12095C0295E | 07-FEB-2001 | 01-04-1382A | 02
04 | FL | ORANGE COUNTY * | 12095C0285E | 07-FEB-2001 | 01-04-0704A | 02
04 | FL | ORANGE COUNTY * | 12095C0220E | 14-FEB-2001 | 01-04-1860A | 02
04 | FL | ORANGE COUNTY * | 12095C0280E | 28-FEB-2001 | 01-04-2246A | 02
04 | FL | ORANGE COUNTY * | 12095C0220E | 14-MAR-2001 | 01-04-2542A | 02
04 | FL | ORANGE COUNTY * | 12095C0290E | 28-MAR-2001 | 01-04-2626A | 02
04 | FL | ORANGE COUNTY * | 12095C0415E | 06-APR-2001 | 01-04-2912A | 02
04 | FL | ORANGE COUNTY * | 12095C0415E | 11-APR-2001 | 01-04-1726A | 02
04 | FL | ORANGE COUNTY * | 12095C0580E | 20-APR-2001 | 01-04-2970A | 02
04 | FL | ORANGE COUNTY * | 12095C0290E | 09-MAY-2001 | 01-04-3188A | 02
04 | FL | ORANGE COUNTY * | 12009C0270E | 11-MAY-2001 | 01-04-3604A | 02
04 | FL | ORANGE COUNTY * | 12095C0260E | 11-MAY-2001 | 01-04-3522A | 02
04 | FL | ORANGE COUNTY * | 12095C0380E | 23-MAY-2001 | 01-04-3846A | 02
04 | FL | ORANGE COUNTY * | 12095C0410E | 23-MAY-2001 | 01-04-3820A | 02
04 | FL | ORANGE COUNTY * | 12095C0290E | 30-MAY-2001 | 01-04-4004A | 02
04 | FL | ORANGE COUNTY * | 12095C0395E | 06-JUN-2001 | 01-04-4070A | 02
04 | FL | ORANGE COUNTY * | 12095C0150E | 06-JUN-2001 | 01-04-2892A | 02
04 | FL | ORANGE COUNTY * | 12095C0165E | 13-JUN-2001 | 01-04-4002A | 02
04 | FL | ORANGE COUNTY * | 12095C0270E | 27-JUN-2001 | 01-04-4460A | 02
04 | FL | ORANGE COUNTY * | 12095C0260E | 27-JUN-2001 | 01-04-3914A | 02
04 | FL | ORANGE COUNTY * | 12095C0280E | 27-JUN-2001 | 01-04-3720A | 02
04 | FL | ORANGE COUNTY * | 12095C0290E | 29-JUN-2001 | 01-04-4540X | 02
04 | FL | ORANGE COUNTY * | 12095C0395E | 05-JAN-2001 | 00-04-5186A | 01
04 | FL | ORANGE COUNTY * | 12095C0295E | 10-JAN-2001 | 01-04-0012A | 01
04 | FL | ORANGE COUNTY * | 12095C0290E | 12-JAN-2001 | 01-04-1572A | 01
04 | FL | ORANGE COUNTY * | 1201790500B | 19-JAN-2001 | 01-04-0530A | 01
04 | FL | ORANGE COUNTY * | 12095C0295E | 26-JAN-2001 | 01-04-0766A | 01
04 | FL | ORANGE COUNTY * | 12095C0290E | 02-FEB-2001 | 01-04-1906A | 01
04 | FL | ORANGE COUNTY * | 12095C0405E | 07-FEB-2001 | 01-04-1878A | 01
04 | FL | ORANGE COUNTY * | 12095C0435E | 21-FEB-2001 | 01-04-1968A | 01
04 | FL | ORANGE COUNTY * | 12095C0295E | 07-MAR-2001 | 01-04-2064A | 01
04 | FL | ORANGE COUNTY * | 12095C0290E | 23-MAR-2001 | 01-04-2646A | 01
04 | FL | ORANGE COUNTY * | 12095C0465E | 30-MAR-2001 | 01-04-2618A | 01
04 | FL | ORANGE COUNTY * | 12095C0295E | 30-MAR-2001 | 01-04-2356A | 01
04 | FL | ORANGE COUNTY * | 12095C0295E | 04-APR-2001 | 01-04-2740A | 01
04 | FL | ORANGE COUNTY * | 12095C0290E | 04-APR-2001 | 01-04-2150A | 01
04 | FL | ORANGE COUNTY * | 12095C0290E | 04-APR-2001 | 01-04-2152A | 01
04 | FL | ORANGE COUNTY * | 12095C0420E | 25-APR-2001 | 01-04-3022A | 01
04 | FL | ORANGE COUNTY * | 12095C0380E | 16-MAY-2001 | 01-04-2020A | 01
04 | FL | ORANGE COUNTY * | 12095C0270E | 23-MAY-2001 | 01-04-3760A | 01
04 | FL | ORANGE COUNTY * | 12095C0295E | 06-JUN-2001 | 01-04-3454A | 01
04 | FL | ORANGE COUNTY * | 12095C0110E | 06-JUN-2001 | 01-04-2830A | 01
04 | FL | ORANGE COUNTY * | 12095C0415E | 08-JUN-2001 | 01-04-4252A | 01
04 | FL | ORANGE COUNTY * | 12095C0585E | 20-JUN-2001 | 01-04-4248A | 01
04 | FL | ORANGE COUNTY * | 12095C0290E | 20-JUN-2001 | 01-04-4224A | 01
04 | FL | ORANGE COUNTY * | 12095C0580E | 20-JUN-2001 | 01-04-4226A | 01
04 | FL | ORANGE COUNTY * | 12095C0290E | 20-JUN-2001 | 01-04-1078A | 01
04 | FL | ORANGE COUNTY * | 12095C0585E | 27-JUN-2001 | 01-04-4286A | 01
04 | FL | ORANGE COUNTY * | 12095C0415E | 27-JUN-2001 | 01-04-4324A | 01
04 | FL | ORANGE COUNTY * | 12095C0420E | 29-JUN-2001 | 01-04-4354A | 01
04 | FL | ORLANDO, CITY OF | 12095C0265E | 30-MAR-2001 | 01-04-2822A | 02
04 | FL | ORLANDO, CITY OF | 12095C0265E | 04-MAY-2001 | 01-04-3346A | 02
04 | FL | ORLANDO, CITY OF | 12095C0270E | 15-JUN-2001 | 01-04-4318A | 02
04 | FL | ORLANDO, CITY OF | 12095C0405E | 02-FEB-2001 | 01-04-1904A | 01
04 | FL | ORLANDO, CITY OF | 12095C0240E | 25-APR-2001 | 01-04-3084A | 01
04 | FL | ORLANDO, CITY OF | 12095C0435E | 30-MAY-2001 | 01-04-3304A | 01
04 | FL | ORLANDO, CITY OF | 12095C0240E | 01-JUN-2001 | 01-04-3862A | 01
04 | FL | ORMOND BEACH, CITY OF | 1251360006D | 28-MAR-2001 | 01-04-2492A | 02
04 | FL | ORMOND BEACH, CITY OF | 1251360006D | 20-APR-2001 | 01-04-2022A | 02
04 | FL | OSCEOLA COUNTY * | 1201890120B | 10-JAN-2001 | 01-04-0652A | 02
04 | FL | OSCEOLA COUNTY * | 1201890120B | 17-JAN-2001 | 01-04-0710A | 02
04 | FL | OSCEOLA COUNTY * | 1201890140B | 26-JAN-2001 | 01-04-1722A | 02
04 | FL | OSCEOLA COUNTY * | 1201890140B | 23-FEB-2001 | 01-04-2104A | 02
04 | FL | OSCEOLA COUNTY * | 1201890120B | 02-MAR-2001 | 01-04-2206A | 02
04 | FL | OSCEOLA COUNTY * | 1201890140B | 02-MAR-2001 | 01-04-2184A | 02
04 | FL | OSCEOLA COUNTY * | 1201890205B | 02-MAR-2001 | 01-04-2186A | 02
04 | FL | OSCEOLA COUNTY * | 1201890140B | 02-MAR-2001 | 01-04-2188A | 02
04 | FL | OSCEOLA COUNTY * | 1201890120B | 02-MAR-2001 | 01-04-2190A | 02
04 | FL | OSCEOLA COUNTY * | 12097C0240E | 23-MAR-2001 | 01-04-3822A | 02
04 | FL | OSCEOLA COUNTY * | 1201890140B | 28-MAR-2001 | 01-04-2656A | 02
04 | FL | OSCEOLA COUNTY * | 1201890140B | 28-MAR-2001 | 01-04-2658A | 02
04 | FL | OSCEOLA COUNTY * | 1201890120B | 28-MAR-2001 | 01-04-2662A | 02
04 | FL | OSCEOLA COUNTY * | 12097C0400E | 16-MAY-2001 | 01-04-3680A | 02
04 | FL | OSCEOLA COUNTY * | 12097C0240E | 16-MAY-2001 | 01-04-3286A | 02
04 | FL | OSCEOLA COUNTY * | 12097C0240E | 16-MAY-2001 | 01-04-3288A | 02
04 | FL | OSCEOLA COUNTY * | 12097C0240E | 16-MAY-2001 | 01-04-3290A | 02
04 | FL | OSCEOLA COUNTY * | 12097C0240E | 16-MAY-2001 | 01-04-3292A | 02
04 | FL | OSCEOLA COUNTY * | 12097C0240E | 18-MAY-2001 | 01-04-3824A | 02
04 | FL | OSCEOLA COUNTY * | 12097C0225E | 23-MAY-2001 | 01-04-3826A | 02
04 | FL | OSCEOLA COUNTY * | 12097C0240E | 25-MAY-2001 | 01-04-3828A | 02
04 | FL | OSCEOLA COUNTY * | 12097C0240E | 25-MAY-2001 | 01-04-3830A | 02
04 | FL | OSCEOLA COUNTY * | 12097C0240E | 25-MAY-2001 | 01-04-3832A | 02
04 | FL | OSCEOLA COUNTY * | 1201890145B | 14-MAR-2001 | 01-04-1024A | 01
04 | FL | OVIEDO, CITY OF | 12117C0165E | 08-JUN-2001 | 01-04-4166A | 17
04 | FL | OVIEDO, CITY OF | 12117C0170E | 11-APR-2001 | 01-04-2338A | 02
04 | FL | PALM BEACH COUNTY * | 1201920119B | 07-MAR-2001 | 01-04-2114A | 02
04 | FL | PALM BEACH COUNTY * | 1201920200A | 27-JUN-2001 | 01-04-4288A | 01
04 | FL | PALM SPRINGS, VILLAGE OF | 1202230001D | 07-FEB-2001 | 01-04-1864A | 02
04 | FL | PALM SPRINGS, VILLAGE OF | 1202230001D | 29-JUN-2001 | 01-04-4404A | 02
04 | FL | PASCO COUNTY * | 1202300370D | 25-JAN-2001 | 00-04-2860P | 05
04 | FL | PASCO COUNTY * | 1202300100B | 02-JAN-2001 | 01-04-0434A | 02
04 | FL | PASCO COUNTY * | 1202300370D | 10-JAN-2001 | 01-04-1366A | 02
04 | FL | PASCO COUNTY * | 1202300360D | 12-JAN-2001 | 01-04-1364A | 02
04 | FL | PASCO COUNTY * | 1202300354D | 12-JAN-2001 | 01-04-0630A | 02
04 | FL | PASCO COUNTY * | 1202300250E | 12-JAN-2001 | 01-04-0588A | 02
04 | FL | PASCO COUNTY * | 1202300050C | 17-JAN-2001 | 01-04-1584A | 02
04 | FL | PASCO COUNTY * | 1202300360D | 19-JAN-2001 | 01-04-0616A | 02
04 | FL | PASCO COUNTY * | 1202300354D | 24-JAN-2001 | 01-04-1336A | 02
04 | FL | PASCO COUNTY * | 1202300195D | 26-JAN-2001 | 01-04-1414A | 02
04 | FL | PASCO COUNTY * | 1202300354D | 31-JAN-2001 | 01-04-1692A | 02
04 | FL | PASCO COUNTY * | 1202300195D | 21-FEB-2001 | 01-04-1974A | 02
04 | FL | PASCO COUNTY * | 1202300195D | 23-FEB-2001 | 01-04-2196A | 02
04 | FL | PASCO COUNTY * | 1202300335C | 28-FEB-2001 | 01-04-2130A | 02
04 | FL | PASCO COUNTY * | 1202300189C | 14-MAR-2001 | 01-04-2536A | 02
04 | FL | PASCO COUNTY * | 1202300215D | 23-MAR-2001 | 01-04-2714A | 02
04 | FL | PASCO COUNTY * | 1202300195D | 28-MAR-2001 | 01-04-2728A | 02
04 | FL | PASCO COUNTY * | 1202300195D | 30-MAR-2001 | 01-04-2760A | 02
04 | FL | PASCO COUNTY * | 1202300360D | 04-APR-2001 | 01-04-2712A | 02
04 | FL | PASCO COUNTY * | 1202300195D | 04-APR-2001 | 01-04-2624A | 02
04 | FL | PASCO COUNTY * | 1202300195D | 04-APR-2001 | 01-04-2586A | 02
04 | FL | PASCO COUNTY * | 1202300354D | 11-APR-2001 | 01-04-2816A | 02
04 | FL | PASCO COUNTY * | 1202300185D | 09-MAY-2001 | 01-04-3532A | 02
04 | FL | PASCO COUNTY * | 1202300360D | 11-MAY-2001 | 01-04-3660A | 02
04 | FL | PASCO COUNTY * | 1202300353C | 18-MAY-2001 | 01-04-3844A | 02
04 | FL | PASCO COUNTY * | 1202300205D | 23-MAY-2001 | 01-04-3794A | 02
04 | FL | PASCO COUNTY * | 1202300189C | 25-MAY-2001 | 01-04-2924A | 02
04 | FL | PASCO COUNTY * | 1202300354D | 01-JUN-2001 | 01-04-4068A | 02
04 | FL | PASCO COUNTY * | 1202300430E | 06-JUN-2001 | 01-04-4174A | 02
04 | FL | PASCO COUNTY * | 1202300180C | 06-JUN-2001 | 01-04-3996A | 02
04 | FL | PASCO COUNTY * | 1202300180C | 06-JUN-2001 | 01-04-3348A | 02
04 | FL | PASCO COUNTY * | 1202300020C | 15-JUN-2001 | 01-04-4196A | 02
04 | FL | PASCO COUNTY * | 1202300354D | 20-JUN-2001 | 01-04-4474A | 02
04 | FL | PASCO COUNTY * | 1202300450E | 04-JAN-2001 | 01-04-0022A | 01
04 | FL | PASCO COUNTY * | 1202300360D | 05-JAN-2001 | 01-04-1012A | 01
04 | FL | PASCO COUNTY * | 1202300410E | 12-JAN-2001 | 01-04-0024A | 01
04 | FL | PASCO COUNTY * | 1202300430E | 24-JAN-2001 | 01-04-1422A | 01
04 | FL | PASCO COUNTY * | 1202300410E | 24-JAN-2001 | 01-04-0744A | 01
04 | FL | PASCO COUNTY * | 1202300195D | 31-JAN-2001 | 01-04-1748A | 01
04 | FL | PASCO COUNTY * | 1202300450E | 31-JAN-2001 | 01-04-1770A | 01
04 | FL | PASCO COUNTY * | 1202300280C | 31-JAN-2001 | 01-04-0746A | 01
04 | FL | PASCO COUNTY * | 1202300189C | 02-FEB-2001 | 00-04-5444A | 01
04 | FL | PASCO COUNTY * | 1202300335C | 14-MAR-2001 | 01-04-1622A | 01
04 | FL | PASCO COUNTY * | 1202300195D | 23-MAR-2001 | 01-04-1970A | 01
04 | FL | PASCO COUNTY * | 1202300370D | 04-APR-2001 | 01-04-2030A | 01
04 | FL | PASCO COUNTY * | 1202300410E | 06-APR-2001 | 01-04-1908A | 01
04 | FL | PASCO COUNTY * | 1202300189C | 02-MAY-2001 | 01-04-3196A | 01
04 | FL | PASCO COUNTY * | 1202300410E | 04-MAY-2001 | 01-04-3124A | 01
04 | FL | PASCO COUNTY * | 1202300360D | 04-MAY-2001 | 01-04-3050A | 01
04 | FL | PASCO COUNTY * | 1202300250E | 22-JUN-2001 | 01-04-4766A | 01
04 | FL | PEMBROKE PINES, CITY OF | 12011C0295F | 02-FEB-2001 | 01-04-0340A | 02
04 | FL | PEMBROKE PINES, CITY OF | 12011C0295F | 02-FEB-2001 | 01-04-0340A | 02
04 | FL | PEMBROKE PINES, CITY OF | 12011C0312F | 23-MAY-2001 | 01-04-3190A | 01
04 | FL | PEMBROKE PINES, CITY OF | 12011C0304F | 08-JUN-2001 | 01-04-3376A | 01
04 | FL | PINELLAS COUNTY * | 1251390037C | 04-JAN-2001 | 01-04-1212A | 02
04 | FL | PINELLAS COUNTY * | 1251390036C | 12-JAN-2001 | 00-04-5700A | 02
04 | FL | PINELLAS COUNTY * | 1251390077C | 23-MAR-2001 | 01-04-2526A | 02
04 | FL | PINELLAS COUNTY * | 1251390076C | 11-APR-2001 | 01-04-2860A | 02
04 | FL | PINELLAS COUNTY * | 1251390213C | 16-MAY-2001 | 01-04-3748A | 02
04 | FL | PINELLAS COUNTY * | 1251390037C | 05-JAN-2001 | 01-04-0028A | 01
04 | FL | PINELLAS COUNTY * | 1251390077C | 21-MAR-2001 | 01-04-1070A | 01
04 | FL | PINELLAS PARK, CITY OF | 1251390201C | 21-MAR-2001 | 01-04-1072A | 01
04 | FL | PINELLAS PARK, CITY OF | 1251390201C | 25-MAY-2001 | 01-04-3470A | 01
04 | FL | POLK COUNTY* | 12105C0480F | 22-MAR-2001 | 01-04-175X | 05
04 | FL | POLK COUNTY* | 12105C0320F | 29-MAR-2001 | 01-04-524P | 05
04 | FL | POLK COUNTY* | 12105C0480F | 10-JAN-2001 | 01-04-1514A | 02
04 | FL | POLK COUNTY* | 12105C0345F | 10-JAN-2001 | 01-04-0564A | 02
04 | FL | POLK COUNTY* | 12105C0535F | 19-JAN-2001 | 01-04-1016A | 02
04 | FL | POLK COUNTY* | 12105C0755F | 31-JAN-2001 | 01-04-1704A | 02
04 | FL | POLK COUNTY* | 12105C0425F | 02-MAR-2001 | 01-04-2192A | 02
04 | FL | POLK COUNTY* | 12105C0291F | 23-MAR-2001 | 01-04-2660A | 02
04 | FL | POLK COUNTY* | 12105C0515F | 23-MAR-2001 | 01-04-2362A | 02
04 | FL | POLK COUNTY* | 12105C0359F | 30-MAR-2001 | 01-04-2870A | 02
04 | FL | POLK COUNTY* | 12105C0365F | 18-APR-2001 | 01-04-2974A | 02
04 | FL | POLK COUNTY* | 12105C0760F | 16-MAY-2001 | 01-04-3730A | 02
04 | FL | POLK COUNTY* | 12105C0510F | 01-JUN-2001 | 01-04-3946A | 02
04 | FL | POLK COUNTY* | 12105C0291F | 08-JUN-2001 | 01-04-3970A | 02
04 | FL | POLK COUNTY* | 12105C0320F | 13-JUN-2001 | 01-04-4328A | 02
04 | FL | POLK COUNTY* | 12105C0530F | 13-JUN-2001 | 01-04-3468A | 02
04 | FL | POLK COUNTY* | 12105C0535F | 15-JUN-2001 | 01-04-4360A | 02
04 | FL | POLK COUNTY* | 12105C0490F | 27-JUN-2001 | 01-04-3368A | 02
04 | FL | POLK COUNTY* | 12105C0555F | 29-JUN-2001 | 01-04-3972A | 02
04 | FL | POLK COUNTY* | 12105C0250F | 02-MAR-2001 | 01-04-2222A | 01
04 | FL | POLK COUNTY* | 12105C0275F | 02-MAY-2001 | 01-04-2204A | 01
04 | FL | POLK COUNTY* | 12105C0275F | 01-JUN-2001 | 01-04-4160A | 01
04 | FL | POLK COUNTY* | 12105C0275F | 01-JUN-2001 | 01-04-3754A | 01
04 | FL | POMPANO BEACH, CITY OF | 12011C0120F | 16-MAY-2001 | 01-04-3480A | 02
04 | FL | PORT ORANGE, CITY OF | 1203130010C | 17-JAN-2001 | 01-04-0050A | 01
04 | FL | PORT ORANGE, CITY OF | 1203130005C | 23-MAY-2001 | 01-04-2980A | 01
04 | FL | PORT ORANGE, CITY OF | 1251550408E | 15-JUN-2001 | 01-04-4232X | 01
04 | FL | PORT RICHEY, CITY OF | 1202300187C | 28-MAR-2001 | 01-04-2794A | 02
04 | FL | PORT ST. LUCIE, CITY OF | 12111C0405F | 16-MAR-2001 | 01-04-0622A | 02
04 | FL | PUTNAM COUNTY * | 1202720080A | 04-JAN-2001 | 01-04-1274A | 02
04 | FL | PUTNAM COUNTY * | 1202720250B | 30-MAR-2001 | 01-04-2462A | 02
04 | FL | ROCKLEDGE, CITY OF | 12009C0430E | 16-FEB-2001 | 00-04-277P | 06
04 | FL | ROCKLEDGE, CITY OF | 12009C0350E | 24-JAN-2001 | 01-04-1686A | 02
04 | FL | ROCKLEDGE, CITY OF | 12009C0355E | 26-JAN-2001 | 01-04-1570A | 02
04 | FL | ROCKLEDGE, CITY OF | 12009C0350E | 25-APR-2001 | 01-04-3158A | 02
04 | FL | ROCKLEDGE, CITY OF | 12009C0355E | 06-APR-2001 | 01-04-2698A | 01
04 | FL | ROCKLEDGE, CITY OF | 12009C0365E | 13-APR-2001 | 01-04-3160A | 01
04 | FL | SANFORD, CITY OF | 12117C0045E | 23-MAR-2001 | 01-04-1068A | 01
04 | FL | SANTA ROSA COUNTY * | 1202740260B | 18-MAY-2001 | 01-04-3904A | 02
04 | FL | SANTA ROSA COUNTY * | 1202740341C | 09-MAY-2001 | 01-04-3464A | 01
04 | FL | SARASOTA COUNTY * | 1251440331E | 02-FEB-2001 | 01-04-1802X | 01
04 | FL | SEBASTIAN, CITY OF | 12061C0079F | 31-JAN-2001 | 01-04-1118A | 01
04 | FL | SEMINOLE COUNTY* | 12117C0145E | 07-MAR-2001 | 01-04-2342A | 17
04 | FL | SEMINOLE COUNTY* | 12117C0145E | 30-MAR-2001 | 01-04-2776A | 17
04 | FL | SEMINOLE COUNTY* | 12117C0080E | 07-FEB-2001 | 00-04-059P | 05
04 | FL | SEMINOLE COUNTY* | 12117C0170E | 23-MAY-2001 | 01-04-025P | 05
04 | FL | SEMINOLE COUNTY* | 12117C0145E | 02-FEB-2001 | 01-04-1918A | 02
04 | FL | SEMINOLE COUNTY* | 12117C0145E | 02-FEB-2001 | 01-04-1918A | 02
04 | FL | SEMINOLE COUNTY* | 12117C0145E | 02-MAR-2001 | 01-04-2100A | 02
04 | FL | SEMINOLE COUNTY* | 12117C0145E | 14-MAR-2001 | 01-04-2346A | 02
04 | FL | SEMINOLE COUNTY* | 12117C0110E | 14-MAR-2001 | 01-04-2328A | 02
04 | FL | SEMINOLE COUNTY* | 12117C0145E | 14-MAR-2001 | 01-04-1696A | 02
04 | FL | SEMINOLE COUNTY* | 12117C0145E | 06-APR-2001 | 01-04-2862A | 02
04 | FL | SEMINOLE COUNTY* | 12117C0110E | 11-APR-2001 | 01-04-2966A | 02
04 | FL | SEMINOLE COUNTY* | 12117C0145E | 09-MAY-2001 | 01-04-2890A | 02
04 | FL | SEMINOLE COUNTY* | 12117C0145E | 11-MAY-2001 | 01-04-2636A | 02
04 | FL | SEMINOLE COUNTY* | 12117C0145E | 18-MAY-2001 | 01-04-3656A | 02
04 | FL | SEMINOLE COUNTY* | 12117C0020E | 29-JUN-2001 | 01-04-4234A | 02
04 | FL | SEMINOLE COUNTY* | 12117C0165E | 31-JAN-2001 | 01-04-1800X | 01
04 | FL | SEMINOLE COUNTY* | 12117C0110E | 21-FEB-2001 | 01-04-1410A | 01
04 | FL | SEMINOLE COUNTY* | 12117C0165E | 15-JUN-2001 | 01-04-3678A | 01
04 | FL | SEWALLS POINT, TOWN OF | 1201640001E | 09-MAY-2001 | 01-04-3460A | 02
04 | FL | ST. CLOUD, CITY OF | 12097C0095F | 08-MAY-2001 | 01-04-3514V | 19
04 | FL | ST. CLOUD, CITY OF | 12097C0252F | 08-MAY-2001 | 01-04-3514V | 19
04 | FL | ST. CLOUD, CITY OF | 12097C02565F | 08-MAY-2001 | 01-04-3514V | 19
04 | FL | ST. CLOUD, CITY OF | 12097C0257F | 08-MAY-2001 | 01-04-3514V | 19
04 | FL | ST. CLOUD, CITY OF | 12097C0260F | 08-MAY-2001 | 01-04-3514V | 19
04 | FL | ST. CLOUD, CITY OF | 1201910005D | 09-FEB-2001 | 01-04-1888A | 02
04 | FL | ST. CLOUD, CITY OF | 1201890135C | 06-APR-2001 | 01-04-2220A | 01
04 | FL | ST. JOHNS COUNTY * | 1251470209D | 09-FEB-2001 | 01-04-1746A | 02
04 | FL | ST. JOHNS COUNTY * | 1251470209D | 23-FEB-2001 | 01-04-2236A | 02
04 | FL | ST. JOHNS COUNTY * | 1251470020D | 14-MAR-2001 | 01-04-2282A | 02
04 | FL | ST. JOHNS COUNTY * | 1251470090D | 29-JUN-2001 | 01-04-4482A | 01
04 | FL | ST. LUCIE COUNTY * | 12111C0089G | 15-MAR-2001 | 01-04-1642A | 02
04 | FL | ST. PETERSBURG, CITY OF | 1251390207C | 02-MAY-2001 | 01-04-3104A | 01
04 | FL | SUMTER COUNTY * | 1202960075B | 09-MAR-2001 | 01-04-2466A | 02
04 | FL | SUMTER COUNTY * | 1202960200B | 21-MAR-2001 | 01-04-1680A | 02
04 | FL | SUMTER COUNTY * | 1202960075B | 26-JAN-2001 | 01-04-1674A | 01
04 | FL | SUNRISE, CITY OF | 12011C0212F | 30-MAR-2001 | 01-04-2576A | 02
04 | FL | SUNRISE, CITY OF | 12011C0205F | 25-MAY-2001 | 01-04-3278X | 02
04 | FL | TAMARAC, CITY OF | 12011C0205F | 06-APR-2001 | 01-04-2700A | 02
04 | FL | TAMARAC, CITY OF | 12011C0185F | 16-MAR-2001 | 01-04-1074A | 01
04 | FL | TAMARAC, CITY OF | 12011C0185F | 13-APR-2001 | 01-04-1080A | 01
04 | FL | TAMARAC, CITY OF | 12011C0185F | 27-JUN-2001 | 01-04-4222A | 01
04 | FL | TAMPA, CITY OF | 1201120210E | 14-MAR-2001 | 01-04-1066A | 01
04 | FL | TAMPA, CITY OF | 1201120095C | 21-MAR-2001 | 01-04-2272A | 01
04 | FL | TAMPA, CITY OF | 1201120210E | 01-JUN-2001 | 01-04-1082A | 01
04 | FL | TARPON SPRINGS, CITY OF | 1202590008B | 15-MAR-2001 | 01-04-1354A | 02
04 | FL | TARPON SPRINGS, CITY OF | 1251390036C | 11-MAY-2001 | 01-04-3178A | 01
04 | FL | TAVARES, CITY OF | 1201380001B | 12-JAN-2001 | 01-04-1220A | 02
04 | FL | TAVARES, CITY OF | 1201380001B | 24-JAN-2001 | 01-04-0640A | 02
04 | FL | TITUSVILLE, CITY OF | 12009C0185F | 09-MAY-2001 | 01-04-3622A | 02
04 | FL | TITUSVILLE, CITY OF | 12009C0180E | 06-APR-2001 | 01-04-2828A | 01
04 | FL | VOLUSIA COUNTY* | 1251550550E | 21-FEB-2001 | 01-04-1792A | 02
04 | FL | VOLUSIA COUNTY* | 1251550425E | 11-MAY-2001 | 01-04-2162A | 02
04 | FL | VOLUSIA COUNTY* | 1251550408E | 17-JAN-2001 | 01-04-1312A | 01
04 | FL | WAKULLA COUNTY * | 1203150250B | 26-JAN-2001 | 01-04-1390A | 02
04 | FL | WALTON COUNTY * | 12131C0737F | 12-JAN-2001 | 01-04-1010A | 02
04 | FL | WALTON COUNTY * | 12131C0543F | 17-JAN-2001 | 01-04-1426A | 02
04 | FL | WALTON COUNTY * | 12131C0543F | 28-FEB-2001 | 01-04-0544A | 02
04 | FL | WALTON COUNTY * | 12131C0358F | 25-MAY-2001 | 01-04-3928A | 02
04 | FL | WALTON COUNTY * | 12131C0554F | 06-JUN-2001 | 01-04-4144A | 02
04 | FL | WALTON COUNTY * | 12131C0543 | 15-JUN-2001 | 01-04-2502A | 02
04 | FL | WALTON COUNTY * | 12131C0527F | 29-JUN-2001 | 01-04-4534A | 02
04 | FL | WELLINGTON, VILLAGE OF | 1201920100B | 18-APR-2001 | 01-04-3048A | 01
04 | FL | WEST PALM BEACH, CITY OF | 1201920155B | 30-MAY-2001 | 01-04-3948X | 01
04 | FL | WINTER GARDEN, CITY OF | 12095C0215E | 20-JUN-2001 | 01-04-3850A | 02
04 | FL | WINTER GARDEN, CITY OF | 12095C0215E | 02-MAR-2001 | 01-04-1060A | 01
04 | FL | WINTER HAVEN, CITY OF | 12105C0366F | 10-JAN-2001 | 01-04-1242A | 02
04 | FL | WINTER PARK, CITY OF | 12095C0255E | 23-MAY-2001 | 01-04-3456A | 02
04 | FL | WINTER SPRINGS, CITY OF | 12117C0130E | 07-FEB-2001 | 00-04-059P | 05
04 | FL | WINTER SPRINGS, CITY OF | 12117C0145E | 13-JUN-2001 | 01-04-3682A | 02
04 | FL | WINTER SPRINGS, CITY OF | 12117C0135E | 09-FEB-2001 | 01-04-0968A | 01
04 | FL | ZEPHYRHILLS, CITY OF | 1202350005C | 14-FEB-2001 | 01-04-1934A | 02
04 | GA | ALPHARETTA, CITY OF | 13121C0058E | 09-JAN-2001 | 01-04-0170A | 02
04 | GA | ATHENS, CITY OF | 1300400022C | 21-MAR-2001 | 00-04-247P | 05
04 | GA | ATHENS-CLARKE COUNTY | 1300400021C | 21-APR-2001 | 01-04-3068A | 02
04 | GA | ATLANTA, CITY OF | 13121C0261E | 08-MAY-2001 | 01-04-3422V | 19
04 | GA | ATLANTA, CITY OF | 13121C0062E | 08-MAY-2001 | 01-04-3422V | 19
04 | GA | ATLANTA, CITY OF | 13121C0232E | 08-MAY-2001 | 01-04-3422V | 19
04 | GA | ATLANTA, CITY OF | 13121C0233E | 08-MAY-2001 | 01-04-3422V | 19
04 | GA | ATLANTA, CITY OF | 13121C0334E | 08-MAY-2001 | 01-04-3422V | 19
04 | GA | ATLANTA, CITY OF | 13121C0236E | 08-MAY-2001 | 01-04-3422V | 19
04 | GA | ATLANTA, CITY OF | 13121C0253E | 08-MAY-2001 | 01-04-3422V | 19
04 | GA | ATLANTA, CITY OF | 13121C0357E | 08-MAY-2001 | 01-04-3422V | 19
04 | GA | ATLANTA, CITY OF | 13121C0229E | 02-MAR-2001 | 01-04-0054A | 17
04 | GA | ATLANTA, CITY OF | 13121C0231E | 02-FEB-2001 | 01-04-0158A | 02
04 | GA | ATLANTA, CITY OF | 13121C0233E | 23-MAR-2001 | 01-04-2322A | 02
04 | GA | ATLANTA, CITY OF | 13121C0233E | 22-JUN-2001 | 01-04-2762A | 02
04 | GA | BALDWIN COUNTY* | 1300050050B | 06-JUN-2001 | 01-04-4026A | 02
04 | GA | BARROW COUNTY* | 1304970050A | 31-JAN-2001 | 01-04-1092A | 02
04 | GA | BARROW COUNTY* | 1304970025A | 13-APR-2001 | 01-04-2756A | 02
04 | GA | BLACKSHEAR, CITY OF | 13229C0165C | 14-FEB-2001 | 01-04-2098A | 02
04 | GA | CAMDEN COUNTY* | 13039C0360C | 17-JAN-2001 | 01-04-1344A | 02
04 | GA | CATOOSA COUNTY* | 1300280025D | 05-JAN-2001 | 00-04-235P | 05
04 | GA | CATOOSA COUNTY* | 1300280025D | 12-MAY-2001 | 00-04-335P | 05
04 | GA | CHAMBLEE, CITY OF | 13089C0014H | 08-MAY-2001 | 01-04-3430V | 19
04 | GA | CHAMBLEE, CITY OF | 13089C0018H | 08-MAY-2001 | 01-04-3430V | 19
04 | GA | CHATHAM COUNTY* | 1300300120C | 13-APR-2001 | 01-04-2238A | 18
04 | GA | CHATHAM COUNTY* | 1300300095D | 16-FEB-2001 | 00-04-051P | 05
04 | GA | CHATHAM COUNTY* | 1300300075C | 25-APR-2001 | 01-04-3268A | 02
04 | GA | CHATHAM COUNTY* | 1300300115D | 06-JUN-2001 | 01-04-4246A | 02
04 | GA | CHATHAM COUNTY* | 1300300075C | 02-MAR-2001 | 00-04-5950A | 01
04 | GA | CLARKSTON, CITY OF | 13089C0086H | 08-MAY-2001 | 01-04-3432V | 19
04 | GA | CLAYTON COUNTY* | 1300410055C | 17-JAN-2001 | 01-04-0478A | 02
04 | GA | CLAYTON COUNTY* | 1300410018C | 07-MAR-2001 | 01-04-0742A | 02
04 | GA | CLAYTON COUNTY* | 1300410009B | 11-APR-2001 | 01-04-2944A | 02
04 | GA | CLAYTON COUNTY* | 1300410055C | 25-MAY-2001 | 01-04-3960A | 02
04 | GA | CLAYTON COUNTY* | 1300410065B | 08-JUN-2001 | 01-04-4310A | 02
04 | GA | COBB COUNTY* | 13067C0050F | 02-MAY-2001 | 01-04-2548A | 17
04 | GA | COBB COUNTY* | 13067C0065F | 05-JAN-2001 | 01-04-0466A | 02
04 | GA | COBB COUNTY* | 13067C0040F | 17-JAN-2001 | 01-04-1610X | 02
04 | GA | COBB COUNTY* | 13067C0060F | 17-JAN-2001 | 01-04-1450A | 02
04 | GA | COBB COUNTY* | 13067C0035F | 19-JAN-2001 | 01-04-0560A | 02
04 | GA | COBB COUNTY* | 13067C0050F | 24-JAN-2001 | 01-04-0826A | 02
04 | GA | COBB COUNTY* | 13067C0045F | 09-FEB-2001 | 01-04-1562A | 02
04 | GA | COBB COUNTY* | 13067C0030F | 09-FEB-2001 | 01-04-0390A | 02
04 | GA | COBB COUNTY* | 13067C0050F | 09-FEB-2001 | 01-04-0400A | 02
04 | GA | COBB COUNTY* | 13067C0035F | 14-FEB-2001 | 01-04-1924A | 02
04 | GA | COBB COUNTY* | 13067C0070F | 14-FEB-2001 | 01-04-1698A | 02
04 | GA | COBB COUNTY* | 13067C0035F | 14-FEB-2001 | 01-04-0664A | 02
04 | GA | COBB COUNTY* | 13067C0085F | 21-FEB-2001 | 01-04-1702A | 02
04 | GA | COBB COUNTY* | 13067C0010F | 21-FEB-2001 | 01-04-1448A | 02
04 | GA | COBB COUNTY* | 13067C0070F | 28-FEB-2001 | 01-04-0212A | 02
04 | GA | COBB COUNTY* | 13067C0030F | 21-MAR-2001 | 01-04-2440A | 02
04 | GA | COBB COUNTY* | 13067C0040F | 18-APR-2001 | 01-04-2316A | 02
04 | GA | COBB COUNTY* | 13067C0040F | 20-APR-2001 | 01-04-2390A | 02
04 | GA | COBB COUNTY* | 130067C0035 | 20-APR-2001 | 01-04-0942A | 02
04 | GA | COBB COUNTY* | 13067C0035F | 25-APR-2001 | 01-04-1484A | 02
04 | GA | COBB COUNTY* | 13067C0015F | 25-APR-2001 | 01-04-0976A | 02
04 | GA | COBB COUNTY* | 13067C0050F | 27-APR-2001 | 01-04-2494A | 02
04 | GA | COBB COUNTY* | 13067C0035F | 02-MAY-2001 | 01-04-2258A | 02
04 | GA | COBB COUNTY* | 13067C0030F | 25-MAY-2001 | 01-04-1432A | 02
04 | GA | COBB COUNTY* | 13067C0025F | 01-JUN-2001 | 01-04-0184A | 02
04 | GA | COBB COUNTY* | 13067C0070F | 15-JUN-2001 | 01-04-3214A | 02
04 | GA | COBB COUNTY* | 13067C0050F | 27-JUN-2001 | 01-04-4488A | 02
04 | GA | COBB COUNTY* | 13067C0025F | 29-JUN-2001 | 01-04-3842A | 02
04 | GA | COBB COUNTY* | 13067C0025F | 29-JUN-2001 | 01-04-3338A | 02
04 | GA | COBB COUNTY* | 13067C0025F | 23-FEB-2001 | 01-04-1056A | 01
04 | GA | COLUMBIA COUNTY* | 1300590095B | 05-JAN-2001 | 01-04-1134A | 02
04 | GA | COLUMBIA COUNTY* | 1300590080C | 25-APR-2001 | 01-04-2042A | 02
04 | GA | COLUMBUS, CITY OF | 1351580050D | 14-MAR-2001 | 01-04-2314A | 02
04 | GA | COLUMBUS, CITY OF | 1351580050D | 14-MAR-2001 | 01-04-2286A | 02
04 | GA | COLUMBUS, CITY OF | 1351580050D | 23-MAY-2001 | 01-04-3912X | 02
04 | GA | COLUMBUS, CITY OF | 1351580015D | 23-MAY-2001 | 01-04-3890A | 02
04 | GA | COLUMBUS, CITY OF | 1351580050D | 11-APR-2001 | 01-04-2364A | 01
04 | GA | COLUMBUS, CITY OF | 1351580050D | 27-APR-2001 | 01-04-1982A | 01
04 | GA | COWETA COUNTY * | 1302980240B | 19-JAN-2001 | 01-04-0460A | 02
04 | GA | COWETA COUNTY * | 1302980230B | 09-FEB-2001 | 01-04-0840A | 02
04 | GA | CRISP COUNTY * | 1305040025A | 21-MAR-2001 | 01-04-0368A | 08
04 | GA | CRISP COUNTY* | 1305040025A | 31-JAN-2001 | 01-04-0750A | 02
04 | GA | DADE COUNTY * | 13083C0075C | 07-MAR-2001 | 01-04-1876A | 02
04 | GA | DE KALB COUNTY * | 13089C0201H | 08-MAY-2001 | 01-04-3426V | 19
04 | GA | DE KALB COUNTY * | 13089C0067H | 08-MAY-2001 | 01-04-3426V | 19
04 | GA | DE KALB COUNTY * | 13089C0086H | 08-MAY-2001 | 01-04-3426V | 19
04 | GA | DE KALB COUNTY * | 13089C0057H | 08-MAY-2001 | 01-04-3426V | 19
04 | GA | DE KALB COUNTY * | 13089C0056H | 08-MAY-2001 | 01-04-3426V | 19
04 | GA | DE KALB COUNTY * | 13089C0114H | 08-MAY-2001 | 01-04-3426V | 19
04 | GA | DE KALB COUNTY * | 13089C0161H | 08-MAY-2001 | 01-04-3426V | 19
04 | GA | DE KALB COUNTY * | 13089C0093H | 08-MAY-2001 | 01-04-3426V | 19
04 | GA | DE KALB COUNTY * | 13089C0068H | 08-MAY-2001 | 01-04-3426V | 19
04 | GA | DE KALB COUNTY * | 13089C0087H | 08-MAY-2001 | 01-04-3426V | 19
04 | GA | DE KALB COUNTY * | 13089C0018H | 08-MAY-2001 | 01-04-3426V | 19
04 | GA | DE KALB COUNTY * | 13089C0127H | 08-MAY-2001 | 01-04-3426V | 19
04 | GA | DE KALB COUNTY * | 13089C0153H | 08-MAY-2001 | 01-04-3426V | 19
04 | GA | DE KALB COUNTY * | 13089C0084H | 08-MAY-2001 | 01-04-3426V | 19
04 | GA | DE KALB COUNTY * | 13089C0091H | 08-MAY-2001 | 01-04-3426V | 19
04 | GA | DE KALB COUNTY * | 13089C0078H | 08-MAY-2001 | 01-04-3426V | 19
04 | GA | DE KALB COUNTY * | 13089C0113H | 08-MAY-2001 | 01-04-3426V | 19
04 | GA | DE KALB COUNTY * | 13089C0016H | 08-MAY-2001 | 01-04-3426V | 19
04 | GA | DE KALB COUNTY * | 13089C0163H | 08-MAY-2001 | 01-04-3426V | 19
04 | GA | DE KALB COUNTY * | 13089C0014H | 08-MAY-2001 | 01-04-3426V | 19
04 | GA | DE KALB COUNTY * | 13089C0094H | 08-MAY-2001 | 01-04-3426V | 19
04 | GA | DE KALB COUNTY * | 13089C0038H | 08-MAY-2001 | 01-04-3426V | 19
04 | GA | DE KALB COUNTY * | 13089C0054H | 08-MAY-2001 | 01-04-3426V | 19
04 | GA | DE KALB COUNTY * | 13089C0059H | 08-MAY-2001 | 01-04-3426V | 19
04 | GA | DE KALB COUNTY * | 13089C0137H | 08-MAY-2001 | 01-04-3426V | 19
04 | GA | DE KALB COUNTY * | 13089C0052H | 08-MAY-2001 | 01-04-3426V | 19
04 | GA | DE KALB COUNTY * | 13089C0013H | 08-MAY-2001 | 01-04-3426V | 19
04 | GA | DE KALB COUNTY * | 13089C0058H | 08-MAY-2001 | 01-04-3426V | 19
04 | GA | DE KALB COUNTY * | 13089C0159H | 08-MAY-2001 | 01-04-3426V | 19
04 | GA | DE KALB COUNTY * | 13089C0076H | 08-MAY-2001 | 01-04-3426V | 19
04 | GA | DE KALB COUNTY * | 13089C0089H | 08-MAY-2001 | 01-04-3426V | 19
04 | GA | DE KALB COUNTY * | 13089C0151H | 08-MAY-2001 | 01-04-3426V | 19
04 | GA | DE KALB COUNTY * | 13089C0152H | 08-MAY-2001 | 01-04-3426V | 19
04 | GA | DE KALB COUNTY * | 13089C0088H | 08-MAY-2001 | 01-04-3426V | 19
04 | GA | DE KALB COUNTY * | 13089C0069H | 08-MAY-2001 | 01-04-3426V | 19
04 | GA | DE KALB COUNTY * | 13089C0142H | 08-MAY-2001 | 01-04-3426V | 19
04 | GA | DE KALB COUNTY * | 13089C0081H | 08-MAY-2001 | 01-04-3426V | 19
04 | GA | DE KALB COUNTY * | 13089C0062H | 08-MAY-2001 | 01-04-3426V | 19
04 | GA | DE KALB COUNTY * | 13089C0019H | 08-MAY-2001 | 01-04-3426V | 19
04 | GA | DE KALB COUNTY * | 13089C0111H | 08-MAY-2001 | 01-04-3426V | 19
04 | GA | DE KALB COUNTY * | 13089C0084H | 08-MAY-2001 | 01-04-3426V | 19
04 | GA | DE KALB COUNTY * | 13089C0132H | 08-MAY-2001 | 01-04-3426V | 19
04 | GA | DE KALB COUNTY * | 13089C0010H | 08-MAY-2001 | 01-04-3426V | 19
04 | GA | DE KALB COUNTY * | 13089C0093H | 08-MAY-2001 | 01-04-3426V | 19
04 | GA | DE KALB COUNTY * | 13089C0162H | 08-MAY-2001 | 01-04-3426V | 19
04 | GA | DE KALB COUNTY * | 13089C0076H | 08-MAY-2001 | 01-04-3426V | 19
04 | GA | DE KALB COUNTY * | 1300650006D | 06-APR-2001 | 01-04-1558A | 17
04 | GA | DE KALB COUNTY * | 1300650011F | 09-JAN-2001 | 01-04-0726A | 02
04 | GA | DE KALB COUNTY * | 1300650003E | 31-JAN-2001 | 01-04-1256A | 02
04 | GA | DE KALB COUNTY * | 1300650003E | 02-FEB-2001 | 01-04-1028A | 02
04 | GA | DE KALB COUNTY * | 1300650003E | 07-FEB-2001 | 01-04-1536A | 02
04 | GA | DE KALB COUNTY * | 1300650004E | 14-FEB-2001 | 01-04-1756A | 02
04 | GA | DE KALB COUNTY * | 1300650005G | 11-APR-2001 | 01-04-2072A | 02
04 | GA | DE KALB COUNTY * | 1300650003E | 13-APR-2001 | 01-04-2582A | 02
04 | GA | DE KALB COUNTY * | 13089C0057H | 27-JUN-2001 | 01-04-4266A | 02
04 | GA | DECATUR, CITY OF | 13089C0068H | 08-MAY-2001 | 01-04-3428V | 19
04 | GA | DECATUR, CITY OF | 13089C0066H | 08-MAY-2001 | 01-04-3428V | 19
04 | GA | DECATUR, CITY OF | 130065 | 08-JUN-2001 | 01-04-2474A | 02
04 | GA | DORAVILLE, CITY OF | 13089C0017H | 08-MAY-2001 | 01-04-3434V | 19
04 | GA | DORAVILLE, CITY OF | 13089C0019H | 08-MAY-2001 | 01-04-3434V | 19
04 | GA | DULUTH, CITY OF | 1300980002C | 19-JAN-2001 | 01-04-1618A | 02
04 | GA | DULUTH, CITY OF | 1300980002C | 13-APR-2001 | 01-04-2344A | 02
04 | GA | EAST POINT, CITY OF | 13121C0354E | 10-JAN-2001 | 01-04-0272A | 02
04 | GA | EFFINGHAM COUNTY * | 1300670160C | 14-MAR-2001 | 01-04-2116A | 02
04 | GA | EFFINGHAM COUNTY * | 1300760140B | 18-APR-2001 | 01-04-3004A | 02
04 | GA | FAIRBURN, CITY OF | 13121C0454E | 14-MAR-2001 | 01-04-1222A | 02
04 | GA | FANNIN COUNTY | 13111C0160D | 17-JAN-2001 | 00-04-4654A | 02
04 | GA | FANNIN COUNTY | 13111C0045D | 28-MAR-2001 | 01-04-2008A | 02
04 | GA | FANNIN COUNTY | 13111C0185 | 11-MAY-2001 | 01-04-2478A | 02
04 | GA | FLOYD COUNTY* | 13115C0265D | 10-JAN-2001 | 01-04-1374A | 02
04 | GA | FLOYD COUNTY* | 13115C0270D | 23-FEB-2001 | 01-04-2048A | 02
04 | GA | FLOYD COUNTY* | 13115C0335D | 16-MAR-2001 | 01-04-2488A | 02
04 | GA | FLOYD COUNTY* | 13115C0185D | 19-JAN-2001 | 01-04-0610A | 01
04 | GA | FLOYD COUNTY* | 13115C0185D | 23-FEB-2001 | 01-04-1984A | 01
04 | GA | FORSYTH COUNTY * | 13117C0115C | 06-JUN-2001 | 01-04-2604A | 01
04 | GA | FORT OGLETHORPE, CITY OF | 1300280025D | 05-JAN-2001 | 00-04-235P | 05
04 | GA | FULTON COUNTY * | 13121C0163E | 08-MAY-2001 | 01-04-3424V | 19
04 | GA | FULTON COUNTY * | 13121C0134E | 08-MAY-2001 | 01-04-3424V | 19
04 | GA | FULTON COUNTY * | 13121C0067E | 08-MAY-2001 | 01-04-3424V | 19
04 | GA | FULTON COUNTY * | 13121C0230E | 08-MAY-2001 | 01-04-3424V | 19
04 | GA | FULTON COUNTY * | 13121C0033E | 08-MAY-2001 | 01-04-3424V | 19
04 | GA | FULTON COUNTY * | 13121C0141E | 08-MAY-2001 | 01-04-3424V | 19
04 | GA | FULTON COUNTY * | 13121C0330E | 08-MAY-2001 | 01-04-3424V | 19
04 | GA | FULTON COUNTY * | 13121C0232E | 08-MAY-2001 | 01-04-3424V | 19
04 | GA | FULTON COUNTY * | 13121C0087E | 08-MAY-2001 | 01-04-3424V | 19
04 | GA | FULTON COUNTY * | 13121C0478E | 08-MAY-2001 | 01-04-3424V | 19
04 | GA | FULTON COUNTY * | 13121C0331E | 08-MAY-2001 | 01-04-3424V | 19
04 | GA | FULTON COUNTY * | 13121C0470E | 08-MAY-2001 | 01-04-3424V | 19
04 | GA | FULTON COUNTY * | 13121C0054E | 10-JAN-2001 | 01-04-0656A | 02
04 | GA | FULTON COUNTY * | 13121C0115E | 31-JAN-2001 | 01-04-1148A | 02
04 | GA | FULTON COUNTY * | 13121C0460E | 09-FEB-2001 | 01-04-1464A | 02
04 | GA | FULTON COUNTY * | 13121C0332E | 09-FEB-2001 | 01-04-1244A | 02
04 | GA | FULTON COUNTY * | 13121C0115E | 14-FEB-2001 | 01-04-1654A | 02
04 | GA | FULTON COUNTY * | 13121C0115E | 14-FEB-2001 | 01-04-0904A | 02
04 | GA | FULTON COUNTY * | 13121C0080E | 23-FEB-2001 | 01-04-0468A | 02
04 | GA | FULTON COUNTY * | 13121C0141E | 02-MAR-2001 | 01-04-1832A | 02
04 | GA | FULTON COUNTY * | 13121C0144E | 23-MAR-2001 | 01-04-1794A | 02
04 | GA | FULTON COUNTY * | 13121C0143E | 18-APR-2001 | 01-04-3074A | 02
04 | GA | FULTON COUNTY * | 13121C0115E | 08-JUN-2001 | 01-04-3874A | 02
04 | GA | FULTON COUNTY * | 13121C0331E | 08-JUN-2001 | 01-04-0194A | 02
04 | GA | GAINESVILLE, CITY OF | 13139C0180E | 14-FEB-2001 | 00-04-6042A | 02
04 | GA | GARDEN CITY, CITY OF | 1351610001C | 14-FEB-2001 | 01-04-2010A | 02
04 | GA | GWINNETT COUNTY * | 1303220090C | 01-JUN-2001 | 00-04-123P | 05
04 | GA | GWINNETT COUNTY * | 1303220070C | 18-JUN-2001 | 00-04-279P | 05
04 | GA | GWINNETT COUNTY * | 1303220190C | 05-JAN-2001 | 00-04-5000A | 02
04 | GA | GWINNETT COUNTY * | 1303220170C | 10-JAN-2001 | 01-04-0604A | 02
04 | GA | GWINNETT COUNTY * | 1303220095C | 12-JAN-2001 | 00-04-5406A | 02
04 | GA | GWINNETT COUNTY * | 1303220205C | 07-MAR-2001 | 01-04-1112A | 02
04 | GA | GWINNETT COUNTY * | 1303220195C | 21-MAR-2001 | 01-04-1430A | 02
04 | GA | GWINNETT COUNTY * | 1303220055C | 25-APR-2001 | 01-04-2654A | 02
04 | GA | GWINNETT COUNTY * | 1303220195C | 25-APR-2001 | 01-04-2076A | 02
04 | GA | GWINNETT COUNTY * | 1303220090 | 27-APR-2001 | 01-04-2664A | 02
04 | GA | GWINNETT COUNTY * | 1303220170C | 11-MAY-2001 | 01-04-3182A | 02
04 | GA | GWINNETT COUNTY * | 1303220190C | 11-MAY-2001 | 01-04-2992A | 02
04 | GA | GWINNETT COUNTY * | 1303220170C | 06-JUN-2001 | 01-04-3002A | 02
04 | GA | GWINNETT COUNTY * | 1303220195C | 15-JUN-2001 | 01-04-3974A | 02
04 | GA | GWINNETT COUNTY * | 1303220095C | 12-JAN-2001 | 00-04-5716A | 01
04 | GA | GWINNETT COUNTY * | 1303220195C | 24-JAN-2001 | 00-04-5572A | 01
04 | GA | GWINNETT COUNTY * | 1303220165B | 21-FEB-2001 | 01-04-2018A | 01
04 | GA | GWINNETT COUNTY * | 1303220095C | 24-MAY-2001 | 01-04-3888A | 01
04 | GA | GWINNETT COUNTY * | 1303220095C | 08-JUN-2001 | 01-04-4244A | 01
04 | GA | GWINNETT COUNTY * | 1303220070C | 30-MAR-2001 | 01-04-1822A | 08
04 | GA | HALL COUNTY * | 13139C0275E | 17-JAN-2001 | 01-04-1550A | 02
04 | GA | HALL COUNTY * | 13139C0300E | 19-JAN-2001 | 01-04-0940A | 02
04 | GA | HALL COUNTY * | 13139C0312E | 31-JAN-2001 | 01-04-1520A | 02
04 | GA | HALL COUNTY * | 13139C0300E | 14-FEB-2001 | 01-04-1926A | 02
04 | GA | HALL COUNTY * | 13139C0300E | 14-FEB-2001 | 00-04-5538A | 02
04 | GA | HALL COUNTY * | 13139C0275E | 21-FEB-2001 | 01-04-2054A | 02
04 | GA | HALL COUNTY * | 13139C0300E | 28-FEB-2001 | 01-04-1790A | 02
04 | GA | HALL COUNTY * | 13139C0175E | 14-MAR-2001 | 01-04-1914A | 02
04 | GA | HALL COUNTY * | 13139C0312E | 16-MAR-2001 | 01-04-2334A | 02
04 | GA | HALL COUNTY * | 13139C0312E | 21-MAR-2001 | 01-04-2594A | 02
04 | GA | HALL COUNTY * | 13139C0125C | 04-APR-2001 | 01-04-2024A | 02
04 | GA | HALL COUNTY * | 13139C0303E | 06-APR-2001 | 01-04-3034A | 02
04 | GA | HALL COUNTY * | 13139C0275E | 11-APR-2001 | 01-04-3062A | 02
04 | GA | HALL COUNTY * | 13139C0175E | 20-APR-2001 | 01-04-2382A | 02
04 | GA | HALL COUNTY * | 13139C0300E | 02-MAY-2001 | 01-04-3116A | 02
04 | GA | HARRIS COUNTY* | 1303380250A | 17-JAN-2001 | 00-04-5624A | 02
04 | GA | HARRIS COUNTY* | 1303380150A | 14-MAR-2001 | 01-04-1940A | 02
04 | GA | HARRIS COUNTY* | 1303380150A | 28-MAR-2001 | 01-04-2778A | 02
04 | GA | HARRIS COUNTY* | 1303380150A | 01-JUN-2001 | 01-04-3260A | 02
04 | GA | HARRIS COUNTY* | 1303380150A | 08-JUN-2001 | 01-04-4350A | 02
04 | GA | HARRIS COUNTY* | 1303380150A | 27-JUN-2001 | 01-04-4188A | 02
04 | GA | HELEN, CITY OF | 1301920001B | 11-APR-2001 | 01-04-2324A | 17
04 | GA | HELEN, CITY OF | 1301920001B | 17-JAN-2001 | 01-04-1172A | 02
04 | GA | HENRY COUNTY * | 1304680150B | 14-FEB-2001 | 01-04-0654A | 01
04 | GA | KENNESAW, CITY OF | 13067C0030F | 02-JAN-2001 | 01-04-0154A | 02
04 | GA | KENNESAW, CITY OF | 13067C0030F | 17-JAN-2001 | 01-04-1152A | 02
04 | GA | KENNESAW, CITY OF | 13067C0030F | 02-FEB-2001 | 01-04-1246A | 02
04 | GA | KENNESAW, CITY OF | 13067C0030F | 14-FEB-2001 | 01-04-2016A | 02
04 | GA | KENNESAW, CITY OF | 13067C0030F | 13-APR-2001 | 01-04-3040A | 02
04 | GA | LA GRANGE, CITY OF | 1301770006D | 02-JAN-2001 | 01-04-0456A | 02
04 | GA | LA GRANGE, CITY OF | 1301770006D | 05-JAN-2001 | 01-04-0452A | 02
04 | GA | LEE COUNTY * | 1301220250B | 22-JUN-2001 | 01-04-3976A | 02
04 | GA | LUMPKIN COUNTY | 1303540120A | 26-JAN-2001 | 01-04-1262A | 02
04 | GA | LUMPKIN COUNTY | 1303540225A | 02-MAY-2001 | 01-04-1564A | 02
04 | GA | MACON, CITY OF | 1300110020E | 29-JUN-2001 | 01-04-3878A | 17
04 | GA | MACON, CITY OF | 1300110020E | 23-FEB-2001 | 01-04-1546A | 02
04 | GA | MACON, CITY OF | 1300110020E | 08-JUN-2001 | 01-04-4060A | 02
04 | GA | MARIETTA, CITY OF | 13067C0050F | 02-JAN-2001 | 01-04-1160A | 02
04 | GA | MARIETTA, CITY OF | 13067C0050F | 09-MAR-2001 | 01-04-1664A | 02
04 | GA | MONROE COUNTY* | 1301380025C | 25-APR-2001 | 01-04-2994A | 02
04 | GA | MONROE COUNTY* | 1301380025C | 25-APR-2001 | 01-04-3008A | 02
04 | GA | MONROE COUNTY* | 1301380025C | 02-MAY-2001 | 01-04-3220A | 02
04 | GA | MONROE COUNTY* | 1301380025C | 02-MAY-2001 | 01-04-3070A | 02
04 | GA | MONROE COUNTY* | 1301380025C | 02-MAY-2001 | 01-04-3030A | 02
04 | GA | MONROE COUNTY* | 1301380025C | 02-MAY-2001 | 01-04-2998A | 02
04 | GA | MONROE COUNTY* | 1301380025C | 02-MAY-2001 | 01-04-3006A | 02
04 | GA | MONROE COUNTY* | 1301380025C | 18-MAY-2001 | 01-04-3802A | 02
04 | GA | MONROE COUNTY* | 1301380225C | 25-MAY-2001 | 01-04-3702A | 02
04 | GA | NEWNAN, CITY OF | 1300620005B | 31-JAN-2001 | 01-04-1576A | 17
04 | GA | PAULDING COUNTY * | 13223C0253B | 19-JAN-2001 | 01-04-0548A | 02
04 | GA | PAULDING COUNTY * | 13223C0253B | 31-JAN-2001 | 01-04-1796A | 02
04 | GA | PAULDING COUNTY * | 13223C0251B | 21-FEB-2001 | 01-04-1782A | 02
04 | GA | PAULDING COUNTY * | 13223C0144B | 28-FEB-2001 | 01-04-1896A | 02
04 | GA | PAULDING COUNTY * | 13223C0253B | 28-MAR-2001 | 01-04-2490A | 02
04 | GA | PAULDING COUNTY * | 13223C0253B | 18-APR-2001 | 01-04-3240A | 02
04 | GA | PAULDING COUNTY * | 13223C0245B | 16-MAY-2001 | 01-04-3518A | 02
04 | GA | PAULDING COUNTY * | 13223C0253B | 25-MAY-2001 | 01-04-3612A | 02
04 | GA | PAULDING COUNTY * | 13223C0253B | 30-MAY-2001 | 01-04-3310A | 02
04 | GA | PAULDING COUNTY * | 13223C0110B | 27-JUN-2001 | 01-04-4542A | 02
04 | GA | PEACHTREE CITY, CITY OF | 13113C0060D | 28-MAR-2001 | 01-04-2738A | 02
04 | GA | PEACHTREE CITY, CITY OF | 13113C0060D | 13-APR-2001 | 01-04-2920A | 02
04 | GA | POOLER, TOWN OF | 1300300075C | 16-FEB-2001 | 00-04-051P | 05
04 | GA | POOLER, TOWN OF | 1300300075C | 10-JAN-2001 | 01-04-0320A | 01
04 | GA | POOLER, TOWN OF | 1300300075C | 31-JAN-2001 | 01-04-1814X | 01
04 | GA | POOLER, TOWN OF | 1300300075C | 28-JUN-2001 | 01-04-3762A | 01
04 | GA | RABUN COUNTY * | 1301560100B | 23-FEB-2001 | 01-04-0914A | 02
04 | GA | RICHMOND COUNTY* | 1301580060E | 11-APR-2001 | 01-04-3000A | 02
04 | GA | RICHMOND COUNTY* | 1301580070E | 23-MAY-2001 | 01-04-3834A | 02
04 | GA | RICHMOND COUNTY* | 1301580070E | 23-MAY-2001 | 01-04-3590A | 02
04 | GA | RICHMOND COUNTY* | 1301580060E | 27-JUN-2001 | 01-04-4486A | 02
04 | GA | RICHMOND HILL, CITY OF | 1300180001B | 07-FEB-2001 | 01-04-055P | 05
04 | GA | ROCKDALE COUNTY * | 13247C0151C | 20-JAN-2001 | 01-04-2124V | 19
04 | GA | ROCKDALE COUNTY * | 13247C0094C | 24-JAN-2001 | 01-04-0706A | 02
04 | GA | ROME, CITY OF | 13115C0190D | 09-MAY-2001 | 01-04-2832A | 17
04 | GA | ROSSVILLE, CITY OF | 1301830001B | 27-APR-2001 | 00-04-365P | 05
04 | GA | ROSWELL, CITY OF | 13121C0062E | 19-JAN-2001 | 01-04-0964A | 02
04 | GA | ROSWELL, CITY OF | 13121C0034E | 19-JAN-2001 | 01-04-0730A | 02
04 | GA | ROSWELL, CITY OF | 13121C0054E | 21-MAR-2001 | 01-04-2692A | 02
04 | GA | ROSWELL, CITY OF | 13121C0061E | 25-APR-2001 | 01-04-1778A | 02
04 | GA | SANDERSVILLE, CITY OF | 130228B | 23-MAY-2001 | 01-04-3312A | 02
04 | GA | SAVANNAH, CITY OF | 1351630030C | 02-FEB-2001 | 00-04-6028A | 02
04 | GA | SAVANNAH, CITY OF | 1351630030C | 02-FEB-2001 | 00-04-6028A | 02
04 | GA | STATESBORO, CITY OF | 1300210001C | 27-JUN-2001 | 01-04-4432A | 02
04 | GA | SUWANEE, CITY OF | 1303280002A | 18-JUN-2001 | 00-04-279P | 05
04 | GA | SUWANEE, CITY OF | 1303280003A | 02-MAY-2001 | 01-04-2172A | 02
04 | GA | TIFT COUNTY * | 13277C0075D | 28-MAR-2001 | 01-04-0802A | 02
04 | GA | TOWNS COUNTY* | 13281C0065C | 28-FEB-2001 | 01-04-1944A | 02
04 | GA | TOWNS COUNTY* | 13281C0045C | 28-MAR-2001 | 01-04-2348A | 02
04 | GA | TROUPE COUNTY * | 1304050100A | 08-JUN-2001 | 01-04-2744A | 02
04 | GA | UNION COUNTY* | 1302540025C | 25-MAY-2001 | 01-04-3060A | 02
04 | GA | WALTON COUNTY * | 13297C0020B | 17-JAN-2001 | 00-04-4382A | 02
04 | GA | WALTON COUNTY * | 13297C0080B | 31-JAN-2001 | 00-04-5982A | 02
04 | GA | WALTON COUNTY * | 13297C0020B | 14-FEB-2001 | 01-04-2080A | 02
04 | GA | WALTON COUNTY * | 13297C0100B | 06-JUN-2001 | 01-04-2000A | 02
04 | GA | WATKINSVILLE, CITY OF | 130369A | 09-FEB-2001 | 01-04-1874A | 02
04 | GA | WOODSTOCK, CITY OF | 13057C0330B | 25-APR-2001 | 01-04-2882A | 01
04 | KY | BOONE COUNTY * | 2100130045B | 05-JAN-2001 | 01-04-1004A | 02
04 | KY | BOWLING GREEN, CITY OF | 21227C0084D | 19-JUN-2001 | 00-04-285P | 06
04 | KY | BOWLING GREEN, CITY OF | 21227C0092D | 17-JAN-2001 | 01-04-1284A | 02
04 | KY | BOWLING GREEN, CITY OF | 21227C0115D | 11-MAY-2001 | 01-04-3586A | 02
04 | KY | CAMPBELL COUNTY * | 2100340040B | 07-FEB-2001 | 01-04-0628A | 02
04 | KY | DAVIESS COUNTY * | 21059C0265C | 28-MAR-2001 | 01-04-2160A | 02
04 | KY | DAVIESS COUNTY * | 21059C0120C | 11-MAY-2001 | 01-04-3670A | 02
04 | KY | DAVIESS COUNTY * | 21059C0120C | 16-MAY-2001 | 01-04-3708A | 02
04 | KY | DAVIESS COUNTY * | 21059C0115C | 27-JUN-2001 | 01-04-4008A | 02
04 | KY | DAVIESS COUNTY * | 21059C0280C | 11-MAY-2001 | 01-04-3536A | 01
04 | KY | DAVIESS COUNTY * | 21059C0085C | 18-MAY-2001 | 01-04-3696A | 01
04 | KY | ELIZABETHTOWN, CITY OF | 21093C0151C | 18-MAY-2001 | 01-04-2318A | 02
04 | KY | GRAYSON COUNTY * | 2103300050B | 09-FEB-2001 | 01-04-0920A | 02
04 | KY | GREENUP COUNTY* | 2102840080B | 23-MAY-2001 | 01-04-3238A | 02
04 | KY | HARRISON COUNTY * | 2103290050B | 24-JAN-2001 | 00-04-4560A | 02
04 | KY | HENDERSON, CITY OF | 2101090005D | 27-APR-2001 | 01-04-3440A | 02
04 | KY | JEFFERSON COUNTY* | 21111C0165D | 12-MAR-2001 | 01-04-1180A | 17
04 | KY | JEFFERSON COUNTY* | 21111C0180D | 14-FEB-2001 | 00-04-377P | 05
04 | KY | JEFFERSON COUNTY* | 21111C0160D | 26-MAR-2001 | 99-04-313P | 05
04 | KY | JEFFERSON COUNTY* | 21111C0110D | 17-JAN-2001 | 01-04-1128A | 02
04 | KY | JEFFERSON COUNTY* | 21111C0095D | 19-JAN-2001 | 01-04-0650A | 02
04 | KY | JEFFERSON COUNTY* | 21111C0145D | 26-JAN-2001 | 01-04-1624A | 02
04 | KY | JEFFERSON COUNTY* | 21111C0170D | 31-JAN-2001 | 01-04-1456A | 02
04 | KY | JEFFERSON COUNTY* | 21111C0180D | 02-FEB-2001 | 01-04-1462A | 02
04 | KY | JEFFERSON COUNTY* | 21111C0105D | 02-FEB-2001 | 01-04-1386A | 02
04 | KY | JEFFERSON COUNTY* | 21111C0020D | 21-FEB-2001 | 01-04-1300A | 02
04 | KY | JEFFERSON COUNTY* | 21111C0190D | 28-FEB-2001 | 01-04-2158A | 02
04 | KY | JEFFERSON COUNTY* | 21111C0080D | 28-FEB-2001 | 01-04-1760A | 02
04 | KY | JEFFERSON COUNTY* | 21111C0160D | 09-MAR-2001 | 01-04-2326A | 02
04 | KY | JEFFERSON COUNTY* | 21111C0160D | 21-MAR-2001 | 01-04-2450A | 02
04 | KY | JEFFERSON COUNTY* | 21111C0255D | 21-MAR-2001 | 01-04-2068A | 02
04 | KY | JEFFERSON COUNTY* | 21111C0020D | 28-MAR-2001 | 01-04-2836A | 02
04 | KY | JEFFERSON COUNTY* | 21111C0070D | 04-APR-2001 | 01-04-0620A | 02
04 | KY | JEFFERSON COUNTY* | 21111C0080D | 11-APR-2001 | 01-04-2734A | 02
04 | KY | JEFFERSON COUNTY* | 21111C0105D | 13-APR-2001 | 01-04-2578A | 02
04 | KY | JEFFERSON COUNTY* | 21111C0085D | 18-APR-2001 | 01-04-3258A | 02
04 | KY | JEFFERSON COUNTY* | 21111C0115D | 02-MAY-2001 | 01-04-3632A | 02
04 | KY | JEFFERSON COUNTY* | 21111C0095D | 02-MAY-2001 | 01-04-1806A | 02
04 | KY | JEFFERSON COUNTY* | 21111C0020D | 02-MAY-2001 | 01-04-1662A | 02
04 | KY | JEFFERSON COUNTY* | 21111C0170D | 04-MAY-2001 | 01-04-3130A | 02
04 | KY | JEFFERSON COUNTY* | 21111C0170D | 16-MAY-2001 | 01-04-3588A | 02
04 | KY | JEFFERSON COUNTY* | 21111C0170D | 30-MAY-2001 | 01-04-4024A | 02
04 | KY | JEFFERSON COUNTY* | 21111C0190D | 01-JUN-2001 | 01-04-4058A | 02
04 | KY | JEFFERSON COUNTY* | 21111C0020D | 08-JUN-2001 | 01-04-3884A | 02
04 | KY | JEFFERSON COUNTY* | 21111C0095D | 13-JUN-2001 | 01-04-3634A | 02
04 | KY | JEFFERSON COUNTY* | 21111C0180D | 17-JAN-2001 | 00-04-5806A | 01
04 | KY | JEFFERSON COUNTY* | 21111C0235D | 19-JAN-2001 | 01-04-0858A | 01
04 | KY | JEFFERSON COUNTY* | 21111C0190D | 01-JUN-2001 | 01-04-3316A | 01
04 | KY | LETCHER COUNTY* | 2102890002A | 08-JUN-2001 | 01-04-3966A | 02
04 | KY | LEXINGTON-FAYETTE URBAN COUNTY GOVE | 2100670060C | 23-MAY-2001 | 01-04-013P | 05
04 | KY | LEXINGTON-FAYETTE URBAN COUNTY GOVE | 2100670080C | 09-FEB-2001 | 01-04-1020A | 02
04 | KY | LEXINGTON-FAYETTE URBAN COUNTY GOVE | 2100670060C | 14-FEB-2001 | 01-04-1840A | 02
04 | KY | LEXINGTON-FAYETTE URBAN COUNTY GOVE | 2100670010C | 18-APR-2001 | 01-04-2634A | 02
04 | KY | LEXINGTON-FAYETTE URBAN COUNTY GOVE | 2100670070C | 02-MAY-2001 | 01-04-3172A | 02
04 | KY | LEXINGTON-FAYETTE URBAN COUNTY GOVE | 2100670060C | 02-MAY-2001 | 01-04-2590A | 02
04 | KY | LEXINGTON-FAYETTE URBAN COUNTY GOVE | 2100670020C | 14-MAR-2001 | 01-04-1504A | 01
04 | KY | LOUISVILLE, CITY OF | 21111C0080D | 10-JAN-2001 | 01-04-0624A | 02
04 | KY | LOUISVILLE, CITY OF | 21111C0090D | 14-MAR-2001 | 01-04-1752A | 02
04 | KY | LOUISVILLE, CITY OF | 21111C0160D | 23-MAY-2001 | 01-04-2264A | 02
04 | KY | LOUISVILLE, CITY OF | 21111C0060D | 13-APR-2001 | 01-04-2402A | 01
04 | KY | NICHOLASVILLE, CITY OF | 2101260005B | 16-MAR-2001 | 01-04-1892A | 02
04 | KY | NICHOLASVILLE, CITY OF | 2101260005B | 06-APR-2001 | 01-04-2266A | 02
04 | KY | OWENSBORO, CITY OF | 21059C0120C | 19-JAN-2001 | 01-04-0258A | 02
04 | KY | OWENSBORO, CITY OF | 21059C0280C | 11-APR-2001 | 01-04-3038A | 02
04 | KY | OWENSBORO, CITY OF | 21059C0260C | 01-JUN-2001 | 01-04-4100A | 02
04 | KY | OWENSBORO, CITY OF | 21059C0280C | 27-JUN-2001 | 01-04-4132A | 02
04 | KY | PADUCAH, CITY OF | 2101520005D | 27-JUN-2001 | 01-04-4422A | 02
04 | KY | PIKEVILLE, CITY OF | 21195C0282F | 21-FEB-2001 | 99-04-029P | 05
04 | KY | ROWAN COUNTY * | 2102030045B | 29-MAR-2001 | 01-04-0854A | 17
04 | KY | SHEPHERDSVILLE, CITY OF | 2100280005D | 07-FEB-2001 | 01-04-1524A | 02
04 | KY | STURGIS, CITY OF | 210217B | 02-MAR-2001 | 00-04-5416A | 02
04 | KY | WILDER, CITY OF | 2100410001B | 14-FEB-2001 | 00-04-5704A | 01
04 | MS | BRANDON, CITY OF | 2801430003B | 14-FEB-2001 | 01-04-1304A | 01
04 | MS | BRANDON, CITY OF | 2801430003B | 16-MAR-2001 | 01-04-1850A | 01
04 | MS | BRANDON, CITY OF | 2801430003B | 15-JUN-2001 | 01-04-3752A | 01
04 | MS | CLINTON, CITY OF | 2800710002C | 06-MAR-2001 | 00-04-171P | 05
04 | MS | COLUMBUS, CITY OF | 28087C0065J | 08-JUN-2001 | 01-04-4200A | 02
04 | MS | COLUMBUS, CITY OF | 28087C0065J | 18-MAY-2001 | 01-04-2696A | 01
04 | MS | COLUMBUS, CITY OF | 28087C0065J | 20-JUN-2001 | 01-04-4202A | 01
04 | MS | DESOTO COUNTY * | 28033C0045F | 25-JAN-2001 | 01-04-099P | 06
04 | MS | DESOTO COUNTY * | 28033C0115D | 17-JAN-2001 | 00-04-5992A | 02
04 | MS | DESOTO COUNTY * | 28033C0043E | 19-JAN-2001 | 01-04-1334A | 01
04 | MS | FLORENCE, TOWN OF | 2801440001B | 25-MAY-2001 | 01-04-3756A | 01
04 | MS | GULFPORT, CITY OF | 2852530007C | 18-APR-2001 | 00-04-095P | 05
04 | MS | HARRISON COUNTY * | 2852550190E | 20-JUN-2001 | 01-04-4444A | 02
04 | MS | HINDS COUNTY* | 2800700250D | 31-JAN-2001 | 01-04-1682A | 02
04 | MS | HINDS COUNTY* | 2800700225D | 04-MAY-2001 | 01-04-3472A | 01
04 | MS | HORN LAKE, CITY OF | 28033C0040E | 15-JUN-2001 | 01-04-1086A | 01
04 | MS | ITAWAMBA COUNTY * | 2802900025B | 04-APR-2001 | 01-04-3010A | 02
04 | MS | JACKSON, CITY OF | 2800720040F | 18-APR-2001 | 01-04-2484A | 02
04 | MS | LAUDERDALE COUNTY * | 28075C0105E | 20-APR-2001 | 01-04-3152A | 02
04 | MS | LAUREL,CITY OF | 2800920003D | 07-MAR-2001 | 01-04-2122A | 02
04 | MS | LAUREL,CITY OF | 2800920005C | 09-MAR-2001 | 01-04-0800A | 02
04 | MS | LEE COUNTY * | 28081C0155D | 14-MAR-2001 | 01-04-2556A | 02
04 | MS | LEE COUNTY * | 28081C0245D | 13-JUN-2001 | 01-04-4178A | 02
04 | MS | MADISON, CITY OF | 28089C0310D | 17-JAN-2001 | 01-04-1352A | 02
04 | MS | MADISON, CITY OF | 28089C0310D | 13-JUN-2001 | 01-04-3896A | 02
04 | MS | MERIDIAN, CITY OF | 28075C0084D | 28-FEB-2001 | 01-04-1554A | 02
04 | MS | MERIDIAN, CITY OF | 28075C0101E | 02-MAY-2001 | 01-04-2824A | 02
04 | MS | MERIDIAN, CITY OF | 28075C0101E | 02-MAY-2001 | 01-04-1780A | 02
04 | MS | MERIDIAN, CITY OF | 12075C0085D | 23-MAY-2001 | 01-04-3342A | 02
04 | MS | OKTIBBEHA COUNTY * | 2802770130B | 28-MAR-2001 | 01-04-1694A | 01
04 | MS | OLIVE BRANCH,TOWN OF | 28033C0065E | 29-MAY-2001 | 01-04-275P | 05
04 | MS | OLIVE BRANCH,TOWN OF | 28033C0065E | 02-FEB-2001 | 01-04-1728A | 01
04 | MS | OLIVE BRANCH,TOWN OF | 28033C0065E | 02-FEB-2001 | 01-04-1728A | 01
04 | MS | OLIVE BRANCH,TOWN OF | 28033C0065E | 02-FEB-2001 | 01-04-1684A | 01
04 | MS | OLIVE BRANCH,TOWN OF | 28033C0055E | 07-MAR-2001 | 01-04-2138A | 01
04 | MS | OLIVE BRANCH,TOWN OF | 28033C0065E | 25-APR-2001 | 01-04-2438A | 01
04 | MS | PEARL RIVER COUNTY * | 28109C0255D | 20-JUN-2001 | 01-04-2640A | 02
04 | MS | PEARL RIVER VALLEY WATER SUPPLY DIS | 2803380065B | 28-FEB-2001 | 01-04-2096A | 02
04 | MS | PEARL RIVER VALLEY WATER SUPPLY DIS | 2803380055B | 07-MAR-2001 | 01-04-2198A | 02
04 | MS | PEARL, CITY OF | 2081450005C | 18-APR-2001 | 01-04-2106A | 01
04 | MS | PICAYUNE, CITY OF | 28109C0261E | 17-JAN-2001 | 01-04-1418A | 02
04 | MS | RANKIN COUNTY * | 2801420140C | 21-MAR-2001 | 01-04-2232A | 02
04 | MS | RANKIN COUNTY * | 2801420080C | 28-MAR-2001 | 01-04-2444A | 01
04 | MS | RANKIN COUNTY * | 2801420070C | 11-APR-2001 | 01-04-2902A | 01
04 | MS | RIDGELAND, CITY OF | 28089C0320D | 09-FEB-2001 | 01-04-1784A | 17
04 | MS | RIDGELAND, CITY OF | 28089C0315D | 10-MAY-2001 | 00-04-257P | 05
04 | MS | RIDGELAND, CITY OF | 28089C0320D | 11-APR-2001 | 01-04-2930A | 02
04 | MS | SALTILLO, TOWN OF | 28081C0095D | 02-MAY-2001 | 01-04-2446A | 02
04 | MS | SALTILLO, TOWN OF | 28081C0155D | 31-JAN-2001 | 01-04-0244A | 01
04 | MS | SOUTHHAVEN, CITY OF | 28033C0041E | 07-MAR-2001 | 01-04-2052A | 02
04 | MS | SOUTHHAVEN, CITY OF | 28033C0035F | 04-JAN-2001 | 01-04-0722A | 01
04 | MS | SOUTHHAVEN, CITY OF | 28033C0041E | 18-MAY-2001 | 01-04-3494A | 01
04 | MS | STARKVILLE, CITY OF | 2801240003C | 23-MAR-2001 | 01-04-2690A | 02
04 | MS | SUNFLOWER COUNTY * | 2801950200B | 06-APR-2001 | 01-04-1412A | 01
04 | MS | TISHOMINGO COUNTY | 2802830075B | 04-MAY-2001 | 01-04-3082A | 02
04 | MS | TUPELO, CITY OF | 28081C0227D | 09-MAR-2001 | 01-04-2294A | 01
04 | MS | TUPELO, CITY OF | 28081C0227D | 21-MAR-2001 | 01-04-2528A | 01
04 | MS | TUPELO, CITY OF | 28081C0143D | 30-MAR-2001 | 01-04-2372A | 01
04 | MS | TUPELO, CITY OF | 28081C0227D | 04-MAY-2001 | 01-04-3106A | 01
04 | MS | TUPELO, CITY OF | 28081C0227D | 20-JUN-2001 | 01-04-4206A | 01
04 | NC | ALAMANCE COUNTY* | 37001C0095E | 09-MAR-2001 | 01-04-1646A | 02
04 | NC | ALAMANCE COUNTY* | 37001C0141E | 11-MAY-2001 | 01-04-3320A | 02
04 | NC | ALEXANDER COUNTY* | 3703980003C | 11-APR-2001 | 01-04-2722A | 02
04 | NC | ALEXANDER COUNTY* | 3703980003C | 11-MAY-2001 | 01-04-3688A | 02
04 | NC | ALEXANDER COUNTY* | 3703980003C | 11-MAY-2001 | 01-04-3692A | 02
04 | NC | APEX, TOWN OF | 37183C0480E | 13-APR-2001 | 01-04-1472A | 02
04 | NC | BEAUFORT COUNTY* | 3700130180B | 20-JUN-2001 | 01-04-3742A | 02
04 | NC | BOONE, TOWN OF | 37189C0183E | 17-JAN-2001 | 01-04-0276A | 02
04 | NC | BREVARD, CITY OF | 37175C0201C | 11-MAY-2001 | 01-04-3570A | 02
04 | NC | BRUNSWICK COUNTY* | 3702950360E | 14-FEB-2001 | 01-04-1764A | 02
04 | NC | BRUNSWICK COUNTY* | 3702950215C | 21-MAR-2001 | 01-04-2652A | 02
04 | NC | BRUNSWICK COUNTY* | 3702950360E | 27-APR-2001 | 01-04-3300A | 02
04 | NC | BRUNSWICK COUNTY* | 3702950360E | 15-JUN-2001 | 01-04-4400A | 02
04 | NC | BRUNSWICK COUNTY* | 3702950360E | 21-MAR-2001 | 01-04-2410A | 02
04 | NC | BUNCOMBE COUNTY * | 37021C0331C | 14-FEB-2001 | 01-04-1400A | 02
04 | NC | BUNCOMBE COUNTY * | 37021C0326C | 09-MAR-2001 | 01-04-2558A | 02
04 | NC | BUNCOMBE COUNTY * | 37021C0329C | 27-APR-2001 | 01-04-2454A | 02
04 | NC | BURKE COUNTY * | 3700340150D | 31-JAN-2001 | 01-04-1542A | 02
04 | NC | BURLINGTON, CITY OF | 37001C0039E | 05-JAN-2001 | 01-04-0296A | 02
04 | NC | CALDWELL COUNTY * | 37027C0050D | 05-JAN-2001 | 01-04-0660A | 02
04 | NC | CALDWELL COUNTY * | 37027C0050D | 02-MAY-2001 | 01-04-3224A | 02
04 | NC | CALDWELL COUNTY * | 37027C0050D | 18-MAY-2001 | 01-04-2942A | 02
04 | NC | CALDWELL COUNTY * | 37027C0045E | 23-MAY-2001 | 01-04-3984A | 02
04 | NC | CARTERET COUNTY * | 3700430681C | 07-MAR-2001 | 01-04-1956A | 02
04 | NC | CARTERET COUNTY * | 3700430440C | 20-APR-2001 | 01-04-2242A | 02
04 | NC | CARTERET COUNTY * | 3700430630C | 15-JUN-2001 | 01-04-4390A | 02
04 | NC | CARY, TOWN OF | 37183C0503E | 21-FEB-2001 | 01-04-0972A | 01
04 | NC | CATAWBA COUNTY * | 3700500200C | 09-JAN-2001 | 01-04-1398A | 02
04 | NC | CATAWBA COUNTY * | 3700500200C | 10-JAN-2001 | 01-04-1490A | 02
04 | NC | CATAWBA COUNTY * | 3700500325B | 12-JAN-2001 | 01-04-1202A | 02
04 | NC | CATAWBA COUNTY * | 3700500200C | 12-JAN-2001 | 01-04-1032A | 02
04 | NC | CATAWBA COUNTY * | 3700500325B | 12-JAN-2001 | 01-04-0086A | 02
04 | NC | CATAWBA COUNTY * | 3700500350C | 30-JAN-2001 | 01-04-1912A | 02
04 | NC | CATAWBA COUNTY * | 3700500350C | 02-FEB-2001 | 01-04-1952A | 02
04 | NC | CATAWBA COUNTY * | 3700500350C | 09-FEB-2001 | 01-04-1948A | 02
04 | NC | CATAWBA COUNTY * | 3700500325B | 09-FEB-2001 | 01-04-1950A | 02
04 | NC | CATAWBA COUNTY * | 3700500350C | 28-FEB-2001 | 01-04-2178A | 02
04 | NC | CATAWBA COUNTY * | 3700500325B | 28-FEB-2001 | 01-04-2148A | 02
04 | NC | CATAWBA COUNTY * | 3700500350C | 28-FEB-2001 | 01-04-1880A | 02
04 | NC | CATAWBA COUNTY * | 3700500350C | 07-MAR-2001 | 01-04-2092A | 02
04 | NC | CATAWBA COUNTY * | 3700500325B | 09-MAR-2001 | 01-04-2412A | 02
04 | NC | CATAWBA COUNTY * | 3700500325B | 28-MAR-2001 | 01-04-2310A | 02
04 | NC | CATAWBA COUNTY * | 3700500235B | 06-APR-2001 | 01-04-3026A | 02
04 | NC | CATAWBA COUNTY * | 3700500075C | 06-APR-2001 | 01-04-2938A | 02
04 | NC | CATAWBA COUNTY * | 3700500350C | 18-APR-2001 | 01-04-2936A | 02
04 | NC | CATAWBA COUNTY * | 3700500325B | 20-APR-2001 | 01-04-3088A | 02
04 | NC | CATAWBA COUNTY * | 3700500350C | 04-MAY-2001 | 01-04-3564A | 02
04 | NC | CATAWBA COUNTY * | 3700500350C | 11-MAY-2001 | 01-04-3796A | 02
04 | NC | CATAWBA COUNTY * | 3700500325B | 11-MAY-2001 | 01-04-3504A | 02
04 | NC | CATAWBA COUNTY * | 3700500040C | 18-MAY-2001 | 01-04-3916A | 02
04 | NC | CATAWBA COUNTY * | 3700500200C | 20-JUN-2001 | 01-04-4526A | 02
04 | NC | CATAWBA COUNTY * | 3700500350C | 22-JUN-2001 | 01-04-4416A | 02
04 | NC | CHAPEL HILL, TOWN OF | 3701800001E | 19-MAR-2001 | 00-04-199P | 05
04 | NC | CHAPEL HILL, TOWN OF | 370180003E | 18-APR-2001 | 01-04-3096A | 02
04 | NC | CHARLOTTE, CITY OF | 3701590014B | 02-FEB-2001 | 01-04-1856A | 02
04 | NC | CONCORD, CITY OF | 37025C0082D | 09-MAR-2001 | 01-04-2034A | 01
04 | NC | CORNELIUS, TOWN OF | 3704980005A | 05-JAN-2001 | 01-04-1396A | 02
04 | NC | CORNELIUS, TOWN OF | 3704980005A | 10-JAN-2001 | 01-04-1406A | 02
04 | NC | CORNELIUS, TOWN OF | 3704980005A | 10-JAN-2001 | 01-04-1358A | 02
04 | NC | CORNELIUS, TOWN OF | 3704980005A | 12-JAN-2001 | 01-04-1168A | 02
04 | NC | CORNELIUS, TOWN OF | 3704980005A | 09-FEB-2001 | 01-04-0930A | 02
04 | NC | CORNELIUS, TOWN OF | 3704980005A | 09-FEB-2001 | 01-04-0562A | 02
04 | NC | CORNELIUS, TOWN OF | 3704980015A | 14-FEB-2001 | 01-04-1466A | 02
04 | NC | CORNELIUS, TOWN OF | 3704980005A | 14-FEB-2001 | 01-04-1104A | 02
04 | NC | CORNELIUS, TOWN OF | 3704980005A | 02-MAR-2001 | 01-04-2088A | 02
04 | NC | CORNELIUS, TOWN OF | 3704980005A | 16-MAR-2001 | 01-04-2574A | 02
04 | NC | CORNELIUS, TOWN OF | 3704980005A | 28-MAR-2001 | 01-04-2840A | 02
04 | NC | CORNELIUS, TOWN OF | 3704980005A | 25-APR-2001 | 01-04-2842A | 02
04 | NC | CORNELIUS, TOWN OF | 3704980015A | 25-MAY-2001 | 01-04-3244A | 02
04 | NC | CORNELIUS, TOWN OF | 3704980005A | 30-MAY-2001 | 01-04-4094A | 02
04 | NC | CORNELIUS, TOWN OF | 3704980005A | 06-JUN-2001 | 01-04-4092A | 02
04 | NC | CORNELIUS, TOWN OF | 3704980005A | 27-JUN-2001 | 01-04-4116A | 02
04 | NC | CORNELIUS, TOWN OF | 3704980005A | 02-MAY-2001 | 01-04-2884A | 01
04 | NC | CRAVEN COUNTY* | 3700720330B | 18-MAY-2001 | 01-04-3548A | 02
04 | NC | CRAVEN COUNTY* | 3700720305B | 18-MAY-2001 | 01-04-2934A | 02
04 | NC | CRAVEN COUNTY* | 3700720420B | 23-MAY-2001 | 01-04-3958A | 02
04 | NC | DALLAS, TOWN OF | 370322A | 25-MAY-2001 | 01-04-3624A | 02
04 | NC | DARE COUNTY* | 3753480114D | 02-MAR-2001 | 01-04-2306A | 02
04 | NC | DAVIDSON COUNTY * | 37057C0300D | 24-JAN-2001 | 01-04-0066A | 02
04 | NC | DAVIDSON COUNTY * | 37057C0325D | 31-JAN-2001 | 01-04-1854A | 02
04 | NC | DAVIDSON COUNTY * | 37057C0325D | 09-FEB-2001 | 01-04-1954A | 02
04 | NC | DAVIDSON COUNTY * | 37057C0300D | 14-FEB-2001 | 01-04-1588A | 02
04 | NC | DAVIDSON COUNTY * | 37057C0300D | 02-MAR-2001 | 01-04-2416A | 02
04 | NC | DAVIDSON COUNTY * | 37057C0300D | 02-MAR-2001 | 01-04-2304A | 02
04 | NC | DAVIDSON COUNTY * | 37057C0300D | 14-MAR-2001 | 01-04-2504A | 02
04 | NC | DAVIDSON COUNTY * | 37057C0300D | 14-MAR-2001 | 01-04-2302A | 02
04 | NC | DAVIDSON COUNTY * | 37057C0215D | 23-MAR-2001 | 01-04-2350A | 02
04 | NC | DAVIDSON COUNTY * | 37057C0285D | 28-MAR-2001 | 01-04-2802A | 02
04 | NC | DAVIDSON COUNTY * | 37057C0285D | 28-MAR-2001 | 01-04-2672A | 02
04 | NC | DAVIDSON COUNTY * | 37057C0285D | 28-MAR-2001 | 01-04-2552A | 02
04 | NC | DAVIDSON COUNTY * | 37057C0325D | 04-APR-2001 | 01-04-2800A | 02
04 | NC | DAVIDSON COUNTY * | 37057C0285D | 25-APR-2001 | 01-04-3210A | 02
04 | NC | DAVIDSON COUNTY * | 37057C0285D | 25-APR-2001 | 01-04-1920A | 02
04 | NC | DAVIDSON COUNTY * | 37057C0285D | 11-MAY-2001 | 01-04-3768A | 02
04 | NC | DAVIDSON COUNTY * | 37057C0300D | 11-MAY-2001 | 01-04-3690A | 02
04 | NC | DAVIDSON COUNTY * | 37057C0325D | 11-MAY-2001 | 01-04-3064A | 02
04 | NC | DAVIDSON COUNTY * | 37057C0325D | 01-JUN-2001 | 01-04-3322A | 02
04 | NC | DAVIDSON COUNTY * | 37057C0325D | 15-JUN-2001 | 01-04-4386A | 02
04 | NC | DAVIDSON COUNTY * | 37057C0325D | 20-JUN-2001 | 01-04-4388A | 02
04 | NC | DAVIDSON COUNTY * | 37057C0285D | 21-MAR-2001 | 01-04-2638A | 08
04 | NC | DAVIDSON, TOWN OF | 3705030005A | 23-MAY-2001 | 01-04-3628A | 02
04 | NC | DUNN, CITY OF | 37085C0120D | 14-MAR-2001 | 01-04-2404A | 01
04 | NC | DUPLIN COUNTY * | 3700830275B | 20-APR-2001 | 01-04-1468A | 02
04 | NC | DURHAM COUNTY * | 37063C0169G | 15-FEB-2001 | 01-04-003P | 05
04 | NC | DURHAM COUNTY * | 37063C0154H | 14-MAR-2001 | 01-04-2414A | 02
04 | NC | DURHAM, CITY OF | 37063C0168G | 20-APR-2001 | 01-04-3176A | 02
04 | NC | DURHAM, CITY OF | 37063C0162H | 29-JUN-2001 | 01-04-4594A | 02
04 | NC | EMERALD ISLE, TOWN OF | 3700470003D | 10-JAN-2001 | 01-04-1492A | 02
04 | NC | EMERALD ISLE, TOWN OF | 3700470003D | 12-JAN-2001 | 01-04-1494A | 02
04 | NC | FAYETTEVILLE, CITY OF | 3700770011C | 26-APR-2001 | 01-04-3174A | 02
04 | NC | FORSYTH COUNTY * | 37067C0302H | 28-FEB-2001 | 01-04-2056A | 02
04 | NC | FORSYTH COUNTY * | 37067C0244H | 08-JUN-2001 | 01-04-3644A | 02
04 | NC | FORSYTH COUNTY * | 37067C0187H | 22-JUN-2001 | 01-04-4336A | 02
04 | NC | FORSYTH COUNTY * | 37067C0251H | 06-APR-2001 | 01-04-1592A | 01
04 | NC | FRANKLIN COUNTY* | 37069C0225D | 20-JAN-2001 | 01-04-2126V | 19
04 | NC | FRANKLIN COUNTY* | 37069C0240D | 20-JAN-2001 | 01-04-2126V | 19
04 | NC | GASTON COUNTY * | 3700990185B | 22-JUN-2001 | 01-04-4282A | 02
04 | NC | GASTONIA, CITY OF | 3701000010D | 30-MAR-2001 | 01-04-1598A | 02
04 | NC | GREENSBORO, CITY OF | 3753510018C | 22-FEB-2001 | 00-04-167P | 05
04 | NC | GREENSBORO, CITY OF | 3753510019D | 30-MAR-2001 | 01-04-2004A | 02
04 | NC | GREENVILLE, CITY OF | 3701910005B | 09-FEB-2001 | 00-04-5996A | 02
04 | NC | GREENVILLE, CITY OF | 3701910010B | 21-FEB-2001 | 01-04-1162A | 02
04 | NC | GREENVILLE, CITY OF | 3701910010B | 16-MAY-2001 | 01-04-3086A | 02
04 | NC | HALIFAX COUNTY * | 3703270005B | 17-JAN-2001 | 01-04-1498A | 02
04 | NC | HARRISBURG, TOWN OF | 37025C0115D | 16-MAR-2001 | 01-04-2278A | 02
04 | NC | HAVELOCK, CITY OF | 3702650008B | 02-MAR-2001 | 01-04-1586A | 02
04 | NC | HERTFORD COUNTY | 3701300002B | 11-APR-2001 | 01-04-3042A | 02
04 | NC | HERTFORD COUNTY | 3701300002B | 12-APR-2001 | 01-04-3044A | 02
04 | NC | HERTFORD COUNTY | 3701300003B | 15-JUN-2001 | 01-04-3746A | 02
04 | NC | HICKORY, CITY OF | 3700540010C | 05-JAN-2001 | 01-04-0646A | 02
04 | NC | HICKORY, CITY OF | 3700540010C | 05-JAN-2001 | 00-04-3212A | 02
04 | NC | HIGH POINT, CITY OF | 3701130007C | 20-APR-2001 | 01-04-3206A | 02
04 | NC | INDIAN TRAIL, TOWN OF | 37179C0080C | 04-APR-2001 | 00-04-5086A | 01
04 | NC | IREDELL COUNTY * | 3703130200C | 11-MAY-2001 | 01-04-3744A | 02
04 | NC | JACKSONVILLE, CITY OF | 3701780009B | 12-APR-2001 | 01-04-2716A | 02
04 | NC | JOHNSTON COUNTY * | 37101C0255D | 28-MAR-2001 | 01-04-2748A | 02
04 | NC | JOHNSTON COUNTY * | 3701380020B | 25-APR-2001 | 01-04-2630A | 02
04 | NC | JOHNSTON COUNTY * | 37101C0095D | 02-MAY-2001 | 01-04-3502A | 02
04 | NC | JOHNSTON COUNTY * | 37101C0235D | 04-MAY-2001 | 01-04-3546A | 02
04 | NC | JOHNSTON COUNTY * | 37101C0360D | 16-MAY-2001 | 01-04-3204A | 02
04 | NC | JOHNSTON COUNTY * | 37101C0255D | 25-MAY-2001 | 01-04-4038A | 02
04 | NC | JOHNSTON COUNTY * | 37101C0130D | 21-JUN-2001 | 01-04-3918A | 02
04 | NC | JOHNSTON COUNTY * | 37101C0180D | 29-JUN-2001 | 01-04-3194A | 02
04 | NC | KERNERSVILLE, TOWN OF | 37067C0304H | 08-JUN-2001 | 01-04-3360A | 02
04 | NC | KERNERSVILLE, TOWN OF | 37067C0306H | 24-JAN-2001 | 01-04-0370A | 01
04 | NC | KITTY HAWK, TOWN OF | 3704390001D | 13-APR-2001 | 01-04-2886A | 02
04 | NC | LEXINGTON, CITY OF | 37057C0184D | 10-JAN-2001 | 01-04-1404A | 02
04 | NC | LEXINGTON, CITY OF | 37057C0184D | 10-JAN-2001 | 01-04-1376A | 02
04 | NC | LEXINGTON, CITY OF | 37057C0184D | 25-MAY-2001 | 01-04-3664A | 02
04 | NC | LINCOLN COUNTY * | 3701460075C | 17-JAN-2001 | 01-04-1248A | 02
04 | NC | LONG BEACH, TOWN OF | 3753540004E | 11-MAY-2001 | 01-04-3148A | 02
04 | NC | LUMBERTON, CITY OF | 37155C0187D | 06-JUN-2001 | 01-04-4190A | 02
04 | NC | MEBANE, TOWN OF | 37001C0132E | 21-FEB-2001 | 01-04-2086A | 02
04 | NC | MECKLENBURG COUNTY * | 3701580165B | 15-FEB-2001 | 00-04-237P | 05
04 | NC | MECKLENBURG COUNTY * | 3701580035B | 24-JAN-2001 | 01-04-1590A | 02
04 | NC | MECKLENBURG COUNTY * | 3701580030D | 07-MAR-2001 | 01-04-2352A | 02
04 | NC | MECKLENBURG COUNTY * | 3701580030D | 09-MAR-2001 | 01-04-2248A | 02
04 | NC | MECKLENBURG COUNTY * | 3701580030D | 06-JUN-2001 | 01-04-4216A | 02
04 | NC | MECKLENBURG COUNTY * | 3701580055B | 14-FEB-2001 | 01-04-1140A | 01
04 | NC | MONTGOMERY COUNTY * | 3703360025B | 05-JAN-2001 | 01-04-0614A | 02
04 | NC | MONTGOMERY COUNTY * | 3703360065B | 09-JAN-2001 | 01-04-1380A | 02
04 | NC | MONTGOMERY COUNTY * | 3703360025B | 09-JAN-2001 | 01-04-1204A | 02
04 | NC | MONTGOMERY COUNTY * | 3703360065B | 10-JAN-2001 | 01-04-1294A | 02
04 | NC | MONTGOMERY COUNTY * | 3703360025B | 17-JAN-2001 | 01-04-1574A | 02
04 | NC | MONTGOMERY COUNTY * | 3703360025B | 26-JAN-2001 | 01-04-1518A | 02
04 | NC | MONTGOMERY COUNTY * | 3703360025B | 14-FEB-2001 | 01-04-2084A | 02
04 | NC | MONTGOMERY COUNTY * | 3703360025B | 23-FEB-2001 | 01-04-2146A | 02
04 | NC | MONTGOMERY COUNTY * | 3703360025B | 28-FEB-2001 | 01-04-2060A | 02
04 | NC | MONTGOMERY COUNTY * | 3703360025B | 02-MAR-2001 | 01-04-2250A | 02
04 | NC | MONTGOMERY COUNTY * | 3703360025B | 02-MAR-2001 | 01-04-1734A | 02
04 | NC | MONTGOMERY COUNTY * | 3703360025B | 07-MAR-2001 | 01-04-2418A | 02
04 | NC | MONTGOMERY COUNTY * | 3703360025B | 09-MAR-2001 | 01-04-2524A | 02
04 | NC | MONTGOMERY COUNTY * | 370336 | 06-APR-2001 | 01-04-2680A | 02
04 | NC | MONTGOMERY COUNTY * | 3703360025B | 11-APR-2001 | 01-04-3056A | 02
04 | NC | MONTGOMERY COUNTY * | 3703360025B | 20-APR-2001 | 01-04-3184A | 02
04 | NC | MONTGOMERY COUNTY * | 3703360025B | 20-APR-2001 | 01-04-3098A | 02
04 | NC | MONTGOMERY COUNTY * | 3703360025B | 27-APR-2001 | 01-04-3498A | 02
04 | NC | MONTGOMERY COUNTY * | 3703360025B | 27-APR-2001 | 01-04-3500A | 02
04 | NC | MONTGOMERY COUNTY * | 3703360025B | 27-APR-2001 | 01-04-3488A | 02
04 | NC | MONTGOMERY COUNTY * | 3703360055B | 27-APR-2001 | 01-04-3356A | 02
04 | NC | MONTGOMERY COUNTY * | 3703360055B | 02-MAY-2001 | 01-04-3354A | 02
04 | NC | MONTGOMERY COUNTY * | 3703360025B | 16-MAY-2001 | 01-04-3866A | 02
04 | NC | MONTGOMERY COUNTY * | 3703360025B | 06-JUN-2001 | 01-04-4192A | 02
04 | NC | MONTGOMERY COUNTY * | 3703360025B | 15-JUN-2001 | 01-04-4398A | 02
04 | NC | MONTGOMERY COUNTY * | 3703360055B | 29-JUN-2001 | 01-04-4524A | 02
04 | NC | MOREHEAD CITY, TOWN OF | 370048 | 02-MAY-2001 | 01-04-3052A | 02
04 | NC | MORRISVILLE, TOWN OF | 37183C0291E | 17-JAN-2001 | 01-04-0304A | 01
04 | NC | MORRISVILLE, TOWN OF | 37183C0291E | 09-FEB-2001 | 01-04-1902A | 01
04 | NC | MORRISVILLE, TOWN OF | 37183C0292E | 23-FEB-2001 | 00-04-5516A | 01
04 | NC | NEW BERN, CITY OF | 3700740004E | 26-JAN-2001 | 01-04-1818A | 02
04 | NC | NEW BERN, CITY OF | 3700740004E | 26-JAN-2001 | 01-04-1820A | 02
04 | NC | NEW HANOVER COUNTY* | 3701680045E | 28-FEB-2001 | 01-04-1470A | 02
04 | NC | NEW HANOVER COUNTY* | 3701680045E | 23-MAY-2001 | 01-04-3146A | 02
04 | NC | NEW HANOVER COUNTY* | 3701680105D | 22-JUN-2001 | 01-04-4528A | 02
04 | NC | ONSLOW COUNTY* | 3703400300C | 07-MAR-2001 | 01-04-2452A | 02
04 | NC | ONSLOW COUNTY* | 3703400300C | 11-MAY-2001 | 01-04-3568A | 02
04 | NC | PENDER COUNTY* | 3703440205B | 06-JUN-2001 | 01-04-2774A | 17
04 | NC | PENDER COUNTY* | 3703440531C | 02-JAN-2001 | 01-04-1298A | 02
04 | NC | PENDER COUNTY* | 3703440531C | 05-JAN-2001 | 01-04-1324A | 02
04 | NC | PENDER COUNTY* | 3703440411B | 05-JAN-2001 | 01-04-1214A | 02
04 | NC | PENDER COUNTY* | 3703440536D | 10-JAN-2001 | 01-04-1286A | 02
04 | NC | PENDER COUNTY* | 3703440411B | 18-APR-2001 | 01-04-3090A | 02
04 | NC | PENDER COUNTY* | 3703440536D | 11-MAY-2001 | 01-04-3212A | 02
04 | NC | PERQUIMANS COUNTY * | 3703150205B | 28-FEB-2001 | 01-04-2038A | 02
04 | NC | PERQUIMANS COUNTY * | 3703150105B | 16-MAR-2001 | 01-04-2506A | 02
04 | NC | PITT COUNTY * | 3703720250C | 17-JAN-2001 | 01-04-1644A | 02
04 | NC | PITT COUNTY * | 3703720025C | 24-JAN-2001 | 01-04-0446A | 02
04 | NC | PITT COUNTY * | 3703720260C | 09-FEB-2001 | 00-04-5994A | 02
04 | NC | PITT COUNTY * | 3703720355B | 28-MAR-2001 | 01-04-2742A | 02
04 | NC | PLYMOUTH, TOWN OF | 3702490003C | 18-MAY-2001 | 01-04-3798A | 02
04 | NC | RALEIGH, CITY OF | 37183C0326E | 10-JAN-2001 | 01-04-1226A | 02
04 | NC | RALEIGH, CITY OF | 37183C0165E | 10-JAN-2001 | 00-04-4282A | 02
04 | NC | RALEIGH, CITY OF | 37183C0334E | 20-APR-2001 | 01-04-2914A | 01
04 | NC | RANDOLPH COUNTY * | 3701950175B | 05-JAN-2001 | 01-04-0552A | 02
04 | NC | RANDOLPH COUNTY * | 3701950100B | 20-APR-2001 | 01-04-2806A | 02
04 | NC | RANDOLPH COUNTY * | 3701950175B | 11-MAY-2001 | 01-04-2308A | 02
04 | NC | RANDOLPH COUNTY * | 3701950375B | 18-MAY-2001 | 01-04-3094A | 02
04 | NC | RANDOLPH COUNTY * | 3701950150B | 22-JUN-2001 | 01-04-3662A | 02
04 | NC | ROBESON COUNTY * | 37155C0190D | 07-MAR-2001 | 01-04-2280A | 02
04 | NC | ROCKY MOUNT, CITY OF | 3700920005C | 17-JAN-2001 | 01-04-0330A | 01
04 | NC | ROCKY MOUNT, CITY OF | 3700920005C | 04-APR-2001 | 01-04-3046A | 01
04 | NC | SAMPSON COUNTY * | 3702200350B | 05-JAN-2001 | 01-04-0918A | 02
04 | NC | SAMPSON COUNTY * | 3702200175B | 25-APR-2001 | 01-04-2182A | 02
04 | NC | SHELBY, CITY OF | 3700640001C | 23-MAY-2001 | 01-04-3294A | 02
04 | NC | ST JAMES, TOWN OF | 3702950360E | 21-MAR-2001 | 01-04-2410A | 02
04 | NC | ST JAMES, TOWN OF | 3702950360E | 18-MAY-2001 | 01-04-3886A | 02
04 | NC | ST JAMES, TOWN OF | 3702950360E | 27-JUN-2001 | 01-04-4406X | 02
04 | NC | STANLY COUNTY * | 37167C0275D | 14-FEB-2001 | 01-04-1402A | 02
04 | NC | STANLY COUNTY * | 37167C0050D | 14-MAR-2001 | 01-04-2002A | 02
04 | NC | STANLY COUNTY * | 37167C0175D | 30-MAR-2001 | 01-04-2746A | 02
04 | NC | STANLY COUNTY * | 37167C0175D | 30-MAR-2001 | 01-04-2750A | 02
04 | NC | STANLY COUNTY * | 37167C0050D | 11-MAY-2001 | 01-04-3410A | 02
04 | NC | STANLY COUNTY * | 37167C0175D | 06-JUN-2001 | 01-04-3954A | 02
04 | NC | STANLY COUNTY * | 37167C0050D | 06-JUN-2001 | 01-04-3956A | 02
04 | NC | STANLY COUNTY * | 37167C0175D | 29-JUN-2001 | 01-04-4702A | 02
04 | NC | STANLY COUNTY * | 37167C0050D | 28-MAR-2001 | 01-04-2670A | 08
04 | NC | STANLY COUNTY * | 37167C0175D | 28-MAR-2001 | 01-04-2674A | 08
04 | NC | STATESVILLE, CITY OF | 3701350003A | 25-APR-2001 | 01-04-3066A | 02
04 | NC | UNION COUNTY * | 37179C0020C | 05-JAN-2001 | 01-04-1378A | 02
04 | NC | UNION COUNTY * | 37179C0020C | 28-FEB-2001 | 01-04-1812X | 02
04 | NC | UNION COUNTY * | 37179C0070C | 06-APR-2001 | 01-04-1122A | 02
04 | NC | WAKE COUNTY * | 37183C0160E | 23-MAR-2001 | 01-04-2682A | 01
04 | NC | WALLACE, TOWN OF | 3700840001B | 06-APR-2001 | 01-04-2550A | 02
04 | NC | WARREN COUNTY* | 3703960002B | 21-JUN-2001 | 01-04-4438V | 19
04 | NC | WARREN COUNTY* | 3703960002B | 01-JUN-2001 | 01-04-2906A | 02
04 | NC | WARREN COUNTY* | 3703960002B | 01-JUN-2001 | 01-04-2888A | 02
04 | NC | WASHINGTON PARK, TOWN OF | 3702680001B | 26-JAN-2001 | 01-04-1858A | 02
04 | NC | WASHINGTON, CITY OF | 3700170006C | 09-MAY-2001 | 01-04-3416A | 02
04 | NC | WASHINGTON, CITY OF | 3700170006C | 09-MAY-2001 | 01-04-3420A | 02
04 | NC | WILKES COUNTY * | 3702560025B | 24-JAN-2001 | 01-04-1224A | 02
04 | NC | WILKESBORO, TOWN OF | 3702590005E | 17-JAN-2001 | 00-04-5592A | 02
04 | NC | WINSTON-SALEM, CITY OF | 37067C0252H | 02-JAN-2001 | 00-04-5916A | 02
04 | SC | BEAUFORT COUNTY* | 4500250070D | 07-MAR-2001 | 01-04-1936A | 02
04 | SC | BEAUFORT COUNTY* | 4500250100D | 14-MAR-2001 | 01-04-2256A | 02
04 | SC | BERKELEY COUNTY * | 4500290290C | 10-JAN-2001 | 01-04-1038A | 02
04 | SC | BERKELEY COUNTY * | 4500290290C | 17-JAN-2001 | 01-04-1486A | 02
04 | SC | BERKELEY COUNTY * | 4500290355C | 19-JAN-2001 | 01-04-1532A | 02
04 | SC | BERKELEY COUNTY * | 4500290290C | 31-JAN-2001 | 01-04-1568A | 02
04 | SC | BERKELEY COUNTY * | 4500290290C | 31-JAN-2001 | 01-04-0554A | 02
04 | SC | BERKELEY COUNTY * | 4500290290C | 07-MAR-2001 | 01-04-2336A | 02
04 | SC | BERKELEY COUNTY * | 4500290290C | 07-MAR-2001 | 01-04-2170A | 02
04 | SC | BERKELEY COUNTY * | 4500290290C | 07-MAR-2001 | 01-04-0426A | 02
04 | SC | BERKELEY COUNTY * | 4500290410C | 21-MAR-2001 | 01-04-2354A | 02
04 | SC | BERKELEY COUNTY * | 4500290290C | 27-APR-2001 | 01-04-2866A | 02
04 | SC | BERKELEY COUNTY * | 4500290290C | 23-MAY-2001 | 01-04-3674A | 02
04 | SC | CHARLESTON COUNTY* | 4554130227F | 25-APR-2001 | 01-04-3362A | 02
04 | SC | CHARLESTON COUNTY* | 4554130350F | 29-JUN-2001 | 01-04-4296A | 02
04 | SC | CHARLESTON COUNTY* | 4554130228G | 07-MAR-2001 | 01-04-2290A | 01
04 | SC | CLARENDON COUNTY * | 4500510225B | 02-JAN-2001 | 01-04-1108A | 02
04 | SC | CLARENDON COUNTY * | 4500510225B | 02-JAN-2001 | 01-04-0910A | 02
04 | SC | CLARENDON COUNTY * | 4500510225B | 31-JAN-2001 | 01-04-1838A | 02
04 | SC | CLARENDON COUNTY * | 4500510170B | 09-FEB-2001 | 01-04-1886A | 02
04 | SC | COLUMBIA, CITY OF | 45079C0178G | 14-FEB-2001 | 01-04-1442A | 02
04 | SC | DILLON COUNTY | 4500640125B | 23-MAR-2001 | 01-04-1910A | 02
04 | SC | DORCHESTER COUNTY * | 4500680245C | 27-JUN-2001 | 01-04-4424A | 02
04 | SC | DORCHESTER COUNTY * | 4500680300C | 29-JUN-2001 | 01-04-4674A | 02
04 | SC | FAIRFIELD COUNTY * | 4500750130B | 15-JUN-2001 | 01-04-4042A | 02
04 | SC | GEORGETOWN COUNTY * | 4500850095D | 20-APR-2001 | 01-04-2720A | 02
04 | SC | GOOSE CREEK, CITY OF | 4500290290C | 11-APR-2001 | 01-04-3076A | 02
04 | SC | GOOSE CREEK, CITY OF | 4500290290C | 02-MAY-2001 | 01-04-3534X | 02
04 | SC | GOOSE CREEK, CITY OF | 4500290290C | 11-MAY-2001 | 01-04-3444A | 02
04 | SC | GOOSE CREEK, CITY OF | 4500290290C | 08-JUN-2001 | 01-04-4214A | 02
04 | SC | GREENVILLE COUNTY * | 4500890215B | 27-APR-2001 | 01-04-2918A | 02
04 | SC | HORRY COUNTY * | 45051C0732H | 31-JAN-2001 | 01-04-0928A | 02
04 | SC | IRMO, TOWN OF | 45063C0133G | 18-MAY-2001 | 01-04-1478A | 02
04 | SC | KERSHAW COUNTY * | 45055C0530D | 27-JUN-2001 | 00-04-291P | 05
04 | SC | KERSHAW COUNTY * | 45055C0394D | 20-JUN-2001 | 01-04-4466A | 02
04 | SC | KINGSTREE, TOWN OF | 450190B | 24-JAN-2001 | 01-04-1232A | 02
04 | SC | LEXINGTON COUNTY * | 45063C0254G | 05-JAN-2001 | 00-04-5542A | 02
04 | SC | LEXINGTON COUNTY * | 45063C0116G | 10-JAN-2001 | 01-04-1146A | 02
04 | SC | LEXINGTON COUNTY * | 45063C0244G | 17-JAN-2001 | 00-04-5606A | 02
04 | SC | LEXINGTON COUNTY * | 45063C0139G | 14-FEB-2001 | 01-04-2014A | 02
04 | SC | LEXINGTON COUNTY * | 45063C0020G | 21-FEB-2001 | 01-04-1356A | 02
04 | SC | LEXINGTON COUNTY * | 45063C0229G | 07-MAR-2001 | 01-04-1110A | 02
04 | SC | LEXINGTON COUNTY * | 45063C0117G | 11-APR-2001 | 01-04-2872A | 02
04 | SC | LEXINGTON COUNTY * | 45063C0133G | 30-MAY-2001 | 01-04-3978A | 02
04 | SC | LEXINGTON COUNTY * | 45063C0113G | 08-JUN-2001 | 01-04-4102A | 02
04 | SC | LEXINGTON COUNTY * | 45063C0114G | 15-JUN-2001 | 01-04-4376A | 02
04 | SC | LEXINGTON COUNTY * | 45063C0137G | 10-JAN-2001 | 01-04-1348A | 01
04 | SC | MARION COUNTY | 4501410250B | 31-JAN-2001 | 00-04-5132A | 02
04 | SC | MOUNT PLEASANT, TOWN OF | 4554170002E | 13-APR-2001 | 01-04-2642A | 02
04 | SC | NEWBERRY COUNTY* | 4502240225B | 24-JAN-2001 | 01-04-1616A | 02
04 | SC | NEWBERRY COUNTY* | 4502240225B | 14-FEB-2001 | 01-04-2066A | 02
04 | SC | NEWBERRY COUNTY* | 4502240225B | 07-MAR-2001 | 01-04-0838A | 02
04 | SC | NEWBERRY COUNTY* | 4502240225B | 06-JUN-2001 | 01-04-3838A | 02
04 | SC | NEWBERRY COUNTY* | 4502240150B | 08-JUN-2001 | 01-04-3738A | 02
04 | SC | OCONEE COUNTY * | 4501570009B | 27-APR-2001 | 00-04-363P | 05
04 | SC | PICKENS COUNTY * | 4501660120B | 02-MAR-2001 | 01-04-1694A | 01
04 | SC | RICHLAND COUNTY* | 45079C0025G | 21-JUN-2001 | 01-04-071P | 05
04 | SC | RICHLAND COUNTY* | 45079C0111G | 02-JAN-2001 | 01-04-1176A | 02
04 | SC | RICHLAND COUNTY* | 45079C0025G | 17-JAN-2001 | 01-04-1474A | 02
04 | SC | RICHLAND COUNTY* | 45079C0025G | 17-JAN-2001 | 01-04-1556A | 02
04 | SC | RICHLAND COUNTY* | 45079C0025G | 31-JAN-2001 | 01-04-1306A | 02
04 | SC | RICHLAND COUNTY* | 45079C0025G | 23-FEB-2001 | 01-04-2174A | 02
04 | SC | RICHLAND COUNTY* | 45079C0025G | 21-MAR-2001 | 01-04-2622A | 02
04 | SC | RICHLAND COUNTY* | 45079C0025G | 02-MAY-2001 | 01-04-2854A | 02
04 | SC | RICHLAND COUNTY* | 45079C0025G | 05-JAN-2001 | 01-04-0358A | 01
04 | SC | RICHLAND COUNTY* | 45079C0040H | 19-JAN-2001 | 00-04-5676A | 01
04 | SC | RICHLAND COUNTY* | 45079C0040H | 14-FEB-2001 | 01-04-1946A | 01
04 | SC | RICHLAND COUNTY* | 45079C0040H | 25-MAY-2001 | 01-04-3686A | 01
04 | SC | SALUDA COUNTY* | 4502300002A | 28-FEB-2001 | 01-04-0796A | 02
04 | SC | SUMMERVILLE, TOWN OF | 4500680245C | 28-FEB-2001 | 01-04-2154A | 02
04 | SC | SUMTER COUNTY * | 4501820180C | 20-JUN-2001 | 01-04-3736A | 02
04 | SC | YORK COUNTY * | 4501930050B | 26-JAN-2001 | 01-04-1718A | 02
04 | TN | ARLINGTON, TOWNSHIP OF | 47157C0120E | 02-MAR-2001 | 01-04-1744A | 01
04 | TN | BLOUNT COUNTY * | 4703560050B | 26-JAN-2001 | 01-04-1434A | 02
04 | TN | BLOUNT COUNTY * | 4703560025B | 23-MAY-2001 | 01-04-3672A | 02
04 | TN | BRADLEY COUNTY * | 4703570080B | 31-JAN-2001 | 01-04-1758A | 02
04 | TN | BRADLEY COUNTY * | 4703570060B | 13-APR-2001 | 01-04-3156A | 02
04 | TN | BRADLEY COUNTY * | 4703570060B | 13-APR-2001 | 01-04-2768A | 02
04 | TN | BRADLEY COUNTY * | 4703570030B | 02-MAY-2001 | 01-04-3438A | 02
04 | TN | BRADLEY COUNTY * | 4703570080B | 09-MAY-2001 | 01-04-3616A | 02
04 | TN | BRENTWOOD, CITY OF | 4702050005C | 15-JUN-2001 | 01-04-4530A | 02
04 | TN | BRISTOL, CITY OF | 4701820005B | 21-FEB-2001 | 00-04-2674A | 01
04 | TN | CHATTANOOGA, CITY OF | 4700720011C | 11-APR-2001 | 01-04-3036A | 02
04 | TN | CHATTANOOGA, CITY OF | 4700720020A | 29-JUN-2001 | 01-04-4126A | 02
04 | TN | CHATTANOOGA, CITY OF | 4700720029E | 21-MAR-2001 | 01-04-1714A | 01
04 | TN | CHATTANOOGA, CITY OF | 4700720023E | 06-APR-2001 | 01-04-2534A | 01
04 | TN | CHATTANOOGA, CITY OF | 4700720017E | 01-JUN-2001 | 01-04-4088A | 01
04 | TN | CHATTANOOGA, CITY OF | 4700720030D | 27-JUN-2001 | 01-04-4096A | 01
04 | TN | CHATTANOOGA, CITY OF | 4700720006B | 27-JUN-2001 | 01-04-3168A | 01
04 | TN | CLARKSVILLE, CITY OF | 4701370003C | 29-JUN-2001 | 00-04-243P | 05
04 | TN | CLEVELAND, CITY OF | 4700150001D | 25-MAY-2001 | 01-04-4098A | 02
04 | TN | COLLIERVILLE, CITY OF | 47157C0295E | 20-MAR-2001 | 99-04-191P | 05
04 | TN | COLLIERVILLE, CITY OF | 47157C0245E | 28-FEB-2001 | 01-04-2214A | 02
04 | TN | COLLIERVILLE, CITY OF | 47157C0245E | 28-FEB-2001 | 01-04-2070A | 02
04 | TN | COLLIERVILLE, CITY OF | 47157C0245E | 02-MAY-2001 | 01-04-3370A | 02
04 | TN | COLLIERVILLE, CITY OF | 47157C0245E | 22-JUN-2001 | 01-04-4612A | 02
04 | TN | COLLIERVILLE, CITY OF | 45157C0240E | 02-FEB-2001 | 01-04-0870A | 01
04 | TN | COLLIERVILLE, CITY OF | 47157C0245E | 28-MAR-2001 | 01-04-2560A | 01
04 | TN | CROSSVILLE, CITY OF | 470039B | 14-FEB-2001 | 01-04-0994A | 01
04 | TN | DECATUR COUNTY * | 4700410005C | 10-JAN-2001 | 00-04-5728A | 02
04 | TN | DICKSON COUNTY * | 4700460125B | 18-APR-2001 | 01-04-2814A | 02
04 | TN | DYER COUNTY * | 47045C0160D | 07-MAR-2001 | 01-04-2340A | 02
04 | TN | DYER COUNTY * | 47045C0195D | 08-JUN-2001 | 01-04-4382A | 02
04 | TN | DYERSBURG, CITY OF | 47045C0190D | 08-JUN-2001 | 01-04-4064A | 01
04 | TN | EAST RIDGE, CITY OF | 4754240010D | 12-MAY-2001 | 00-04-335P | 05
04 | TN | EAST RIDGE, CITY OF | 4754240010D | 29-JUN-2001 | 01-04-4752A | 02
04 | TN | ERWIN, CITY OF | 4702380020B | 02-MAY-2001 | 00-04-255P | 05
04 | TN | FAIRVIEW, CITY OF | 470242A | 26-JAN-2001 | 01-04-0088A | 02
04 | TN | FAYETTE COUNTY* | 4703520020B | 15-JUN-2001 | 01-04-3108A | 02
04 | TN | GALLATIN, CITY OF | 4701850008B | 02-MAR-2001 | 01-04-1994A | 02
04 | TN | GERMANTOWN, CITY OF | 47157C0235E | 09-MAY-2001 | 01-04-3734A | 02
04 | TN | GILES COUNTY* | 4700630125B | 15-JUN-2001 | 01-04-4022A | 02
04 | TN | GOODLETTSVILLE, CITY OF | 47037C0129F | 21-APR-2001 | 01-04-3296V | 19
04 | TN | HAMILTON COUNTY * | 4700710135D | 20-APR-2001 | 01-04-3180A | 02
04 | TN | HARDEMAN COUNTY * | 4703600100B | 07-FEB-2001 | 01-04-1650A | 02
04 | TN | HENRY COUNTY | 47079C0125D | 07-JUN-2001 | 01-04-4028V | 19
04 | TN | HENRY COUNTY | 47079C0195D | 07-JUN-2001 | 01-04-4028V | 19
04 | TN | HENRY COUNTY | 47079C0225 | 07-JUN-2001 | 01-04-4028V | 19
04 | TN | HENRY COUNTY | 4702280050B | 31-JAN-2001 | 01-04-1824A | 02
04 | TN | JACKSON, CITY OF | 47113C0166D | 09-FEB-2001 | 01-04-1648A | 02
04 | TN | KNOX COUNTY * | 4754330115B | 19-JAN-2001 | 01-04-1316A | 02
04 | TN | KNOX COUNTY * | 4754330045B | 19-JAN-2001 | 01-04-1272A | 02
04 | TN | KNOX COUNTY * | 4754330080B | 23-MAY-2001 | 01-04-1690A | 02
04 | TN | KNOX COUNTY * | 4754330045B | 13-APR-2001 | 01-04-1308A | 01
04 | TN | LOUDON COUNTY* | 4701070100B | 12-JAN-2001 | 01-04-1314A | 02
04 | TN | MADISON COUNTY * | 47113C0285D | 02-FEB-2001 | 00-04-5118A | 01
04 | TN | MAURY COUNTY* | 4701230095B | 31-JAN-2001 | 01-04-1166A | 02
04 | TN | MEMPHIS, CITY OF | 47157C0225E | 14-FEB-2001 | 01-04-2082X | 17
04 | TN | MEMPHIS, CITY OF | 47157C0230E | 14-FEB-2001 | 01-04-2094A | 02
04 | TN | MEMPHIS, CITY OF | 47157C0230E | 21-MAR-2001 | 01-04-2486A | 02
04 | TN | MEMPHIS, CITY OF | 47157C0230E | 13-JUN-2001 | 01-04-3650A | 02
04 | TN | MEMPHIS, CITY OF | 47157C0225E | 24-JAN-2001 | 01-04-1676A | 01
04 | TN | MEMPHIS, CITY OF | 47157C0170E | 28-MAR-2001 | 01-04-2262A | 01
04 | TN | MEMPHIS, CITY OF | 47157C0140E | 11-APR-2001 | 01-04-2200A | 01
04 | TN | MILLERSVILLE, CITY OF | 4703490120B | 09-MAR-2001 | 01-04-2312A | 02
04 | TN | MONTGOMERY COUNTY * | 4701360055B | 29-JUN-2001 | 00-04-243P | 05
04 | TN | MONTGOMERY COUNTY * | 4701360050B | 02-JAN-2001 | 01-04-1094X | 02
04 | TN | MONTGOMERY COUNTY * | 4701360050B | 31-JAN-2001 | 01-04-1836X | 02
04 | TN | MONTGOMERY COUNTY * | 4701360050B | 14-MAR-2001 | 01-04-2442A | 02
04 | TN | MORRISTOWN, CITY OF | 4700700001D | 28-FEB-2001 | 00-04-5156A | 02
04 | TN | MURFREESBORO, CITY OF | 47149C0259F | 31-MAY-2001 | 01-04-319P | 05
04 | TN | MURFREESBORO, CITY OF | 47149C0276F | 26-JAN-2001 | 01-04-1058A | 01
04 | TN | MURFREESBORO, CITY OF | 47149C0276F | 20-FEB-2001 | 01-04-0138A | 01
04 | TN | MURFREESBORO, CITY OF | 47149C0276F | 23-FEB-2001 | 01-04-0138A | 01
04 | TN | MURFREESBORO, CITY OF | 47149C0257F | 20-APR-2001 | 01-04-3024A | 01
04 | TN | MURFREESBORO, CITY OF | 47149C0259F | 25-APR-2001 | 01-04-0774A | 01
04 | TN | NASHVILLE & DAVIDSON COUNTY, CITY O | 47037C0353F | 21-APR-2001 | 01-04-3298V | 19
04 | TN | NASHVILLE & DAVIDSON COUNTY, CITY O | 47037C0327F | 21-APR-2001 | 01-04-3298V | 19
04 | TN | NASHVILLE & DAVIDSON COUNTY, CITY O | 47037C0227F | 21-APR-2001 | 01-04-3298V | 19
04 | TN | NASHVILLE & DAVIDSON COUNTY, CITY O | 47037C0308F | 21-APR-2001 | 01-04-3298V | 19
04 | TN | NASHVILLE & DAVIDSON COUNTY, CITY O | 47037C0303F | 21-APR-2001 | 01-04-3298V | 19
04 | TN | NASHVILLE & DAVIDSON COUNTY, CITY O | 47037C0300F | 21-APR-2001 | 01-04-3298V | 19
04 | TN | NASHVILLE & DAVIDSON COUNTY, CITY O | 47037C0336F | 21-APR-2001 | 01-04-3298V | 19
04 | TN | NASHVILLE & DAVIDSON COUNTY, CITY O | 47037C0337F | 21-APR-2001 | 01-04-3298V | 19
04 | TN | NASHVILLE & DAVIDSON COUNTY, CITY O | 47037C0125F | 21-APR-2001 | 01-04-3298V | 19
04 | TN | NASHVILLE & DAVIDSON COUNTY, CITY O | 47037C0234F | 21-APR-2001 | 01-04-3298V | 19
04 | TN | NASHVILLE & DAVIDSON COUNTY, CITY O | 47037C0119F | 21-APR-2001 | 01-04-3298V | 19
04 | TN | NASHVILLE & DAVIDSON COUNTY, CITY O | 47037C0304F | 21-APR-2001 | 01-04-3298V | 19
04 | TN | NASHVILLE & DAVIDSON COUNTY, CITY O | 47037C0312F | 21-APR-2001 | 01-04-3298V | 19
04 | TN | NASHVILLE & DAVIDSON COUNTY, CITY O | 47037C0366F | 21-APR-2001 | 01-04-3298V | 19
04 | TN | NASHVILLE & DAVIDSON COUNTY, CITY O | 47037C0242F | 21-APR-2001 | 01-04-3298V | 19
04 | TN | NASHVILLE & DAVIDSON COUNTY, CITY O | 47037C0253F | 21-APR-2001 | 01-04-3298V | 19
04 | TN | NASHVILLE & DAVIDSON COUNTY, CITY O | 47037C0254F | 21-APR-2001 | 01-04-3298V | 19
04 | TN | NASHVILLE & DAVIDSON COUNTY, CITY O | 47037C0361F | 21-APR-2001 | 01-04-3298V | 19
04 | TN | NASHVILLE & DAVIDSON COUNTY, CITY O | 47037C0187F | 21-APR-2001 | 01-04-3298V | 19
04 | TN | NASHVILLE & DAVIDSON COUNTY, CITY O | 47037C0137F | 21-APR-2001 | 01-04-3298V | 19
04 | TN | NASHVILLE & DAVIDSON COUNTY, CITY O | 47037C0231F | 21-APR-2001 | 01-04-3298V | 19
04 | TN | NASHVILLE & DAVIDSON COUNTY, CITY O | 47037C0284F | 21-APR-2001 | 01-04-3298V | 19
04 | TN | NASHVILLE & DAVIDSON COUNTY, CITY O | 47037C0194F | 21-APR-2001 | 01-04-3298V | 19
04 | TN | NASHVILLE & DAVIDSON COUNTY, CITY O | 47037C0294F | 21-APR-2001 | 01-04-3298V | 19
04 | TN | NASHVILLE & DAVIDSON COUNTY, CITY O | 47037C0181F | 21-APR-2001 | 01-04-3298V | 19
04 | TN | NASHVILLE & DAVIDSON COUNTY, CITY O | 47037C0307F | 21-APR-2001 | 01-04-3298V | 19
04 | TN | NASHVILLE & DAVIDSON COUNTY, CITY O | 47037C0332F | 21-APR-2001 | 01-04-3298V | 19
04 | TN | NASHVILLE & DAVIDSON COUNTY, CITY O | 47037C0306F | 21-APR-2001 | 01-04-3298V | 19
04 | TN | NASHVILLE & DAVIDSON COUNTY, CITY O | 47037C0368F | 21-APR-2001 | 01-04-3298V | 19
04 | TN | NASHVILLE & DAVIDSON COUNTY, CITY O | 47037C0351F | 21-APR-2001 | 01-04-3298V | 19
04 | TN | NASHVILLE & DAVIDSON COUNTY, CITY O | 47037C0309F | 21-APR-2001 | 01-04-3298V | 19
04 | TN | NASHVILLE & DAVIDSON COUNTY, CITY O | 47037C0126F | 21-APR-2001 | 01-04-3298V | 19
04 | TN | NASHVILLE & DAVIDSON COUNTY, CITY O | 4700400316D | 31-MAY-2001 | 01-04-0374A | 17
04 | TN | NASHVILLE & DAVIDSON COUNTY, CITY O | 47037C0304F | 23-APR-2001 | 01-04-153P | 05
04 | TN | NASHVILLE & DAVIDSON COUNTY, CITY O | 47037C0252F | 23-APR-2001 | 01-04-155P | 05
04 | TN | NASHVILLE & DAVIDSON COUNTY, CITY O | 4700400100B | 05-JAN-2001 | 01-04-0068A | 02
04 | TN | NASHVILLE & DAVIDSON COUNTY, CITY O | 4700400282C | 26-JAN-2001 | 01-04-0556A | 02
04 | TN | NASHVILLE & DAVIDSON COUNTY, CITY O | 4700400100B | 07-MAR-2001 | 01-04-2166X | 02
04 | TN | NASHVILLE & DAVIDSON COUNTY, CITY O | 47037C0229F | 25-APR-2001 | 01-04-1538A | 02
04 | TN | NASHVILLE & DAVIDSON COUNTY, CITY O | 47037C0284F | 08-JUN-2001 | 01-04-4268A | 02
04 | TN | NASHVILLE & DAVIDSON COUNTY, CITY O | 47037C0100F | 27-JUN-2001 | 01-04-4066A | 02
04 | TN | NASHVILLE & DAVIDSON COUNTY, CITY O | 4700400192C | 10-JAN-2001 | 01-04-1276A | 01
04 | TN | NASHVILLE & DAVIDSON COUNTY, CITY O | 4700400177B | 10-JAN-2001 | 01-04-1292A | 01
04 | TN | NASHVILLE & DAVIDSON COUNTY, CITY O | 4700400177B | 19-JAN-2001 | 01-04-1282A | 01
04 | TN | NASHVILLE & DAVIDSON COUNTY, CITY O | 4700400234B | 24-JAN-2001 | 01-04-1270A | 01
04 | TN | NASHVILLE & DAVIDSON COUNTY, CITY O | 4700400192C | 24-JAN-2001 | 00-04-4252A | 01
04 | TN | NASHVILLE & DAVIDSON COUNTY, CITY O | 4700400192C | 24-JAN-2001 | 00-04-3744A | 01
04 | TN | NASHVILLE & DAVIDSON COUNTY, CITY O | 4700400192C | 31-JAN-2001 | 01-04-1834X | 01
04 | TN | NASHVILLE & DAVIDSON COUNTY, CITY O | 4700400203C | 09-FEB-2001 | 01-04-1048A | 01
04 | TN | NASHVILLE & DAVIDSON COUNTY, CITY O | 4700400262C | 14-FEB-2001 | 01-04-1260A | 01
04 | TN | NASHVILLE & DAVIDSON COUNTY, CITY O | 4700400177B | 07-MAR-2001 | 01-04-2332A | 01
04 | TN | NASHVILLE & DAVIDSON COUNTY, CITY O | 4700400318C | 07-MAR-2001 | 00-04-1782A | 01
04 | TN | NASHVILLE & DAVIDSON COUNTY, CITY O | 4700400177B | 25-APR-2001 | 01-04-2370A | 01
04 | TN | NASHVILLE & DAVIDSON COUNTY, CITY O | 47037C0237F | 06-JUN-2001 | 01-04-3452A | 01
04 | TN | NEW TAZEWELL, CITY OF | 470030B | 31-JAN-2001 | 00-04-5228A | 02
04 | TN | PARIS, CITY OF | 47079C0195D | 07-JUN-2001 | 01-04-4030V | 19
04 | TN | PULASKI, CITY OF | 4700670005C | 21-MAR-2001 | 01-04-2612A | 02
04 | TN | PULASKI, CITY OF | 4700670005C | 21-MAR-2001 | 01-04-2234A | 02
04 | TN | PULASKI, CITY OF | 4700670005C | 30-MAR-2001 | 01-04-2628A | 08
04 | TN | RED BANK, CITY OF | 4700760002B | 21-MAR-2001 | 01-04-2608A | 02
04 | TN | RHEA COUNTY | 4701510055B | 30-MAY-2001 | 01-04-3814A | 02
04 | TN | RUTHERFORD COUNTY * | 47149C0259F | 31-MAY-2001 | 01-04-319P | 05
04 | TN | RUTHERFORD COUNTY * | 47149C0295E | 02-MAY-2001 | 01-04-3138A | 02
04 | TN | RUTHERFORD COUNTY * | 47149C0270E | 02-MAY-2001 | 01-04-2954A | 02
04 | TN | RUTHERFORD COUNTY * | 47149C0140E | 15-JUN-2001 | 01-04-4012A | 02
04 | TN | RUTHERFORD COUNTY * | 47149C0163F | 17-JAN-2001 | 01-04-0140A | 01
04 | TN | SHELBY COUNTY * | 47157C0295E | 20-MAR-2001 | 99-04-191P | 05
04 | TN | SHELBY COUNTY * | 47157C0050E | 24-JAN-2001 | 01-04-1350A | 02
04 | TN | SHELBY COUNTY * | 47157C0230E | 02-MAR-2001 | 01-04-1750A | 02
04 | TN | SHELBY COUNTY * | 47157C0295E | 21-MAR-2001 | 01-04-2472A | 02
04 | TN | SHELBY COUNTY * | 47157C0240E | 18-APR-2001 | 01-04-3256A | 02
04 | TN | SHELBY COUNTY * | 47157C0290E | 29-JUN-2001 | 01-04-4384A | 02
04 | TN | SHELBY COUNTY * | 47157C0245E | 09-JAN-2001 | 01-04-0030A | 01
04 | TN | SHELBY COUNTY * | 47157C0240E | 19-JAN-2001 | 01-04-0770A | 01
04 | TN | SHELBY COUNTY * | 47157C0280E | 09-MAR-2001 | 00-04-4156A | 01
04 | TN | SHELBY COUNTY * | 47157C0295E | 02-MAY-2001 | 01-04-2564A | 01
04 | TN | SHELBY COUNTY * | 47157C0295E | 23-MAY-2001 | 01-04-2996A | 01
04 | TN | SHELBY COUNTY * | 47157C0060E | 30-MAY-2001 | 01-04-1736A | 01
04 | TN | SOUTH PITTSBURG, CITY OF | 4754470002B | 05-JAN-2001 | 01-04-1126A | 02
04 | TN | SUMNER COUNTY* | 4703490120B | 28-FEB-2001 | 01-04-1530A | 02
04 | TN | TRENTON, CITY OF | 4700620002B | 10-JAN-2001 | 00-04-5924A | 02
04 | TN | UNICOI COUNTY * | 4702380005B | 01-JUN-2001 | 01-04-3808A | 02
04 | TN | WASHINGTON COUNTY * | 47179C0030C | 06-APR-2001 | 01-04-1372A | 01
04 | TN | WAVERLY, CITY OF | 4700950004B | 09-FEB-2001 | 01-04-0836A | 02
04 | TN | WILLIAMSON COUNTY * | 4702040020C | 10-JAN-2001 | 01-04-1476A | 02
04 | TN | WILLIAMSON COUNTY * | 4702040045D | 17-JAN-2001 | 01-04-1116A | 02
05 | IL | ADDISON, VILLAGE OF |  | 14-FEB-2001 | 99-05-227P | 05
05 | IL | ADDISON, VILLAGE OF | 1701980005C | 14-FEB-2001 | 99-05-227P | 05
05 | IL | ALEXANDER COUNTY | 1708110075B | 23-MAY-2001 | 01-05-2011A | 02
05 | IL | ALGONQUIN, VILLAGE OF | 1704740001B | 13-JUN-2001 | 01-05-2398A | 02
05 | IL | ANTIOCH, VILLAGE OF | 17097C0010F | 16-MAR-2001 | 01-05-530A | 02
05 | IL | AROMA PARK, VILLAGE OF | 1707400001D | 09-MAR-2001 | 01-05-1306A | 02
05 | IL | AURORA, CITY OF |  | 13-MAR-2001 | 00-05-195P | 05
05 | IL | AURORA, CITY OF | 1703200020E | 23-MAR-2001 | 01-05-1170A | 01
05 | IL | AURORA, CITY OF | 1703200020E | 23-MAR-2001 | 01-05-1170A | 01
05 | IL | AURORA, CITY OF | 1703200035E | 23-MAR-2001 | 01-05-1170A | 01
05 | IL | AURORA, CITY OF | 17197C0030E | 13-MAR-2001 | 00-05-195P | 05
05 | IL | BARTLETT, VILLAGE OF | 1700590005C | 16-MAY-2001 | 01-05-1709A | 02
05 | IL | BARTLETT, VILLAGE OF | 1700590005C | 16-MAY-2001 | 01-05-1709A | 02
05 | IL | BEACH PARK, VILLAGE OF |  | 30-MAR-2001 | 00-05-6010V | 19
05 | IL | BEACH PARK, VILLAGE OF | 17097C0086G | 28-MAR-2001 | 01-05-1559A | 02
05 | IL | BEACH PARK, VILLAGE OF | 17097C0086G | 30-MAR-2001 | 00-05-6010V | 19
05 | IL | BEACH PARK, VILLAGE OF | 17097C0087G | 30-MAR-2001 | 00-05-6010V | 19
05 | IL | BELLEVILLE, CITY OF | 1706180010B | 30-MAY-2001 | 01-05-2044A | 02
05 | IL | BELLEVILLE, CITY OF | 1706180010B | 30-MAY-2001 | 01-05-2044A | 02
05 | IL | BELLWOOD, VILLAGE OF | 17031C0369F | 14-MAR-2001 | 01-05-1132A | 02
05 | IL | BELLWOOD, VILLAGE OF | 17031C0476F | 18-APR-2001 | 01-05-0949A | 02
05 | IL | BELLWOOD, VILLAGE OF | 17031C0476F | 30-MAY-2001 | 01-05-1696A | 02
05 | IL | BENSENVILLE, VILLAGE OF | 1702000003C | 30-MAR-2001 | 01-05-1507A | 01
05 | IL | BLOOMINGTON, CITY OF |  | 10-FEB-2001 | 01-05-0917V | 19
05 | IL | BLOOMINGTON, CITY OF | 17113C0314D | 09-MAY-2001 | 01-05-1875A | 02
05 | IL | BLOOMINGTON, CITY OF | 17113C0482D | 10-FEB-2001 | 01-05-0917V | 19
05 | IL | BLOOMINGTON, CITY OF | 17113C0501D | 10-FEB-2001 | 01-05-0917V | 19
05 | IL | BLOOMINGTON, CITY OF | 17113C0502D | 10-FEB-2001 | 01-05-0917V | 19
05 | IL | BLOOMINGTON, CITY OF | 17113C0504D | 06-JUN-2001 | 01-05-2332A | 02
05 | IL | BLOOMINGTON, CITY OF | 17113C0504D | 10-FEB-2001 | 01-05-0917V | 19
05 | IL | BOLINGBROOK, VILLAGE OF |  | 30-MAR-2001 | 00-05-385P | 05
05 | IL | BOLINGBROOK, VILLAGE OF | 17197C0045F | 20-JUN-2001 | 01-05-1447A | 01
05 | IL | BOLINGBROOK, VILLAGE OF | 17197C0045F | 26-JUN-2001 | 00-05-361P | 05
05 | IL | BOLINGBROOK, VILLAGE OF | 17197C0045F | 26-JUN-2001 | 00-05-361P | 05
05 | IL | BOLINGBROOK, VILLAGE OF | 17197C0054E | 30-MAR-2001 | 00-05-385P | 05
05 | IL | BRADLEY, VILLAGE OF | 1703380001B | 02-FEB-2001 | 01-05-504A | 02
05 | IL | BRADLEY, VILLAGE OF | 1703380001B | 11-APR-2001 | 01-05-1539A | 17
05 | IL | BRADLEY, VILLAGE OF | 1703380001B | 16-FEB-2001 | 01-05-1040A | 17
05 | IL | BRADLEY, VILLAGE OF | 1703380001B | 30-MAR-2001 | 01-05-1174A | 02
05 | IL | BUFFALO GROVE, VILLAGE OF | 17031C0063F | 16-MAY-2001 | 01-05-1378A | 01
05 | IL | BUFFALO GROVE, VILLAGE OF | 17097C0261F | 02-MAR-2001 | 01-05-778A | 02
05 | IL | BYRON, CITY OF | 1705260001B | 27-JUN-2001 | 01-05-2540A | 02
05 | IL | CARLOCK, VILLAGE OF |  | 10-FEB-2001 | 01-05-0918V | 19
05 | IL | CARLOCK, VILLAGE OF | 17113C0260D | 10-FEB-2001 | 01-05-0918V | 19
05 | IL | CARMI, CITY OF | 1706810005B | 02-FEB-2001 | 01-05-286A | 02
05 | IL | CARMI, CITY OF | 1706810005B | 13-APR-2001 | 01-05-1449A | 02
05 | IL | CARMI, CITY OF | 1706810005B | 18-APR-2001 | 01-05-1561A | 02
05 | IL | CAROL STREAM, VILLAGE OF | 1702020005C | 13-APR-2001 | 01-05-0254A | 02
05 | IL | CAROL STREAM, VILLAGE OF | 1702020005C | 13-APR-2001 | 01-05-0254A | 02
05 | IL | CAROL STREAM, VILLAGE OF | 1702020005C | 14-MAR-2001 | 01-05-0940A | 01
05 | IL | CAROL STREAM, VILLAGE OF | 1702020005C | 14-MAR-2001 | 01-05-0940A | 01
05 | IL | CAROL STREAM, VILLAGE OF | 1702020005C | 14-MAR-2001 | 01-05-1409A | 02
05 | IL | CARTHAGE,CITY OF | 170269B01 | 09-MAR-2001 | 01-05-1066A | 02
05 | IL | CHAMPAIGN COUNTY | 1708940100B | 23-MAR-2001 | 01-05-1385A | 02
05 | IL | CHAMPAIGN COUNTY | 1708940180B | 15-JUN-2001 | 01-05-2054A | 02
05 | IL | CHAMPAIGN COUNTY | 1708940180B | 21-MAR-2001 | 01-05-1144A | 02
05 | IL | CHAMPAIGN COUNTY | 1708940180B | 21-MAR-2001 | 01-05-1145A | 02
05 | IL | CHAMPAIGN COUNTY | 1708940225B | 21-MAR-2001 | 01-05-1148A | 02
05 | IL | CHAMPAIGN COUNTY * | 1708940100B | 23-MAR-2001 | 01-05-1385A | 02
05 | IL | CHAMPAIGN COUNTY * | 1708940180B | 15-JUN-2001 | 01-05-2054A | 02
05 | IL | CHAMPAIGN COUNTY * | 1708940180B | 21-MAR-2001 | 01-05-1144A | 02
05 | IL | CHAMPAIGN COUNTY * | 1708940180B | 21-MAR-2001 | 01-05-1145A | 02
05 | IL | CHAMPAIGN COUNTY * | 1708940225B | 21-MAR-2001 | 01-05-1148A | 02
05 | IL | CHAMPAIGN, CITY OF | 1700260010B | 27-APR-2001 | 01-05-1322A | 02
05 | IL | CHICAGO, CITY OF | 17031C0401F | 26-JUN-2001 | 01-05-2064P | 05
05 | IL | CHICAGO, CITY OF | 17031C0401F | 26-JUN-2001 | 01-05-2064P | 05
05 | IL | CLINTON COUNTY | 170044B | 06-APR-2001 | 01-05-1340A | 02
05 | IL | CLINTON COUNTY* | 170044B | 04-MAY-2001 | 01-05-1459A | 02
05 | IL | CLINTON COUNTY* | 170044B | 06-APR-2001 | 01-05-1340A | 02
05 | IL | CLINTON COUNTY* | 170044B | 28-FEB-2001 | 01-05-0726A | 02
05 | IL | CLINTON, CITY OF | 17039C0190D | 26-JAN-2001 | 01-05-145A | 02
05 | IL | COOK COUNTY | 17031C0069F | 02-JAN-2001 | 01-05-0678A | 02
05 | IL | COOK COUNTY | 17031C0069F | 16-MAY-2001 | 00-05-6264A | 01
05 | IL | COOK COUNTY | 17031C0207F | 16-MAY-2001 | 00-05-6264A | 01
05 | IL | COOK COUNTY | 17031C0234F | 02-MAR-2001 | 01-05-017A | 01
05 | IL | COOK COUNTY | 17031C0236F | 09-MAY-2001 | 01-05-1038A | 02
05 | IL | COOK COUNTY | 17031C0236F | 16-MAR-2001 | 01-05-1029A | 02
05 | IL | COOK COUNTY | 17031C0581F | 02-MAR-2001 | 00-05-0028A | 01
05 | IL | COOK COUNTY | 17031C0581F | 13-APR-2001 | 01-05-1281A | 02
05 | IL | COOK COUNTY | 17031C0581F | 17-JAN-2001 | 01-05-0679A | 01
05 | IL | COOK COUNTY | 17031C0582F | 02-MAR-2001 | 00-05-0028A | 01
05 | IL | COOK COUNTY | 17031C0682F | 23-FEB-2001 | 01-05-0773A | 01
05 | IL | COOK COUNTY | 17031C0682F | 30-MAY-2001 | 01-05-2142A | 02
05 | IL | COOK COUNTY | 17031C0684F | 06-JUN-2001 | 01-05-1987A | 02
05 | IL | COOK COUNTY | 17031C0684F | 15-JUN-2001 | 01-05-2610A | 01
05 | IL | COOK COUNTY | 17031C0726F | 04-APR-2001 | 01-05-1328A | 02
05 | IL | COOK COUNTY * | 17031C0069F | 02-JAN-2001 | 01-05-0678A | 02
05 | IL | COOK COUNTY * | 17031C0069F | 16-MAY-2001 | 00-05-6264A | 01
05 | IL | COOK COUNTY * | 17031C0581F | 02-MAR-2001 | 00-05-0028A | 01
05 | IL | COOK COUNTY * | 17031C0581F | 17-JAN-2001 | 01-05-0679A | 01
05 | IL | COOK COUNTY * | 17031C0682F | 23-FEB-2001 | 01-05-0773A | 01
05 | IL | COOK COUNTY * | 17031C0684F | 15-JUN-2001 | 01-05-2610A | 01
05 | IL | CRESTWOOD, VILLAGE OF | 17031C0617F | 13-JUN-2001 | 01-05-2220A | 02
05 | IL | CRYSTAL LAKE, CITY OF | 1704760003C | 13-JUN-2001 | 01-05-2417A | 02
05 | IL | DANVERS, VILLAGE OF |  | 10-FEB-2001 | 01-05-0919V | 19
05 | IL | DANVERS, VILLAGE OF | 17113C0270D | 10-FEB-2001 | 01-05-0919V | 19
05 | IL | DARIEN, CITY OF | 1701970060B | 19-MAR-2001 | 01-05-1412A | 01
05 | IL | DARIEN, CITY OF | 1707500003A | 11-APR-2001 | 01-05-0911A | 02
05 | IL | DE KALB COUNTY | 17037C0076D | 23-MAY-2001 | 01-05-2036A | 02
05 | IL | DE KALB, CITY OF | 17037C0059D | 16-MAY-2001 | 01-05-2014A | 02
05 | IL | DE KALB, CITY OF | 17037C0066D | 06-MAR-2001 | 00-05-329P | 05
05 | IL | DE KALB, CITY OF | 17037C0066D | 06-MAR-2001 | 00-05-329P | 05
05 | IL | DE KALB, CITY OF | 17037C0066D | 16-MAR-2001 | 01-05-1055A | 02
05 | IL | DE KALB, CITY OF | 17037C0066D | 24-JAN-2001 | 01-05-536A | 01
05 | IL | DE KALB, CITY OF | 17037C0066D | 26-JAN-2001 | 01-05-537A | 02
05 | IL | DECATUR, CITY OF | 1704290005C | 27-JUN-2001 | 01-05-373P | 05
05 | IL | DECATUR, CITY OF | 1704290005C | 27-JUN-2001 | 01-05-373P | 05
05 | IL | DECATUR, CITY OF | 1704290015C | 13-APR-2001 | 01-05-1455A | 02
05 | IL | DES PLAINES, CITY OF | 17031C0216F | 11-APR-2001 | 01-05-1074A | 02
05 | IL | DES PLAINES, CITY OF | 17031C0217F | 16-MAY-2001 | 01-05-2008A | 02
05 | IL | DES PLAINES, CITY OF | 17031C0217F | 27-JUN-2001 | 01-05-2465A | 02
05 | IL | DES PLAINES, CITY OF | 17031C0219F | 15-JUN-2001 | 01-05-2141A | 02
05 | IL | DES PLAINES, CITY OF | 17031C0219F | 26-JAN-2001 | 01-05-0769A | 02
05 | IL | DES PLAINES, CITY OF | 17031C0219F | 26-JAN-2001 | 01-05-0769A | 02
05 | IL | DES PLAINES, CITY OF | 17031C0236F | 29-JUN-2001 | 01-05-2303A | 02
05 | IL | DIXON, CITY OF | 17103C0018E | 01-JUN-2001 | 01-05-2098A | 17
05 | IL | DIXON, CITY OF | 17103C0018E | 19-JAN-2001 | 00-05-5676A | 01
05 | IL | DOWNERS GROVE, VILLAGE OF |  | 23-MAR-2001 | 01-05-910P | 05
05 | IL | DOWNERS GROVE, VILLAGE OF | 1702040004B | 23-MAR-2001 | 01-05-910P | 05
05 | IL | DU PAGE COUNTY* | 1701970005B | 14-FEB-2001 | 99-05-227P | 05
05 | IL | DUPAGE COUNTY |  | 14-FEB-2001 | 99-05-227P | 05
05 | IL | ELGIN, CITY OF | 1700870007D | 29-JUN-2001 | 01-05-1550A | 17
05 | IL | FOX LAKE, VILLAGE OF | 17097C0015G | 13-APR-2001 | 01-05-1250A | 02
05 | IL | FOX LAKE, VILLAGE OF | 17097C0015G | 27-JUN-2001 | 01-05-2305A | 02
05 | IL | FOX LAKE, VILLAGE OF | 17097C0015G | 27-JUN-2001 | 01-05-2320A | 02
05 | IL | FOX LAKE, VILLAGE OF | 17097C0015G | 27-JUN-2001 | 01-05-2325A | 02
05 | IL | FOX LAKE, VILLAGE OF | 17097C0015G | 27-JUN-2001 | 01-05-2572A | 02
05 | IL | FOX LAKE, VILLAGE OF | 17097C0015G | 28-MAR-2001 | 01-05-1307A | 02
05 | IL | FOX LAKE, VILLAGE OF | 17097C0020F | 04-APR-2001 | 01-05-1554A | 02
05 | IL | FOX LAKE, VILLAGE OF | 17097C0020F | 16-MAY-2001 | 01-05-1540A | 02
05 | IL | FRANKFORT, VILLAGE OF | 17197C0213E | 09-MAR-2001 | 00-05-5696A | 02
05 | IL | FRANKFORT, VILLAGE OF | 17197C0310E | 04-MAY-2001 | 01-05-1472A | 01
05 | IL | FRANKLIN COUNTY | 1708990005B | 30-MAY-2001 | 01-05-2455A | 02
05 | IL | GERMANTOWN, VILLAGE OF | 170049B | 01-JUN-2001 | 01-05-1708A | 02
05 | IL | GERMANTOWN, VILLAGE OF | 170049B | 01-JUN-2001 | 01-05-1708A | 02
05 | IL | GLENVIEW, VILLAGE OF | 17031C0233F | 08-JUN-2001 | 01-05-2010A | 02
05 | IL | GRAYSLAKE, VILLAGE OF | 17097C0312G | 08-MAR-2001 | 01-05-783A | 02
05 | IL | GRUNDY COUNTY | 1702560100C | 11-APR-2001 | 01-05-1119A | 02
05 | IL | GURNEE, VILLAGE OF | 17097C0157G | 13-JUN-2001 | 01-05-1224A | 17
05 | IL | HAMPSHIRE, VILLAGE OF | 1703270002C | 18-APR-2001 | 01-05-1166C | 02
05 | IL | HANOVER PARK, VILLAGE OF | 17031C0169F | 26-JAN-2001 | 00-05-6310A | 02
05 | IL | HANOVER PARK, VILLAGE OF | 17031C0169F | 28-MAR-2001 | 01-05-1300A | 02
05 | IL | HARVEY, CITY OF | 17031C0731F | 24-JAN-2001 | 01-05-0208A | 02
05 | IL | HAWTHORN WOODS, VILLAGE OF | 17097C0232F | 08-JUN-2001 | 01-05-1351A | 17
05 | IL | HENRY COUNTY | 1707390175B | 26-JAN-2001 | 01-05-590A | 02
05 | IL | HEYWORTH, VILLAGE OF |  | 10-FEB-2001 | 01-05-0920V | 19
05 | IL | HEYWORTH, VILLAGE OF | 17113C0705D | 10-FEB-2001 | 01-05-0920V | 19
05 | IL | HIGHLAND PARK, CITY OF | 17097C0287F | 04-APR-2001 | 01-05-251A | 17
05 | IL | HIGHLAND PARK, CITY OF | 17097C0293F | 30-MAY-2001 | 01-05-2240A | 02
05 | IL | HINSDALE, VILLAGE OF | 1701050002B | 20-APR-2001 | 01-05-1682A | 02
05 | IL | HINSDALE, VILLAGE OF | 1701050002B | 20-APR-2001 | 01-05-1689A | 02
05 | IL | HOFFMAN ESTATES, VILLAGE OF | 17031C0187F | 27-JUN-2001 | 01-05-2447A | 02
05 | IL | HOMEWOOD, VILLAGE OF | 17031C0741F | 01-JUN-2001 | 01-05-2275A | 02
05 | IL | HUNTLEY, VILLAGE OF | 1704800002C | 01-JUN-2001 | 01-05-1154A | 01
05 | IL | HUNTLEY, VILLAGE OF | 1704800002C | 01-JUN-2001 | 01-05-1154A | 01
05 | IL | INVERNESS, VILLAGE OF | 17031C0157F | 22-JUN-2001 | 01-05-1942A | 02
05 | IL | IROQUOIS COUNTY | 17075C0040D | 08-JUN-2001 | 01-05-2123A | 02
05 | IL | IROQUOIS COUNTY | 17075C0120D | 13-APR-2001 | 01-05-1042A | 17
05 | IL | IROQUOIS COUNTY | 17075C0120D | 15-JUN-2001 | 01-05-993A | 02
05 | IL | JOLIET, CITY OF | 17197C | 11-APR-2001 | 01-05-0925A | 01
05 | IL | JOLIET, CITY OF | 17197C0137E | 11-MAY-2001 | 01-05-1376A | 01
05 | IL | JOLIET, CITY OF | 17197C0141E | 11-MAY-2001 | 01-05-1376A | 01
05 | IL | JOLIET, CITY OF | 17197C0143E | 22-JUN-2001 | 01-05-1927A | 17
05 | IL | JOLIET, CITY OF | 17197C0163E | 05-JAN-2001 | 00-05-4898A | 02
05 | IL | JOLIET, CITY OF | 17197C0164E | 14-FEB-2001 | 01-05-954A | 02
05 | IL | JUSTICE, VILLAGE OF | 17031C0489F | 09-MAR-2001 | 01-05-994A | 01
05 | IL | KANE COUNTY | 1708960125B | 21-MAR-2001 | 01-05-1390A | 02
05 | IL | KANE COUNTY * | 1708960035B | 16-MAY-2001 | 01-05-1693A | 02
05 | IL | KANE COUNTY * | 1708960125B | 21-MAR-2001 | 01-05-1390A | 02
05 | IL | KANKAKEE COUNTY | 1703360155B | 16-MAY-2001 | 01-05-828A | 02
05 | IL | KANKAKEE COUNTY | 1703360180C | 13-APR-2001 | 01-05-1440A | 02
05 | IL | KANKAKEE COUNTY | 1703360185C | 14-FEB-2001 | 01-05-366A | 02
05 | IL | KANKAKEE COUNTY | 1703360185C | 30-MAY-2001 | 01-05-2169A | 02
05 | IL | KANKAKEE COUNTY | 1703360190C | 19-JAN-2001 | 01-05-518A | 02
05 | IL | KANKAKEE, CITY OF | 1703390005C | 19-JAN-2001 | 01-05-486A | 02
05 | IL | KENDALL COUNTY | 1703410015C | 21-FEB-2001 | 01-05-0559A | 02
05 | IL | KENDALL COUNTY | 1703410090C | 19-JAN-2001 | 01-05-0037A | 02
05 | IL | KENDALL COUNTY | 1703410125C | 09-MAR-2001 | 01-05-0937A | 02
05 | IL | KENDALL COUNTY * | 1703410015C | 21-FEB-2001 | 01-05-0559A | 02
05 | IL | KENDALL COUNTY * | 1703410090C | 19-JAN-2001 | 01-05-0037A | 02
05 | IL | KENDALL COUNTY * | 1703410125C | 09-MAR-2001 | 01-05-0937A | 02
05 | IL | KIRKWOOD, VILLAGE OF | 170675B01 | 02-FEB-2001 | 01-05-581A | 02
05 | IL | LAKE BARRINGTON, VILLAGE OF | 17097C0206F | 13-APR-2001 | 01-05-1523A | 02
05 | IL | LAKE COUNTY | 17097C0010F | 11-MAY-2001 | 01-05-1236A | 02
05 | IL | LAKE COUNTY | 17097C0010F | 14-MAR-2001 | 00-05-4380A | 02
05 | IL | LAKE COUNTY | 17097C0010F | 16-MAR-2001 | 01-05-1297A | 02
05 | IL | LAKE COUNTY | 17097C0010F | 16-MAR-2001 | 01-05-506A | 02
05 | IL | LAKE COUNTY | 17097C0010F | 16-MAR-2001 | 01-05-510A | 02
05 | IL | LAKE COUNTY | 17097C0010F | 26-JAN-2001 | 00-05-6110A | 02
05 | IL | LAKE COUNTY | 17097C0010F | 29-JUN-2001 | 01-05-1999A | 02
05 | IL | LAKE COUNTY | 17097C0010F | 30-MAY-2001 | 01-05-2229A | 02
05 | IL | LAKE COUNTY | 17097C0015G | 09-MAR-2001 | 01-05-481A | 02
05 | IL | LAKE COUNTY | 17097C0019F | 09-FEB-2001 | 01-05-256A | 02
05 | IL | LAKE COUNTY | 17097C0019F | 09-MAR-2001 | 01-05-046A | 02
05 | IL | LAKE COUNTY | 17097C0019F | 28-MAR-2001 | 01-05-1249A | 02
05 | IL | LAKE COUNTY | 17097C0020F | 02-FEB-2001 | 01-05-634A | 02
05 | IL | LAKE COUNTY | 17097C0026F | 09-FEB-2001 | 01-05-624A | 02
05 | IL | LAKE COUNTY | 17097C0026F | 13-JUN-2001 | 01-05-2215A | 02
05 | IL | LAKE COUNTY | 17097C0026F | 30-MAY-2001 | 01-05-2229A | 02
05 | IL | LAKE COUNTY | 17097C0110H | 11-APR-2001 | 01-05-1560A | 02
05 | IL | LAKE COUNTY | 17097C0166G | 20-JUN-2001 | 01-05-2263A | 02
05 | IL | LAKE COUNTY | 17097C0166G | 28-MAR-2001 | 01-05-1283A | 02
05 | IL | LAKE COUNTY | 17097C0166G | 30-MAR-2001 | 01-05-1185A | 02
05 | IL | LAKE COUNTY | 17097C0205F | 15-JUN-2001 | 01-05-2235A | 02
05 | IL | LAKE COUNTY | 17097C0266G | 13-JUN-2001 | 01-05-2317A | 02
05 | IL | LAKE FOREST, CITY OF | 17097C0188F | 14-FEB-2001 | 01-05-1081A | 02
05 | IL | LAKE FOREST, CITY OF | 17097C0276F | 26-JAN-2001 | 01-05-473A | 02
05 | IL | LAKE-IN-THE-HILLS, VILLAGE OF | 1704810003E | 04-APR-2001 | 01-05-202A | 01
05 | IL | LAKE-IN-THE-HILLS, VILLAGE OF | 1704810335E | 04-APR-2001 | 01-05-202A | 01
05 | IL | LANSING, VILLAGE OF | 17031C0759F | 05-JAN-2001 | 01-05-0200A | 02
05 | IL | LEBANON, CITY OF | 1706290001B | 11-APR-2001 | 01-05-1071A | 02
05 | IL | LEE COUNTY | 17103C0010E | 30-MAY-2001 | 01-05-1973A | 02
05 | IL | LEE COUNTY | 17103C0175D | 07-FEB-2001 | 01-05-692A | 02
05 | IL | LIBERTYVILLE, VILLAGE OF |  | 02-MAR-2001 | 00-05-6072A | 01
05 | IL | LIBERTYVILLE, VILLAGE OF | 17097C0164G | 19-JAN-2001 | 01-05-533A | 02
05 | IL | LINCOLNSHIRE, VILLAGE OF | 17097C0258G | 09-MAR-2001 | 01-05-1065A | 02
05 | IL | LINCOLNSHIRE, VILLAGE OF | 17097C0258G | 11-APR-2001 | 01-05-1335A | 02
05 | IL | LINCOLNSHIRE, VILLAGE OF | 17097C0258G | 14-FEB-2001 | 01-05-496A | 01
05 | IL | LINCOLNSHIRE, VILLAGE OF | 17097C0258G | 14-FEB-2001 | 01-05-498A | 01
05 | IL | LINCOLNSHIRE, VILLAGE OF | 17097C0258G | 26-JAN-2001 | 01-05-250A | 02
05 | IL | LINDENHURST, VILLAGE OF | 17097C0041F | 13-APR-2001 | 01-05-1805A | 02
05 | IL | LINDENHURST, VILLAGE OF | 17097C0041F | 18-APR-2001 | 01-05-1909A | 02
05 | IL | LISLE, VILLAGE OF | 1702110005B | 08-JUN-2001 | 01-05-1245A | 02
05 | IL | LISLE, VILLAGE OF | 1702110005B | 08-JUN-2001 | 01-05-1245A | 02
05 | IL | LIVINGSTON COUNTY | 1709290004A | 13-APR-2001 | 01-05-1463A | 02
05 | IL | LONG GROVE, VILLAGE OF | 17097C0234F | 13-JUN-2001 | 01-05-1956A | 02
05 | IL | LONG GROVE, VILLAGE OF | 17097C0253F | 02-MAR-2001 | 01-05-852A | 02
05 | IL | LONG GROVE, VILLAGE OF | 17097C0253F | 27-APR-2001 | 01-05-1522A | 02
05 | IL | LONG GROVE, VILLAGE OF | 17097C0261F | 25-APR-2001 | 01-05-1325A | 02
05 | IL | LYNWOOD, VILLAGE OF |  | 19-JAN-2001 | 01-05-0572A | 02
05 | IL | LYNWOOD, VILLAGE OF | 17031C0766F | 19-JAN-2001 | 01-05-0572A | 02
05 | IL | LYNWOOD, VILLAGE OF | 17031C0768F | 11-MAY-2001 | 00-05-4620A | 02
05 | IL | LYNWOOD, VILLAGE OF | 17031C0768F | 11-MAY-2001 | 00-05-4620A | 02
05 | IL | LYNWOOD, VILLAGE OF | 17031C0768F | 21-FEB-2001 | 00-05-6144A | 02
05 | IL | LYNWOOD, VILLAGE OF | 17031C0768F | 21-FEB-2001 | 00-05-6144A | 02
05 | IL | MACON COUNTY | 1709280025B | 27-JUN-2001 | 01-05-1970A | 02
05 | IL | MADISON COUNTY | 1704360015B | 09-MAY-2001 | 01-05-786A | 02
05 | IL | MADISON COUNTY | 1704360020B | 09-MAY-2001 | 01-05-786A | 02
05 | IL | MADISON COUNTY | 1704360085B | 14-FEB-2001 | 01-05-428A | 02
05 | IL | MADISON COUNTY | 1704360085B | 20-JUN-2001 | 01-05-2163A | 02
05 | IL | MADISON COUNTY | 1704360120B | 09-MAY-2001 | 01-05-1468A | 01
05 | IL | MARENGO, CITY OF | 1704820001B | 19-JAN-2001 | 01-05-368A | 02
05 | IL | MARENGO, CITY OF | 1704820001B | 23-MAY-2001 | 01-05-2096A | 02
05 | IL | MASCOUTAH, CITY OF | 1706160045B | 24-MAY-2001 | 98-05-429P | 05
05 | IL | MASCOUTAH, CITY OF | 1706160045B | 24-MAY-2001 | 98-05-429P | 05
05 | IL | MASCOUTAH, CITY OF | 1706160050A | 24-MAY-2001 | 98-05-429P | 05
05 | IL | MASCOUTAH, CITY OF | 1706300002B | 25-APR-2001 | 01-05-1662A | 02
05 | IL | MASCOUTAH, CITY OF | 1706300002B | 25-APR-2001 | 01-05-1662A | 02
05 | IL | MASSAC COUNTY | 1704670100B | 28-MAR-2001 | 01-05-632A | 01
05 | IL | MATTESON, VILLAGE OF | 17031C0802F | 13-JUN-2001 | 01-05-1980A | 02
05 | IL | MCHENRY COUNTY | 1707320090B | 25-MAY-2001 | 01-05-1957A | 02
05 | IL | MCHENRY COUNTY | 1707320230B | 04-MAY-2001 | 01-05-1240A | 02
05 | IL | MCHENRY COUNTY | 1707320230B | 23-MAY-2001 | 01-05-894A | 02
05 | IL | MCHENRY, CITY OF | 1704830003D | 13-APR-2001 | 01-05-1330A | 02
05 | IL | MCLEAN COUNTY |  | 10-FEB-2001 | 01-05-0921V | 19
05 | IL | MCLEAN COUNTY * | 17113C0350D | 10-FEB-2001 | 01-05-0921V | 19
05 | IL | MCLEAN COUNTY * | 17113C0484D | 10-FEB-2001 | 01-05-0921V | 19
05 | IL | MCLEAN COUNTY * | 17113C0515D | 10-FEB-2001 | 01-05-0921V | 19
05 | IL | MCLEAN COUNTY * | 17113C0705D | 10-FEB-2001 | 01-05-0921V | 19
05 | IL | MERRIONETTE PARK, VILLAGE OF | 17031C0637F | 20-JUN-2001 | 01-05-2306A | 02
05 | IL | MIDLOTHIAN, VILLAGE OF | 17031C0638F | 09-MAR-2001 | 01-05-1091A | 02
05 | IL | MIDLOTHIAN, VILLAGE OF | 17031C0639F | 06-JUN-2001 | 01-05-2167A | 02
05 | IL | MOLINE, CITY OF | 1705910005B | 20-APR-2001 | 01-05-1577A | 02
05 | IL | MOLINE, CITY OF | 1705910010B | 30-MAY-2001 | 01-05-2067A | 01
05 | IL | MOLINE, CITY OF | 1705910010B | 30-MAY-2001 | 01-05-2067A | 01
05 | IL | MONMOUTH, CITY OF | 17067601B | 27-JUN-2001 | 01-05-2399A | 02
05 | IL | MONROE COUNTY | 1705090035D | 04-MAY-2001 | 01-05-1703A | 02
05 | IL | MONROE COUNTY* | 1705090035D | 04-MAY-2001 | 01-05-1703A | 02
05 | IL | MORRIS, CITY OF | 1702630005C | 14-FEB-2001 | 01-05-977A | 02
05 | IL | MORTON GROVE, VILLAGE OF | 17031C0241F | 16-MAR-2001 | 01-05-1210A | 02
05 | IL | MOUNT PROSPECT, VILLAGE OF | 17031C0212F | 06-JUN-2001 | 01-05-1770A | 02
05 | IL | MOUNT PROSPECT, VILLAGE OF | 17031C0212F | 06-JUN-2001 | 01-05-2217A | 02
05 | IL | MOUNT PROSPECT, VILLAGE OF | 17031C0212F | 14-FEB-2001 | 01-05-1187A | 02
05 | IL | MOUNT PROSPECT, VILLAGE OF | 17031C0216F | 16-MAY-2001 | 01-05-1043A | 02
05 | IL | MOUNT PROSPECT, VILLAGE OF | 17031C0216F | 23-MAY-2001 | 01-05-1188A | 02
05 | IL | NAPERVILLE, CITY OF |  | 15-FEB-2001 | 01-05-222X | 06
05 | IL | NAPERVILLE, CITY OF | 1702130008C | 15-FEB-2001 | 01-05-222X | 06
05 | IL | NAPERVILLE, CITY OF | 1702130017C | 06-JUN-2001 | 01-05-1897A | 02
05 | IL | NAPERVILLE, CITY OF | 1702130017C | 06-JUN-2001 | 01-05-1897A | 02
05 | IL | NAPERVILLE, CITY OF | 1702130017C | 21-MAR-2001 | 01-05-0733A | 01
05 | IL | NORMAL, TOWN OF |  | 10-FEB-2001 | 01-05-0922V | 19
05 | IL | NORMAL, TOWN OF | 17113C0294D | 10-FEB-2001 | 01-05-0922V | 19
05 | IL | NORMAL, TOWN OF | 17113C0313D | 10-FEB-2001 | 01-05-0922V | 19
05 | IL | NORTH PEKIN, VILLAGE OF | 1706530005B | 08-JUN-2001 | 01-05-2476A | 02
05 | IL | NORTHBROOK, VILLAGE OF | 17031C0088F | 01-JUN-2001 | 00-05-387P | 05
05 | IL | NORTHBROOK, VILLAGE OF | 17031C0088F | 08-JUN-2001 | 01-05-2287A | 02
05 | IL | NORTHBROOK, VILLAGE OF | 17031C0088F | 16-MAR-2001 | 01-05-1082A | 02
05 | IL | NORTHFIELD, VILLAGE OF | 17031C0232F | 15-JUN-2001 | 01-05-1466A | 01
05 | IL | NORTHLAKE, CITY OF | 17031C0366F | 16-MAY-2001 | 01-05-2031A | 02
05 | IL | NORTHLAKE, CITY OF | 17031C0366F | 16-MAY-2001 | 01-05-2031A | 02
05 | IL | OAK BROOK, VILLAGE OF | 1702140001B | 09-FEB-2001 | 01-05-0884A | 01
05 | IL | OAK BROOK, VILLAGE OF | 1702140001B | 28-FEB-2001 | 01-05-1383X | 02
05 | IL | OAK BROOK, VILLAGE OF | 1702140001B | 28-FEB-2001 | 01-05-1383X | 02
05 | IL | OAK BROOK, VILLAGE OF | 1702140004B | 02-FEB-2001 | 01-05-0945A | 02
05 | IL | OAK BROOK, VILLAGE OF | 1702140004B | 02-FEB-2001 | 01-05-0945A | 02
05 | IL | OAK FOREST, CITY OF | 17031C0707F | 13-JUN-2001 | 01-05-2405A | 02
05 | IL | OAK FOREST, CITY OF | 17031C0707F | 27-JUN-2001 | 01-05-2404A | 02
05 | IL | OAK FOREST, CITY OF | 17031C0726F | 01-MAY-2001 | 00-05-323P | 05
05 | IL | OAK FOREST, CITY OF | 17031C0726F | 01-MAY-2001 | 00-05-323P | 05
05 | IL | OAK FOREST, CITY OF | 17031C0726F | 13-JUN-2001 | 01-05-1365A | 02
05 | IL | OAK FOREST, CITY OF | 17031C0728F | 02-MAR-2001 | 01-05-1159A | 02
05 | IL | OAK FOREST, CITY OF | 17031C0728F | 02-MAR-2001 | 01-05-1159A | 02
05 | IL | OAK FOREST, CITY OF | 17031C0728F | 02-MAR-2001 | 01-05-1160A | 01
05 | IL | OAK FOREST, CITY OF | 17031C0728F | 02-MAR-2001 | 01-05-1160A | 01
05 | IL | OAK LAWN, VILLAGE OF | 17031C0609F | 16-MAR-2001 | 01-05-953A | 02
05 | IL | OAK LAWN, VILLAGE OF | 17031C0609F | 28-MAR-2001 | 01-05-1175A | 02
05 | IL | OAK LAWN, VILLAGE OF | 17031C0609F | 30-MAR-2001 | 01-05-707A | 02
05 | IL | ORLAND PARK, VILLAGE OF | 17031C0704F | 06-APR-2001 | 01-05-1338A | 02
05 | IL | ORLAND PARK, VILLAGE OF | 17031C0704F | 11-MAY-2001 | 01-05-1261A | 02
05 | IL | PALATINE, VILLAGE OF | 17031C0043F | 23-FEB-2001 | 01-05-0550A | 01
05 | IL | PALATINE, VILLAGE OF | 17031C0043F | 25-MAY-2001 | 01-05-1494A | 02
05 | IL | PALATINE, VILLAGE OF | 17031C0177F | 23-FEB-2001 | 01-05-0556A | 17
05 | IL | PALATINE, VILLAGE OF | 17031C0177F | 23-FEB-2001 | 01-05-0556A | 17
05 | IL | PALATINE, VILLAGE OF | 17031C0177F | 25-APR-2001 | 01-05-1443A | 02
05 | IL | PALATINE, VILLAGE OF | 17031C0181F | 23-FEB-2001 | 01-05-0550A | 01
05 | IL | PALOS HEIGHTS, CITY OF | 17031C0616F | 13-JUN-2001 | 01-05-2204A | 02
05 | IL | PALOS HILLS, CITY OF | 17031C0604F | 01-JUN-2001 | 01-05-2269A | 02
05 | IL | PALOS HILLS, CITY OF | 17031C0604F | 02-FEB-2001 | 01-05-615A | 02
05 | IL | PALOS HILLS, CITY OF | 17031C0604F | 05-JAN-2001 | 01-05-0139A | 02
05 | IL | PALOS HILLS, CITY OF | 17031C0604F | 05-JAN-2001 | 01-05-0446A | 02
05 | IL | PALOS HILLS, CITY OF | 17031C0604F | 14-FEB-2001 | 01-05-713A | 02
05 | IL | PALOS HILLS, CITY OF | 17031C0604F | 14-FEB-2001 | 01-05-971A | 02
05 | IL | PALOS HILLS, CITY OF | 17031C0604F | 15-JUN-2001 | 01-05-1290A | 02
05 | IL | PALOS HILLS, CITY OF | 17031C0604F | 19-JAN-2001 | 01-05-0569A | 02
05 | IL | PALOS HILLS, CITY OF | 17031C0604F | 19-JAN-2001 | 01-05-0569A | 02
05 | IL | PALOS HILLS, CITY OF | 17031C0604F | 22-JUN-2001 | 01-05-1952A | 02
05 | IL | PALOS HILLS, CITY OF | 17031C0604F | 26-JAN-2001 | 01-05-584A | 02
05 | IL | PALOS HILLS, CITY OF | 17031C0604F | 31-JAN-2001 | 01-05-0766A | 02
05 | IL | PALOS HILLS, CITY OF | 17031C0604F | 31-JAN-2001 | 01-05-0766A | 02
05 | IL | PARK CITY, CITY OF | 17097C0157G | 02-MAR-2001 | 01-05-796A | 02
05 | IL | PEORIA COUNTY | 1705330075B | 11-APR-2001 | 01-05-1007A | 02
05 | IL | PEORIA COUNTY | 1705330125B | 19-JAN-2001 | 01-05-220A | 02
05 | IL | PEORIA COUNTY | 1705330125B | 30-MAR-2001 | 01-05-1084A | 01
05 | IL | PEORIA, CITY OF | 1705360015B | 02-MAY-2001 | 01-05-048A | 02
05 | IL | PERRY COUNTY | 1705380008B | 04-APR-2001 | 01-05-162A | 02
05 | IL | PONTIAC, CITY OF | 1704260001C | 11-APR-2001 | 01-05-695A | 02
05 | IL | PONTIAC, CITY OF | 1704260001C | 16-MAY-2001 | 01-05-2100A | 02
05 | IL | PONTIAC, CITY OF | 1704260001C | 18-MAY-2001 | 01-05-2160A | 02
05 | IL | PONTIAC, CITY OF | 1704260001C | 25-MAY-2001 | 01-05-2143A | 01
05 | IL | PRINCETON, CITY OF | 17001402B | 20-JUN-2001 | 01-05-2525A | 02
05 | IL | PRINCETON, CITY OF | 17001402B | 27-JUN-2001 | 01-05-2515A | 02
05 | IL | PRINCETON, CITY OF | 170014B | 19-JAN-2001 | 00-05-6032A | 02
05 | IL | PROSPECT HEIGHTS, CITY OF | 17031C0202 | 16-MAY-2001 | 00-05-225P | 05
05 | IL | PROSPECT HEIGHTS, CITY OF | 1709190005C | 16-MAY-2001 | 00-05-225P | 05
05 | IL | QUINCY, CITY OF | 1700030020B | 29-JUN-2001 | 01-05-2420A | 17
05 | IL | RANDOLPH COUNTY | 1705750250B | 09-MAR-2001 | 01-05-170A | 02
05 | IL | RIVERSIDE, VILLAGE OF | 17031C0479F | 29-JUN-2001 | 01-05-2426A | 02
05 | IL | ROCKFORD, CITY OF | 1707230014B | 26-JAN-2001 | 01-05-656A | 02
05 | IL | ROMEOVILLE, VILLAGE OF | 17197C0065F | 01-JUN-2001 | 01-05-2242A | 02
05 | IL | ROMEOVILLE, VILLAGE OF | 17197C0065F | 01-JUN-2001 | 01-05-2243A | 02
05 | IL | ROMEOVILLE, VILLAGE OF | 17197C0065F | 02-MAR-2001 | 01-05-1030A | 01
05 | IL | ROMEOVILLE, VILLAGE OF | 17197C0065F | 11-APR-2001 | 01-05-1203A | 02
05 | IL | ROMEOVILLE, VILLAGE OF | 17197C0065F | 11-APR-2001 | 01-05-1456A | 02
05 | IL | ROMEOVILLE, VILLAGE OF | 17197C0065F | 16-MAR-2001 | 01-05-1181A | 02
05 | IL | ROMEOVILLE, VILLAGE OF | 17197C0065F | 16-MAR-2001 | 01-05-1457A | 02
05 | IL | ROMEOVILLE, VILLAGE OF | 17197C0065F | 23-MAY-2001 | 01-05-1997A | 02
05 | IL | ROMEOVILLE, VILLAGE OF | 17197C0065F | 28-MAR-2001 | 01-05-1221A | 02
05 | IL | ROUND LAKE BEACH, VILLAGE OF | 17097C0126F | 13-JUN-2001 | 00-05-6262A | 01
05 | IL | ROUND LAKE BEACH, VILLAGE OF | 17097C0127G | 03-JAN-2001 | 01-05-180A | 02
05 | IL | ROUND LAKE BEACH, VILLAGE OF | 17097C0127G | 13-JUN-2001 | 00-05-6262A | 01
05 | IL | ROXANA, VILLAGE OF | 1704360115B | 08-JUN-2001 | 01-05-1037A | 01
05 | IL | SANGAMON COUNTY * | 1709120135C | 13-APR-2001 | 01-05-1654A | 02
05 | IL | SANGAMON COUNTY * | 1709120165C | 24-JAN-2001 | 00-05-4746A | 02
05 | IL | SAUK VILLAGE, VILLAGE OF | 17031C0831F | 01-JUN-2001 | 01-05-2496A | 01
05 | IL | SOUTH BARRINGTON, VILLAGE OF | 17031C0158F | 13-APR-2001 | 01-05-1222A | 02
05 | IL | SOUTH BARRINGTON, VILLAGE OF | 17031C0159F | 13-APR-2001 | 01-05-1222A | 02
05 | IL | SOUTH BELOIT, CITY OF | 1707250001C | 28-MAR-2001 | 00-05-5974A | 01
05 | IL | SOUTH ELGIN, VILLAGE OF |  | 10-JAN-2001 | 00-05-047P | 05
05 | IL | SOUTH ELGIN, VILLAGE OF | 1708960032B | 10-JAN-2001 | 00-05-047P | 05
05 | IL | SOUTH HOLLAND, VILLAGE OF | 17031C0754F | 17-JAN-2001 | 01-05-0063A | 01
05 | IL | SOUTH HOLLAND, VILLAGE OF | 17031C0754F | 17-JAN-2001 | 01-05-0063A | 01
05 | IL | SPRINGFIELD, CITY OF |  | 26-JAN-2001 | 01-05-0724A | 01
05 | IL | SPRINGFIELD, CITY OF | 1706040020D | 26-JAN-2001 | 01-05-0724A | 01
05 | IL | ST. CLAIR COUNTY | 1706160045B | 24-MAY-2001 | 98-05-429P | 05
05 | IL | ST. CLAIR COUNTY | 1706160050A | 24-MAY-2001 | 98-05-429P | 05
05 | IL | ST. CLAIR COUNTY | 1706160050A | 27-JUN-2001 | 01-05-1399A | 02
05 | IL | ST. CLAIR COUNTY | 1706160050A | 28-FEB-2001 | 01-05-1143A | 02
05 | IL | ST. CLAIR COUNTY | 1706160095A | 16-MAY-2001 | 01-05-1704A | 02
05 | IL | ST. CLAIR COUNTY * | 170616 0050 | 27-JUN-2001 | 01-05-1399A | 02
05 | IL | ST. CLAIR COUNTY * | 1706160045B | 24-MAY-2001 | 98-05-429P | 05
05 | IL | ST. CLAIR COUNTY * | 1706160050A | 28-FEB-2001 | 01-05-1143A | 02
05 | IL | ST. CLAIR COUNTY * | 1706160095A | 16-MAY-2001 | 01-05-1704A | 02
05 | IL | ST. JOSEPH, VILLAGE OF | 1700320001B | 27-JUN-2001 | 01-05-1877A | 02
05 | IL | STEGER, VILLAGE OF | 17197C0359F | 22-JUN-2001 | 01-05-1984A | 02
05 | IL | STREAMWOOD, VILLAGE OF | 17031C0164F | 16-MAY-2001 | 01-05-1360A | 02
05 | IL | SYCAMORE, CITY OF | 17037C0076D | 23-MAY-2001 | 01-05-2191A | 02
05 | IL | SYCAMORE, CITY OF | 17037C0076D | 23-MAY-2001 | 01-05-2191A | 02
05 | IL | TINLEY PARK, CITY OF |  | 19-JAN-2001 | 01-05-603P | 05
05 | IL | TINLEY PARK, CITY OF | 17031C0704F | 25-MAY-2001 | 01-05-2178A | 02
05 | IL | TINLEY PARK, CITY OF | 17031C0706F | 13-JUN-2001 | 01-05-1259A | 02
05 | IL | TINLEY PARK, CITY OF | 17031C0708F | 13-JUN-2001 | 01-05-2028A | 02
05 | IL | TINLEY PARK, CITY OF | 17031C0708F | 24-JAN-2001 | 01-05-0926X | 02
05 | IL | TINLEY PARK, CITY OF | 17031C0708F | 24-JAN-2001 | 01-05-0926X | 02
05 | IL | TINLEY PARK, CITY OF | 17031C0708F | 27-JUN-2001 | 01-05-2467A | 02
05 | IL | TINLEY PARK, CITY OF | 17031C0716F | 02-MAR-2001 | 00-05-3892A | 17
05 | IL | TINLEY PARK, CITY OF | 17031C0716F | 02-MAR-2001 | 00-05-3892A | 17
05 | IL | TINLEY PARK, CITY OF | 17031C0716F | 08-JUN-2001 | 01-05-2065A | 01
05 | IL | TINLEY PARK, CITY OF | 17031C0716F | 08-JUN-2001 | 01-05-2065A | 01
05 | IL | TINLEY PARK, CITY OF | 17031C0716F | 27-JUN-2001 | 01-05-1653A | 02
05 | IL | TINLEY PARK, CITY OF | 17197C0212F | 09-MAY-2001 | 01-05-1002A | 01
05 | IL | TINLEY PARK, CITY OF | 17197C0212F | 19-JAN-2001 | 01-05-603P | 05
05 | IL | UNION COUNTY | 1706560075B | 27-JUN-2001 | 01-05-2236A | 02
05 | IL | VERNON HILLS, VILLAGE OF | 17097C0252G | 01-JUN-2001 | 01-05-2552A | 01
05 | IL | VERNON HILLS, VILLAGE OF | 17097C0254F | 02-MAY-2001 | 00-05-6224A | 01
05 | IL | VERNON HILLS, VILLAGE OF | 17097C0254F | 02-MAY-2001 | 00-05-6224A | 01
05 | IL | VERNON HILLS, VILLAGE OF | 17097C0254F | 21-FEB-2001 | 01-05-883A | 01
05 | IL | VERNON HILLS, VILLAGE OF | 17097C0258G | 02-MAY-2001 | 00-05-6224A | 01
05 | IL | VILLA PARK, VILLAGE OF | 1702170001B | 14-FEB-2001 | 99-05-227P | 05
05 | IL | VILLA PARK, VILLAGE OF | 1702170001B | 14-FEB-2001 | 99-05-227P | 05
05 | IL | VILLA PARK, VILLAGE OF | 1702170002B | 14-FEB-2001 | 99-05-227P | 05
05 | IL | WADSWORTH, VILLAGE OF | 17097C0059G | 08-JUN-2001 | 01-05-2310A | 02
05 | IL | WAUCONDA, VILLAGE OF | 17097C0119G | 16-MAR-2001 | 01-05-1189A | 02
05 | IL | WAUCONDA, VILLAGE OF | 17097C0119G | 27-JUN-2001 | 01-05-2551A | 02
05 | IL | WAUCONDA, VILLAGE OF | 17097C0140F | 20-JUN-2001 | 01-05-2017A | 01
05 | IL | WESTCHESTER, VILLAGE OF | 17031C0459F | 04-APR-2001 | 01-05-0896A | 01
05 | IL | WESTCHESTER, VILLAGE OF | 17031C0459F | 04-APR-2001 | 01-05-0896A | 02
05 | IL | WHEATON, CITY OF | 1702210005B | 20-APR-2001 | 01-05-1344A | 02
05 | IL | WHEELING, VILLAGE OF |  | 16-FEB-2001 | 00-05-6314A | 17
05 | IL | WHEELING, VILLAGE OF | 17031C0068F | 11-MAY-2001 | 01-05-0768A | 01
05 | IL | WHEELING, VILLAGE OF | 17031C0068F | 11-MAY-2001 | 01-05-0768A | 01
05 | IL | WHEELING, VILLAGE OF | 17031C0068F | 18-MAY-2001 | 01-05-1108A | 01
05 | IL | WHEELING, VILLAGE OF | 17031C0068F | 18-MAY-2001 | 01-05-1176A | 01
05 | IL | WHEELING, VILLAGE OF | 17031C0068F | 27-JUN-2001 | 01-05-2277A | 02
05 | IL | WHEELING, VILLAGE OF | 17031C0069F | 10-JAN-2001 | 01-05-0463A | 01
05 | IL | WHEELING, VILLAGE OF | 17031C0069F | 10-JAN-2001 | 01-05-0463A | 01
05 | IL | WHEELING, VILLAGE OF | 17031C0202F | 02-MAR-2001 | 01-05-721A | 02
05 | IL | WHITESIDE COUNTY | 1706870150B | 18-APR-2001 | 01-05-705A | 02
05 | IL | WILL COUNTY |  | 19-JAN-2001 | 00-05-4890A | 02
05 | IL | WILL COUNTY | 1706950020B | 07-FEB-2001 | 00-05-4970A | 01
05 | IL | WILL COUNTY | 1706950060B | 07-FEB-2001 | 00-05-4970A | 01
05 | IL | WILL COUNTY | 17197C0030E | 21-FEB-2001 | 01-05-0924X | 02
05 | IL | WILL COUNTY | 17197C0032E | 27-APR-2001 | 00-05-175X | 05
05 | IL | WILL COUNTY | 17197C0034E | 27-APR-2001 | 00-05-175X | 05
05 | IL | WILL COUNTY | 17197C0037E | 23-MAY-2001 | 01-05-1308A | 02
05 | IL | WILL COUNTY | 17197C0038E | 13-APR-2001 | 01-05-687A | 02
05 | IL | WILL COUNTY | 17197C0195E | 11-APR-2001 | 01-05-165A | 02
05 | IL | WILL COUNTY | 17197C0255E | 20-JUN-2001 | 01-05-1477A | 18
05 | IL | WILL COUNTY | 17197C0305E | 28-MAR-2001 | 00-05-287P | 05
05 | IL | WILL COUNTY | 17197C0310E | 28-MAR-2001 | 00-05-287P | 05
05 | IL | WILL COUNTY | 17197C0320E | 14-FEB-2001 | 01-05-805A | 02
05 | IL | WILL COUNTY | 17197C0370E | 02-JAN-2001 | 01-05-0754X | 01
05 | IL | WILL COUNTY | 17197C0379E | 16-MAR-2001 | 01-05-843A | 02
05 | IL | WILL COUNTY | 17917C0130E | 16-MAR-2001 | 01-05-471A | 02
05 | IL | WILL COUNTY * | 17197C0030E | 19-JAN-2001 | 00-05-4890A | 02
05 | IL | WILL COUNTY * | 17197C0030E | 21-FEB-2001 | 01-05-0924X | 02
05 | IL | WILL COUNTY * | 17197C0032E | 27-APR-2001 | 00-05-175X | 05
05 | IL | WILL COUNTY * | 17197C0305E | 28-MAR-2001 | 00-05-287P | 05
05 | IL | WILL COUNTY * | 17197C0370E | 02-JAN-2001 | 01-05-0754X | 01
05 | IL | WILLOW SPRINGS, CITY OF | 17031C0469F | 20-JUN-2001 | 01-05-2362A | 01
05 | IL | WILLOW SPRINGS, CITY OF | 17031C0469F | 22-JUN-2001 | 01-05-2361A | 01
05 | IL | WILLOW SPRINGS, VILLAGE OF | 17031C0469F | 20-JUN-2001 | 01-05-2362A | 01
05 | IL | WILLOW SPRINGS, VILLAGE OF | 17031C0469F | 22-JUN-2001 | 01-05-2361A | 01
05 | IL | WILLOW SPRINGS, VILLAGE OF | 17031C0582F | 22-JUN-2001 | 01-05-2361A | 01
05 | IL | WILMETTE, VILLAGE OF | 17031C0234F | 02-MAY-2001 | 01-05-2009A | 02
05 | IL | WILMETTE, VILLAGE OF | 17031C0234F | 13-APR-2001 | 01-05-1177A | 02
05 | IL | WILMETTE, VILLAGE OF | 17031C0234F | 13-APR-2001 | 01-05-1505A | 02
05 | IL | WILMETTE, VILLAGE OF | 17031C0234F | 13-JUN-2001 | 01-05-1304A | 02
05 | IL | WINFIELD, VILLAGE OF | 1702230001C | 05-JAN-2001 | 00-05-5018A | 02
05 | IL | WINNEBAGO COUNTY | 1707200015B | 29-JUN-2001 | 01-05-1986A | 02
05 | IL | WINNEBAGO COUNTY | 1707200015B | 29-JUN-2001 | 01-05-2382A | 02
05 | IL | WINNEBAGO COUNTY * | 1707200015B | 29-JUN-2001 | 01-05-1986A | 02
05 | IL | WINNEBAGO COUNTY * | 1707200015B | 29-JUN-2001 | 01-05-2382A | 02
05 | IL | WINNETKA, VILLAGE OF | 17031C0232F | 08-JUN-2001 | 01-05-2531A | 02
05 | IN | ADAMS COUNTY | 1804240075C | 14-MAR-2001 | 01-05-1391A | 02
05 | IN | ADAMS COUNTY | 1804240075C | 17-JAN-2001 | 01-05-0448A | 02
05 | IN | ADAMS COUNTY | 1804240075C | 28-MAR-2001 | 01-05-1246A | 02
05 | IN | ADAMS COUNTY * | 1804240075C | 14-MAR-2001 | 01-05-1391A | 02
05 | IN | ADAMS COUNTY * | 1804240075C | 14-MAR-2001 | 01-05-1419A | 02
05 | IN | ADAMS COUNTY * | 1804240075C | 17-JAN-2001 | 01-05-0448A | 02
05 | IN | ADAMS COUNTY * | 1804240120C | 04-APR-2001 | 01-05-1680A | 02
05 | IN | ALLEN COUNTY | 18003C0135E | 06-FEB-2001 | 00-05-189P | 06
05 | IN | ALLEN COUNTY | 18003C0135E | 17-JAN-2001 | 00-05-5936X | 17
05 | IN | ALLEN COUNTY | 18003C0160D | 17-JAN-2001 | 01-05-0764A | 02
05 | IN | ALLEN COUNTY | 18003C0165E | 13-APR-2001 | 01-05-585A | 02
05 | IN | ALLEN COUNTY | 18003C0170D | 07-FEB-2001 | 01-05-0901A | 02
05 | IN | ALLEN COUNTY | 18003C0170D | 18-MAY-2001 | 01-05-2071A | 02
05 | IN | ALLEN COUNTY | 18003C0170D | 27-APR-2001 | 01-05-1671A | 02
05 | IN | ALLEN COUNTY | 18003C0285E | 02-MAY-2001 | 01-05-2057A | 02
05 | IN | ALLEN COUNTY | 18003C0430D | 02-MAY-2001 | 01-05-2043A | 02
05 | IN | ALLEN COUNTY | 18032C235D | 25-APR-2001 | 01-05-2056A | 02
05 | IN | ALLEN COUNTY * | 18003C0135E | 06-FEB-2001 | 00-05-189P | 06
05 | IN | ALLEN COUNTY * | 18003C0135E | 17-JAN-2001 | 00-05-5936X | 17
05 | IN | ALLEN COUNTY * | 18003C0160D | 17-JAN-2001 | 01-05-0764A | 02
05 | IN | ALLEN COUNTY * | 18003C0170D | 07-FEB-2001 | 01-05-0901A | 02
05 | IN | ALLEN COUNTY * | 18003C0170D | 18-MAY-2001 | 01-05-2071A | 02
05 | IN | ALLEN COUNTY * | 18003C0170D | 24-JAN-2001 | 01-05-0026A | 02
05 | IN | ALLEN COUNTY * | 18003C0170D | 27-APR-2001 | 01-05-1671A | 02
05 | IN | ALLEN COUNTY * | 18003C0235D | 25-APR-2001 | 01-05-2056A | 02
05 | IN | ALLEN COUNTY * | 18003C0285E | 02-MAY-2001 | 01-05-2057A | 02
05 | IN | ALLEN COUNTY * | 18003C0430D | 02-MAY-2001 | 01-05-2043A | 02
05 | IN | ANDERSON, CITY OF | 1801500003B | 28-MAR-2001 | 01-05-1013A | 02
05 | IN | ANDERSON, CITY OF | 1801500005B | 18-APR-2001 | 01-05-839A | 02
05 | IN | BARTHOLOMEW COUNTY | 1800060025B | 13-JUN-2001 | 01-05-2396A | 02
05 | IN | BARTHOLOMEW COUNTY | 1800060050B | 04-MAY-2001 | 01-05-1122A | 02
05 | IN | BARTHOLOMEW COUNTY | 1800060050B | 24-JAN-2001 | 01-05-627A | 02
05 | IN | BEECH GROVE, CITY OF | 18097C0251E | 06-JAN-2001 | 01-05-0897V | 19
05 | IN | BEECH GROVE, CITY OF | 18097C0254E | 06-JAN-2001 | 01-05-0897V | 19
05 | IN | BEECH GROVE, CITY OF—USE CID 180159 |  | 06-JAN-2001 | 01-05-0897V | 19
05 | IN | BLOOMINGTON, CITY OF | 1801690020C | 22-JUN-2001 | 01-05-2406A | 02
05 | IN | BOONE COUNTY | 1800110095B | 25-MAY-2001 | 01-05-2252A | 02
05 | IN | BREMEN, TOWN OF | 1801630002B | 16-FEB-2001 | 01-05-784A | 02
05 | IN | BRISTOL, TOWN OF |  | 14-MAR-2001 | 00-05-5688A | 02
05 | IN | BROWN COUNTY | 1851740020B | 16-MAY-2001 | 01-05-1469A | 02
05 | IN | BROWN COUNTY | 1851740080B | 07-FEB-2001 | 01-05-662A | 02
05 | IN | BROWN COUNTY | 1851740080B | 24-JAN-2001 | 01-05-124A | 02
05 | IN | CARMEL, CITY OF | 1800810008C | 13-APR-2001 | 01-05-0793A | 02
05 | IN | CARROLL COUNTY | 1800190013B | 20-JUN-2001 | 01-05-231A | 02
05 | IN | CARROLL COUNTY | 1800190052B | 23-MAY-2001 | 01-05-2111A | 02
05 | IN | CLARK COUNTY | 1804260050B | 22-JUN-2001 | 01-05-2429A | 02
05 | IN | CLARK COUNTY | 1804260125C | 04-APR-2001 | 01-05-659A | 02
05 | IN | CLARK COUNTY | 1804260125C | 24-JAN-2001 | 01-05-125A | 17
05 | IN | CLARK COUNTY | 1804260125C | 27-JUN-2001 | 01-05-2267A | 17
05 | IN | CLARK COUNTY | 1804260175C | 04-APR-2001 | 01-05-659A | 02
05 | IN | CLARK COUNTY | 1804260175C | 04-MAY-2001 | 01-05-1018A | 01
05 | IN | CLARK COUNTY | 1804260175C | 14-MAR-2001 | 01-05-966A | 01
05 | IN | CLARK COUNTY | 1804260175C | 15-JUN-2001 | 01-05-2423A | 02
05 | IN | CLARK COUNTY | 1804260175C | 15-JUN-2001 | 01-05-2478A | 02
05 | IN | CLARK COUNTY | 1804260175C | 16-MAY-2001 | 01-05-2119A | 01
05 | IN | CLARK COUNTY | 1804260175C | 18-MAY-2001 | 01-05-2268A | 02
05 | IN | CLARK COUNTY | 1804260175C | 21-MAR-2001 | 01-05-1195A | 02
05 | IN | CLARK COUNTY | 1804260175C | 29-JUN-2001 | 01-05-2430A | 01
05 | IN | CLINTON, CITY OF | 18025901B | 27-JUN-2001 | 01-05-2574A | 02
05 | IN | COLUMBUS, CITY OF | 1800070010D | 14-JUN-2001 | 00-05-5196A | 01
05 | IN | COLUMBUS, CITY OF | 1800070020C | 14-FEB-2001 | 01-05-717A | 02
05 | IN | DE KALB COUNTY | 1800440070B | 21-FEB-2001 | 01-05-0871A | 01
05 | IN | DE KALB COUNTY * | 1800440070B | 21-FEB-2001 | 01-05-0871A | 01
05 | IN | DE KALB COUNTY * | 1800440100B | 30-MAR-2001 | 01-05-1629A | 02
05 | IN | DELAWARE COUNTY | 1800510125C | 26-JAN-2001 | 01-05-639A | 02
05 | IN | DYER, TOWN OF | 1801290001D | 08-JAN-2001 | 00-05-011P | 05
05 | IN | DYER, TOWN OF | 1801290002D | 06-JUN-2001 | 01-05-2165A | 02
05 | IN | DYER, TOWN OF | 1801290002D | 10-JAN-2001 | 00-05-5152A | 08
05 | IN | DYER, TOWN OF | 1801290002D | 16-MAY-2001 | 01-05-1333A | 01
05 | IN | EVANSVILLE, CITY OF | 1802570003B | 28-FEB-2001 | 01-05-1151A | 02
05 | IN | EVANSVILLE, CITY OF | 1802570003B | 28-FEB-2001 | 01-05-1151A | 02
05 | IN | EVANSVILLE, CITY OF | 1802570004B | 23-MAY-2001 | 01-05-2340A | 01
05 | IN | EVANSVILLE, CITY OF | 1802570004B | 23-MAY-2001 | 01-05-2340A | 01
05 | IN | EVANSVILLE, CITY OF | 1802570005B | 23-MAY-2001 | 01-05-2348A | 01
05 | IN | EVANSVILLE, CITY OF | 1802570005B | 23-MAY-2001 | 01-05-2348A | 01
05 | IN | EVANSVILLE, CITY OF | 1802570007B | 02-FEB-2001 | 01-05-0758A | 02
05 | IN | EVANSVILLE, CITY OF | 1802570007B | 02-FEB-2001 | 01-05-0758A | 02
05 | IN | FAIRMOUNT, TOWN OF | 1804350125B | 24-JAN-2001 | 00-05-5210A | 02
05 | IN | FISHERS, TOWN OF | 1800820030E | 13-JUN-2001 | 01-05-1670A | 01
05 | IN | FISHERS, TOWN OF | 1800820030E | 29-JUN-2001 | 01-05-2606A | 01
05 | IN | FISHERS, TOWN OF | 1800820030E | 29-JUN-2001 | 01-05-2606A | 01
05 | IN | FLOYD COUNTY | 1804320020B | 20-APR-2001 | 01-05-1361A | 02
05 | IN | FLOYD COUNTY | 1804320025B | 19-JAN-2001 | 01-05-521A | 02
05 | IN | FLOYD COUNTY | 1804320025B | 23-FEB-2001 | 01-05-968A | 02
05 | IN | FORT WAYNE, CITY OF | 18003C0145E | 24-JAN-2001 | 01-05-0181A | 02
05 | IN | FORT WAYNE, CITY OF | 18003C0165E | 02-FEB-2001 | 01-05-0947A | 02
05 | IN | FORT WAYNE, CITY OF | 18003C0165E | 02-FEB-2001 | 01-05-0947A | 02
05 | IN | FORT WAYNE, CITY OF | 18003C0165E | 14-FEB-2001 | 01-05-0167A | 02
05 | IN | FORT WAYNE, CITY OF | 18003C0165E | 14-FEB-2001 | 01-05-0167A | 02
05 | IN | FORT WAYNE, CITY OF | 18003C0260E | 13-JUN-2001 | 01-05-2386A | 02
05 | IN | FORT WAYNE, CITY OF | 18003C0260E | 13-JUN-2001 | 01-05-2386A | 02
05 | IN | FORT WAYNE, CITY OF | 18003C0260E | 21-FEB-2001 | 01-05-0551A | 02
05 | IN | FORT WAYNE, CITY OF | 18003C0260E | 21-FEB-2001 | 01-05-0551A | 02
05 | IN | FORT WAYNE, CITY OF | 18003C0260E | 21-MAR-2001 | 00-05-383P | 05
05 | IN | FORT WAYNE, CITY OF | 18003C0260E | 21-MAR-2001 | 00-05-383P | 05
05 | IN | FORT WAYNE, CITY OF | 18003C0265D | 15-JUN-2001 | 01-05-2385A | 02
05 | IN | FORT WAYNE, CITY OF | 18003C0265D | 15-JUN-2001 | 01-05-2385A | 02
05 | IN | FORT WAYNE, CITY OF | 18003C0265D | 28-FEB-2001 | 01-05-1155A | 02
05 | IN | FORT WAYNE, CITY OF | 18003C0265D | 28-FEB-2001 | 01-05-1155A | 02
05 | IN | FORT WAYNE, CITY OF | 18003C0270E | 09-MAR-2001 | 01-05-1404A | 02
05 | IN | FORT WAYNE, CITY OF | 18003C0270E | 31-JAN-2001 | 01-05-0938A | 02
05 | IN | FORT WAYNE, CITY OF | 18003C0270E | 31-JAN-2001 | 01-05-0938A | 02
05 | IN | FORT WAYNE, CITY OF | 18003C0285E | 13-APR-2001 | 01-05-1698A | 02
05 | IN | FORT WAYNE, CITY OF | 18003C0285E | 13-APR-2001 | 01-05-1698A | 02
05 | IN | FORT WAYNE, CITY OF | 18003C0290D | 06-JUN-2001 | 01-05-2350A | 02
05 | IN | FORT WAYNE, CITY OF | 18003C0290D | 06-JUN-2001 | 01-05-2350A | 02
05 | IN | FULTON COUNTY | 1800700050B | 25-APR-2001 | 01-05-1014A | 02
05 | IN | GREENWOOD, CITY OF | 1801150001B | 04-MAY-2001 | 01-05-699A | 02
05 | IN | GREENWOOD, CITY OF | 1801150002B | 09-MAR-2001 | 01-05-1124A | 02
05 | IN | HAMILTON COUNTY | 1800800100C | 10-JAN-2001 | 01-05-0303A | 02
05 | IN | HAMILTON COUNTY | 1800820015E | 10-JAN-2001 | 01-05-0303A | 02
05 | IN | HAMILTON COUNTY* | 1800800100C | 10-JAN-2001 | 01-05-0303A | 02
05 | IN | HANCOCK COUNTY | 1804190025B | 25-APR-2001 | 01-05-702A | 02
05 | IN | HANCOCK COUNTY | 1804190100B | 02-MAR-2001 | 01-05-1011A | 02
05 | IN | HENDRICKS COUNTY | 1804150050B | 27-JUN-2001 | 01-05-2449A | 02
05 | IN | HENDRICKS COUNTY | 1804150100B | 04-APR-2001 | 01-05-1286A | 02
05 | IN | HENDRICKS COUNTY | 1804150100B | 08-JAN-2001 | 00-05-4968A | 01
05 | IN | HOBART, CITY OF | 1801360005B | 08-JAN-2001 | 01-05-327A | 02
05 | IN | HOWARD COUNTY | 1804140025B | 03-JAN-2001 | 00-05-5666A | 02
05 | IN | HOWARD COUNTY | 1804140025B | 23-MAY-2001 | 01-05-2038A | 02
05 | IN | HOWARD COUNTY | 1804140042B | 04-APR-2001 | 01-05-848A | 01
05 | IN | HUNTINGTON COUNTY | 1804380125C | 22-JUN-2001 | 01-05-2433A | 02
05 | IN | INDIANAPOLIS, CITY OF | 1801590010D | 09-JAN-2001 | 00-05-4884A | 01
05 | IN | INDIANAPOLIS, CITY OF | 1801590065D | 09-JAN-2001 | 00-05-5980A | 02
05 | IN | INDIANAPOLIS, CITY OF | 18097C0038E | 06-JAN-2001 | 01-05-0900V | 19
05 | IN | INDIANAPOLIS, CITY OF | 18097C0038E | 09-JAN-2001 | 00-05-4884A | 01
05 | IN | INDIANAPOLIS, CITY OF | 18097C0038E | 16-MAR-2001 | 01-05-878A | 01
05 | IN | INDIANAPOLIS, CITY OF | 18097C0061E | 13-JUN-2001 | 01-05-2470A | 01
05 | IN | INDIANAPOLIS, CITY OF | 18097C0063E | 14-FEB-2001 | 01-05-645A | 02
05 | IN | INDIANAPOLIS, CITY OF | 18097C0063E | 20-APR-2001 | 01-05-102A | 02
05 | IN | INDIANAPOLIS, CITY OF | 18097C0063E | 25-APR-2001 | 01-05-548A | 02
05 | IN | INDIANAPOLIS, CITY OF | 18097C0067E | 06-JAN-2001 | 01-05-0900V | 19
05 | IN | INDIANAPOLIS, CITY OF | 18097C0068E | 09-MAY-2001 | 01-05-2002A | 02
05 | IN | INDIANAPOLIS, CITY OF | 18097C0069E | 06-JAN-2001 | 01-05-0900V | 19
05 | IN | INDIANAPOLIS, CITY OF | 18097C0089E | 04-MAY-2001 | 01-05-1637A | 02
05 | IN | INDIANAPOLIS, CITY OF | 18097C0107E | 06-JAN-2001 | 01-05-0900V | 19
05 | IN | INDIANAPOLIS, CITY OF | 18097C0109E | 11-APR-2001 | 01-05-1436A | 01
05 | IN | INDIANAPOLIS, CITY OF | 18097C0110E | 04-APR-2001 | 01-05-1312A | 02
05 | IN | INDIANAPOLIS, CITY OF | 18097C0114E | 13-JUN-2001 | 01-05-1061A | 02
05 | IN | INDIANAPOLIS, CITY OF | 18097C0118E | 06-JAN-2001 | 01-05-0900V | 19
05 | IN | INDIANAPOLIS, CITY OF | 18097C0118E | 13-JUN-2001 | 01-05-1061A | 02
05 | IN | INDIANAPOLIS, CITY OF | 18097C0126E | 18-MAY-2001 | 01-05-2137A | 01
05 | IN | INDIANAPOLIS, CITY OF | 18097C0128E | 06-APR-2001 | 01-05-245A | 17
05 | IN | INDIANAPOLIS, CITY OF | 18097C0128E | 06-JAN-2001 | 01-05-0900V | 19
05 | IN | INDIANAPOLIS, CITY OF | 18097C0128E | 18-APR-2001 | 01-05-1562A | 02
05 | IN | INDIANAPOLIS, CITY OF | 18097C0135E | 06-JAN-2001 | 01-05-0900V | 19
05 | IN | INDIANAPOLIS, CITY OF | 18097C0135E | 14-FEB-2001 | 01-05-694A | 02
05 | IN | INDIANAPOLIS, CITY OF | 18097C0135E | 25-APR-2001 | 01-05-1179A | 02
05 | IN | INDIANAPOLIS, CITY OF | 18097C0136E | 06-JAN-2001 | 01-05-0900V | 19
05 | IN | INDIANAPOLIS, CITY OF | 18097C0136E | 29-JUN-2001 | 01-05-1052A | 02
05 | IN | INDIANAPOLIS, CITY OF | 18097C0144E | 06-JAN-2001 | 01-05-0900V | 19
05 | IN | INDIANAPOLIS, CITY OF | 18097C0153E | 06-JAN-2001 | 01-05-0900V | 19
05 | IN | INDIANAPOLIS, CITY OF | 18097C0155E | 14-FEB-2001 | 01-05-053A | 02
05 | IN | INDIANAPOLIS, CITY OF | 18097C0167E | 06-JAN-2001 | 01-05-0900V | 19
05 | IN | INDIANAPOLIS, CITY OF | 18097C0180E | 06-JAN-2001 | 01-05-0900V | 19
05 | IN | INDIANAPOLIS, CITY OF | 18097C0180E | 21-FEB-2001 | 01-05-203A | 01
05 | IN | INDIANAPOLIS, CITY OF | 18097C0210E | 06-APR-2001 | 01-05-1352A | 02
05 | IN | INDIANAPOLIS, CITY OF | 18097C0210E | 07-MAR-2001 | 01-05-512A | 02
05 | IN | INDIANAPOLIS, CITY OF | 18097C0210E | 09-JAN-2001 | 00-05-5980A | 02
05 | IN | INDIANAPOLIS, CITY OF | 18097C0210E | 11-APR-2001 | 01-05-1535A | 02
05 | IN | INDIANAPOLIS, CITY OF | 18097C0210E | 20-JUN-2001 | 01-05-1192A | 02
05 | IN | INDIANAPOLIS, CITY OF | 18097C0210E | 27-APR-2001 | 01-05-1299A | 02
05 | IN | INDIANAPOLIS, CITY OF | 18097C0228E | 06-JAN-2001 | 01-05-0900V | 19
05 | IN | INDIANAPOLIS, CITY OF | 18097C0229E | 11-APR-2001 | 01-05-1053A | 01
05 | IN | INDIANAPOLIS, CITY OF | 18097C0229E | 26-JAN-2001 | 01-05-489A | 02
05 | IN | INDIANAPOLIS, CITY OF | 18097C0233E | 11-APR-2001 | 01-05-1053A | 01
05 | IN | INDIANAPOLIS, CITY OF | 18097C0233E | 26-JAN-2001 | 01-05-489A | 02
05 | IN | INDIANAPOLIS, CITY OF | 18097C0234E | 26-JAN-2001 | 00-05-3920A | 01
05 | IN | INDIANAPOLIS, CITY OF | 18097C0240E | 04-MAY-2001 | 01-05-2132A | 01
05 | IN | INDIANAPOLIS, CITY OF | 18097C0240E | 06-JAN-2001 | 01-05-0900V | 19
05 | IN | INDIANAPOLIS, CITY OF | 18097C0240E | 11-APR-2001 | 01-05-1452A | 02
05 | IN | INDIANAPOLIS, CITY OF | 18097C0240E | 18-MAY-2001 | 01-05-2135A | 01
05 | IN | INDIANAPOLIS, CITY OF | 18097C0240E | 20-JUN-2001 | 01-05-2365A | 01
05 | IN | INDIANAPOLIS, CITY OF | 18097C0240E | 20-JUN-2001 | 01-05-2365A | 01
05 | IN | INDIANAPOLIS, CITY OF | 18097C0240E | 21-MAR-2001 | 01-05-651A | 01
05 | IN | INDIANAPOLIS, CITY OF | 18097C0240E | 23-MAY-2001 | 01-05-2136A | 01
05 | IN | INDIANAPOLIS, CITY OF | 18097C0240E | 27-APR-2001 | 01-05-693A | 01
05 | IN | INDIANAPOLIS, CITY OF | 18097C0241E | 10-APR-2001 | 01-05-1428P | 05
05 | IN | INDIANAPOLIS, CITY OF | 18097C0243E | 06-JAN-2001 | 01-05-0900V | 19
05 | IN | INDIANAPOLIS, CITY OF | 18097C0244E | 06-JAN-2001 | 01-05-0900V | 19
05 | IN | INDIANAPOLIS, CITY OF | 18097C0244E | 26-JAN-2001 | 00-05-3920A | 01
05 | IN | INDIANAPOLIS, CITY OF | 18097C0254E | 06-JAN-2001 | 01-05-0900V | 19
05 | IN | INDIANAPOLIS, CITY OF | 18097C0260E | 06-JAN-2001 | 01-05-0900V | 19
05 | IN | INDIANAPOLIS, CITY OF | 18097C0262E | 14-MAR-2001 | 00-05-3646A | 01
05 | IN | INDIANAPOLIS, CITY OF | 18097C0262E | 14-MAR-2001 | 00-05-3646A | 01
05 | IN | INDIANAPOLIS, CITY OF | 18097C0263E | 06-JAN-2001 | 01-05-0900V | 19
05 | IN | INDIANAPOLIS, CITY OF | 18097C0264E | 14-FEB-2001 | 01-05-646A | 02
05 | IN | INDIANAPOLIS, CITY OF | 18097C0290E | 20-APR-2001 | 01-05-123A | 02
05 | IN | JACKSON COUNTY | 1804050060B | 11-APR-2001 | 01-05-838A | 02
05 | IN | JASPER COUNTY | 1804390007B | 11-APR-2001 | 01-05-1511A | 02
05 | IN | JEFFERSONVILLE, CITY OF | 1800270005D | 18-MAY-2001 | 01-05-2219A | 02
05 | IN | JEFFERSONVILLE, CITY OF | 1800270005D | 20-JUN-2001 | 01-05-1729A | 02
05 | IN | JOHNSON COUNTY | 1801110012C | 17-JAN-2001 | 01-05-163A | 01
05 | IN | JOHNSON COUNTY | 1801110012C | 20-APR-2001 | 01-05-804A | 17
05 | IN | JOHNSON COUNTY | 1801110014C | 17-JAN-2001 | 01-05-163A | 01
05 | IN | JOHNSON COUNTY | 1801110014C | 18-APR-2001 | 01-05-1251A | 02
05 | IN | JOHNSON COUNTY | 1801110016C | 17-JAN-2001 | 01-05-163A | 01
05 | IN | JOHNSON COUNTY | 1801110018C | 17-JAN-2001 | 01-05-163A | 01
05 | IN | JOHNSON COUNTY | 1801110050C | 23-MAY-2001 | 01-05-2254A | 02
05 | IN | JOHNSON COUNTY | 1801110100C | 16-MAR-2001 | 00-05-6106A | 01
05 | IN | JOHNSON COUNTY | 1801110100C | 27-JUN-2001 | 01-05-2407A | 02
05 | IN | KOSCIUSKO COUNTY | 1801210080C | 09-MAY-2001 | 01-05-1557A | 02
05 | IN | KOSCIUSKO COUNTY | 18085C0040C | 27-JUN-2001 | 01-05-2327A | 01
05 | IN | KOSCIUSKO COUNTY | 18085C0045C | 10-JAN-2001 | 00-05-6192A | 02
05 | IN | KOSCIUSKO COUNTY | 18085C0045C | 27-APR-2001 | 01-05-475A | 02
05 | IN | KOSCIUSKO COUNTY | 18085C0080C | 04-APR-2001 | 01-05-1339A | 02
05 | IN | KOSCIUSKO COUNTY | 18085C0080C | 10-JAN-2001 | 01-05-485A | 02
05 | IN | KOSCIUSKO COUNTY | 18085C0080C | 25-MAY-2001 | 01-05-2173A | 02
05 | IN | KOSCIUSKO COUNTY | 18085C0100C | 06-JUN-2001 | 01-05-2286A | 02
05 | IN | KOSCIUSKO COUNTY | 18085C0100C | 14-FEB-2001 | 01-05-851A | 02
05 | IN | KOSCIUSKO COUNTY | 18085C0100C | 14-MAR-2001 | 01-05-525A | 02
05 | IN | KOSCIUSKO COUNTY | 18085C0125C | 20-JUN-2001 | 01-05-2512A | 02
05 | IN | KOSCIUSKO COUNTY | 18085C0150C | 14-MAR-2001 | 01-05-850A | 02
05 | IN | LAFAYETTE, CITY OF | 1802530005B | 01-JUN-2001 | 01-05-1542A | 01
05 | IN | LAGRANGE COUNTY | 1801250004B | 10-JAN-2001 | 01-05-325A | 02
05 | IN | LAGRANGE COUNTY | 1801250004B | 10-JAN-2001 | 01-05-595A | 02
05 | IN | LAGRANGE COUNTY | 1801250004B | 19-JAN-2001 | 01-05-816A | 02
05 | IN | LAKE COUNTY | 1801260105B | 16-FEB-2001 | 00-05-6048A | 01
05 | IN | LAWRENCE, CITY OF | 18097C0089E | 06-JAN-2001 | 01-05-0898V | 19
05 | IN | LAWRENCE, CITY OF—USE CID 180159 |  | 06-JAN-2001 | 01-05-0898V | 19
05 | IN | LEBANON, CITY OF | 1800130001D | 29-JUN-2001 | 01-05-2313A | 01
05 | IN | LIBERTY, TOWNSHIP OF | 1804880002A | 23-MAR-2001 | 01-05-1241A | 02
05 | IN | LOWELL, TOWN OF | 1801370005C | 28-FEB-2001 | 01-05-531A | 02
05 | IN | MARION COUNTY | 18097C0270E | 16-MAY-2001 | 01-05-2266A | 02
05 | IN | MARSHALL COUNTY | 1804430025B | 09-FEB-2001 | 01-05-686A | 02
05 | IN | MOORESVILLE, TOWN OF | 1803340003C | 10-JAN-2001 | 01-05-431A | 02
05 | IN | MUNCIE, CITY OF | 1800530002C | 09-MAY-2001 | 01-05-2000A | 02
05 | IN | MUNCIE, CITY OF | 1800530003C | 25-APR-2001 | 01-05-1317A | 02
05 | IN | MUNSTER, TOWN OF | 1801390002B | 06-APR-2001 | 01-05-781A | 02
05 | IN | MUNSTER, TOWN OF | 1801390002B | 18-APR-2001 | 00-05-5180A | 02
05 | IN | MUNSTER, TOWN OF | 1801390002B | 27-APR-2001 | 01-05-1500A | 02
05 | IN | NASHVILLE, TOWN OF | 1800180001D | 18-MAY-2001 | 01-05-490A | 01
05 | IN | NEW ALBANY, CITY OF | 1800620012D | 01-JUN-2001 | 01-05-1975A | 02
05 | IN | NEW HAVEN, CITY OF | 18003C0285E | 21-FEB-2001 | 01-05-1158A | 02
05 | IN | NEW HAVEN, CITY OF | 18003C0285E | 21-FEB-2001 | 01-05-1158A | 02
05 | IN | NEW HAVEN, CITY OF | 18003C0285E | 21-FEB-2001 | 01-05-1158A | 02
05 | IN | NEW HAVEN, CITY OF | 18003C0285E | 31-MAR-2001 | 00-05-187P | 05
05 | IN | NEW HAVEN, CITY OF | 18003C0285E | 31-MAR-2001 | 00-05-187P | 05
05 | IN | NEW HAVEN, CITY OF | 18003C0295D | 31-MAR-2001 | 00-05-187P | 05
05 | IN | NEW PROVIDENCE, TOWN OF | 1804260100B | 15-JUN-2001 | 01-05-2410A | 02
05 | IN | NEW PROVIDENCE, TOWN OF | 1804640001A | 15-JUN-2001 | 01-05-2410A | 02
05 | IN | NEWBURGH, TOWN OF | 1802760001B | 09-MAY-2001 | 01-05-1697A | 02
05 | IN | NEWBURGH, TOWN OF | 1802760001B | 09-MAY-2001 | 01-05-1697A | 02
05 | IN | NOBLE COUNTY | 1801830075B | 13-JUN-2001 | 01-05-2353A | 02
05 | IN | NOBLE COUNTY * | 1801830075B | 13-JUN-2001 | 01-05-2353A | 02
05 | IN | NOBLESVILLE, CITY OF | 1800800100C | 10-JAN-2001 | 01-05-0303A | 02
05 | IN | NOBLESVILLE, CITY OF | 1800820005E | 13-JUN-2001 | 01-05-2068A | 02
05 | IN | NOBLESVILLE, CITY OF | 1800820005E | 13-JUN-2001 | 01-05-2068A | 02
05 | IN | NOBLESVILLE, CITY OF | 1800820015E | 02-MAR-2001 | 01-05-1172A | 02
05 | IN | NOBLESVILLE, CITY OF | 1800820015E | 07-MAR-2001 | 01-05-002A | 02
05 | IN | NOBLESVILLE, CITY OF | 1800820015E | 10-JAN-2001 | 01-05-0303A | 02
05 | IN | NOBLESVILLE, CITY OF | 1800820030E | 04-APR-2001 | 01-05-0217A | 01
05 | IN | NOBLESVILLE, CITY OF | 1800820030E | 04-APR-2001 | 01-05-0217A | 01
05 | IN | NOBLESVILLE, CITY OF | 1800820030E | 04-APR-2001 | 01-05-0217A | 01
05 | IN | NOBLESVILLE, CITY OF | 1800820030E | 10-JAN-2001 | 01-05-0303A | 02
05 | IN | NOBLESVILLE, CITY OF | 1800820030E | 10-JAN-2001 | 01-05-350A | 02
05 | IN | NOBLESVILLE, CITY OF | 1800820030E | 23-MAY-2001 | 01-05-2022A | 01
05 | IN | NOBLESVILLE, CITY OF | 1800820030E | 25-JUN-2001 | 00-05-1990P | 05
05 | IN | NOBLESVILLE, CITY OF | 1800820030E | 25-JUN-2001 | 00-05-1990P | 05
05 | IN | PERRY COUNTY | 1801950006B | 08-JAN-2001 | 00-05-5584A | 02
05 | IN | PLYMOUTH, CITY OF | 180164BI-01 | 16-MAR-2001 | 01-05-952A | 02
05 | IN | ROANOKE, TOWN OF | 1800960001B | 21-MAR-2001 | 01-05-610A | 01
05 | IN | SCHERERVILLE, TOWN OF | 1801420005B | 08-JAN-2001 | 00-05-011P | 05
05 | IN | SCHERERVILLE, TOWN OF | 1801420005B | 26-JUN-2001 | 01-05-757P | 05
05 | IN | SCHERERVILLE, TOWN OF | 1801420005B | 26-JUN-2001 | 01-05-757P | 05
05 | IN | SEYMOUR, CITY OF | 1800990004C | 07-MAR-2001 | 01-05-468A | 02
05 | IN | SEYMOUR, CITY OF | 1800990004C | 09-FEB-2001 | 01-05-650A | 02
05 | IN | SEYMOUR, CITY OF | 1800990004C | 16-MAY-2001 | 01-05-126A | 01
05 | IN | SEYMOUR, CITY OF | 1800990004C | 18-MAY-2001 | 01-05-2121A | 02
05 | IN | SEYMOUR, CITY OF | 1800990004C | 21-FEB-2001 | 01-05-099A | 17
05 | IN | SEYMOUR, CITY OF | 1800990004C | 21-FEB-2001 | 01-05-877A | 02
05 | IN | SHELBY COUNTY | 1802350080B | 11-APR-2001 | 01-05-1323A | 02
05 | IN | SOUTH BEND, CITY OF | 1802310006C | 21-MAR-2001 | 01-05-840A | 02
05 | IN | SOUTH BEND, CITY OF | 1802310006C | 22-JUN-2001 | 01-05-1337A | 02
05 | IN | SPEEDWAY, TOWN OF | 18097C0117E | 16-JAN-2001 | 01-05-0899V | 19
05 | IN | SPEEDWAY, TOWN OF—USE CID 180159 |  | 16-JAN-2001 | 01-05-0899V | 19
05 | IN | SPENCER COUNTY | 1802370125A | 04-APR-2001 | 00-05-5612A | 02
05 | IN | STEUBEN COUNTY | 1802430025B | 06-JUN-2001 | 01-05-2346A | 02
05 | IN | STEUBEN COUNTY | 1802430025B | 07-FEB-2001 | 01-05-0905A | 02
05 | IN | STEUBEN COUNTY | 1802430025B | 09-MAR-2001 | 01-05-1386A | 02
05 | IN | STEUBEN COUNTY | 1802430025B | 09-MAR-2001 | 01-05-1402A | 02
05 | IN | STEUBEN COUNTY | 1802430025B | 15-JUN-2001 | 01-05-2594A | 02
05 | IN | STEUBEN COUNTY | 1802430025B | 18-APR-2001 | 01-05-315A | 02
05 | IN | STEUBEN COUNTY | 1802430025B | 20-APR-2001 | 01-05-1700A | 02
05 | IN | STEUBEN COUNTY | 1802430025B | 28-FEB-2001 | 01-05-1045A | 02
05 | IN | STEUBEN COUNTY | 1802430025B | 31-JAN-2001 | 01-05-0942A | 02
05 | IN | STEUBEN COUNTY | 1802430075B | 06-JUN-2001 | 01-05-2370A | 02
05 | IN | STEUBEN COUNTY | 1802430100B | 02-MAR-2001 | 01-05-1163A | 02
05 | IN | STEUBEN COUNTY | 1802430100B | 18-APR-2001 | 01-05-1699A | 02
05 | IN | STEUBEN COUNTY* | 1802430025B | 04-APR-2001 | 01-05-1679A | 02
05 | IN | STEUBEN COUNTY* | 1802430025B | 06-JUN-2001 | 01-05-2346A | 02
05 | IN | STEUBEN COUNTY* | 1802430025B | 07-FEB-2001 | 01-05-0905A | 02
05 | IN | STEUBEN COUNTY* | 1802430025B | 09-MAR-2001 | 01-05-1386A | 02
05 | IN | STEUBEN COUNTY* | 1802430025B | 09-MAR-2001 | 01-05-1402A | 02
05 | IN | STEUBEN COUNTY* | 1802430025B | 15-JUN-2001 | 01-05-2594A | 02
05 | IN | STEUBEN COUNTY* | 1802430025B | 20-APR-2001 | 01-05-1700A | 02
05 | IN | STEUBEN COUNTY* | 1802430025B | 28-FEB-2001 | 01-05-1045A | 02
05 | IN | STEUBEN COUNTY* | 1802430025B | 31-JAN-2001 | 01-05-0942A | 02
05 | IN | STEUBEN COUNTY* | 1802430075B | 06-JUN-2001 | 01-05-2370A | 02
05 | IN | STEUBEN COUNTY* | 1802430075B | 24-JAN-2001 | 01-05-0914A | 02
05 | IN | STEUBEN COUNTY* | 1802430100B | 02-MAR-2001 | 01-05-1163A | 02
05 | IN | STEUBEN COUNTY* | 1802430100B | 05-JAN-2001 | 01-05-0727X | 02
05 | IN | STEUBEN COUNTY* | 1802430100B | 18-APR-2001 | 01-05-1699A | 02
05 | IN | SYRACUSE, TOWN OF | 18085C0031C | 11-APR-2001 | 01-05-1442A | 02
05 | IN | SYRACUSE, TOWN OF | 18085C0035C | 07-FEB-2001 | 00-05-3808A | 01
05 | IN | TELL CITY, CITY OF | 18019706B | 08-JUN-2001 | 01-05-1256A | 02
05 | IN | TIPPECANOE COUNTY | 1804280015B | 23-MAY-2001 | 01-05-2170A | 02
05 | IN | TIPPECANOE COUNTY | 1804280020B | 04-APR-2001 | 01-05-1357A | 02
05 | IN | TIPPECANOE COUNTY | 1804280030B | 20-JUN-2001 | 01-05-2216A | 01
05 | IN | TIPPECANOE COUNTY | 1804280050B | 13-APR-2001 | 01-05-1458A | 02
05 | IN | TIPTON, CITY OF | 1802550001C | 22-JUN-2001 | 01-05-2250A | 02
05 | IN | VANDERBURGH COUNTY | 1802560015C | 06-JUN-2001 | 01-05-2375A | 02
05 | IN | VANDERBURGH COUNTY | 1802560015C | 11-MAY-2001 | 01-05-2082A | 01
05 | IN | VANDERBURGH COUNTY | 1802560015C | 16-MAY-2001 | 01-05-2058A | 02
05 | IN | VANDERBURGH COUNTY | 1802560015C | 18-APR-2001 | 01-05-1701A | 02
05 | IN | VANDERBURGH COUNTY | 1802560015C | 21-FEB-2001 | 01-05-1152A | 02
05 | IN | VANDERBURGH COUNTY | 1802560015C | 23-MAY-2001 | 01-05-2081A | 01
05 | IN | VANDERBURGH COUNTY | 1802560015C | 23-MAY-2001 | 01-05-2345A | 02
05 | IN | VANDERBURGH COUNTY | 1802560025C | 02-MAR-2001 | 00-05-243P | 05
05 | IN | VANDERBURGH COUNTY | 1802560025C | 02-MAR-2001 | 01-05-0676A | 02
05 | IN | VANDERBURGH COUNTY | 1802560025C | 02-MAR-2001 | 01-05-1161A | 01
05 | IN | VANDERBURGH COUNTY | 1802560025C | 02-MAR-2001 | 01-05-1394A | 01
05 | IN | VANDERBURGH COUNTY | 1802560025C | 04-APR-2001 | 01-05-0762A | 01
05 | IN | VANDERBURGH COUNTY | 1802560025C | 04-MAY-2001 | 01-05-2059A | 02
05 | IN | VANDERBURGH COUNTY | 1802560025C | 04-MAY-2001 | 01-05-2060A | 02
05 | IN | VANDERBURGH COUNTY | 1802560025C | 07-FEB-2001 | 01-05-0957A | 02
05 | IN | VANDERBURGH COUNTY | 1802560025C | 07-FEB-2001 | 01-05-1138A | 01
05 | IN | VANDERBURGH COUNTY | 1802560025C | 07-MAR-2001 | 01-05-1393A | 01
05 | IN | VANDERBURGH COUNTY | 1802560025C | 09-MAR-2001 | 01-05-1392A | 01
05 | IN | VANDERBURGH COUNTY | 1802560025C | 13-JUN-2001 | 01-05-2376A | 02
05 | IN | VANDERBURGH COUNTY | 1802560025C | 13-JUN-2001 | 01-05-2387A | 01
05 | IN | VANDERBURGH COUNTY | 1802560025C | 13-JUN-2001 | 01-05-2590A | 01
05 | IN | VANDERBURGH COUNTY | 1802560025C | 13-JUN-2001 | 01-05-2591A | 01
05 | IN | VANDERBURGH COUNTY | 1802560025C | 18-MAY-2001 | 01-05-2085A | 01
05 | IN | VANDERBURGH COUNTY | 1802560025C | 20-JUN-2001 | 01-05-2593A | 02
05 | IN | VANDERBURGH COUNTY | 1802560025C | 22-JUN-2001 | 01-05-2388A | 02
05 | IN | VANDERBURGH COUNTY | 1802560025C | 23-MAY-2001 | 01-05-2084A | 01
05 | IN | VANDERBURGH COUNTY | 1802560025C | 25-MAY-2001 | 01-05-2339A | 01
05 | IN | VANDERBURGH COUNTY | 1802560025C | 27-APR-2001 | 01-05-2047A | 01
05 | IN | VANDERBURGH COUNTY | 1802560050B | 02-JAN-2001 | 01-05-0675A | 02
05 | IN | VANDERBURGH COUNTY | 1802560050B | 07-MAR-2001 | 01-05-1395A | 02
05 | IN | VANDERBURGH COUNTY | 1802560050B | 28-FEB-2001 | 01-05-0903A | 01
05 | IN | VANDERBURGH COUNTY | 1802560055C | 18-APR-2001 | 01-05-1702A | 02
05 | IN | VANDERBURGH COUNTY | 1802560075C | 18-MAY-2001 | 01-05-2090A | 02
05 | IN | VANDERBURGH COUNTY | 1802560100B | 02-FEB-2001 | 01-05-0944A | 01
05 | IN | VANDERBURGH COUNTY | 1802560100B | 02-JAN-2001 | 00-05-3116A | 02
05 | IN | VANDERBURGH COUNTY | 1802560100B | 13-JUN-2001 | 01-05-2377A | 02
05 | IN | VANDERBURGH COUNTY | 1802560100B | 28-FEB-2001 | 01-05-0667A | 02
05 | IN | VANDERBURGH COUNTY * | 1802560015C | 06-JUN-2001 | 01-05-2375A | 02
05 | IN | VANDERBURGH COUNTY * | 1802560015C | 07-FEB-2001 | 01-05-0948A | 02
05 | IN | VANDERBURGH COUNTY * | 1802560015C | 11-MAY-2001 | 01-05-2082A | 01
05 | IN | VANDERBURGH COUNTY * | 1802560015C | 14-MAR-2001 | 01-05-1421A | 01
05 | IN | VANDERBURGH COUNTY * | 1802560015C | 16-MAY-2001 | 01-05-2058A | 02
05 | IN | VANDERBURGH COUNTY * | 1802560015C | 18-APR-2001 | 01-05-1701A | 02
05 | IN | VANDERBURGH COUNTY * | 1802560015C | 21-FEB-2001 | 01-05-1152A | 02
05 | IN | VANDERBURGH COUNTY * | 1802560015C | 23-MAY-2001 | 01-05-2081A | 01
05 | IN | VANDERBURGH COUNTY * | 1802560015C | 23-MAY-2001 | 01-05-2345A | 02
05 | IN | VANDERBURGH COUNTY * | 1802560025C | 02-MAR-2001 | 01-05-0676A | 02
05 | IN | VANDERBURGH COUNTY * | 1802560025C | 02-MAR-2001 | 01-05-1161A | 01
05 | IN | VANDERBURGH COUNTY * | 1802560025C | 02-MAR-2001 | 01-05-1394A | 01
05 | IN | VANDERBURGH COUNTY * | 1802560025C | 04-APR-2001 | 01-05-0762A | 01
05 | IN | VANDERBURGH COUNTY * | 1802560025C | 04-MAY-2001 | 01-05-2059A | 02
05 | IN | VANDERBURGH COUNTY * | 1802560025C | 04-MAY-2001 | 01-05-2060A | 02
05 | IN | VANDERBURGH COUNTY * | 1802560025C | 05-JAN-2001 | 01-05-0770A | 02
05 | IN | VANDERBURGH COUNTY * | 1802560025C | 05-JAN-2001 | 01-05-0771A | 01
05 | IN | VANDERBURGH COUNTY * | 1802560025C | 07-FEB-2001 | 01-05-0957A | 02
05 | IN | VANDERBURGH COUNTY * | 1802560025C | 07-FEB-2001 | 01-05-1138A | 01
05 | IN | VANDERBURGH COUNTY * | 1802560025C | 07-MAR-2001 | 01-05-1393A | 01
05 | IN | VANDERBURGH COUNTY * | 1802560025C | 09-MAR-2001 | 01-05-1392A | 01
05 | IN | VANDERBURGH COUNTY * | 1802560025C | 09-MAR-2001 | 01-05-1408A | 02
05 | IN | VANDERBURGH COUNTY * | 1802560025C | 13-JUN-2001 | 01-05-2376A | 02
05 | IN | VANDERBURGH COUNTY * | 1802560025C | 13-JUN-2001 | 01-05-2387A | 01
05 | IN | VANDERBURGH COUNTY * | 1802560025C | 13-JUN-2001 | 01-05-2590A | 01
05 | IN | VANDERBURGH COUNTY * | 1802560025C | 13-JUN-2001 | 01-05-2591A | 01
05 | IN | VANDERBURGH COUNTY * | 1802560025C | 18-APR-2001 | 01-05-1665A | 01
05 | IN | VANDERBURGH COUNTY * | 1802560025C | 18-MAY-2001 | 01-05-2085A | 01
05 | IN | VANDERBURGH COUNTY * | 1802560025C | 20-JUN-2001 | 01-05-2593A | 02
05 | IN | VANDERBURGH COUNTY * | 1802560025C | 22-JUN-2001 | 01-05-2388A | 02
05 | IN | VANDERBURGH COUNTY * | 1802560025C | 23-MAY-2001 | 01-05-2084A | 01
05 | IN | VANDERBURGH COUNTY * | 1802560025C | 24-JAN-2001 | 01-05-0912A | 02
05 | IN | VANDERBURGH COUNTY * | 1802560025C | 25-MAY-2001 | 01-05-2339A | 01
05 | IN | VANDERBURGH COUNTY * | 1802560025C | 27-APR-2001 | 01-05-2047A | 01
05 | IN | VANDERBURGH COUNTY * | 1802560025C | 30-MAR-2001 | 01-05-1432A | 01
05 | IN | VANDERBURGH COUNTY * | 1802560050B | 02-JAN-2001 | 01-05-0675A | 02
05 | IN | VANDERBURGH COUNTY * | 1802560050B | 07-MAR-2001 | 01-05-1395A | 02
05 | IN | VANDERBURGH COUNTY * | 1802560050B | 28-FEB-2001 | 01-05-0903A | 01
05 | IN | VANDERBURGH COUNTY * | 1802560055C | 05-JAN-2001 | 01-05-0560A | 02
05 | IN | VANDERBURGH COUNTY * | 1802560055C | 18-APR-2001 | 01-05-1702A | 02
05 | IN | VANDERBURGH COUNTY * | 1802560075C | 18-MAY-2001 | 01-05-2090A | 02
05 | IN | VANDERBURGH COUNTY * | 1802560100B | 02-FEB-2001 | 01-05-0944A | 01
05 | IN | VANDERBURGH COUNTY * | 1802560100B | 02-JAN-2001 | 00-05-3116A | 02
05 | IN | VANDERBURGH COUNTY * | 1802560100B | 04-APR-2001 | 01-05-1666A | 02
05 | IN | VANDERBURGH COUNTY * | 1802560100B | 13-JUN-2001 | 01-05-2377A | 02
05 | IN | VANDERBURGH COUNTY * | 1802560100B | 28-FEB-2001 | 01-05-0667A | 02
05 | IN | VIGO COUNTY | 1802630070B | 08-JUN-2001 | 01-05-2189A | 01
05 | IN | WARRICK COUNTY | 1804180175B | 09-FEB-2001 | 00-05-5396A | 01
05 | IN | WARRICK COUNTY | 1804180175B | 21-FEB-2001 | 01-05-1150A | 02
05 | IN | WARRICK COUNTY * | 1804180175B | 09-FEB-2001 | 00-05-5396A | 01
05 | IN | WARRICK COUNTY * | 1804180175B | 21-FEB-2001 | 01-05-1150A | 02
05 | IN | WARRICK COUNTY * | 1804180175B | 28-MAR-2001 | 01-05-1664A | 02
05 | IN | WARRICK COUNTY * | 1804180200B | 20-APR-2001 | 01-05-1667A | 01
05 | IN | WARSAW, CITY OF | 18085C0078C | 14-FEB-2001 | 01-05-655A | 02
05 | IN | WARSAW, CITY OF | 18085C0078C | 28-MAR-2001 | 01-05-476A | 02
05 | IN | WAYNE COUNTY | 1802800125B | 09-MAR-2001 | 01-05-1103A | 02
05 | IN | WESTFIELD, TOWN OF | 1800830015C | 02-MAY-2001 | 01-05-1133A | 01
05 | IN | WESTFIELD, TOWN OF | 1800830015C | 02-MAY-2001 | 01-05-1133A | 01
05 | IN | WESTFIELD, TOWN OF | 1800830015C | 14-FEB-2001 | 00-05-0030A | 01
05 | IN | WESTFIELD, TOWN OF | 1800830015C | 14-FEB-2001 | 00-05-0030A | 01
05 | IN | WHITE COUNTY | 1804470002B | 23-MAY-2001 | 01-05-1565A | 02
05 | IN | WHITE COUNTY | 1804470002C | 15-JUN-2001 | 01-05-2457A | 02
05 | IN | WHITE COUNTY | 1804470002C | 28-MAR-2001 | 01-05-1083A | 02
05 | IN | WHITE COUNTY | 1804470005C | 01-JUN-2001 | 01-05-2195A | 02
05 | IN | WHITE COUNTY | 1804470005C | 04-APR-2001 | 01-05-1362A | 02
05 | IN | WHITLEY COUNTY | 1802980001B | 09-MAR-2001 | 01-05-1121A | 02
05 | IN | WHITLEY COUNTY | 1802980001B | 17-JAN-2001 | 00-05-6094A | 02
05 | IN | WHITLEY COUNTY | 1802980002B | 02-FEB-2001 | 01-05-0248A | 08
05 | IN | WHITLEY COUNTY | 1802980002B | 06-JUN-2001 | 01-05-2294A | 02
05 | IN | WHITLEY COUNTY | 1802980002B | 11-APR-2001 | 01-05-1353A | 02
05 | IN | WHITLEY COUNTY | 1802980002B | 13-APR-2001 | 00-05-5892A | 02
05 | MI | ADRIAN, TOWNSHIP OF | 2607320016A | 11-APR-2001 | 01-05-1225A | 02
05 | MI | ADRIAN, TOWNSHIP OF | 2607320016A | 25-MAY-2001 | 01-05-2180A | 02
05 | MI | ALPENA, TOWNSHIP OF | 2600110020B | 23-MAY-2001 | 01-05-2148A | 02
05 | MI | ASH, TOWNSHIP OF | 26115C0095D | 04-APR-2001 | 00-05-6042A | 02
05 | MI | AUGRES, TOWNSHIP OF | 2600130010B | 16-FEB-2001 | 01-05-791A | 02
05 | MI | BALDWIN, TOWNSHIP OF | 2600990016D | 04-MAY-2001 | 01-05-1831A | 02
05 | MI | BANGOR, TOWNSHIP OF | 26017C0140D | 13-APR-2001 | 01-05-1515A | 02
05 | MI | BAY MILLS, TOWNSHIP OF | 2603740050B | 09-MAR-2001 | 01-05-035A | 02
05 | MI | BAY MILLS, TOWNSHIP OF | 2603740050B | 14-FEB-2001 | 00-05-5866A | 02
05 | MI | BEAUGRAND, TOWNSHIP OF | 2606460001B | 04-APR-2001 | 01-05-119A | 02
05 | MI | BEAUGRAND, TOWNSHIP OF | 2606460002A | 04-APR-2001 | 01-05-1039A | 02
05 | MI | BEAUGRAND, TOWNSHIP OF | 2606460002B | 11-APR-2001 | 01-05-626A | 02
05 | MI | BEDFORD, TOWNSHIP OF | 2600520005B | 24-JAN-2001 | 01-05-513A | 02
05 | MI | BEDFORD, TOWNSHIP OF | 26115C0364D | 09-MAR-2001 | 01-05-1093A | 02
05 | MI | BEDFORD, TOWNSHIP OF | 26115C0364D | 21-FEB-2001 | 01-05-434A | 02
05 | MI | BEDFORD, TOWNSHIP OF | 26115C0365D | 23-FEB-2001 | 00-05-6080A | 01
05 | MI | BEDFORD, TOWNSHIP OF | 26115C0476D | 07-FEB-2001 | 01-05-779A | 02
05 | MI | BEDFORD, TOWNSHIP OF | 26115C0477D | 23-FEB-2001 | 01-05-111A | 02
05 | MI | BRIDGEPORT, CHARTER TOWNSHIP OF | 26145C0195D | 06-JUN-2001 | 01-05-2012A | 02
05 | MI | BROWNSTOWN, CHARTERED TOWNSHIP OF | 2602180005D | 03-JAN-2001 | 01-05-324A | 02
05 | MI | BROWNSTOWN, CHARTERED TOWNSHIP OF | 2602180005D | 19-JAN-2001 | 01-05-487A | 02
05 | MI | BROWNSTOWN, CHARTERED TOWNSHIP OF | 2602180010B | 15-JUN-2001 | 01-05-2314A | 02
05 | MI | BROWNSTOWN, CHARTERED TOWNSHIP OF | 2602180015B | 22-JUN-2001 | 01-05-1995A | 01
05 | MI | BUENA VISTA, TOWNSHIP OF | 26145C0085D | 28-MAR-2001 | 01-05-1190A | 02
05 | MI | CADILLAC, CITY OF | 26165C0452C | 29-JUN-2001 | 01-05-2653A | 02
05 | MI | CANNON, TOWNSHIP OF | 2607340025A | 11-APR-2001 | 01-05-1534A | 02
05 | MI | CANNON, TOWNSHIP OF | 2607340025A | 23-MAY-2001 | 01-05-2070A | 02
05 | MI | CANNON, TOWNSHIP OF | 2607340025A | 23-MAY-2001 | 01-05-2070A | 02
05 | MI | CANTON, TOWNSHIP OF | 2602190006B | 02-JAN-2001 | 00-05-379P | 05
05 | MI | CANTON, TOWNSHIP OF | 2602190006B | 03-JAN-2001 | 00-05-379P | 05
05 | MI | CANTON, TOWNSHIP OF | 2602190009B | 24-JAN-2001 | 00-05-3838A | 08
05 | MI | CASCADE CHARTER, TOWNSHIP OF | 2608140025A | 26-JAN-2001 | 01-05-0133A | 02
05 | MI | CASCADE CHARTER, TOWNSHIP OF | 2608140025A | 26-JAN-2001 | 01-05-0133A | 02
05 | MI | CASCADE CHARTER, TOWNSHIP OF | 2608140025A | 27-APR-2001 | 01-05-0767A | 02
05 | MI | CASCADE CHARTER, TOWNSHIP OF | 2608140025A | 27-APR-2001 | 01-05-0767A | 02
05 | MI | CASEVILLE, TOWNSHIP OF | 2602570002A | 07-MAR-2001 | 01-05-1041A | 02
05 | MI | CHERRY GROVE, TOWNSHIP OF | 26165C0451C | 06-JUN-2001 | 01-05-2026A | 02
05 | MI | CHESTERFIELD, TOWNSHIP OF | 2601200005B | 27-APR-2001 | 01-05-1056A | 02
05 | MI | CHESTERFIELD, TOWNSHIP OF | 2601200010B | 21-FEB-2001 | 01-05-499A | 02
05 | MI | CHESTERFIELD, TOWNSHIP OF | 2601200010B | 28-MAR-2001 | 01-05-003A | 02
05 | MI | CHIKAMING, TOWNSHIP OF | 2602580002B | 12-JAN-2001 | 00-05-5408A | 02
05 | MI | CLAY, TOWNSHIP OF | 2601940003B | 23-FEB-2001 | 01-05-789A | 02
05 | MI | CLINTON, TOWNSHIP OF | 2601210005E | 01-JUN-2001 | 01-05-2004A | 02
05 | MI | CLINTON, TOWNSHIP OF | 2601210010E | 18-APR-2001 | 01-05-698A | 17
05 | MI | COLDWATER, TOWNSHIP OF | 2608260005A | 02-MAR-2001 | 01-05-1004A | 02
05 | MI | COLDWATER, TOWNSHIP OF | 2608260005A | 21-MAR-2001 | 01-05-1214A | 02
05 | MI | COLDWATER, TOWNSHIP OF | 2608260010A | 11-APR-2001 | 01-05-1556A | 02
05 | MI | COLDWATER, TOWNSHIP OF | 2608260010A | 15-JUN-2001 | 01-05-2474A | 02
05 | MI | COLDWATER, TOWNSHIP OF | 2608260010A | 25-MAY-2001 | 01-05-2172A | 02
05 | MI | COLDWATER, TOWNSHIP OF | 2608260010A | 27-APR-2001 | 01-05-1931A | 02
05 | MI | COLOMA, TOWNSHIP OF | 2600340005B | 09-FEB-2001 | 01-05-607A | 02
05 | MI | COMMERCE, TOWNSHIP OF | 2604730010B | 22-JUN-2001 | 01-05-1677A | 02
05 | MI | COMSTOCK, TOWNSHIP OF | 2604270002A | 07-MAR-2001 | 01-05-158A | 02
05 | MI | COMSTOCK, TOWNSHIP OF | 2604270002A | 21-MAR-2001 | 01-05-688A | 02
05 | MI | CORUNNA, CITY OF | 2606020001A | 29-JUN-2001 | 01-05-2248A | 02
05 | MI | DAVISON, TOWNSHIP OF | 2606640005B | 03-JAN-2001 | 00-05-6256A | 01
05 | MI | DEARBORN HEIGHTS, CITY OF | 2602210007C | 06-APR-2001 | 01-05-1687A | 02
05 | MI | DEARBORN HEIGHTS, CITY OF | 2602210007C | 09-MAY-2001 | 01-05-1374A | 02
05 | MI | DEARBORN HEIGHTS, CITY OF | 2602210007C | 12-JAN-2001 | 01-05-0455A | 02
05 | MI | DEARBORN HEIGHTS, CITY OF | 2602210007C | 12-JAN-2001 | 01-05-0455A | 02
05 | MI | DEARBORN HEIGHTS, CITY OF | 2602210007C | 21-FEB-2001 | 01-05-1020A | 02
05 | MI | DEARBORN HEIGHTS, CITY OF | 2602210007C | 23-FEB-2001 | 01-05-0523A | 08
05 | MI | DEERFIELD, TOWNSHIP OF | 26073C0305C | 11-APR-2001 | 01-05-1364A | 02
05 | MI | DELTA, CHARTER TOWNSHIP OF | 2600660005D | 13-JUN-2001 | 01-05-2330A | 02
05 | MI | DETOUR, TOWNSHIP OF | 2607750001A | 13-JUN-2001 | 01-05-2304A | 02
05 | MI | DRUMMOND ISLAND, TOWNSHIP OF | 2608030075A | 06-JUN-2001 | 01-05-2183A | 02
05 | MI | DRUMMOND ISLAND, TOWNSHIP OF | 2608030100A | 08-JUN-2001 | 01-05-2312A | 02
05 | MI | EAST CHINA, TOWNSHIP OF | 2601970005B | 04-APR-2001 | 01-05-519A | 02
05 | MI | EAST LANSING, CITY OF | 2600890005B | 11-APR-2001 | 01-05-1537A | 02
05 | MI | EAST TAWAS, CITY OF | 2601000001C | 18-MAY-2001 | 01-05-2001A | 02
05 | MI | ERIE, TOWNSHIP OF | 26115C0502D | 04-APR-2001 | 01-05-782A | 02
05 | MI | FABIUS, TOWNSHIP OF | 2607810025A | 15-JUN-2001 | 01-05-2473A | 02
05 | MI | FABIUS, TOWNSHIP OF | 2607810025A | 22-JUN-2001 | 01-05-2566A | 02
05 | MI | FARMINGTON HILLS, CITY OF | 2601720002C | 11-MAY-2001 | 01-05-1692A | 02
05 | MI | FARMINGTON HILLS, CITY OF | 2601720002C | 20-JUN-2001 | 01-05-2383A | 02
05 | MI | FARMINGTON HILLS, CITY OF | 2601720002C | 20-JUN-2001 | 01-05-2383A | 02
05 | MI | FARMINGTON HILLS, CITY OF | 2601720002C | 23-MAY-2001 | 01-05-2158A | 02
05 | MI | FARMINGTON HILLS, CITY OF | 2601720002C | 23-MAY-2001 | 01-05-2158A | 02
05 | MI | FARMINGTON HILLS, CITY OF | 2601720003C | 17-JAN-2001 | 01-05-0557A | 02
05 | MI | FARMINGTON HILLS, CITY OF | 2601720003C | 17-JAN-2001 | 01-05-0557A | 02
05 | MI | FARMINGTON HILLS, CITY OF | 2601720003C | 23-MAR-2001 | 01-05-1431A | 02
05 | MI | FARMINGTON HILLS, CITY OF | 2601720003C | 30-MAY-2001 | 01-05-2355A | 02
05 | MI | FARMINGTON HILLS, CITY OF | 2601720003C | 30-MAY-2001 | 01-05-2355A | 02
05 | MI | FARMINGTON HILLS, CITY OF | 2601720004C | 14-MAR-2001 | 01-05-1169A | 17
05 | MI | FARMINGTON HILLS, CITY OF | 2601720004C | 14-MAR-2001 | 01-05-1169A | 17
05 | MI | FARMINGTON HILLS, CITY OF | 2601720006C | 07-FEB-2001 | 01-05-0331A | 02
05 | MI | FARMINGTON HILLS, CITY OF | 2601720006C | 07-FEB-2001 | 01-05-0331A | 02
05 | MI | FARMINGTON HILLS, CITY OF | 2601720006C | 21-FEB-2001 | 01-05-0932A | 02
05 | MI | FARMINGTON HILLS, CITY OF | 2601720006C | 21-FEB-2001 | 01-05-0932A | 02
05 | MI | FENTON, TOWNSHIP OF | 2603940006B | 20-APR-2001 | 01-05-1060A | 02
05 | MI | FENTON, TOWNSHIP OF | 2603940011B | 30-MAY-2001 | 01-05-1262A | 02
05 | MI | FERRYSBURG, CITY OF | 2601840001B | 20-APR-2001 | 01-05-1200A | 02
05 | MI | FLAT ROCK, CITY OF | 2602240003B | 21-MAR-2001 | 01-05-817A | 02
05 | MI | FLAT ROCK, CITY OF | 2602240005B | 04-APR-2001 | 01-05-1252A | 17
05 | MI | FLAT ROCK, CITY OF | 2602240005B | 14-MAR-2001 | 01-05-120A | 02
05 | MI | FORK, TOWNSHIP OF | 2606330017A | 28-MAR-2001 | 01-05-712A | 02
05 | MI | FRANKENLUST, TOWNSHIP OF | 26017C0200D | 13-JUN-2001 | 01-05-2311A | 17
05 | MI | FRANKENMUTH, TOWNSHIP OF | 26145C0205D | 04-APR-2001 | 01-05-259A | 02
05 | MI | FRASER, CITY OF | 2601220001B | 01-JUN-2001 | 01-05-2112A | 02
05 | MI | FRASER, CITY OF | 2601220001B | 16-MAY-2001 | 01-05-2201A | 02
05 | MI | FRASER, CITY OF | 2601220001B | 18-APR-2001 | 01-05-800A | 02
05 | MI | FRASER, CITY OF | 2601220001B | 23-MAR-2001 | 01-05-969A | 02
05 | MI | FRASER, CITY OF | 2601220001B | 28-MAR-2001 | 01-05-1269A | 02
05 | MI | FRASER, CITY OF | 2601220001B | 28-MAR-2001 | 01-05-846A | 02
05 | MI | FRENCHTOWN, TOWNSHIP OF | 26115C0258D | 02-FEB-2001 | 01-05-527A | 02
05 | MI | FRENDONIA, TOWNSHIP OF | 26056206A | 16-MAY-2001 | 01-05-1968A | 02
05 | MI | FRENDONIA, TOWNSHIP OF | 26056208A | 15-JUN-2001 | 01-05-2193A | 02
05 | MI | GEORGETOWN, CHARTER TOWNSHIP OF | 2605890005B | 03-JAN-2001 | 00-05-3794A | 08
05 | MI | GEORGETOWN, CHARTER TOWNSHIP OF | 2605890005B | 13-JUN-2001 | 01-05-1460A | 17
05 | MI | GEORGETOWN, CHARTER TOWNSHIP OF | 2605890005B | 27-JUN-2001 | 01-05-2472A | 02
05 | MI | GRAND HAVEN, TOWNSHIP OF | 2602700005B | 16-FEB-2001 | 01-05-841A | 02
05 | MI | GRAND HAVEN, TOWNSHIP OF | 2602700005B | 25-APR-2001 | 01-05-1547A | 02
05 | MI | GRAND HAVEN, TOWNSHIP OF | 2602700005B | 27-JUN-2001 | 01-05-2550A | 02
05 | MI | GRANDVILLE, CITY OF |  | 10-JAN-2001 | 01-05-0138A | 02
05 | MI | GRANDVILLE, CITY OF | 2602710003B | 10-JAN-2001 | 01-05-0138A | 02
05 | MI | GRANDVILLE, CITY OF | 2602710004B | 28-MAR-2001 | 01-05-1336A | 02
05 | MI | GREEN OAK, TOWNSHIP OF | 2604400015B | 11-APR-2001 | 01-05-1107A | 02
05 | MI | GREEN OAK, TOWNSHIP OF | 2604400020B | 24-JAN-2001 | 01-05-720A | 02
05 | MI | GREENBUSH, TOWNSHIP OF | 2600010004C | 06-JUN-2001 | 01-05-2255A | 02
05 | MI | GREENBUSH, TOWNSHIP OF | 2600010004C | 07-FEB-2001 | 01-05-777A | 02
05 | MI | GREENBUSH, TOWNSHIP OF | 2600010004C | 09-FEB-2001 | 01-05-514A | 02
05 | MI | GREENBUSH, TOWNSHIP OF | 2600010004C | 14-FEB-2001 | 01-05-808A | 02
05 | MI | GREENBUSH, TOWNSHIP OF | 2600010007C | 21-FEB-2001 | 01-05-255A | 02
05 | MI | GREENBUSH, TOWNSHIP OF | 2600010007C | 21-FEB-2001 | 01-05-479A | 02
05 | MI | GREENBUSH, TOWNSHIP OF | 2600010007C | 26-JAN-2001 | 01-05-034A | 02
05 | MI | GROSSE ILE, TOWNSHIP OF | 2602270010B | 04-APR-2001 | 01-05-1348A | 02
05 | MI | HAMPTON, TOWNSHIP OF | 26017C0190D | 16-MAY-2001 | 01-05-260A | 01
05 | MI | HARRISON, TOWNSHIP OF | 2601230005C | 04-APR-2001 | 01-05-583A | 02
05 | MI | HARRISON, TOWNSHIP OF | 2601230005C | 06-JUN-2001 | 01-05-2212A | 02
05 | MI | HARRISON, TOWNSHIP OF | 2601230005C | 09-MAY-2001 | 01-05-1270A | 02
05 | MI | HARRISON, TOWNSHIP OF | 2601230005C | 20-JUN-2001 | 01-05-2419A | 02
05 | MI | HARRISON, TOWNSHIP OF | 2601230005C | 20-JUN-2001 | 01-05-2535A | 02
05 | MI | HARRISON, TOWNSHIP OF | 2601230005C | 28-MAR-2001 | 01-05-501A | 02
05 | MI | HARRISON, TOWNSHIP OF | 2601230010C | 08-JUN-2001 | 01-05-2151A | 02
05 | MI | HARRISON, TOWNSHIP OF | 2601230010C | 13-JUN-2001 | 01-05-2093A | 02
05 | MI | HARRISON, TOWNSHIP OF | 2601230010C | 13-JUN-2001 | 01-05-2245A | 02
05 | MI | HARRISON, TOWNSHIP OF | 2601230010C | 18-APR-2001 | 01-05-1370A | 02
05 | MI | HARRISON, TOWNSHIP OF | 2601230010C | 25-APR-2001 | 01-05-1324A | 02
05 | MI | HIGHLAND, TOWNSHIP OF | 2606500010A | 07-MAR-2001 | 01-05-663A | 02
05 | MI | IDA, TOWNSHIP OF | 26115C0200D | 25-APR-2001 | 01-05-326A | 02
05 | MI | IDA, TOWNSHIP OF | 26115C0215D | 23-MAY-2001 | 01-05-2106A | 02
05 | MI | INDEPENDENCE, TOWNSHIP OF | 2604750006B | 06-JUN-2001 | 01-05-2063A | 02
05 | MI | INDEPENDENCE, TOWNSHIP OF | 2604750006B | 06-JUN-2001 | 01-05-2063A | 02
05 | MI | INDEPENDENCE, TOWNSHIP OF | 2604750008B | 28-FEB-2001 | 01-05-0946A | 02
05 | MI | INDEPENDENCE, TOWNSHIP OF | 2604750008B | 28-FEB-2001 | 01-05-0946A | 02
05 | MI | JAMES, TOWNSHIP OF | 26145C0125D | 23-MAY-2001 | 01-05-2120A | 02
05 | MI | JAMES, TOWNSHIP OF | 26145C0130D | 01-JUN-2001 | 01-05-1280A | 02
05 | MI | JAMES, TOWNSHIP OF | 26145C0130D | 23-FEB-2001 | 01-05-972A | 02
05 | MI | JAMES, TOWNSHIP OF | 26145C0130D | 28-FEB-2001 | 01-05-982A | 02
05 | MI | JAMES, TOWNSHIP OF | 26145C0185D | 21-MAR-2001 | 01-05-959A | 02
05 | MI | JOHNSTOWN, TOWNSHIP OF | 26035507A | 15-JUN-2001 | 01-05-1254A | 02
05 | MI | KEEGO HARBOR, CITY OF | 2601730001B | 29-JUN-2001 | 01-05-2150A | 02
05 | MI | KEEGO HARBOR, CITY OF | 2601730001B | 29-JUN-2001 | 01-05-2150A | 02
05 | MI | L'ANSE, VILLAGE OF | 26055201A | 20-JUN-2001 | 01-05-1996A | 02
05 | MI | L'ANSE, VILLAGE OF | 260552A | 04-APR-2001 | 01-05-1295A | 02
05 | MI | LANSING, CITY OF | 2600900006B | 06-JUN-2001 | 01-05-2261A | 02
05 | MI | LEELANAU, TOWNSHIP OF | 26011411B | 23-MAR-2001 | 01-05-830A | 02
05 | MI | LEELANAU, TOWNSHIP OF | 260114B07 | 16-MAR-2001 | 01-05-483A | 02
05 | MI | LOCKPORT, TOWNSHIP OF | 2607150005B | 10-JAN-2001 | 01-05-478A | 02
05 | MI | LOCKPORT, TOWNSHIP OF | 2607150010B | 03-JAN-2001 | 01-05-354A | 02
05 | MI | LONDON, TOWNSHIP OF | 26115C0045D | 06-APR-2001 | 01-05-1276A | 02
05 | MI | LONG LAKE, TOWNSHIP OF | 2607820025A | 28-MAR-2001 | 01-05-1095A | 02
05 | MI | LUNA PIER, CITY OF | 26115C0387D | 02-MAY-2001 | 01-05-1097A | 02
05 | MI | MACOMB, TOWNSHIP OF | 2604450010B | 02-MAY-2001 | 01-05-1117A | 02
05 | MI | MACOMB, TOWNSHIP OF | 2604450010B | 07-MAR-2001 | 01-05-1046A | 02
05 | MI | MACOMB, TOWNSHIP OF | 2604450010B | 11-APR-2001 | 01-05-1506A | 02
05 | MI | MACOMB, TOWNSHIP OF | 2604450010B | 17-JAN-2001 | 00-05-4976A | 02
05 | MI | MACOMB, TOWNSHIP OF | 2604450010B | 30-MAR-2001 | 01-05-191A | 02
05 | MI | MACOMB, TOWNSHIP OF | 2604450020B | 18-APR-2001 | 01-05-185A | 01
05 | MI | MACOMB, TOWNSHIP OF | 2604450020B | 29-JUN-2001 | 01-05-2672A | 02
05 | MI | MANISTEE, TOWNSHIP OF | 2601320005B | 22-JUN-2001 | 01-05-2438A | 02
05 | MI | MARENGO, TOWNSHIP OF | 2605630010A | 06-JUN-2001 | 01-05-2291A | 02
05 | MI | MASONVILLE, TOWNSHIP OF | 26041C0437C | 09-MAR-2001 | 01-05-1125A | 02
05 | MI | MENDON, TOWNSHIP OF | 2605130020B | 23-MAR-2001 | 01-05-1213A | 02
05 | MI | MENOMINEE, CITY OF | 2601380005B | 25-APR-2001 | 01-05-1467A | 02
05 | MI | MENOMINEE, TOWNSHIP OF | 2607020015B | 15-JUN-2001 | 01-05-2256A | 02
05 | MI | MENOMINEE, TOWNSHIP OF | 2607020030B | 01-JUN-2001 | 01-05-2188A | 02
05 | MI | MERIDIAN, CHARTER TOWNSHIP OF | 2600930010B | 06-JUN-2001 | 01-05-2224A | 02
05 | MI | MERIDIAN, CHARTER TOWNSHIP OF | 2600930010B | 21-FEB-2001 | 01-05-978A | 02
05 | MI | MERIDIAN, CHARTER TOWNSHIP OF | 2600930010B | 27-APR-2001 | 01-05-2015A | 02
05 | MI | MERIDIAN, CHARTER TOWNSHIP OF | 2600930013B | 02-MAR-2001 | 01-05-991A | 02
05 | MI | MERIDIAN, CHARTER TOWNSHIP OF | 2600930013B | 09-MAR-2001 | 01-05-1085A | 02
05 | MI | MERIDIAN, CHARTER TOWNSHIP OF | 2600930013B | 27-JUN-2001 | 01-05-2279A | 02
05 | MI | MERIDIAN, CHARTER TOWNSHIP OF | 2600930015B | 06-JUN-2001 | 01-05-2271A | 02
05 | MI | MERIDIAN, CHARTER TOWNSHIP OF | 2600930015B | 16-MAY-2001 | 01-05-2133A | 17
05 | MI | MERIDIAN, CHARTER TOWNSHIP OF | 2600930015B | 18-MAY-2001 | 01-05-1965A | 02
05 | MI | MIDLAND, CITY OF | 2601400007D | 27-JUN-2001 | 01-05-2363A | 02
05 | MI | MIDLAND, CITY OF | 2601400007D | 27-JUN-2001 | 01-05-2363A | 02
05 | MI | MONROE COUNTY | 26115C0355D | 09-FEB-2001 | 01-05-317A | 02
05 | MI | MONROE, TOWNSHIP OF | 26115C0237D | 30-MAR-2001 | 01-05-482A | 01
05 | MI | MONROE, TOWNSHIP OF | 26115C0241D | 14-MAR-2001 | 01-05-691A | 02
05 | MI | MONROE, TOWNSHIP OF | 26115C0243D | 14-MAR-2001 | 01-05-691A | 02
05 | MI | MONROE, TOWNSHIP OF | 26115C0244D | 11-APR-2001 | 01-05-1126A | 02
05 | MI | MONROE, TOWNSHIP OF | 26115C0382D | 11-APR-2001 | 01-05-1126A | 02
05 | MI | NAHMA, TOWNSHIP OF | 26041C0100C | 28-FEB-2001 | 01-05-507A | 02
05 | MI | NEW BALTIMORE, CITY OF |  | 08-JUN-2001 | 01-05-265P | 05
05 | MI | NEW BALTIMORE, CITY OF | 2601250005B | 08-JUN-2001 | 01-05-265P | 05
05 | MI | NORTHFIELD, TOWNSHIP OF | 2606350005A | 13-APR-2001 | 01-05-108A | 02
05 | MI | NORTHFIELD, TOWNSHIP OF | 2606350005A | 24-JAN-2001 | 01-05-345A | 02
05 | MI | NORVELL, TOWNSHIP OF | 260424A03 | 07-MAR-2001 | 01-05-529A | 02
05 | MI | NOTTAWA, TOWNSHIP OF | 26073C0165C | 01-JUN-2001 | 01-05-785A | 01
05 | MI | NOTTAWA, TOWNSHIP OF | 26073C0165C | 06-JUN-2001 | 01-05-2276A | 02
05 | MI | NOTTAWA, TOWNSHIP OF | 26073C0175C | 06-JUN-2001 | 01-05-2276A | 02
05 | MI | NOTTAWA, TOWNSHIP OF | 26073C0175C | 16-FEB-2001 | 01-05-362A | 01
05 | MI | NOVI, CITY OF | 2601750005C | 21-FEB-2001 | 01-05-253A | 02
05 | MI | NOVI, CITY OF | 2601750007C | 12-JAN-2001 | 00-05-357P | 05
05 | MI | NOVI, CITY OF | 2601750007C | 12-JAN-2001 | 00-05-357P | 05
05 | MI | NOVI, CITY OF | 2601750008C | 09-FEB-2001 | 00-05-5280A | 01
05 | MI | NOVI, CITY OF | 2601750008C | 09-FEB-2001 | 00-05-5280A | 01
05 | MI | NOVI, CITY OF | 2601750009C | 12-JAN-2001 | 00-05-357P | 05
05 | MI | ONEIDA, TOWNSHIP OF | 2600700008B | 16-MAY-2001 | 01-05-984A | 02
05 | MI | ONOTA, TOWNSHIP OF | 2603450025B | 27-JUN-2001 | 01-05-2029A | 02
05 | MI | OSCODA, TOWNSHIP OF | 2601010050C | 07-FEB-2001 | 01-05-815A | 02
05 | MI | OWOSSO, CITY OF |  | 02-MAR-2001 | 00-05-155P | 05
05 | MI | OWOSSO, CITY OF | 2605960001A | 02-MAR-2001 | 00-05-155P | 05
05 | MI | OWOSSO, TOWNSHIP OF | 2608090005A | 13-JUN-2001 | 01-05-2389A | 02
05 | MI | OWOSSO, TOWNSHIP OF | 2608090005A | 27-APR-2001 | 01-05-146A | 02
05 | MI | PARK, TOWNSHIP OF | 2601850001B | 16-MAR-2001 | 01-05-1008A | 02
05 | MI | PENTWATER, TOWNSHIP OF | 2601830001B | 02-MAY-2001 | 01-05-1025A | 02
05 | MI | PLYMOUTH, TOWNSHIP OF | 2602370005C | 20-JUN-2001 | 01-05-1504A | 02
05 | MI | PORTAGE, CITY OF | 2605770002A | 13-JUN-2001 | 01-05-2274A | 02
05 | MI | PORTAGE, CITY OF | 2605770006A | 10-JAN-2001 | 00-05-6034A | 01
05 | MI | PORTAGE, CITY OF | 2605770006A | 16-FEB-2001 | 01-05-880A | 02
05 | MI | READING, TOWNSHIP OF | 2604100002A | 25-APR-2001 | 01-05-1334A | 02
05 | MI | REDFORD, TOWNSHIP OF | 2602380005B | 09-MAR-2001 | 01-05-578A | 02
05 | MI | RIVERVIEW, CITY OF | 2602400005C | 03-JAN-2001 | 00-05-6286A | 02
05 | MI | ROCHESTER HILLS, CITY OF | 2604710015B | 11-APR-2001 | 01-05-1520A | 02
05 | MI | ROCKWOOD, CITY OF | 2602410005B | 15-JUN-2001 | 01-05-2494A | 02
05 | MI | SAGINAW COUNTY | 26145C0080D | 14-FEB-2001 | 01-05-666A | 02
05 | MI | SAGINAW, CITY OF | 26145C0085D | 16-MAY-2001 | 01-05-617A | 01
05 | MI | SHELBY, TOWNSHIP OF | 2601260010B | 07-FEB-2001 | 01-05-661A | 02
05 | MI | SHELBY, TOWNSHIP OF | 2601260010B | 15-JUN-2001 | 01-05-2506A | 02
05 | MI | SHELBY, TOWNSHIP OF | 2601260020B | 18-MAY-2001 | 01-05-436A | 02
05 | MI | SHELBY, TOWNSHIP OF | 2601260020B | 27-APR-2001 | 01-05-1199A | 02
05 | MI | SOUTH ROCKWOOD, VILLAGE OF | 26115C0117D | 15-JUN-2001 | 01-05-2581A | 01
05 | MI | SOUTHFIELD, CITY OF | 2601790010B | 20-JUN-2001 | 01-05-1754A | 02
05 | MI | SOUTHFIELD, CITY OF | 2601790010B | 20-JUN-2001 | 01-05-1754A | 02
05 | MI | ST. CLAIR SHORES, CITY OF | 2601270005B | 01-JUN-2001 | 01-05-1967A | 02
05 | MI | ST. CLAIR SHORES, CITY OF | 2601270005B | 01-JUN-2001 | 01-05-2182A | 02
05 | MI | ST. CLAIR SHORES, CITY OF | 2601270005B | 02-MAR-2001 | 01-05-810A | 02
05 | MI | ST. CLAIR SHORES, CITY OF | 2601270005B | 04-APR-2001 | 01-05-1372A | 02
05 | MI | ST. CLAIR SHORES, CITY OF | 2601270005B | 04-APR-2001 | 01-05-1438A | 02
05 | MI | ST. CLAIR SHORES, CITY OF | 2601270005B | 04-MAY-2001 | 01-05-1969A | 02
05 | MI | ST. CLAIR SHORES, CITY OF | 2601270005B | 06-JUN-2001 | 01-05-2140A | 02
05 | MI | ST. CLAIR SHORES, CITY OF | 2601270005B | 06-JUN-2001 | 01-05-2156A | 02
05 | MI | ST. CLAIR SHORES, CITY OF | 2601270005B | 06-JUN-2001 | 01-05-2285A | 02
05 | MI | ST. CLAIR SHORES, CITY OF | 2601270005B | 07-FEB-2001 | 01-05-526A | 02
05 | MI | ST. CLAIR SHORES, CITY OF | 2601270005B | 09-MAR-2001 | 01-05-1062A | 02
05 | MI | ST. CLAIR SHORES, CITY OF | 2601270005B | 09-MAR-2001 | 01-05-1098A | 02
05 | MI | ST. CLAIR SHORES, CITY OF | 2601270005B | 10-JAN-2001 | 01-05-090A | 02
05 | MI | ST. CLAIR SHORES, CITY OF | 2601270005B | 11-APR-2001 | 01-05-1359A | 02
05 | MI | ST. CLAIR SHORES, CITY OF | 2601270005B | 11-APR-2001 | 01-05-1453A | 02
05 | MI | ST. CLAIR SHORES, CITY OF | 2601270005B | 13-JUN-2001 | 01-05-2155A | 02
05 | MI | ST. CLAIR SHORES, CITY OF | 2601270005B | 14-MAR-2001 | 01-05-825A | 02
05 | MI | ST. CLAIR SHORES, CITY OF | 2601270005B | 16-FEB-2001 | 01-05-955A | 02
05 | MI | ST. CLAIR SHORES, CITY OF | 2601270005B | 16-MAR-2001 | 01-05-802A | 02
05 | MI | ST. CLAIR SHORES, CITY OF | 2601270005B | 16-MAY-2001 | 01-05-2094A | 02
05 | MI | ST. CLAIR SHORES, CITY OF | 2601270005B | 16-MAY-2001 | 01-05-2095A | 02
05 | MI | ST. CLAIR SHORES, CITY OF | 2601270005B | 16-MAY-2001 | 01-05-2097A | 02
05 | MI | ST. CLAIR SHORES, CITY OF | 2601270005B | 18-MAY-2001 | 01-05-708A | 02
05 | MI | ST. CLAIR SHORES, CITY OF | 2601270005B | 20-JUN-2001 | 01-05-2162A | 02
05 | MI | ST. CLAIR SHORES, CITY OF | 2601270005B | 21-FEB-2001 | 01-05-963A | 02
05 | MI | ST. CLAIR SHORES, CITY OF | 2601270005B | 21-FEB-2001 | 01-05-975A | 02
05 | MI | ST. CLAIR SHORES, CITY OF | 2601270005B | 21-MAR-2001 | 01-05-1184A | 02
05 | MI | ST. CLAIR SHORES, CITY OF | 2601270005B | 22-JUN-2001 | 01-05-2553A | 02
05 | MI | ST. CLAIR SHORES, CITY OF | 2601270005B | 25-APR-2001 | 01-05-1482A | 02
05 | MI | ST. CLAIR SHORES, CITY OF | 2601270005B | 27-APR-2001 | 01-05-1963A | 02
05 | MI | ST. CLAIR SHORES, CITY OF | 2601270005B | 27-JUN-2001 | 01-05-2487A | 02
05 | MI | ST. CLAIR SHORES, CITY OF | 2601270005B | 27-JUN-2001 | 01-05-2584A | 02
05 | MI | ST. CLAIR SHORES, CITY OF | 2601270005B | 28-MAR-2001 | 01-05-1186A | 02
05 | MI | ST. CLAIR SHORES, CITY OF | 2601270005B | 28-MAR-2001 | 01-05-1263A | 02
05 | MI | ST. CLAIR SHORES, CITY OF | 2601270005B | 28-MAR-2001 | 01-05-1301A | 02
05 | MI | ST. CLAIR SHORES, CITY OF | 2601270005B | 28-MAR-2001 | 01-05-297A | 02
05 | MI | ST. CLAIR SHORES, CITY OF | 260127005B | 25-APR-2001 | 01-05-1034A | 02
05 | MI | STERLING HEIGHTS, CITY OF | 2601280010E | 30-MAY-2001 | 00-05-111P | 05
05 | MI | STERLING HEIGHTS, CITY OF | 2601280010E | 30-MAY-2001 | 00-05-111P | 05
05 | MI | STERLING HEIGHTS, CITY OF | 2601280015F | 06-JUN-2001 | 01-05-2257A | 02
05 | MI | STERLING HEIGHTS, CITY OF | 2601280015F | 14-FEB-2001 | 01-05-196A | 02
05 | MI | STERLING HEIGHTS, CITY OF | 2601280015F | 15-JUN-2001 | 01-05-2192A | 02
05 | MI | STERLING HEIGHTS, CITY OF | 2601280015F | 18-APR-2001 | 01-05-161A | 02
05 | MI | STERLING HEIGHTS, CITY OF | 2601280015F | 20-JUN-2001 | 01-05-2157A | 02
05 | MI | SUMPTER, TOWNSHIP OF | 2602430005C | 18-APR-2001 | 01-05-1289A | 02
05 | MI | SWARTZ CREEK, CITY OF | 2600800001B | 26-JAN-2001 | 99-05-6954A | 17
05 | MI | SWARTZ CREEK, CITY OF | 2600800001B | 26-JAN-2001 | 99-05-6954A | 17
05 | MI | TAYMOUTH, TOWNSHIP OF | 26145C0250D | 29-JUN-2001 | 01-05-2018A | 02
05 | MI | THOMAS, TOWNSHIP OF | 26145C0125D | 28-MAR-2001 | 01-05-818A | 02
05 | MI | THOMAS, TOWNSHIP OF | 26145C0130D | 04-MAY-2001 | 01-05-594A | 02
05 | MI | THOMAS, TOWNSHIP OF | 26145C0130D | 21-FEB-2001 | 01-05-958A | 02
05 | MI | TORCH LAKE, TOWNSHIP OF | 2604140025B | 17-JAN-2001 | 01-05-700A | 02
05 | MI | TROY, CITY OF | 2601800002D | 07-FEB-2001 | 01-05-0456A | 17
05 | MI | TROY, CITY OF | 2601800002D | 07-FEB-2001 | 01-05-0456A | 17
05 | MI | TROY, CITY OF | 2601800002D | 11-APR-2001 | 01-05-1425A | 01
05 | MI | TROY, CITY OF | 2601800002D | 22-JUN-2001 | 01-05-2601A | 02
05 | MI | TROY, CITY OF | 2601800002D | 22-JUN-2001 | 01-05-2601A | 02
05 | MI | TROY, CITY OF | 2601800003E | 17-JAN-2001 | 01-05-0040A | 02
05 | MI | TROY, CITY OF | 2601800003E | 17-JAN-2001 | 01-05-0040A | 02
05 | MI | TROY, CITY OF | 2601800004E | 16-MAY-2001 | 00-05-5746A | 17
05 | MI | TROY, CITY OF | 2601800004E | 16-MAY-2001 | 00-05-5746A | 17
05 | MI | TROY, CITY OF | 2601800004E | 19-JAN-2001 | 01-05-0755A | 02
05 | MI | TROY, CITY OF | 2601800004E | 19-JAN-2001 | 01-05-0755A | 02
05 | MI | TROY, CITY OF | 2601800004E | 23-FEB-2001 | 01-05-0943A | 17
05 | MI | TROY, CITY OF | 2601800004E | 23-FEB-2001 | 01-05-0943A | 17
05 | MI | TROY, CITY OF | 2601800004E | 23-MAY-2001 | 01-05-2051A | 02
05 | MI | TROY, CITY OF | 2601800004E | 23-MAY-2001 | 01-05-2051A | 02
05 | MI | TROY, CITY OF | 2601800004E | 25-MAY-2001 | 01-05-2049A | 02
05 | MI | TROY, CITY OF | 2601800004E | 25-MAY-2001 | 01-05-2049A | 02
05 | MI | TROY, CITY OF | 2601800004E | 27-APR-2001 | 01-05-1663A | 02
05 | MI | TROY, CITY OF | 2601800004E | 28-FEB-2001 | 01-05-0902A | 02
05 | MI | TROY, CITY OF | 2601800004E | 28-FEB-2001 | 01-05-0902A | 02
05 | MI | TROY, CITY OF | 2601800006E | 06-JUN-2001 | 01-05-2103A | 02
05 | MI | TROY, CITY OF | 2601800006E | 06-JUN-2001 | 01-05-2103A | 02
05 | MI | TROY, CITY OF | 2601800006E | 21-FEB-2001 | 01-05-0088A | 02
05 | MI | TROY, CITY OF | 2601800006E | 21-FEB-2001 | 01-05-0088A | 02
05 | MI | UNION, TOWNSHIP OF | 2608050025A | 08-JAN-2001 | 00-05-5418A | 02
05 | MI | UNION, TOWNSHIP OF | 2608050025A | 20-APR-2001 | 01-05-086A | 02
05 | MI | WARREN, CITY OF | 2601290010C | 25-APR-2001 | 01-05-706A | 02
05 | MI | WASHINGTON, TOWNSHIP OF | 2604470015A | 23-FEB-2001 | 00-05-3676A | 02
05 | MI | WASHINGTON, TOWNSHIP OF | 2604470015A | 23-FEB-2001 | 00-05-3676A | 02
05 | MI | WATERFORD, CHARTER TOWNSHIP OF | 2602840010B | 17-JAN-2001 | 01-05-0558A | 02
05 | MI | WATERFORD, CHARTER TOWNSHIP OF | 2602840010B | 17-JAN-2001 | 01-05-0558A | 02
05 | MI | WATERFORD, CHARTER TOWNSHIP OF | 2602840010B | 23-MAY-2001 | 01-05-2042A | 02
05 | MI | WATERFORD, CHARTER TOWNSHIP OF | 2602840010B | 23-MAY-2001 | 01-05-2042A | 02
05 | MI | WATERFORD, CHARTER TOWNSHIP OF | 2602840010B | 27-APR-2001 | 01-05-1674A | 02
05 | MI | WHITE LAKE, TOWNSHIP OF | 2604790005B | 07-FEB-2001 | 01-05-792A | 02
05 | MI | WHITE LAKE, TOWNSHIP OF | 2604790005B | 10-JAN-2001 | 00-05-6092A | 02
05 | MI | WHITE LAKE, TOWNSHIP OF | 2604790010B | 21-FEB-2001 | 01-05-0923A | 02
05 | MI | WHITE LAKE, TOWNSHIP OF | 2604790010B | 21-FEB-2001 | 01-05-0923A | 02
05 | MI | WHITE LAKE, TOWNSHIP OF | 2604790010B | 29-JUN-2001 | 01-05-2354A | 02
05 | MI | WHITE LAKE, TOWNSHIP OF | 2604790010B | 29-JUN-2001 | 01-05-2354A | 02
05 | MI | WHITEWATER, TOWNSHIP OF | 2607940025A | 16-FEB-2001 | 01-05-147A | 02
05 | MI | WOLVERINE LAKE, VILLAGE OF | 260480 A | 01-JUN-2001 | 01-05-1972A | 02
05 | MI | WOLVERINE LAKE, VILLAGE OF | 2604809999A | 26-JAN-2001 | 01-05-0023A | 02
05 | MI | WOLVERINE LAKE, VILLAGE OF | 2604809999A | 26-JAN-2001 | 01-05-0023A | 02
05 | MI | WOLVERINE LAKE, VILLAGE OF | 260480A | 01-JUN-2001 | 01-05-1972A | 02
05 | MI | WOLVERINE LAKE, VILLAGE OF | 260480A01 | 28-MAR-2001 | 01-05-1239A | 02
05 | MI | WOODHAVEN, CITY OF | 2607300005A | 14-MAR-2001 | 01-05-467A | 02
05 | MI | WYOMING, CITY OF | 2601110015C | 02-FEB-2001 | 01-05-0243A | 01
05 | MI | WYOMING, CITY OF | 2601110015C | 02-FEB-2001 | 01-05-0243A | 01
05 | MN | AITKIN COUNTY | 2706280205C | 02-MAY-2001 | 01-05-1951A | 02
05 | MN | ALBERT LEA, CITY OF | 2701350001B | 14-FEB-2001 | 01-05-1006A | 02
05 | MN | ANDOVER, CITY OF | 2706890015B | 13-APR-2001 | 01-05-1049A | 02
05 | MN | ANDOVER, CITY OF | 2706890015B | 25-APR-2001 | 01-05-177A | 02
05 | MN | ANOKA COUNTY | 2700050050A | 09-MAR-2001 | 01-05-974A | 02
05 | MN | ANOKA COUNTY | 2700050050A | 09-MAR-2001 | 01-05-983A | 02
05 | MN | AUSTIN, CITY OF | 2752280004B | 16-FEB-2001 | 01-05-826A | 02
05 | MN | BENTON COUNTY | 2700190025B | 19-JAN-2001 | 00-05-5520A | 02
05 | MN | BENTON COUNTY | 2700190050B | 02-FEB-2001 | 01-05-704A | 02
05 | MN | BENTON COUNTY | 2700190100C | 02-FEB-2001 | 01-05-704A | 02
05 | MN | BLAINE, CITY OF |  | 17-JAN-2001 | 01-05-0101A | 02
05 | MN | BLAINE, CITY OF | 2700070005C | 07-MAR-2001 | 01-05-1165A | 02
05 | MN | BLAINE, CITY OF | 2700070005C | 07-MAR-2001 | 01-05-1165A | 02
05 | MN | BLAINE, CITY OF | 2700070005C | 09-MAR-2001 | 01-05-1162A | 02
05 | MN | BLAINE, CITY OF | 2700070005C | 09-MAR-2001 | 01-05-1162A | 02
05 | MN | BLAINE, CITY OF | 2700070005C | 13-JUN-2001 | 00-05-4972A | 01
05 | MN | BLAINE, CITY OF | 2700070005C | 13-JUN-2001 | 01-05-2374A | 02
05 | MN | BLAINE, CITY OF | 2700070005C | 13-JUN-2001 | 01-05-2374A | 02
05 | MN | BLAINE, CITY OF | 2700070005C | 16-MAR-2001 | 01-05-1420A | 02
05 | MN | BLAINE, CITY OF | 2700070005C | 16-MAY-2001 | 01-05-1422A | 01
05 | MN | BLAINE, CITY OF | 2700070005C | 17-JAN-2001 | 01-05-0101A | 02
05 | MN | BLAINE, CITY OF | 2700070005C | 21-FEB-2001 | 01-05-0033A | 02
05 | MN | BLAINE, CITY OF | 2700070005C | 21-FEB-2001 | 01-05-0033A | 02
05 | MN | BLAINE, CITY OF | 2700070005C | 21-MAR-2001 | 01-05-1156A | 01
05 | MN | BLAINE, CITY OF | 2700070005C | 21-MAR-2001 | 01-05-1156A | 01
05 | MN | BLAINE, CITY OF | 2700070005C | 27-APR-2001 | 01-05-709A | 01
05 | MN | BLAINE, CITY OF | 2700070010C | 09-MAR-2001 | 01-05-879A | 02
05 | MN | BROOKLYN PARK, CITY OF | 2701520002C | 07-FEB-2001 | 01-05-0573A | 02
05 | MN | BROOKLYN PARK, CITY OF | 2701520002C | 07-FEB-2001 | 01-05-0573A | 02
05 | MN | BROOKLYN PARK, CITY OF | 2701520004C | 28-FEB-2001 | 01-05-0043A | 01
05 | MN | BROOKLYN PARK, CITY OF | 2701520004C | 28-FEB-2001 | 01-05-0043A | 01
05 | MN | CARVER COUNTY | 2700490105C | 13-JUN-2001 | 01-05-2421A | 02
05 | MN | CENTERVILLE, CITY OF | 2700080001C | 30-MAY-2001 | 01-05-1950A | 02
05 | MN | CHISAGO COUNTY | 2706820125B | 08-JUN-2001 | 01-05-2324A | 02
05 | MN | COON RAPIDS,CITY OF | 2700110002A | 08-JAN-2001 | 01-05-140A | 02
05 | MN | COON RAPIDS,CITY OF | 2700110002A | 26-JAN-2001 | 00-05-5664A | 08
05 | MN | COON RAPIDS,CITY OF | 2700110002A | 27-JUN-2001 | 01-05-2639A | 02
05 | MN | COON RAPIDS,CITY OF | 2700110002A | 28-MAR-2001 | 01-05-1204A | 02
05 | MN | CORCORAN, CITY OF | 2701550005C | 31-JAN-2001 | 01-05-0670A | 02
05 | MN | CORCORAN, CITY OF | 2701550005C | 31-JAN-2001 | 01-05-0670A | 02
05 | MN | CROOKSTON, CITY OF | 2703640002C | 30-MAR-2001 | 01-05-889A | 02
05 | MN | CROOKSTON, CITY OF | 2703640002C | 30-MAY-2001 | 01-05-2253A | 02
05 | MN | CROSSLAKE, CITY OF | 27009508B | 27-JUN-2001 | 01-05-2533A | 02
05 | MN | CROSSLAKE, CITY OF | 27009510B | 16-MAY-2001 | 01-05-2016A | 02
05 | MN | CROW WING COUNTY | 2700910025B | 20-APR-2001 | 01-05-1380A | 02
05 | MN | CROW WING COUNTY | 2700910025B | 30-MAY-2001 | 01-05-2145A | 02
05 | MN | CROW WING COUNTY | 2700910050B | 28-MAR-2001 | 01-05-797A | 02
05 | MN | CROW WING COUNTY | 2700910200B | 07-MAR-2001 | 01-05-1033A | 02
05 | MN | CROW WING COUNTY | 2700910200B | 26-JAN-2001 | 01-05-509A | 02
05 | MN | CROW WING COUNTY | 2700910250B | 18-APR-2001 | 01-05-1464A | 02
05 | MN | DULUTH, CITY OF | 2704210025C | 26-JAN-2001 | 00-05-5498A | 17
05 | MN | EAST GRAND FORKS, CITY OF | 2705030175B | 24-JAN-2001 | 01-05-0696X | 02
05 | MN | EAST GRAND FORKS, CITY OF | 2752360005C | 13-APR-2001 | 01-05-1563A | 02
05 | MN | EDEN PRAIRIE, CITY OF | 2701590005C | 28-FEB-2001 | 01-05-0451A | 02
05 | MN | EDEN PRAIRIE, CITY OF | 2701590005C | 28-FEB-2001 | 01-05-0451A | 02
05 | MN | ELGIN, CITY OF | 27157C0320D | 11-APR-2001 | 01-05-844A | 02
05 | MN | FARIBAULT, CITY OF | 2704040002C | 04-APR-2001 | 01-05-1057A | 02
05 | MN | FARMINGTON, CITY OF | 2701040002C | 27-JUN-2001 | 01-05-2514A | 02
05 | MN | GOLDEN VALLEY, CITY OF | 2701620002B | 29-JUN-2001 | 01-05-1707A | 02
05 | MN | GOLDEN VALLEY, CITY OF | 2701620002B | 29-JUN-2001 | 01-05-1707A | 02
05 | MN | GOODHUE COUNTY | 2701400125A | 16-MAR-2001 | 01-05-1350A | 02
05 | MN | GOODHUE COUNTY | 2701400125A | 16-MAY-2001 | 01-05-1949A | 02
05 | MN | HAM LAKE, CITY OF |  | 02-MAR-2001 | 01-05-300A | 02
05 | MN | HAM LAKE, CITY OF | 2706740005B | 25-APR-2001 | 01-05-1072A | 02
05 | MN | HAM LAKE, CITY OF | 2706740005B | 27-APR-2001 | 01-05-1821A | 02
05 | MN | HAM LAKE, CITY OF | 2706740010B | 18-APR-2001 | 01-05-1279A | 02
05 | MN | HAM LAKE, CITY OF | 2706740010B | 25-MAY-2001 | 01-05-2202A | 02
05 | MN | HAM LAKE, CITY OF | 2706740010B | 25-MAY-2001 | 01-05-281A | 02
05 | MN | HASTINGS,CITY OF | 2701050005D | 19-JAN-2001 | 01-05-316A | 02
05 | MN | HASTINGS,CITY OF | 2701050005D | 26-JAN-2001 | 01-05-175A | 02
05 | MN | HERMANTOWN, CITY OF | 2707080005B | 16-MAR-2001 | 01-05-1077A | 02
05 | MN | HOPKINS, CITY OF | 2701660001C | 13-JUN-2001 | 01-05-2307A | 02
05 | MN | HOPKINS, CITY OF | 2701660001C | 13-JUN-2001 | 01-05-2307A | 02
05 | MN | HOUSTON COUNTY | 2701900055B | 09-MAR-2001 | 01-05-0337A | 02
05 | MN | HOUSTON COUNTY * | 2701900055B | 09-MAR-2001 | 01-05-0337A | 02
05 | MN | ISANTI COUNTY | 2701970010A | 11-MAY-2001 | 01-05-1355A | 02
05 | MN | ISANTI COUNTY | 2701970010A | 28-MAR-2001 | 01-05-0427A | 02
05 | MN | ISANTI COUNTY | 2701970025B | 28-MAR-2001 | 01-05-0427A | 02
05 | MN | ISANTI COUNTY | 2701970035B | 13-APR-2001 | 01-05-1548A | 02
05 | MN | ISANTI COUNTY | 2701970045C | 30-MAY-2001 | 01-05-2122A | 02
05 | MN | ISANTI COUNTY | 2701970055A | 11-MAY-2001 | 01-05-1197A | 02
05 | MN | ISANTI COUNTY | 2701970060B | 04-MAY-2001 | 01-05-999A | 02
05 | MN | ISANTI COUNTY | 2701970060B | 09-MAR-2001 | 01-05-230A | 02
05 | MN | ISANTI COUNTY * | 2701970010A | 28-MAR-2001 | 01-05-0427A | 02
05 | MN | ITASCA COUNTY | 2702000775A | 04-APR-2001 | 01-05-1538A | 02
05 | MN | ITASCA COUNTY | 2702000800A | 06-JUN-2001 | 01-05-110A | 02
05 | MN | JACKSON COUNTY | 2706320125B | 26-JAN-2001 | 00-05-5894A | 02
05 | MN | KANABEC COUNTY | 2702140250A | 16-MAR-2001 | 01-05-336A | 17
05 | MN | KOOCHICHING COUNTY | 2702330006B | 11-APR-2001 | 01-05-1495A | 02
05 | MN | KOOCHICHING COUNTY | 2702330006B | 11-APR-2001 | 01-05-1496A | 02
05 | MN | KOOCHICHING COUNTY | 2702330006B | 24-JAN-2001 | 01-05-018A | 02
05 | MN | KOOCHICHING COUNTY | 2702330006B | 24-JAN-2001 | 01-05-127A | 02
05 | MN | KOOCHICHING COUNTY | 2702330006B | 25-MAY-2001 | 01-05-1945A | 02
05 | MN | LAKE ELMO, CITY OF | 2705050010B | 09-MAY-2001 | 01-05-1994A | 02
05 | MN | LAKEVILLE, CITY OF | 2701070004C | 09-MAR-2001 | 01-05-621A | 02
05 | MN | LAKEVILLE, CITY OF | 2701070004C | 26-JAN-2001 | 00-05-5426A | 02
05 | MN | LE SUEUR COUNTY | 27079C0265D | 09-MAR-2001 | 01-05-1058A | 02
05 | MN | LINO LAKES, CITY OF | 2700150010B | 13-APR-2001 | 01-05-1545A | 02
05 | MN | LITTLE CANADA, CITY OF | 2703770002A | 09-MAY-2001 | 01-05-1532A | 02
05 | MN | MANTORVILLE, CITY OF | 2705850001B | 11-APR-2001 | 01-05-1005A | 02
05 | MN | MILLE LACS COUNTY | 2706240200B | 13-JUN-2001 | 01-05-2292A | 02
05 | MN | MINNETONKA, CITY OF | 2701730001C | 20-APR-2001 | 01-05-0935A | 17
05 | MN | MINNETONKA, CITY OF | 2701730001C | 20-APR-2001 | 01-05-0935A | 17
05 | MN | MOORHEAD, CITY OF | 2752440005D | 16-MAR-2001 | 01-05-1104A | 02
05 | MN | MOORHEAD, CITY OF | 2752440010D | 13-APR-2001 | 01-05-608A | 02
05 | MN | MOORHEAD, CITY OF | 2752440010D | 30-MAR-2001 | 01-05-1345A | 17
05 | MN | MORRISON COUNTY | 2706170290B | 16-MAR-2001 | 01-05-021A | 01
05 | MN | MOUNDS VIEW, CITY OF | 2703790001C | 30-MAR-2001 | 00-05-5876A | 02
05 | MN | NORMAN COUNTY | 27107C0215D | 08-JAN-2001 | 01-05-058A | 02
05 | MN | NORTHFIELD, CITY OF | 2706460150B | 09-MAY-2001 | 00-05-5486A | 02
05 | MN | PINE COUNTY | 2707040340B | 04-APR-2001 | 01-05-1178A | 02
05 | MN | POLK COUNTY | 2705030025B | 27-JUN-2001 | 01-05-2662A | 02
05 | MN | PRIOR LAKE, CITY OF | 2704320004C | 04-MAY-2001 | 01-05-298A | 01
05 | MN | PRIOR LAKE, CITY OF | 2704320004C | 26-JAN-2001 | 01-05-137A | 02
05 | MN | PRIOR LAKE, CITY OF | 2704320004C | 27-JUN-2001 | 01-05-2115A | 02
05 | MN | PRIOR LAKE, CITY OF | 2704320004C | 27-JUN-2001 | 01-05-2425A | 02
05 | MN | RICE COUNTY | 2706460025C | 02-FEB-2001 | 01-05-623A | 02
05 | MN | RICE COUNTY | 2706460025C | 02-FEB-2001 | 01-05-642A | 02
05 | MN | RICE COUNTY | 2706460025C | 09-MAR-2001 | 01-05-477A | 02
05 | MN | RICE COUNTY | 2706460025C | 13-APR-2001 | 01-05-1998A | 02
05 | MN | RICE COUNTY | 2706460025C | 14-FEB-2001 | 01-05-1059A | 02
05 | MN | RICE COUNTY | 2706460025C | 14-FEB-2001 | 01-05-622A | 02
05 | MN | RICE COUNTY | 2706460025C | 26-JAN-2001 | 01-05-644A | 02
05 | MN | RICE COUNTY | 2706460075B | 26-JAN-2001 | 01-05-466A | 02
05 | MN | ROCHESTER, CITY OF | 27109C0301E | 25-APR-2001 | 01-05-1695A | 01
05 | MN | ROCHESTER, CITY OF | 27109C0306E | 29-JUN-2001 | 00-05-4108A | 01
05 | MN | ROCK COUNTY | 27064223B | 02-MAY-2001 | 01-05-970A | 02
05 | MN | ROCKFORD, CITY OF | 2701820001C | 13-APR-2001 | 01-05-1533A | 02
05 | MN | ROSEAU COUNTY | 2706330200C | 26-JAN-2001 | 00-05-5614A | 02
05 | MN | SAUK CENTRE, CITY OF | 2704590001B | 21-FEB-2001 | 01-05-472A | 02
05 | MN | SHERBURNE COUNTY | 27141C0150E | 18-APR-2001 | 01-05-1096A | 02
05 | MN | SHERBURNE COUNTY | 27141C0150E | 26-JAN-2001 | 01-05-341A | 02
05 | MN | SHERBURNE COUNTY | 27141C0205E | 29-JUN-2001 | 01-05-2232A | 02
05 | MN | SHERBURNE COUNTY | 27141C0240E | 09-MAR-2001 | 01-05-378A | 17
05 | MN | SHERBURNE COUNTY | 27141C0265E | 14-MAR-2001 | 01-05-640A | 02
05 | MN | SHERBURNE COUNTY | 27141C0265E | 28-MAR-2001 | 01-05-136A | 02
05 | MN | SHOREVIEW, CITY OF | 2703840002B | 09-MAY-2001 | 01-05-1311A | 01
05 | MN | ST. LOUIS PARK, CITY OF | 2701840005B | 13-APR-2001 | 01-05-586A | 02
05 | MN | ST. LOUIS PARK, CITY OF | 2701840005B | 21-FEB-2001 | 01-05-0730A | 02
05 | MN | ST. LOUIS PARK, CITY OF | 2701840005B | 21-FEB-2001 | 01-05-0730A | 02
05 | MN | STEARNS COUNTY | 2705460085A | 09-MAY-2001 | 01-05-1462A | 01
05 | MN | STEARNS COUNTY | 2705460255B | 09-FEB-2001 | 01-05-703A | 02
05 | MN | STEARNS COUNTY | 2705460315B | 23-MAY-2001 | 01-05-1051A | 02
05 | MN | WABASHA COUNTY | 27157C0200D | 18-APR-2001 | 01-05-1483A | 02
05 | MN | WARROAD, CITY OF | 2704150001B | 04-APR-2001 | 01-05-1015A | 01
05 | MN | WARROAD, CITY OF | 2704150001B | 09-MAR-2001 | 01-05-1215A | 02
05 | MN | WASHINGTON COUNTY | 2704990125B | 30-MAY-2001 | 01-05-1379A | 02
05 | MN | WHITE BEAR,TOWNSHIP OF | 2706880005B | 16-MAY-2001 | 01-05-887A | 01
05 | MN | WHITE BEAR,TOWNSHIP OF | 2706880005B | 19-JAN-2001 | 01-05-319A | 02
05 | MN | WRIGHT COUNTY | 2705340027B | 27-JUN-2001 | 01-05-2643A | 02
05 | MN | WRIGHT COUNTY | 2705340028C | 27-JUN-2001 | 01-05-2302A | 02
05 | MN | WRIGHT COUNTY | 2705340042C | 07-MAR-2001 | 00-05-6254A | 17
05 | OH | AMHERST, CITY OF | 3903470005B | 12-JAN-2001 | 01-05-155A | 02
05 | OH | ARCANUM, VILLAGE OF | 3906840001B | 08-JUN-2001 | 01-05-2187A | 02
05 | OH | ARCANUM, VILLAGE OF | 3906840001B | 11-APR-2001 | 01-05-888A | 02
05 | OH | ARCANUM, VILLAGE OF | 3906840001B | 17-JAN-2001 | 01-05-593A | 02
05 | OH | ARCANUM, VILLAGE OF | 3906840001B | 20-JUN-2001 | 01-05-2186A | 17
05 | OH | ARCANUM, VILLAGE OF | 3906840001B | 20-JUN-2001 | 01-05-2205A | 02
05 | OH | AUGLAIZE COUNTY | 39011C0080C | 17-JAN-2001 | 01-05-630A | 02
05 | OH | AUGLAIZE COUNTY | 39011C0080C | 17-JAN-2001 | 01-05-701A | 02
05 | OH | AUGLAIZE COUNTY | 39011C0095C | 10-JAN-2001 | 99-05-275P | 05
05 | OH | AUGLAIZE COUNTY * | 39011C0095C | 10-JAN-2001 | 99-05-275P | 05
05 | OH | AVON LAKE, CITY OF | 39060202B | 28-MAR-2001 | 01-05-1253A | 02
05 | OH | AVON, CITY OF | 3903480005C | 23-MAY-2001 | 01-05-985A | 02
05 | OH | AVON, CITY OF | 3903480005C | 27-JUN-2001 | 01-05-2394A | 02
05 | OH | BEAVERCREEK, CITY OF | 3908760002B | 01-JUN-2001 | 01-05-2482A | 17
05 | OH | BELLEFONTAINE, CITY OF | 3903400001C | 02-FEB-2001 | 01-05-1024A | 08
05 | OH | BUCKEYE LAKE, VILLAGE OF | 3908820001A | 23-MAY-2001 | 01-05-2110A | 02
05 | OH | CANAL WINCHESTER, VILLAGE OF | 39049C0376H | 08-MAR-2001 | 00-05-351P | 05
05 | OH | CANAL WINCHESTER, VILLAGE OF | 39049C0376H | 08-MAR-2001 | 00-05-351P | 05
05 | OH | CANAL WINCHESTER, VILLAGE OF | 39049C0377H | 08-MAR-2001 | 00-05-351P | 05
05 | OH | CANAL WINCHESTER, VILLAGE OF | 39049C0378G | 08-MAR-2001 | 00-05-351P | 05
05 | OH | CANAL WINCHESTER, VILLAGE OF | 39049C0379G | 08-MAR-2001 | 00-05-351P | 05
05 | OH | CANAL WINCHESTER, VILLAGE OF | 39049C0379G | 09-MAY-2001 | 01-05-1870A | 02
05 | OH | CARROLL COUNTY | 3907630075B | 10-JAN-2001 | 01-05-068A | 02
05 | OH | CENTERVILLE, CITY OF | 3904080003C | 16-MAY-2001 | 01-05-2270A | 02
05 | OH | CHARDON, VILLAGE OF | 3901910005C | 09-FEB-2001 | 01-05-095A | 02
05 | OH | CLEVELAND, CITY OF | 3901040005B | 08-JAN-2001 | 00-05-4322A | 02
05 | OH | COLUMBUS, CITY OF | 39049C0245G | 28-MAR-2001 | 01-05-1294A | 02
05 | OH | COLUMBUS, CITY OF | 39049C0270G | 14-FEB-2001 | 01-05-657A | 01
05 | OH | COLUMBUS, CITY OF | 39049C0290G | 16-MAR-2001 | 01-05-1180A | 02
05 | OH | COLUMBUS, CITY OF | 39049C0290G | 24-JAN-2001 | 01-05-188A | 02
05 | OH | CRAWFORD COUNTY | 3908110003B | 27-JUN-2001 | 01-05-2576A | 02
05 | OH | DEFIANCE COUNTY | 3901430120B | 08-JAN-2001 | 01-05-054A | 02
05 | OH | DEFIANCE COUNTY | 3901430140B | 29-JUN-2001 | 01-05-2030A | 02
05 | OH | DELAWARE COUNTY | 39041C0216J | 28-FEB-2001 | 01-05-609A | 02
05 | OH | DUBLIN, CITY OF | 39049C0018H | 03-JAN-2001 | 01-05-355A | 02
05 | OH | DUBLIN, CITY OF | 39049C0018H | 09-MAR-2001 | 01-05-1063A | 02
05 | OH | EAST PALESTINE, CITY OF | 390079B01 | 30-MAR-2001 | 00-05-2618A | 02
05 | OH | ERIE COUNTY | 3901530070B | 09-FEB-2001 | 01-05-697A | 08
05 | OH | FAIRFAX, VILLAGE OF | 3902150001A | 07-FEB-2001 | 00-05-5644A | 08
05 | OH | FAIRFIELD COUNTY | 3901580120D | 28-MAR-2001 | 01-05-1202A | 02
05 | OH | FINDLAY, CITY | 3902440005C | 03-JAN-2001 | 01-05-022A | 02
05 | OH | FORT RECOVERY, VILLAGE OF |  | 19-FEB-2001 | 01-05-936P | 05
05 | OH | FORT RECOVERY, VILLAGE OF | 3903920125B | 19-FEB-2001 | 01-05-936P | 05
05 | OH | FRANKLIN COUNTY | 39049C0195G | 21-MAR-2001 | 01-05-1027A | 02
05 | OH | FRANKLIN COUNTY | 39049C0376H | 08-MAR-2001 | 00-05-351P | 05
05 | OH | FRANKLIN COUNTY | 39049C0377H | 08-MAR-2001 | 00-05-351P | 05
05 | OH | FRANKLIN COUNTY | 39049C0378G | 08-MAR-2001 | 00-05-351P | 05
05 | OH | FRANKLIN COUNTY | 39049C0379G | 08-MAR-2001 | 00-05-351P | 05
05 | OH | FRANKLIN COUNTY* | 39049C0226G | 20-APR-2001 | 00-05-6142A | 02
05 | OH | FRANKLIN COUNTY* | 39049C0376H | 08-MAR-2001 | 00-05-351P | 05
05 | OH | GAHANNA, CITY OF | 38049C0186G | 07-FEB-2001 | 01-05-780A | 02
05 | OH | GAHANNA, CITY OF | 39049C0186G | 11-APR-2001 | 01-05-1536A | 02
05 | OH | GALENA, VILLAGE OF | 39041C0235J | 18-FEB-2001 | 01-05-225P | 05
05 | OH | GALENA, VILLAGE OF | 39041C0235J | 18-FEB-2001 | 01-05-225P | 05
05 | OH | GALENA, VILLAGE OF | 39041C0255J | 18-FEB-2001 | 01-05-225P | 05
05 | OH | GEAUGA COUNTY | 3901900100B | 23-JUN-2001 | 01-05-1977A | 02
05 | OH | GRANDVIEW HEIGHTS, CITY OF | 39049C0231G | 11-APR-2001 | 01-05-1075A | 02
05 | OH | GROVE CITY, CITY OF | 39049C0239G | 07-FEB-2001 | 01-05-009A | 01
05 | OH | GROVE CITY, CITY OF | 39049C0239G | 31-JAN-2001 | 01-05-386A | 02
05 | OH | GROVE CITY, CITY OF | 39049C0329G | 26-MAR-2001 | 00-05-353P | 05
05 | OH | GROVE CITY, CITY OF | 39049C0329G | 26-MAR-2001 | 00-05-353P | 05
05 | OH | GUERNSEY COUNTY | 39059C0150C | 16-MAY-2001 | 01-05-1196A | 02
05 | OH | HAMILTON COUNTY | 3902040040C | 07-FEB-2001 | 01-05-0296A | 02
05 | OH | HAMILTON COUNTY | 3902040040C | 23-MAY-2001 | 01-05-1710A | 02
05 | OH | HAMILTON COUNTY | 3902040040C | 25-MAY-2001 | 01-05-1841A | 02
05 | OH | HAMILTON COUNTY | 3902040050B | 11-MAY-2001 | 01-05-2052A | 02
05 | OH | HAMILTON COUNTY * | 3902040040C | 07-FEB-2001 | 01-05-0296A | 02
05 | OH | HAMILTON COUNTY * | 3902040040C | 23-MAY-2001 | 01-05-1710A | 02
05 | OH | HAMILTON COUNTY * | 3902040050B | 11-MAY-2001 | 01-05-2052A | 02
05 | OH | HOCKING COUNTY | 3902720075C | 11-APR-2001 | 01-05-323A | 02
05 | OH | HOCKING COUNTY | 3902720100C | 11-APR-2001 | 01-05-252A | 02
05 | OH | KETTERING, CITY OF | 3904120010B | 14-JAN-2001 | 00-05-231P | 05
05 | OH | KETTERING, CITY OF | 3904120010B | 14-JAN-2001 | 00-05-231P | 05
05 | OH | KETTERING, CITY OF | 3904120020B | 21-MAR-2001 | 01-05-1191A | 02
05 | OH | KETTERING, CITY OF | 3904120020B | 21-MAR-2001 | 01-05-1193A | 02
05 | OH | KETTERING, CITY OF | 3904120020B | 23-MAR-2001 | 01-05-1220A | 02
05 | OH | LAKE COUNTY | 3907710027C | 06-APR-2001 | 01-05-1326A | 02
05 | OH | LAKE COUNTY | 3907710051C | 25-MAY-2001 | 00-05-163P | 05
05 | OH | LAKE COUNTY | 3907710053C | 25-MAY-2001 | 00-05-163P | 05
05 | OH | LAKE COUNTY * | 3907710051C | 25-MAY-2001 | 00-05-163P | 05
05 | OH | LAWRENCE COUNTY | 3903250050B | 23-MAY-2001 | 01-05-1991A | 02
05 | OH | LAWRENCE COUNTY | 3903250185B | 23-MAY-2001 | 01-05-2152A | 02
05 | OH | LAWRENCE COUNTY * | 3903250050B | 23-MAY-2001 | 01-05-1991A | 02
05 | OH | LAWRENCE COUNTY * | 3903250185B | 23-MAY-2001 | 01-05-2152A | 02
05 | OH | LICKING COUNTY | 3903280125B | 15-JUN-2001 | 01-05-2492A | 02
05 | OH | LICKING COUNTY | 3903280125B | 17-JAN-2001 | 00-05-6182A | 08
05 | OH | LICKING COUNTY | 3903280125B | 25-APR-2001 | 01-05-1465A | 02
05 | OH | LICKING COUNTY | 3903280125B | 31-JAN-2001 | 01-05-152A | 02
05 | OH | LOGAN COUNTY | 3907720025C | 03-JAN-2001 | 01-05-429A | 02
05 | OH | LOGAN COUNTY | 3907720025C | 13-JUN-2001 | 01-05-2315A | 02
05 | OH | LOGAN COUNTY | 3907720025C | 15-JUN-2001 | 01-05-2471A | 02
05 | OH | LORAIN COUNTY | 3903460105B | 16-MAR-2001 | 01-05-1009A | 02
05 | OH | LORAIN COUNTY | 3903460105B | 18-APR-2001 | 01-05-1367A | 02
05 | OH | LOUISVILLE, CITY OF | 3905160002D | 28-MAR-2001 | 01-05-1258A | 02
05 | OH | LOUISVILLE, CITY OF | 3905160003D | 02-MAR-2001 | 01-05-1022A | 02
05 | OH | LUCAS COUNTY | 3903590042D | 21-MAR-2001 | 01-05-1114A | 02
05 | OH | LUCAS COUNTY | 39095C0034D | 21-FEB-2001 | 01-05-874A | 02
05 | OH | LUCAS COUNTY | 39095C0042D | 11-APR-2001 | 01-05-1549A | 02
05 | OH | LUCAS COUNTY | 39095C0042D | 11-APR-2001 | 01-05-1553A | 02
05 | OH | LUCAS COUNTY | 39095C0042D | 16-MAR-2001 | 01-05-1111A | 02
05 | OH | LUCAS COUNTY | 39095C0042D | 21-MAR-2001 | 01-05-1105A | 02
05 | OH | LUCAS COUNTY | 39095C0042D | 21-MAR-2001 | 01-05-1110A | 02
05 | OH | LUCAS COUNTY | 39095C0042D | 21-MAR-2001 | 01-05-1112A | 02
05 | OH | LUCAS COUNTY | 39095C0042D | 21-MAR-2001 | 01-05-1113A | 02
05 | OH | LUCAS COUNTY | 39095C0042D | 21-MAR-2001 | 01-05-1115A | 02
05 | OH | LUCAS COUNTY | 39095C0042D | 21-MAR-2001 | 01-05-1116A | 02
05 | OH | LUCAS COUNTY | 39095C0061D | 06-JUN-2001 | 01-05-2222A | 02
05 | OH | LUCAS COUNTY | 39095C0061D | 11-APR-2001 | 01-05-1498A | 02
05 | OH | LUCAS COUNTY | 39095C0061D | 11-APR-2001 | 01-05-1527A | 02
05 | OH | LUCAS COUNTY | 39095C0061D | 13-JUN-2001 | 01-05-2035A | 02
05 | OH | LUCAS COUNTY | 39095C0061D | 21-MAR-2001 | 01-05-1105A | 02
05 | OH | LUCAS COUNTY | 39095C0061D | 21-MAR-2001 | 01-05-1115A | 02
05 | OH | LUCAS COUNTY | 39095C0061D | 21-MAR-2001 | 01-05-1116A | 02
05 | OH | LUCAS COUNTY | 39095C0061D | 28-MAR-2001 | 01-05-1302A | 02
05 | OH | LUCAS COUNTY | 39095C0062D | 11-MAY-2001 | 01-05-1711A | 02
05 | OH | LUCAS COUNTY | 39095C0062D | 20-JUN-2001 | 01-05-2509A | 02
05 | OH | LUCAS COUNTY | 39095C0063D | 06-APR-2001 | 01-05-010A | 02
05 | OH | LUCAS COUNTY | 39095C0140D | 19-JAN-2001 | 00-05-4432A | 02
05 | OH | LUCAS COUNTY | 39095C0145D | 19-JAN-2001 | 00-05-4432A | 02
05 | OH | LUCAS COUNTY* | 39095C0062D | 11-MAY-2001 | 01-05-1711A | 02
05 | OH | LUCAS COUNTY* | 39095C0140D | 19-JAN-2001 | 00-05-4432A | 02
05 | OH | MARION COUNTY | 39101C0058C | 23-FEB-2001 | 01-05-488A | 02
05 | OH | MARION COUNTY | 39101C0075C | 20-APR-2001 | 01-05-1273A | 02
05 | OH | MARION COUNTY | 39101C0100C | 14-FEB-2001 | 01-05-050A | 02
05 | OH | MASON, CITY OF | 3905590005C | 11-APR-2001 | 01-05-885A | 01
05 | OH | MAUMEE, CITY OF | 39095C0233D | 17-MAY-2001 | 01-05-2045P | 05
05 | OH | MAUMEE, CITY OF | 39095C0233D | 17-MAY-2001 | 01-05-2045P | 05
05 | OH | MAUMEE, CITY OF | 39095C0234D | 17-MAY-2001 | 01-05-2045P | 05
05 | OH | MAUMEE, CITY OF | 39095C0245D | 17-MAY-2001 | 01-05-2045P | 05
05 | OH | MEIGS COUNTY | 3903870125B | 14-FEB-2001 | 01-05-0570A | 02
05 | OH | MEIGS COUNTY * | 3903870125B | 14-FEB-2001 | 01-05-0570A | 02
05 | OH | MERCER COUNTY | 3903920100B | 16-MAR-2001 | 01-05-1400A | 02
05 | OH | MERCER COUNTY | 3903920100B | 21-FEB-2001 | 01-05-0939A | 02
05 | OH | MERCER COUNTY | 3903920100B | 23-FEB-2001 | 01-05-1137A | 02
05 | OH | MERCER COUNTY | 3903920100B | 23-MAR-2001 | 01-05-1369A | 02
05 | OH | MERCER COUNTY | 3903920100B | 24-JAN-2001 | 01-05-0677A | 02
05 | OH | MERCER COUNTY | 3903920100B | 24-JAN-2001 | 01-05-0732A | 02
05 | OH | MERCER COUNTY * | 3903920100B | 16-MAR-2001 | 01-05-1400A | 02
05 | OH | MERCER COUNTY * | 3903920100B | 21-FEB-2001 | 01-05-0939A | 02
05 | OH | MERCER COUNTY * | 3903920100B | 23-FEB-2001 | 01-05-1137A | 02
05 | OH | MERCER COUNTY * | 3903920100B | 23-MAR-2001 | 01-05-1369A | 02
05 | OH | MERCER COUNTY * | 3903920100B | 24-JAN-2001 | 01-05-0677A | 02
05 | OH | MERCER COUNTY * | 3903920100B | 24-JAN-2001 | 01-05-0732A | 02
05 | OH | METAMORA, VILLAGE OF | 3908400001B | 08-JUN-2001 | 01-05-2179A | 02
05 | OH | METAMORA, VILLAGE OF | 3908400001B | 11-APR-2001 | 01-05-484A | 02
05 | OH | MILFORD, CITY OF | 3902270005D | 08-JUN-2001 | 01-05-1772A | 01
05 | OH | MONTGOMERY COUNTY | 3907750040C | 14-FEB-2001 | 01-05-1382A | 02
05 | OH | MONTGOMERY COUNTY | 3907750040C | 16-FEB-2001 | 01-05-962A | 02
05 | OH | MONTGOMERY COUNTY | 3907750040C | 20-JUN-2001 | 01-05-2338A | 02
05 | OH | MOUNT VERNON, CITY OF | 3903110001B | 09-MAR-2001 | 01-05-1182A | 02
05 | OH | NEW ALBANY, VILLAGE OF | 39049C0180G | 31-JAN-2001 | 01-05-006A | 01
05 | OH | NEW KNOXVILLE, VILLAGE OF | 39011C0095C | 10-JAN-2001 | 99-05-275P | 05
05 | OH | NEW KNOXVILLE, VILLAGE OF | 39011C0095C | 10-JAN-2001 | 99-05-275P | 05
05 | OH | NEW PHILADELPHIA, CITY OF | 3905450005C | 27-JUN-2001 | 01-05-2230A | 02
05 | OH | NEWARK,CITY OF | 3903350002F | 04-APR-2001 | 01-05-1368A | 02
05 | OH | NEWARK,CITY OF | 3903350002F | 14-MAR-2001 | 01-05-1090A | 17
05 | OH | NORTH CANTON, CITY OF | 3905210003B | 09-MAY-2001 | 01-05-2226A | 02
05 | OH | NORTH OLMSTED, CITY OF | 3901200002B | 04-APR-2001 | 01-05-0128A | 02
05 | OH | NORTH OLMSTED, CITY OF | 3901200002B | 04-APR-2001 | 01-05-0128A | 02
05 | OH | NORTH OLMSTED, CITY OF | 3901200002C | 04-APR-2001 | 01-05-0128A | 02
05 | OH | NORTH RIDGEVILLE, CITY OF | 3903520005C | 13-JUN-2001 | 01-05-2541A | 02
05 | OH | OAKWOOD, VILLAGE OF | 3904370001C | 20-JUN-2001 | 01-05-1217A | 02
05 | OH | OLMSTED FALLS, CITY OF | 3906720001B | 27-JUN-2001 | 01-05-2556A | 02
05 | OH | OTTAWA COUNTY | 3904320125B | 02-MAR-2001 | 01-05-976A | 02
05 | OH | OTTAWA COUNTY | 3904320125B | 07-MAR-2001 | 01-05-302A | 01
05 | OH | OTTAWA COUNTY | 3904320125B | 16-FEB-2001 | 01-05-806A | 01
05 | OH | OTTAWA COUNTY * | 3904320125B | 04-APR-2001 | 01-05-1694X | 01
05 | OH | OTTAWA, VILLAGE OF | 3904720002C | 20-APR-2001 | 01-05-2021A | 02
05 | OH | PAULDING COUNTY | 3907770065D | 11-APR-2001 | 01-05-1501A | 02
05 | OH | PAULDING COUNTY | 3907770150D | 09-FEB-2001 | 00-05-5754A | 17
05 | OH | PAULDING COUNTY * | 3907770150D | 09-FEB-2001 | 00-05-5754A | 02
05 | OH | PAULDING COUNTY * | 3907770150D | 09-FEB-2001 | 00-05-5754A | 17
05 | OH | PICKAWAY COUNTY | 39129C0075H | 18-APR-2001 | 01-05-1446A | 02
05 | OH | PORTAGE COUNTY | 390453C35 | 04-APR-2001 | 01-05-1375A | 02
05 | OH | PORTAGE COUNTY | 390453C35 | 25-APR-2001 | 01-05-1292A | 02
05 | OH | PUTNAM COUNTY | 3904650120B | 18-MAY-2001 | 01-05-2040A | 02
05 | OH | RICHLAND COUNTY | 3904760200B | 04-APR-2001 | 01-05-1354A | 02
05 | OH | ROAMING SHORES, VILLAGE OF | 3908850001A | 26-JAN-2001 | 00-05-5126A | 08
05 | OH | SANDUSKY, CITY OF | 39015606B | 06-JUN-2001 | 01-05-1363A | 01
05 | OH | SCIOTO COUNTY | 3904960105B | 16-MAR-2001 | 01-05-1388A | 02
05 | OH | SCIOTO COUNTY | 3904960185B | 09-FEB-2001 | 01-05-0071A | 02
05 | OH | SCIOTO COUNTY * | 3904960105B | 16-MAR-2001 | 01-05-1388A | 02
05 | OH | SCIOTO COUNTY * | 3904960185B | 09-FEB-2001 | 01-05-0071A | 02
05 | OH | SPRINGFIELD, CITY OF | 3907320180A | 11-APR-2001 | 01-05-1476A | 02
05 | OH | STARK COUNTY | 3907800019B | 04-MAY-2001 | 01-05-1499A | 01
05 | OH | STARK COUNTY | 3907800038B | 13-JUN-2001 | 01-05-1529A | 02
05 | OH | STRONGSVILLE, CITY OF | 3901320005B | 02-FEB-2001 | 00-05-5742A | 02
05 | OH | SYLVANIA, CITY OF | 39095C0051D | 16-FEB-2001 | 01-05-775A | 02
05 | OH | TOLEDO, CITY OF | 39095C0059D | 02-MAR-2001 | 01-05-979A | 02
05 | OH | TOLEDO, CITY OF | 39095C0059D | 11-APR-2001 | 01-05-618A | 02
05 | OH | TOLEDO, CITY OF | 39095C0059D | 15-JUN-2001 | 01-05-2402A | 02
05 | OH | TOLEDO, CITY OF | 39095C0059D | 23-MAR-2001 | 01-05-1219A | 02
05 | OH | TOLEDO, CITY OF | 39095C0059D | 26-JAN-2001 | 00-05-6126A | 02
05 | OH | TOLEDO, CITY OF | 39095C0059D | 26-JAN-2001 | 00-05-6126A | 02
05 | OH | TOLEDO, CITY OF | 39095C0077D | 06-JUN-2001 | 01-05-2147A | 02
05 | OH | TOLEDO, CITY OF | 39095C0078D | 29-JUN-2001 | 01-05-2673A | 02
05 | OH | TOLEDO, CITY OF | 39095C0079D | 28-FEB-2001 | 01-05-790A | 02
05 | OH | TOLEDO, CITY OF | 39095C0081D | 09-MAY-2001 | 01-05-2032A | 02
05 | OH | TOLEDO, CITY OF | 39095C0086D | 11-APR-2001 | 01-05-886A | 02
05 | OH | TOLEDO, CITY OF | 39095C0086D | 16-MAY-2001 | 01-05-1953A | 02
05 | OH | TOLEDO, CITY OF | 39095C0088D | 27-JUN-2001 | 01-05-2418A | 02
05 | OH | TOLEDO, CITY OF | 39095C0105D | 27-JUN-2001 | 01-05-2237A | 02
05 | OH | TOLEDO, CITY OF | 39095C0231D | 28-MAR-2001 | 01-05-1288A | 02
05 | OH | TROY, CITY OF | 3904020005B | 11-MAY-2001 | 01-05-1516A | 17
05 | OH | TROY, CITY OF | 3904020005B | 16-MAY-2001 | 01-05-2210A | 02
05 | OH | TUSCARAWAS COUNTY | 3907820055B | 14-MAR-2001 | 01-05-1173A | 02
05 | OH | WASHINGTON COUNTY | 3905660175B | 20-APR-2001 | 01-05-1327A | 02
05 | OH | WASHINGTON COUNTY | 3905660195B | 28-FEB-2001 | 01-05-0671A | 02
05 | OH | WASHINGTON COUNTY * | 3905660195B | 28-FEB-2001 | 01-05-0671A | 02
05 | OH | WATERVILLE, VILLAGE OF | 39095C0405D | 21-FEB-2001 | 01-05-1000A | 02
05 | OH | WEST CARROLLTON, CITY OF | 3904190005C | 16-MAR-2001 | 01-05-1313A | 02
05 | OH | WESTERVILLE, CITY OF |  | 19-JAN-2001 | 01-05-314A | 02
05 | OH | WESTERVILLE, CITY OF | 39041C0240J | 14-MAR-2001 | 01-05-1208A | 02
05 | OH | WHITEHOUSE, VILLAGE OF | 39095C0218D | 26-JAN-2001 | 01-05-588A | 08
05 | OH | WILLIAMS COUNTY | 3907850025B | 09-MAY-2001 | 01-05-495A | 02
05 | OH | WOOD COUNTY | 3908090016B | 09-MAR-2001 | 01-05-532A | 02
05 | OH | WOOSTER, CITY OF | 39169C0130C | 24-JAN-2001 | 01-05-334A | 02
05 | WI | ANTIGO, CITY OF | 55554102A | 16-MAY-2001 | 01-05-1454A | 02
05 | WI | BANGOR, VILLAGE OF | 5502180001B | 25-MAY-2001 | 01-05-1426A | 01
05 | WI | BAYFIELD COUNTY | 5505390020B | 14-FEB-2001 | 01-05-822A | 02
05 | WI | BAYFIELD COUNTY | 5505390020B | 25-APR-2001 | 01-05-1489A | 02
05 | WI | BRILLION, CITY OF | 5500360001C | 02-FEB-2001 | 01-05-575A | 02
05 | WI | BRILLION, CITY OF | 5500360001C | 02-MAR-2001 | 01-05-597A | 02
05 | WI | BROOKFIELD, CITY OF | 5504780005B | 19-JAN-2001 | 01-05-174A | 02
05 | WI | BROWN COUNTY | 5500200125B | 02-JAN-2001 | 01-05-0236A | 02
05 | WI | BROWN COUNTY | 5500200125B | 24-JAN-2001 | 01-05-0672A | 02
05 | WI | BROWN COUNTY | 5500200125B | 24-JAN-2001 | 01-05-0673A | 02
05 | WI | BROWN COUNTY * | 5500200125B | 02-JAN-2001 | 01-05-0236A | 02
05 | WI | BROWN COUNTY * | 5500200125B | 24-JAN-2001 | 01-05-0672A | 02
05 | WI | BROWN COUNTY * | 5500200125B | 24-JAN-2001 | 01-05-0673A | 02
05 | WI | BURNETT COUNTY | 5500320200B | 15-JUN-2001 | 01-05-2105A | 02
05 | WI | BURNETT COUNTY | 5500320225B | 20-APR-2001 | 01-05-0941A | 02
05 | WI | BURNETT COUNTY | 5500320225B | 25-MAY-2001 | 01-05-2088A | 02
05 | WI | BURNETT COUNTY * | 5500320200B | 15-JUN-2001 | 01-05-2105A | 02
05 | WI | BURNETT COUNTY * | 5500320225B | 20-APR-2001 | 01-05-0941A | 02
05 | WI | BURNETT COUNTY * | 5500320225B | 25-MAY-2001 | 01-05-2088A | 02
05 | WI | CEDARBURG, CITY OF | 55089C0064D | 13-APR-2001 | 01-05-238A | 02
05 | WI | CHIPPEWA COUNTY | 5555490250C | 01-JUN-2001 | 01-05-2347A | 02
05 | WI | CHIPPEWA COUNTY | 5555490275C | 31-JAN-2001 | 01-05-0761A | 08
05 | WI | CHIPPEWA COUNTY * | 5555490250C | 01-JUN-2001 | 01-05-2347A | 02
05 | WI | CHIPPEWA COUNTY * | 5555490250C | 25-APR-2001 | 01-05-1606A | 02
05 | WI | CHIPPEWA COUNTY * | 5555490275C | 30-MAR-2001 | 01-05-1415A | 02
05 | WI | CLARK COUNTY | 5500480350B | 30-MAR-2001 | 01-05-379A | 02
05 | WI | COLUMBIA COUNTY | 5505810050C | 04-APR-2001 | 01-05-1235A | 02
05 | WI | COLUMBIA COUNTY | 5505810075C | 15-JUN-2001 | 01-05-2486A | 02
05 | WI | COLUMBIA COUNTY | 5505810125C | 30-MAR-2001 | 01-05-1486A | 02
05 | WI | COLUMBIA COUNTY | 5505810150C | 26-JAN-2001 | 00-05-5698A | 02
05 | WI | COLUMBIA COUNTY | 5505810200C | 02-FEB-2001 | 01-05-432A | 02
05 | WI | COLUMBIA COUNTY | 5505810200C | 16-MAR-2001 | 01-05-1371A | 02
05 | WI | DANE COUNTY | 5500770150C | 26-JAN-2001 | 01-05-0554A | 02
05 | WI | DANE COUNTY* | 5500770150C | 26-JAN-2001 | 01-05-0554A | 02
05 | WI | DE FOREST, VILLAGE OF | 550082 | 09-MAY-2001 | 01-05-2073A | 02
05 | WI | DE FOREST, VILLAGE OF | 550082 | 09-MAY-2001 | 01-05-2073A | 02
05 | WI | DE FOREST, VILLAGE OF | 5500820005C | 06-APR-2001 | 01-05-1678A | 02
05 | WI | DE FOREST, VILLAGE OF | 5500820005C | 28-FEB-2001 | 01-05-1157A | 02
05 | WI | DE FOREST, VILLAGE OF | 5500820005C | 28-FEB-2001 | 01-05-1157A | 02
05 | WI | DE PERE, CITY OF | 5500200125B | 18-APR-2001 | 01-05-1411A | 02
05 | WI | DE PERE, CITY OF | 5500210005C | 06-JUN-2001 | 01-05-1373A | 01
05 | WI | DE PERE, CITY OF | 5500210005C | 06-JUN-2001 | 01-05-1373A | 01
05 | WI | DODGE COUNTY | 5500940005B | 08-JUN-2001 | 01-05-1555A | 02
05 | WI | DODGE COUNTY | 5500940130B | 09-MAR-2001 | 01-05-470A | 02
05 | WI | DOOR COUNTY | 5501090065A | 13-JUN-2001 | 01-05-1129A | 02
05 | WI | DOOR COUNTY | 5501090085A | 26-JAN-2001 | 00-05-5652A | 02
05 | WI | DOUGLAS COUNTY | 5505380650B | 26-JAN-2001 | 01-05-382A | 02
05 | WI | EAU CLAIRE COUNTY | 5555520185B | 09-MAR-2001 | 01-05-829A | 02
05 | WI | EAU CLAIRE COUNTY | 5555520205B | 23-MAY-2001 | 01-05-798A | 02
05 | WI | EAU CLAIRE COUNTY | 5555520225B | 23-MAY-2001 | 01-05-798A | 02
05 | WI | ELMWOOD, VILLAGE OF | 5503260001C | 02-MAY-2001 | 01-05-1910A | 02
05 | WI | FOND DU LAC COUNTY | 5501310015B | 19-JAN-2001 | 01-05-333A | 02
05 | WI | FOND DU LAC COUNTY | 5501310030B | 29-JUN-2001 | 01-05-2718A | 02
05 | WI | FOND DU LAC COUNTY | 5501310060B | 14-FEB-2001 | 01-05-1123A | 02
05 | WI | FOND DU LAC COUNTY | 5501310060B | 27-JUN-2001 | 01-05-2585A | 02
05 | WI | FOND DU LAC COUNTY | 5501310070C | 02-FEB-2001 | 01-05-636A | 02
05 | WI | FOND DU LAC COUNTY | 5501310070C | 26-JAN-2001 | 01-05-647A | 02
05 | WI | FOND DU LAC COUNTY | 5501310070C | 29-JUN-2001 | 01-05-2708A | 02
05 | WI | FOND DU LAC COUNTY | 5501310135D | 29-JUN-2001 | 01-05-2464A | 02
05 | WI | FOND DU LAC, CITY OF | 5501360005D | 09-MAR-2001 | 01-05-891A | 02
05 | WI | FOND DU LAC, CITY OF | 5501360005D | 18-APR-2001 | 01-05-1274A | 02
05 | WI | FOND DU LAC, CITY OF | 5501360005D | 18-MAY-2001 | 01-05-2403A | 02
05 | WI | FOND DU LAC, CITY OF | 5501360005D | 29-JUN-2001 | 01-05-2710A | 02
05 | WI | FOREST COUNTY | 5506030001A | 16-MAR-2001 | 01-05-964A | 02
05 | WI | FRANKLIN, CITY OF | 5502730010B | 07-MAR-2001 | 01-05-0275C | 08
05 | WI | FREEMONT, VILLAGE OF | 5504960001C | 16-MAR-2001 | 01-05-1127A | 02
05 | WI | GRAFTON, VILLAGE OF | 55089C0062D | 11-MAY-2001 | 01-05-1012A | 02
05 | WI | GREEN BAY, CITY OF | 5500220010E | 05-JAN-2001 | 01-05-0210A | 02
05 | WI | GREEN BAY, CITY OF | 5500220010E | 05-JAN-2001 | 01-05-0210A | 02
05 | WI | GREEN BAY, CITY OF | 5500220010E | 06-JUN-2001 | 01-05-1974A | 02
05 | WI | GREEN BAY, CITY OF | 5500220020E | 07-MAR-2001 | 01-05-1410A | 02
05 | WI | GREEN COUNTY | 5501570065B | 04-MAY-2001 | 01-05-1120A | 02
05 | WI | GREEN COUNTY | 5501570070B | 04-MAY-2001 | 01-05-1120A | 02
05 | WI | HOWARD, VILLAGE OF | 5500230005B | 09-MAR-2001 | 01-05-576A | 02
05 | WI | HOWARD, VILLAGE OF | 5500230005B | 27-JUN-2001 | 01-05-2078A | 02
05 | WI | IOWA COUNTY | 5505220050B | 26-JAN-2001 | 01-05-363A | 17
05 | WI | IRON COUNTY | 5501820006B | 09-MAR-2001 | 01-05-716A | 02
05 | WI | IRON COUNTY | 5501820006B | 13-JUN-2001 | 01-05-2546A | 02
05 | WI | IRON COUNTY | 5501820006B | 18-APR-2001 | 01-05-1962A | 02
05 | WI | IRON COUNTY | 5501820008B | 13-APR-2001 | 01-05-807A | 02
05 | WI | IRON COUNTY | 5501820009B | 18-APR-2001 | 01-05-628A | 02
05 | WI | JEFFERSON COUNTY | 5501910050B | 23-MAY-2001 | 01-05-2125A | 17
05 | WI | JEFFERSON COUNTY | 5501910100B | 21-FEB-2001 | 01-05-192A | 02
05 | WI | JEFFERSON COUNTY | 5501910175B | 11-MAY-2001 | 01-05-1966A | 02
05 | WI | JEFFERSON COUNTY | 5501910175B | 26-JAN-2001 | 01-05-965A | 02
05 | WI | KENOSHA COUNTY | 5505230050B | 02-FEB-2001 | 01-05-134A | 02
05 | WI | KENOSHA COUNTY | 5505230050B | 29-JUN-2001 | 01-05-2735A | 02
05 | WI | KEWAUNEE COUNTY | 5502120125B | 11-APR-2001 | 01-05-1209A | 02
05 | WI | KEWAUNEE, CITY OF | 5502150001B | 18-MAY-2001 | 01-05-1019A | 01
05 | WI | LA CROSSE COUNTY | 5502170120A | 20-APR-2001 | 01-05-1401A | 02
05 | WI | LA CROSSE COUNTY | 5502170160A | 20-FEB-2001 | 99-05-171P | 05
05 | WI | LA CROSSE COUNTY | 5555620006B | 20-FEB-2001 | 99-05-171P | 05
05 | WI | LA CROSSE COUNTY * | 5502170120A | 11-APR-2001 | 01-05-1424A | 02
05 | WI | LA CROSSE COUNTY * | 5502170120A | 20-APR-2001 | 01-05-1401A | 02
05 | WI | LA CROSSE COUNTY * | 5502170160A | 20-FEB-2001 | 99-05-171P | 05
05 | WI | LA CROSSE, CITY OF | 5502170160A | 20-FEB-2001 | 99-05-171P | 05
05 | WI | LA CROSSE, CITY OF | 5502170160A | 20-FEB-2001 | 99-05-171P | 05
05 | WI | LA CROSSE, CITY OF | 5555260005B | 21-MAR-2001 | 01-05-1406A | 01
05 | WI | LA CROSSE, CITY OF | 5555620005B | 10-JAN-2001 | 01-05-0459A | 02
05 | WI | LA CROSSE, CITY OF | 5555620005B | 10-JAN-2001 | 01-05-0459A | 02
05 | WI | LA CROSSE, CITY OF | 5555620005B | 19-APR-2001 | 01-05-1416X | 05
05 | WI | LA CROSSE, CITY OF | 5555620006B | 20-FEB-2001 | 99-05-171P | 05
05 | WI | LA CROSSE, CITY OF | 5555620008B | 12-JAN-2001 | 01-05-0725A | 02
05 | WI | LA CROSSE, CITY OF | 5555620008B | 12-JAN-2001 | 01-05-0725A | 02
05 | WI | LAVALLE, VILLAGE OF | 55111C0160D | 21-MAR-2001 | 01-05-1427A | 02
05 | WI | MARATHON COUNTY | 5502450025B | 11-APR-2001 | 00-05-5514A | 01
05 | WI | MARATHON COUNTY | 5502450225B | 30-MAR-2001 | 01-05-1216A | 02
05 | WI | MARATHON COUNTY | 5502450375B | 09-MAY-2001 | 01-05-1892A | 02
05 | WI | MARATHON COUNTY | 5502450375B | 13-APR-2001 | 01-05-1471A | 02
05 | WI | MARATHON COUNTY | 5502450375B | 13-JUN-2001 | 01-05-1514A | 02
05 | WI | MARATHON COUNTY | 5502450375B | 13-JUN-2001 | 01-05-1982A | 01
05 | WI | MARATHON COUNTY | 5502450425B | 21-FEB-2001 | 00-05-5972A | 02
05 | WI | MARATHON COUNTY | 5502450450B | 26-JAN-2001 | 01-05-1023A | 02
05 | WI | MARATHON COUNTY | 5502450475B | 26-JAN-2001 | 01-05-1023A | 02
05 | WI | MARATHON COUNTY | 5502450525B | 16-MAR-2001 | 01-05-1255A | 02
05 | WI | MARATHON COUNTY | 5502450625B | 13-JUN-2001 | 01-05-2323A | 02
05 | WI | MARQUETTE COUNTY | 5506010050B | 16-MAY-2001 | 01-05-2128A | 02
05 | WI | MARQUETTE COUNTY | 5506010075B | 13-JUN-2001 | 01-05-1528A | 17
05 | WI | MENASHA, CITY OF | 5505100005C | 04-APR-2001 | 01-05-1387A | 02
05 | WI | MENASHA, CITY OF | 5505100005C | 04-APR-2001 | 01-05-1387A | 02
05 | WI | MENASHA, CITY OF | 5505100005C | 04-APR-2001 | 01-05-1439A | 02
05 | WI | MENASHA, CITY OF | 5505100005C | 05-JAN-2001 | 01-05-0113A | 02
05 | WI | MENASHA, CITY OF | 5505100005C | 26-JAN-2001 | 01-05-582A | 02
05 | WI | MENASHA, CITY OF | 5505100005C | 31-JAN-2001 | 01-05-0112A | 02
05 | WI | MENASHA, CITY OF | 5505100005C | 31-JAN-2001 | 01-05-0112A | 02
05 | WI | MENASHA, CITY OF | 5505370050C | 04-APR-2001 | 01-05-1387A | 02
05 | WI | MEQUON, CITY OF | 55089C0085D | 20-JUN-2001 | 01-05-1001A | 02
05 | WI | MERRIMAC, VILLAGE OF | 55111C0450D | 08-MAR-2001 | 01-05-1139V | 19
05 | WI | MERRIMAC, VILLAGE OF | 55111C0575D | 08-MAR-2001 | 01-05-1139V | 19
05 | WI | MONROE COUNTY | 5505710120B | 29-JUN-2001 | 01-05-2153A | 02
05 | WI | NEW LONDON, CITY OF | 5503080001A | 27-JUN-2001 | 01-05-2689A | 02
05 | WI | OCONTO, CITY OF | 5502970001B | 26-JAN-2001 | 01-05-629A | 02
05 | WI | OSHKOSH, CITY OF | 5505110020D | 09-MAY-2001 | 01-05-2077A | 02
05 | WI | OSHKOSH, CITY OF | 5505110020D | 09-MAY-2001 | 01-05-2077A | 02
05 | WI | OSHKOSH, CITY OF | 5505110020D | 20-APR-2001 | 01-05-1688A | 01
05 | WI | OUTAGAMIE COUNTY | 5503020050B | 27-APR-2001 | 01-05-1010A | 02
05 | WI | OUTAGAMIE COUNTY | 5503020083C | 10-JAN-2001 | 00-05-3146A | 01
05 | WI | OUTAGAMIE COUNTY | 5503020100C | 27-JUN-2001 | 01-05-2669A | 02
05 | WI | OUTAGAMIE COUNTY | 5503020110B | 08-JUN-2001 | 01-05-2260A | 02
05 | WI | OUTAGAMIE COUNTY | 5503020110B | 14-MAR-2001 | 01-05-1031A | 01
05 | WI | OUTAGAMIE COUNTY * | 5503020083C | 10-JAN-2001 | 00-05-3146A | 01
05 | WI | OZAUKEE COUNTY | 55089C0055D | 26-JAN-2001 | 01-05-329A | 02
05 | WI | OZAUKEE COUNTY | 55089C0055D | 29-JUN-2001 | 01-05-2860A | 02
05 | WI | PEWAUKEE, VILLAGE OF |  | 27-APR-2001 | 01-05-1878A | 02
05 | WI | PEWAUKEE, VILLAGE OF | 5504760040C | 16-MAY-2001 | 01-05-1978A | 02
05 | WI | PIERCE COUNTY | 5555710100C | 09-MAR-2001 | 01-05-813A | 17
05 | WI | PIERCE COUNTY | 5555710175C | 27-JUN-2001 | 99-05-343P | 05
05 | WI | PIERCE COUNTY * | 5555710175C | 27-JUN-2001 | 99-05-343P | 05
05 | WI | PLAIN, VILLAGE OF | 55111C0500D | 08-MAR-2001 | 01-05-1140V | 19
05 | WI | PLEASANT PRAIRIE, VILLAGE OF | 5506130005B | 16-JAN-2001 | 00-05-251P | 06
05 | WI | PORTAGE COUNTY | 5505720150C | 04-APR-2001 | 01-05-227A | 02
05 | WI | PRICE COUNTY | 5503430105C | 09-MAR-2001 | 01-05-1064A | 02
05 | WI | PULASKI, VILLAGE OF | 5500240001B | 22-MAY-2001 | 01-05-1417A | 01
05 | WI | PULASKI, VILLAGE OF | 5500240001B | 22-MAY-2001 | 01-05-1418A | 01
05 | WI | RACINE COUNTY | 5503470010B | 14-FEB-2001 | 01-05-311A | 01
05 | WI | RACINE COUNTY | 5503470010B | 26-JAN-2001 | 01-05-517A | 01
05 | WI | RACINE COUNTY | 5503470035B | 20-JUN-2001 | 01-05-2434A | 02
05 | WI | RACINE COUNTY * | 5503470010B | 05-JAN-2001 | 00-05-4882A | 01
05 | WI | RICHLAND COUNTY | 5503560050B | 14-FEB-2001 | 01-05-710A | 02
05 | WI | RICHLAND COUNTY | 5503560050B | 26-JAN-2001 | 01-05-711A | 02
05 | WI | RICHLAND COUNTY | 5503560100B | 27-APR-2001 | 01-05-1895A | 02
05 | WI | RICHLAND COUNTY | 5503560200B | 21-FEB-2001 | 00-05-5522A | 02
05 | WI | ROTHSCHILD, VILLAGE OF | 55557701C | 04-APR-2001 | 01-05-1493A | 02
05 | WI | RUSK COUNTY | 5506020245B | 19-JAN-2001 | 01-05-360A | 02
05 | WI | RUSK COUNTY | 5506020245B | 26-JAN-2001 | 01-05-577A | 02
05 | WI | SAUK COUNTY | 5503910210B | 31-JAN-2001 | 01-05-1135X | 02
05 | WI | SAUK COUNTY | 55111C0215D | 16-MAR-2001 | 01-05-1099A | 02
05 | WI | SAUK COUNTY | 55111C0275D | 21-JUN-2001 | 01-05-606P | 05
05 | WI | SAUK COUNTY | 55111C0300D | 21-JUN-2001 | 01-05-606P | 05
05 | WI | SAUK COUNTY | 55111C0650D | 14-MAR-2001 | 01-05-1167A | 02
05 | WI | SAUK COUNTY * | 5503910210B | 24-JAN-2001 | 01-05-0765A | 02
05 | WI | SAUK COUNTY * | 5503910210B | 31-JAN-2001 | 01-05-1135X | 02
05 | WI | SAUK COUNTY * | 55111C0075D | 08-MAR-2001 | 01-05-1141V | 19
05 | WI | SAUK COUNTY * | 55111C0195D | 08-MAR-2001 | 01-05-1141V | 19
05 | WI | SAUK COUNTY * | 55111C0210D | 08-MAR-2001 | 01-05-1141V | 19
05 | WI | SAUK COUNTY * | 55111C0250D | 08-MAR-2001 | 01-05-1141V | 19
05 | WI | SAUK COUNTY * | 55111C0265D | 08-MAR-2001 | 01-05-1141V | 19
05 | WI | SAUK COUNTY * | 55111C0275D | 08-MAR-2001 | 01-05-1141V | 19
05 | WI | SAUK COUNTY * | 55111C0500D | 08-MAR-2001 | 01-05-1141V | 19
05 | WI | SAUK COUNTY * | 55111C0525D | 08-MAR-2001 | 01-05-1141V | 19
05 | WI | SAUK COUNTY * | 55111C0525D | 20-APR-2001 | 01-05-0950A | 02
05 | WI | SAUK COUNTY * | 55111C0575D | 08-MAR-2001 | 01-05-1141V | 19
05 | WI | SAUK COUNTY * | 55111C0575D | 16-MAR-2001 | 01-05-1423A | 02
05 | WI | SAUK COUNTY * | 55111C0600D | 08-MAR-2001 | 01-05-1141V | 19
05 | WI | SAUK COUNTY * | 55111C0600D | 23-MAR-2001 | 01-05-0913A | 02
05 | WI | SAUK COUNTY * | 55111C0625D | 08-MAR-2001 | 01-05-1141V | 19
05 | WI | SAUK COUNTY * | 55111C0650D | 08-MAR-2001 | 01-05-1141V | 19
05 | WI | SAUK COUNTY * | 55111C0650D | 14-MAR-2001 | 01-05-1167A | 02
05 | WI | SAUK COUNTY * | 55111C0675D | 08-MAR-2001 | 01-05-1141V | 19
05 | WI | SHAWANO COUNTY | 5504120150B | 26-JAN-2001 | 01-05-638A | 02
05 | WI | SHAWANO COUNTY | 5504120150B | 31-JAN-2001 | 01-05-184A | 02
05 | WI | SHEBOYGAN COUNTY | 5504240080B | 20-JUN-2001 | 01-05-2104A | 02
05 | WI | SHEBOYGAN COUNTY * | 5504240080B | 20-JUN-2001 | 01-05-2104A | 02
05 | WI | SHELL LAKE, CITY OF | 5504690001D | 30-MAY-2001 | 01-05-2161A | 02
05 | WI | SHELL LAKE, CITY OF | 5504690001E | 13-JUN-2001 | 01-05-2422A | 02
05 | WI | SHELL LAKE, CITY OF | 5504690001E | 20-JUN-2001 | 01-05-2518A | 02
05 | WI | SOLON SPRINGS, VILLAGE OF | 5501150005B | 30-MAR-2001 | 00-05-5580A | 02
05 | WI | STURGEON BAY, CITY OF | 5501110005B | 04-MAY-2001 | 01-05-787A | 02
05 | WI | STURGEON BAY, CITY OF | 5501110005B | 26-JAN-2001 | 01-05-873A | 02
05 | WI | SUPERIOR, CITY OF | 5501160002B | 18-APR-2001 | 01-05-821A | 01
05 | WI | THIENSVILLE, CITY OF | 55089C0079D | 16-FEB-2001 | 01-05-892A | 02
05 | WI | VERNON COUNTY | 5504500225B | 29-JUN-2001 | 01-05-2177A | 02
05 | WI | WALPACA COUNTY | 5504920030A | 30-MAR-2001 | 01-05-1296A | 02
05 | WI | WALPACA COUNTY | 5504920145A | 09-MAR-2001 | 01-05-637A | 02
05 | WI | WALWORTH COUNTY | 5504620020B | 11-APR-2001 | 01-05-1497A | 02
05 | WI | WALWORTH COUNTY | 5504620020B | 19-JAN-2001 | 01-05-084A | 02
05 | WI | WASHBURN COUNTY | 5506060075B | 14-FEB-2001 | 01-05-995A | 02
05 | WI | WASHBURN COUNTY | 5506060075B | 26-JAN-2001 | 01-05-587A | 02
05 | WI | WASHBURN COUNTY | 5506060125B | 11-APR-2001 | 01-05-1518A | 02
05 | WI | WASHBURN COUNTY | 5506060125B | 20-JUN-2001 | 01-05-2519A | 02
05 | WI | WASHBURN COUNTY | 5506060200B | 20-JUN-2001 | 01-05-2557A | 02
05 | WI | WASHBURN COUNTY | 5506060200B | 26-JAN-2001 | 01-05-648A | 02
05 | WI | WASHINGTON COUNTY | 5504710050B | 26-JAN-2001 | 01-05-820A | 02
05 | WI | WASHINGTON COUNTY | 5504710060B | 28-MAR-2001 | 01-05-1231A | 02
05 | WI | WAUKESHA COUNTY | 5504760015B | 02-FEB-2001 | 00-05-6120A | 02
05 | WI | WAUKESHA COUNTY | 5504760015B | 13-APR-2001 | 01-05-019A | 02
05 | WI | WAUKESHA COUNTY | 5504760015B | 18-MAY-2001 | 01-05-1277A | 02
05 | WI | WAUKESHA COUNTY | 5504760020B | 11-APR-2001 | 01-05-1264A | 02
05 | WI | WAUKESHA COUNTY | 5504760020B | 26-JAN-2001 | 01-05-493A | 02
05 | WI | WAUKESHA COUNTY* | 5504760110B | 21-MAR-2001 | 01-05-1430A | 02
05 | WI | WAUPUN, CITY OF | 5501080001E | 02-MAR-2001 | 01-05-973A | 02
05 | WI | WAUPUN, CITY OF | 5501080001E | 19-JAN-2001 | 01-05-376A | 02
05 | WI | WAUPUN, CITY OF | 5501310120B | 28-MAR-2001 | 01-05-1237A | 02
05 | WI | WAUSAU, CITY OF | 550258A | 14-MAR-2001 | 01-05-1603A | 02
05 | WI | WAUSAU, CITY OF | 550258A | 26-JAN-2001 | 01-05-715A | 02
05 | WI | WAUSHARA COUNTY | 5505400200B | 28-FEB-2001 | 00-05-5374X | 02
05 | WI | WAUSHARA COUNTY* | 5505400200B | 28-FEB-2001 | 00-05-5374X | 02
05 | WI | WAUWATOSA, CITY OF | 5502840005B | 04-APR-2001 | 01-05-842A | 01
05 | WI | WHITEWATER, CITY OF | 5502000004B | 13-APR-2001 | 01-05-1552A | 02
05 | WI | WHITEWATER, CITY OF | 5502000004B | 29-JUN-2001 | 01-05-2701A | 02
05 | WI | WINNEBAGO COUNTY | 5505370025C | 28-FEB-2001 | 01-05-1149A | 02
05 | WI | WINNEBAGO COUNTY | 5505370050C | 01-JUN-2001 | 01-05-2053A | 02
05 | WI | WINNEBAGO COUNTY | 5505370050C | 02-JAN-2001 | 01-05-0772X | 02
05 | WI | WINNEBAGO COUNTY | 5505370050C | 19-JAN-2001 | 00-05-6046A | 02
05 | WI | WINNEBAGO COUNTY | 5505370050C | 21-MAR-2001 | 01-05-0568A | 02
05 | WI | WINNEBAGO COUNTY | 5505370100C | 23-MAY-2001 | 01-05-2086A | 02
05 | WI | WINNEBAGO COUNTY * | 5505370025C | 28-FEB-2001 | 01-05-1149A | 02
05 | WI | WINNEBAGO COUNTY * | 5505370050C | 01-JUN-2001 | 01-05-2053A | 02
05 | WI | WINNEBAGO COUNTY * | 5505370050C | 02-JAN-2001 | 01-05-0772X | 02
05 | WI | WINNEBAGO COUNTY * | 5505370050C | 21-MAR-2001 | 01-05-0568A | 02
05 | WI | WINNEBAGO COUNTY * | 5505370100C | 23-MAY-2001 | 01-05-2086A | 02
05 | WI | WINNEBAGO COUNTY * | 5505370100C | 25-APR-2001 | 01-05-1676A | 02
06 | AR | ARKANSAS COUNTY | 0504180004B | 09-FEB-2001 | 00-06-947A | 02
06 | AR | ASHDOWN, CITY OF | 05081C0242D | 07-FEB-2001 | 00-06-1808A | 17
06 | AR | BENTON COUNTY |  | 21-MAR-2001 | 01-06-864P | 06
06 | AR | BRADLEY COUNTY | 0504200200B | 09-FEB-2001 | 01-06-490A | 02
06 | AR | CABOT, CITY OF |  | 28-MAR-2001 | 01-05-1285A | 02
06 | AR | CONWAY, CITY OF | 05045C0130F | 02-MAY-2001 | 01-06-653A | 02
06 | AR | ELKINS, CITY OF | 05143C0115E | 11-APR-2001 | 01-06-293A | 02
06 | AR | ENGLAND, CITY OF |  | 14-FEB-2001 | 00-06-1373A | 02
06 | AR | FARMINGTON, CITY OF | 05143C0090C | 31-JAN-2001 | 01-06-499A | 01
06 | AR | FAULKNER COUNTY | 0504310215E | 09-MAY-2001 | 01-06-581A | 02
06 | AR | FAULKNER COUNTY | 05045C0185F | 24-APR-2001 | 01-06-690A | 17
06 | AR | FAULKNER COUNTY | 05045C0070F | 28-MAR-2001 | 01-06-766A | 02
06 | AR | FAYETTEVILLE, CITY OF | 05143C0103D | 22-JUN-2001 | 01-06-1374A | 02
06 | AR | FAYETTEVILLE, CITY OF | 05143C0091D | 28-MAR-2001 | 01-06-468A | 02
06 | AR | GARLAND COUNTY | 05051C0154C | 06-JUN-2001 | 01-06-665A | 01
06 | AR | HOT SPRINGS, CITY OF | 05051C0156C | 06-APR-2001 | 01-06-344A | 02
06 | AR | JACKSONVILLE, CITY OF | 0501800005E | 15-JUN-2001 | 01-06-1224A | 01
06 | AR | JACKSONVILLE, CITY OF | 0501800005E | 13-JUN-2001 | 01-06-1233A | 02
06 | AR | JACKSONVILLE, CITY OF | 0501800005E | 13-JUN-2001 | 01-06-1234A | 02
06 | AR | JONESBORO, CITY OF | 05031C0043C | 28-FEB-2001 | 01-06-496A | 02
06 | AR | LITTLE ROCK, CITY OF | 0501810002E | 22-JUN-2001 | 01-06-1102A | 01
06 | AR | LITTLE ROCK, CITY OF | 0501810005E | 07-MAR-2001 | 01-06-583A | 02
06 | AR | LONOKE COUNTY | 0504480175B | 16-MAY-2001 | 01-06-253A | 02
06 | AR | MAUMELLE, CITY OF | 0505770002A | 13-JUN-2001 | 01-06-1185A | 01
06 | AR | MCGEHEE, CITY OF | 0500680005C | 09-FEB-2001 | 01-06-177A | 02
06 | AR | MENA, CITY OF | 05017703B | 25-APR-2001 | 01-06-377A | 02
06 | AR | MORRILTON, CITY OF | 0500440005B | 16-MAY-2001 | 01-06-1117A | 02
06 | AR | NORTH LITTLE ROCK, CITY OF | 0501820006D | 16-MAR-2001 | 01-06-767A | 02
06 | AR | PINE BLUFF, CITY OF | 0501090005B | 20-JUN-2001 | 01-06-1173A | 02
06 | AR | POCAHONTAS, CITY OF | 0501830003B | 01-JUN-2001 | 01-06-1212A | 01
06 | AR | POCAHONTAS, CITY OF | 0501830003B | 18-APR-2001 | 01-06-340A | 01
06 | AR | POPE COUNTY | 0504580006A | 25-MAY-2001 | 01-06-1187A | 02
06 | AR | PULASKI COUNTY | 0501790445D | 22-JUN-2001 | 01-06-1336A | 17
06 | AR | PULASKI COUNTY | 0501790381C | 14-MAR-2001 | 01-06-518A | 01
06 | AR | RANDOLPH COUNTY | 0504600003B | 04-APR-2001 | 01-06-267A | 02
06 | AR | ROGERS, CITY OF |  | 21-MAR-2001 | 01-06-864P | 06
06 | AR | SILOAM SPRINGS, CITY OF | 05007C0208E | 30-MAR-2001 | 01-06-396A | 02
06 | AR | SPRINGDALE, CITY OF | 05143C0019C | 19-JAN-2001 | 00-06-1612A | 02
06 | AR | STAR CITY, CITY OF | 0503680001B | 01-JUN-2001 | 01-06-1076A | 02
06 | AR | STUTTGART, CITY OF | 0500020005C | 07-FEB-2001 | 01-06-588A | 02
06 | AR | WEST FORK, CITY OF | 05143C0170C | 16-FEB-2001 | 01-06-068A | 02
06 | AR | WEST FORK, CITY OF | 05143C0170C | 02-MAR-2001 | 01-06-382A | 02
06 | AR | WEST MEMPHIS, CITY OF | 0500550016D | 14-FEB-2001 | 01-06-027A | 08
06 | LA | ABITA SPRINGS, TOWN OF | 2201990002C | 07-FEB-2001 | 01-06-186A | 02
06 | LA | ALEXANDRIA, CITY OF | 2201460015F | 02-FEB-2001 | 00-06-1833A | 08
06 | LA | ALEXANDRIA, CITY OF | 2201460015F | 15-JUN-2001 | 01-06-1208A | 02
06 | LA | ALEXANDRIA, CITY OF | 2201460015F | 25-MAY-2001 | 01-06-1235A | 02
06 | LA | ALEXANDRIA, CITY OF | 2201460015F | 08-JUN-2001 | 01-06-1236A | 02
06 | LA | ALEXANDRIA, CITY OF | 2201460015F | 06-JUN-2001 | 01-06-1266A | 02
06 | LA | ALEXANDRIA, CITY OF | 2201460015F | 13-JUN-2001 | 01-06-1280A | 02
06 | LA | ALEXANDRIA, CITY OF |  | 08-JAN-2001 | 01-06-243A | 02
06 | LA | ALEXANDRIA, CITY OF | 2201460015F | 18-APR-2001 | 01-06-534A | 02
06 | LA | ALEXANDRIA, CITY OF | 2201460015F | 18-APR-2001 | 01-06-536A | 02
06 | LA | ALEXANDRIA, CITY OF | 2201460015F | 16-MAR-2001 | 01-06-809A | 02
06 | LA | ALEXANDRIA, CITY OF | 2201460015F | 30-MAR-2001 | 01-06-917A | 02
06 | LA | ASCENSION PARISH | 2200130130D | 03-JAN-2001 | 00-06-1511A | 02
06 | LA | ASCENSION PARISH | 2200130045C | 02-FEB-2001 | 00-06-1568A | 02
06 | LA | ASCENSION PARISH | 2200130130D | 16-MAR-2001 | 00-06-1610A | 02
06 | LA | ASCENSION PARISH | 2200130045C | 03-JAN-2001 | 00-06-1842A | 02
06 | LA | ASCENSION PARISH | 2200130040B | 06-JUN-2001 | 01-06-1086A | 02
06 | LA | ASCENSION PARISH | 2200130040B | 22-JUN-2001 | 01-06-1118A | 02
06 | LA | ASCENSION PARISH | 2200130045C | 15-JUN-2001 | 01-06-1330A | 02
06 | LA | ASCENSION PARISH | 2200130110D | 20-JUN-2001 | 01-06-1364A | 02
06 | LA | ASCENSION PARISH | 2200130065C | 02-FEB-2001 | 01-06-210A | 02
06 | LA | ASCENSION PARISH | 2200130040B | 06-APR-2001 | 01-06-227A | 02
06 | LA | ASCENSION PARISH | 2200130070B | 16-MAR-2001 | 01-06-328A | 02
06 | LA | AVOYELLES PARISH | 2200190075B | 16-MAR-2001 | 00-06-1828A | 02
06 | LA | AVOYELLES PARISH | 2200190075B | 16-FEB-2001 | 01-06-234A | 02
06 | LA | AVOYELLES PARISH | 2200190075B | 23-FEB-2001 | 01-06-362A | 01
06 | LA | AVOYELLES PARISH | 2200190075B | 23-MAY-2001 | 01-06-391A | 02
06 | LA | AVOYELLES PARISH | 2200190075B | 16-FEB-2001 | 01-06-532A | 02
06 | LA | BALL, TOWN OF | 2203730005D | 21-MAR-2001 | 01-06-256A | 02
06 | LA | BOSSIER CITY, CITY OF | 2200330005C | 23-MAY-2001 | 01-06-1093A | 02
06 | LA | BOSSIER CITY, CITY OF | 2200330030C | 30-MAY-2001 | 01-06-1183A | 02
06 | LA | BOSSIER CITY, CITY OF | 2200330030C | 15-JUN-2001 | 01-06-1243A | 02
06 | LA | BOSSIER CITY, CITY OF | 2200330030C | 22-JUN-2001 | 01-06-1370A | 02
06 | LA | BOSSIER CITY, CITY OF | 2200330005C | 28-MAR-2001 | 01-06-174A | 02
06 | LA | BOSSIER CITY, CITY OF | 2200330005C | 07-FEB-2001 | 01-06-295A | 02
06 | LA | BOSSIER CITY, CITY OF | 2200330030C | 09-FEB-2001 | 01-06-439A | 02
06 | LA | BOSSIER CITY, CITY OF | 2200330005C | 09-MAY-2001 | 01-06-587A | 01
06 | LA | BOSSIER CITY, CITY OF | 2200330030C | 11-APR-2001 | 01-06-744A | 02
06 | LA | BOSSIER PARISH | 2200310285B | 16-MAR-2001 | 01-06-096A | 02
06 | LA | BOSSIER PARISH | 2200310285B | 18-MAY-2001 | 01-06-1151A | 02
06 | LA | BOSSIER PARISH | 2200310305B | 28-MAR-2001 | 01-06-127A | 02
06 | LA | BOSSIER PARISH | 2200310285B | 22-JUN-2001 | 01-06-1317A | 02
06 | LA | BOSSIER PARISH | 2200310285B | 29-JUN-2001 | 01-06-1328A | 17
06 | LA | BOSSIER PARISH | 2200310285B | 20-JUN-2001 | 01-06-1332A | 02
06 | LA | BOSSIER PARISH | 2200310285B | 28-MAR-2001 | 01-06-208A | 02
06 | LA | BOSSIER PARISH | 2200310315B | 18-MAY-2001 | 01-06-269A | 02
06 | LA | BOSSIER PARISH | 2200310295B | 28-MAR-2001 | 01-06-343A | 02
06 | LA | BOSSIER PARISH | 2200310315B | 18-MAY-2001 | 01-06-440A | 02
06 | LA | BOSSIER PARISH | 2200310295B | 28-FEB-2001 | 01-06-443A | 02
06 | LA | BOSSIER PARISH | 2200310315B | 18-MAY-2001 | 01-06-444A | 02
06 | LA | BOSSIER PARISH | 2200310285B | 23-FEB-2001 | 01-06-445A | 02
06 | LA | BOSSIER PARISH | 2200310390B | 25-APR-2001 | 01-06-504A | 02
06 | LA | BOSSIER PARISH | 2200310285B | 09-MAR-2001 | 01-06-611A | 02
06 | LA | BOSSIER PARISH | 2200310285B | 09-MAR-2001 | 01-06-612A | 02
06 | LA | BOSSIER PARISH | 2200310315B | 18-APR-2001 | 01-06-681A | 02
06 | LA | BOSSIER PARISH | 2200310315B | 11-APR-2001 | 01-06-698A | 02
06 | LA | BOSSIER PARISH | 2200310285B | 09-MAR-2001 | 01-06-717A | 02
06 | LA | BOSSIER PARISH | 2200310305B | 09-MAR-2001 | 01-06-718A | 02
06 | LA | BOSSIER PARISH | 2200310305B | 09-MAR-2001 | 01-06-719A | 02
06 | LA | BOSSIER PARISH | 2200310315B | 20-APR-2001 | 01-06-788A | 02
06 | LA | BOSSIER PARISH | 2200310315B | 27-APR-2001 | 01-06-823A | 02
06 | LA | BOSSIER PARISH | 2200310285B | 13-APR-2001 | 01-06-824A | 02
06 | LA | BOSSIER PARISH | 2200310285B | 20-APR-2001 | 01-06-825A | 02
06 | LA | CADDO PARISH | 22017C0478F | 08-JUN-2001 | 01-06-1309A | 01
06 | LA | CADDO PARISH | 22017C0479F | 08-JUN-2001 | 01-06-1309A | 01
06 | LA | CADDO PARISH | 22017C0478F | 23-FEB-2001 | 01-06-138A | 02
06 | LA | CADDO PARISH | 22017C0487F | 14-FEB-2001 | 01-06-263A | 02
06 | LA | CADDO PARISH | 22017C0341F | 16-MAR-2001 | 01-06-613A | 02
06 | LA | CADDO PARISH | 22017C0342F | 16-MAR-2001 | 01-06-613A | 02
06 | LA | CALCASIEU PARISH | 2200370375C | 09-MAY-2001 | 01-06-376A | 01
06 | LA | CONCORDIA PARISH | 2200530245B | 30-MAY-2001 | 01-06-630A | 02
06 | LA | DENHAM SPRINGS, CITY OF | 2201160005B | 23-MAR-2001 | 01-06-826A | 02
06 | LA | EAST BATON ROUGE PARISH | 2200580110D | 07-FEB-2001 | 00-06-1881A | 01
06 | LA | EAST BATON ROUGE PARISH | 2200580115D | 21-MAR-2001 | 01-06-014A | 01
06 | LA | EAST BATON ROUGE PARISH | 2200580110D | 23-FEB-2001 | 01-06-017A | 01
06 | LA | EAST BATON ROUGE PARISH | 2200580085D | 09-FEB-2001 | 01-06-049A | 02
06 | LA | EAST BATON ROUGE PARISH | 2200580085D | 08-JUN-2001 | 01-06-1103A | 02
06 | LA | EAST BATON ROUGE PARISH | 2200580110D | 22-JUN-2001 | 01-06-1174A | 02
06 | LA | EAST BATON ROUGE PARISH | 2200580100D | 29-JUN-2001 | 01-06-1237A | 02
06 | LA | EAST BATON ROUGE PARISH | 2200580115D | 22-JUN-2001 | 01-06-1335A | 02
06 | LA | EAST BATON ROUGE PARISH | 2200580115D | 01-JUN-2001 | 01-06-168A | 01
06 | LA | EAST BATON ROUGE PARISH | 2200580100D | 18-APR-2001 | 01-06-538A | 02
06 | LA | EAST BATON ROUGE PARISH | 2200580110D | 25-MAY-2001 | 01-06-684A | 01
06 | LA | EAST BATON ROUGE PARISH | 2200580100D | 04-APR-2001 | 01-06-758A | 02
06 | LA | EVANGELINE PARISH | 2200640007C | 31-JAN-2001 | 01-06-092A | 02
06 | LA | EVANGELINE PARISH | 2200640007C | 02-MAR-2001 | 01-06-224A | 02
06 | LA | GONZALES, CITY OF | 2200150005C | 04-MAY-2001 | 00-06-1834A | 02
06 | LA | HARRISONBURG, VILLAGE OF | 2200480005B | 07-MAR-2001 | 01-06-077A | 02
06 | LA | JEFFERSON DAVIS PARISH | 22051C0130E | 18-MAY-2001 | 01-06-804A | 02
06 | LA | JEFFERSON PARISH | 22051C0040E | 25-MAY-2001 | 01-06-1159A | 02
06 | LA | JEFFERSON PARISH | 22051C0145E | 18-MAY-2001 | 01-06-768A | 02
06 | LA | LAFAYETTE PARISH | 22055C0025G | 31-JAN-2001 | 00-06-1258A | 02
06 | LA | LAFAYETTE PARISH | 22055C0065G | 27-JUN-2001 | 01-06-1078A | 02
06 | LA | LAFAYETTE PARISH | 22055C0045G | 25-MAY-2001 | 01-06-1137A | 02
06 | LA | LAFAYETTE PARISH | 22055C0065G | 22-JUN-2001 | 01-06-1279A | 01
06 | LA | LAFAYETTE PARISH | 22055C0080G | 21-FEB-2001 | 01-06-254A | 02
06 | LA | LAFAYETTE PARISH | 22055C0065G | 16-MAR-2001 | 01-06-426A | 02
06 | LA | LAFAYETTE PARISH | 22055C0040H | 04-APR-2001 | 01-06-623A | 02
06 | LA | LAFAYETTE PARISH | 22055C0040H | 28-MAR-2001 | 01-06-636A | 02
06 | LA | LAFAYETTE PARISH | 22055C0060G | 16-MAY-2001 | 01-06-817A | 02
06 | LA | LAFAYETTE PARISH | 22055C0060G | 18-MAY-2001 | 01-06-818A | 02
06 | LA | LAFAYETTE, CITY OF | 22055C0040H | 25-MAY-2001 | 01-06-1296A | 01
06 | LA | LAFAYETTE, CITY OF | 22055C0045G | 25-MAY-2001 | 01-06-1296A | 01
06 | LA | LAFAYETTE, CITY OF | 22055C0045G | 09-FEB-2001 | 01-06-200A | 02
06 | LA | LAFAYETTE, CITY OF | 22055C0045G | 10-JAN-2001 | 01-06-201A | 02
06 | LA | LAFAYETTE, CITY OF | 22055C0065G | 06-APR-2001 | 01-06-620A | 02
06 | LA | LAFAYETTE, CITY OF | 2201050045G | 04-MAY-2001 | 01-06-723A | 02
06 | LA | LIVINGSTON PARISH | 2201130125B | 17-JAN-2001 | 00-06-1669A | 02
06 | LA | LIVINGSTON PARISH | 2201130100B | 16-FEB-2001 | 00-06-1723A | 02
06 | LA | LIVINGSTON PARISH | 2201130025B | 09-FEB-2001 | 00-06-1835A | 08
06 | LA | LIVINGSTON PARISH | 2201130100B | 01-JUN-2001 | 01-06-1146A | 02
06 | LA | LIVINGSTON PARISH | 2201130100B | 06-JUN-2001 | 01-06-1202A | 02
06 | LA | LIVINGSTON PARISH | 2201130025B | 22-JUN-2001 | 01-06-1269A | 02
06 | LA | LIVINGSTON PARISH | 2201130100B | 09-MAR-2001 | 01-06-137A | 02
06 | LA | LIVINGSTON PARISH | 2201130100B | 29-JUN-2001 | 01-06-1409A | 02
06 | LA | LIVINGSTON PARISH | 2201130100B | 03-JAN-2001 | 01-06-222A | 01
06 | LA | LIVINGSTON PARISH | 2201130025B | 26-JAN-2001 | 01-06-258A | 02
06 | LA | LIVINGSTON PARISH | 2201130100B | 09-FEB-2001 | 01-06-283A | 02
06 | LA | LIVINGSTON PARISH | 2201130025B | 07-FEB-2001 | 01-06-331A | 02
06 | LA | LIVINGSTON PARISH | 2201130050B | 09-FEB-2001 | 01-06-437A | 02
06 | LA | LIVINGSTON PARISH | 2201130025B | 20-APR-2001 | 01-06-645A | 02
06 | LA | LIVINGSTON PARISH | 2201130025B | 16-MAR-2001 | 01-06-656A | 02
06 | LA | LIVINGSTON PARISH | 2201130100B | 11-APR-2001 | 01-06-789A | 02
06 | LA | MONROE, CITY OF | 22073C0070E | 22-JUN-2001 | 01-06-1331A | 02
06 | LA | NEW ORLEANS PARISH | 2252030095E | 23-MAY-2001 | 01-06-379A
06 | LA | OAKDALE, CITY OF | 22001101B | 20-JUN-2001 | 01-06-425A | 02
06 | LA | OIL CITY, TOWN OF | 22017C0255F | 28-MAR-2001 | 01-06-348A | 02
06 | LA | RAPIDES PARISH | 2201450125B | 07-FEB-2001 | 00-06-1563A | 02
06 | LA | RAPIDES PARISH | 2201450125B | 07-FEB-2001 | 00-06-1811A | 02
06 | LA | RAPIDES PARISH | 2201450235D | 06-JUN-2001 | 01-06-1161A | 01
06 | LA | RAPIDES PARISH | 2201450250C | 30-MAY-2001 | 01-06-1209A | 02
06 | LA | RAPIDES PARISH | 2201450140D | 08-JUN-2001 | 01-06-1282A | 02
06 | LA | RAPIDES PARISH | 2201450140D | 13-JUN-2001 | 01-06-1283A | 02
06 | LA | RAPIDES PARISH | 2201450250C | 13-APR-2001 | 01-06-242A | 02
06 | LA | RAPIDES PARISH | 2201450250C | 14-FEB-2001 | 01-06-291A | 02
06 | LA | RAPIDES PARISH | 2201450255C | 25-APR-2001 | 01-06-470A | 02
06 | LA | RAPIDES PARISH | 2201450250C | 20-JUN-2001 | 01-06-533A | 02
06 | LA | RAPIDES PARISH | 2201450235D | 09-MAY-2001 | 01-06-830A | 02
06 | LA | SCOTT, CITY OF | 22055C0040H | 11-MAY-2001 | 01-06-720A | 02
06 | LA | SCOTT, CITY OF | 22055C0040H | 30-MAR-2001 | 01-06-730A | 02
06 | LA | SHREVEPORT, CITY OF | 22017C0452F | 09-FEB-2001 | 00-06-1676A | 02
06 | LA | SHREVEPORT, CITY OF | 22017C0451F | 09-FEB-2001 | 00-06-1888A | 02
06 | LA | SHREVEPORT, CITY OF | 22017C0487F | 23-FEB-2001 | 01-06-005A | 02
06 | LA | SHREVEPORT, CITY OF | 22017C0451F | 30-MAY-2001 | 01-06-1181A | 02
06 | LA | SHREVEPORT, CITY OF | 22017C0487F | 13-JUN-2001 | 01-06-1316A | 02
06 | LA | SHREVEPORT, CITY OF | 22017C0451F | 29-JUN-2001 | 01-06-1406A | 02
06 | LA | SHREVEPORT, CITY OF | 22017C0486F | 06-APR-2001 | 01-06-176A | 02
06 | LA | SHREVEPORT, CITY OF | 22017C0488F | 06-APR-2001 | 01-06-176A | 02
06 | LA | SHREVEPORT, CITY OF | 22017C0488F | 30-MAR-2001 | 01-06-252A | 02
06 | LA | SHREVEPORT, CITY OF | 22017C0476F | 16-FEB-2001 | 01-06-352A | 02
06 | LA | SHREVEPORT, CITY OF | 22017C0489 | 14-FEB-2001 | 01-06-442A | 02
06 | LA | SHREVEPORT, CITY OF | 22017C0486F | 13-APR-2001 | 01-06-450A | 02
06 | LA | SHREVEPORT, CITY OF | 22017C0487F | 25-APR-2001 | 01-06-453A | 02
06 | LA | SHREVEPORT, CITY OF | 22017C0487F | 09-MAR-2001 | 01-06-458A | 02
06 | LA | SHREVEPORT, CITY OF | 22017C0477F | 27-APR-2001 | 01-06-562A | 02
06 | LA | SHREVEPORT, CITY OF | 22017C0476F | 09-MAR-2001 | 01-06-616A | 02
06 | LA | SHREVEPORT, CITY OF | 22017C0476F | 09-MAR-2001 | 01-06-628A | 02
06 | LA | SHREVEPORT, CITY OF | 22017C0487F | 04-MAY-2001 | 01-06-691A | 02
06 | LA | SHREVEPORT, CITY OF | 22017C0478F | 23-MAR-2001 | 01-06-846A | 02
06 | LA | SLIDELL, CITY OF | 2202040010C | 18-MAY-2001 | 00-06-1362A | 01
06 | LA | ST. LANDRY PARISH | 2201650400C | 07-FEB-2001 | 01-06-182A | 02
06 | LA | ST. LANDRY PARISH | 2201650325C | 21-FEB-2001 | 01-06-405A | 02
06 | LA | ST. MARTIN PARISH | 2201780225B | 20-APR-2001 | 01-06-457A | 02
06 | LA | ST. TAMMANY PARISH | 2252050430D | 13-JUN-2001 | 01-06-1113A | 02
06 | LA | ST. TAMMANY PARISH | 2252050245C | 20-APR-2001 | 01-06-120A | 01
06 | LA | ST. TAMMANY PARISH | 2252050230C | 27-JUN-2001 | 01-06-207A | 01
06 | LA | ST. TAMMANY PARISH | 2252050220C | 23-MAR-2001 | 01-06-317A | 02
06 | LA | ST. TAMMANY PARISH | 2252050300C | 11-APR-2001 | 01-06-332A | 02
06 | LA | TANGIPAHOA PARISH | 2202060025D | 13-JUN-2001 | 00-06-1424A | 02
06 | LA | TANGIPAHOA PARISH | 2202060175E | 23-MAY-2001 | 01-06-1064A | 02
06 | LA | TANGIPAHOA PARISH | 2202060225E | 25-MAY-2001 | 01-06-1094A | 02
06 | LA | TANGIPAHOA PARISH | 2202060225E | 18-APR-2001 | 01-06-647A | 02
06 | LA | TANGIPAHOA PARISH | 2202060165E | 06-JUN-2001 | 01-06-683A | 01
06 | LA | TANGIPAHOA PARISH | 2202060225E | 06-APR-2001 | 01-06-731A | 02
06 | LA | UNION PARISH | 2203590250C | 14-MAR-2001 | 01-06-059A | 02
06 | LA | VILLE PLATTE, TOWN OF | 2200700001C | 25-APR-2001 | 01-06-1070A | 01
06 | LA | VILLE PLATTE, TOWN OF | 2200700001C | 14-FEB-2001 | 01-06-284A | 08
06 | LA | WALKER, TOWN OF | 2201210001A | 20-APR-2001 | 01-06-179A | 01
06 | LA | WEST CARROLL PARISH | 22024311B | 29-JUN-2001 | 01-06-1255A | 02
06 | LA | WEST CARROLL PARISH | 22024315B | 20-APR-2001 | 01-06-364A | 02
06 | LA | YOUNGSVILLE, VILLAGE OF | 22055C0065G | 13-APR-2001 | 01-06-515A | 02
06 | NM | ALBUQUERQUE, CITY OF | 35001C0339D | 07-FEB-2001 | 01-06-134A | 02
06 | NM | ALBUQUERQUE, CITY OF | 35001C0339D | 17-JAN-2001 | 01-06-212A | 02
06 | NM | ALBUQUERQUE, CITY OF | 35001C0357D | 14-FEB-2001 | 01-06-365A | 02
06 | NM | ALBUQUERQUE, CITY OF | 35001C0141D | 20-JUN-2001 | 01-06-660A | 01
06 | NM | BERNALILLO COUNTY | 35001C0339D | 06-JUN-2001 | 01-06-1153A | 02
06 | NM | BERNALILLO COUNTY | 35001C0109D | 16-MAR-2001 | 01-06-638A | 02
06 | NM | BERNALILLO, TOWN OF | 35001C0339D | 14-FEB-2001 | 01-06-116A | 02
06 | NM | CARLSBAD, CITY OF | 3500170004C | 01-JUN-2001 | 01-06-606A | 02
06 | NM | CARLSBAD, CITY OF | 3500170012C | 06-APR-2001 | 01-06-652A | 01
06 | NM | LAS CRUCES, CITY OF | 35013C0631E | 20-JUN-2001 | 01-06-114A | 01
06 | NM | LAS CRUCES, CITY OF | 35013C0632F | 20-JUN-2001 | 01-06-114A | 01
06 | NM | LAS CRUCES, CITY OF | 35013C0633E | 20-JUN-2001 | 01-06-114A | 01
06 | NM | LAS CRUCES, CITY OF | 35013C0634E | 20-JUN-2001 | 01-06-114A | 01
06 | NM | LOS LUNAS, VILLAGE OF | 3501440005A | 03-JAN-2001 | 01-06-001A | 02
06 | NM | LOS LUNAS, VILLAGE OF | 3501440005A | 31-JAN-2001 | 01-06-060A | 02
06 | NM | LOS LUNAS, VILLAGE OF | 3501440005A | 30-MAY-2001 | 01-06-1136A | 02
06 | NM | LOS LUNAS, VILLAGE OF | 3501440005A | 07-FEB-2001 | 01-06-553A | 02
06 | NM | LOS LUNAS, VILLAGE OF | 3501440005A | 07-FEB-2001 | 01-06-569A | 02
06 | NM | LOS LUNAS, VILLAGE OF | 3501440005A | 21-FEB-2001 | 01-06-600A | 02
06 | NM | OTERO COUNTY | 3500440021B | 02-MAY-2001 | 01-06-686A | 02
06 | NM | SANTA FE, CITY OF | 3500700003B | 02-MAR-2001 | 01-06-389A | 02
06 | NM | VALENCIA COUNTY | 3500860185D | 02-FEB-2001 | 00-06-1565A | 01
06 | NM | VALENCIA COUNTY | 3500860195D | 09-FEB-2001 | 01-06-067A | 02
06 | OK | ADA, CITY OF |  | 03-JAN-2001 | 00-06-1718A | 02
06 | OK | BIXBY, TOWN OF | 40143C0610H | 23-MAR-2001 | 01-06-802A | 02
06 | OK | BROKEN ARROW, CITY OF | 40143C0631H | 08-JUN-2001 | 01-06-1200A | 02
06 | OK | BROKEN ARROW, CITY OF | 40143C0534H | 11-APR-2001 | 01-06-936A | 02
06 | OK | CLAREMORE, CITY OF | 4053750005F | 31-JAN-2001 | 00-06-1656A | 02
06 | OK | COMANCHE COUNTY | 40031C0150C | 20-JUN-2001 | 01-06-1303A | 02
06 | OK | COMANCHE COUNTY | 40031C0350C | 23-MAR-2001 | 01-06-637A | 02
06 | OK | COWETA, CITY OF | 4002160001A | 14-FEB-2001 | 00-06-1759A | 01
06 | OK | CRAIG COUNTY | 4005400200A | 16-FEB-2001 | 01-06-198A | 02
06 | OK | DEL CITY, CITY OF | 4002330003D | 18-MAY-2001 | 01-06-594A | 02
06 | OK | DELAWARE COUNTY | 4005020025C | 10-JAN-2001 | 00-06-1151A | 02
06 | OK | DELAWARE COUNTY | 4005020025C | 31-JAN-2001 | 00-06-1467A | 02
06 | OK | DELAWARE COUNTY | 4005020050C | 09-FEB-2001 | 01-06-021A | 02
06 | OK | DELAWARE COUNTY | 4005020025C | 27-APR-2001 | 01-06-1067A | 02
06 | OK | DELAWARE COUNTY | 4005020050C | 18-MAY-2001 | 01-06-1069A | 02
06 | OK | DELAWARE COUNTY | 4005020025C | 06-JUN-2001 | 01-06-1115A | 02
06 | OK | DELAWARE COUNTY | 4005020050C | 02-FEB-2001 | 01-06-285A | 02
06 | OK | DELAWARE COUNTY | 4005020050C | 23-MAY-2001 | 01-06-334A | 02
06 | OK | DELAWARE COUNTY | 4005020025C | 15-JUN-2001 | 01-06-345A | 02
06 | OK | DELAWARE COUNTY | 4005020050C | 14-MAR-2001 | 01-06-541A | 02
06 | OK | DELAWARE COUNTY | 4005020075C | 01-JUN-2001 | 01-06-582A | 02
06 | OK | DUNCAN, CITY OF | 40137C0085D | 17-JAN-2001 | 01-06-124A | 02
06 | OK | EDMOND, CITY OF | 4002520005B | 09-FEB-2001 | 00-06-1503A | 02
06 | OK | EDMOND, CITY OF | 4002520045B | 23-MAR-2001 | 01-06-076A | 17
06 | OK | EDMOND, CITY OF | 4002520005B | 25-MAY-2001 | 01-06-1104A | 17
06 | OK | EDMOND, CITY OF | 4002520005B | 11-APR-2001 | 01-06-268A | 02
06 | OK | ENID, CITY OF | 40047C0115C | 09-FEB-2001 | 01-06-036A | 02
06 | OK | ENID, CITY OF | 40047C0115C | 27-JUN-2001 | 01-06-1257A | 17
06 | OK | ENID, CITY OF | 40047C0095D | 28-MAR-2001 | 01-06-488A | 02
06 | OK | ENID, CITY OF | 40047C0115C | 16-MAR-2001 | 01-06-750A | 02
06 | OK | GROVE, TOWN OF | 4003850004C | 21-MAR-2001 | 00-06-1279A | 01
06 | OK | GROVE, TOWN OF | 4003850001B | 07-FEB-2001 | 01-06-029A | 02
06 | OK | GROVE, TOWN OF | 4003850004C | 18-MAY-2001 | 01-06-1057A | 02
06 | OK | GROVE, TOWN OF | 4003850004C | 08-JUN-2001 | 01-06-955A | 02
06 | OK | HENRYETTA, CITY OF | 4001440003C | 27-APR-2001 | 01-06-1068A | 02
06 | OK | INOLA, TOWN OF | 4004560005B | 27-JUN-2001 | 01-06-1378A | 02
06 | OK | JENKS, CITY OF | 40143C0494H | 04-MAY-2001 | 00-06-1429A | 01
06 | OK | JENKS, CITY OF | 40143C0513H | 04-MAY-2001 | 00-06-1429A | 01
06 | OK | JENKS, CITY OF | 40143C0605H | 07-FEB-2001 | 01-06-064A | 02
06 | OK | JENKS, CITY OF | 40143C0494H | 04-MAY-2001 | 01-06-1199A | 02
06 | OK | JENKS, CITY OF | 40143C0582H | 16-MAR-2001 | 01-06-235A | 02
06 | OK | KAY COUNTY | 4004770050A | 16-MAR-2001 | 01-06-329A | 02
06 | OK | KAY COUNTY | 4004770250A | 29-JUN-2001 | 01-06-842A | 02
06 | OK | KINGFISHER, CITY OF | 40008202A | 29-MAY-2001 | 00-06-1321A | 01
06 | OK | KINGFISHER, CITY OF | 40008202A | 29-MAY-2001 | 01-06-828A | 01
06 | OK | LAWTON, CITY OF | 40031C0258C | 06-JUN-2001 | 01-06-1152A | 01
06 | OK | LINCOLN COUNTY | 4004570275A | 23-FEB-2001 | 01-06-622A | 02
06 | OK | LOOKEBA, TOWN OF | 40015C0093D | 28-MAR-2001 | 01-06-811A | 02
06 | OK | MCCLAIN COUNTY | 4005380050A | 11-MAY-2001 | 01-06-286A | 02
06 | OK | MCCLAIN COUNTY | 4005380100B | 28-FEB-2001 | 01-06-563A | 02
06 | OK | MIDWEST CITY, CITY OF | 4004050015E | 27-JUN-2001 | 01-06-1390A | 02
06 | OK | MOORE, CITY OF | 40027C0037F | 16-MAR-2001 | 00-06-1710A | 02
06 | OK | MOORE, CITY OF | 40027C0037F | 08-JUN-2001 | 01-06-831A | 02
06 | OK | NORMAN,CITY OF | 40027C0115F | 02-FEB-2001 | 01-06-249A | 02
06 | OK | OKLAHOMA CITY, CITY OF | 4053780110C | 24-JAN-2001 | 00-06-1632A | 02
06 | OK | OKLAHOMA CITY, CITY OF | 4053780060C | 08-JAN-2001 | 00-06-1721A | 01
06 | OK | OKLAHOMA CITY, CITY OF | 4053780205D | 14-FEB-2001 | 00-06-1739A | 08
06 | OK | OKLAHOMA CITY, CITY OF | 4053780190F | 17-JAN-2001 | 00-06-1782A | 01
06 | OK | OKLAHOMA CITY, CITY OF | 4053780195C | 13-APR-2001 | 00-06-1876A | 02
06 | OK | OKLAHOMA CITY, CITY OF | 4053780160D | 31-JAN-2001 | 01-06-012A | 02
06 | OK | OKLAHOMA CITY, CITY OF | 4053780195C | 25-MAY-2001 | 01-06-1080A | 02
06 | OK | OKLAHOMA CITY, CITY OF | 4053780195C | 08-JUN-2001 | 01-06-1087A | 02
06 | OK | OKLAHOMA CITY, CITY OF | 4053780140C | 25-MAY-2001 | 01-06-1105A | 02
06 | OK | OKLAHOMA CITY, CITY OF | 4053780225F | 16-MAY-2001 | 01-06-1144A | 02
06 | OK | OKLAHOMA CITY, CITY OF | 4053780195C | 30-MAY-2001 | 01-06-1205A | 02
06 | OK | OKLAHOMA CITY, CITY OF | 4053780080C | 14-FEB-2001 | 01-06-125A | 02
06 | OK | OKLAHOMA CITY, CITY OF | 4053780195C | 17-JAN-2001 | 01-06-248A | 02
06 | OK | OKLAHOMA CITY, CITY OF | 4053780110C | 09-FEB-2001 | 01-06-430A | 02
06 | OK | OKLAHOMA CITY, CITY OF | 4053780195C | 27-APR-2001 | 01-06-441A | 02
06 | OK | OKLAHOMA CITY, CITY OF | 4053780205D | 20-APR-2001 | 01-06-474A | 02
06 | OK | OKLAHOMA CITY, CITY OF | 4053780160D | 07-MAR-2001 | 01-06-568A | 17
06 | OK | OKLAHOMA CITY, CITY OF |  | 24-MAY-2001 | 01-06-608P | 05
06 | OK | OKMULGEE COUNTY | 4004920050B | 09-FEB-2001 | 01-06-175A | 02
06 | OK | OKMULGEE COUNTY | 4004920150B | 13-APR-2001 | 01-06-497A | 02
06 | OK | OKMULGEE COUNTY | 4004920150B | 07-MAR-2001 | 01-06-500A | 02
06 | OK | OSAGE COUNTY | 4001460610D | 04-APR-2001 | 01-06-776A | 02
06 | OK | OWASSO, CITY OF | 40143C0238H | 28-FEB-2001 | 01-06-491A | 02
06 | OK | PAYNE COUNTY | 4004930160C | 31-JAN-2001 | 00-06-1346A | 02
06 | OK | PIEDMONT, CITY OF | 40017C0190D | 23-MAR-2001 | 01-06-778A | 02
06 | OK | POTTAWATOMIE COUNTY | 40125C0015D | 06-JUN-2001 | 01-06-1090A | 02
06 | OK | ROGERS COUNTY | 4053790100B | 14-FEB-2001 | 00-06-1412A | 02
06 | OK | ROGERS COUNTY | 4053790100B | 14-FEB-2001 | 00-06-1475A | 02
06 | OK | ROGERS COUNTY | 4053790120B | 07-FEB-2001 | 00-06-1535A | 02
06 | OK | ROGERS COUNTY | 4053790120B | 30-MAY-2001 | 01-06-1172A | 02
06 | OK | ROGERS COUNTY | 4053790100B | 29-JUN-2001 | 01-06-1403A | 02
06 | OK | ROGERS COUNTY | 4053790075B | 28-MAR-2001 | 01-06-287A | 02
06 | OK | ROGERS COUNTY | 4053790200B | 07-FEB-2001 | 01-06-367A | 02
06 | OK | ROGERS COUNTY | 4053790150B | 04-MAY-2001 | 01-06-409A | 02
06 | OK | ROGERS COUNTY | 4053790130C | 09-FEB-2001 | 01-06-446A | 02
06 | OK | ROGERS COUNTY | 4053790075B | 13-JUN-2001 | 01-06-692A | 02
06 | OK | SAPULPA, CITY OF | 4000530005B | 06-JUN-2001 | 01-06-1101A | 02
06 | OK | SAPULPA, CITY OF | 4000530005B | 04-MAY-2001 | 01-06-757A | 02
06 | OK | SEMINOLE, CITY OF | 40133C0068C | 03-JAN-2001 | 00-06-1693A | 02
06 | OK | SHAWNEE, CITY OF | 40125C0125D | 28-FEB-2001 | 01-06-618A | 02
06 | OK | SHAWNEE, CITY OF | 40125C0103D | 02-MAR-2001 | 01-06-625A | 02
06 | OK | SHAWNEE, CITY OF | 40125C0101D | 01-JUN-2001 | 01-06-651A | 02
06 | OK | SKIATOOK, TOWN OF | 40143C0201H | 29-JUN-2001 | 01-06-1419A | 02
06 | OK | STILLWATER, CITY OF | 4053800005D | 25-MAY-2001 | 01-06-1048A | 02
06 | OK | STILLWATER, CITY OF | 4053800005D | 28-MAR-2001 | 01-06-122A | 02
06 | OK | STILLWATER, CITY OF | 4053800003D | 22-JUN-2001 | 01-06-1346A | 02
06 | OK | TULSA COUNTY | 40143C0631H | 12-JAN-2001 | 01-06-020A | 02
06 | OK | TULSA COUNTY | 40143C0513H | 15-JUN-2001 | 01-06-1148A | 02
06 | OK | TULSA COUNTY | 40143C0520H | 22-JUN-2001 | 01-06-1308A | 02
06 | OK | TULSA, CITY OF | 40143C0530H | 23-FEB-2001 | 01-06-037A | 02
06 | OK | TULSA, CITY OF | 40143C0530H | 10-JAN-2001 | 01-06-071A | 02
06 | OK | TULSA, CITY OF | 40143C0540H | 08-JUN-2001 | 01-06-1194A | 02
06 | OK | TULSA, CITY OF | 40143C0520H | 20-JUN-2001 | 01-06-1321A | 02
06 | OK | TULSA, CITY OF | 40143C0530H | 07-FEB-2001 | 01-06-288A | 02
06 | OK | TULSA, CITY OF | 40143C0540H | 14-FEB-2001 | 01-06-297A | 02
06 | OK | TULSA, CITY OF | 40143C0505H | 16-MAR-2001 | 01-06-465A | 02
06 | OK | TULSA, CITY OF | 40143C0510H | 16-MAR-2001 | 01-06-465A | 02
06 | OK | TULSA, CITY OF | 40143C0510H | 16-MAR-2001 | 01-06-710A | 02
06 | OK | TULSA, CITY OF | 40143C0510H | 21-MAR-2001 | 01-06-711A | 02
06 | OK | TULSA, CITY OF | 40143C0540H | 07-MAR-2001 | 01-06-772A | 02
06 | OK | WASHINGTON COUNTY |  | 07-FEB-2001 | 01-06-133A | 02
06 | OK | WOODWARD, CITY OF | 4002320001B | 07-MAR-2001 | 01-06-231A | 02
06 | OK | YUKON, CITY OF | 40017C0340D | 03-JAN-2001 | 01-06-244A | 02
06 | OK | YUKON, CITY OF | 40017C0340D | 18-APR-2001 | 01-06-632A | 02
06 | OK | YUKON, CITY OF | 40017C0340D | 02-MAR-2001 | 01-06-639A | 02
06 | TX | ALICE, CITY OF | 4803940005C | 09-FEB-2001 | 01-06-370A | 01
06 | TX | ALLEN, CITY OF | 48085C0435G | 21-MAR-2001 | 01-06-801A | 17
06 | TX | ARLINGTON, CITY OF | 48439C0336J | 27-APR-2001 | 01-06-1106A | 02
06 | TX | ARLINGTON, CITY OF | 48439C0433J | 27-APR-2001 | 01-06-1112A | 02
06 | TX | ARLINGTON, CITY OF | 48439C0433J | 27-JUN-2001 | 01-06-1293A | 02
06 | TX | ARLINGTON, CITY OF | 48439C0441J | 31-JAN-2001 | 01-06-403A | 02
06 | TX | ARLINGTON, CITY OF | 48439C0431J | 07-MAR-2001 | 01-06-489A | 02
06 | TX | ARLINGTON, CITY OF | 48439C0319J | 21-FEB-2001 | 01-06-529A | 02
06 | TX | ARLINGTON, CITY OF | 48439C0336J | 08-JUN-2001 | 01-06-540A | 02
06 | TX | ARLINGTON, CITY OF | 48439C0319J | 29-JUN-2001 | 01-06-566A | 17
06 | TX | ARLINGTON, CITY OF | 48439C0341J | 13-JUN-2001 | 01-06-570A | 02
06 | TX | ARLINGTON, CITY OF | 48439C0461H | 09-MAY-2001 | 01-06-619A | 02
06 | TX | ARLINGTON, CITY OF | 48439C0441J | 07-MAR-2001 | 01-06-640A | 02
06 | TX | ARLINGTON, CITY OF | 48439C0319J | 25-MAY-2001 | 01-06-671A | 01
06 | TX | ARLINGTON, CITY OF | 48439C0319J | 20-APR-2001 | 01-06-727A | 02
06 | TX | ARLINGTON, CITY OF | 48439C0443H | 13-APR-2001 | 01-06-732A | 01
06 | TX | AUBREY, CITY OF | 48121C0265E | 20-JUN-2001 | 01-06-1129A | 02
06 | TX | AUSTIN COUNTY | 48015C0250D | 29-JUN-2001 | 01-06-1377A | 01
06 | TX | AUSTIN, CITY OF | 48453C0260F | 17-JAN-2001 | 00-06-1343A | 02
06 | TX | AUSTIN, CITY OF | 48453C0205E | 31-JAN-2001 | 00-06-1597A | 02
06 | TX | AUSTIN, CITY OF | 48453C0125E | 04-JAN-2001 | 00-06-212P | 05
06 | TX | AUSTIN, CITY OF | 48453C0160E | 04-JAN-2001 | 00-06-212P | 05
06 | TX | AUSTIN, CITY OF | 48453C0165E | 04-JAN-2001 | 00-06-212P | 05
06 | TX | AUSTIN, CITY OF | 48453C0200E | 11-MAY-2001 | 01-06-086A | 02
06 | TX | AUSTIN, CITY OF | 48453C0160E | 10-JAN-2001 | 01-06-108A | 02
06 | TX | AUSTIN, CITY OF | 48453C0255F | 22-JUN-2001 | 01-06-1322A | 02
06 | TX | AUSTIN, CITY OF |  | 03-JAN-2001 | 01-06-279P | 06
06 | TX | AUSTIN, CITY OF | 48453C0215G | 28-MAR-2001 | 01-06-721A | 02
06 | TX | AZLE, CITY OF | 48439C0232H | 16-MAY-2001 | 01-06-460A | 02
06 | TX | BANDERA COUNTY | 4800200265A | 02-FEB-2001 | 01-06-435A | 02
06 | TX | BEDFORD, CITY OF | 48439C0307J | 13-JUN-2001 | 01-06-728A | 02
06 | TX | BEDFORD, CITY OF | 48439C0309J | 04-APR-2001 | 01-06-762A | 02
06 | TX | BEDFORD, CITY OF | 48439C0307J | 04-APR-2001 | 01-06-810A | 02
06 | TX | BELL COUNTY | 4807060145B | 01-JUN-2001 | 01-06-1107A | 02
06 | TX | BELLAIRE, CITY OF | 48201C0855K | 07-FEB-2001 | 01-06-051A | 08
06 | TX | BELLAIRE, CITY OF | 48201C0855K | 21-FEB-2001 | 01-06-101A | 02
06 | TX | BELLAIRE, CITY OF | 48201C0855K | 20-APR-2001 | 01-06-419A | 02
06 | TX | BELLAIRE, CITY OF | 48201C0855K | 18-APR-2001 | 01-06-424A | 02
06 | TX | BENBROOK, CITY OF | 48439C0390J | 13-JUN-2001 | 01-06-1121A | 02
06 | TX | BENBROOK, CITY OF | 48439C0390J | 06-JUN-2001 | 01-06-1216A | 02
06 | TX | BENBROOK, CITY OF | 48439C0380H | 08-JUN-2001 | 01-06-1222A | 02
06 | TX | BENBROOK, CITY OF | 48439C0390J | 14-FEB-2001 | 01-06-514A | 02
06 | TX | BENBROOK, CITY OF | 48439C0390J | 14-FEB-2001 | 01-06-524A | 02
06 | TX | BENBROOK, CITY OF | 48439C0390J | 15-JUN-2001 | 01-06-643A | 02
06 | TX | BENBROOK, CITY OF | 48439C0390J | 07-MAR-2001 | 01-06-752A | 02
06 | TX | BEXAR COUNTY | 48029C0477E | 04-APR-2001 | 00-06-1330A | 02
06 | TX | BEXAR COUNTY | 48029C0405E | 07-FEB-2001 | 00-06-1845A | 02
06 | TX | BEXAR COUNTY | 48029C0257E | 13-JUN-2001 | 01-06-1188A | 02
06 | TX | BEXAR COUNTY | 48029C0140E | 27-APR-2001 | 01-06-627A | 02
06 | TX | BEXAR COUNTY | 48029C0243E | 21-MAR-2001 | 01-06-709A | 02
06 | TX | BRAZORIA COUNTY | 48039C0010I | 15-JUN-2001 | 01-06-1203A | 01
06 | TX | BRAZORIA COUNTY | 48039C0010I | 27-JUN-2001 | 01-06-1375A | 01
06 | TX | BRAZORIA COUNTY | 48039C0010I | 27-JUN-2001 | 01-06-1376A | 01
06 | TX | BRAZORIA COUNTY | 48039C0030I | 14-FEB-2001 | 01-06-528A | 02
06 | TX | BRAZORIA COUNTY | 48039C0030I | 16-MAR-2001 | 01-06-693A | 02
06 | TX | BRAZORIA COUNTY | 48039C0010I | 11-APR-2001 | 01-06-722A | 01
06 | TX | BRAZORIA COUNTY | 48039C0030I | 11-APR-2001 | 01-06-722A | 01
06 | TX | BRAZORIA COUNTY | 48039C0030I | 04-APR-2001 | 01-06-771A | 02
06 | TX | BRAZOS COUNTY | 48041C0142C | 03-JAN-2001 | 00-06-1863A | 02
06 | TX | BROWN COUNTY | 4807170004B | 14-MAR-2001 | 01-06-237A | 02
06 | TX | BROWN COUNTY | 4807170006B | 18-MAY-2001 | 01-06-679A | 02
06 | TX | BRYAN, CITY OF | 48041C0131C | 08-JUN-2001 | 01-06-1062A | 02
06 | TX | BRYAN, CITY OF | 48041C0142C | 20-JUN-2001 | 01-06-1176A | 02
06 | TX | BURNET COUNTY | 48053C0284C | 01-JUN-2001 | 01-06-402A | 02
06 | TX | CAMERON COUNTY | 4801010350B | 06-JUN-2001 | 01-06-635A | 01
06 | TX | CANTON, CITY OF | 4806320003B | 31-JAN-2001 | 01-06-085A | 02
06 | TX | CARROLLTON, CITY OF |  | 04-JAN-2001 | 00-06-1508P | 05
06 | TX | CARROLLTON, CITY OF | 4801670005G | 29-JUN-2001 | 01-06-1449A | 02
06 | TX | CARROLLTON, CITY OF | 4801670005G | 17-JAN-2001 | 01-06-246A | 02
06 | TX | CARROLLTON, CITY OF | 4801670015F | 21-MAR-2001 | 01-06-434A | 02
06 | TX | CARROLLTON, CITY OF |  | 23-FEB-2001 | 01-06-512P | 06
06 | TX | COLLEGE STATION, CITY OF | 48041C0142C | 31-JAN-2001 | 01-06-264A | 01
06 | TX | COLLEGE STATION, CITY OF | 48041C0142C | 25-MAY-2001 | 01-06-770A | 01
06 | TX | COLLEYVILLE, CITY OF | 48439C0215H | 17-JAN-2001 | 01-06-216A | 02
06 | TX | COMAL COUNTY | 4854630090C | 27-JUN-2001 | 01-06-1248A | 17
06 | TX | COPPELL, CITY OF | 4801700010E | 13-APR-2001 | 00-06-1706A | 02
06 | TX | COPPELL, CITY OF | 4801700010E | 08-JAN-2001 | 01-06-040A | 02
06 | TX | DALLAS COUNTY | 4801650040B | 04-APR-2001 | 01-06-062A | 01
06 | TX | DALLAS, CITY OF | 4801710180D | 09-FEB-2001 | 01-06-008A | 08
06 | TX | DALLAS, CITY OF | 4801710180D | 14-FEB-2001 | 01-06-009A | 02
06 | TX | DALLAS, CITY OF | 4801710205D | 17-JAN-2001 | 01-06-032A | 02
06 | TX | DALLAS, CITY OF | 4801710085D | 08-JUN-2001 | 01-06-1149A | 01
06 | TX | DALLAS, CITY OF | 4801710185D | 22-JUN-2001 | 01-06-1313A | 02
06 | TX | DALLAS, CITY OF | 4801710095C | 23-FEB-2001 | 01-06-333A | 02
06 | TX | DENTON COUNTY | 48121C0510E | 13-JUN-2001 | 01-06-1249A | 01
06 | TX | DENTON, CITY OF | 48121C0380E | 31-JAN-2001 | 00-06-1786A | 01
06 | TX | DENTON, CITY OF | 48121C0388E | 03-JAN-2001 | 01-06-118A | 01
06 | TX | DENTON, CITY OF | 48121C0388E | 25-APR-2001 | 01-06-829A | 01
06 | TX | DESOTO, CITY OF | 4801720020C | 17-JAN-2001 | 00-06-1765A | 02
06 | TX | EDINBURG,CITY OF | 4803380030E | 31-JAN-2001 | 01-06-074A | 02
06 | TX | EDINBURG,CITY OF | 4803380030E | 29-JUN-2001 | 01-06-676A | 01
06 | TX | EL PASO, CITY OF | 4802140048B | 28-FEB-2001 | 01-06-339A | 01
06 | TX | FARMERS BRANCH, CITY OF | 4801740005C | 25-MAY-2001 | 01-06-1122A | 02
06 | TX | FLOWER MOUND, TOWN OF | 48121C0520E | 18-APR-2001 | 01-06-555A | 02
06 | TX | FLOWER MOUND, TOWN OF | 48121C0545E | 11-APR-2001 | 01-06-724A | 02
06 | TX | FLOWER MOUND, TOWN OF | 48121C0540E | 06-APR-2001 | 01-06-742A | 02
06 | TX | FORT BEND COUNTY | 48157C0120J | 17-JAN-2001 | 01-06-324A | 02
06 | TX | FORT BEND COUNTY L.I.D. #2 | 48157C0255J | 19-APR-2001 | 00-06-1457A | 01
06 | TX | FORT WORTH, CITY OF | 48439C0395J | 21-MAR-2001 | 00-06-1491P | 06
06 | TX | FORT WORTH, CITY OF | 48439C0380H | 21-FEB-2001 | 00-06-1868A | 02
06 | TX | FORT WORTH, CITY OF | 48439C0395H | 31-JAN-2001 | 01-06-002A | 08
06 | TX | FORT WORTH, CITY OF | 48439C0312J | 20-JUN-2001 | 01-06-081A | 01
06 | TX | FORT WORTH, CITY OF | 48439C0295J | 13-JUN-2001 | 01-06-1225A | 17
06 | TX | FORT WORTH, CITY OF | 48439C0395J | 08-JUN-2001 | 01-06-1252A | 02
06 | TX | FORT WORTH, CITY OF | 48439C0385J | 20-JUN-2001 | 01-06-1297A | 02
06 | TX | FORT WORTH, CITY OF | 48439C0290J | 21-FEB-2001 | 01-06-192A | 02
06 | TX | FORT WORTH, CITY OF | 48439C0395J | 17-JAN-2001 | 01-06-316A | 02
06 | TX | FORT WORTH, CITY OF | 48439C0270J | 20-APR-2001 | 01-06-412A | 02
06 | TX | FORT WORTH, CITY OF | 48439C0395J | 14-MAR-2001 | 01-06-669A | 02
06 | TX | FORT WORTH, CITY OF | 48439C0395J | 21-FEB-2001 | 01-06-675A | 02
06 | TX | FORT WORTH, CITY OF | 48439C0395J | 16-MAR-2001 | 01-06-700A | 02
06 | TX | FORT WORTH, CITY OF | 48439C0395J | 07-MAR-2001 | 01-06-734A | 02
06 | TX | FORT WORTH, CITY OF | 48439C0395J | 11-APR-2001 | 01-06-741A | 02
06 | TX | FORT WORTH, CITY OF | 48439C0390J | 04-APR-2001 | 01-06-743A | 02
06 | TX | FORT WORTH, CITY OF | 48439C0280J | 13-APR-2001 | 01-06-747A | 02
06 | TX | FORT WORTH, CITY OF | 48439C0395J | 22-JUN-2001 | 01-06-836A | 02
06 | TX | FREDERICKSBURG, CITY OF | 4806960007B | 21-MAR-2001 | 01-06-354A | 02
06 | TX | FREEPORT, CITY OF | 48039C0780I | 11-APR-2001 | 01-06-602A | 01
06 | TX | FRISCO, CITY OF | 48085C0265G | 01-FEB-2001 | 01-06-326A | 02
06 | TX | FRISCO, CITY OF |  | 01-FEB-2001 | 01-06-326A | 02
06 | TX | FRISCO, CITY OF | 48085C0265G | 02-FEB-2001 | 01-06-449A | 02
06 | TX | FRISCO, CITY OF |  | 02-FEB-2001 | 01-06-449A | 02
06 | TX | FRISCO, CITY OF | 48085C0265G | 25-APR-2001 | 01-06-740A | 01
06 | TX | GARLAND, CITY OF | 4854710030E | 20-JUN-2001 | 01-06-1319A | 02
06 | TX | GARLAND, CITY OF | 4854710015D | 31-JAN-2001 | 01-06-221A | 02
06 | TX | GARLAND, CITY OF | 4854710015D | 14-FEB-2001 | 01-06-421A | 02
06 | TX | GARLAND, CITY OF | 4854710030E | 14-FEB-2001 | 01-06-422A | 02
06 | TX | GILLESPIE COUNTY | 4806960007B | 24-JAN-2001 | 00-06-1709A | 02
06 | TX | GILLESPIE COUNTY | 4806960009B | 13-JUN-2001 | 01-06-1077A | 02
06 | TX | GILLESPIE COUNTY | 4806960007B | 27-JUN-2001 | 01-06-1383A | 02
06 | TX | GILLESPIE COUNTY | 4806960007B | 18-APR-2001 | 01-06-682A | 02
06 | TX | GRANBURY, CITY OF | 4803570005B | 22-JUN-2001 | 01-06-371A | 01
06 | TX | GREENVILLE, CITY OF | 48231C0180F | 11-MAY-2001 | 01-06-1065A | 02
06 | TX | GREENVILLE, CITY OF | 48231C0180F | 11-MAY-2001 | 01-06-1066A | 02
06 | TX | GREENVILLE, CITY OF | 48231C0180F | 14-FEB-2001 | 01-06-315A | 08
06 | TX | GREENVILLE, CITY OF | 48231C0180F | 18-MAY-2001 | 01-06-812A | 17
06 | TX | GUADALUPE COUNTY | 4802660150C | 11-MAY-2001 | 01-06-654A | 02
06 | TX | GUN BARREL, CITY OF | 48213C0030D | 16-MAY-2001 | 01-06-834A | 02
06 | TX | HALTOM CITY, CITY OF | 48439C0295J | 07-FEB-2001 | 01-06-236A | 02
06 | TX | HARRIS COUNTY | 48201C0445K | 21-MAR-2001 | 00-06-1792A | 17
06 | TX | HARRIS COUNTY | 48201C0230J | 06-JUN-2001 | 01-06-1162A | 02
06 | TX | HARRIS COUNTY | 48201C0230J | 08-JUN-2001 | 01-06-1238A | 17
06 | TX | HARRIS COUNTY | 48201C0430K | 08-JUN-2001 | 01-06-1291A | 02
06 | TX | HARRIS COUNTY | 48201C0315K | 22-JUN-2001 | 01-06-1349A | 02
06 | TX | HARRIS COUNTY | 48201C0455J | 15-JUN-2001 | 01-06-1357A | 02
06 | TX | HARRIS COUNTY | 48201C0460J | 15-JUN-2001 | 01-06-1357A | 02
06 | TX | HARRIS COUNTY |  | 28-FEB-2001 | 01-06-187A | 02
06 | TX | HARRIS COUNTY | 48201C0245K | 16-MAR-2001 | 01-06-485A | 02
06 | TX | HARRIS COUNTY | 48201C0235K | 21-FEB-2001 | 01-06-502A | 02
06 | TX | HARRIS COUNTY | 48201C0255J | 21-FEB-2001 | 01-06-576A | 01
06 | TX | HARRIS COUNTY | 48201C0245K | 04-APR-2001 | 01-06-699A | 17
06 | TX | HARRIS COUNTY | 48201C0445K | 21-MAR-2001 | 01-06-746A | 02
06 | TX | HARRIS COUNTY | 48201C0255J | 28-MAR-2001 | 01-06-782A | 02
06 | TX | HARRIS COUNTY | 48201C0320K | 28-MAR-2001 | 01-06-837A | 02
06 | TX | HARRIS COUNTY | 48201C0320K | 23-MAY-2001 | 01-06-838A | 01
06 | TX | HARRIS COUNTY | 48201C0320K | 25-APR-2001 | 01-06-973A | 02
06 | TX | HAYS COUNTY | 48209C0105E | 25-APR-2001 | 01-06-358A | 02
06 | TX | HAYS COUNTY | 48209C0115E | 25-APR-2001 | 01-06-358A | 02
06 | TX | HENDERSON COUNTY | 48213C0180C | 13-JUN-2001 | 01-06-704A | 02
06 | TX | HENDERSON COUNTY | 48213C0040D | 28-MAR-2001 | 01-06-835A | 02
06 | TX | HICKORY CREEK, TOWN OF | 48121C0531E | 26-JAN-2001 | 00-06-1490A | 02
06 | TX | HIDALGO COUNTY | 4803340275B | 21-FEB-2001 | 00-06-1815A | 01
06 | TX | HIDALGO COUNTY | 4803340290D | 21-FEB-2001 | 00-06-1815A | 01
06 | TX | HIDALGO COUNTY | 4803340290D | 17-JAN-2001 | 01-06-063A | 02
06 | TX | HIDALGO COUNTY | 4803340295D | 17-JAN-2001 | 01-06-063A | 02
06 | TX | HIDALGO COUNTY | 4803340290D | 07-MAR-2001 | 01-06-522A | 01
06 | TX | HIDALGO COUNTY | 4803340295D | 07-MAR-2001 | 01-06-522A | 01
06 | TX | HIDALGO COUNTY | 4803340350C | 18-APR-2001 | 01-06-760A | 02
06 | TX | HIDALGO COUNTY | 0400C | 31-JAN-2001 | 6-90-158 | 06
06 | TX | HIDALGO COUNTY | 4803340400C | 31-JAN-2001 | 6-90-158 | 06
06 | TX | HOOD COUNTY | 4803560130C | 31-JAN-2001 | 01-06-043A | 02
06 | TX | HOOD COUNTY | 4803560045B | 03-JAN-2001 | 01-06-290A | 08
06 | TX | HOOD COUNTY | 4803560065B | 26-JAN-2001 | 01-06-516A | 02
06 | TX | HOOD COUNTY | 4803560145B | 13-JUN-2001 | 01-06-696A | 02
06 | TX | HOUSTON COUNTY | 48201C0670K | 21-MAR-2001 | 01-06-314A | 02
06 | TX | HOUSTON COUNTY | 48201C0320K | 14-FEB-2001 | 01-06-428A | 02
06 | TX | HOUSTON, CITY OF | 48201C0845K | 26-JAN-2001 | 00-06-1849A | 08
06 | TX | HOUSTON, CITY OF | 48201C0865K | 28-FEB-2001 | 01-06-018A | 02
06 | TX | HOUSTON, CITY OF | 48201C0865K | 20-JUN-2001 | 01-06-083A | 02
06 | TX | HOUSTON, CITY OF | 48201C0865K | 27-APR-2001 | 01-06-1075A | 02
06 | TX | HOUSTON, CITY OF | 48201C0865K | 25-APR-2001 | 01-06-1110A | 02
06 | TX | HOUSTON, CITY OF | 48201C0320K | 30-MAY-2001 | 01-06-1211A | 02
06 | TX | HOUSTON, CITY OF | 48201C0835K | 08-JUN-2001 | 01-06-1298A | 02
06 | TX | HOUSTON, CITY OF | 48201C0865K | 15-JUN-2001 | 01-06-1301A | 02
06 | TX | HOUSTON, CITY OF | 48201C0490J | 22-JUN-2001 | 01-06-1304A | 01
06 | TX | HOUSTON, CITY OF | 48201C0320K | 08-JAN-2001 | 01-06-132A | 02
06 | TX | HOUSTON, CITY OF | 48201C0665K | 28-MAR-2001 | 01-06-188A | 02
06 | TX | HOUSTON, CITY OF | 48201C0865K | 14-MAR-2001 | 01-06-189A | 02
06 | TX | HOUSTON, CITY OF | 48201C0860K | 21-MAR-2001 | 01-06-218A | 02
06 | TX | HOUSTON, CITY OF | 48201C0855K | 28-MAR-2001 | 01-06-241A | 02
06 | TX | HOUSTON, CITY OF | 48201C0310J | 26-JAN-2001 | 01-06-251A | 01
06 | TX | HOUSTON, CITY OF | 48201C0835K | 07-FEB-2001 | 01-06-271A | 08
06 | TX | HOUSTON, CITY OF | 48201C0320K | 10-JAN-2001 | 01-06-272A | 01
06 | TX | HOUSTON, CITY OF | 48201C0315K | 31-JAN-2001 | 01-06-274A | 02
06 | TX | HOUSTON, CITY OF | 48201C0320K | 19-JAN-2001 | 01-06-275A | 02
06 | TX | HOUSTON, CITY OF | 48201C0320K | 31-JAN-2001 | 01-06-276A | 02
06 | TX | HOUSTON, CITY OF | 48201C1035K | 08-JAN-2001 | 01-06-289A | 02
06 | TX | HOUSTON, CITY OF | 48201C0840K | 04-APR-2001 | 01-06-292A | 02
06 | TX | HOUSTON, CITY OF | 48201C0305K | 04-MAY-2001 | 01-06-298A | 02
06 | TX | HOUSTON, CITY OF | 48201C0845K | 28-MAR-2001 | 01-06-353A | 17
06 | TX | HOUSTON, CITY OF | 48201C0655K | 14-FEB-2001 | 01-06-394A | 08
06 | TX | HOUSTON, CITY OF | 48201C0635K | 14-FEB-2001 | 01-06-399A | 08
06 | TX | HOUSTON, CITY OF | 48201C0320K | 31-JAN-2001 | 01-06-401A | 01
06 | TX | HOUSTON, CITY OF | 48201C0835K | 14-FEB-2001 | 01-06-433A | 02
06 | TX | HOUSTON, CITY OF | 48201C0835K | 07-MAR-2001 | 01-06-495A | 02
06 | TX | HOUSTON, CITY OF | 48201C0845K | 16-MAR-2001 | 01-06-517A | 02
06 | TX | HOUSTON, CITY OF | 48201C0840K | 16-MAR-2001 | 01-06-552A | 02
06 | TX | HOUSTON, CITY OF | 48201C0835K | 04-APR-2001 | 01-06-621A | 02
06 | TX | HOUSTON, CITY OF | 48201C0315K | 16-MAR-2001 | 01-06-678A | 02
06 | TX | HOUSTON, CITY OF | 48201C0835K | 06-APR-2001 | 01-06-695A | 02
06 | TX | HOUSTON, CITY OF | 48201C0880K | 30-MAY-2001 | 01-06-994A | 02
06 | TX | HURST, CITY OF | 48439C0312J | 13-JUN-2001 | 01-06-1271A | 02
06 | TX | HURST, CITY OF | 48439C0312J | 13-JUN-2001 | 01-06-1272A | 02
06 | TX | IRVING, CITY OF | 4801800035 | 20-FEB-2001 | 00-06-1081P | 05
06 | TX | IRVING, CITY OF | 4801800035C | 20-FEB-2001 | 00-06-1081P | 05
06 | TX | IRVING, CITY OF | 4801800035C | 10-JAN-2001 | 00-06-1381A | 01
06 | TX | IRVING, CITY OF | 4801800030D | 26-APR-2001 | 00-06-967P | 05
06 | TX | KERRVILLE, CITY OF | 48265C0165E | 01-JUN-2001 | 01-06-819A | 02
06 | TX | KILGORE, CITY OF | 4802630004D | 21-MAR-2001 | 01-06-211A | 02
06 | TX | KILGORE, CITY OF | 4802630004D | 09-MAY-2001 | 01-06-527A | 02
06 | TX | KIMBLE COUNTY | 4812320275A | 14-FEB-2001 | 01-06-053A | 02
06 | TX | LA VERNIA, CITY OF | 4810500001B | 18-MAY-2001 | 01-06-550A | 02
06 | TX | LAKEWAY, CITY OF | 48453C0330E | 15-JUN-2001 | 01-06-1241A | 02
06 | TX | LEAGUE CITY, CITY OF | 4854880030E | 29-JUN-2001 | 01-06-1084A | 01
06 | TX | LEANDER, CITY OF | 48491C0218C | 02-JAN-2001 | 00-06-430P | 05
06 | TX | LEWISVILLE, CITY OF |  | 24-JAN-2001 | 00-06-1209P | 06
06 | TX | LINDSAY, TOWN OF | 480766A | 26-JAN-2001 | 00-06-1380A | 02
06 | TX | LONGVIEW, CITY OF | 4802640010D | 11-MAY-2001 | 01-06-462A | 01
06 | TX | LONGVIEW, CITY OF | 4802640010D | 01-JUN-2001 | 01-06-646A | 02
06 | TX | LUBBOCK COUNTY | 4809150008A | 18-MAY-2001 | 01-06-1071A | 02
06 | TX | LUBBOCK, CITY OF | 4804520045C | 26-JAN-2001 | 00-06-1567A | 01
06 | TX | LUBBOCK, CITY OF | 4804520025C | 22-JUN-2001 | 01-06-1326A | 02
06 | TX | LUBBOCK, CITY OF | 4804520030B | 28-FEB-2001 | 01-06-513A | 02
06 | TX | LUBBOCK, CITY OF | 4804520025C | 11-APR-2001 | 01-06-712A | 01
06 | TX | MARBLE FALLS, CITY OF | 48053C0312C | 28-MAR-2001 | 01-06-277A | 02
06 | TX | MCALLEN, CITY OF | 4803430010C | 08-JUN-2001 | 01-06-1138A | 02
06 | TX | MEDINA COUNTY | 4804720175B | 08-JAN-2001 | 01-06-169A | 02
06 | TX | MESQUITE, CITY OF | 4854900010E | 06-APR-2001 | 01-06-764A | 02
06 | TX | MIDLAND COUNTY | 48329C0067E | 22-JUN-2001 | 01-06-1215A | 01
06 | TX | MIDLAND COUNTY | 48329C0087E | 07-FEB-2001 | 01-06-330A | 02
06 | TX | MIDLAND COUNTY | 48329C0067E | 06-APR-2001 | 01-06-805A | 02
06 | TX | MIDLAND, CITY OF | 48329C0044E | 19-JAN-2001 | 00-06-1872A | 02
06 | TX | MIDLAND, CITY OF | 48329C0088E | 08-JAN-2001 | 00-06-1873A | 02
06 | TX | MIDLAND, CITY OF | 48329C0089E | 30-MAY-2001 | 01-06-1120A | 02
06 | TX | MIDLAND, CITY OF | 48329C0069E | 30-MAY-2001 | 01-06-1214A | 02
06 | TX | MIDLAND, CITY OF | 48329C0069E | 20-JUN-2001 | 01-06-1246A | 02
06 | TX | MIDLAND, CITY OF | 48329C0088E | 22-JUN-2001 | 01-06-1333A | 02
06 | TX | MIDLAND, CITY OF | 48329C0100E | 03-JAN-2001 | 01-06-342A | 02
06 | TX | MIDLAND, CITY OF | 48329C0088E | 25-APR-2001 | 01-06-349A | 02
06 | TX | MIDLAND, CITY OF | 48329C0067E | 20-APR-2001 | 01-06-374A | 02
06 | TX | MIDLAND, CITY OF | 48329C0089E | 19-JAN-2001 | 01-06-438A | 02
06 | TX | MIDLAND, CITY OF | 48329C0066E | 31-JAN-2001 | 01-06-448A | 01
06 | TX | MIDLAND, CITY OF | 48329C0088E | 26-JAN-2001 | 01-06-454A | 02
06 | TX | MIDLAND, CITY OF | 48329C0067E | 02-FEB-2001 | 01-06-503A | 02
06 | TX | MIDLAND, CITY OF | 48329C0088E | 02-MAR-2001 | 01-06-688A | 02
06 | TX | MIDLAND, CITY OF | 48329C0066E | 20-APR-2001 | 01-06-706A | 01
06 | TX | MIDLAND, CITY OF | 48329C0088E | 20-APR-2001 | 01-06-845A | 02
06 | TX | MONTAGUE COUNTY | 48337C0070C | 18-MAY-2001 | 01-06-604A | 02
06 | TX | MONTGOMERY COUNTY | 48339C0205F | 23-FEB-2001 | 01-06-257A | 01
06 | TX | MONTGOMERY COUNTY | 48339C0210F | 21-MAR-2001 | 01-06-585A | 02
06 | TX | MONTGOMERY COUNTY | 48339C0490F | 14-MAR-2001 | 01-06-773A | 02
06 | TX | MONTGOMERY COUNTY | 48339C0530F | 18-MAY-2001 | 01-06-816A | 02
06 | TX | MONTGOMERY, CITY OF | 48339C0710F | 31-JAN-2001 | 01-06-075A | 02
06 | TX | ODESSA, CITY OF | 48135C0170D | 29-JUN-2001 | 01-06-1240A | 02
06 | TX | ODESSA, CITY OF | 48135C0140D | 29-JUN-2001 | 01-06-1367A | 02
06 | TX | ORANGE COUNTY | 4805100075C | 03-JAN-2001 | 00-06-1578A | 02
06 | TX | PANTEGO, TOWN OF | 48439C0433J | 08-JUN-2001 | 01-06-707A | 02
06 | TX | PEARLAND, CITY OF | 48039C0040I | 07-FEB-2001 | 00-06-1699A | 01
06 | TX | PEARLAND, CITY OF | 48039C0045J | 18-MAY-2001 | 01-06-390A | 01
06 | TX | PEARLAND, CITY OF | 48039C0040I | 13-APR-2001 | 01-06-986A | 01
06 | TX | PLAINVIEW, CITY OF | 4802750005B | 21-FEB-2001 | 01-06-383A | 01
06 | TX | PLANO, CITY OF | 48085C0440G | 09-FEB-2001 | 01-06-099A | 02
06 | TX | PLANO, CITY OF | 48085C0420G | 04-APR-2001 | 01-06-808A | 17
06 | TX | POLK COUNTY | 4805260006B | 07-MAR-2001 | 01-06-745A | 02
06 | TX | PORT ARTHUR, CITY OF | 4854990035E | 20-JUN-2001 | 01-06-467A | 02
06 | TX | RICHARDSON, CITY OF | 4801840005C | 09-MAR-2001 | 01-06-827A | 02
06 | TX | RICHLAND HILLS, CITY OF | 48439C0311J | 22-JUN-2001 | 01-06-1358A | 02
06 | TX | RICHLAND HILLS, CITY OF | 48439C0311J | 08-JAN-2001 | 01-06-255A | 02
06 | TX | ROCKWALL, CITY OF | 4805470005C | 15-JUN-2001 | 01-06-1157A | 02
06 | TX | ROUND ROCK, CITY OF | 48491C0240C | 25-APR-2001 | 01-06-069A | 01
06 | TX | ROUND ROCK, CITY OF | 48491C0330D | 25-APR-2001 | 01-06-069A | 01
06 | TX | ROUND ROCK, CITY OF | 48491C0330D | 25-APR-2001 | 01-06-737A | 02
06 | TX | RUSK COUNTY | 4809930050B | 02-MAR-2001 | 01-06-593A | 02
06 | TX | SAGINAW, CITY OF | 48439C0260H | 22-JUN-2001 | 01-06-1226A | 02
06 | TX | SAGINAW, CITY OF | 48439C0260H | 21-FEB-2001 | 01-06-506A | 02
06 | TX | SAN ANTONIO, CITY OF | 48029C0451E | 03-JAN-2001 | 01-06-004A | 02
06 | TX | SAN ANTONIO, CITY OF | 48029C0234E | 21-FEB-2001 | 01-06-073A | 02
06 | TX | SAN ANTONIO, CITY OF | 48029C0426E | 07-FEB-2001 | 01-06-098A | 02
06 | TX | SAN ANTONIO, CITY OF | 48029C0607E | 18-MAY-2001 | 01-06-1111A | 02
06 | TX | SAN ANTONIO, CITY OF | 48029C0282E | 20-JUN-2001 | 01-06-1192A | 02
06 | TX | SAN ANTONIO, CITY OF | 48029C0241E | 16-MAR-2001 | 01-06-381A | 02
06 | TX | SAN ANTONIO, CITY OF | 48029C0453E | 28-FEB-2001 | 01-06-487A | 02
06 | TX | SAN ANTONIO, CITY OF | 48029C0470E | 08-JUN-2001 | 01-06-526A | 02
06 | TX | SAN ANTONIO, CITY OF | 48029C0279E | 28-FEB-2001 | 01-06-561A | 02
06 | TX | SAN ANTONIO, CITY OF | 48029C0277E | 18-MAY-2001 | 01-06-726A | 02
06 | TX | SAN MARCOS, CITY OF | 48209C0193E | 16-MAR-2001 | 01-06-322A | 02
06 | TX | SEGUIN, CITY OF | 4855080010D | 27-JUN-2001 | 01-06-1399A | 02
06 | TX | SMITH COUNTY | 4811850330B | 10-JAN-2001 | 00-06-1680A | 01
06 | TX | STAGECOACH, CITY OF | 48339C0489F | 10-JAN-2001 | 01-06-341A | 17
06 | TX | STAGECOACH, CITY OF | 48339C0490F | 10-JAN-2001 | 01-06-341A | 17
06 | TX | STAR HARBOR, CITY OF | 48213C0150D | 02-FEB-2001 | 01-06-369A | 02
06 | TX | STOCKDALE, CITY OF | 4806730001B | 14-MAR-2001 | 01-06-321A | 02
06 | TX | SUGAR LAND, CITY OF | 48157C0255J | 23-MAY-2001 | 01-06-525A | 02
06 | TX | SUNRISE BEACH VILLAGE, CITY OF | 4815310001B | 21-MAR-2001 | 01-06-703A | 02
06 | TX | TARRANT COUNTY | 48439C0140H | 01-JUN-2001 | 01-06-774A | 02
06 | TX | TAYLOR COUNTY | 4810140006B | 06-APR-2001 | 00-06-1778A | 02
06 | TX | TRAVIS COUNTY | 48453C0245E | 15-JUN-2001 | 01-06-1140A | 02
06 | TX | TRAVIS COUNTY | 48453C0250E | 02-FEB-2001 | 01-06-173A | 02
06 | TX | TRAVIS COUNTY | 48453C0355E | 14-FEB-2001 | 01-06-592A | 02
06 | TX | TRAVIS COUNTY | 48453C0215G | 28-MAR-2001 | 01-06-725A | 02
06 | TX | TYLER, CITY OF | 4805710015B | 26-JAN-2001 | 01-06-375A | 08
06 | TX | VICTORIA, CITY OF | 4806380005G | 09-MAY-2001 | 01-06-1119A | 02
06 | TX | VICTORIA, CITY OF | 4806380010E | 09-MAY-2001 | 01-06-1130A | 02
06 | TX | VICTORIA, CITY OF | 4806380010E | 01-JUN-2001 | 01-06-1131A | 02
06 | TX | VICTORIA, CITY OF | 4806380010E | 06-JUN-2001 | 01-06-1191A | 02
06 | TX | VICTORIA, CITY OF | 4806380010E | 28-MAR-2001 | 01-06-411A | 02
06 | TX | WESTLAKE, TOWN OF | 48121C0655E | 16-MAR-2001 | 00-06-1107P | 05
06 | TX | WHARTON COUNTY | 4806520210C | 31-JAN-2001 | 01-06-492A | 08
07 | IA | ADEL, CITY OF | 19049C0118D | 17-JAN-2001 | 00-07-282A | 01
07 | IA | ADEL, CITY OF | 19049C0118D | 25-APR-2001 | 01-07-208A | 02
07 | IA | ANKENY, CITY OF | 1902260003C | 13-JUN-2001 | 01-07-450A | 02
07 | IA | BUTLER COUNTY | 1908500150B | 10-JAN-2001 | 01-07-094A | 02
07 | IA | BUTLER COUNTY | 1908500150B | 02-APR-2001 | 01-07-272A | 02
07 | IA | BUTLER COUNTY | 1908500050B | 23-MAY-2001 | 01-07-437A | 02
07 | IA | CEDAR FALLS, CITY OF | 1900170002B | 17-JAN-2001 | 01-07-161A | 02
07 | IA | CEDAR FALLS, CITY OF | 1900170002B | 14-FEB-2001 | 01-07-172A | 02
07 | IA | CEDAR FALLS, CITY OF | 1900170006B | 07-MAR-2001 | 01-07-223A | 02
07 | IA | CEDAR RAPIDS, CITY OF | 1901870020B | 30-MAY-2001 | 01-07-176A | 02
07 | IA | CLEAR LAKE, CITY OF | 1900590003B | 28-FEB-2001 | 01-07-191A | 02
07 | IA | CLEAR LAKE, CITY OF | 1900590003B | 27-JUN-2001 | 01-07-539A | 02
07 | IA | CLIVE, CITY OF | 1904880005C | 14-MAR-2001 | 01-07-196A | 02
07 | IA | CLIVE, CITY OF | 1904880005C | 04-MAY-2001 | 01-07-419A | 02
07 | IA | DALLAS COUNTY | 19049C0118D | 06-JUN-2001 | 01-07-447A | 02
07 | IA | DICKINSON COUNTY | 1908640075C | 25-APR-2001 | 01-07-135A | 02
07 | IA | DURANT, CITY OF | 19005033B | 18-MAY-2001 | 01-07-186A | 02
07 | IA | DURANT, CITY OF | 190050B | 27-APR-2001 | 01-07-276A | 01
07 | IA | ELY, CITY OF | 1904400001A | 09-MAR-2001 | 01-07-118A | 01
07 | IA | HARPERS FERRY, CITY OF | 190316A | 31-JAN-2001 | 01-07-026A | 02
07 | IA | HARRISON COUNTY | 1901430175A | 13-JUN-2001 | 01-07-414A | 02
07 | IA | HUMBOLDT, CITY OF | 1901550005B | 15-JUN-2001 | 01-07-413A | 02
07 | IA | JACKSON COUNTY | 1908790002B | 14-MAR-2001 | 01-07-240A | 02
07 | IA | JOHNSTON, CITY OF | 1907450004D | 02-MAY-2001 | 01-07-216A | 02
07 | IA | MANCHESTER, CITY OF |  | 08-JAN-2001 | 01-07-083A | 02
07 | IA | MARSHALLTOWN, CITY OF | 1902000001B | 07-MAR-2001 | 01-07-185A | 02
07 | IA | MARSHALLTOWN, CITY OF | 1902000002B | 11-APR-2001 | 01-07-187A | 02
07 | IA | MILLS COUNTY | 1908910025C | 02-MAR-2001 | 00-07-596A | 01
07 | IA | MUSCATINE COUNTY | 1908360010B | 29-JUN-2001 | 01-07-584A | 02
07 | IA | PLEASANT HILL, CITY OF | 1904890001B | 28-FEB-2001 | 00-07-762A | 02
07 | IA | ROCK VALLEY, CITY OF | 190253B02 | 14-FEB-2001 | 01-07-097A | 02
07 | IA | SPENCER, CITY OF | 1900710005B | 07-FEB-2001 | 01-07-217A | 02
07 | IA | SPENCER, CITY OF | 1900710005B | 20-JUN-2001 | 01-07-506A | 02
07 | IA | URBANDALE, CITY OF | 1902300010D | 12-JAN-2001 | 00-07-383A | 01
07 | IA | URBANDALE, CITY OF | 1902300010D | 06-JUN-2001 | 01-07-474A | 02
07 | IA | VAN METER, CITY OF | 19049C0192D | 06-JUN-2001 | 01-07-462A | 02
07 | IA | VOLGA, CITY OF | 19008501B | 11-APR-2001 | 00-07-578A | 02
07 | IA | WATERLOO, CITY OF | 1900250015E | 07-FEB-2001 | 00-07-714A | 08
07 | IA | WATERLOO, CITY OF | 1900250005E | 14-MAR-2001 | 01-07-247A | 02
07 | IA | WESTSIDE, CITY OF | 1901020001B | 06-JUN-2001 | 01-07-415A | 02
07 | KS | ABILENE, CITY OF | 20041C0070C | 13-JUN-2001 | 01-07-526A | 02
07 | KS | ALLEN COUNTY | 20001C0085D | 04-MAY-2001 | 01-07-140A | 02
07 | KS | BEL AIRE, CITY OF | 2008640005B | 23-MAY-2001 | 01-07-430A | 01
07 | KS | COFFEYVILLE, CITY OF | 200232H09 | 11-MAY-2001 | 01-07-421A | 02
07 | KS | DERBY, CITY OF | 2003230002C | 04-APR-2001 | 01-07-311A | 02
07 | KS | DERBY, CITY OF | 2003230002C | 25-MAY-2001 | 01-07-451A | 02
07 | KS | DERBY, CITY OF | 2003230001C | 29-JUN-2001 | 01-07-512A | 01
07 | KS | DERBY, CITY OF | 2003230002C | 29-JUN-2001 | 01-07-512A | 01
07 | KS | ELLIS COUNTY | 2000940180B | 28-FEB-2001 | 01-07-121A | 02
07 | KS | ELLIS COUNTY | 2000940180B | 11-MAY-2001 | 01-07-473A | 17
07 | KS | ELLSWORTH, CITY OF | 2000980001B | 14-FEB-2001 | 01-07-006A | 08
07 | KS | HALSTEAD, CITY OF | 2001310001D | 11-APR-2001 | 01-07-305A | 02
07 | KS | HAYSVILLE, CITY OF | 2003240001C | 06-JUN-2001 | 01-07-484A | 02
07 | KS | HUTCHINSON, CITY OF | 20155C0315D | 28-FEB-2001 | 01-07-169A | 02
07 | KS | JEFFERSON COUNTY | 2001470075B | 17-JAN-2001 | 00-07-806A | 02
07 | KS | LEAVENWORTH COUNTY | 2001860125D | 08-JUN-2001 | 01-07-449A | 02
07 | KS | LEAVENWORTH COUNTY | 2001860025C | 08-JUN-2001 | 01-07-488A | 02
07 | KS | LYON COUNTY | 2002010125B | 27-APR-2001 | 01-07-224A | 02
07 | KS | LYON COUNTY | 2002010100B | 29-JUN-2001 | 01-07-481A | 01
07 | KS | LYON COUNTY | 2002010125B | 29-JUN-2001 | 01-07-541A | 02
07 | KS | MCPHERSON, CITY OF | 2002170015D | 24-JAN-2001 | 01-07-116A | 17
07 | KS | MCPHERSON, CITY OF | 2002170015D | 20-APR-2001 | 01-07-122A | 01
07 | KS | MCPHERSON, CITY OF | 2002170015D | 30-MAR-2001 | 01-07-153A | 02
07 | KS | MCPHERSON, CITY OF | 2002170005D | 30-MAR-2001 | 01-07-156A | 02
07 | KS | MCPHERSON, CITY OF | 2002170015D | 02-MAY-2001 | 01-07-417A | 02
07 | KS | MOUNDRIDGE, CITY OF | 2002180001B | 18-APR-2001 | 00-07-756A | 02
07 | KS | MULVANE, CITY OF | 2003260010D | 02-APR-2001 | 01-07-051A | 02
07 | KS | NEODESHA, CITY OF | 2003590001B | 23-MAY-2001 | 01-07-445A | 02
07 | KS | NEWTON, CITY OF | 2001330005C | 15-JUN-2001 | 01-07-442A | 02
07 | KS | NICKERSON, CITY OF | 20155C0090D | 04-APR-2001 | 01-07-293A | 02
07 | KS | OLATHE, CITY OF | 20091C0086D | 28-FEB-2001 | 01-07-175A | 17
07 | KS | OLATHE, CITY OF | 20091C0086D | 11-MAY-2001 | 01-07-193A | 02
07 | KS | OVERLAND PARK, CITY OF | 20091C0081E | 28-FEB-2001 | 01-07-104A | 17
07 | KS | OVERLAND PARK, CITY OF | 20091C0135D | 14-FEB-2001 | 01-07-168A | 02
07 | KS | OVERLAND PARK, CITY OF | 20091C0082E | 28-FEB-2001 | 01-07-226A | 02
07 | KS | PARK CITY, CITY OF | 2009630001A | 14-MAR-2001 | 01-07-194A | 02
07 | KS | PRAIRIE VILLAGE, CITY OF | 20091C0044D | 09-MAY-2001 | 01-07-360A | 02
07 | KS | RENO COUNTY | 20155C0090D | 10-JAN-2001 | 01-07-114A | 02
07 | KS | RENO COUNTY | 20155C0650D | 14-FEB-2001 | 01-07-174A | 02
07 | KS | RENO COUNTY | 20155C0315D | 14-MAR-2001 | 01-07-236A | 02
07 | KS | RENO COUNTY | 20155C0315D | 14-MAR-2001 | 01-07-252A | 02
07 | KS | RENO COUNTY | 20155C0261D | 23-MAY-2001 | 01-07-463A | 02
07 | KS | RICE COUNTY | 2002900008C | 24-JAN-2001 | 00-07-661A | 08
07 | KS | RICE COUNTY | 2002900005C | 01-JUN-2001 | 01-07-139A | 01
07 | KS | SALINA, CITY OF | 2003190060B | 03-JAN-2001 | 00-07-820A | 02
07 | KS | SALINA, CITY OF | 2003190015B | 08-JAN-2001 | 01-07-019A | 02
07 | KS | SALINA, CITY OF | 2003190015B | 17-JAN-2001 | 01-07-045A | 02
07 | KS | SALINA, CITY OF | 2003190015B | 03-JAN-2001 | 01-07-058A | 02
07 | KS | SALINA, CITY OF | 2003190005B | 08-JAN-2001 | 01-07-069A | 02
07 | KS | SALINA, CITY OF | 2003190015B | 08-JAN-2001 | 01-07-090A | 02
07 | KS | SALINA, CITY OF | 2003190015B | 08-JAN-2001 | 01-07-093A | 02
07 | KS | SALINA, CITY OF | 2003190015B | 14-MAR-2001 | 01-07-095A | 02
07 | KS | SALINA, CITY OF | 2003190015B | 31-JAN-2001 | 01-07-138A | 02
07 | KS | SALINA, CITY OF | 2003190015B | 16-FEB-2001 | 01-07-150A | 02
07 | KS | SALINA, CITY OF | 2003190015B | 16-FEB-2001 | 01-07-158A | 02
07 | KS | SALINA, CITY OF | 2003190015B | 14-FEB-2001 | 01-07-159A | 02
07 | KS | SALINA, CITY OF | 2003190015B | 31-JAN-2001 | 01-07-162A | 02
07 | KS | SALINA, CITY OF | 2003190015B | 02-FEB-2001 | 01-07-171A | 02
07 | KS | SALINA, CITY OF | 2003160060B | 11-APR-2001 | 01-07-177A | 02
07 | KS | SALINA, CITY OF | 2003190015B | 28-FEB-2001 | 01-07-209A | 02
07 | KS | SALINA, CITY OF | 2003190015B | 07-FEB-2001 | 01-07-221A | 02
07 | KS | SALINA, CITY OF | 2003190015B | 09-MAY-2001 | 01-07-260A | 02
07 | KS | SALINA, CITY OF | 2003190015B | 30-MAR-2001 | 01-07-290A | 02
07 | KS | SALINA, CITY OF | 2003190015B | 27-APR-2001 | 01-07-366A | 02
07 | KS | SALINA, CITY OF | 2003190015B | 16-MAY-2001 | 01-07-453A | 02
07 | KS | SALINA, CITY OF | 2003190015B | 23-MAY-2001 | 01-07-454A | 02
07 | KS | SALINA, CITY OF | 2003190015B | 15-JUN-2001 | 01-07-497A | 02
07 | KS | SALINE COUNTY | 2003160080B | 21-MAR-2001 | 01-07-074A | 17
07 | KS | SALINE COUNTY | 2003160060B | 15-JUN-2001 | 01-07-471A | 02
07 | KS | SEDGWICK COUNTY | 2003210225A | 09-MAR-2001 | 00-07-468A | 02
07 | KS | SEDGWICK COUNTY | 2003210250A | 31-JAN-2001 | 00-07-799A | 02
07 | KS | SEDGWICK COUNTY | 2003210300A | 14-FEB-2001 | 01-07-055A | 02
07 | KS | SEDGWICK COUNTY | 2003210150A | 06-APR-2001 | 01-07-086A | 02
07 | KS | SEDGWICK COUNTY | 2003210275A | 08-JAN-2001 | 01-07-096A | 02
07 | KS | SEDGWICK COUNTY | 2003210125A | 23-MAR-2001 | 01-07-115A | 02
07 | KS | SEDGWICK COUNTY | 2003210300A | 20-APR-2001 | 01-07-170A | 02
07 | KS | SEDGWICK COUNTY | 2003210300A | 06-JUN-2001 | 01-07-231A | 02
07 | KS | SEDGWICK COUNTY | 2003210175A | 23-MAY-2001 | 01-07-427A | 02
07 | KS | SEDGWICK COUNTY | 2003210125A | 30-MAY-2001 | 01-07-441A | 02
07 | KS | SEDGWICK COUNTY | 2003210125A | 30-MAY-2001 | 01-07-444A | 02
07 | KS | SEDGWICK COUNTY | 2003210300A | 09-MAY-2001 | 01-07-459A | 02
07 | KS | SEDGWICK COUNTY | 2003210300A | 08-JUN-2001 | 01-07-464A | 02
07 | KS | SEDGWICK COUNTY | 2003210175A | 27-JUN-2001 | 01-07-515A | 01
07 | KS | SHAWNEE COUNTY | 2003310095C | 17-JAN-2001 | 00-07-777A | 01
07 | KS | SHAWNEE, CITY OF | 20091C0040D | 06-JUN-2001 | 01-07-491A | 02
07 | KS | SOUTH HUTCHINSON, CITY OF | 20155C0290E | 13-APR-2001 | 01-07-300A | 02
07 | KS | SUMNER COUNTY | 20191C0095B | 04-MAY-2001 | 01-07-245A | 01
07 | KS | TESCOTT, CITY OF | 2002580001A | 08-JAN-2001 | 01-07-025A | 02
07 | KS | WHITEWATER, CITY OF | 200559A01 | 08-JAN-2001 | 00-07-594A | 02
07 | KS | WICHITA, CITY OF | 2003280035B | 17-JAN-2001 | 01-07-004A | 02
07 | KS | WICHITA, CITY OF | 2003280035B | 17-JAN-2001 | 01-07-054A | 08
07 | KS | WICHITA, CITY OF | 2003280030B | 17-JAN-2001 | 01-07-078A | 02
07 | KS | WICHITA, CITY OF | 2003280020B | 09-MAY-2001 | 01-07-246A | 02
07 | KS | WICHITA, CITY OF | 2003280035B | 30-MAR-2001 | 01-07-253A | 02
07 | KS | WICHITA, CITY OF | 2003280030B | 14-MAR-2001 | 01-07-291A | 02
07 | KS | WICHITA, CITY OF | 2003280025B | 06-JUN-2001 | 01-07-371A | 02
07 | KS | WICHITA, CITY OF | 2003280005B | 02-MAY-2001 | 01-07-386A | 02
07 | KS | WICHITA, CITY OF | 2003280035B | 08-JUN-2001 | 01-07-387A | 02
07 | KS | WICHITA, CITY OF | 2003280025B | 11-MAY-2001 | 01-07-440A | 02
07 | KS | WICHITA, CITY OF | 2003280035B | 25-MAY-2001 | 01-07-443A | 02
07 | KS | WICHITA, CITY OF | 2003280025B | 20-JUN-2001 | 01-07-455A | 02
07 | KS | WICHITA, CITY OF | 2003280030B | 18-MAY-2001 | 01-07-469A | 02
07 | KS | WICHITA, CITY OF | 2003280020B | 08-JUN-2001 | 01-07-479A | 02
07 | KS | WICHITA, CITY OF | 2003280030B | 08-JUN-2001 | 01-07-498A | 02
07 | KS | WICHITA, CITY OF | 2003280020B | 13-JUN-2001 | 01-07-511A | 02
07 | MO | ADVANCE, CITY OF | 2904200001B | 10-JAN-2001 | 01-07-038A | 02
07 | MO | ARNOLD, CITY OF | 2901880002C | 20-APR-2001 | 01-07-214A | 02
07 | MO | CAPE GIRARDEAU COUNTY | 2907900095C | 29-JUN-2001 | 01-07-307A | 01
07 | MO | CASS COUNTY | 2907830025C | 04-MAY-2001 | 01-07-302A | 02
07 | MO | CASS COUNTY | 2907830125B | 15-JUN-2001 | 01-07-542A | 02
07 | MO | CHESTERFIELD, CITY OF | 29189C0161H | 28-FEB-2001 | 01-07-063A | 02
07 | MO | CHESTERFIELD, CITY OF | 29189C0145H | 29-JUN-2001 | 01-07-522A | 02
07 | MO | CHILLICOTHE, CITY OF | 2902160005B | 07-FEB-2001 | 00-07-730A | 02
07 | MO | CLINTON, CITY OF | 2901550002B | 14-MAR-2001 | 01-07-195A | 02
07 | MO | COLE COUNTY | 2901070025B | 22-JUN-2001 | 01-07-398A | 02
07 | MO | DUNKLIN COUNTY | 2901220075B | 25-APR-2001 | 01-07-143A | 02
07 | MO | FERGUSON, CITY OF | 29189C0068H | 11-APR-2001 | 01-07-282A | 17
07 | MO | FESTUS,CITY OF | 2901910002B | 31-JAN-2001 | 01-07-148A | 02
07 | MO | FLORISSANT, CITY OF | 29189C0062J | 14-FEB-2001 | 01-07-136A | 02
07 | MO | FLORISSANT, CITY OF | 29189C0054J | 29-JUN-2001 | 01-07-590A | 02
07 | MO | FRANKLIN COUNTY | 2904930240B | 18-MAY-2001 | 01-07-287A | 02
07 | MO | GREENE COUNTY | 2907820075B | 12-JAN-2001 | 00-07-689A | 02
07 | MO | GREENE COUNTY | 2907820095C | 02-APR-2001 | 00-07-757A | 02
07 | MO | INDEPENDENCE,CITY OF | 2901720035E | 14-MAR-2001 | 01-07-184A | 02
07 | MO | INDEPENDENCE,CITY OF | 2901720035E | 04-APR-2001 | 01-07-227A | 02
07 | MO | INDEPENDENCE,CITY OF | 2901720010E | 20-JUN-2001 | 01-07-496A | 02
07 | MO | JEFFERSON COUNTY | 2908080090D | 02-FEB-2001 | 00-07-590A | 02
07 | MO | JEFFERSON COUNTY | 2908080090D | 11-APR-2001 | 01-07-067A | 02
07 | MO | JEFFERSON COUNTY | 2908080080C | 31-JAN-2001 | 01-07-126A | 02
07 | MO | JEFFERSON COUNTY | 2908080095C | 04-APR-2001 | 01-07-149A | 02
07 | MO | JEFFERSON COUNTY | 2908080080C | 20-APR-2001 | 01-07-183A | 02
07 | MO | JEFFERSON COUNTY | 2908080090D | 14-MAR-2001 | 01-07-222A | 02
07 | MO | JEFFERSON COUNTY | 2908080080C | 21-MAR-2001 | 01-07-239A | 02
07 | MO | JEFFERSON COUNTY | 2908080090D | 14-MAR-2001 | 01-07-259A | 02
07 | MO | JEFFERSON COUNTY | 2908080090D | 02-MAY-2001 | 01-07-407A | 02
07 | MO | KANSAS CITY, CITY OF | 2901730130C | 31-JAN-2001 | 01-07-008A | 02
07 | MO | KIRKWOOD, CITY OF | 29189C0283H | 29-JUN-2001 | 01-07-602A | 02
07 | MO | LADUE,CITY OF | 29189C0169J | 02-FEB-2001 | 01-07-111A | 02
07 | MO | LADUE,CITY OF | 29189C0169J | 21-MAR-2001 | 01-07-232A | 02
07 | MO | LADUE,CITY OF | 29189C0169J | 13-JUN-2001 | 01-07-477A | 02
07 | MO | LEE'S SUMMIT, CITY OF | 2901740005C | 20-JUN-2001 | 00-07-819A | 01
07 | MO | LEE'S SUMMIT, CITY OF | 2901740007C | 19-JAN-2001 | 01-07-044A | 02
07 | MO | LEE'S SUMMIT, CITY OF | 2901740007C | 03-JAN-2001 | 01-07-088A | 02
07 | MO | LEWIS COUNTY | 2908440009B | 07-FEB-2001 | 01-07-020A | 02
07 | MO | LIVINGSTON COUNTY | 2908140125B | 02-FEB-2001 | 01-07-073A | 02
07 | MO | MANCHESTER, CITY OF | 29189C0259H | 30-MAR-2001 | 01-07-178A | 01
07 | MO | MORGAN COUNTY | 2902440200A | 27-APR-2001 | 01-07-144A | 02
07 | MO | O'FALLON, CITY OF | 29183C0235E | 13-APR-2001 | 01-07-123A | 01
07 | MO | O'FALLON, CITY OF | 29183C0230E | 18-MAY-2001 | 01-07-301A | 01
07 | MO | ORRICK, CITY OF | 2903090001B | 20-JUN-2001 | 01-07-551A | 02
07 | MO | PECULIAR, CITY OF | 2908780001A | 23-MAY-2001 | 01-07-424A | 02
07 | MO | ROCK HILL, CITY OF | 29189C0282H | 13-JUN-2001 | 01-07-501A | 02
07 | MO | SIKESTON, CITY OF | 2952700006C | 29-JUN-2001 | 01-07-546A | 02
07 | MO | SPRINGFIELD, CITY OF | 2901490006B | 20-JUN-2001 | 01-07-502A | 02
07 | MO | ST. CHARLES COUNTY | 29183C0263E | 23-FEB-2001 | 01-07-053A | 02
07 | MO | ST. CHARLES COUNTY | 29183C0435E | 28-FEB-2001 | 01-07-112A | 02
07 | MO | ST. CHARLES COUNTY | 29183C0280E | 27-JUN-2001 | 01-07-536A | 02
07 | MO | ST. CHARLES COUNTY | 29183C0280E | 27-JUN-2001 | 01-07-537A | 02
07 | MO | ST. CHARLES COUNTY | 29183C0286E | 22-JUN-2001 | 01-07-570A | 02
07 | MO | ST. CHARLES, CITY OF | 29183C0267E | 28-FEB-2001 | 01-07-040A | 01
07 | MO | ST. CHARLES, CITY OF | 29183C0280E | 21-MAR-2001 | 01-07-317A | 02
07 | MO | ST. CHARLES, CITY OF | 29183C0260E | 30-MAY-2001 | 01-07-345A | 01
07 | MO | ST. CHARLES, CITY OF | 29183C0260E | 20-JUN-2001 | 01-07-514A | 01
07 | MO | ST. JOSEPH, CITY OF | 2900430005C | 24-JAN-2001 | 01-07-092A | 01
07 | MO | ST. LOUIS COUNTY | 29189C0054J | 03-JAN-2001 | 01-07-015A | 02
07 | MO | ST. LOUIS COUNTY | 29189C0157H | 07-FEB-2001 | 01-07-128A | 02
07 | MO | ST. LOUIS COUNTY | 29189C0315H | 31-JAN-2001 | 01-07-145A | 01
07 | MO | ST. LOUIS COUNTY | 29189C0062J | 06-APR-2001 | 01-07-154A | 02
07 | MO | ST. LOUIS COUNTY | 29189C0276J | 14-FEB-2001 | 01-07-163A | 02
07 | MO | ST. LOUIS COUNTY | 29189C0278J | 20-APR-2001 | 01-07-173A | 01
07 | MO | ST. LOUIS COUNTY | 29189C0276J | 28-FEB-2001 | 01-07-218A | 02
07 | MO | ST. LOUIS COUNTY | 29189C0158H | 11-APR-2001 | 01-07-261A | 02
07 | MO | ST. LOUIS COUNTY | 29189C0062J | 18-MAY-2001 | 01-07-289A | 02
07 | MO | ST. LOUIS COUNTY | 29189C0385H | 23-MAY-2001 | 01-07-476A | 02
07 | MO | ST. PETERS, CITY OF | 29183C0242E | 02-MAR-2001 | 01-07-077A | 02
07 | MO | STONE COUNTY | 2904290150B | 31-JAN-2001 | 01-07-066A | 02
07 | MO | TANEY COUNTY | 29043516A | 13-JUN-2001 | 01-07-500A | 02
07 | MO | UNIVERSITY CITY, CITY OF | 29189C0187H | 04-MAY-2001 | 01-07-281A | 02
07 | MO | VALLEY PARK, CITY OF | 29189C0278J | 17-JAN-2001 | 00-07-773A | 01
07 | MO | WARREN COUNTY | 2904430125B | 10-JAN-2001 | 01-07-079A | 02
07 | MO | WARREN COUNTY | 2904430075C | 28-FEB-2001 | 01-07-207A | 02
07 | MO | WARREN COUNTY | 2904430125B | 11-APR-2001 | 01-07-213A | 01
07 | MO | WEBB CITY, CITY OF | 2901870001B | 17-JAN-2001 | 01-07-017A | 02
07 | MO | WEBB CITY, CITY OF | 2901870001B | 21-MAR-2001 | 01-07-233A | 02
07 | MO | WENTZVILLE, CITY OF | 29183C0185E | 30-MAR-2001 | 01-07-137A | 02
07 | NE | ARLINGTON, VILLAGE OF | 3102270002C | 25-APR-2001 | 01-07-238A | 01
07 | NE | ARLINGTON, VILLAGE OF | 3102270002C | 18-MAY-2001 | 01-07-494A | 01
07 | NE | BELLEVUE, CITY OF | 31153C0065F | 13-APR-2001 | 01-07-211A | 01
07 | NE | BELLEVUE, CITY OF | 31153C0070F | 13-APR-2001 | 01-07-211A | 01
07 | NE | BELLEVUE, CITY OF | 31153C0070F | 11-MAY-2001 | 01-07-416A | 02
07 | NE | BUFFALO COUNTY | 3104190015B | 18-MAY-2001 | 01-07-130A | 01
07 | NE | COLFAX COUNTY | 3104260005B | 28-FEB-2001 | 01-07-109A | 02
07 | NE | DAWSON COUNTY | 3100580007B | 23-MAY-2001 | 01-07-489A | 02
07 | NE | DEUEL COUNTY | 3104300006B | 04-MAY-2001 | 01-07-180A | 02
07 | NE | DOUGLAS COUNTY | 3100730025B | 04-APR-2001 | 01-07-018A | 02
07 | NE | DOUGLAS COUNTY | 3100730125B | 30-MAY-2001 | 01-07-237A | 01
07 | NE | GRAND ISLAND, CITY OF | 3101030005B | 13-APR-2001 | 01-07-013A | 01
07 | NE | GRAND ISLAND, CITY OF | 3101030010B | 07-FEB-2001 | 01-07-033A | 02
07 | NE | GRAND ISLAND, CITY OF | 3101030015B | 07-FEB-2001 | 01-07-034A | 02
07 | NE | GRAND ISLAND, CITY OF | 3101030010B | 12-JAN-2001 | 01-07-035A | 02
07 | NE | GRAND ISLAND, CITY OF | 3101030010B | 12-JAN-2001 | 01-07-056A | 02
07 | NE | GRAND ISLAND, CITY OF | 3101030010B | 07-FEB-2001 | 01-07-064A | 02
07 | NE | GRAND ISLAND, CITY OF |  | 17-JAN-2001 | 01-07-070A | 02
07 | NE | GRAND ISLAND, CITY OF |  | 12-JAN-2001 | 01-07-071A | 02
07 | NE | GRAND ISLAND, CITY OF | 3101030020B | 24-JAN-2001 | 01-07-098A | 02
07 | NE | GRAND ISLAND, CITY OF | 3101030015B | 02-FEB-2001 | 01-07-117A | 02
07 | NE | GRAND ISLAND, CITY OF | 3101030020B | 09-FEB-2001 | 01-07-127A | 08
07 | NE | GRAND ISLAND, CITY OF | 3101030005B | 27-APR-2001 | 01-07-197A | 02
07 | NE | GRAND ISLAND, CITY OF | 3101030020B | 16-MAR-2001 | 01-07-198A | 02
07 | NE | GRAND ISLAND, CITY OF | 3101030015B | 21-MAR-2001 | 01-07-204A | 02
07 | NE | GRAND ISLAND, CITY OF | 3101030015B | 16-MAR-2001 | 01-07-205A | 02
07 | NE | GRAND ISLAND, CITY OF | 3101030010B | 16-MAR-2001 | 01-07-206A | 02
07 | NE | GRAND ISLAND, CITY OF | 3101030020B | 16-MAR-2001 | 01-07-206A | 02
07 | NE | GRAND ISLAND, CITY OF | 3101030020B | 23-MAR-2001 | 01-07-242A | 02
07 | NE | GRAND ISLAND, CITY OF | 3101030010B | 30-MAR-2001 | 01-07-243A | 02
07 | NE | GRAND ISLAND, CITY OF | 3101030015B | 30-MAR-2001 | 01-07-254A | 02
07 | NE | GRAND ISLAND, CITY OF | 3101030010B | 02-APR-2001 | 01-07-270A | 02
07 | NE | GRAND ISLAND, CITY OF | 3101030010B | 06-APR-2001 | 01-07-275A | 02
07 | NE | GRAND ISLAND, CITY OF | 3101030015B | 18-APR-2001 | 01-07-286A | 02
07 | NE | GRAND ISLAND, CITY OF | 3101030020B | 11-APR-2001 | 01-07-303A | 02
07 | NE | GRAND ISLAND, CITY OF | 3101030005B | 11-MAY-2001 | 01-07-422A | 02
07 | NE | GRAND ISLAND, CITY OF | 3101030015B | 13-JUN-2001 | 01-07-504A | 02
07 | NE | HALL COUNTY | 3101000100C | 21-MAR-2001 | 01-07-202A | 02
07 | NE | HALL COUNTY | 3101000100C | 23-MAR-2001 | 01-07-203A | 01
07 | NE | HAMILTON COUNTY | 3104410025A | 04-APR-2001 | 01-07-102A | 02
07 | NE | HAMILTON COUNTY | 3104410025A | 28-FEB-2001 | 01-07-106A | 02
07 | NE | HAMILTON COUNTY | 3104410025A | 22-JUN-2001 | 01-07-565A | 02
07 | NE | HUMPHREY, VILLAGE OF | 3104670050C | 28-MAR-2001 | 01-07-036A | 02
07 | NE | HUMPHREY, VILLAGE OF | 3104670050C | 30-MAY-2001 | 01-07-446A | 02
07 | NE | LANCASTER COUNTY | 3101340065B | 08-JUN-2001 | 01-07-452A | 02
07 | NE | LINCOLN, CITY OF | 3152730035C | 11-APR-2001 | 01-07-110A | 02
07 | NE | LINCOLN, CITY OF | 3152730025D | 09-MAR-2001 | 01-07-181A | 01
07 | NE | LINCOLN, CITY OF | 3152730025D | 14-MAR-2001 | 01-07-229A | 02
07 | NE | LINCOLN, CITY OF | 3152730010C | 13-JUN-2001 | 01-07-230A | 01
07 | NE | LINCOLN, CITY OF | 3152730025D | 02-MAY-2001 | 01-07-250A | 02
07 | NE | LINCOLN, CITY OF | 3152730025D | 02-MAY-2001 | 01-07-251A | 01
07 | NE | LINCOLN, CITY OF | 3152730020D | 23-MAY-2001 | 01-07-274A | 01
07 | NE | MADISON COUNTY | 3104550002B | 20-APR-2001 | 01-07-132A | 02
07 | NE | MCCOOL JUNCTION, VILLAGE OF | 3102360005A | 11-MAY-2001 | 01-07-273A | 02
07 | NE | MERRICK COUNTY | 3104570175B | 09-FEB-2001 | 01-07-052A | 02
07 | NE | MERRICK COUNTY | 3104570150A | 14-FEB-2001 | 01-07-084A | 02
07 | NE | MERRICK COUNTY | 3104570150A | 14-MAR-2001 | 01-07-210A | 02
07 | NE | MERRICK COUNTY | 3104570125B | 14-MAR-2001 | 01-07-248A | 02
07 | NE | MERRICK COUNTY | 3104570150A | 01-JUN-2001 | 01-07-460A | 02
07 | NE | NORFOLK, CITY OF | 3101470020C | 02-MAR-2001 | 01-07-129A | 01
07 | NE | NORFOLK, CITY OF | 3101470020C | 02-MAR-2001 | 01-07-212A | 02
07 | NE | OMAHA, CITY OF | 3152740020F | 20-APR-2001 | 00-07-774A | 01
07 | NE | OMAHA, CITY OF | 3152740045G | 30-MAR-2001 | 01-07-082A | 02
07 | NE | OMAHA, CITY OF | 3152740045G | 28-FEB-2001 | 01-07-228A | 02
07 | NE | OMAHA, CITY OF | 3152740045G | 28-MAR-2001 | 01-07-256A | 01
07 | NE | OMAHA, CITY OF | 3152740050F | 06-APR-2001 | 01-07-267A | 02
07 | NE | OMAHA, CITY OF | 3152740025F | 30-MAR-2001 | 01-07-268A | 02
07 | NE | OMAHA, CITY OF | 3152740050F | 30-MAR-2001 | 01-07-269A | 02
07 | NE | OMAHA, CITY OF | 3152740025F | 04-MAY-2001 | 01-07-448A | 02
07 | NE | OMAHA, CITY OF | 3152740020F | 29-JUN-2001 | 01-07-573A | 01
07 | NE | PHELPS COUNTY | 3104650002B | 09-FEB-2001 | 00-07-818A | 08
07 | NE | PIERCE COUNTY | 3104660100B | 14-FEB-2001 | 01-07-022A | 02
07 | NE | SARPY COUNTY | 31153C0065F | 26-JAN-2001 | 01-07-028A | 01
07 | NE | SARPY COUNTY | 31153C0120F | 18-MAY-2001 | 01-07-412A | 02
07 | NE | SCHUYLER, CITY OF | 3100460005B | 31-JAN-2001 | 00-07-807A | 08
07 | NE | SCHUYLER, CITY OF | 3100460010B | 02-FEB-2001 | 01-07-081A | 02
07 | NE | SCHUYLER, CITY OF | 3100460005B | 02-FEB-2001 | 01-07-146A | 02
07 | NE | SCHUYLER, CITY OF | 3100460005B | 16-MAY-2001 | 01-07-439A | 02
07 | NE | SCHUYLER, CITY OF | 3100460005B | 20-JUN-2001 | 01-07-492A | 02
07 | NE | SYRACUSE, CITY OF | 310166B | 30-MAR-2001 | 01-07-255A | 02
08 | CO | ADAMS COUNTY | 08001C0320G | 11-JAN-2001 | 01-08-006A | 01
08 | CO | ADAMS COUNTY | 08001C0330G | 18-JUN-2001 | 01-08-244A | 01
08 | CO | ARAPAHOE COUNTY | 08005C0435J | 10-MAY-2001 | 00-08-311P | 06
08 | CO | ARAPAHOE COUNTY | 08005C0455J | 06-APR-2001 | 01-08-171A | 02
08 | CO | ARVADA, CITY OF | 0850720005B | 20-FEB-2001 | 01-08-101A | 02
08 | CO | BOULDER COUNTY | 08013C0395F | 10-JAN-2001 | 01-08-084A | 02
08 | CO | BOULDER COUNTY | 08013C0435F | 13-JUN-2001 | 01-08-239A | 02
08 | CO | BOULDER, CITY OF | 08013C0395F | 14-FEB-2001 | 01-08-030A | 02
08 | CO | CASTLE ROCK, TOWN OF | 0800500188C | 13-JUN-2001 | 01-08-238A | 02
08 | CO | CHERRY HILLS VILLAGE, CITY OF | 08005C0165J | 02-MAY-2001 | 01-08-172A | 02
08 | CO | COLORADO SPRINGS, CITY OF | 08041C0728F | 11-JAN-2001 | 01-08-028A | 01
08 | CO | COLUMBINE VALLEY, TOWN OF | 08005C0435J | 09-FEB-2001 | 01-08-009P | 06
08 | CO | DENVER, CITY AND COUNTY OF | 0800460018C | 17-JAN-2001 | 01-08-073A | 02
08 | CO | DENVER, CITY AND COUNTY OF | 0800460018C | 26-JAN-2001 | 01-08-107A | 02
08 | CO | DOUGLAS COUNTY | 0800490065C | 14-MAR-2001 | 01-08-090P | 06
08 | CO | DOUGLAS COUNTY | 0800490070E | 22-JUN-2001 | 01-08-180P | 05
08 | CO | DOUGLAS COUNTY | 0800490050C | 09-MAY-2001 | 01-08-210A | 02
08 | CO | DURANGO, CITY OF | 0800990005E | 22-MAY-2001 | 98-08-302V | 19
08 | CO | EAGLE COUNTY | 0800510243C | 14-MAR-2001 | 01-08-077A | 02
08 | CO | EAGLE COUNTY | 0800510205C | 13-JUN-2001 | 01-08-240A | 02
08 | CO | EL PASO COUNTY | 08041C0529F | 24-MAY-2001 | 00-08-085P | 05
08 | CO | EL PASO COUNTY | 08041C0530F | 24-MAY-2001 | 00-08-085P | 05
08 | CO | EL PASO COUNTY | 08041C0535F | 24-MAY-2001 | 00-08-085P | 05
08 | CO | EL PASO COUNTY | 08041C0325F | 09-MAR-2001 | 01-08-002P | 06
08 | CO | EL PASO COUNTY | 08041C0350F | 09-MAR-2001 | 01-08-002P | 06
08 | CO | FORT COLLINS, CITY OF | 0801020012C | 30-MAY-2001 | 01-08-092P | 05
08 | CO | FORT COLLINS, CITY OF | 0801020004C | 23-MAR-2001 | 01-08-153A | 02
08 | CO | GOLDEN, CITY OF | 0800900002A | 03-MAY-2001 | 00-08-375P | 05
08 | CO | GRAND JUNCTION, CITY OF | 0801170003E | 08-FEB-2001 | 00-08-334P | 05
08 | CO | GREELEY, CITY OF | 0802660609C | 02-MAY-2001 | 00-08-362A | 01
08 | CO | GYPSUM, TOWN OF | 0802950001C | 06-JUN-2001 | 01-08-214A | 02
08 | CO | JEFFERSON COUNTY | 0800870165B | 06-JUN-2001 | 00-08-294P | 05
08 | CO | JEFFERSON COUNTY | 0800870255B | 03-MAY-2001 | 00-08-375P | 05
08 | CO | JEFFERSON COUNTY | 0800870260B | 03-MAY-2001 | 00-08-375P | 05
08 | CO | JEFFERSON COUNTY | 0800870290B | 30-JAN-2001 | 00-08-403P | 05
08 | CO | JEFFERSON COUNTY | 0800870260B | 14-MAR-2001 | 01-08-132A | 02
08 | CO | JEFFERSON COUNTY | 0800870330C | 02-APR-2001 | 01-08-168A | 02
08 | CO | JEFFERSON COUNTY | 0800870380C | 04-APR-2001 | 01-08-174A | 02
08 | CO | JEFFERSON COUNTY | 0800870335C | 25-APR-2001 | 01-08-192A | 02
08 | CO | JEFFERSON COUNTY | 0800870355B | 25-APR-2001 | 01-08-192A | 02
08 | CO | LA PLATA COUNTY | 0800970393B | 19-MAY-2001 | 01-08-128P | 05
08 | CO | LA PLATA COUNTY | 0800970304B | 28-MAR-2001 | 01-08-141A | 02
08 | CO | LA PLATA COUNTY | 0800970393C | 22-MAY-2001 | 98-08-303V | 19
08 | CO | LAFAYETTE, CITY OF | 08013C0577G | 11-JAN-2001 | 01-08-054A | 01
08 | CO | LAKEWOOD, CITY OF | 0850750005C | 17-JAN-2001 | 01-08-096A | 02
08 | CO | LAKEWOOD, CITY OF | 0850750005C | 27-APR-2001 | 01-08-211A | 02
08 | CO | LAKEWOOD, CITY OF | 0850750005C | 11-MAY-2001 | 01-08-215A | 02
08 | CO | LARIMER COUNTY | 0801010179E | 07-MAR-2001 | 01-08-143A | 02
08 | CO | LARIMER COUNTY | 0801010179E | 18-JUN-2001 | 01-08-233A | 02
08 | CO | LONGMONT, CITY OF | 08013C0288F | 25-APR-2001 | 00-08-382P | 05
08 | CO | LONGMONT, CITY OF | 08013C0288F | 18-MAY-2001 | 01-08-219A | 01
08 | CO | MANITOU SPRINGS, CITY OF | 08041C0707F | 07-MAR-2001 | 01-08-083A | 02
08 | CO | PARKER, TOWN OF | 0803100070D | 22-JUN-2001 | 01-08-180P | 05
08 | CO | RIO BLANCO COUNTY | 0802880375A | 27-APR-2001 | 01-08-151A | 02
08 | CO | STEAMBOAT SPRINGS, CITY OF | 0801590002C | 07-MAR-2001 | 01-08-126A | 02
08 | CO | STEAMBOAT SPRINGS, CITY OF | 0801590003C | 07-MAR-2001 | 01-08-136A | 02
08 | CO | TELLER COUNTY | 08119C0077C | 01-FEB-2001 | 01-08-080A | 02
08 | CO | THORNTON, CITY OF | 08001C0330G | 08-FEB-2001 | 00-08-217P | 06
08 | CO | WELD COUNTY | 0802660605D | 24-JAN-2001 | 00-08-244P | 05
08 | CO | WELD COUNTY | 0802660850C | 09-FEB-2001 | 01-08-099A | 02
08 | CO | WESTMINSTER, CITY OF | 0800080002B | 11-APR-2001 | 00-08-312P | 06
08 | CO | WESTMINSTER, CITY OF | 0800080006C | 11-APR-2001 | 00-08-312P | 06
08 | CO | WINDSOR, CITY OF | 0802640005A | 24-JAN-2001 | 00-08-244P | 05
08 | CO | WOODLAND PARK, TOWN OF | 08119C0077C | 09-FEB-2001 | 01-08-137A | 02
08 | MT | BIG HORN COUNTY | 3001430225B | 14-MAR-2001 | 01-08-110A | 02
08 | MT | BUTTE-SILVER BOW COUNTY | 3000770191D | 01-MAR-2001 | 01-08-017P | 05
08 | MT | BUTTE-SILVER BOW COUNTY | 3000770193D | 01-MAR-2001 | 01-08-017P | 05
08 | MT | CARBON COUNTY | 3001390115B | 02-FEB-2001 | 01-08-105A | 02
08 | MT | FLATHEAD COUNTY | 3000231815D | 28-FEB-2001 | 01-08-133A | 02
08 | MT | FLATHEAD COUNTY | 3000231820F | 28-FEB-2001 | 01-08-133A | 02
08 | MT | FLATHEAD COUNTY | 3000232315D | 26-FEB-2001 | 01-08-135A | 02
08 | MT | FLATHEAD COUNTY | 3000231810D | 07-MAR-2001 | 01-08-139A | 01
08 | MT | FLATHEAD COUNTY | 3000231830E | 07-MAR-2001 | 01-08-139A | 01
08 | MT | FLATHEAD COUNTY | 3000232315D | 25-APR-2001 | 01-08-208A | 02
08 | MT | GRANITE COUNTY | 3001410575A | 09-FEB-2001 | 01-08-081A | 02
08 | MT | GRANITE COUNTY | 3001410475A | 23-MAY-2001 | 01-08-222A | 02
08 | MT | JEFFERSON COUNTY | 3001540550B | 08-JUN-2001 | 01-08-212A | 02
08 | MT | LAKE COUNTY | 30047C0015B | 11-JAN-2001 | 01-08-093A | 02
08 | MT | LINCOLN COUNTY | 3001570725B | 06-JUN-2001 | 01-08-169A | 02
08 | MT | LINCOLN COUNTY | 3001570500B | 18-MAY-2001 | 01-08-185A | 02
08 | MT | MISSOULA COUNTY | 30063C1215D | 17-JAN-2001 | 01-08-108A | 17
08 | MT | MISSOULA COUNTY | 30063C1480D | 07-FEB-2001 | 01-08-113A | 02
08 | MT | MISSOULA COUNTY | 30063C1480D | 28-MAR-2001 | 01-08-166A | 02
08 | MT | MISSOULA, CITY OF | 30063C1480D | 24-JAN-2001 | 01-08-075A | 02
08 | MT | PARK COUNTY | 3001600011B | 26-FEB-2001 | 01-08-072A | 02
08 | MT | PARK COUNTY | 3001600016B | 20-FEB-2001 | 01-08-129A | 02
08 | MT | PARK COUNTY | 3001600016B | 07-MAR-2001 | 01-08-145A | 02
08 | MT | PARK COUNTY | 3001600011B | 11-MAY-2001 | 01-08-199A | 02
08 | MT | PARK COUNTY | 3001600014B | 01-JUN-2001 | 01-08-224A | 02
08 | MT | RAVALLI COUNTY | 30081C0110C | 01-JUN-2001 | 01-08-201A | 02
08 | MT | RAVALLI COUNTY | 30081C0035C | 22-JUN-2001 | 01-08-255A | 02
08 | MT | ROUNDUP, CITY OF | 3000500001B | 04-APR-2001 | 01-08-176A | 02
08 | MT | SIDNEY, CITY OF | 3000650005B | 14-FEB-2001 | 01-08-127A | 02
08 | MT | THREE FORKS, TOWN OF | 3000290001B | 03-JAN-2001 | 01-08-055A | 02
08 | MT | THREE FORKS, TOWN OF | 3000290001B | 01-JUN-2001 | 01-08-230A | 01
08 | MT | THREE FORKS, TOWN OF | 3000270170B | 06-JUN-2001 | 01-08-234A | 01
08 | ND | BISMARCK, CITY OF | 3801490015A | 11-APR-2001 | 00-08-232P | 06
08 | ND | BISMARCK, CITY OF | 3801490025A | 21-MAR-2001 | 01-08-045P | 06
08 | ND | BISMARCK, CITY OF | 3801490020B | 13-JUN-2001 | 01-08-173A | 01
08 | ND | BURLEIGH COUNTY | 3800170570A | 06-JUN-2001 | 01-08-134A | 01
08 | ND | DEVILS LAKE, CITY OF | 38071C0330D | 21-JUN-2001 | 01-08-277V | 19
08 | ND | DEVILS LAKE, CITY OF | 38071C0330C | 29-JAN-2001 | 98-08-125V | 19
08 | ND | FARGO, CITY OF | 3853640020E | 09-MAR-2001 | 01-08-150A | 02
08 | ND | GRAND FORKS, CITY OF | 3853650010D | 13-JUN-2001 | 01-08-249A | 02
08 | ND | GRAND FORKS, CITY OF | 3853650010D | 13-JUN-2001 | 01-08-250A | 02
08 | ND | HAZEN, CITY OF | 3800670005D | 01-JUN-2001 | 01-08-232A | 02
08 | ND | RICHLAND COUNTY | 3800980002B | 01-FEB-2001 | 01-08-095A | 02
08 | ND | STANLEY, TOWNSHIP OF | 3802580005B | 09-MAY-2001 | 01-08-154A | 01
08 | ND | THOMPSON, CITY OF | 3802080001B | 06-JUN-2001 | 01-08-235A | 02
08 | ND | WARREN, TOWNSHIP OF | 3802650001B | 19-MAR-2001 | 01-08-157A | 01
08 | SD | ABERDEEN, CITY OF | 46013C0330C | 07-MAY-2001 | 01-08-206A | 02
08 | SD | CODINGTON COUNTY | 4602600005B | 01-FEB-2001 | 01-08-088A | 02
08 | SD | CUSTER COUNTY | 4600180085B | 27-APR-2001 | 01-08-196A | 02
08 | SD | CUSTER, CITY OF | 4600190001E | 25-APR-2001 | 01-08-190A | 17
08 | SD | LINCOLN COUNTY | 4602770001B | 24-JAN-2001 | 01-08-103A | 02
08 | SD | LINCOLN COUNTY | 4602770001B | 02-MAY-2001 | 01-08-149A | 02
08 | SD | MEADE COUNTY | 4600540625A | 27-APR-2001 | 01-08-191A | 01
08 | SD | MILLER, CITY OF | 4602010005B | 10-MAY-2001 | 01-08-207A | 02
08 | SD | NORTH SIOUX CITY, CITY OF | 4600870005D | 26-FEB-2001 | 98-08-022V | 19
08 | SD | PENNINGTON COUNTY | 4600640767C | 21-MAR-2001 | 01-08-019A | 02
08 | SD | PENNINGTON COUNTY | 4600640769B | 21-MAR-2001 | 01-08-019A | 02
08 | SD | PENNINGTON COUNTY | 4600641110B | 25-APR-2001 | 01-08-178A | 02
08 | SD | PHILIP, CITY OF | 460033B | 03-JAN-2001 | 01-08-091A | 02
08 | SD | RAPID CITY, CITY OF | 4654200003F | 14-MAR-2001 | 01-08-155A | 02
08 | SD | RAPID CITY, CITY OF | 4654200003F | 28-MAR-2001 | 01-08-159A | 02
08 | SD | SIOUX FALLS, CITY OF | 4600570110B | 21-MAR-2001 | 01-08-148A | 01
08 | SD | SIOUX FALLS, CITY OF | 4600570110B | 09-MAY-2001 | 01-08-213A | 01
08 | SD | UNION COUNTY | 4602420040D | 06-MAR-2001 | 01-08-167P | 06
08 | SD | UNION COUNTY | 4602420038D | 26-FEB-2001 | 98-08-021V | 19
08 | SD | UNION COUNTY | 4602420040D | 26-FEB-2001 | 98-08-021V | 19
08 | UT | ALPINE, CITY OF | 4902280005A | 08-JUN-2001 | 01-08-195A | 02
08 | UT | CEDAR CITY, CITY OF | 4900730725B | 26-MAR-2001 | 01-08-078P | 06
08 | UT | CEDAR CITY, CITY OF | 4900730750B | 26-MAR-2001 | 01-08-078P | 06
08 | UT | CEDAR CITY, CITY OF | 4900740002B | 26-MAR-2001 | 01-08-078P | 06
08 | UT | CEDAR CITY, CITY OF | 4900740004B | 26-MAR-2001 | 01-08-078P | 06
08 | UT | FAIRVIEW, CITY OF | 490113B | 19-JAN-2001 | 98-08-219P | 06
08 | UT | IRON COUNTY | 4900730725B | 26-MAR-2001 | 01-08-078P | 06
08 | UT | IRON COUNTY | 4900730750B | 26-MAR-2001 | 01-08-078P | 06
08 | UT | IRON COUNTY | 4900740002B | 26-MAR-2001 | 01-08-078P | 06
08 | UT | IRON COUNTY | 4900740004B | 26-MAR-2001 | 01-08-078P | 06
08 | UT | LEHI, CITY OF | 4955170110A | 14-FEB-2001 | 01-08-066A | 01
08 | UT | LINDON, CITY OF | 4902100005C | 08-JUN-2001 | 01-08-015P | 06
08 | UT | MORGAN COUNTY | 4900920105B | 20-FEB-2001 | 01-08-097A | 02
08 | UT | NORTH SALT LAKE CITY, CITY OF | 4900380250B | 26-FEB-2001 | 01-08-111A | 01
08 | UT | NORTH SALT LAKE CITY, CITY OF | 4900480005C | 26-FEB-2001 | 01-08-111A | 01
08 | UT | OAKLEY, TOWN OF | 4901380001B | 08-JUN-2001 | 01-08-229A | 02
08 | UT | OREM, CITY OF | 4902160005A | 08-JUN-2001 | 01-08-015P | 06
08 | UT | RIVERTON, CITY OF | 4901040001C | 07-MAR-2001 | 01-08-142P | 06
08 | UT | RIVERTON, CITY OF | 4901040002C | 07-MAR-2001 | 01-08-142P | 06
08 | UT | SALT LAKE COUNTY | 4901020450B | 07-MAR-2001 | 01-08-142P | 06
08 | UT | SANPETE COUNTY | 4901110005B | 19-JAN-2001 | 98-08-219P | 06
08 | UT | SOUTH JORDAN, CITY OF | 4901070009C | 21-FEB-2001 | 01-08-130A | 02
08 | UT | SOUTH JORDAN, CITY OF | 4901070009C | 07-MAR-2001 | 01-08-142P | 06
08 | UT | ST. GEORGE, CITY OF | 4901770016D | 26-JAN-2001 | 01-08-049A | 02
08 | UT | ST. GEORGE, CITY OF | 4901770013D | 23-MAY-2001 | 01-08-225A | 02
08 | UT | SUMMIT COUNTY | 4901340525B | 21-MAR-2001 | 01-08-119A | 02
08 | WY | CASPER, CITY OF | 5600370015C | 21-MAR-2001 | 01-08-068A | 02
08 | WY | CASPER, CITY OF | 5600370015C | 01-JUN-2001 | 01-08-189A | 02
08 | WY | JACKSON, TOWN OF | 56039C0660B | 30-JAN-2001 | 00-08-250P | 05
08 | WY | SHERIDAN, CITY OF | 5600440005D | 22-JAN-2001 | 99-08-454V | 19
08 | WY | UINTA COUNTY | 5600530275B | 24-JAN-2001 | 01-08-104A | 02
09 | AZ | APACHE JUNCTION, CITY OF | 0401200002C | 14-FEB-2001 | 01-09-141A | 02
09 | AZ | BUCKEYE, TOWN OF | 04013C2020F | 05-MAR-2001 | 01-09-243P | 06
09 | AZ | BUCKEYE, TOWN OF | 04013C2025F | 05-MAR-2001 | 01-09-243P | 06
09 | AZ | BUCKEYE, TOWN OF | 04013C2040E | 05-MAR-2001 | 01-09-243P | 06
09 | AZ | BUCKEYE, TOWN OF | 04013C2050F | 05-MAR-2001 | 01-09-243P | 06
09 | AZ | CAMP VERDE, TOWN OF | 04025C1840F | 07-JUN-2001 | 01-09-741V | 19
09 | AZ | CAVE CREEK, TOWN OF | 04013C0785G | 15-FEB-2001 | 00-09-495P | 05
09 | AZ | CAVE CREEK, TOWN OF | 04013C0795F | 15-FEB-2001 | 00-09-495P | 05
09 | AZ | CAVE CREEK, TOWN OF | 04013C0815G | 15-FEB-2001 | 00-09-495P | 05
09 | AZ | CHANDLER, CITY OF | 04013C3035F | 01-JUN-2001 | 01-09-328A | 01
09 | AZ | CHANDLER, CITY OF | 04013C2655E | 16-FEB-2001 | 01-09-336P | 06
09 | AZ | CLARKDALE, TOWN OF | 04025C1781F | 07-JUN-2001 | 01-09-741V | 19
09 | AZ | COCHISE COUNTY | 0400121090C | 24-APR-2001 | 00-09-1071P | 05
09 | AZ | COCHISE COUNTY | 0400121251D | 24-APR-2001 | 00-09-1071P | 05
09 | AZ | COCHISE COUNTY | 0400121275C | 24-APR-2001 | 00-09-1071P | 05
09 | AZ | COCHISE COUNTY | 0400121275C | 24-JAN-2001 | 00-09-1116A | 01
09 | AZ | COCHISE COUNTY | 0400121090C | 15-FEB-2001 | 00-09-964P | 05
09 | AZ | COCHISE COUNTY | 0400121232C | 15-FEB-2001 | 00-09-964P | 05
09 | AZ | COCHISE COUNTY | 0400121251D | 15-FEB-2001 | 00-09-964P | 05
09 | AZ | COCONINO COUNTY | 0400193959B | 24-JAN-2001 | 01-09-092A | 02
09 | AZ | EL MIRAGE, CITY OF | 04013C1605G | 14-FEB-2001 | 01-09-244A | 01
09 | AZ | EL MIRAGE, CITY OF | 04013C1610G | 14-FEB-2001 | 01-09-244A | 01
09 | AZ | EL MIRAGE, CITY OF | 04013C1605G | 13-APR-2001 | 01-09-364A | 01
09 | AZ | EL MIRAGE, CITY OF | 04013C1610G | 13-APR-2001 | 01-09-364A | 01
09 | AZ | FLAGSTAFF, CITY OF | 0400200011B | 04-JAN-2001 | 00-09-745P | 05
09 | AZ | GILA COUNTY | 0400281655B | 09-FEB-2001 | 01-09-324A | 02
09 | AZ | GILA COUNTY | 0400280045B | 16-MAY-2001 | 01-09-594A | 02
09 | AZ | GILBERT, TOWN OF | 04013C2660E | 02-MAY-2001 | 01-09-529A | 01
09 | AZ | GLENDALE, CITY OF | 04013C1635E | 27-APR-2001 | 01-09-599A | 02
09 | AZ | GLENDALE, CITY OF | 04013C1190F | 21-JUN-2001 | 99-09-372P | 05
09 | AZ | GOODYEAR, CITY OF | 04013C2070F | 27-FEB-2001 | 01-09-124P | 05
09 | AZ | MARICOPA COUNTY | 04013C0780F | 15-FEB-2001 | 00-09-495P | 05
09 | AZ | MARICOPA COUNTY | 04013C0785G | 15-FEB-2001 | 00-09-495P | 05
09 | AZ | MARICOPA COUNTY | 04013C0790E | 15-FEB-2001 | 00-09-495P | 05
09 | AZ | MARICOPA COUNTY | 04013C0795F | 15-FEB-2001 | 00-09-495P | 05
09 | AZ | MARICOPA COUNTY | 04013C0320E | 08-MAR-2001 | 00-09-932P | 06
09 | AZ | MARICOPA COUNTY | 04013C0340E | 08-MAR-2001 | 00-09-932P | 06
09 | AZ | MARICOPA COUNTY | 04013C0710E | 08-MAR-2001 | 00-09-932P | 06
09 | AZ | MARICOPA COUNTY | 04013C0730F | 08-MAR-2001 | 00-09-932P | 06
09 | AZ | MARICOPA COUNTY | 04013C0735F | 08-MAR-2001 | 00-09-932P | 06
09 | AZ | MARICOPA COUNTY | 04013C2020F | 05-MAR-2001 | 01-09-243P | 06
09 | AZ | MARICOPA COUNTY | 04013C2025F | 05-MAR-2001 | 01-09-243P | 06
09 | AZ | MARICOPA COUNTY | 04013C2035F | 05-MAR-2001 | 01-09-243P | 06
09 | AZ | MARICOPA COUNTY | 04013C2040E | 05-MAR-2001 | 01-09-243P | 06
09 | AZ | MARICOPA COUNTY | 04013C2050F | 05-MAR-2001 | 01-09-243P | 06
09 | AZ | MARICOPA COUNTY | 04013C2090F | 26-FEB-2001 | 01-09-357A | 02
09 | AZ | MARICOPA COUNTY | 04013C0155E | 27-FEB-2001 | 01-09-424P | 06
09 | AZ | MARICOPA COUNTY | 04013C1285E | 02-APR-2001 | 01-09-487A | 02
09 | AZ | MARICOPA COUNTY | 04013C1280E | 13-JUN-2001 | 01-09-722A | 17
09 | AZ | MARICOPA COUNTY | 04013C1180E | 21-JUN-2001 | 99-09-373P | 05
09 | AZ | MARICOPA COUNTY | 04013C1190F | 21-JUN-2001 | 99-09-373P | 05
09 | AZ | MESA, CITY OF | 04013C2195E | 02-FEB-2001 | 01-09-025A | 02
09 | AZ | MESA, CITY OF | 04013C2195E | 28-MAR-2001 | 01-09-436A | 02
09 | AZ | MESA, CITY OF | 04013C2195E | 23-MAY-2001 | 01-09-570A | 01
09 | AZ | MOHAVE COUNTY | 0400582445C | 26-APR-2001 | 00-09-1028P | 06
09 | AZ | MOHAVE COUNTY | 0400583110B | 14-MAR-2001 | 01-09-359A | 02
09 | AZ | PEORIA, CITY OF | 04013C0340E | 08-MAR-2001 | 00-09-932P | 06
09 | AZ | PEORIA, CITY OF | 04013C0710E | 08-MAR-2001 | 00-09-932P | 06
09 | AZ | PEORIA, CITY OF | 04013C0730F | 08-MAR-2001 | 00-09-932P | 06
09 | AZ | PEORIA, CITY OF | 04013C0735F | 08-MAR-2001 | 00-09-932P | 06
09 | AZ | PEORIA, CITY OF | 04013C1190F | 21-JUN-2001 | 99-09-372P | 05
09 | AZ | PEORIA, CITY OF | 04013C1180E | 21-JUN-2001 | 99-09-373P | 05
09 | AZ | PEORIA, CITY OF | 04013C1190F | 21-JUN-2001 | 99-09-373P | 05
09 | AZ | PHOENIX, CITY OF | 04013C0795F | 15-FEB-2001 | 00-09-495P | 05
09 | AZ | PHOENIX, CITY OF | 04013C0770D | 01-MAY-2001 | 01-09-156P | 05
09 | AZ | PHOENIX, CITY OF | 04013C0780F | 01-MAY-2001 | 01-09-156P | 05
09 | AZ | PHOENIX, CITY OF | 04013C0790E | 01-MAY-2001 | 01-09-156P | 05
09 | AZ | PHOENIX, CITY OF | 04013C1205E | 01-MAY-2001 | 01-09-156P | 05
09 | AZ | PHOENIX, CITY OF | 04013C2120E | 17-JAN-2001 | 01-09-189A | 01
09 | AZ | PHOENIX, CITY OF | 04013C2130E | 09-FEB-2001 | 01-09-319A | 02
09 | AZ | PHOENIX, CITY OF | 04013C2120E | 21-FEB-2001 | 01-09-327A | 01
09 | AZ | PHOENIX, CITY OF | 04013C1690E | 28-FEB-2001 | 01-09-374A | 02
09 | AZ | PHOENIX, CITY OF | 04013C1660F | 09-MAR-2001 | 01-09-405A | 02
09 | AZ | PHOENIX, CITY OF | 04013C2610D | 14-MAR-2001 | 01-09-406A | 01
09 | AZ | PIMA COUNTY | 04019C1610K | 10-APR-2001 | 01-09-057P | 06
09 | AZ | PIMA COUNTY | 04019C1617K | 10-APR-2001 | 01-09-057P | 06
09 | AZ | PIMA COUNTY | 04019C2810K | 25-APR-2001 | 01-09-282P | 06
09 | AZ | PIMA COUNTY | 04019C1605K | 02-FEB-2001 | 01-09-288A | 02
09 | AZ | PIMA COUNTY | 04019C1610K | 14-FEB-2001 | 01-09-345A | 02
09 | AZ | PIMA COUNTY | 04019C1645K | 21-MAR-2001 | 01-09-410A | 02
09 | AZ | PIMA COUNTY | 04019C1025K | 11-APR-2001 | 01-09-469A | 02
09 | AZ | PIMA COUNTY | 04019C1605K | 09-MAY-2001 | 01-09-601A | 01
09 | AZ | PIMA COUNTY | 04019C1645K | 27-JUN-2001 | 01-09-778A | 02
09 | AZ | PRESCOTT VALLEY, TOWN OF | 0401210001C | 20-FEB-2001 | 01-09-340A | 02
09 | AZ | PRESCOTT VALLEY, TOWN OF | 0401210001C | 07-MAY-2001 | 01-09-531A | 02
09 | AZ | PRESCOTT VALLEY, TOWN OF | 04025C2101F | 07-JUN-2001 | 01-09-741V | 19
09 | AZ | PRESCOTT VALLEY, TOWN OF | 04025C2102F | 07-JUN-2001 | 01-09-741V | 19
09 | AZ | PRESCOTT, CITY OF | 04025C2060F | 07-JUN-2001 | 01-09-741V | 19
09 | AZ | SCOTTSDALE, CITY OF | 04013C1695F | 13-MAR-2001 | 01-09-023P | 05
09 | AZ | SCOTTSDALE, CITY OF | 04013C1705E | 19-MAR-2001 | 01-09-074P | 06
09 | AZ | SCOTTSDALE, CITY OF | 04013C1710D | 19-MAR-2001 | 01-09-074P | 06
09 | AZ | SCOTTSDALE, CITY OF | 04013C2160D | 03-JAN-2001 | 01-09-224A | 02
09 | AZ | SCOTTSDALE, CITY OF | 04013C1695F | 19-JAN-2001 | 01-09-246A | 02
09 | AZ | SIERRA VISTA, CITY OF | 0400170005C | 24-APR-2001 | 00-09-1071P | 05
09 | AZ | SIERRA VISTA, CITY OF | 0400170010C | 24-APR-2001 | 00-09-1071P | 05
09 | AZ | SIERRA VISTA, CITY OF | 0400170015C | 24-APR-2001 | 00-09-1071P | 05
09 | AZ | SIERRA VISTA, CITY OF | 0400170005C | 15-FEB-2001 | 00-09-964P | 05
09 | AZ | TUCSON, CITY OF | 04019C2210K | 18-JUN-2001 | 00-09-1125P | 06
09 | AZ | TUCSON, CITY OF | 04019C2233K | 29-MAR-2001 | 00-09-274P | 05
09 | AZ | TUCSON, CITY OF | 04019C2262K | 05-MAR-2001 | 00-09-969P | 05
09 | AZ | TUCSON, CITY OF | 04019C1619K | 03-JAN-2001 | 01-09-134A | 02
09 | AZ | TUCSON, CITY OF | 04019C1639K | 07-FEB-2001 | 01-09-164A | 01
09 | AZ | TUCSON, CITY OF | 04019C2232K | 08-JAN-2001 | 01-09-242A | 02
09 | AZ | TUCSON, CITY OF | 04019C2232K | 26-JAN-2001 | 01-09-310A | 02
09 | AZ | TUCSON, CITY OF | 04019C1644K | 14-FEB-2001 | 01-09-337A | 02
09 | AZ | TUCSON, CITY OF | 04019C1644K | 02-MAR-2001 | 01-09-384A | 02
09 | AZ | TUCSON, CITY OF | 04019C2227K | 07-MAR-2001 | 01-09-387A | 02
09 | AZ | TUCSON, CITY OF | 04019C2226K | 12-JUN-2001 | 01-09-400P | 06
09 | AZ | TUCSON, CITY OF | 04019C2238K | 08-JUN-2001 | 01-09-423P | 06
09 | AZ | TUCSON, CITY OF | 04019C2232K | 21-MAR-2001 | 01-09-457A | 02
09 | AZ | TUCSON, CITY OF | 04019C1644K | 19-MAR-2001 | 01-09-461A | 02
09 | AZ | TUCSON, CITY OF | 04019C1644K | 13-APR-2001 | 01-09-513A | 02
09 | AZ | TUCSON, CITY OF | 04019C2233K | 25-APR-2001 | 01-09-532A | 02
09 | AZ | TUCSON, CITY OF | 04019C2227K | 11-APR-2001 | 01-09-543A | 02
09 | AZ | TUCSON, CITY OF | 04019C2227K | 27-APR-2001 | 01-09-577A | 02
09 | AZ | TUCSON, CITY OF | 04019C2253K | 27-APR-2001 | 01-09-579A | 02
09 | AZ | TUCSON, CITY OF | 04019C2233K | 20-APR-2001 | 01-09-615A | 02
09 | AZ | TUCSON, CITY OF | 04019C1644K | 09-MAY-2001 | 01-09-654A | 02
09 | AZ | TUCSON, CITY OF | 04019C2232K | 23-MAY-2001 | 01-09-668A | 02
09 | AZ | TUCSON, CITY OF | 04019C2232K | 23-MAY-2001 | 01-09-706A | 02
09 | AZ | TUCSON, CITY OF | 04019C1644K | 23-MAY-2001 | 01-09-714A | 02
09 | AZ | TUCSON, CITY OF | 04019C1644K | 18-JUN-2001 | 01-09-724A | 02
09 | AZ | TUCSON, CITY OF | 04019C1644K | 06-JUN-2001 | 01-09-752A | 02
09 | AZ | WICKENBURG, TOWN OF | 04013C0255F | 14-FEB-2001 | 01-09-295A | 02
09 | AZ | YAVAPAI COUNTY | 0400930855B | 02-MAY-2001 | 01-09-502A | 02
09 | AZ | YAVAPAI COUNTY | 04025C1445F | 07-JUN-2001 | 01-09-741V | 19
09 | AZ | YAVAPAI COUNTY | 04025C1460F | 07-JUN-2001 | 01-09-741V | 19
09 | AZ | YAVAPAI COUNTY | 04025C1470F | 07-JUN-2001 | 01-09-741V | 19
09 | AZ | YAVAPAI COUNTY | 04025C1675F | 07-JUN-2001 | 01-09-741V | 19
09 | AZ | YAVAPAI COUNTY | 04025C1781F | 07-JUN-2001 | 01-09-741V | 19
09 | AZ | YAVAPAI COUNTY | 04025C1800F | 07-JUN-2001 | 01-09-741V | 19
09 | AZ | YAVAPAI COUNTY | 04025C1805F | 07-JUN-2001 | 01-09-741V | 19
09 | AZ | YAVAPAI COUNTY | 04025C1810F | 07-JUN-2001 | 01-09-741V | 19
09 | AZ | YAVAPAI COUNTY | 04025C2060F | 07-JUN-2001 | 01-09-741V | 19
09 | AZ | YAVAPAI COUNTY | 04025C2095F | 07-JUN-2001 | 01-09-741V | 19
09 | CA | ARCATA, CITY OF | 0600610002E | 04-APR-2001 | 01-09-300A | 02
09 | CA | ARCATA, CITY OF | 0600600615D | 07-MAR-2001 | 01-09-467A | 02
09 | CA | BAKERSFIELD, CITY OF | 0600751000B | 28-MAR-2001 | 01-09-298P | 06
09 | CA | BIG BEAR LAKE, CITY OF | 06071C7315F | 22-JUN-2001 | 01-09-641A | 02
09 | CA | BUTTE COUNTY | 06007C0320D | 16-MAY-2001 | 01-09-646A | 02
09 | CA | CARLSBAD, CITY OF | 06073C0764F | 01-MAY-2001 | 01-09-553A | 01
09 | CA | CARPINTERIA, CITY OF | 0603320005E | 06-JUN-2001 | 01-09-525A | 01
09 | CA | CATHEDRAL CITY, CITY OF | 0607040005D | 07-FEB-2001 | 01-09-110A | 02
09 | CA | CATHEDRAL CITY, CITY OF | 0607040005D | 11-MAY-2001 | 01-09-593A | 01
09 | CA | CHINO, CITY OF | 06071C8620F | 07-FEB-2001 | 01-09-275A | 02
09 | CA | CHULA VISTA, CITY OF | 06073C2156F | 26-JAN-2001 | 00-09-643A | 01
09 | CA | CHULA VISTA, CITY OF | 06073C2157F | 26-JAN-2001 | 00-09-643A | 01
09 | CA | CLEARLAKE, CITY OF | 0607140005C | 03-JAN-2001 | 01-09-133A | 02
09 | CA | CLEARLAKE, CITY OF | 0607140005C | 02-MAR-2001 | 01-09-378A | 02
09 | CA | CLOVERDALE, CITY OF | 0603760001C | 23-MAY-2001 | 01-09-122P | 05
09 | CA | COLTON, CITY OF | 06071C8683F | 27-JUN-2001 | 00-09-871P | 06
09 | CA | COLTON, CITY OF | 06071C8687F | 27-JUN-2001 | 00-09-871P | 06
09 | CA | COLTON, CITY OF | 06071C8691F | 27-JUN-2001 | 00-09-871P | 06
09 | CA | COLUSA COUNTY | 060022D | 11-MAY-2001 | 01-09-509A | 02
09 | CA | COLUSA COUNTY | 060022D | 27-APR-2001 | 01-09-580A | 02
09 | CA | CONTRA COSTA COUNTY | 0600250400B | 24-JAN-2001 | 00-09-1000A | 01
09 | CA | CONTRA COSTA COUNTY | 0600250475B | 28-FEB-2001 | 00-09-1029P | 06
09 | CA | CONTRA COSTA COUNTY | 0600250295C | 15-MAY-2001 | 00-09-942P | 05
09 | CA | CONTRA COSTA COUNTY | 0600250435C | 15-MAY-2001 | 00-09-942P | 05
09 | CA | CONTRA COSTA COUNTY | 0600250295C | 12-FEB-2001 | 01-09-363P | 06
09 | CA | CONTRA COSTA COUNTY | 0600250435C | 12-FEB-2001 | 01-09-363P | 06
09 | CA | CORONA, CITY OF | 0602500010D | 28-FEB-2001 | 01-09-080P | 06
09 | CA | CORONA, CITY OF | 0602500005F | 14-MAR-2001 | 01-09-402A | 01
09 | CA | COTATI, CITY OF | 0603770001D | 23-MAY-2001 | 01-09-676A | 01
09 | CA | DANVILLE, TOWN OF | 0607070002A | 14-FEB-2001 | 01-09-321A | 01
09 | CA | DEL NORTE COUNTY | 0650250025B | 23-MAY-2001 | 01-09-664A | 02
09 | CA | DINUBA, CITY OF | 0650660280B | 02-MAR-2001 | 01-09-381A | 01
09 | CA | DINUBA, CITY OF | 0650660280B | 28-MAR-2001 | 01-09-506A | 01
09 | CA | DINUBA, CITY OF | 0650660280B | 02-MAY-2001 | 01-09-658A | 01
09 | CA | DOWNEY, CITY OF | 0606450005A | 24-MAY-2001 | 01-09-693P | 06
09 | CA | EAST PALO ALTO, CITY OF | 0607080001B | 11-JAN-2001 | 01-09-269A | 02
09 | CA | EAST PALO ALTO, CITY OF | 0607080001B | 19-MAR-2001 | 01-09-297A | 02
09 | CA | EAST PALO ALTO, CITY OF | 0607080001B | 02-MAR-2001 | 01-09-379A | 02
09 | CA | EL CAJON, CITY OF | 06073C1666F | 27-APR-2001 | 99-09-1140P | 05
09 | CA | EL DORADO COUNTY | 0600400725C | 02-MAR-2001 | 01-09-348A | 02
09 | CA | EL DORADO COUNTY | 0600400450B | 02-MAR-2001 | 01-09-375A | 02
09 | CA | ESCONDIDO, CITY OF | 06073C0818F | 02-MAY-2001 | 01-09-569A | 01
09 | CA | FAIRFIELD, CITY OF | 0603700006C | 11-JAN-2001 | 01-09-263A | 02
09 | CA | FAIRFIELD, CITY OF | 0603700010C | 06-JUN-2001 | 01-09-271A | 01
09 | CA | FAIRFIELD, CITY OF | 0603700009D | 07-MAR-2001 | 01-09-287A | 01
09 | CA | FAIRFIELD, CITY OF | 0603700005C | 11-MAY-2001 | 01-09-609A | 02
09 | CA | FAIRFIELD, CITY OF | 0603700009D | 18-JUN-2001 | 01-09-643A | 01
09 | CA | FOUNTAIN VALLEY, CITY OF | 06059C0036F | 10-JAN-2001 | 01-09-266P | 06
09 | CA | FOUNTAIN VALLEY, CITY OF | 06059C0037F | 10-JAN-2001 | 01-09-266P | 06
09 | CA | FOUNTAIN VALLEY, CITY OF | 06059C0037F | 09-MAY-2001 | 01-09-534A | 02
09 | CA | FREMONT,CITY OF | 0650280030C | 02-MAR-2001 | 01-09-191A | 02
09 | CA | FREMONT,CITY OF | 0650280025C | 21-FEB-2001 | 01-09-342A | 01
09 | CA | GONZALES, CITY OF | 0601950250D | 13-APR-2001 | 01-09-341P | 06
09 | CA | HAYWARD, CITY OF | 0650330011E | 19-MAR-2001 | 01-09-229A | 01
09 | CA | HEALDSBURG, CITY OF | 0603750530B | 11-JAN-2001 | 01-09-155A | 01
09 | CA | HEALDSBURG, CITY OF | 0603780005C | 11-JAN-2001 | 01-09-155A | 01
09 | CA | HEMET, CITY OF | 0602530005D | 28-FEB-2001 | 01-09-181A | 01
09 | CA | HEMET, CITY OF | 0602530005D | 21-MAR-2001 | 01-09-365A | 01
09 | CA | HEMET, CITY OF | 0602530005D | 01-JUN-2001 | 01-09-721A | 01
09 | CA | HILLSBOROUGH, TOWN OF | 0603200002A | 13-JUN-2001 | 01-09-450A | 02
09 | CA | HUMBOLDT COUNTY | 0600600615D | 04-APR-2001 | 01-09-300A | 02
09 | CA | HUMBOLDT COUNTY | 0600600615D | 09-FEB-2001 | 01-09-313A | 02
09 | CA | HUMBOLDT COUNTY | 0600601725B | 06-JUN-2001 | 01-09-711A | 02
09 | CA | HUMBOLDT COUNTY | 0600601110B | 13-JUN-2001 | 01-09-727A | 02
09 | CA | HUNTINGTON BEACH, CITY OF | 06059C0036F | 10-JAN-2001 | 01-09-266P | 06
09 | CA | HUNTINGTON BEACH, CITY OF | 06059C0037F | 10-JAN-2001 | 01-09-266P | 06
09 | CA | KERN COUNTY | 0600751860B | 20-FEB-2001 | 01-09-261A | 02
09 | CA | KERN COUNTY | 0600750530C | 18-MAY-2001 | 01-09-699A | 02
09 | CA | LAKE COUNTY | 0600900480A | 20-JUN-2001 | 01-09-672A | 02
09 | CA | LAKE COUNTY | 0600900930B | 18-JUN-2001 | 01-09-713A | 02
09 | CA | LAKEWOOD, CITY OF | 0601300005A | 05-FEB-2001 | 01-09-351A | 02
09 | CA | LOMA LINDA, CITY OF | 06071C8684F | 27-JUN-2001 | 00-09-871P | 06
09 | CA | LOMA LINDA, CITY OF | 06071C8692F | 27-JUN-2001 | 00-09-871P | 06
09 | CA | LOMA LINDA, CITY OF | 06071C8703F | 27-JUN-2001 | 00-09-871P | 06
09 | CA | LOMA LINDA, CITY OF | 06071C8711F | 27-JUN-2001 | 00-09-871P | 06
09 | CA | LOS ALTOS HILLS, TOWN OF | 0603420002B | 14-FEB-2001 | 01-09-335A | 02
09 | CA | LOS ANGELES COUNTY | 0650430955B | 09-MAR-2001 | 00-09-294P | 05
09 | CA | LOS ANGELES COUNTY | 0650430330B | 23-MAY-2001 | 01-09-127P | 06
09 | CA | LOS ANGELES COUNTY | 0650430460B | 22-JUN-2001 | 01-09-172P | 06
09 | CA | LOS ANGELES COUNTY | 0650430340B | 01-MAY-2001 | 01-09-190P | 06
09 | CA | LOS ANGELES COUNTY | 0650430345B | 01-MAY-2001 | 01-09-190P | 06
09 | CA | LOS ANGELES COUNTY | 0650430395B | 07-FEB-2001 | 01-09-257A | 02
09 | CA | LOS ANGELES COUNTY | 0650430300B | 07-FEB-2001 | 01-09-303A | 02
09 | CA | LOS ANGELES COUNTY | 0650430345B | 07-JUN-2001 | 01-09-491P | 06
09 | CA | LOS ANGELES COUNTY | 0650430395B | 23-MAR-2001 | 01-09-501A | 02
09 | CA | LOS ANGELES, CITY OF | 0601370065C | 06-MAR-2001 | 00-09-515P | 05
09 | CA | LOS ANGELES, CITY OF | 0601370071C | 07-MAR-2001 | 01-09-396A | 02
09 | CA | LOS ANGELES, CITY OF | 0601370072E | 25-APR-2001 | 01-09-537A | 02
09 | CA | LOS ANGELES, CITY OF | 0601370071C | 25-APR-2001 | 01-09-563A | 02
09 | CA | MARIN COUNTY | 0601730216A | 12-JAN-2001 | 01-09-235A | 02
09 | CA | MARIN COUNTY | 0601730269B | 09-FEB-2001 | 01-09-371A | 01
09 | CA | MARIN COUNTY | 0601730444A | 02-MAY-2001 | 01-09-578A | 02
09 | CA | MENLO PARK, CITY OF | 0603210007D | 06-APR-2001 | 01-09-530A | 02
09 | CA | MENLO PARK, CITY OF | 0603210008D | 06-APR-2001 | 01-09-530A | 02
09 | CA | MENLO PARK, CITY OF | 0603210008D | 25-APR-2001 | 01-09-571A | 02
09 | CA | MENLO PARK, CITY OF | 0603210008D | 18-JUN-2001 | 01-09-794A | 02
09 | CA | MERCED COUNTY | 06047C0575E | 09-MAR-2001 | 01-09-322A | 01
09 | CA | MERCED, CITY OF | 06047C0440E | 28-FEB-2001 | 01-09-360A | 01
09 | CA | MILL VALLEY, CITY OF | 0601770005B | 01-FEB-2001 | 01-09-209A | 02
09 | CA | MILPITAS, CITY OF | 0603440001G | 14-MAR-2001 | 01-09-415A | 02
09 | CA | MILPITAS, CITY OF | 0603440001G | 14-MAR-2001 | 01-09-427A | 02
09 | CA | MILPITAS, CITY OF | 0603440003G | 02-APR-2001 | 01-09-507A | 02
09 | CA | MILPITAS, CITY OF | 0603440001G | 11-APR-2001 | 01-09-518A | 02
09 | CA | MILPITAS, CITY OF | 0603440003G | 25-APR-2001 | 01-09-564A | 02
09 | CA | MILPITAS, CITY OF | 0603440001G | 02-MAY-2001 | 01-09-590A | 02
09 | CA | MILPITAS, CITY OF | 0603440003G | 01-JUN-2001 | 01-09-698A | 02
09 | CA | MILPITAS, CITY OF | 0603440003G | 18-JUN-2001 | 01-09-790A | 02
09 | CA | MILPITAS, CITY OF | 0603440001G | 15-MAY-2001 | 99-09-1020P | 05
09 | CA | MILPITAS, CITY OF | 0603440003G | 15-MAY-2001 | 99-09-1020P | 05
09 | CA | MONTEBELLO, CITY OF | 0601410001C | 24-MAY-2001 | 01-09-693P | 06
09 | CA | MONTEBELLO, CITY OF | 0601410002C | 24-MAY-2001 | 01-09-693P | 06
09 | CA | MONTEREY COUNTY | 0601950205D | 25-APR-2001 | 01-09-575A | 02
09 | CA | MORAGA, TOWN OF | 0606370007A | 07-MAR-2001 | 01-09-397A | 01
09 | CA | MORGAN HILL, CITY OF | 0603460002C | 09-MAY-2001 | 01-09-586A | 01
09 | CA | MURRIETA, CITY OF | 0607512745A | 14-MAR-2001 | 01-09-419A | 02
09 | CA | NAPA COUNTY | 0602050345A | 06-JUN-2001 | 01-09-740A | 02
09 | CA | NAPA, CITY OF | 0602070005D | 17-JAN-2001 | 01-09-240A | 01
09 | CA | NAPA, CITY OF | 0602070005D | 28-MAR-2001 | 01-09-251A | 01
09 | CA | NAPA, CITY OF | 0602070005D | 17-JAN-2001 | 01-09-252A | 02
09 | CA | NAPA, CITY OF | 0602070005C | 07-FEB-2001 | 01-09-279A | 01
09 | CA | NAPA, CITY OF | 0602070005D | 02-MAR-2001 | 01-09-383A | 02
09 | CA | NAPA, CITY OF | 0602070005D | 14-FEB-2001 | 01-09-401A | 01
09 | CA | NAPA, CITY OF | 0602070005D | 25-APR-2001 | 01-09-420A | 02
09 | CA | NAPA, CITY OF | 0602070005D | 23-MAY-2001 | 01-09-683A | 02
09 | CA | NEWARK, CITY OF | 0600090005F | 07-MAR-2001 | 01-09-392A | 02
09 | CA | NORCO, CITY OF | 0602560001B | 02-APR-2001 | 01-09-411A | 02
09 | CA | OCEANSIDE, CITY OF | 06073C0758F | 31-MAY-2001 | 00-09-332P | 05
09 | CA | OCEANSIDE, CITY OF | 06073C0759F | 31-MAY-2001 | 00-09-332P | 05
09 | CA | OCEANSIDE, CITY OF | 06073C0734G | 22-JAN-2001 | 00-09-473V | 19
09 | CA | OCEANSIDE, CITY OF | 06073C0751G | 22-JAN-2001 | 00-09-473V | 19
09 | CA | OCEANSIDE, CITY OF | 06073C0752G | 22-JAN-2001 | 00-09-473V | 19
09 | CA | OCEANSIDE, CITY OF | 06073C0754G | 22-JAN-2001 | 00-09-473V | 19
09 | CA | OCEANSIDE, CITY OF | 06073C0756G | 22-JAN-2001 | 00-09-473V | 19
09 | CA | OCEANSIDE, CITY OF | 06073C0758F | 06-FEB-2001 | 00-09-567P | 06
09 | CA | OCEANSIDE, CITY OF | 06073C0759F | 06-FEB-2001 | 00-09-567P | 06
09 | CA | OCEANSIDE, CITY OF | 06073C0756G | 21-MAR-2001 | 01-09-323A | 01
09 | CA | OCEANSIDE, CITY OF | 06073C0734G | 06-JUN-2001 | 01-09-700A | 02
09 | CA | ORANGE COUNTY | 06059C0041E | 01-FEB-2001 | 00-09-1104A | 02
09 | CA | ORANGE COUNTY | 06059C0066E | 19-MAR-2001 | 01-09-358A | 02
09 | CA | ORANGE COUNTY | 06059C0032E | 11-MAY-2001 | 01-09-629A | 02
09 | CA | PALO ALTO, CITY OF | 0603480002E | 26-JAN-2001 | 01-09-302A | 02
09 | CA | PALO ALTO, CITY OF | 0603480002E | 01-FEB-2001 | 01-09-304A | 02
09 | CA | PALO ALTO, CITY OF | 0603480002E | 19-MAR-2001 | 01-09-376A | 02
09 | CA | PALO ALTO, CITY OF | 0603480002E | 18-APR-2001 | 01-09-550A | 02
09 | CA | PALO ALTO, CITY OF | 0603480002E | 08-JUN-2001 | 01-09-649A | 02
09 | CA | PALO ALTO, CITY OF | 0603480003E | 23-MAY-2001 | 01-09-701A | 02
09 | CA | PARAMOUNT, CITY OF | 0650490001C | 24-MAY-2001 | 01-09-693P | 06
09 | CA | PICO RIVERA, CITY OF | 0601480005A | 24-MAY-2001 | 01-09-693P | 06
09 | CA | PITTSBURG,CITY OF | 0600330002D | 02-APR-2001 | 01-09-490A | 01
09 | CA | PLEASANTON, CITY OF | 0600120003D | 08-JAN-2001 | 01-09-239A | 02
09 | CA | PLUMAS COUNTY | 060244B | 05-MAR-2001 | 00-09-943P | 06
09 | CA | PLUMAS COUNTY | 060244B | 11-JAN-2001 | 01-09-068A | 02
09 | CA | PLUMAS COUNTY | 060244B | 14-FEB-2001 | 01-09-210A | 02
09 | CA | PLUMAS COUNTY | 060244B | 14-MAR-2001 | 01-09-237A | 02
09 | CA | PLUMAS COUNTY | 060244B | 14-MAR-2001 | 01-09-398A | 02
09 | CA | PLUMAS COUNTY | 060244B | 01-JUN-2001 | 01-09-669A | 02
09 | CA | PLUMAS COUNTY | 060244B | 22-JUN-2001 | 01-09-765A | 02
09 | CA | POWAY, CITY OF | 06073C1358F | 11-MAY-2001 | 01-09-556A | 02
09 | CA | RANCHO CUCAMONGA, CITY OF | 06071C7890F | 03-JAN-2001 | 01-09-185A | 01
09 | CA | RANCHO CUCAMONGA, CITY OF | 06071C7890F | 14-MAR-2001 | 01-09-187P | 06
09 | CA | RANCHO CUCAMONGA, CITY OF | 06071C7895F | 30-MAR-2001 | 01-09-421P | 06
09 | CA | RANCHO CUCAMONGA, CITY OF | 06071C8635F | 30-MAR-2001 | 01-09-421P | 06
09 | CA | RANCHO CUCAMONGA, CITY OF | 06071C8630F | 27-APR-2001 | 01-09-472A | 02
09 | CA | RANCHO CUCAMONGA, CITY OF | 06071C7890F | 29-JUN-2001 | 01-09-645P | 06
09 | CA | RED BLUFF, CITY OF | 0650530001F | 27-FEB-2001 | 00-09-524P | 05
09 | CA | REDDING, CITY OF | 0603600025D | 28-MAR-2001 | 01-09-479A | 02
09 | CA | REDDING, CITY OF | 0603600015C | 01-MAY-2001 | 01-09-483P | 06
09 | CA | REDLANDS, CITY OF | 06071C8712F | 27-JUN-2001 | 00-09-871P | 06
09 | CA | REDLANDS, CITY OF | 06071C8714F | 27-JUN-2001 | 00-09-871P | 06
09 | CA | REDLANDS, CITY OF | 06071C8717F | 24-JAN-2001 | 01-09-247A | 02
09 | CA | REDLANDS, CITY OF | 06071C8717F | 14-FEB-2001 | 01-09-277A | 02
09 | CA | RIVERSIDE COUNTY | 0602453355D | 20-MAR-2001 | 01-09-320A | 02
09 | CA | RIVERSIDE COUNTY | 0602452080C | 11-APR-2001 | 01-09-454A | 01
09 | CA | RIVERSIDE COUNTY | 0602452090C | 11-APR-2001 | 01-09-454A | 01
09 | CA | RIVERSIDE, CITY OF | 0602600020B | 28-FEB-2001 | 01-09-347A | 02
09 | CA | ROCKLIN, CITY OF | 06061C0414F | 18-JUN-2001 | 01-09-754A | 02
09 | CA | SACRAMENTO COUNTY | 0602620330D | 30-JAN-2001 | 01-09-041P | 05
09 | CA | SACRAMENTO COUNTY | 0602620335D | 30-JAN-2001 | 01-09-041P | 05
09 | CA | SACRAMENTO COUNTY | 0602620205E | 03-JAN-2001 | 01-09-228A | 01
09 | CA | SACRAMENTO COUNTY | 0602620345C | 14-FEB-2001 | 01-09-316A | 02
09 | CA | SACRAMENTO COUNTY | 0602620375C | 14-FEB-2001 | 01-09-343A | 02
09 | CA | SACRAMENTO COUNTY | 0602620055E | 11-APR-2001 | 01-09-355A | 01
09 | CA | SACRAMENTO COUNTY | 0602620315D | 30-MAR-2001 | 01-09-409P | 06
09 | CA | SACRAMENTO COUNTY | 0602620205E | 21-MAR-2001 | 01-09-426A | 02
09 | CA | SACRAMENTO COUNTY | 0602620330D | 11-MAY-2001 | 01-09-434A | 01
09 | CA | SACRAMENTO COUNTY | 0602620375C | 28-MAR-2001 | 01-09-478A | 02
09 | CA | SACRAMENTO COUNTY | 0602620105C | 02-APR-2001 | 01-09-500A | 02
09 | CA | SACRAMENTO COUNTY | 0602620205E | 01-JUN-2001 | 01-09-665A | 02
09 | CA | SACRAMENTO COUNTY | 0602620190E | 13-JUN-2001 | 01-09-734A | 01
09 | CA | SACRAMENTO, CITY OF | 0602660010F | 01-FEB-2001 | 01-09-236A | 02
09 | CA | SACRAMENTO, CITY OF | 0602660010F | 02-MAR-2001 | 01-09-377A | 01
09 | CA | SACRAMENTO, CITY OF | 0602660030F | 21-MAR-2001 | 01-09-451A | 02
09 | CA | SACRAMENTO, CITY OF | 0602660015F | 01-JUN-2001 | 01-09-749A | 02
09 | CA | SAN BERNARDINO COUNTY | 06071C8711F | 27-JUN-2001 | 00-09-871P | 06
09 | CA | SAN BERNARDINO COUNTY | 06071C8712F | 27-JUN-2001 | 00-09-871P | 06
09 | CA | SAN BERNARDINO COUNTY | 06071C8714F | 27-JUN-2001 | 00-09-871P | 06
09 | CA | SAN BERNARDINO COUNTY | 06071C8730F | 19-MAR-2001 | 01-09-463A | 02
09 | CA | SAN BERNARDINO COUNTY | 06071C8760F | 23-MAY-2001 | 01-09-647A | 02
09 | CA | SAN BERNARDINO COUNTY | 06071C8760F | 13-JUN-2001 | 01-09-788A | 02
09 | CA | SAN BERNARDINO, CITY OF | 06071C8683F | 27-JUN-2001 | 00-09-871P | 06
09 | CA | SAN BERNARDINO, CITY OF | 06071C8684F | 27-JUN-2001 | 00-09-871P | 06
09 | CA | SAN BERNARDINO, CITY OF | 06071C8691F | 27-JUN-2001 | 00-09-871P | 06
09 | CA | SAN BERNARDINO, CITY OF | 06071C8692F | 27-JUN-2001 | 00-09-871P | 06
09 | CA | SAN CARLOS, CITY OF | 0603270001C | 19-MAR-2001 | 01-09-306A | 01
09 | CA | SAN DIEGO COUNTY | 06073C1660F | 09-FEB-2001 | 00-09-658A | 01
09 | CA | SAN DIEGO COUNTY | 06073C1052F | 07-MAR-2001 | 01-09-346A | 02
09 | CA | SAN DIEGO COUNTY | 06073C1909F | 21-MAR-2001 | 01-09-439A | 02
09 | CA | SAN DIEGO COUNTY | 06073C1666F | 27-APR-2001 | 99-09-1140P | 05
09 | CA | SAN DIEGO, CITY OF | 06073C1613F | 11-APR-2001 | 01-09-475A | 02
09 | CA | SAN JACINTO, CITY OF | 0650560005D | 19-MAR-2001 | 01-09-510A | 01
09 | CA | SAN JOAQUIN COUNTY | 0602990445B | 07-MAR-2001 | 01-09-369A | 01
09 | CA | SAN JOSE, CITY OF | 0603490027D | 05-JUN-2001 | 00-09-597P | 06
09 | CA | SAN JOSE, CITY OF | 0603490033E | 05-JUN-2001 | 00-09-597P | 06
09 | CA | SAN JOSE, CITY OF | 0603490020F | 12-JAN-2001 | 01-09-248A | 02
09 | CA | SAN JOSE, CITY OF | 0603490026D | 12-JAN-2001 | 01-09-259A | 02
09 | CA | SAN JOSE, CITY OF | 0603490037D | 11-JAN-2001 | 01-09-270A | 02
09 | CA | SAN JOSE, CITY OF | 0603490009G | 19-JAN-2001 | 01-09-291A | 02
09 | CA | SAN JOSE, CITY OF | 0603490037D | 19-JAN-2001 | 01-09-293A | 02
09 | CA | SAN JOSE, CITY OF | 0603490033E | 02-FEB-2001 | 01-09-301A | 01
09 | CA | SAN JOSE, CITY OF | 0603490026D | 07-FEB-2001 | 01-09-333A | 02
09 | CA | SAN JOSE, CITY OF | 0603490020F | 21-FEB-2001 | 01-09-354A | 02
09 | CA | SAN JOSE, CITY OF | 0603490026D | 09-FEB-2001 | 01-09-362A | 02
09 | CA | SAN JOSE, CITY OF | 0603490033E | 07-MAR-2001 | 01-09-388A | 01
09 | CA | SAN JOSE, CITY OF | 0603490027D | 02-MAR-2001 | 01-09-395A | 02
09 | CA | SAN JOSE, CITY OF | 0603490009G | 06-APR-2001 | 01-09-520A | 02
09 | CA | SAN JOSE, CITY OF | 0603490020F | 13-APR-2001 | 01-09-565A | 01
09 | CA | SAN JOSE, CITY OF | 0603490020F | 25-APR-2001 | 01-09-595A | 02
09 | CA | SAN JOSE, CITY OF | 0603490026D | 07-MAY-2001 | 01-09-635A | 02
09 | CA | SAN JOSE, CITY OF | 0603370255E | 18-MAY-2001 | 01-09-636A | 01
09 | CA | SAN JOSE, CITY OF | 0603490026D | 02-MAY-2001 | 01-09-657A | 02
09 | CA | SAN JOSE, CITY OF | 0603490020F | 23-MAY-2001 | 01-09-680A | 02
09 | CA | SAN JOSE, CITY OF | 0603490037D | 23-MAY-2001 | 01-09-692A | 02
09 | CA | SAN JOSE, CITY OF | 0603490026D | 13-JUN-2001 | 01-09-755A | 02
09 | CA | SAN JOSE, CITY OF | 0603490026D | 13-JUN-2001 | 01-09-757A | 02
09 | CA | SAN JUAN CAPISTRANO, CITY OF | 06059C0075F | 18-APR-2001 | 01-09-493A | 01
09 | CA | SAN LEANDRO, CITY OF | 0600130003C | 20-FEB-2001 | 00-09-1114A | 01
09 | CA | SAN LEANDRO, CITY OF | 0600130003C | 21-MAR-2001 | 01-09-468A | 01
09 | CA | SAN LUIS OBISPO COUNTY | 0603040625C | 06-JUN-2001 | 01-09-598A | 02
09 | CA | SAN LUIS OBISPO, CITY OF | 0603100005C | 23-MAY-2001 | 01-09-289A | 02
09 | CA | SAN MATEO COUNTY | 0603110338B | 11-JAN-2001 | 01-09-151A | 02
09 | CA | SAN MATEO COUNTY | 0603110113B | 01-FEB-2001 | 01-09-276A | 01
09 | CA | SANTA ANA, CITY OF | 06059C0038F | 19-MAR-2001 | 01-09-433A | 02
09 | CA | SANTA BARBARA COUNTY | 0603310765E | 28-MAR-2001 | 01-09-480A | 02
09 | CA | SANTA BARBARA, CITY OF | 0603350004D | 09-MAY-2001 | 01-09-604A | 02
09 | CA | SANTA BARBARA, CITY OF | 0603350004D | 09-MAY-2001 | 01-09-620A | 02
09 | CA | SANTA BARBARA, CITY OF | 0603350004D | 02-MAY-2001 | 01-09-651A | 02
09 | CA | SANTA BARBARA, CITY OF | 0603350004D | 01-JUN-2001 | 01-09-691A | 02
09 | CA | SANTA BARBARA, CITY OF | 0603350004D | 01-JUN-2001 | 01-09-703A | 02
09 | CA | SANTA BARBARA, CITY OF | 0603350004D | 06-JUN-2001 | 01-09-717A | 02
09 | CA | SANTA CLARA COUNTY | 0603370410D | 24-JAN-2001 | 01-09-093A | 02
09 | CA | SANTA CLARA COUNTY | 0603370630E | 20-FEB-2001 | 01-09-137A | 01
09 | CA | SANTA CLARA COUNTY | 0603370640E | 07-MAY-2001 | 01-09-547A | 02
09 | CA | SANTA CLARA COUNTY | 0603370630E | 01-JUN-2001 | 01-09-679A | 02
09 | CA | SANTA CLARA, CITY OF | 0603500003D | 26-JAN-2001 | 01-09-273A | 01
09 | CA | SANTA CLARA, CITY OF | 0603500003D | 07-FEB-2001 | 01-09-329A | 02
09 | CA | SANTA CLARA, CITY OF | 0603500003D | 21-MAR-2001 | 01-09-431A | 01
09 | CA | SANTA CLARA, CITY OF | 0603500001D | 11-APR-2001 | 01-09-544A | 02
09 | CA | SANTA CLARA, CITY OF | 0603500001D | 11-APR-2001 | 01-09-566A | 02
09 | CA | SANTA CLARA, CITY OF | 0603500003D | 07-MAY-2001 | 01-09-585A | 02
09 | CA | SANTA CLARA, CITY OF | 0603500003D | 18-JUN-2001 | 01-09-775A | 02
09 | CA | SANTA CLARITA, CITY OF | 0607290345C | 07-MAR-2001 | 01-09-385A | 01
09 | CA | SANTA CLARITA, CITY OF | 0650430345B | 07-JUN-2001 | 01-09-491P | 06
09 | CA | SANTA PAULA, CITY OF | 0604200001D | 22-MAY-2001 | 01-09-308P | 06
09 | CA | SANTA PAULA, CITY OF | 0604200003D | 22-MAY-2001 | 01-09-308P | 06
09 | CA | SANTA ROSA, CITY OF | 0603810011B | 21-MAR-2001 | 01-09-441A | 02
09 | CA | SHASTA COUNTY | 0603580885E | 21-MAR-2001 | 01-09-445A | 02
09 | CA | SHASTA COUNTY | 0603580925B | 21-MAR-2001 | 01-09-445A | 02
09 | CA | SIMI VALLEY, CITY OF | 0604210007B | 09-FEB-2001 | 00-09-866P | 06
09 | CA | SIMI VALLEY, CITY OF | 0604210007B | 20-FEB-2001 | 00-09-948P | 05
09 | CA | SIMI VALLEY, CITY OF | 0604210009B | 20-FEB-2001 | 00-09-948P | 05
09 | CA | SIMI VALLEY, CITY OF | 0604210006B | 09-FEB-2001 | 01-09-258A | 02
09 | CA | SIMI VALLEY, CITY OF | 0604210004B | 28-MAR-2001 | 01-09-314A | 01
09 | CA | SIMI VALLEY, CITY OF | 0604210004B | 14-MAR-2001 | 01-09-332A | 02
09 | CA | SIMI VALLEY, CITY OF | 0604210009B | 09-MAY-2001 | 01-09-523A | 02
09 | CA | SIMI VALLEY, CITY OF | 0604210008B | 01-JUN-2001 | 01-09-562A | 02
09 | CA | SIMI VALLEY, CITY OF | 0604210008B | 23-MAY-2001 | 01-09-587A | 02
09 | CA | SIMI VALLEY, CITY OF | 0604210002B | 18-MAY-2001 | 01-09-661A | 02
09 | CA | SIMI VALLEY, CITY OF | 0604210004B | 18-JUN-2001 | 01-09-779A | 02
09 | CA | SISKIYOU COUNTY | 0603621325B | 09-FEB-2001 | 01-09-312A | 02
09 | CA | SISKIYOU COUNTY | 0603620593C | 07-MAR-2001 | 01-09-318A | 02
09 | CA | SISKIYOU COUNTY | 0603621150B | 11-APR-2001 | 01-09-521A | 02
09 | CA | SISKIYOU COUNTY | 0603620900C | 23-MAY-2001 | 01-09-597A | 02
09 | CA | SISKIYOU COUNTY | 0603621150B | 13-JUN-2001 | 01-09-675A | 02
09 | CA | SONOMA COUNTY | 0603750335C | 07-FEB-2001 | 01-09-094A | 02
09 | CA | SONOMA COUNTY | 0603750905B | 11-JAN-2001 | 01-09-195A | 02
09 | CA | SONOMA COUNTY | 0603750690B | 09-FEB-2001 | 01-09-317A | 02
09 | CA | SONOMA COUNTY | 0603750365C | 28-MAR-2001 | 01-09-361A | 02
09 | CA | SOUTH GATE, CITY OF | 0601630005A | 24-MAY-2001 | 01-09-693P | 06
09 | CA | STANISLAUS COUNTY | 0603840505A | 19-JAN-2001 | 01-09-123A | 02
09 | CA | STANISLAUS COUNTY | 0603840505B | 08-MAY-2001 | 01-09-688V | 19
09 | CA | SUISUN CITY, CITY OF | 0603720001B | 02-MAY-2001 | 01-09-591A | 02
09 | CA | SUNNYVALE, CITY OF | 0603520001D | 27-APR-2001 | 01-09-370A | 02
09 | CA | SUNNYVALE, CITY OF | 0603520001D | 13-APR-2001 | 01-09-536A | 02
09 | CA | SUNNYVALE, CITY OF | 0603520001D | 02-MAY-2001 | 01-09-660A | 02
09 | CA | SUNNYVALE, CITY OF | 0603520001D | 06-JUN-2001 | 01-09-760A | 02
09 | CA | TEHAMA COUNTY | 0650640290D | 27-FEB-2001 | 00-09-524P | 05
09 | CA | TEMECULA, CITY OF | 0607420010B | 21-FEB-2001 | 01-09-294A | 02
09 | CA | TEMECULA, CITY OF | 0607420005B | 09-MAY-2001 | 01-09-554A | 01
09 | CA | THOUSAND OAKS, CITY OF | 0604220015B | 06-JUN-2001 | 01-09-628A | 02
09 | CA | TRACY, CITY OF | 0602990570B | 14-FEB-2001 | 01-09-305A | 01
09 | CA | TRACY, CITY OF | 0603030005A | 14-FEB-2001 | 01-09-305A | 01
09 | CA | TRINITY COUNTY | 06105C0625B | 21-MAR-2001 | 01-09-353A | 02
09 | CA | TULARE COUNTY | 0650660495B | 11-JAN-2001 | 01-09-201A | 02
09 | CA | TULARE COUNTY | 0650661025B | 08-JAN-2001 | 01-09-222A | 01
09 | CA | TULARE COUNTY | 0650660340B | 17-JAN-2001 | 01-09-230A | 02
09 | CA | TULARE COUNTY | 0650660625B | 14-FEB-2001 | 01-09-331A | 01
09 | CA | UNION CITY, CITY OF | 0650280004B | 11-JAN-2001 | 01-09-227A | 01
09 | CA | VACAVILLE, CITY OF | 0603730003C | 28-MAR-2001 | 01-09-484A | 02
09 | CA | VACAVILLE, CITY OF | 0603730003D | 08-MAY-2001 | 98-09-216V | 19
09 | CA | VACAVILLE, CITY OF | 0603730004D | 08-MAY-2001 | 98-09-216V | 19
09 | CA | VALLEJO, CITY OF | 0606310425B | 29-MAR-2001 | 00-09-807P | 06
09 | CA | VENTURA COUNTY | 0604130595C | 22-MAY-2001 | 01-09-308P | 06
09 | CA | VENTURA COUNTY | 0604130760C | 22-MAY-2001 | 01-09-308P | 06
09 | CA | VENTURA COUNTY | 0604130645B | 07-MAR-2001 | 01-09-389A | 01
09 | CA | VENTURA COUNTY | 0604130940B | 23-MAY-2001 | 01-09-482A | 02
09 | CA | VISALIA, CITY OF | 0604090005D | 12-JAN-2001 | 01-09-274A | 02
09 | CA | VISALIA, CITY OF | 0604090005D | 06-JUN-2001 | 01-09-558A | 01
09 | CA | VISALIA, CITY OF | 0604090010C | 27-JUN-2001 | 01-09-773A | 01
09 | CA | WALNUT CREEK, CITY OF | 0650700003C | 15-MAY-2001 | 00-09-942P | 05
09 | CA | WALNUT CREEK, CITY OF | 0650700003C | 13-JUN-2001 | 01-09-730A | 02
09 | CA | WESTMINSTER, CITY OF | 06059C0028F | 07-MAR-2001 | 01-09-245A | 02
09 | CA | WESTMINSTER, CITY OF | 06059C0027E | 18-JUN-2001 | 01-09-583A | 01
09 | CA | YUBA COUNTY | 0604270360B | 14-MAR-2001 | 01-09-193A | 01
09 | CA | YUBA COUNTY | 0604270360B | 01-JUN-2001 | 01-09-516A | 02
09 | HI | HAWAII COUNTY | 1551660278C | 24-JAN-2001 | 01-09-256A | 02
09 | HI | HONOLULU COUNTY | 15003C0310E | 01-FEB-2001 | 00-09-244P | 05
09 | HI | HONOLULU COUNTY | 15003C0365E | 20-JUN-2001 | 01-09-712A | 01
09 | HI | HONOLULU COUNTY | 15003C0045E | 29-JAN-2001 | 98-09-496V | 19
09 | HI | HONOLULU COUNTY | 15003C0115E | 29-JAN-2001 | 98-09-496V | 19
09 | HI | HONOLULU COUNTY | 15003C0209E | 29-JAN-2001 | 98-09-496V | 19
09 | HI | HONOLULU COUNTY | 15003C0215E | 29-JAN-2001 | 98-09-496V | 19
09 | HI | HONOLULU COUNTY | 15003C0226E | 29-JAN-2001 | 98-09-496V | 19
09 | HI | HONOLULU COUNTY | 15003C0228E | 29-JAN-2001 | 98-09-496V | 19
09 | HI | HONOLULU COUNTY | 15003C0245E | 29-JAN-2001 | 98-09-496V | 19
09 | HI | HONOLULU COUNTY | 15003C0290E | 29-JAN-2001 | 98-09-496V | 19
09 | HI | HONOLULU COUNTY | 15003C0330E | 29-JAN-2001 | 98-09-496V | 19
09 | HI | HONOLULU COUNTY | 15003C0354E | 29-JAN-2001 | 98-09-496V | 19
09 | HI | HONOLULU COUNTY | 15003C0360E | 29-JAN-2001 | 98-09-496V | 19
09 | HI | HONOLULU COUNTY | 15003C0365E | 29-JAN-2001 | 98-09-496V | 19
09 | HI | HONOLULU COUNTY | 15003C0370E | 29-JAN-2001 | 98-09-496V | 19
09 | HI | HONOLULU COUNTY | 15003C0390E | 29-JAN-2001 | 98-09-496V | 19
09 | NV | CLARK COUNTY | 32003C2568D | 12-APR-2001 | 00-09-1054P | 06
09 | NV | CLARK COUNTY | 32003C2590D | 28-JUN-2001 | 00-09-726P | 06
09 | NV | CLARK COUNTY | 32003C2180D | 02-APR-2001 | 00-09-929P | 06
09 | NV | CLARK COUNTY | 32003C2585D | 04-APR-2001 | 01-09-496A | 01
09 | NV | CLARK COUNTY | 32003C2580D | 27-APR-2001 | 01-09-630A | 02
09 | NV | DOUGLAS COUNTY | 32005C0065F | 06-JUN-2001 | 01-09-003A | 01
09 | NV | DOUGLAS COUNTY | 32005C0235F | 21-FEB-2001 | 01-09-234A | 02
09 | NV | DOUGLAS COUNTY | 32005C0266F | 20-JUN-2001 | 01-09-695A | 02
09 | NV | ELKO, CITY OF | 3200100003C | 01-FEB-2001 | 00-09-1005A | 01
09 | NV | HENDERSON, CITY OF | 32003C2595D | 20-JUN-2001 | 00-09-248P | 06
09 | NV | HENDERSON, CITY OF | 32003C2595D | 24-JAN-2001 | 00-09-784P | 06
09 | NV | HENDERSON, CITY OF | 32003C2580D | 13-APR-2001 | 01-09-262A | 02
09 | NV | HENDERSON, CITY OF | 32003C2590D | 31-MAY-2001 | 01-09-281P | 06
09 | NV | HENDERSON, CITY OF | 32003C2595D | 27-FEB-2001 | 01-09-299P | 06
09 | NV | HENDERSON, CITY OF | 32003C2590D | 02-MAY-2001 | 01-09-584A | 02
09 | NV | HENDERSON, CITY OF | 32003C2595D | 24-JAN-2001 | 99-09-478P | 06
09 | NV | HENDERSON, CITY OF | 32003C2595D | 24-JAN-2001 | 99-09-478P | 06
09 | NV | LAS VEGAS, CITY OF | 32003C2125D | 30-JAN-2001 | 00-09-036P | 06
09 | NV | LAS VEGAS, CITY OF | 32003C2150D | 30-JAN-2001 | 00-09-036P | 06
09 | NV | LAS VEGAS, CITY OF | 32003C2145D | 16-FEB-2001 | 01-09-117P | 06
09 | NV | MESQUITE, CITY OF | 32003C0386D | 14-MAR-2001 | 00-09-1139A | 01
09 | NV | MESQUITE, CITY OF | 32003C0391D | 06-APR-2001 | 01-09-504A | 02
09 | NV | NORTH LAS VEGAS, CITY OF | 32003C2176D | 27-APR-2001 | 00-09-1075P | 05
09 | NV | NORTH LAS VEGAS, CITY OF | 32003C2178D | 27-APR-2001 | 00-09-1075P | 05
09 | NV | NORTH LAS VEGAS, CITY OF | 32003C1790D | 02-APR-2001 | 00-09-929P | 06
09 | NV | NORTH LAS VEGAS, CITY OF | 32003C2180D | 02-APR-2001 | 00-09-929P | 06
09 | NV | NYE COUNTY | 3200184390D | 05-APR-2001 | 01-09-391P | 05
09 | NV | RENO, CITY OF | 32031C3176F | 21-FEB-2001 | 01-09-414A | 01
09 | NV | SPARKS, CITY OF | 32031C3003E | 05-JUN-2001 | 01-09-119P | 06
09 | NV | WASHOE COUNTY | 32031C3170E | 29-MAY-2001 | 01-09-466P | 06
09 | NV | WASHOE COUNTY | 32031C3170E | 02-APR-2001 | 01-09-505A | 02
09 | NV | WASHOE COUNTY | 32031C2984F | 25-APR-2001 | 01-09-576A | 01
09 | NV | WASHOE COUNTY | 32031C3227F | 07-JUN-2001 | 01-09-744V | 19
09 | NV | WASHOE COUNTY | 32031C3250F | 07-JUN-2001 | 01-09-744V | 19
09 | NV | WASHOE COUNTY | 32031C2977F | 22-JAN-2001 | 99-09-136V | 19
09 | NV | WASHOE COUNTY | 32031C3176F | 22-JAN-2001 | 99-09-136V | 19
09 | NV | WASHOE COUNTY | 32031C3177F | 22-JAN-2001 | 99-09-136V | 19
10 | AK | ANCHORAGE, MUNICIPALITY OF | 0200050240C | 14-MAR-2001 | 01-10-041P | 05
10 | AK | ANCHORAGE, MUNICIPALITY OF | 0200050240C | 11-JAN-2001 | 01-10-155A | 02
10 | AK | CORDOVA, CITY OF | 0200370005B | 09-FEB-2001 | 01-10-024A | 01
10 | AK | FAIRBANKS-NORTH STAR BOROUGH | 0250090184G | 21-MAR-2001 | 01-10-224A | 01
10 | AK | JUNEAU, CITY AND BOROUGH OF | 0200090880C | 14-MAR-2001 | 01-10-170A | 02
10 | ID | ADA COUNTY | 16001C0160G | 08-FEB-2001 | 00-10-171P | 05
10 | ID | ADA COUNTY | 16001C0180G | 08-FEB-2001 | 00-10-171P | 05
10 | ID | ADA COUNTY | 16001C0151G | 26-FEB-2001 | 01-10-143A | 02
10 | ID | ADA COUNTY | 16001C0254G | 04-APR-2001 | 01-10-273A | 02
10 | ID | ADA COUNTY | 16001C0151G | 02-APR-2001 | 01-10-274A | 02
10 | ID | ADA COUNTY | 16001C0254G | 02-APR-2001 | 01-10-278A | 01
10 | ID | BINGHAM COUNTY | 1600180280B | 17-JAN-2001 | 01-10-115A | 01
10 | ID | BINGHAM COUNTY | 1600180425B | 07-FEB-2001 | 01-10-167A | 01
10 | ID | BINGHAM COUNTY | 1600180290B | 23-MAY-2001 | 01-10-367A | 01
10 | ID | BONNER COUNTY | 1602060325B | 14-FEB-2001 | 01-10-188A | 02
10 | ID | BONNER COUNTY | 1602060050B | 11-APR-2001 | 01-10-285A | 02
10 | ID | BONNEVILLE COUNTY | 1600270235C | 18-JUN-2001 | 01-10-406A | 02
10 | ID | CANYON COUNTY | 1602080228D | 04-APR-2001 | 01-10-283A | 02
10 | ID | COEUR D'ALENE, CITY OF | 1600780005C | 02-APR-2001 | 01-10-267A | 02
10 | ID | EAGLE, CITY OF | 16001C0161G | 03-JAN-2001 | 00-10-503P | 06
10 | ID | EAGLE, CITY OF | 16001C0153G | 11-APR-2001 | 01-10-176A | 01
10 | ID | EAGLE, CITY OF | 16001C0161G | 21-MAR-2001 | 01-10-240A | 17
10 | ID | ELMORE COUNTY | 1602120325B | 08-JAN-2001 | 01-10-122A | 02
10 | ID | GARDEN CITY, CITY OF | 16001C0166G | 11-JAN-2001 | 01-10-154A | 01
10 | ID | GARDEN CITY, CITY OF | 1600040002E | 27-APR-2001 | 01-10-253A | 01
10 | ID | GARDEN CITY, CITY OF | 16001C0166G | 11-APR-2001 | 01-10-282A | 01
10 | ID | GARDEN CITY, CITY OF | 16001C0166G | 02-MAY-2001 | 01-10-322A | 01
10 | ID | GARDEN CITY, CITY OF | 16001C0169G | 02-MAY-2001 | 01-10-364A | 01
10 | ID | GARDEN CITY, CITY OF | 16001C0162G | 06-JUN-2001 | 01-10-372A | 01
10 | ID | GARDEN CITY, CITY OF | 16001C0166G | 06-JUN-2001 | 01-10-372A | 01
10 | ID | GARDEN CITY, CITY OF | 16001C0166G | 18-JUN-2001 | 01-10-419A | 01
10 | ID | KETCHUM, CITY OF | 1600230442C | 02-FEB-2001 | 01-10-047A | 02
10 | ID | KETCHUM, CITY OF | 1600230461C | 28-MAR-2001 | 01-10-187A | 02
10 | ID | KOOTENAI COUNTY | 1600760170D | 28-FEB-2001 | 01-10-214A | 02
10 | ID | KOOTENAI COUNTY | 1600760160C | 09-MAR-2001 | 01-10-233A | 02
10 | ID | LEMHI COUNTY | 1600920665A | 07-MAY-2001 | 01-10-060A | 02
10 | ID | MERIDIAN, CITY OF | 16001C0232G | 07-MAY-2001 | 01-10-262A | 02
10 | ID | MERIDIAN, CITY OF | 16001C0144G | 18-JUN-2001 | 01-10-385A | 02
10 | ID | MOSCOW, CITY OF | 1600900001C | 09-MAR-2001 | 01-10-213A | 01
10 | ID | REXBURG, CITY OF | 16065C0020D | 24-JAN-2001 | 01-10-049A | 01
10 | ID | SPIRIT LAKE, CITY OF | 1600840001A | 26-JAN-2001 | 01-10-089A | 02
10 | ID | TETON COUNTY | 16081C0043C | 01-JUN-2001 | 01-10-280A | 02
10 | ID | TWIN FALLS, CITY OF | 1601200005B | 13-JUN-2001 | 00-10-440P | 05
10 | ID | TWIN FALLS, CITY OF | 1601200005B | 02-FEB-2001 | 01-10-168A | 02
10 | OR | ALBANY, CITY OF | 4101370001F | 02-MAR-2001 | 01-10-042A | 02
10 | OR | ALBANY, CITY OF | 4101370003F | 27-JUN-2001 | 01-10-415A | 01
10 | OR | BEND, CITY OF | 41017C0215C | 18-APR-2001 | 01-10-302A | 02
10 | OR | BENTON COUNTY | 4100080175C | 25-APR-2001 | 01-10-310A | 02
10 | OR | CLACKAMAS COUNTY | 4155880036A | 01-MAR-2001 | 00-10-384P | 05
10 | OR | CLACKAMAS COUNTY | 4155880040A | 01-MAR-2001 | 00-10-384P | 05
10 | OR | CLACKAMAS COUNTY | 4155880070B | 07-MAR-2001 | 01-10-241A | 02
10 | OR | CLACKAMAS COUNTY | 4155880145A | 20-APR-2001 | 01-10-305A | 02
10 | OR | COLUMBIA COUNTY | 41009C0444C | 25-APR-2001 | 01-10-067A | 01
10 | OR | COLUMBIA COUNTY | 41009C0377C | 11-JAN-2001 | 01-10-113A | 02
10 | OR | COOS BAY, CITY OF | 4100440008B | 11-JAN-2001 | 01-10-140A | 01
10 | OR | COOS BAY, CITY OF | 4100440005B | 25-APR-2001 | 01-10-307A | 01
10 | OR | COOS COUNTY | 4100420135B | 26-FEB-2001 | 01-10-083A | 02
10 | OR | CORVALLIS, CITY OF | 4100090006E | 28-MAR-2001 | 01-10-129A | 01
10 | OR | CORVALLIS, CITY OF | 4100090002E | 09-FEB-2001 | 01-10-195A | 02
10 | OR | DALLAS, CITY OF | 41053C0107D | 23-JAN-2001 | 00-10-323P | 05
10 | OR | DOUGLAS COUNTY | 4100590740C | 01-JUN-2001 | 01-10-374A | 02
10 | OR | DOUGLAS COUNTY | 4100590735A | 20-JUN-2001 | 01-10-410A | 02
10 | OR | EUGENE, CITY OF | 41039C1104F | 24-JAN-2001 | 01-10-121A | 02
10 | OR | EUGENE, CITY OF | 41039C1107F | 02-MAY-2001 | 01-10-125A | 01
10 | OR | EUGENE, CITY OF | 41039C1126F | 02-MAY-2001 | 01-10-125A | 01
10 | OR | EUGENE, CITY OF | 41039C1106F | 26-JAN-2001 | 01-10-153A | 01
10 | OR | EUGENE, CITY OF | 41039C1107F | 26-JAN-2001 | 01-10-153A | 01
10 | OR | EUGENE, CITY OF | 41039C1136F | 17-JAN-2001 | 01-10-161A | 02
10 | OR | EUGENE, CITY OF | 41039C1107F | 02-MAR-2001 | 01-10-165A | 02
10 | OR | EUGENE, CITY OF | 41039C1126F | 02-MAR-2001 | 01-10-165A | 02
10 | OR | EUGENE, CITY OF | 41039C1104F | 24-JAN-2001 | 01-10-172A | 02
10 | OR | EUGENE, CITY OF | 41039C1107F | 19-JAN-2001 | 01-10-173A | 02
10 | OR | EUGENE, CITY OF | 41039C0619F | 07-MAR-2001 | 01-10-184A | 02
10 | OR | EUGENE, CITY OF | 41039C1137F | 26-FEB-2001 | 01-10-206A | 02
10 | OR | EUGENE, CITY OF | 41039C1106F | 28-FEB-2001 | 01-10-217A | 02
10 | OR | EUGENE, CITY OF | 41039C1127F | 02-MAR-2001 | 01-10-226A | 02
10 | OR | EUGENE, CITY OF | 41039C1106F | 07-MAR-2001 | 01-10-227A | 02
10 | OR | EUGENE, CITY OF | 41039C1104F | 07-MAR-2001 | 01-10-228A | 02
10 | OR | EUGENE, CITY OF | 41039C1106F | 19-MAR-2001 | 01-10-246A | 02
10 | OR | EUGENE, CITY OF | 41039C1104F | 04-APR-2001 | 01-10-284A | 01
10 | OR | EUGENE, CITY OF | 41039C1106F | 28-MAR-2001 | 01-10-287A | 02
10 | OR | EUGENE, CITY OF | 41039C1104F | 25-APR-2001 | 01-10-315A | 02
10 | OR | EUGENE, CITY OF | 41039C1137F | 07-MAY-2001 | 01-10-316A | 01
10 | OR | EUGENE, CITY OF | 41039C1129F | 01-JUN-2001 | 01-10-333A | 02
10 | OR | EUGENE, CITY OF | 41039C1104F | 25-APR-2001 | 01-10-346A | 02
10 | OR | EUGENE, CITY OF | 41039C1107F | 06-JUN-2001 | 01-10-395A | 02
10 | OR | EUGENE, CITY OF | 41039C1106F | 06-JUN-2001 | 01-10-397A | 02
10 | OR | EUGENE, CITY OF | 41039C1107F | 06-JUN-2001 | 01-10-397A | 02
10 | OR | EUGENE, CITY OF | 41039C1104F | 06-JUN-2001 | 01-10-399A | 02
10 | OR | FLORENCE, CITY OF | 41039C1427F | 09-MAY-2001 | 01-10-319A | 02
10 | OR | FLORENCE, CITY OF | 41039C1427F | 07-MAY-2001 | 01-10-329A | 02
10 | OR | GRESHAM, CITY OF | 4101810003E | 16-MAY-2001 | 01-10-343A | 02
10 | OR | JACKSON COUNTY | 4155890402B | 12-JAN-2001 | 01-10-144A | 02
10 | OR | JACKSON COUNTY | 4155890292B | 01-JUN-2001 | 01-10-370A | 02
10 | OR | JACKSON COUNTY | 4155890292B | 22-JUN-2001 | 01-10-373A | 02
10 | OR | JOSEPHINE COUNTY | 4155900236D | 17-JAN-2001 | 01-10-123A | 17
10 | OR | JOSEPHINE COUNTY | 4155900237D | 17-JAN-2001 | 01-10-123A | 17
10 | OR | JOSEPHINE COUNTY | 4155900217B | 19-MAR-2001 | 01-10-231A | 02
10 | OR | KEIZER, CITY OF | 41047C0331G | 02-APR-2001 | 01-10-207A | 01
10 | OR | KEIZER, CITY OF | 41047C0194G | 09-MAR-2001 | 01-10-232A | 01
10 | OR | KEIZER, CITY OF | 41047C0194G | 25-APR-2001 | 01-10-276A | 02
10 | OR | KEIZER, CITY OF | 41047C0331G | 13-APR-2001 | 01-10-281A | 02
10 | OR | LA GRANDE, CITY OF | 4102600002D | 28-MAR-2001 | 01-10-202A | 01
10 | OR | LANE COUNTY | 41039C2135F | 03-JAN-2001 | 01-10-128A | 02
10 | OR | LANE COUNTY | 41039C1105F | 06-APR-2001 | 01-10-210A | 02
10 | OR | LANE COUNTY | 41039C1180F | 14-MAR-2001 | 01-10-244A | 02
10 | OR | LANE COUNTY | 41039C0190F | 23-MAY-2001 | 01-10-251A | 02
10 | OR | LANE COUNTY | 41039C2400F | 16-MAY-2001 | 01-10-260A | 02
10 | OR | LANE COUNTY | 41039C1134F | 01-JUN-2001 | 01-10-275A | 01
10 | OR | LANE COUNTY | 41039C1107F | 13-APR-2001 | 01-10-290A | 02
10 | OR | LANE COUNTY | 41039C0670F | 25-APR-2001 | 01-10-309A | 02
10 | OR | LANE COUNTY | 41039C0740F | 16-MAY-2001 | 01-10-317A | 17
10 | OR | LANE COUNTY | 41039C0700F | 11-MAY-2001 | 01-10-332A | 02
10 | OR | LANE COUNTY | 41039C0602F | 18-MAY-2001 | 01-10-353A | 02
10 | OR | LINCOLN COUNTY | 4101290025B | 28-MAR-2001 | 01-10-215A | 02
10 | OR | LINN COUNTY | 4101360680B | 07-FEB-2001 | 01-10-182A | 02
10 | OR | LINN COUNTY | 4101360350B | 23-MAR-2001 | 01-10-257A | 01
10 | OR | LINN COUNTY | 4101360350B | 01-JUN-2001 | 01-10-363A | 02
10 | OR | MARION COUNTY | 41047C0327G | 08-JAN-2001 | 00-10-406A | 17
10 | OR | MARION COUNTY | 41047C0331G | 08-JAN-2001 | 00-10-406A | 17
10 | OR | MARION COUNTY | 41047C0275G | 14-MAR-2001 | 01-10-238A | 02
10 | OR | MARION COUNTY | 41047C0125G | 04-APR-2001 | 01-10-270A | 02
10 | OR | MARION COUNTY | 41047C0125G | 13-APR-2001 | 01-10-294A | 02
10 | OR | MEDFORD, CITY OF | 4100960003C | 11-JAN-2001 | 01-10-076A | 02
10 | OR | MILWAUKIE, CITY OF | 4100190001B | 20-APR-2001 | 01-10-181A | 17
10 | OR | MULTNOMAH COUNTY | 4101790215B | 01-FEB-2001 | 01-10-174A | 02
10 | OR | MYRTLE CREEK, CITY OF | 4100640001C | 28-MAR-2001 | 01-10-221A | 02
10 | OR | OREGON CITY, CITY OF | 4100210001B | 06-JUN-2001 | 01-10-378A | 02
10 | OR | POLK COUNTY | 41053C0107D | 23-JAN-2001 | 00-10-323P | 05
10 | OR | PORTLAND, CITY OF | 4101830065A | 07-MAR-2001 | 01-10-114A | 01
10 | OR | PORTLAND, CITY OF | 4101830035C | 12-JAN-2001 | 01-10-146A | 01
10 | OR | PORTLAND, CITY OF | 4101830020D | 20-FEB-2001 | 01-10-160A | 02
10 | OR | PORTLAND, CITY OF | 4101830010D | 21-FEB-2001 | 01-10-194A | 02
10 | OR | PORTLAND, CITY OF | 4101830020D | 18-APR-2001 | 01-10-261A | 01
10 | OR | PORTLAND, CITY OF | 4101830020D | 06-JUN-2001 | 01-10-323A | 01
10 | OR | ROSEBURG, CITY OF | 4100670005E | 12-JAN-2001 | 01-10-142A | 02
10 | OR | SALEM, CITY OF | 41047C0657G | 11-APR-2001 | 01-10-312A | 02
10 | OR | SCAPPOOSE, CITY OF | 41009C0444C | 14-FEB-2001 | 01-10-101A | 02
10 | OR | STANFIELD, CITY OF | 4102130001C | 09-MAR-2001 | 01-10-199A | 01
10 | OR | TANGENT, CITY OF | 4101470001B | 16-MAY-2001 | 01-10-340A | 02
10 | OR | TIGARD, CITY OF | 4102760003B | 23-MAY-2001 | 01-10-185A | 17
10 | OR | TILLAMOOK COUNTY | 4101960170B | 01-FEB-2001 | 01-10-157A | 02
10 | OR | TUALATIN, CITY OF | 4102770001D | 09-FEB-2001 | 01-10-152A | 01
10 | OR | TURNER, CITY OF | 41047C0677G | 27-JUN-2001 | 01-10-205A | 01
10 | OR | VERNONIA, CITY OF | 41009C0381C | 07-FEB-2001 | 01-10-183A | 02
10 | OR | WALLOWA COUNTY | 41063C0625B | 26-JAN-2001 | 01-10-159A | 02
10 | OR | WASHINGTON COUNTY | 4102380368B | 09-MAY-2001 | 01-10-163A | 02
10 | OR | WASHINGTON COUNTY | 4102380368B | 22-JUN-2001 | 01-10-235A | 02
10 | OR | WASHINGTON COUNTY | 4102380364C | 25-APR-2001 | 01-10-296A | 01
10 | OR | WASHINGTON COUNTY | 4102380507B | 18-JUN-2001 | 01-10-369A | 02
10 | OR | YAMHILL COUNTY | 4102490158C | 26-FEB-2001 | 01-10-203A | 02
10 | OR | YAMHILL COUNTY | 4102490175C | 07-MAR-2001 | 01-10-223A | 02
10 | WA | BRIER, CITY OF | 53061C1317E | 12-JAN-2001 | 01-10-141A | 02
10 | WA | BRIER, CITY OF | 53061C1317E | 06-JUN-2001 | 01-10-394A | 02
10 | WA | BURLINGTON, CITY OF | 5301530001B | 14-MAR-2001 | 01-10-245A | 02
10 | WA | CARNATION, TOWN OF | 53033C0419F | 18-MAY-2001 | 01-10-352A | 02
10 | WA | CHELAN COUNTY | 5300150075B | 17-JAN-2001 | 01-10-148A | 02
10 | WA | CHELAN COUNTY | 5300150750B | 24-JAN-2001 | 01-10-158A | 02
10 | WA | CLARK COUNTY | 5300240312B | 20-MAR-2001 | 00-10-128P | 06
10 | WA | CLARK COUNTY | 5300240036 | 30-JAN-2001 | 00-10-247P | 06
10 | WA | CLARK COUNTY | 5300240453B | 13-JUN-2001 | 01-10-380A | 02
10 | WA | COWLITZ COUNTY | 5300320040D | 27-APR-2001 | 01-10-311A | 02
10 | WA | COWLITZ COUNTY | 5300320285D | 23-MAY-2001 | 01-10-351A | 02
10 | WA | COWLITZ COUNTY | 5300320117D | 13-JUN-2001 | 01-10-383A | 02
10 | WA | COWLITZ COUNTY | 5300320140D | 13-JUN-2001 | 01-10-383A | 02
10 | WA | GRAYS HARBOR COUNTY | 5300570325B | 07-MAR-2001 | 01-10-110A | 02
10 | WA | GRAYS HARBOR COUNTY | 5300570300B | 03-JAN-2001 | 01-10-126A | 02
10 | WA | GRAYS HARBOR COUNTY | 5300570400B | 03-JAN-2001 | 01-10-126A | 02
10 | WA | KING COUNTY | 53033C0737F | 08-JUN-2001 | 01-10-293A | 17
10 | WA | KING COUNTY | 53033C0680F | 27-APR-2001 | 01-10-313A | 02
10 | WA | KING COUNTY | 53033C1225F | 27-JUN-2001 | 01-10-368A | 02
10 | WA | KING COUNTY | 53033C0687F | 06-JUN-2001 | 01-10-381A | 02
10 | WA | KITSAP COUNTY | 5300920305B | 20-FEB-2001 | 01-10-169A | 02
10 | WA | KITTITAS COUNTY | 5300950229B | 02-MAR-2001 | 01-10-179A | 17
10 | WA | LAKE STEVENS, CITY OF | 53061C0743E | 09-FEB-2001 | 01-10-192A | 02
10 | WA | MARYSVILLE, CITY OF | 53061C0717E | 11-JAN-2001 | 01-10-156A | 02
10 | WA | MASON COUNTY | 5301150275C | 03-JAN-2001 | 01-10-100A | 02
10 | WA | MASON COUNTY | 5301150150C | 09-MAY-2001 | 01-10-336A | 02
10 | WA | MASON COUNTY | 5301150275C | 18-JUN-2001 | 01-10-392A | 02
10 | WA | MASON COUNTY | 5301150110C | 18-JUN-2001 | 01-10-400A | 02
10 | WA | OKANOGAN COUNTY | 5301170350B | 01-JUN-2001 | 01-10-339A | 02
10 | WA | PIERCE COUNTY | 5301380350D | 19-APR-2001 | 01-10-075P | 06
10 | WA | PIERCE COUNTY | 5301380354C | 24-JAN-2001 | 01-10-149A | 02
10 | WA | PIERCE COUNTY | 5301380363C | 26-FEB-2001 | 01-10-208A | 02
10 | WA | PIERCE COUNTY | 5301380552C | 06-APR-2001 | 01-10-279A | 02
10 | WA | PUYALLUP, CITY OF | 5301440005B | 23-MAR-2001 | 01-10-150A | 01
10 | WA | REDMOND, CITY OF | 53033C0390G | 02-MAY-2001 | 01-10-218A | 02
10 | WA | SKAGIT COUNTY | 5301510045C | 10-APR-2001 | 01-10-105P | 06
10 | WA | SKAGIT COUNTY | 5301510250C | 28-MAR-2001 | 01-10-190A | 02
10 | WA | SKAGIT COUNTY | 5301510250C | 20-FEB-2001 | 01-10-196A | 02
10 | WA | SKAGIT COUNTY | 5301510235D | 14-FEB-2001 | 01-10-198A | 02
10 | WA | SKAGIT COUNTY | 5301510065C | 18-APR-2001 | 01-10-255A | 02
10 | WA | SKAGIT COUNTY | 5301510065C | 18-APR-2001 | 01-10-299A | 02
10 | WA | SKAGIT COUNTY | 5301510285C | 27-JUN-2001 | 01-10-324A | 02
10 | WA | SKAGIT COUNTY | 5301510250C | 11-MAY-2001 | 01-10-342A | 02
10 | WA | SNOHOMISH COUNTY | 53061C1055E | 03-JAN-2001 | 01-10-099A | 02
10 | WA | SNOHOMISH COUNTY | 53061C1310E | 24-JAN-2001 | 01-10-134A | 02
10 | WA | SNOHOMISH COUNTY | 53061C0760E | 27-APR-2001 | 01-10-212A | 17
10 | WA | SNOHOMISH COUNTY | 53061C1310E | 21-MAR-2001 | 01-10-252A | 02
10 | WA | SPOKANE COUNTY | 5301740294C | 26-JAN-2001 | 01-10-097A | 02
10 | WA | SPOKANE COUNTY | 5301740294C | 17-JAN-2001 | 01-10-147A | 02
10 | WA | SPOKANE COUNTY | 5301740315C | 13-APR-2001 | 01-10-256A | 02
10 | WA | SPOKANE COUNTY | 5301740315C | 13-APR-2001 | 01-10-268A | 02
10 | WA | SPOKANE COUNTY | 5301740294C | 09-MAY-2001 | 01-10-331A | 02
10 | WA | SULTAN, CITY OF | 53061C1406E | 11-JAN-2001 | 01-10-093A | 02
10 | WA | SULTAN, CITY OF | 53061C1402E | 21-FEB-2001 | 01-10-200A | 01
10 | WA | TUKWILA, CITY OF | 53033C0978F | 02-MAY-2001 | 01-10-266A | 01
10 | WA | UNIVERSITY PLACE, CITY OF | 5301380281C | 14-MAR-2001 | 01-10-229A | 02
10 | WA | VADER, TOWN OF | 5302660001B | 27-APR-2001 | 01-10-230A | 02
10 | WA | WESTPORT, CITY OF | 5300670005C | 20-APR-2001 | 01-10-300A | 02
10 | WA | WESTPORT, CITY OF | 5300670005C | 13-JUN-2001 | 01-10-379A | 02
10 | WA | WHATCOM COUNTY | 530198B | 01-FEB-2001 | 01-10-189A | 02
10 | WA | WHATCOM COUNTY | 530198B | 28-MAR-2001 | 01-10-250A | 02
10 | WA | WHATCOM COUNTY | 530198B | 07-MAY-2001 | 01-10-263A | 02
10 | WA | YAKIMA COUNTY | 5302170720C | 18-JAN-2001 | 00-10-433P | 06
10 | WA | YAKIMA COUNTY | 5302171035C | 18-JAN-2001 | 00-10-433P | 06
10 | WA | YAKIMA COUNTY | 5302170680B | 21-FEB-2001 | 01-10-201A | 02
10 | WA | YAKIMA COUNTY | 5302170715B | 01-JUN-2001 | 01-10-292A | 02
10 | WA | YAKIMA COUNTY | 5302171028B | 13-APR-2001 | 01-10-298A | 02
10 | WA | YAKIMA, CITY OF | 5303110007B | 18-JAN-2001 | 00-10-433P | 06

Region | State | Community | Panel | Panel date
01 | CONNECTICUT | MIDDLETOWN, CITY OF | 0900680002C | 07-MAR-2001
01 | CONNECTICUT | MIDDLETOWN, CITY OF | 0900680003C | 07-MAR-2001
01 | CONNECTICUT | MIDDLETOWN, CITY OF | 0900680005C | 07-MAR-2001
01 | CONNECTICUT | MIDDLETOWN, CITY OF | 0900680006C | 07-MAR-2001
01 | CONNECTICUT | MIDDLETOWN, CITY OF | 0900680007C | 07-MAR-2001
01 | CONNECTICUT | MIDDLETOWN, CITY OF | 0900680008C | 07-MAR-2001
01 | CONNECTICUT | MIDDLETOWN, CITY OF | 0900680011C | 07-MAR-2001
01 | CONNECTICUT | MIDDLETOWN, CITY OF | 0900680012C | 07-MAR-2001
01 | CONNECTICUT | MIDDLETOWN, CITY OF | 0900680013C | 07-MAR-2001
01 | CONNECTICUT | MIDDLETOWN, CITY OF | 0900680014C | 07-MAR-2001
01 | CONNECTICUT | MIDDLETOWN, CITY OF | 0900680015C | 07-MAR-2001
01 | CONNECTICUT | MIDDLETOWN, CITY OF | 0900680016C | 07-MAR-2001
01 | CONNECTICUT | MIDDLETOWN, CITY OF | 090068IND0 | 07-MAR-2001
01 | CONNECTICUT | SOUTH WINDSOR, TOWN OF | 0900360001D | 23-FEB-2001
01 | CONNECTICUT | SOUTH WINDSOR, TOWN OF | 0900360002D | 23-FEB-2001
01 | CONNECTICUT | SOUTH WINDSOR, TOWN OF | 0900360003D | 23-FEB-2001
01 | CONNECTICUT | SOUTH WINDSOR, TOWN OF | 0900360005D | 23-FEB-2001
01 | CONNECTICUT | SOUTH WINDSOR, TOWN OF | 0900360006D | 23-FEB-2001
01 | CONNECTICUT | SOUTH WINDSOR, TOWN OF | 0900360007D | 23-FEB-2001
01 | CONNECTICUT | SOUTH WINDSOR, TOWN OF | 0900360009D | 23-FEB-2001
01 | CONNECTICUT | SOUTH WINDSOR, TOWN OF | 0900360010D | 23-FEB-2001
01 | CONNECTICUT | SOUTH WINDSOR, TOWN OF | 090036IND0 | 23-FEB-2001
01 | MAINE | ANDREWS ISLAND | 2309670001A | 23-FEB-2001
01 | MAINE | BENTON, TOWN OF | 2302330011C | 07-MAY-2001
01 | MAINE | BENTON, TOWN OF | 2302330015C | 07-MAY-2001
01 | MAINE | BENTON, TOWN OF | 230233IND0 | 07-MAY-2001
01 | MAINE | BENTON, TOWN OF | 2302330003C | 07-MAY-2001
01 | MAINE | BENTON, TOWN OF | 2302330007C | 07-MAY-2001
01 | MAINE | BENTON, TOWN OF | 2302330009C | 07-MAY-2001
01 | MAINE | WATERVILLE, CITY OF | 2300700001C | 07-MAY-2001
01 | MAINE | WATERVILLE, CITY OF | 2300700002C | 07-MAY-2001
01 | MAINE | WATERVILLE, CITY OF | 2300700003C | 07-MAY-2001
01 | MAINE | WATERVILLE, CITY OF | 2300700004C | 07-MAY-2001
01 | MAINE | WATERVILLE, CITY OF | 2300700005C | 07-MAY-2001
01 | MAINE | WATERVILLE, CITY OF | 2300700006C | 07-MAY-2001
01 | MAINE | WATERVILLE, CITY OF | 230070IND0 | 07-MAY-2001
01 | MAINE | WINSLOW, TOWN OF | 2300710002C | 07-MAY-2001
01 | MAINE | WINSLOW, TOWN OF | 2300710003C | 07-MAY-2001
01 | MAINE | WINSLOW, TOWN OF | 2300710004C | 07-MAY-2001
01 | MAINE | WINSLOW, TOWN OF | 2300710010C | 07-MAY-2001
01 | MAINE | WINSLOW, TOWN OF | 2300710012C | 07-MAY-2001
01 | MAINE | WINSLOW, TOWN OF | 2300710020C | 07-MAY-2001
01 | MAINE | WINSLOW, TOWN OF | 230071IND0 | 07-MAY-2001
01 | NEW HAMPSHIRE | ACWORTH, TOWN OF | 330152B*** | 01-APR-2001
01 | NEW HAMPSHIRE | ACWORTH, TOWN OF | 330152INDO*** | 01-APR-2001
01 | NEW HAMPSHIRE | HOLDERNESS, TOWN OF | 3300590002C | 20-JUN-2001
01 | NEW HAMPSHIRE | HOLDERNESS, TOWN OF | 3300590004C | 20-JUN-2001
01 | NEW HAMPSHIRE | HOLDERNESS, TOWN OF | 3300590008C | 20-JUN-2001
01 | NEW HAMPSHIRE | HOLDERNESS, TOWN OF | 3300590010C | 20-JUN-2001
01 | NEW HAMPSHIRE | HOLDERNESS, TOWN OF | 3300590015C | 20-JUN-2001
01 | NEW HAMPSHIRE | HOLDERNESS, TOWN OF | 330059IND0 | 20-JUN-2001
01 | NEW HAMPSHIRE | NEW BOSTON, TOWN OF | 3300980005C | 21-MAY-2001
01 | NEW HAMPSHIRE | NEW BOSTON, TOWN OF | 3300980010C | 21-MAY-2001
01 | NEW HAMPSHIRE | NEW BOSTON, TOWN OF | 3300980015C | 21-MAY-2001
01 | NEW HAMPSHIRE | NEW BOSTON, TOWN OF | 3300980020C | 21-MAY-2001
01 | NEW HAMPSHIRE | NEW BOSTON, TOWN OF | 330098IND0 | 21-MAY-2001
01 | NEW HAMPSHIRE | PLYMOUTH, TOWN OF | 3300720005C | 21-MAY-2001
01 | NEW HAMPSHIRE | PLYMOUTH, TOWN OF | 3300720010C | 21-MAY-2001
01 | NEW HAMPSHIRE | PLYMOUTH, TOWN OF | 330072IND0 | 21-MAY-2001
01 | NEW HAMPSHIRE | RINDGE, TOWN OF | 3301890010B | 21-MAY-2001
01 | NEW HAMPSHIRE | RINDGE, TOWN OF | 3301890015B | 21-MAY-2001
01 | NEW HAMPSHIRE | RINDGE, TOWN OF | 3301890017B | 21-MAY-2001
01 | NEW HAMPSHIRE | RINDGE, TOWN OF | 3301890020B | 21-MAY-2001
01 | NEW HAMPSHIRE | RINDGE, TOWN OF | 330189IND0 | 21-MAY-2001
01 | RHODE ISLAND | COVENTRY, TOWN OF | 4400040005B | 21-MAY-2001
01 | RHODE ISLAND | COVENTRY, TOWN OF | 4400040006B | 21-MAY-2001
01 | RHODE ISLAND | COVENTRY, TOWN OF | 4400040007B | 21-MAY-2001
01 | RHODE ISLAND | COVENTRY, TOWN OF | 4400040008B | 21-MAY-2001
01 | RHODE ISLAND | COVENTRY, TOWN OF | 4400040009B | 21-MAY-2001
01 | RHODE ISLAND | COVENTRY, TOWN OF | 4400040011B | 21-MAY-2001
01 | RHODE ISLAND | COVENTRY, TOWN OF | 4400040013B | 21-MAY-2001
01 | RHODE ISLAND | COVENTRY, TOWN OF | 440004IND0 | 21-MAY-2001
01 | VERMONT | PLYMOUTH, TOWN OF | 5001510005B | 07-MAY-2001
01 | VERMONT | PLYMOUTH, TOWN OF | 5001510010B | 07-MAY-2001
01 | VERMONT | PLYMOUTH, TOWN OF | 5001510015B | 07-MAY-2001
01 | VERMONT | PLYMOUTH, TOWN OF | 500151IND0 | 07-MAY-2001
02 | NEW JERSEY | ALEXANDRIA, TOWNSHIP OF | 3402300005C | 06-JUN-2001
02 | NEW JERSEY | ALEXANDRIA, TOWNSHIP OF | 3402300006C | 06-JUN-2001
02 | NEW JERSEY | ALEXANDRIA, TOWNSHIP OF | 3402300007C | 06-JUN-2001
02 | NEW JERSEY | ALEXANDRIA, TOWNSHIP OF | 3402300008C | 06-JUN-2001
02 | NEW JERSEY | ALEXANDRIA, TOWNSHIP OF | 340230IND0 | 06-JUN-2001
02 | NEW JERSEY | EAST HANOVER, CITY OF | 3403410005D | 06-JUN-2001
02 | NEW JERSEY | EWING, TOWNSHIP OF | 3452940001D | 06-JUN-2001
02 | NEW JERSEY | EWING, TOWNSHIP OF | 3452940002D | 06-JUN-2001
02 | NEW JERSEY | EWING, TOWNSHIP OF | 3452940003D | 06-JUN-2001
02 | NEW JERSEY | EWING, TOWNSHIP OF | 3452940004D | 06-JUN-2001
02 | NEW JERSEY | EWING, TOWNSHIP OF | 345294IND0 | 06-JUN-2001
02 | NEW JERSEY | FLORHAM PARK, BOROUGH OF | 3403420005D | 06-JUN-2001
02 | NEW JERSEY | HANOVER, TOWNSHIP OF | 3403430005D | 06-JUN-2001
02 | NEW JERSEY | HARMONY, TOWNSHIP OF | 3404850001D | 06-JUN-2001
02 | NEW JERSEY | HARMONY, TOWNSHIP OF | 3404850002D | 06-JUN-2001
02 | NEW JERSEY | HARMONY, TOWNSHIP OF | 3404850004D | 06-JUN-2001
02 | NEW JERSEY | HARMONY, TOWNSHIP OF | 3404850005D | 06-JUN-2001
02 | NEW JERSEY | HARMONY, TOWNSHIP OF | 3404850007D | 06-JUN-2001
02 | NEW JERSEY | HARMONY, TOWNSHIP OF | 340485IND0 | 06-JUN-2001
02 | NEW JERSEY | HOLLAND, TOWNSHIP OF | 3405090001C | 06-JUN-2001
02 | NEW JERSEY | HOLLAND, TOWNSHIP OF | 3405090002C | 06-JUN-2001
02 | NEW JERSEY | HOLLAND, TOWNSHIP OF | 3405090003C | 06-JUN-2001
02 | NEW JERSEY | HOLLAND, TOWNSHIP OF | 3405090004C | 06-JUN-2001
02 | NEW JERSEY | HOLLAND, TOWNSHIP OF | 3405090005C | 06-JUN-2001
02 | NEW JERSEY | HOLLAND, TOWNSHIP OF | 3405090006C | 06-JUN-2001
02 | NEW JERSEY | HOLLAND, TOWNSHIP OF | 3405090007C | 06-JUN-2001
02 | NEW JERSEY | HOLLAND, TOWNSHIP OF | 3405090008C | 06-JUN-2001
02 | NEW JERSEY | HOLLAND, TOWNSHIP OF | 340509IND0 | 06-JUN-2001
02 | NEW JERSEY | HOPEWELL, TOWNSHIP OF | 3452980015E | 06-JUN-2001
02 | NEW JERSEY | HOPEWELL, TOWNSHIP OF | 3452980020E | 06-JUN-2001
02 | NEW JERSEY | HOPEWELL, TOWNSHIP OF | 3452980025E | 06-JUN-2001
02 | NEW JERSEY | HOPEWELL, TOWNSHIP OF | 345298IND0 | 06-JUN-2001
02 | NEW JERSEY | HOPEWELL, TOWNSHIP OF | 3452980005E | 06-JUN-2001
02 | NEW JERSEY | HOPEWELL, TOWNSHIP OF | 3452980010E | 06-JUN-2001
02 | NEW JERSEY | LIVINGSTON, TOWNSHIP OF | 3401850001E | 20-JUN-2001
02 | NEW JERSEY | LIVINGSTON, TOWNSHIP OF | 3401850002E | 20-JUN-2001
02 | NEW JERSEY | LIVINGSTON, TOWNSHIP OF | 3401850003E | 20-JUN-2001
02 | NEW JERSEY | LIVINGSTON, TOWNSHIP OF | 3401850004E | 20-JUN-2001
02 | NEW JERSEY | LIVINGSTON, TOWNSHIP OF | 340185IND0 | 20-JUN-2001
02 | NEW JERSEY | SCOTCH PLAINS, TOWNSHIP OF | 3404740002C | 19-JAN-2001
02 | NEW JERSEY | SCOTCH PLAINS, TOWNSHIP OF | 3404740005C | 19-JAN-2001
02 | NEW JERSEY | SCOTCH PLAINS, TOWNSHIP OF | 340474IND0 | 19-JAN-2001
02 | NEW JERSEY | STAFFORD, TOWNSHIP OF | 3403930001C | 21-MAY-2001
02 | NEW JERSEY | STAFFORD, TOWNSHIP OF | 3403930002C | 21-MAY-2001
02 | NEW JERSEY | STAFFORD, TOWNSHIP OF | 3403930003C | 21-MAY-2001
02 | NEW JERSEY | STAFFORD, TOWNSHIP OF | 3403930004C | 21-MAY-2001
02 | NEW JERSEY | STAFFORD, TOWNSHIP OF | 3403930005C | 21-MAY-2001
02 | NEW JERSEY | STAFFORD, TOWNSHIP OF | 3403930006C | 21-MAY-2001
02 | NEW JERSEY | STAFFORD, TOWNSHIP OF | 3403930007C | 21-MAY-2001
02 | NEW JERSEY | STAFFORD, TOWNSHIP OF | 3403930008C | 21-MAY-2001
02 | NEW JERSEY | STAFFORD, TOWNSHIP OF | 3403930009C | 21-MAY-2001
02 | NEW JERSEY | STAFFORD, TOWNSHIP OF | 3403930010C | 21-MAY-2001
02 | NEW JERSEY | STAFFORD, TOWNSHIP OF | 3403930011C | 21-MAY-2001
02 | NEW JERSEY | STAFFORD, TOWNSHIP OF | 3403930012C | 21-MAY-2001
02 | NEW JERSEY | STAFFORD, TOWNSHIP OF | 3403930013C | 21-MAY-2001
02 | NEW JERSEY | STAFFORD, TOWNSHIP OF | 340393IND0 | 21-MAY-2001
02 | NEW JERSEY | STOCKTON, BOROUGH OF | 3453220001E | 06-JUN-2001
02 | NEW YORK | CLARKSTOWN, TOWN OF | 3606790004F | 21-MAY-2001
02 | NEW YORK | CLARKSTOWN, TOWN OF | 360679IND0 | 21-MAY-2001
02 | NEW YORK | FRANKFORT, VILLAGE OF | 3603040001C | 07-MAR-2001
02 | NEW YORK | HOLLAND PATENT, VILLAGE OF | 3605300001C | 21-MAY-2001
02 | NEW YORK | ITALY, TOWN OF | 3609580001C | 07-MAR-2001
02 | NEW YORK | ITALY, TOWN OF | 3609580002C | 07-MAR-2001
02 | NEW YORK | ITALY, TOWN OF | 3609580003C | 07-MAR-2001
02 | NEW YORK | ITALY, TOWN OF | 3609580004C | 07-MAR-2001
02 | NEW YORK | ITALY, TOWN OF | 3609580005C | 07-MAR-2001
02 | NEW YORK | ITALY, TOWN OF | 3609580006C | 07-MAR-2001
02 | NEW YORK | ITALY, TOWN OF | 3609580007C | 07-MAR-2001
02 | NEW YORK | ITALY, TOWN OF | 3609580008C | 07-MAR-2001
02 | NEW YORK | ITALY, TOWN OF | 3609580009C | 07-MAR-2001
02 | NEW YORK | ITALY, TOWN OF | 360958IND0 | 07-MAR-2001
02 | NEW YORK | LANCASTER, TOWN OF | 3602490001C | 23-FEB-2001
02 | NEW YORK | LANCASTER, TOWN OF | 3602490002C | 23-FEB-2001
02 | NEW YORK | LANCASTER, TOWN OF | 3602490003C | 23-FEB-2001
02 | NEW YORK | LANCASTER, TOWN OF | 3602490004C | 23-FEB-2001
02 | NEW YORK | LANCASTER, TOWN OF | 3602490005C | 23-FEB-2001
02 | NEW YORK | LANCASTER, TOWN OF | 3602490006C | 23-FEB-2001
02 | NEW YORK | LANCASTER, TOWN OF | 3602490007C | 23-FEB-2001
02 | NEW YORK | LANCASTER, TOWN OF | 3602490008C | 23-FEB-2001
02 | NEW YORK | LANCASTER, TOWN OF | 3602490009C | 23-FEB-2001
02 | NEW YORK | LANCASTER, TOWN OF | 3602490010C | 23-FEB-2001
02 | NEW YORK | LANCASTER, TOWN OF | 3602490011C | 23-FEB-2001
02 | NEW YORK | LANCASTER, TOWN OF | 3602490012C | 23-FEB-2001
02 | NEW YORK | LANCASTER, TOWN OF | 360249IND0 | 23-FEB-2001
02 | NEW YORK | LITCHFIELD, TOWN OF | 3603090003C | 07-MAY-2001
02 | NEW YORK | LITCHFIELD, TOWN OF | 3603090004C | 07-MAY-2001
02 | NEW YORK | LITCHFIELD, TOWN OF | 3603090005C | 07-MAY-2001
02 | NEW YORK | LITCHFIELD, TOWN OF | 3603090006C | 07-MAY-2001
02 | NEW YORK | LITCHFIELD, TOWN OF | 3603090007C | 07-MAY-2001
02 | NEW YORK | LITCHFIELD, TOWN OF | 360309IND0 | 07-MAY-2001
02 | NEW YORK | MONROE, TOWN OF | 3606210002C | 23-FEB-2001
02 | NEW YORK | MONROE, TOWN OF | 3606210005C | 23-FEB-2001
02 | NEW YORK | MONROE, TOWN OF | 360621IND0 | 23-FEB-2001
02 | NEW YORK | NEW YORK, CITY OF | 3604970140E | 21-MAY-2001
02 | NEW YORK | NEW YORK, CITY OF | 3604970142E | 21-MAY-2001
02 | NEW YORK | NEW YORK, CITY OF | 3604970143E | 21-MAY-2001
02 | NEW YORK | NEW YORK, CITY OF | 3604970144E | 21-MAY-2001
02 | NEW YORK | NEW YORK, CITY OF | 3604970145E | 21-MAY-2001
02 | NEW YORK | NEW YORK, CITY OF | 3604970146E | 21-MAY-2001
02 | NEW YORK | NEW YORK, CITY OF | 3604970147E | 21-MAY-2001
02 | NEW YORK | NEW YORK, CITY OF | 3604970148E | 21-MAY-2001
02 | NEW YORK | NEW YORK, CITY OF | 3604970149E | 21-MAY-2001
02 | NEW YORK | NEW YORK, CITY OF | 3604970150E | 21-MAY-2001
02 | NEW YORK | NEW YORK, CITY OF | 3604970151E | 21-MAY-2001
02 | NEW YORK | NEW YORK, CITY OF | 3604970152E | 21-MAY-2001
02 | NEW YORK | NEW YORK, CITY OF | 3604970153E | 21-MAY-2001
02 | NEW YORK | NEW YORK, CITY OF | 360497IND0 | 21-MAY-2001
02 | NEW YORK | NEW YORK, CITY OF | 3604970123E | 21-MAY-2001
02 | NEW YORK | NEW YORK, CITY OF | 3604970124E | 21-MAY-2001
02 | NEW YORK | NEW YORK, CITY OF | 3604970125E | 21-MAY-2001
02 | NEW YORK | NEW YORK, CITY OF | 3604970126E | 21-MAY-2001
02 | NEW YORK | NEW YORK, CITY OF | 3604970127E | 21-MAY-2001
02 | NEW YORK | NEW YORK, CITY OF | 3604970129E | 21-MAY-2001
02 | NEW YORK | NEW YORK, CITY OF | 3604970130E | 21-MAY-2001
02 | NEW YORK | NEW YORK, CITY OF | 3604970131E | 21-MAY-2001
02 | NEW YORK | NEW YORK, CITY OF | 3604970132E | 21-MAY-2001
02 | NEW YORK | NEW YORK, CITY OF | 3604970133E | 21-MAY-2001
02 | NEW YORK | NEW YORK, CITY OF | 3604970134E | 21-MAY-2001
02 | NEW YORK | NEW YORK, CITY OF | 3604970135E | 21-MAY-2001
02 | NEW YORK | NEW YORK, CITY OF | 3604970136E | 21-MAY-2001
02 | NEW YORK | NEW YORK, CITY OF | 3604970137E | 21-MAY-2001
02 | NEW YORK | NEW YORK, CITY OF | 3604970138E | 21-MAY-2001
02 | NEW YORK | NEW YORK, CITY OF | 3604970139E | 21-MAY-2001
02 | NEW YORK | ONEIDA, CITY OF | 3604080001D | 23-FEB-2001
02 | NEW YORK | ONEIDA, CITY OF | 3604080002D | 23-FEB-2001
02 | NEW YORK | ONEIDA, CITY OF | 3604080003D | 23-FEB-2001
02 | NEW YORK | ONEIDA, CITY OF | 3604080004D | 23-FEB-2001
02 | NEW YORK | ONEIDA, CITY OF | 3604080005D | 23-FEB-2001
02 | NEW YORK | ONEIDA, CITY OF | 3604080007D | 23-FEB-2001
02 | NEW YORK | ONEIDA, CITY OF | 360408IND0 | 23-FEB-2001
02 | NEW YORK | OSWEGO, TOWN OF | 3606570005F | 20-JUN-2001
02 | NEW YORK | OSWEGO, TOWN OF | 3606570001F | 20-JUN-2001
02 | NEW YORK | OSWEGO, TOWN OF | 3606570002F | 20-JUN-2001
02 | NEW YORK | OSWEGO, TOWN OF | 3606570003F | 20-JUN-2001
02 | NEW YORK | OSWEGO, TOWN OF | 3606570004F | 20-JUN-2001
02 | NEW YORK | OSWEGO, TOWN OF | 3606570006F | 20-JUN-2001
02 | NEW YORK | OSWEGO, TOWN OF | 3606570007F | 20-JUN-2001
02 | NEW YORK | OSWEGO, TOWN OF | 360657IND0 | 20-JUN-2001
02 | NEW YORK | PUTNAM VALLEY, TOWN OF | 3610300007C | 20-JUN-2001
02 | NEW YORK | PUTNAM VALLEY, TOWN OF | 3610300009C | 20-JUN-2001
02 | NEW YORK | PUTNAM VALLEY, TOWN OF | 3610300011C | 20-JUN-2001
02 | NEW YORK | PUTNAM VALLEY, TOWN OF | 3610300012C | 20-JUN-2001
02 | NEW YORK | PUTNAM VALLEY, TOWN OF | 3610300013C | 20-JUN-2001
02 | NEW YORK | PUTNAM VALLEY, TOWN OF | 3610300016C | 20-JUN-2001
02 | NEW YORK | PUTNAM VALLEY, TOWN OF | 3610300017C | 20-JUN-2001
02 | NEW YORK | PUTNAM VALLEY, TOWN OF | 3610300018C | 20-JUN-2001
02 | NEW YORK | PUTNAM VALLEY, TOWN OF | 3610300019C | 20-JUN-2001
02 | NEW YORK | PUTNAM VALLEY, TOWN OF | 361030IND0 | 20-JUN-2001
02 | NEW YORK | SCHUYLER, TOWN OF | 3603180010C | 20-JUN-2001
02 | NEW YORK | SCHUYLER, TOWN OF | 3603180015C | 20-JUN-2001
02 | NEW YORK | SCHUYLER, TOWN OF | 3603180020C | 20-JUN-2001
02 | NEW YORK | SCHUYLER, TOWN OF | 360318IND0 | 20-JUN-2001
02 | NEW YORK | SCRIBA, TOWN OF | 3606630001D | 06-JUN-2001
02 | NEW YORK | SCRIBA, TOWN OF | 3606630002D | 06-JUN-2001
02 | NEW YORK | SCRIBA, TOWN OF | 3606630003D | 06-JUN-2001
02 | NEW YORK | SCRIBA, TOWN OF | 3606630004D | 06-JUN-2001
02 | NEW YORK | SCRIBA, TOWN OF | 3606630005D | 06-JUN-2001
02 | NEW YORK | SCRIBA, TOWN OF | 3606630006D | 06-JUN-2001
02 | NEW YORK | SCRIBA, TOWN OF | 3606630007D | 06-JUN-2001
02 | NEW YORK | SCRIBA, TOWN OF | 3606630008D | 06-JUN-2001
02 | NEW YORK | SCRIBA, TOWN OF | 3606630009D | 06-JUN-2001
02 | NEW YORK | SCRIBA, TOWN OF | 360663IND0 | 06-JUN-2001
03 | MARYLAND | SMITHSBURG, TOWN OF | 2401240001B | 06-JUN-2001
03 | PENNSYLVANIA | ALBANY, TOWNSHIP OF | 42011CIND1 | 21-MAY-2001
03 | PENNSYLVANIA | ALBANY, TOWNSHIP OF | 42011CIND2 | 21-MAY-2001
03 | PENNSYLVANIA | ALLEN, TOWNSHIP OF | 42095C0207D | 06-APR-2001
03 | PENNSYLVANIA | ALLEN, TOWNSHIP OF | 42095C0209D | 06-APR-2001
03 | PENNSYLVANIA | ALLEN, TOWNSHIP OF | 42095C0226D | 06-APR-2001
03 | PENNSYLVANIA | ALLEN, TOWNSHIP OF | 42095C0228D | 06-APR-2001
03 | PENNSYLVANIA | ALLEN, TOWNSHIP OF | 42095C0230D | 06-APR-2001
03 | PENNSYLVANIA | ALLEN, TOWNSHIP OF | 42095C0236D | 06-APR-2001
03 | PENNSYLVANIA | ALLEN, TOWNSHIP OF | 42095C0237D | 06-APR-2001
03 | PENNSYLVANIA | ALLEN, TOWNSHIP OF | 42095CIND0 | 06-APR-2001
03 | PENNSYLVANIA | ALSACE, TOWNSHIP OF | 42011C0367F | 21-MAY-2001
03 | PENNSYLVANIA | ALSACE, TOWNSHIP OF | 42011C0369F | 21-MAY-2001
03 | PENNSYLVANIA | ALSACE, TOWNSHIP OF | 42011C0507F | 21-MAY-2001
03 | PENNSYLVANIA | ALSACE, TOWNSHIP OF | 42011CIND1 | 21-MAY-2001
03 | PENNSYLVANIA | ALSACE, TOWNSHIP OF | 42011CIND2 | 21-MAY-2001
03 | PENNSYLVANIA | AMITY, TOWNSHIP OF | 42011CIND1** | 21-MAY-2001
03 | PENNSYLVANIA | AMITY, TOWNSHIP OF | 42011CIND2** | 21-MAY-2001
03 | PENNSYLVANIA | AYR, TOWNSHIP OF | 4224280010C | 09-FEB-2001
03 | PENNSYLVANIA | AYR, TOWNSHIP OF | 4224280020C | 09-FEB-2001
03 | PENNSYLVANIA | AYR, TOWNSHIP OF | 422428IND0 | 09-FEB-2001
03 | PENNSYLVANIA | BALLY, BOROUGH OF | 42011CIND1** | 21-MAY-2001
03 | PENNSYLVANIA | BALLY, BOROUGH OF | 42011CIND2** | 21-MAY-2001
03 | PENNSYLVANIA | BANGOR, BOROUGH OF | 42095C0039D | 06-APR-2001
03 | PENNSYLVANIA | BANGOR, BOROUGH OF | 42095C0152D | 06-APR-2001
03 | PENNSYLVANIA | BANGOR, BOROUGH OF | 42095C0155D | 06-APR-2001
03 | PENNSYLVANIA | BANGOR, BOROUGH OF | 42095CIND0 | 06-APR-2001
03 | PENNSYLVANIA | BATH, BOROUGHS OF | 42095C0232D | 06-APR-2001
03 | PENNSYLVANIA | BATH, BOROUGHS OF | 42095C0235D | 06-APR-2001
03 | PENNSYLVANIA | BATH, BOROUGHS OF | 42095CIND0 | 06-APR-2001
03 | PENNSYLVANIA | BECHTELSVILLE, BOROUGH OF | 42011CIND1** | 21-MAY-2001
03 | PENNSYLVANIA | BECHTELSVILLE, BOROUGH OF | 42011CIND2** | 21-MAY-2001
03 | PENNSYLVANIA | BEDMINSTER, TOWNSHIP OF | 42017CIND1** | 20-JUN-2001
03 | PENNSYLVANIA | BEDMINSTER, TOWNSHIP OF | 42017CIND2** | 20-JUN-2001
03 | PENNSYLVANIA | BEDMINSTER, TOWNSHIP OF | 42017C0144G | 20-JUN-2001
03 | PENNSYLVANIA | BENSALEM, TOWNSHIP OF | 42017CIND1** | 20-JUN-2001
03 | PENNSYLVANIA | BENSALEM, TOWNSHIP OF | 42017CIND2** | 20-JUN-2001
03 | PENNSYLVANIA | BERKS COUNTY* | 42011CIND1** | 21-MAY-2001
03 | PENNSYLVANIA | BERKS COUNTY* | 42011CIND2** | 21-MAY-2001
03 | PENNSYLVANIA | BERKS COUNTY* | 42011C0314F | 21-MAY-2001
03 | PENNSYLVANIA | BERKS COUNTY* | 42011C0320F | 21-MAY-2001
03 | PENNSYLVANIA | BERKS COUNTY* | 42011C0361F | 21-MAY-2001
03 | PENNSYLVANIA | BERKS COUNTY* | 42011C0362F | 21-MAY-2001
03 | PENNSYLVANIA | BERKS COUNTY* | 42011C0363F | 21-MAY-2001
03 | PENNSYLVANIA | BERKS COUNTY* | 42011C0364F | 21-MAY-2001
03 | PENNSYLVANIA | BERKS COUNTY* | 42011C0366F | 21-MAY-2001
03 | PENNSYLVANIA | BERKS COUNTY* | 42011C0367F | 21-MAY-2001
03 | PENNSYLVANIA | BERKS COUNTY* | 42011C0368F | 21-MAY-2001
03 | PENNSYLVANIA | BERKS COUNTY* | 42011C0369F | 21-MAY-2001
03 | PENNSYLVANIA | BERKS COUNTY* | 42011C0452F | 21-MAY-2001
03 | PENNSYLVANIA | BERKS COUNTY* | 42011C0460F | 21-MAY-2001
03 | PENNSYLVANIA | BERKS COUNTY* | 42011C0502F | 21-MAY-2001
03 | PENNSYLVANIA | BERKS COUNTY* | 42011C0506F | 21-MAY-2001
03 | PENNSYLVANIA | BERKS COUNTY* | 42011C0507F | 21-MAY-2001
03 | PENNSYLVANIA | BERN, TOWNSHIP OF | 42011CIND1 | 21-MAY-2001
03 | PENNSYLVANIA | BERN, TOWNSHIP OF | 42011CIND2 | 21-MAY-2001
03 | PENNSYLVANIA | BERN, TOWNSHIP OF | 42011C0361F | 21-MAY-2001
03 | PENNSYLVANIA | BERN, TOWNSHIP OF | 42011C0362F | 21-MAY-2001
03 | PENNSYLVANIA | BERN, TOWNSHIP OF | 42011C0363F | 21-MAY-2001
03 | PENNSYLVANIA | BERN, TOWNSHIP OF | 42011C0364F | 21-MAY-2001
03 | PENNSYLVANIA | BERN, TOWNSHIP OF | 42011C0502F | 21-MAY-2001
03 | PENNSYLVANIA | BERNVILLE, BOROUGH OF | 42011CIND1** | 21-MAY-2001
03 | PENNSYLVANIA | BERNVILLE, BOROUGH OF | 42011CIND2** | 21-MAY-2001
03 | PENNSYLVANIA | BETHEL, TOWNSHIP OF | 42011CIND1** | 21-MAY-2001
03 | PENNSYLVANIA | BETHEL, TOWNSHIP OF | 42011CIND2** | 21-MAY-2001
03 | PENNSYLVANIA | BETHLEHEM, CITY OF | 42095C0242D | 06-APR-2001
03 | PENNSYLVANIA | BETHLEHEM, CITY OF | 42095C0244D | 06-APR-2001
03 | PENNSYLVANIA | BETHLEHEM, CITY OF | 42095C0261D | 06-APR-2001
03 | PENNSYLVANIA | BETHLEHEM, CITY OF | 42095C0262D | 06-APR-2001
03 | PENNSYLVANIA | BETHLEHEM, CITY OF | 42095C0264D | 06-APR-2001
03 | PENNSYLVANIA | BETHLEHEM, CITY OF | 42095C0306D | 06-APR-2001
03 | PENNSYLVANIA | BETHLEHEM, CITY OF | 42095C0307D | 06-APR-2001
03 | PENNSYLVANIA | BETHLEHEM, CITY OF | 42095C0326D | 06-APR-2001
03 | PENNSYLVANIA | BETHLEHEM, CITY OF | 42095C0327D | 06-APR-2001
03 | PENNSYLVANIA | BETHLEHEM, CITY OF | 42095C0328D | 06-APR-2001
03 | PENNSYLVANIA | BETHLEHEM, CITY OF | 42095C0329D | 06-APR-2001
03 | PENNSYLVANIA | BETHLEHEM, CITY OF | 42095C0335D | 06-APR-2001
03 | PENNSYLVANIA | BETHLEHEM, CITY OF | 42095CIND0 | 06-APR-2001
03 | PENNSYLVANIA | BETHLEHEM, TOWNSHIP OF | 42095C0242D | 06-APR-2001
03 | PENNSYLVANIA | BETHLEHEM, TOWNSHIP OF | 42095C0255D | 06-APR-2001
03 | PENNSYLVANIA | BETHLEHEM, TOWNSHIP OF | 42095C0258D | 06-APR-2001
03 | PENNSYLVANIA | BETHLEHEM, TOWNSHIP OF | 42095C0259D | 06-APR-2001
03 | PENNSYLVANIA | BETHLEHEM, TOWNSHIP OF | 42095C0261D | 06-APR-2001
03 | PENNSYLVANIA | BETHLEHEM, TOWNSHIP OF | 42095C0262D | 06-APR-2001
03 | PENNSYLVANIA | BETHLEHEM, TOWNSHIP OF | 42095C0264D | 06-APR-2001
03 | PENNSYLVANIA | BETHLEHEM, TOWNSHIP OF | 42095C0266D | 06-APR-2001
03 | PENNSYLVANIA | BETHLEHEM, TOWNSHIP OF | 42095C0267D | 06-APR-2001
03 | PENNSYLVANIA | BETHLEHEM, TOWNSHIP OF | 42095C0268D | 06-APR-2001
03 | PENNSYLVANIA | BETHLEHEM, TOWNSHIP OF | 42095C0269D | 06-APR-2001
03 | PENNSYLVANIA | BETHLEHEM, TOWNSHIP OF | 42095CIND0 | 06-APR-2001
03 | PENNSYLVANIA | BIRDSBORO, BOROUGH OF | 42011CIND1** | 21-MAY-2001
03 | PENNSYLVANIA | BIRDSBORO, BOROUGH OF | 42011CIND2** | 21-MAY-2001
03 | PENNSYLVANIA | BOYERSTOWN, BOROUGH OF | 42011CIND1** | 21-MAY-2001
03 | PENNSYLVANIA | BOYERSTOWN, BOROUGH OF | 42011CIND2** | 21-MAY-2001
03 | PENNSYLVANIA | BRECKNOCK, TOWNSHIP OF | 42011CIND1** | 21-MAY-2001
03 | PENNSYLVANIA | BRECKNOCK, TOWNSHIP OF | 42011CIND2** | 21-MAY-2001
03 | PENNSYLVANIA | BRIDGETON, TOWNSHIP OF | 42017CIND1** | 20-JUN-2001
03 | PENNSYLVANIA | BRIDGETON, TOWNSHIP OF | 42017CIND2** | 20-JUN-2001
03 | PENNSYLVANIA | BRISTOL, BOROUGH OF | 42017CIND1** | 20-JUN-2001
03 | PENNSYLVANIA | BRISTOL, BOROUGH OF | 42017CIND2** | 20-JUN-2001
03 | PENNSYLVANIA | BRISTOL, TOWNSHIP OF | 42017CIND1** | 20-JUN-2001
03 | PENNSYLVANIA | BRISTOL, TOWNSHIP OF | 42017CIND2** | 20-JUN-2001
03 | PENNSYLVANIA | BUCKINGHAM, TOWNSHIP OF | 42017CIND1** | 20-JUN-2001
03 | PENNSYLVANIA | BUCKINGHAM, TOWNSHIP OF | 42017CIND2** | 20-JUN-2001
03 | PENNSYLVANIA | BUCKS COUNTY* | 42017C0143F | 20-JUN-2001
03 | PENNSYLVANIA | BUSHKILL, TOWNSHIP OF | 42095CIND0 | 06-APR-2001
03 | PENNSYLVANIA | BUSHKILL, TOWNSHIP OF | 42095C0130D | 06-APR-2001
03 | PENNSYLVANIA | BUSHKILL, TOWNSHIP OF | 42095C0131D | 06-APR-2001
03 | PENNSYLVANIA | BUSHKILL, TOWNSHIP OF | 42095C0133D | 06-APR-2001
03 | PENNSYLVANIA | BUSHKILL, TOWNSHIP OF | 42095C0140D | 06-APR-2001
03 | PENNSYLVANIA | BUSHKILL, TOWNSHIP OF | 42095C0144D | 06-APR-2001
03 | PENNSYLVANIA | BUSHKILL, TOWNSHIP OF | 42095C0145D | 06-APR-2001
03 | PENNSYLVANIA | BUSHKILL, TOWNSHIP OF | 42095C0252D | 06-APR-2001
03 | PENNSYLVANIA | BUSHKILL, TOWNSHIP OF | 42095C0255D | 06-APR-2001
03 | PENNSYLVANIA | CAERNARVON, TOWNSHIP OF | 42011CIND1** | 21-MAY-2001
03 | PENNSYLVANIA | CAERNARVON, TOWNSHIP OF | 42011CIND2** | 21-MAY-2001
03 | PENNSYLVANIA | CENTERPORT, BOROUGH OF | 42011CIND1 | 21-MAY-2001
03 | PENNSYLVANIA | CENTERPORT, BOROUGH OF | 42011CIND2 | 21-MAY-2001
03 | PENNSYLVANIA | CENTRE, TOWNSHIP OF | 42011CIND1** | 21-MAY-2001
03 | PENNSYLVANIA | CENTRE, TOWNSHIP OF | 42011CIND2** | 21-MAY-2001
03 | PENNSYLVANIA | CHALFONT, BOROUGH OF | 42017CIND1** | 20-JUN-2001
03 | PENNSYLVANIA | CHALFONT, BOROUGH OF | 42017CIND2** | 20-JUN-2001
03 | PENNSYLVANIA | CHAPMAN, BOROUGH OF | 42095C0119D | 06-APR-2001
03 | PENNSYLVANIA | CHAPMAN, BOROUGH OF | 42095C0120D | 06-APR-2001
03 | PENNSYLVANIA | CHAPMAN, BOROUGH OF | 42095CIND0 | 06-APR-2001
03 | PENNSYLVANIA | COLEBROOKDALE, TOWNSHIP OF | 42011CIND1** | 21-MAY-2001
03 | PENNSYLVANIA | COLEBROOKDALE, TOWNSHIP OF | 42011CIND2** | 21-MAY-2001
03 | PENNSYLVANIA | CUMRU, TOWNSHIP OF | 42011CIND1** | 21-MAY-2001
03 | PENNSYLVANIA | CUMRU, TOWNSHIP OF | 42011CIND2** | 21-MAY-2001
03 | PENNSYLVANIA | DISTRICT, TOWNSHIP OF | 42011CIND1** | 21-MAY-2001
03 | PENNSYLVANIA | DISTRICT, TOWNSHIP OF | 42011CIND2** | 21-MAY-2001
03 | PENNSYLVANIA | DOUGLASS, TOWNSHIP OF | 42011CIND1** | 21-MAY-2001
03 | PENNSYLVANIA | DOUGLASS, TOWNSHIP OF | 42011CIND2** | 21-MAY-2001
03 | PENNSYLVANIA | DOYLESTOWN, BOROUGH OF | 42017CIND1** | 20-JUN-2001
03 | PENNSYLVANIA | DOYLESTOWN, BOROUGH OF | 42017CIND2** | 20-JUN-2001
03 | PENNSYLVANIA | DOYLESTOWN, TOWNSHIP OF | 42017CIND1** | 20-JUN-2001
03 | PENNSYLVANIA | DOYLESTOWN, TOWNSHIP OF | 42017CIND2** | 20-JUN-2001
03 | PENNSYLVANIA | DUBLIN, BOROUGH OF | 42017CIND1** | 20-JUN-2001
03 | PENNSYLVANIA | DUBLIN, BOROUGH OF | 42017CIND2** | 20-JUN-2001
03 | PENNSYLVANIA | EARL, TOWNSHIP OF | 42011CIND1** | 21-MAY-2001
03 | PENNSYLVANIA | EARL, TOWNSHIP OF | 42011CIND2** | 21-MAY-2001
03 | PENNSYLVANIA | EAST ALLEN, TOWNSHIP OF | 42095C0242D | 06-APR-2001
03 | PENNSYLVANIA | EAST ALLEN, TOWNSHIP OF | 42095CIND0 | 06-APR-2001
03 | PENNSYLVANIA | EAST ALLEN, TOWNSHIP OF | 42095C0230D | 06-APR-2001
03 | PENNSYLVANIA | EAST ALLEN, TOWNSHIP OF | 42095C0232D | 06-APR-2001
03 | PENNSYLVANIA | EAST ALLEN, TOWNSHIP OF | 42095C0235D | 06-APR-2001
03 | PENNSYLVANIA | EAST ALLEN, TOWNSHIP OF | 42095C0237D | 06-APR-2001
03 | PENNSYLVANIA | EAST BANGOR, BOROUGH OF | 42095C0039D | 06-APR-2001
03 | PENNSYLVANIA | EAST BANGOR, BOROUGH OF | 42095C0045D | 06-APR-2001
03 | PENNSYLVANIA | EAST BANGOR, BOROUGH OF | 42095C0152D | 06-APR-2001
03 | PENNSYLVANIA | EAST BANGOR, BOROUGH OF | 42095C0160D | 06-APR-2001
03 | PENNSYLVANIA | EAST BANGOR, BOROUGH OF | 42095CIND0 | 06-APR-2001
03 | PENNSYLVANIA | EAST ROCKHILL, TOWNSHIP OF | 42017C0143G | 20-JUN-2001
03 | PENNSYLVANIA | EAST ROCKHILL, TOWNSHIP OF | 42017C0144G | 20-JUN-2001
03 | PENNSYLVANIA | EAST ROCKHILL, TOWNSHIP OF | 42017C0252G | 20-JUN-2001
03 | PENNSYLVANIA | EAST ROCKHILL, TOWNSHIP OF | 42017C0256G | 20-JUN-2001
03 | PENNSYLVANIA | EAST ROCKHILL, TOWNSHIP OF | 42017C0257G | 20-JUN-2001
03 | PENNSYLVANIA | EAST ROCKHILL, TOWNSHIP OF | 42017CIND1 | 20-JUN-2001
03 | PENNSYLVANIA | EAST ROCKHILL, TOWNSHIP OF | 42017CIND2 | 20-JUN-2001
03 | PENNSYLVANIA | EASTON, CITY OF | 42095C0267D | 06-APR-2001
03 | PENNSYLVANIA | EASTON, CITY OF | 42095C0269D | 06-APR-2001
03 | PENNSYLVANIA | EASTON, CITY OF | 42095C0278D | 06-APR-2001
03 | PENNSYLVANIA | EASTON, CITY OF | 42095C0279D | 06-APR-2001
03 | PENNSYLVANIA | EASTON, CITY OF | 42095C0286D | 06-APR-2001
03 | PENNSYLVANIA | EASTON, CITY OF | 42095C0287D | 06-APR-2001
03 | PENNSYLVANIA | EASTON, CITY OF | 42095C0288D | 06-APR-2001
03 | PENNSYLVANIA | EASTON, CITY OF | 42095CIND0 | 06-APR-2001
03 | PENNSYLVANIA | EXETER, TOWNSHIP OF | 42011CIND1** | 21-MAY-2001
03 | PENNSYLVANIA | EXETER, TOWNSHIP OF | 42011CIND2** | 21-MAY-2001
03 | PENNSYLVANIA | FALLS, TOWNSHIP OF | 42017CIND1** | 20-JUN-2001
03 | PENNSYLVANIA | FALLS, TOWNSHIP OF | 42017CIND2** | 20-JUN-2001
03 | PENNSYLVANIA | FLEETWOOD, BOROUGH OF | 42011CIND1** | 21-MAY-2001
03 | PENNSYLVANIA | FLEETWOOD, BOROUGH OF | 42011CIND2** | 21-MAY-2001
03 | PENNSYLVANIA | FORKS, TOWNSHIP OF | 42095C0144D | 06-APR-2001
03 | PENNSYLVANIA | FORKS, TOWNSHIP OF | 42095C0164D | 06-APR-2001
03 | PENNSYLVANIA | FORKS, TOWNSHIP OF | 42095C0165D | 06-APR-2001
03 | PENNSYLVANIA | FORKS, TOWNSHIP OF | 42095C0257D | 06-APR-2001
03 | PENNSYLVANIA | FORKS, TOWNSHIP OF | 42095C0259D | 06-APR-2001
03 | PENNSYLVANIA | FORKS, TOWNSHIP OF | 42095C0276D | 06-APR-2001
03 | PENNSYLVANIA | FORKS, TOWNSHIP OF | 42095C0277D | 06-APR-2001
03 | PENNSYLVANIA | FORKS, TOWNSHIP OF | 42095C0278D | 06-APR-2001
03 | PENNSYLVANIA | FORKS, TOWNSHIP OF | 42095C0279D | 06-APR-2001
03 | PENNSYLVANIA | FORKS, TOWNSHIP OF | 42095C0281D | 06-APR-2001
03 | PENNSYLVANIA | FORKS, TOWNSHIP OF | 42095CIND0 | 06-APR-2001
03 | PENNSYLVANIA | FREEMANSBURG, BOROUGH OF | 42095C0264D | 06-APR-2001
03 | PENNSYLVANIA | FREEMANSBURG, BOROUGH OF | 42095C0326D | 06-APR-2001
03 | PENNSYLVANIA | FREEMANSBURG, BOROUGH OF | 42095C0327D | 06-APR-2001
03 | PENNSYLVANIA | FREEMANSBURG, BOROUGH OF | 42095CIND0 | 06-APR-2001
03 | PENNSYLVANIA | GLENDON, BOROUGH OF | 42095C0286D | 06-APR-2001
03 | PENNSYLVANIA | GLENDON, BOROUGH OF | 42095C0288D | 06-APR-2001
03 | PENNSYLVANIA | GLENDON, BOROUGH OF | 42095CIND0 | 06-APR-2001
03 | PENNSYLVANIA | GREENWICH, TOWNSHIP OF | 42011CIND1** | 21-MAY-2001
03 | PENNSYLVANIA | GREENWICH, TOWNSHIP OF | 42011CIND2** | 21-MAY-2001
03 | PENNSYLVANIA | HAMBURG, BOROUGH OF | 42011CIND1** | 21-MAY-2001
03 | PENNSYLVANIA | HAMBURG, BOROUGH OF | 42011CIND2** | 21-MAY-2001
03 | PENNSYLVANIA | HANOVER, TOWNSHIP OF | 42095C0235D | 06-APR-2001
03 | PENNSYLVANIA | HANOVER, TOWNSHIP OF | 42095C0242D | 06-APR-2001
03 | PENNSYLVANIA | HANOVER, TOWNSHIP OF | 42095C0244D | 06-APR-2001
03 | PENNSYLVANIA | HANOVER, TOWNSHIP OF | 42095C0261D | 06-APR-2001
03 | PENNSYLVANIA | HANOVER, TOWNSHIP OF | 42095CIND0 | 06-APR-2001
03 | PENNSYLVANIA | HAYCOCK, TOWNSHIP OF | 42017CIND1** | 20-JUN-2001
03 | PENNSYLVANIA | HAYCOCK, TOWNSHIP OF | 42017CIND2** | 20-JUN-2001
03 | PENNSYLVANIA | HEIDELBERG, TOWNSHIP OF | 42011CIND1 | 21-MAY-2001
03 | PENNSYLVANIA | HEIDELBERG, TOWNSHIP OF | 42011CIND2 | 21-MAY-2001
03 | PENNSYLVANIA | HEIDELBERG, TOWNSHIP OF | 42011C0314F | 21-MAY-2001
03 | PENNSYLVANIA | HEIDELBERG, TOWNSHIP OF | 42011C0320F | 21-MAY-2001
03 | PENNSYLVANIA | HEIDELBERG, TOWNSHIP OF | 42011C0452F | 21-MAY-2001
03 | PENNSYLVANIA | HEIDELBERG, TOWNSHIP OF | 42011C0460F | 21-MAY-2001
03 | PENNSYLVANIA | HELLERTOWN, BOROUGH OF | 42095C0327D | 06-APR-2001
03 | PENNSYLVANIA | HELLERTOWN, BOROUGH OF | 42095C0328D | 06-APR-2001
03 | PENNSYLVANIA | HELLERTOWN, BOROUGH OF | 42095C0329D | 06-APR-2001
03 | PENNSYLVANIA | HELLERTOWN, BOROUGH OF | 42095CIND0 | 06-APR-2001
03 | PENNSYLVANIA | HELLERTOWN, BOROUGH OF | 42095C0326D | 06-APR-2001
03 | PENNSYLVANIA | HEREFORD, TOWNSHIP OF | 42011CIND1** | 21-MAY-2001
03 | PENNSYLVANIA | HEREFORD, TOWNSHIP OF | 42011CIND2** | 21-MAY-2001
03 | PENNSYLVANIA | HILLTOWN, TOWNSHIP OF | 42017C0144G | 20-JUN-2001
03 | PENNSYLVANIA | HILLTOWN, TOWNSHIP OF | 42017C0254G | 20-JUN-2001
03 | PENNSYLVANIA | HILLTOWN, TOWNSHIP OF | 42017C0256G | 20-JUN-2001
03 | PENNSYLVANIA | HILLTOWN, TOWNSHIP OF | 42017C0257G | 20-JUN-2001
03 | PENNSYLVANIA | HILLTOWN, TOWNSHIP OF | 42017CIND1 | 20-JUN-2001
03 | PENNSYLVANIA | HILLTOWN, TOWNSHIP OF | 42017CIND2 | 20-JUN-2001
03 | PENNSYLVANIA | HULMEVILLE, BOROUGH OF | 42017CIND1** | 20-JUN-2001
03 | PENNSYLVANIA | HULMEVILLE, BOROUGH OF | 42017CIND2** | 20-JUN-2001
03 | PENNSYLVANIA | IVYLAND, BOROUGH OF | 42017CIND1** | 20-JUN-2001
03 | PENNSYLVANIA | IVYLAND, BOROUGH OF | 42017CIND2** | 20-JUN-2001
03 | PENNSYLVANIA | JEFFERSON, TOWNSHIP OF | 42011CIND1 | 21-MAY-2001
03 | PENNSYLVANIA | JEFFERSON, TOWNSHIP OF | 42011CIND2 | 21-MAY-2001
03 | PENNSYLVANIA | JEFFERSON, TOWNSHIP OF | 42011C0320F | 21-MAY-2001
03 | PENNSYLVANIA | KENHORST, BOROUGH OG | 42011CIND1** | 21-MAY-2001
03 | PENNSYLVANIA | KENHORST, BOROUGH OG | 42011CIND2** | 21-MAY-2001
03 | PENNSYLVANIA | KUTXTOWN, BOROUGH OF | 42011CIND1** | 21-MAY-2001
03 | PENNSYLVANIA | KUTXTOWN, BOROUGH OF | 42011CIND2** | 21-MAY-2001
03 | PENNSYLVANIA | LANGHORNE MANOR, BOROUGH OF | 42017CIND1** | 20-JUN-2001
03 | PENNSYLVANIA | LANGHORNE MANOR, BOROUGH OF | 42017CIND2** | 20-JUN-2001
03 | PENNSYLVANIA | LANGHORNE, BOROUGH OF | 42017CIND1** | 20-JUN-2001
03 | PENNSYLVANIA | LANGHORNE, BOROUGH OF | 42017CIND2** | 20-JUN-2001
03 | PENNSYLVANIA | LAURELDALE, BOROUGH OF | 42011CIND1 | 21-MAY-2001
03 | PENNSYLVANIA | LAURELDALE, BOROUGH OF | 42011CIND2 | 21-MAY-2001
03 | PENNSYLVANIA | LAURELDALE, BOROUGH OF | 42011C0368F | 21-MAY-2001
03 | PENNSYLVANIA | LAURELDALE, BOROUGH OF | 42011C0369F | 21-MAY-2001
03 | PENNSYLVANIA | LEESPORT, BOROUGH OF | 42011CIND1 | 21-MAY-2001
03 | PENNSYLVANIA | LEESPORT, BOROUGH OF | 42011CIND2 | 21-MAY-2001
03 | PENNSYLVANIA | LEESPORT, BOROUGH OF | 42011C0361F | 21-MAY-2001
03 | PENNSYLVANIA | LEESPORT, BOROUGH OF | 42011C0362F | 21-MAY-2001
03 | PENNSYLVANIA | LEHIGH, TOWNSHIP OF | 42095C0086D | 06-APR-2001
03 | PENNSYLVANIA | LEHIGH, TOWNSHIP OF | 42095C0088D | 06-APR-2001
03 | PENNSYLVANIA | LEHIGH, TOWNSHIP OF | 42095C0090D | 06-APR-2001
03 | PENNSYLVANIA | LEHIGH, TOWNSHIP OF | 42095C0095D | 06-APR-2001
03 | PENNSYLVANIA | LEHIGH, TOWNSHIP OF | 42095C0113D | 06-APR-2001
03 | PENNSYLVANIA | LEHIGH, TOWNSHIP OF | 42095C0115D | 06-APR-2001
03 | PENNSYLVANIA | LEHIGH, TOWNSHIP OF | 42095C0201D | 06-APR-2001
03 | PENNSYLVANIA | LEHIGH, TOWNSHIP OF | 42095C0202D | 06-APR-2001
03 | PENNSYLVANIA | LEHIGH, TOWNSHIP OF | 42095C0206D | 06-APR-2001
03 | PENNSYLVANIA | LEHIGH, TOWNSHIP OF | 42095C0207D | 06-APR-2001
03 | PENNSYLVANIA | LEHIGH, TOWNSHIP OF | 42095C0226D | 06-APR-2001
03 | PENNSYLVANIA | LEHIGH, TOWNSHIP OF | 42095CIND0 | 06-APR-2001
03 | PENNSYLVANIA | LENHARTSVILLE, BOROUGH OF | 42011CIND1** | 21-MAY-2001
03 | PENNSYLVANIA | LENHARTSVILLE, BOROUGH OF | 42011CIND2** | 21-MAY-2001
03 | PENNSYLVANIA | LONGSWAMP, TOWNSHIP OF | 42011CIND1** | 21-MAY-2001
03 | PENNSYLVANIA | LONGSWAMP, TOWNSHIP OF | 42011CIND2** | 21-MAY-2001
03 | PENNSYLVANIA | LOWER ALSACE, TOWNSHIP OF | 42011CIND1 | 21-MAY-2001
03 | PENNSYLVANIA | LOWER ALSACE, TOWNSHIP OF | 42011CIND2 | 21-MAY-2001
03 | PENNSYLVANIA | LOWER ALSACE, TOWNSHIP OF | 42011C0506F | 21-MAY-2001
03 | PENNSYLVANIA | LOWER ALSACE, TOWNSHIP OF | 42011C0507F | 21-MAY-2001
03 | PENNSYLVANIA | LOWER HEIDELBERG, TOWNSHIP OF | 42011CIND1** | 21-MAY-2001
03 | PENNSYLVANIA | LOWER HEIDELBERG, TOWNSHIP OF | 42011CIND2** | 21-MAY-2001
03 | PENNSYLVANIA | LOWER MAKEFIELD, TOWNSHIP OF | 42017CIND1** | 20-JUN-2001
03 | PENNSYLVANIA | LOWER MAKEFIELD, TOWNSHIP OF | 42017CIND2** | 20-JUN-2001
03 | PENNSYLVANIA | LOWER MOUNT BETHEL, TOWNSHIP OF | 42095C0155D | 06-APR-2001
03 | PENNSYLVANIA | LOWER MOUNT BETHEL, TOWNSHIP OF | 42095C0160D | 06-APR-2001
03 | PENNSYLVANIA | LOWER MOUNT BETHEL, TOWNSHIP OF | 42095C0164D | 06-APR-2001
03 | PENNSYLVANIA | LOWER MOUNT BETHEL, TOWNSHIP OF | 42095C0165D | 06-APR-2001
03 | PENNSYLVANIA | LOWER MOUNT BETHEL, TOWNSHIP OF | 42095C0166D | 06-APR-2001
03 | PENNSYLVANIA | LOWER MOUNT BETHEL, TOWNSHIP OF | 42095C0167D | 06-APR-2001
03 | PENNSYLVANIA | LOWER MOUNT BETHEL, TOWNSHIP OF | 42095C0168D | 06-APR-2001
03 | PENNSYLVANIA | LOWER MOUNT BETHEL, TOWNSHIP OF | 42095C0169D | 06-APR-2001
03 | PENNSYLVANIA | LOWER MOUNT BETHEL, TOWNSHIP OF | 42095C0176D | 06-APR-2001
03 | PENNSYLVANIA | LOWER MOUNT BETHEL, TOWNSHIP OF | 42095C0178D | 06-APR-2001
03 | PENNSYLVANIA | LOWER MOUNT BETHEL, TOWNSHIP OF | 42095C0179D | 06-APR-2001
03 | PENNSYLVANIA | LOWER MOUNT BETHEL, TOWNSHIP OF | 42095C0186D | 06-APR-2001
03 | PENNSYLVANIA | LOWER MOUNT BETHEL, TOWNSHIP OF | 42095CIND0 | 06-APR-2001
03 | PENNSYLVANIA | LOWER NAZERETH, TOWNSHIP OF | 42095CIND0 | 06-APR-2001
03 | PENNSYLVANIA | LOWER NAZERETH, TOWNSHIP OF | 42095C0235D | 06-APR-2001
03 | PENNSYLVANIA | LOWER NAZERETH, TOWNSHIP OF | 42095C0242D | 06-APR-2001
03 | PENNSYLVANIA | LOWER NAZERETH, TOWNSHIP OF | 42095C0252D | 06-APR-2001
03 | PENNSYLVANIA | LOWER NAZERETH, TOWNSHIP OF | 42095C0255D | 06-APR-2001
03 | PENNSYLVANIA | LOWER NAZERETH, TOWNSHIP OF | 42095C0256D | 06-APR-2001
03 | PENNSYLVANIA | LOWER NAZERETH, TOWNSHIP OF | 42095C0258D | 06-APR-2001
03 | PENNSYLVANIA | LOWER NAZERETH, TOWNSHIP OF | 42095C0259D | 06-APR-2001
03 | PENNSYLVANIA | LOWER NAZERETH, TOWNSHIP OF | 42095C0261D | 06-APR-2001
03 | PENNSYLVANIA | LOWER NAZERETH, TOWNSHIP OF | 42095C0262D | 06-APR-2001
03 | PENNSYLVANIA | LOWER SAUCON, TOWNSHIP OF | 42095C0264D | 06-APR-2001
03 | PENNSYLVANIA | LOWER SAUCON, TOWNSHIP OF | 42095C0268D | 06-APR-2001
03 | PENNSYLVANIA | LOWER SAUCON, TOWNSHIP OF | 42095C0269D | 06-APR-2001
03 | PENNSYLVANIA | LOWER SAUCON, TOWNSHIP OF | 42095C0307D | 06-APR-2001
03 | PENNSYLVANIA | LOWER SAUCON, TOWNSHIP OF | 42095C0309D | 06-APR-2001
03 | PENNSYLVANIA | LOWER SAUCON, TOWNSHIP OF | 42095C0326D | 06-APR-2001
03 | PENNSYLVANIA | LOWER SAUCON, TOWNSHIP OF | 42095C0327D | 06-APR-2001
03 | PENNSYLVANIA | LOWER SAUCON, TOWNSHIP OF | 42095C0328D | 06-APR-2001
03 | PENNSYLVANIA | LOWER SAUCON, TOWNSHIP OF | 42095C0329D | 06-APR-2001
03 | PENNSYLVANIA | LOWER SAUCON, TOWNSHIP OF | 42095C0335D | 06-APR-2001
03 | PENNSYLVANIA | LOWER SAUCON, TOWNSHIP OF | 42095C0336D | 06-APR-2001
03 | PENNSYLVANIA | LOWER SAUCON, TOWNSHIP OF | 42095CIND0 | 06-APR-2001
03 | PENNSYLVANIA | LOWER SOUTHAMPTON. TOWNSHIP OF | 42017CIND1** | 20-JUN-2001
03 | PENNSYLVANIA | LOWER SOUTHAMPTON. TOWNSHIP OF | 42017CIND2** | 20-JUN-2001
03 | PENNSYLVANIA | LYONS. BOROUGH OF | 42011CIND1** | 21-MAY-2001
03 | PENNSYLVANIA | LYONS. BOROUGH OF | 42011CIND2** | 21-MAY-2001
03 | PENNSYLVANIA | MAIDENCREEK, TOWNSHIP OF | 42011CIND1 | 21-MAY-2001
03 | PENNSYLVANIA | MAIDENCREEK, TOWNSHIP OF | 42011CIND2 | 21-MAY-2001
03 | PENNSYLVANIA | MAIDENCREEK, TOWNSHIP OF | 42011C0366F | 21-MAY-2001
03 | PENNSYLVANIA | MAIDENCREEK, TOWNSHIP OF | 42011C0367F | 21-MAY-2001
03 | PENNSYLVANIA | MARION, TOWNSHIP OF | 42011CIND1 | 21-MAY-2001
03 | PENNSYLVANIA | MARION, TOWNSHIP OF | 42011CIND2 | 21-MAY-2001
03 | PENNSYLVANIA | MARION, TOWNSHIP OF | 42011C0314F | 21-MAY-2001
03 | PENNSYLVANIA | MARION, TOWNSHIP OF | 42011C0320F | 21-MAY-2001
03 | PENNSYLVANIA | MARION, TOWNSHIP OF | 42011C0452F | 21-MAY-2001
03 | PENNSYLVANIA | MARION, TOWNSHIP OF | 42011C0460F | 21-MAY-2001
03 | PENNSYLVANIA | MAXATAWNY, TOWNSHIP OF | 42011CIND1** | 21-MAY-2001
03 | PENNSYLVANIA | MAXATAWNY, TOWNSHIP OF | 42011CIND2** | 21-MAY-2001
03 | PENNSYLVANIA | MCCONNELLSBURGH, BOROUGH OF | 4227010001A | 09-FEB-2001
03 | PENNSYLVANIA | MIDDLETOWN, TOWNSHIP OF | 42017CIND1** | 20-JUN-2001
03 | PENNSYLVANIA | MIDDLETOWN, TOWNSHIP OF | 42017CIND2** | 20-JUN-2001
03 | PENNSYLVANIA | MILFORD, TOWNSHIP OF | 42017CIND1** | 20-JUN-2001
03 | PENNSYLVANIA | MILFORD, TOWNSHIP OF | 42017CIND2** | 20-JUN-2001
03 | PENNSYLVANIA | MOHNTON, BOROUGH OF | 42011CIND1** | 21-MAY-2001
03 | PENNSYLVANIA | MOHNTON, BOROUGH OF | 42011CIND2** | 21-MAY-2001
03 | PENNSYLVANIA | MOORE, TOWNSHIP OF | 42095C0110D | 06-APR-2001
03 | PENNSYLVANIA | MOORE, TOWNSHIP OF | 42095C0113D | 06-APR-2001
03 | PENNSYLVANIA | MOORE, TOWNSHIP OF | 42095C0114D | 06-APR-2001
03 | PENNSYLVANIA | MOORE, TOWNSHIP OF | 42095C0115D | 06-APR-2001
03 | PENNSYLVANIA | MOORE, TOWNSHIP OF | 42095C0119D | 06-APR-2001
03 | PENNSYLVANIA | MOORE, TOWNSHIP OF | 42095C0120D | 06-APR-2001
03 | PENNSYLVANIA | MOORE, TOWNSHIP OF | 42095C0130D | 06-APR-2001
03 | PENNSYLVANIA | MOORE, TOWNSHIP OF | 42095C0140D | 06-APR-2001
03 | PENNSYLVANIA | MOORE, TOWNSHIP OF | 42095C0226D | 06-APR-2001
03 | PENNSYLVANIA | MOORE, TOWNSHIP OF | 42095C0230D | 06-APR-2001
03 | PENNSYLVANIA | MOORE, TOWNSHIP OF | 42095C0232D | 06-APR-2001
03 | PENNSYLVANIA | MOORE, TOWNSHIP OF | 42095C0235D | 06-APR-2001
03 | PENNSYLVANIA | MOORE, TOWNSHIP OF | 42095C0255D | 06-APR-2001
03 | PENNSYLVANIA | MOORE, TOWNSHIP OF | 42095CIND0 | 06-APR-2001
03 | PENNSYLVANIA | MORRISVILLE, BOROUGH OF | 42017CIND1** | 20-JUN-2001
03 | PENNSYLVANIA | MORRISVILLE, BOROUGH OF | 42017CIND2** | 20-JUN-2001
03 | PENNSYLVANIA | MT. PENN, BOROUGH OF | 42011CIND1** | 21-MAY-2001
03 | PENNSYLVANIA | MT. PENN, BOROUGH OF | 42011CIND2** | 21-MAY-2001
03 | PENNSYLVANIA | MUHLENBERG, TOWNSHIP OF | 42011CIND1 | 21-MAY-2001
03 | PENNSYLVANIA | MUHLENBERG, TOWNSHIP OF | 42011CIND2 | 21-MAY-2001
03 | PENNSYLVANIA | MUHLENBERG, TOWNSHIP OF | 42011C0361F | 21-MAY-2001
03 | PENNSYLVANIA | MUHLENBERG, TOWNSHIP OF | 42011C0362F | 21-MAY-2001
03 | PENNSYLVANIA | MUHLENBERG, TOWNSHIP OF | 42011C0363F | 21-MAY-2001
03 | PENNSYLVANIA | MUHLENBERG, TOWNSHIP OF | 42011C0364F | 21-MAY-2001
03 | PENNSYLVANIA | MUHLENBERG, TOWNSHIP OF | 42011C0366F | 21-MAY-2001
03 | PENNSYLVANIA | MUHLENBERG, TOWNSHIP OF | 42011C0367F | 21-MAY-2001
03 | PENNSYLVANIA | MUHLENBERG, TOWNSHIP OF | 42011C0368F | 21-MAY-2001
03 | PENNSYLVANIA | MUHLENBERG, TOWNSHIP OF | 42011C0369F | 21-MAY-2001
03 | PENNSYLVANIA | MUHLENBERG, TOWNSHIP OF | 42011C0502F | 21-MAY-2001
03 | PENNSYLVANIA | MUHLENBERG, TOWNSHIP OF | 42011C0506F | 21-MAY-2001
03 | PENNSYLVANIA | MUHLENBERG, TOWNSHIP OF | 42011C0507F | 21-MAY-2001
03 | PENNSYLVANIA | NAZARETH, BOROUGH OF | 42095C0140D | 06-APR-2001
03 | PENNSYLVANIA | NAZARETH, BOROUGH OF | 42095C0145D | 06-APR-2001
03 | PENNSYLVANIA | NAZARETH, BOROUGH OF | 42095C0252D | 06-APR-2001
03 | PENNSYLVANIA | NAZARETH, BOROUGH OF | 42095C0256D | 06-APR-2001
03 | PENNSYLVANIA | NAZARETH, BOROUGH OF | 42095CIND0 | 06-APR-2001
03 | PENNSYLVANIA | NEW BRITAIN, BOROUGH OF | 42017CIND1** | 20-JUN-2001
03 | PENNSYLVANIA | NEW BRITAIN, BOROUGH OF | 42017CIND2** | 20-JUN-2001
03 | PENNSYLVANIA | NEW BRITAIN, TOWNSHIP OF | 42017CIND1** | 20-JUN-2001
03 | PENNSYLVANIA | NEW BRITAIN, TOWNSHIP OF | 42017CIND2** | 20-JUN-2001
03 | PENNSYLVANIA | NEW HOPE, BOROUGH OF | 42017CIND1** | 20-JUN-2001
03 | PENNSYLVANIA | NEW HOPE, BOROUGH OF | 42017CIND2** | 20-JUN-2001
03 | PENNSYLVANIA | NEW MORGAN, BOROUGH OF | 42011CIND1** | 21-MAY-2001
03 | PENNSYLVANIA | NEW MORGAN, BOROUGH OF | 42011CIND2** | 21-MAY-2001
03 | PENNSYLVANIA | NEWTOWN, BOROUGH OF | 42017CIND1** | 20-JUN-2001
03 | PENNSYLVANIA | NEWTOWN, BOROUGH OF | 42017CIND2** | 20-JUN-2001
03 | PENNSYLVANIA | NEWTOWN, TOWNSHIP OF | 42017CIND1** | 20-JUN-2001
03 | PENNSYLVANIA | NEWTOWN, TOWNSHIP OF | 42017CIND2** | 20-JUN-2001
03 | PENNSYLVANIA | NOCKAMIXON, TOWNSHIP OF | 42017CIND1** | 20-JUN-2001
03 | PENNSYLVANIA | NOCKAMIXON, TOWNSHIP OF | 42017CIND2** | 20-JUN-2001
03 | PENNSYLVANIA | NORTH CATASAUQUA, BOROUGH OF | 42095C0236D | 06-APR-2001
03 | PENNSYLVANIA | NORTH CATASAUQUA, BOROUGH OF | 42095C0237D | 06-APR-2001
03 | PENNSYLVANIA | NORTH CATASAUQUA, BOROUGH OF | 42095CIND0 | 06-APR-2001
03 | PENNSYLVANIA | NORTH HEIDELBERG, TOWNSHIP OF | 42011C0320E | 21-MAY-2001
03 | PENNSYLVANIA | NORTH HEIDELBERG, TOWNSHIP OF | 42011CIND1 | 21-MAY-2001
03 | PENNSYLVANIA | NORTH HEIDELBERG, TOWNSHIP OF | 42011CIND2 | 21-MAY-2001
03 | PENNSYLVANIA | NORTHAMPTON, BOROUGH OF | 42095C0209D | 06-APR-2001
03 | PENNSYLVANIA | NORTHAMPTON, BOROUGH OF | 42095C0228D | 06-APR-2001
03 | PENNSYLVANIA | NORTHAMPTON, BOROUGH OF | 42095C0236D | 06-APR-2001
03 | PENNSYLVANIA | NORTHAMPTON, BOROUGH OF | 42095CIND0 | 06-APR-2001
03 | PENNSYLVANIA | NORTHAMPTON, TOWNSHIP OF | 42017CIND1** | 20-JUN-2001
03 | PENNSYLVANIA | NORTHAMPTON, TOWNSHIP OF | 42017CIND2** | 20-JUN-2001
03 | PENNSYLVANIA | OLEY, TOWNSHIP OF | 42011CIND1** | 21-MAY-2001
03 | PENNSYLVANIA | OLEY, TOWNSHIP OF | 42011CIND2** | 21-MAY-2001
03 | PENNSYLVANIA | ONTELAUNEE, TOWNSHIP OF | 42011CIND1 | 21-MAY-2001
03 | PENNSYLVANIA | ONTELAUNEE, TOWNSHIP OF | 42011CIND2 | 21-MAY-2001
03 | PENNSYLVANIA | ONTELAUNEE, TOWNSHIP OF | 42011C0362F | 21-MAY-2001
03 | PENNSYLVANIA | ONTELAUNEE, TOWNSHIP OF | 42011C0366F | 21-MAY-2001
03 | PENNSYLVANIA | ONTELAUNEE, TOWNSHIP OF | 42011C0367F | 21-MAY-2001
03 | PENNSYLVANIA | PALMER, TOWNSHIP OF | 42095C0286D | 06-APR-2001
03 | PENNSYLVANIA | PALMER, TOWNSHIP OF | 42095CIND0 | 06-APR-2001
03 | PENNSYLVANIA | PALMER, TOWNSHIP OF | 42095C0276D | 06-APR-2001
03 | PENNSYLVANIA | PALMER, TOWNSHIP OF | 42095C0278D | 06-APR-2001
03 | PENNSYLVANIA | PALMER, TOWNSHIP OF | 42095C0144D | 06-APR-2001
03 | PENNSYLVANIA | PALMER, TOWNSHIP OF | 42095C0256D | 06-APR-2001
03 | PENNSYLVANIA | PALMER, TOWNSHIP OF | 42095C0257D | 06-APR-2001
03 | PENNSYLVANIA | PALMER, TOWNSHIP OF | 42095C0258D | 06-APR-2001
03 | PENNSYLVANIA | PALMER, TOWNSHIP OF | 42095C0259D | 06-APR-2001
03 | PENNSYLVANIA | PALMER, TOWNSHIP OF | 42095C0267D | 06-APR-2001
03 | PENNSYLVANIA | PALMER, TOWNSHIP OF | 42095C0269D | 06-APR-2001
03 | PENNSYLVANIA | PEN ARGYL, BOROUGH OF | 42095C0132D | 06-APR-2001
03 | PENNSYLVANIA | PEN ARGYL, BOROUGH OF | 42095C0155D | 06-APR-2001
03 | PENNSYLVANIA | PEN ARGYL, BOROUGH OF | 42095CIND0 | 06-APR-2001
03 | PENNSYLVANIA | PENN, TOWNSHIP OF | 42011CIND1** | 21-MAY-2001
03 | PENNSYLVANIA | PENN, TOWNSHIP OF | 42011CIND2** | 21-MAY-2001
03 | PENNSYLVANIA | PENNDEL, BOROUGH OF | 42017CIND1** | 20-JUN-2001
03 | PENNSYLVANIA | PENNDEL, BOROUGH OF | 42017CIND2** | 20-JUN-2001
03 | PENNSYLVANIA | PERKASIE, BOROUGH OF | 42017CIND1 | 20-JUN-2001
03 | PENNSYLVANIA | PERKASIE, BOROUGH OF | 42017CIND2 | 20-JUN-2001
03 | PENNSYLVANIA | PERKASIE, BOROUGH OF | 42017C0143G | 20-JUN-2001
03 | PENNSYLVANIA | PERKASIE, BOROUGH OF | 42017C0144G | 20-JUN-2001
03 | PENNSYLVANIA | PERKASIE, BOROUGH OF | 42017C0256G | 20-JUN-2001
03 | PENNSYLVANIA | PERKASIE, BOROUGH OF | 42017C0257G | 20-JUN-2001
03 | PENNSYLVANIA | PERRY, TOWNSHIP OF | 42011CIND1** | 21-MAY-2001
03 | PENNSYLVANIA | PERRY, TOWNSHIP OF | 42011CIND2** | 21-MAY-2001
03 | PENNSYLVANIA | PIKE, TOWNSHIP OF | 42011CIND1** | 21-MAY-2001
03 | PENNSYLVANIA | PIKE, TOWNSHIP OF | 42011CIND2** | 21-MAY-2001
03 | PENNSYLVANIA | PLAINFIELD, TOWNSHIP OF | 42095C0130D | 06-APR-2001
03 | PENNSYLVANIA | PLAINFIELD, TOWNSHIP OF | 42095C0131D | 06-APR-2001
03 | PENNSYLVANIA | PLAINFIELD, TOWNSHIP OF | 42095C0132D | 06-APR-2001
03 | PENNSYLVANIA | PLAINFIELD, TOWNSHIP OF | 42095C0133D | 06-APR-2001
03 | PENNSYLVANIA | PLAINFIELD, TOWNSHIP OF | 42095C0134D | 06-APR-2001
03 | PENNSYLVANIA | PLAINFIELD, TOWNSHIP OF | 42095C0142D | 06-APR-2001
03 | PENNSYLVANIA | PLAINFIELD, TOWNSHIP OF | 42095C0144D | 06-APR-2001
03 | PENNSYLVANIA | PLAINFIELD, TOWNSHIP OF | 42095C0145D | 06-APR-2001
03 | PENNSYLVANIA | PLAINFIELD, TOWNSHIP OF | 42095C0155D | 06-APR-2001
03 | PENNSYLVANIA | PLAINFIELD, TOWNSHIP OF | 42095C0165D | 06-APR-2001
03 | PENNSYLVANIA | PLAINFIELD, TOWNSHIP OF | 42095CIND0 | 06-APR-2001
03 | PENNSYLVANIA | PLUMSTEAD, TOWNSHIP OF | 42017CIND1** | 20-JUN-2001
03 | PENNSYLVANIA | PLUMSTEAD, TOWNSHIP OF | 42017CIND2** | 20-JUN-2001
03 | PENNSYLVANIA | PORTLAND, BOROUGH OF | 42095C0061D | 06-APR-2001
03 | PENNSYLVANIA | PORTLAND, BOROUGH OF | 42095C0062D | 06-APR-2001
03 | PENNSYLVANIA | PORTLAND, BOROUGH OF | 42095CIND0 | 06-APR-2001
03 | PENNSYLVANIA | QUAKERTOWN, BOROUGH OF | 42017CIND1** | 20-JUN-2001
03 | PENNSYLVANIA | QUAKERTOWN, BOROUGH OF | 42017CIND2** | 20-JUN-2001
03 | PENNSYLVANIA | READING, CITY OF | 42011CIND1 | 21-MAY-2001
03 | PENNSYLVANIA | READING, CITY OF | 42011CIND2 | 21-MAY-2001
03 | PENNSYLVANIA | READING, CITY OF | 42011C0502F | 21-MAY-2001
03 | PENNSYLVANIA | READING, CITY OF | 42011C0506F | 21-MAY-2001
03 | PENNSYLVANIA | READING, CITY OF | 42011C0507F | 21-MAY-2001
03 | PENNSYLVANIA | RICHLAND, TOWNSHIP OF | 42017CIND1** | 20-JUN-2001
03 | PENNSYLVANIA | RICHLAND, TOWNSHIP OF | 42017CIND2** | 20-JUN-2001
03 | PENNSYLVANIA | RICHLANDTOWN, BOROUGH OF | 42017CIND1** | 20-JUN-2001
03 | PENNSYLVANIA | RICHLANDTOWN, BOROUGH OF | 42017CIND2** | 20-JUN-2001
03 | PENNSYLVANIA | RICHMOND, TOWNSHIP OF | 42011CIND1** | 21-MAY-2001
03 | PENNSYLVANIA | RICHMOND, TOWNSHIP OF | 42011CIND2** | 21-MAY-2001
03 | PENNSYLVANIA | RIEGELSVILLE, BOROUGH OF | 42017CIND1** | 20-JUN-2001
03 | PENNSYLVANIA | RIEGELSVILLE, BOROUGH OF | 42017CIND2** | 20-JUN-2001
03 | PENNSYLVANIA | ROBESON, TOWNSHIP OF | 42011CIND1** | 21-MAY-2001
03 | PENNSYLVANIA | ROBESON, TOWNSHIP OF | 42011CIND2** | 21-MAY-2001
03 | PENNSYLVANIA | ROBESONIA, BOROUGH OF | 42011CIND1** | 21-MAY-2001
03 | PENNSYLVANIA | ROBESONIA, BOROUGH OF | 42011CIND2** | 21-MAY-2001
03 | PENNSYLVANIA | ROCKLAND, TOWNSHIP OF | 42011CIND1** | 21-MAY-2001
03 | PENNSYLVANIA | ROCKLAND, TOWNSHIP OF | 42011CIND2** | 21-MAY-2001
03 | PENNSYLVANIA | ROSETO, BOROUGH OF | 42095C0039D | 06-APR-2001
03 | PENNSYLVANIA | ROSETO, BOROUGH OF | 42095C0152D | 06-APR-2001
03 | PENNSYLVANIA | ROSETO, BOROUGH OF | 42095C0155D | 06-APR-2001
03 | PENNSYLVANIA | ROSETO, BOROUGH OF | 42095CIND0 | 06-APR-2001
03 | PENNSYLVANIA | RUSCOMBMANOR, TOWNSHIP OF | 42011CO367F | 21-MAY-2001
03 | PENNSYLVANIA | RUSCOMBMANOR, TOWNSHIP OF | 42011CIND1 | 21-MAY-2001
03 | PENNSYLVANIA | RUSCOMBMANOR, TOWNSHIP OF | 42011CIND2 | 21-MAY-2001
03 | PENNSYLVANIA | SELLERSVILLE, BOROUGH OF | 42017CIND1 | 20-JUN-2001
03 | PENNSYLVANIA | SELLERSVILLE, BOROUGH OF | 42017CIND2 | 20-JUN-2001
03 | PENNSYLVANIA | SELLERSVILLE, BOROUGH OF | 42017C0252G | 20-JUN-2001
03 | PENNSYLVANIA | SELLERSVILLE, BOROUGH OF | 42017C0256G | 20-JUN-2001
03 | PENNSYLVANIA | SHILLINGTON, BOROUGH OF | 42011CIND1** | 21-MAY-2001
03 | PENNSYLVANIA | SHILLINGTON, BOROUGH OF | 42011CIND2** | 21-MAY-2001
03 | PENNSYLVANIA | SHOEMAKERSVILLE, BOROUGH OF | 42011CIND1** | 21-MAY-2001
03 | PENNSYLVANIA | SHOEMAKERSVILLE, BOROUGH OF | 42011CIND2** | 21-MAY-2001
03 | PENNSYLVANIA | SILVERDALE, BOROUGH OF | 42017C0257G | 20-JUN-2001
03 | PENNSYLVANIA | SILVERDALE, BOROUGH OF | 42017CIND1 | 20-JUN-2001
03 | PENNSYLVANIA | SILVERDALE, BOROUGH OF | 42017CIND2 | 20-JUN-2001
03 | PENNSYLVANIA | SINKING SPRING, BOROUGH OF | 42011CIND1** | 21-MAY-2001
03 | PENNSYLVANIA | SINKING SPRING, BOROUGH OF | 42011CIND2** | 21-MAY-2001
03 | PENNSYLVANIA | SOLEBURY, TOWNSHIP OF | 42017CIND1** | 20-JUN-2001
03 | PENNSYLVANIA | SOLEBURY, TOWNSHIP OF | 42017CIND2** | 20-JUN-2001
03 | PENNSYLVANIA | SOUTH HEIDELBERG, TOWNSHIP OF | 42011CIND1 | 21-MAY-2001
03 | PENNSYLVANIA | SOUTH HEIDELBERG, TOWNSHIP OF | 42011CIND2 | 21-MAY-2001
03 | PENNSYLVANIA | SPRING, TOWNSHIP OF | 42011CIND1 | 21-MAY-2001
03 | PENNSYLVANIA | SPRING, TOWNSHIP OF | 42011CIND2 | 21-MAY-2001
03 | PENNSYLVANIA | SPRING, TOWNSHIP OF | 42011C0502F | 21-MAY-2001
03 | PENNSYLVANIA | SPRINGFIELD, TOWNSHIP OF | 42017CIND1** | 20-JUN-2001
03 | PENNSYLVANIA | SPRINGFIELD, TOWNSHIP OF | 42017CIND2** | 20-JUN-2001
03 | PENNSYLVANIA | ST. LAWRENCE, BOROUGH OF | 42011CIND1** | 21-MAY-2001
03 | PENNSYLVANIA | ST. LAWRENCE, BOROUGH OF | 42011CIND2** | 21-MAY-2001
03 | PENNSYLVANIA | STOCKERTOWN, BOROUGH OF | 42095C0144D | 06-APR-2001
03 | PENNSYLVANIA | STOCKERTOWN, BOROUGH OF | 42095C0165D | 06-APR-2001
03 | PENNSYLVANIA | STOCKERTOWN, BOROUGH OF | 42095C0257D | 06-APR-2001
03 | PENNSYLVANIA | STOCKERTOWN, BOROUGH OF | 42095CIND0 | 06-APR-2001
03 | PENNSYLVANIA | STRAUSSTOWN, BOROUGH OF | 42011CIND1** | 21-MAY-2001
03 | PENNSYLVANIA | STRAUSSTOWN, BOROUGH OF | 42011CIND2** | 21-MAY-2001
03 | PENNSYLVANIA | TATAMY, BOROUGH OF | 42095C0257D | 06-APR-2001
03 | PENNSYLVANIA | TATAMY, BOROUGH OF | 42095C0276D | 06-APR-2001
03 | PENNSYLVANIA | TATAMY, BOROUGH OF | 42095CIND0 | 06-APR-2001
03 | PENNSYLVANIA | TELEFORD, BOROUGH OF | 42017CIND1 | 20-JUN-2001
03 | PENNSYLVANIA | TELEFORD, BOROUGH OF | 42017CIND2 | 20-JUN-2001
03 | PENNSYLVANIA | TELEFORD, BOROUGH OF | 42017C0254G | 20-JUN-2001
03 | PENNSYLVANIA | TILDEN, TOWNSHIP OF | 42011CIND1** | 21-MAY-2001
03 | PENNSYLVANIA | TILDEN, TOWNSHIP OF | 42011CIND2** | 21-MAY-2001
03 | PENNSYLVANIA | TINICUM, TOWNSHIP OF | 42017CIND1** | 20-JUN-2001
03 | PENNSYLVANIA | TINICUM, TOWNSHIP OF | 42017CIND2** | 20-JUN-2001
03 | PENNSYLVANIA | TODD, TOWNSHIP OF | 421665IND0 | 09-FEB-2001
03 | PENNSYLVANIA | TODD, TOWNSHIP OF | 4216650005C | 09-FEB-2001
03 | PENNSYLVANIA | TODD, TOWNSHIP OF | 4216650010C | 09-FEB-2001
03 | PENNSYLVANIA | TOPTON, BOROUGH OF | 42011CIND1** | 21-MAY-2001
03 | PENNSYLVANIA | TOPTON, BOROUGH OF | 42011CIND2** | 21-MAY-2001
03 | PENNSYLVANIA | TRUMBAUERSVILLE, BOROUGH OF | 42017CIND1** | 20-JUN-2001
03 | PENNSYLVANIA | TRUMBAUERSVILLE, BOROUGH OF | 42017CIND2** | 20-JUN-2001
03 | PENNSYLVANIA | TULLEYTOWN, BOROUGH OF | 42017CIND1** | 20-JUN-2001
03 | PENNSYLVANIA | TULLEYTOWN, BOROUGH OF | 42017CIND2** | 20-JUN-2001
03 | PENNSYLVANIA | TULPEHOCKEN, TOWHSHIP OF | 42011CIND1 | 21-MAY-2001
03 | PENNSYLVANIA | TULPEHOCKEN, TOWHSHIP OF | 42011CIND2 | 21-MAY-2001
03 | PENNSYLVANIA | TULPEHOCKEN, TOWHSHIP OF | 42011C0320F | 21-MAY-2001
03 | PENNSYLVANIA | UNION, TOWNSHIP OF | 42011CIND1** | 21-MAY-2001
03 | PENNSYLVANIA | UNION, TOWNSHIP OF | 42011CIND2** | 21-MAY-2001
03 | PENNSYLVANIA | UPPER BERN, TOWNSHIP OF | 42011CIND1** | 21-MAY-2001
03 | PENNSYLVANIA | UPPER BERN, TOWNSHIP OF | 42011CIND2** | 21-MAY-2001
03 | PENNSYLVANIA | UPPER MAKEFIELD, TOWNSHIP OF | 42017CIND1** | 20-JUN-2001
03 | PENNSYLVANIA | UPPER MAKEFIELD, TOWNSHIP OF | 42017CIND2** | 20-JUN-2001
03 | PENNSYLVANIA | UPPER MT. BETHEL, TOWNSHIP OF | 42095C0178D | 06-APR-2001
03 | PENNSYLVANIA | UPPER MT. BETHEL, TOWNSHIP OF | 42095C0179D | 06-APR-2001
03 | PENNSYLVANIA | UPPER MT. BETHEL, TOWNSHIP OF | 42095C0181D | 06-APR-2001
03 | PENNSYLVANIA | UPPER MT. BETHEL, TOWNSHIP OF | 42095CIND0 | 06-APR-2001
03 | PENNSYLVANIA | UPPER MT. BETHEL, TOWNSHIP OF | 42095C0035D | 06-APR-2001
03 | PENNSYLVANIA | UPPER MT. BETHEL, TOWNSHIP OF | 42095C0039D | 06-APR-2001
03 | PENNSYLVANIA | UPPER MT. BETHEL, TOWNSHIP OF | 42095C0045D | 06-APR-2001
03 | PENNSYLVANIA | UPPER MT. BETHEL, TOWNSHIP OF | 42095C0053D | 06-APR-2001
03 | PENNSYLVANIA | UPPER MT. BETHEL, TOWNSHIP OF | 42095C0061D | 06-APR-2001
03 | PENNSYLVANIA | UPPER MT. BETHEL, TOWNSHIP OF | 42095C0062D | 06-APR-2001
03 | PENNSYLVANIA | UPPER MT. BETHEL, TOWNSHIP OF | 42095C0063D | 06-APR-2001
03 | PENNSYLVANIA | UPPER MT. BETHEL, TOWNSHIP OF | 42095C0064D | 06-APR-2001
03 | PENNSYLVANIA | UPPER MT. BETHEL, TOWNSHIP OF | 42095C0068D | 06-APR-2001
03 | PENNSYLVANIA | UPPER MT. BETHEL, TOWNSHIP OF | 42095C0160D | 06-APR-2001
03 | PENNSYLVANIA | UPPER MT. BETHEL, TOWNSHIP OF | 42095C0176D | 06-APR-2001
03 | PENNSYLVANIA | UPPER MT. BETHEL, TOWNSHIP OF | 42095C0177D | 06-APR-2001
03 | PENNSYLVANIA | UPPER NAZARETH, TOWNSHIP OF | 42095C0140D | 06-APR-2001
03 | PENNSYLVANIA | UPPER NAZARETH, TOWNSHIP OF | 42095C0144D | 06-APR-2001
03 | PENNSYLVANIA | UPPER NAZARETH, TOWNSHIP OF | 42095C0145D | 06-APR-2001
03 | PENNSYLVANIA | UPPER NAZARETH, TOWNSHIP OF | 42095C0232D | 06-APR-2001
03 | PENNSYLVANIA | UPPER NAZARETH, TOWNSHIP OF | 42095C0235D | 06-APR-2001
03 | PENNSYLVANIA | UPPER NAZARETH, TOWNSHIP OF | 42095C0252D | 06-APR-2001
03 | PENNSYLVANIA | UPPER NAZARETH, TOWNSHIP OF | 42095C0255D | 06-APR-2001
03 | PENNSYLVANIA | UPPER NAZARETH, TOWNSHIP OF | 42095C0256D | 06-APR-2001
03 | PENNSYLVANIA | UPPER NAZARETH, TOWNSHIP OF | 42095C0257D | 06-APR-2001
03 | PENNSYLVANIA | UPPER NAZARETH, TOWNSHIP OF | 42095CIND0 | 06-APR-2001
03 | PENNSYLVANIA | UPPER SOUTHAMPTON, TOWNSHIP OF | 42017CIND1** | 20-JUN-2001
03 | PENNSYLVANIA | UPPER SOUTHAMPTON, TOWNSHIP OF | 42017CIND2** | 20-JUN-2001
03 | PENNSYLVANIA | UPPER TULPEHOCKEN, TOWNSHIP OF | 42011CIND1** | 21-MAY-2001
03 | PENNSYLVANIA | UPPER TULPEHOCKEN, TOWNSHIP OF | 42011CIND2** | 21-MAY-2001
03 | PENNSYLVANIA | WALNUTPORT, BOROUGH OF | 42095C0088D | 06-APR-2001
03 | PENNSYLVANIA | WALNUTPORT, BOROUGH OF | 42095C0090D | 06-APR-2001
03 | PENNSYLVANIA | WALNUTPORT, BOROUGH OF | 42095C0201D | 06-APR-2001
03 | PENNSYLVANIA | WALNUTPORT, BOROUGH OF | 42095C0202D | 06-APR-2001
03 | PENNSYLVANIA | WALNUTPORT, BOROUGH OF | 42095CIND0 | 06-APR-2001
03 | PENNSYLVANIA | WARMINSTER, TOWNSHIP OF | 42017CIND1** | 20-JUN-2001
03 | PENNSYLVANIA | WARMINSTER, TOWNSHIP OF | 42017CIND2** | 20-JUN-2001
03 | PENNSYLVANIA | WARRINGTON, TOWNSHIP OF | 42017CIND1** | 20-JUN-2001
03 | PENNSYLVANIA | WARRINGTON, TOWNSHIP OF | 42017CIND2** | 20-JUN-2001
03 | PENNSYLVANIA | WARWICK, TOWNSHIP OF | 42017CIND1** | 20-JUN-2001
03 | PENNSYLVANIA | WARWICK, TOWNSHIP OF | 42017CIND2** | 20-JUN-2001
03 | PENNSYLVANIA | WASHINGTON, TOWNSHIP OF | 42095C0039D | 06-APR-2001
03 | PENNSYLVANIA | WASHINGTON, TOWNSHIP OF | 42095C0152D | 06-APR-2001
03 | PENNSYLVANIA | WASHINGTON, TOWNSHIP OF | 42095C0155D | 06-APR-2001
03 | PENNSYLVANIA | WASHINGTON, TOWNSHIP OF | 42095C0160D | 06-APR-2001
03 | PENNSYLVANIA | WASHINGTON, TOWNSHIP OF | 42095C0165D | 06-APR-2001
03 | PENNSYLVANIA | WASHINGTON, TOWNSHIP OF | 42095CIND0 | 06-APR-2001
03 | PENNSYLVANIA | WASHINGTON, TOWNSHIP OF | 42011CIND1** | 21-MAY-2001
03 | PENNSYLVANIA | WASHINGTON, TOWNSHIP OF | 42011CIND2** | 21-MAY-2001
03 | PENNSYLVANIA | WERNERSVILLER, BOROUGH OF | 42011CIND1** | 21-MAY-2001
03 | PENNSYLVANIA | WERNERSVILLER, BOROUGH OF | 42011CIND2** | 21-MAY-2001
03 | PENNSYLVANIA | WEST EASTON, BOROUGH OF | 42095CIND0 | 06-APR-2001
03 | PENNSYLVANIA | WEST EASTON, BOROUGH OF | 420950268D | 06-APR-2001
03 | PENNSYLVANIA | WEST LAWN, BOROUGH OF | 42011CIND1** | 21-MAY-2001
03 | PENNSYLVANIA | WEST LAWN, BOROUGH OF | 42011CIND2** | 21-MAY-2001
03 | PENNSYLVANIA | WEST READING, BOROUGH OF | 42011CIND1** | 21-MAY-2001
03 | PENNSYLVANIA | WEST READING, BOROUGH OF | 42011CIND2** | 21-MAY-2001
03 | PENNSYLVANIA | WEST ROCKHILL, TOWNSHIP OF | 42017C0252G | 20-JUN-2001
03 | PENNSYLVANIA | WEST ROCKHILL, TOWNSHIP OF | 42017C0253G | 20-JUN-2001
03 | PENNSYLVANIA | WEST ROCKHILL, TOWNSHIP OF | 42017C0254G | 20-JUN-2001
03 | PENNSYLVANIA | WEST ROCKHILL, TOWNSHIP OF | 42017C0256G | 20-JUN-2001
03 | PENNSYLVANIA | WEST ROCKHILL, TOWNSHIP OF | 42017CIND1 | 20-JUN-2001
03 | PENNSYLVANIA | WEST ROCKHILL, TOWNSHIP OF | 42017CIND2 | 20-JUN-2001
03 | PENNSYLVANIA | WILLIAMS, TOWNSHIP OF | 42095C0269D | 06-APR-2001
03 | PENNSYLVANIA | WILLIAMS, TOWNSHIP OF | 42095C0286D | 06-APR-2001
03 | PENNSYLVANIA | WILLIAMS, TOWNSHIP OF | 42095C0287D | 06-APR-2001
03 | PENNSYLVANIA | WILLIAMS, TOWNSHIP OF | 42095C0288D | 06-APR-2001
03 | PENNSYLVANIA | WILLIAMS, TOWNSHIP OF | 42095C0289D | 06-APR-2001
03 | PENNSYLVANIA | WILLIAMS, TOWNSHIP OF | 42095C0291D | 06-APR-2001
03 | PENNSYLVANIA | WILLIAMS, TOWNSHIP OF | 42095C0335D | 06-APR-2001
03 | PENNSYLVANIA | WILLIAMS, TOWNSHIP OF | 42095C0352D | 06-APR-2001
03 | PENNSYLVANIA | WILLIAMS, TOWNSHIP OF | 42095C0355D | 06-APR-2001
03 | PENNSYLVANIA | WILLIAMS, TOWNSHIP OF | 42095CIND0 | 06-APR-2001
03 | PENNSYLVANIA | WILSON, BOROUGH OF | 42095C0259D | 06-APR-2001
03 | PENNSYLVANIA | WILSON, BOROUGH OF | 42095C0267D | 06-APR-2001
03 | PENNSYLVANIA | WILSON, BOROUGH OF | 42095C0278D | 06-APR-2001
03 | PENNSYLVANIA | WILSON, BOROUGH OF | 42095C0286D | 06-APR-2001
03 | PENNSYLVANIA | WILSON, BOROUGH OF | 42095CIND0 | 06-APR-2001
03 | PENNSYLVANIA | WIND GAP, BOROUGH OF | 42095CIND0 | 06-APR-2001
03 | PENNSYLVANIA | WIND GAP, BOROUGH OF | 420950131D | 06-APR-2001
03 | PENNSYLVANIA | WIND GAP, BOROUGH OF | 420950132D | 06-APR-2001
03 | PENNSYLVANIA | WIND GAP, BOROUGH OF | 420950133D | 06-APR-2001
03 | PENNSYLVANIA | WINDSOR, TOWNSHIP OF | 42011CIND1** | 21-MAY-2001
03 | PENNSYLVANIA | WINDSOR, TOWNSHIP OF | 42011CIND2** | 21-MAY-2001
03 | PENNSYLVANIA | WOMELSDORF,BOROUGH OF | 42011CIND1 | 21-MAY-2001
03 | PENNSYLVANIA | WOMELSDORF,BOROUGH OF | 42011CIND2 | 21-MAY-2001
03 | PENNSYLVANIA | WOMELSDORF,BOROUGH OF | 42011C0452F | 21-MAY-2001
03 | PENNSYLVANIA | WOMELSDORF,BOROUGH OF | 42011C0460F | 21-MAY-2001
03 | PENNSYLVANIA | WRIGHTSTOWN, TOWNSHIP OF | 42017CIND1** | 20-JUN-2001
03 | PENNSYLVANIA | WRIGHTSTOWN, TOWNSHIP OF | 42017CIND2** | 20-JUN-2001
03 | PENNSYLVANIA | WYOMISSING HILLS, BOROUGH OF | 42011CIND1** | 21-MAY-2001
03 | PENNSYLVANIA | WYOMISSING HILLS, BOROUGH OF | 42011CIND2** | 21-MAY-2001
03 | PENNSYLVANIA | WYOMISSING, BOROUGH OF | 42011CIND2 | 21-MAY-2001
03 | PENNSYLVANIA | WYOMISSING, BOROUGH OF | 42011C0502F | 21-MAY-2001
03 | PENNSYLVANIA | WYOMISSING, BOROUGH OF | 42011CIND1 | 21-MAY-2001
03 | PENNSYLVANIA | YARDLEY, BOROUGH OF | 42017CIND1** | 20-JUN-2001
03 | PENNSYLVANIA | YARDLEY, BOROUGH OF | 42017CIND2** | 20-JUN-2001
03 | WEST VIRGINIA | HARDY COUNTY * | 5400510060D | 19-JAN-2001
03 | WEST VIRGINIA | HARDY COUNTY * | 5400510070D | 19-JAN-2001
03 | WEST VIRGINIA | HARDY COUNTY * | 540051IND0 | 19-JAN-2001
03 | WEST VIRGINIA | MOOREFIELD, TOWN OF | 5400520005F | 19-JAN-2001
04 | FLORIDA | KISSIMMEE, CITY OF | 12097C0055E | 07-MAY-2001
04 | FLORIDA | KISSIMMEE, CITY OF | 12097C0060E | 07-MAY-2001
04 | FLORIDA | KISSIMMEE, CITY OF | 12097C0065E | 07-MAY-2001
04 | FLORIDA | KISSIMMEE, CITY OF | 12097C0066E | 07-MAY-2001
04 | FLORIDA | KISSIMMEE, CITY OF | 12097C0067E | 07-MAY-2001
04 | FLORIDA | KISSIMMEE, CITY OF | 12097C0068E | 07-MAY-2001
04 | FLORIDA | KISSIMMEE, CITY OF | 12097CIND0 | 07-MAY-2001
04 | FLORIDA | OSCEOLA COUNTY * | 12097CIND0 | 07-MAY-2001
04 | FLORIDA | OSCEOLA COUNTY * | 12097C0010E | 07-MAY-2001
04 | FLORIDA | OSCEOLA COUNTY * | 12097C0020E | 07-MAY-2001
04 | FLORIDA | OSCEOLA COUNTY * | 12097C0030E | 07-MAY-2001
04 | FLORIDA | OSCEOLA COUNTY * | 12097C0035E | 07-MAY-2001
04 | FLORIDA | OSCEOLA COUNTY * | 12097C0040E | 07-MAY-2001
04 | FLORIDA | OSCEOLA COUNTY * | 12097C0045E | 07-MAY-2001
04 | FLORIDA | OSCEOLA COUNTY * | 12097C0055E | 07-MAY-2001
04 | FLORIDA | OSCEOLA COUNTY * | 12097C0060E | 07-MAY-2001
04 | FLORIDA | OSCEOLA COUNTY * | 12097C0065E | 07-MAY-2001
04 | FLORIDA | OSCEOLA COUNTY * | 12097C0066E | 07-MAY-2001
04 | FLORIDA | OSCEOLA COUNTY * | 12097C0067E | 07-MAY-2001
04 | FLORIDA | OSCEOLA COUNTY * | 12097C0068E | 07-MAY-2001
04 | FLORIDA | OSCEOLA COUNTY * | 12097C0069E | 07-MAY-2001
04 | FLORIDA | OSCEOLA COUNTY * | 12097C0080E | 07-MAY-2001
04 | FLORIDA | OSCEOLA COUNTY * | 12097C0085E | 07-MAY-2001
04 | FLORIDA | OSCEOLA COUNTY * | 12097C0090E | 07-MAY-2001
04 | FLORIDA | OSCEOLA COUNTY * | 12097C0095E | 07-MAY-2001
04 | FLORIDA | OSCEOLA COUNTY * | 12097C0105E | 07-MAY-2001
04 | FLORIDA | OSCEOLA COUNTY * | 12097C0110E | 07-MAY-2001
04 | FLORIDA | OSCEOLA COUNTY * | 12097C0115E | 07-MAY-2001
04 | FLORIDA | OSCEOLA COUNTY * | 12097C0120E | 07-MAY-2001
04 | FLORIDA | OSCEOLA COUNTY * | 12097C0150E | 07-MAY-2001
04 | FLORIDA | OSCEOLA COUNTY * | 12097C0175E | 07-MAY-2001
04 | FLORIDA | OSCEOLA COUNTY * | 12097C0200E | 07-MAY-2001
04 | FLORIDA | OSCEOLA COUNTY * | 12097C0225E | 07-MAY-2001
04 | FLORIDA | OSCEOLA COUNTY * | 12097C0230E | 07-MAY-2001
04 | FLORIDA | OSCEOLA COUNTY * | 12097C0235E | 07-MAY-2001
04 | FLORIDA | OSCEOLA COUNTY * | 12097C0240E | 07-MAY-2001
04 | FLORIDA | OSCEOLA COUNTY * | 12097C0245E | 07-MAY-2001
04 | FLORIDA | OSCEOLA COUNTY * | 12097C0252E | 07-MAY-2001
04 | FLORIDA | OSCEOLA COUNTY * | 12097C0255E | 07-MAY-2001
04 | FLORIDA | OSCEOLA COUNTY * | 12097C0256E | 07-MAY-2001
04 | FLORIDA | OSCEOLA COUNTY * | 12097C0257E | 07-MAY-2001
04 | FLORIDA | OSCEOLA COUNTY * | 12097C0260E | 07-MAY-2001
04 | FLORIDA | OSCEOLA COUNTY * | 12097C0265E | 07-MAY-2001
04 | FLORIDA | OSCEOLA COUNTY * | 12097C0270E | 07-MAY-2001
04 | FLORIDA | OSCEOLA COUNTY * | 12097C0280E | 07-MAY-2001
04 | FLORIDA | OSCEOLA COUNTY * | 12097C0285E | 07-MAY-2001
04 | FLORIDA | OSCEOLA COUNTY * | 12097C0290E | 07-MAY-2001
04 | FLORIDA | OSCEOLA COUNTY * | 12097C0295E | 07-MAY-2001
04 | FLORIDA | OSCEOLA COUNTY * | 12097C0325E | 07-MAY-2001
04 | FLORIDA | OSCEOLA COUNTY * | 12097C0350E | 07-MAY-2001
04 | FLORIDA | OSCEOLA COUNTY * | 12097C0375E | 07-MAY-2001
04 | FLORIDA | OSCEOLA COUNTY * | 12097C0400E | 07-MAY-2001
04 | FLORIDA | OSCEOLA COUNTY * | 12097C0410E | 07-MAY-2001
04 | FLORIDA | OSCEOLA COUNTY * | 12097C0425E | 07-MAY-2001
04 | FLORIDA | OSCEOLA COUNTY * | 12097C0430E | 07-MAY-2001
04 | FLORIDA | OSCEOLA COUNTY * | 12097C0450E | 07-MAY-2001
04 | FLORIDA | OSCEOLA COUNTY * | 12097C0475E | 07-MAY-2001
04 | FLORIDA | OSCEOLA COUNTY * | 12097C0500E | 07-MAY-2001
04 | FLORIDA | OSCEOLA COUNTY * | 12097C0525E | 07-MAY-2001
04 | FLORIDA | OSCEOLA COUNTY * | 12097C0550E | 07-MAY-2001
04 | FLORIDA | OSCEOLA COUNTY * | 12097C0575E | 07-MAY-2001
04 | FLORIDA | OSCEOLA COUNTY * | 12097C0600E | 07-MAY-2001
04 | FLORIDA | OSCEOLA COUNTY * | 12097C0625E | 07-MAY-2001
04 | FLORIDA | OSCEOLA COUNTY * | 12097C0650E | 07-MAY-2001
04 | FLORIDA | OSCEOLA COUNTY * | 12097C0675E | 07-MAY-2001
04 | FLORIDA | OSCEOLA COUNTY * | 12097C0700E | 07-MAY-2001
04 | FLORIDA | OSCEOLA COUNTY * | 12097C0725E | 07-MAY-2001
04 | FLORIDA | OSCEOLA COUNTY * | 12097C0750E | 07-MAY-2001
04 | FLORIDA | OSCEOLA COUNTY * | 12097C0775E | 07-MAY-2001
04 | FLORIDA | OSCEOLA COUNTY * | 12097C0800E | 07-MAY-2001
04 | FLORIDA | OSCEOLA COUNTY * | 12097C0825E | 07-MAY-2001
04 | FLORIDA | OSCEOLA COUNTY * | 12097C0850E | 07-MAY-2001
04 | FLORIDA | OSCEOLA COUNTY * | 12097C0875E | 07-MAY-2001
04 | FLORIDA | OSCEOLA COUNTY * | 12097C0900E | 07-MAY-2001
04 | FLORIDA | REEDY CREEK, IMPROVEMENT DISTRICT | 12097C0030E | 07-MAY-2001
04 | FLORIDA | REEDY CREEK, IMPROVEMENT DISTRICT | 12097C0035E | 07-MAY-2001
04 | FLORIDA | REEDY CREEK, IMPROVEMENT DISTRICT | 12097C0040E | 07-MAY-2001
04 | FLORIDA | REEDY CREEK, IMPROVEMENT DISTRICT | 12097C0045E | 07-MAY-2001
04 | FLORIDA | REEDY CREEK, IMPROVEMENT DISTRICT | 12097CIND0 | 07-MAY-2001
04 | FLORIDA | ST. CLOUD, CITY OF | 12097C0090E | 07-MAY-2001
04 | FLORIDA | ST. CLOUD, CITY OF | 12097C0095E | 07-MAY-2001
04 | FLORIDA | ST. CLOUD, CITY OF | 12097C0252E | 07-MAY-2001
04 | FLORIDA | ST. CLOUD, CITY OF | 12097C0255E | 07-MAY-2001
04 | FLORIDA | ST. CLOUD, CITY OF | 12097C0256E | 07-MAY-2001
04 | FLORIDA | ST. CLOUD, CITY OF | 12097C0257E | 07-MAY-2001
04 | FLORIDA | ST. CLOUD, CITY OF | 12097C0260E | 07-MAY-2001
04 | FLORIDA | ST. CLOUD, CITY OF | 12097C0280E | 07-MAY-2001
04 | FLORIDA | ST. CLOUD, CITY OF | 12097CIND0 | 07-MAY-2001
04 | GEORGIA | ALPHARETTA, CITY OF | 13121CIND1** | 07-MAY-2001
04 | GEORGIA | ALPHARETTA, CITY OF | 13121CIND2** | 07-MAY-2001
04 | GEORGIA | AMERICUS, CITY OF | 13261C0134B | 09-FEB-2001
04 | GEORGIA | AMERICUS, CITY OF | 13261C0135B | 09-FEB-2001
04 | GEORGIA | AMERICUS, CITY OF | 13261C0153B | 09-FEB-2001
04 | GEORGIA | AMERICUS, CITY OF | 13261C0154B | 09-FEB-2001
04 | GEORGIA | AMERICUS, CITY OF | 13261C0155B | 09-FEB-2001
04 | GEORGIA | AMERICUS, CITY OF | 13261C0161B | 09-FEB-2001
04 | GEORGIA | AMERICUS, CITY OF | 13261C0162B | 09-FEB-2001
04 | GEORGIA | AMERICUS, CITY OF | 13261CIND0 | 09-FEB-2001
04 | GEORGIA | ANDERSONVILLE, VILLAGE OF | 13261C0060B | 09-FEB-2001
04 | GEORGIA | ANDERSONVILLE, VILLAGE OF | 13261CIND0 | 09-FEB-2001
04 | GEORGIA | ATLANTA, CITY OF | 13121C0376F | 07-MAY-2001
04 | GEORGIA | ATLANTA, CITY OF | 13121CIND1 | 07-MAY-2001
04 | GEORGIA | ATLANTA, CITY OF | 13121CIND2 | 07-MAY-2001
04 | GEORGIA | ATLANTA, CITY OF | 13121C0261F | 07-MAY-2001
04 | GEORGIA | ATLANTA, CITY OF | 13089C0062H | 07-MAY-2001
04 | GEORGIA | ATLANTA, CITY OF | 13089C0064H | 07-MAY-2001
04 | GEORGIA | ATLANTA, CITY OF | 13089C0068H | 07-MAY-2001
04 | GEORGIA | ATLANTA, CITY OF | 13089C0127H | 07-MAY-2001
04 | GEORGIA | ATLANTA, CITY OF | 13089C0131H | 07-MAY-2001
04 | GEORGIA | ATLANTA, CITY OF | 13089CIND0 | 07-MAY-2001
04 | GEORGIA | AVONDALE ESTATES, CITY OF | 13098CIND0 | 07-MAY-2001
04 | GEORGIA | AVONDALE ESTATES, CITY OF | 13098C0069H | 07-MAY-2001
04 | GEORGIA | BLOOMINGDALE, CITY OF | 1304520001B | 07-MAY-2001
04 | GEORGIA | BLOOMINGDALE, CITY OF | 1304520002B | 07-MAY-2001
04 | GEORGIA | BLOOMINGDALE, CITY OF | 1304520003B | 07-MAY-2001
04 | GEORGIA | BLOOMINGDALE, CITY OF | 1304520004B | 07-MAY-2001
04 | GEORGIA | BLOOMINGDALE, CITY OF | 1304520005B | 07-MAY-2001
04 | GEORGIA | BLOOMINGDALE, CITY OF | 130452IND0 | 07-MAY-2001
04 | GEORGIA | CHAMBLEE, CITY OF | 13089C0014H | 07-MAY-2001
04 | GEORGIA | CHAMBLEE, CITY OF | 13089C0018H | 07-MAY-2001
04 | GEORGIA | CHAMBLEE, CITY OF | 13089CIND0 | 07-MAY-2001
04 | GEORGIA | CLARKSTON, CITY OF | 13089C0059H | 07-MAY-2001
04 | GEORGIA | CLARKSTON, CITY OF | 13089C0067H | 07-MAY-2001
04 | GEORGIA | CLARKSTON, CITY OF | 13089C0078H | 07-MAY-2001
04 | GEORGIA | CLARKSTON, CITY OF | 13089C0086H | 07-MAY-2001
04 | GEORGIA | CLARKSTON, CITY OF | 13089CIND0 | 07-MAY-2001
04 | GEORGIA | COLLEGE PARK, CITY OF | 13121CIND1** | 07-MAY-2001
04 | GEORGIA | COLLEGE PARK, CITY OF | 13121CIND2** | 07-MAY-2001
04 | GEORGIA | CONYERS, CITY OF | 13247C0083C | 19-JAN-2001
04 | GEORGIA | CONYERS, CITY OF | 13247C0084C | 19-JAN-2001
04 | GEORGIA | CONYERS, CITY OF | 13247C0091C | 19-JAN-2001
04 | GEORGIA | CONYERS, CITY OF | 13247C0092C | 19-JAN-2001
04 | GEORGIA | CONYERS, CITY OF | 13247C0093C | 19-JAN-2001
04 | GEORGIA | CONYERS, CITY OF | 13247C0094C | 19-JAN-2001
04 | GEORGIA | CONYERS, CITY OF | 13247C0103C | 19-JAN-2001
04 | GEORGIA | CONYERS, CITY OF | 13247C0104C | 19-JAN-2001
04 | GEORGIA | CONYERS, CITY OF | 13247C0111C | 19-JAN-2001
04 | GEORGIA | CONYERS, CITY OF | 13247C0112C | 19-JAN-2001
04 | GEORGIA | CONYERS, CITY OF | 13247C0113C | 19-JAN-2001
04 | GEORGIA | CONYERS, CITY OF | 13247C0114C | 19-JAN-2001
04 | GEORGIA | CONYERS, CITY OF | 13247C0116C | 19-JAN-2001
04 | GEORGIA | CONYERS, CITY OF | 13247C0118C | 19-JAN-2001
04 | GEORGIA | CONYERS, CITY OF | 13247CIND0 | 19-JAN-2001
04 | GEORGIA | DE KALB COUNTY * | 13089C0201H | 07-MAY-2001
04 | GEORGIA | DE KALB COUNTY * | 13089CIND0 | 07-MAY-2001
04 | GEORGIA | DE KALB COUNTY * | 13089C0118H | 07-MAY-2001
04 | GEORGIA | DE KALB COUNTY * | 13089C0127H | 07-MAY-2001
04 | GEORGIA | DE KALB COUNTY * | 13089C0129H | 07-MAY-2001
04 | GEORGIA | DE KALB COUNTY * | 13089C0131H | 07-MAY-2001
04 | GEORGIA | DE KALB COUNTY * | 13089C0132H | 07-MAY-2001
04 | GEORGIA | DE KALB COUNTY * | 13089C0133H | 07-MAY-2001
04 | GEORGIA | DE KALB COUNTY * | 13089C0134H | 07-MAY-2001
04 | GEORGIA | DE KALB COUNTY * | 13089C0137H | 07-MAY-2001
04 | GEORGIA | DE KALB COUNTY * | 13089C0139H | 07-MAY-2001
04 | GEORGIA | DE KALB COUNTY * | 13089C0141H | 07-MAY-2001
04 | GEORGIA | DE KALB COUNTY * | 13089C0142H | 07-MAY-2001
04 | GEORGIA | DE KALB COUNTY * | 13089C0143H | 07-MAY-2001
04 | GEORGIA | DE KALB COUNTY * | 13089C0151H | 07-MAY-2001
04 | GEORGIA | DE KALB COUNTY * | 13089C0152H | 07-MAY-2001
04 | GEORGIA | DE KALB COUNTY * | 13089C0153H | 07-MAY-2001
04 | GEORGIA | DE KALB COUNTY * | 13089C0154H | 07-MAY-2001
04 | GEORGIA | DE KALB COUNTY * | 13089C0156H | 07-MAY-2001
04 | GEORGIA | DE KALB COUNTY * | 13089C0157H | 07-MAY-2001
04 | GEORGIA | DE KALB COUNTY * | 13089C0158H | 07-MAY-2001
04 | GEORGIA | DE KALB COUNTY * | 13089C0159H | 07-MAY-2001
04 | GEORGIA | DE KALB COUNTY * | 13089C0161H | 07-MAY-2001
04 | GEORGIA | DE KALB COUNTY * | 13089C0162H | 07-MAY-2001
04 | GEORGIA | DE KALB COUNTY * | 13089C0163H | 07-MAY-2001
04 | GEORGIA | DE KALB COUNTY * | 13089C0164H | 07-MAY-2001
04 | GEORGIA | DE KALB COUNTY * | 13089C0166H | 07-MAY-2001
04 | GEORGIA | DE KALB COUNTY * | 13089C0167H | 07-MAY-2001
04 | GEORGIA | DE KALB COUNTY * | 13089C0168H | 07-MAY-2001
04 | GEORGIA | DE KALB COUNTY * | 13089C0169H | 07-MAY-2001
04 | GEORGIA | DE KALB COUNTY * | 13089C0176H | 07-MAY-2001
04 | GEORGIA | DE KALB COUNTY * | 13089C0177H | 07-MAY-2001
04 | GEORGIA | DE KALB COUNTY * | 13089C0178H | 07-MAY-2001
04 | GEORGIA | DE KALB COUNTY * | 13089C0179H | 07-MAY-2001
04 | GEORGIA | DE KALB COUNTY * | 13089C0181H | 07-MAY-2001
04 | GEORGIA | DE KALB COUNTY * | 13089C0186H | 07-MAY-2001
04 | GEORGIA | DE KALB COUNTY * | 13089C0187H | 07-MAY-2001
04 | GEORGIA | DE KALB COUNTY * | 13089C0188H | 07-MAY-2001
04 | GEORGIA | DE KALB COUNTY * | 13089C0018H | 07-MAY-2001
04 | GEORGIA | DE KALB COUNTY * | 13089C0019H | 07-MAY-2001
04 | GEORGIA | DE KALB COUNTY * | 13089C0038H | 07-MAY-2001
04 | GEORGIA | DE KALB COUNTY * | 13089C0040H | 07-MAY-2001
04 | GEORGIA | DE KALB COUNTY * | 13089C0052H | 07-MAY-2001
04 | GEORGIA | DE KALB COUNTY * | 13089C0054H | 07-MAY-2001
04 | GEORGIA | DE KALB COUNTY * | 13089C0056H | 07-MAY-2001
04 | GEORGIA | DE KALB COUNTY * | 13089C0057H | 07-MAY-2001
04 | GEORGIA | DE KALB COUNTY * | 13089C0058H | 07-MAY-2001
04 | GEORGIA | DE KALB COUNTY * | 13089C0059H | 07-MAY-2001
04 | GEORGIA | DE KALB COUNTY * | 13089C0062H | 07-MAY-2001
04 | GEORGIA | DE KALB COUNTY * | 13089C0064H | 07-MAY-2001
04 | GEORGIA | DE KALB COUNTY * | 13089C0066H | 07-MAY-2001
04 | GEORGIA | DE KALB COUNTY * | 13089C0067H | 07-MAY-2001
04 | GEORGIA | DE KALB COUNTY * | 13089C0068H | 07-MAY-2001
04 | GEORGIA | DE KALB COUNTY * | 13089C0069H | 07-MAY-2001
04 | GEORGIA | DE KALB COUNTY * | 13089C0076H | 07-MAY-2001
04 | GEORGIA | DE KALB COUNTY * | 13089C0077H | 07-MAY-2001
04 | GEORGIA | DE KALB COUNTY * | 13089C0078H | 07-MAY-2001
04 | GEORGIA | DE KALB COUNTY * | 13089C0079H | 07-MAY-2001
04 | GEORGIA | DE KALB COUNTY * | 13089C0081H | 07-MAY-2001
04 | GEORGIA | DE KALB COUNTY * | 13089C0082H | 07-MAY-2001
04 | GEORGIA | DE KALB COUNTY * | 13089C0083H | 07-MAY-2001
04 | GEORGIA | DE KALB COUNTY * | 13089C0084H | 07-MAY-2001
04 | GEORGIA | DE KALB COUNTY * | 13089C0086H | 07-MAY-2001
04 | GEORGIA | DE KALB COUNTY * | 13089C0087H | 07-MAY-2001
04 | GEORGIA | DE KALB COUNTY * | 13089C0088H | 07-MAY-2001
04 | GEORGIA | DE KALB COUNTY * | 13089C0089H | 07-MAY-2001
04 | GEORGIA | DE KALB COUNTY * | 13089C0091H | 07-MAY-2001
04 | GEORGIA | DE KALB COUNTY * | 13089C0092H | 07-MAY-2001
04 | GEORGIA | DE KALB COUNTY * | 13089C0093H | 07-MAY-2001
04 | GEORGIA | DE KALB COUNTY * | 13089C0094H | 07-MAY-2001
04 | GEORGIA | DE KALB COUNTY * | 13089C0111H | 07-MAY-2001
04 | GEORGIA | DE KALB COUNTY * | 13089C0112H | 07-MAY-2001
04 | GEORGIA | DE KALB COUNTY * | 13089C0113H | 07-MAY-2001
04 | GEORGIA | DE KALB COUNTY * | 13089C0114H | 07-MAY-2001
04 | GEORGIA | DE KALB COUNTY * | 13089C0005H | 07-MAY-2001
04 | GEORGIA | DE KALB COUNTY * | 13089C0010H | 07-MAY-2001
04 | GEORGIA | DE KALB COUNTY * | 13089C0012H | 07-MAY-2001
04 | GEORGIA | DE KALB COUNTY * | 13089C0014H | 07-MAY-2001
04 | GEORGIA | DE KALB COUNTY * | 13089C0016H | 07-MAY-2001
04 | GEORGIA | DE KALB COUNTY * | 13089C0017H | 07-MAY-2001
04 | GEORGIA | DECATUR, CITY OF | 13089C0062H | 07-MAY-2001
04 | GEORGIA | DECATUR, CITY OF | 13089C0064H | 07-MAY-2001
04 | GEORGIA | DECATUR, CITY OF | 13089C0066H | 07-MAY-2001
04 | GEORGIA | DECATUR, CITY OF | 13089C0067H | 07-MAY-2001
04 | GEORGIA | DECATUR, CITY OF | 13089C0068H | 07-MAY-2001
04 | GEORGIA | DECATUR, CITY OF | 13089C0069H | 07-MAY-2001
04 | GEORGIA | DECATUR, CITY OF | 13089CIND0 | 07-MAY-2001
04 | GEORGIA | DESOTA, CITY OF | 13261C0305B | 09-FEB-2001
04 | GEORGIA | DESOTA, CITY OF | 13261CIND0 | 09-FEB-2001
04 | GEORGIA | DORAVILLE, CITY OF | 13089C0016H | 07-MAY-2001
04 | GEORGIA | DORAVILLE, CITY OF | 13089C0017H | 07-MAY-2001
04 | GEORGIA | DORAVILLE, CITY OF | 13089C0018H | 07-MAY-2001
04 | GEORGIA | DORAVILLE, CITY OF | 13089C0019H | 07-MAY-2001
04 | GEORGIA | DORAVILLE, CITY OF | 13089CIND0 | 07-MAY-2001
04 | GEORGIA | EAST POINT, CITY OF | 13121CIND1** | 07-MAY-2001
04 | GEORGIA | EAST POINT, CITY OF | 13121CIND2** | 07-MAY-2001
04 | GEORGIA | FAIRBURN, CITY OF | 13121CIND1** | 07-MAY-2001
04 | GEORGIA | FAIRBURN, CITY OF | 13121CIND2** | 07-MAY-2001
04 | GEORGIA | FULTON COUNTY * | 13121CIND1** | 07-MAY-2001
04 | GEORGIA | FULTON COUNTY * | 13121CIND2** | 07-MAY-2001
04 | GEORGIA | HAPEVILLE, CITY OF | 13121CIND1** | 07-MAY-2001
04 | GEORGIA | HAPEVILLE, CITY OF | 13121CIND2** | 07-MAY-2001
04 | GEORGIA | LESLIE, CITY OF | 13261C0305B | 09-FEB-2001
04 | GEORGIA | LESLIE, CITY OF | 13261CIND0 | 09-FEB-2001
04 | GEORGIA | LITHONIA, CITY OF | 13089CIND0 | 07-MAY-2001
04 | GEORGIA | LITHONIA, CITY OF | 13089C0176H | 07-MAY-2001
04 | GEORGIA | LITHONIA, CITY OF | 13098C0178H | 07-MAY-2001
04 | GEORGIA | MOUNTAIN PARK, CITY OF | 13121CIND1** | 07-MAY-2001
04 | GEORGIA | MOUNTAIN PARK, CITY OF | 13121CIND2** | 07-MAY-2001
04 | GEORGIA | PALMETTO, CITY OF | 13121CIND1** | 07-MAY-2001
04 | GEORGIA | PALMETTO, CITY OF | 13121CIND2** | 07-MAY-2001
04 | GEORGIA | PINE LAKE, CITY OF | 13089C0087H | 07-MAY-2001
04 | GEORGIA | PINE LAKE, CITY OF | 13089CIND0 | 07-MAY-2001
04 | GEORGIA | PLAINS, CITY OF | 13261CIND0 | 09-FEB-2001
04 | GEORGIA | ROCKDALE COUNTY * | 13247C0151C | 19-JAN-2001
04 | GEORGIA | ROCKDALE COUNTY * | 13247C0152C | 19-JAN-2001
04 | GEORGIA | ROCKDALE COUNTY * | 13247C0153C | 19-JAN-2001
04 | GEORGIA | ROCKDALE COUNTY * | 13247C0154C | 19-JAN-2001
04 | GEORGIA | ROCKDALE COUNTY * | 13247C0156C | 19-JAN-2001
04 | GEORGIA | ROCKDALE COUNTY * | 13247C0157C | 19-JAN-2001
04 | GEORGIA | ROCKDALE COUNTY * | 13247C0158C | 19-JAN-2001
04 | GEORGIA | ROCKDALE COUNTY * | 13247C0159C | 19-JAN-2001
04 | GEORGIA | ROCKDALE COUNTY * | 13247C0161C | 19-JAN-2001
04 | GEORGIA | ROCKDALE COUNTY * | 13247C0162C | 19-JAN-2001
04 | GEORGIA | ROCKDALE COUNTY * | 13247C0166C | 19-JAN-2001
04 | GEORGIA | ROCKDALE COUNTY * | 13247C0167C | 19-JAN-2001
04 | GEORGIA | ROCKDALE COUNTY * | 13247C0168C | 19-JAN-2001
04 | GEORGIA | ROCKDALE COUNTY * | 13247C0176C | 19-JAN-2001
04 | GEORGIA | ROCKDALE COUNTY * | 13247C0178C | 19-JAN-2001
04 | GEORGIA | ROCKDALE COUNTY * | 13247CIND0 | 19-JAN-2001
04 | GEORGIA | ROCKDALE COUNTY * | 13247C0111C | 19-JAN-2001
04 | GEORGIA | ROCKDALE COUNTY * | 13247C0112C | 19-JAN-2001
04 | GEORGIA | ROCKDALE COUNTY * | 13247C0113C | 19-JAN-2001
04 | GEORGIA | ROCKDALE COUNTY * | 13247C0114C | 19-JAN-2001
04 | GEORGIA | ROCKDALE COUNTY * | 13247C0116C | 19-JAN-2001
04 | GEORGIA | ROCKDALE COUNTY * | 13247C0118C | 19-JAN-2001
04 | GEORGIA | ROCKDALE COUNTY * | 13247C0135C | 19-JAN-2001
04 | GEORGIA | ROCKDALE COUNTY * | 13247C0040C | 19-JAN-2001
04 | GEORGIA | ROCKDALE COUNTY * | 13247C0045C | 19-JAN-2001
04 | GEORGIA | ROCKDALE COUNTY * | 13247C0070C | 19-JAN-2001
04 | GEORGIA | ROCKDALE COUNTY * | 13247C0081C | 19-JAN-2001
04 | GEORGIA | ROCKDALE COUNTY * | 13247C0082C | 19-JAN-2001
04 | GEORGIA | ROCKDALE COUNTY * | 13247C0083C | 19-JAN-2001
04 | GEORGIA | ROCKDALE COUNTY * | 13247C0084C | 19-JAN-2001
04 | GEORGIA | ROCKDALE COUNTY * | 13247C0087C | 19-JAN-2001
04 | GEORGIA | ROCKDALE COUNTY * | 13247C0088C | 19-JAN-2001
04 | GEORGIA | ROCKDALE COUNTY * | 13247C0089C | 19-JAN-2001
04 | GEORGIA | ROCKDALE COUNTY * | 13247C0091C | 19-JAN-2001
04 | GEORGIA | ROCKDALE COUNTY * | 13247C0092C | 19-JAN-2001
04 | GEORGIA | ROCKDALE COUNTY * | 13247C0093C | 19-JAN-2001
04 | GEORGIA | ROCKDALE COUNTY * | 13247C0094C | 19-JAN-2001
04 | GEORGIA | ROCKDALE COUNTY * | 13247C0103C | 19-JAN-2001
04 | GEORGIA | ROCKDALE COUNTY * | 13247C0104C | 19-JAN-2001
04 | GEORGIA | ROCKDALE COUNTY * | 13247C0105C | 19-JAN-2001
04 | GEORGIA | ROCKDALE COUNTY * | 13247C0110C | 19-JAN-2001
04 | GEORGIA | ROSWELL, CITY OF | 13121CIND1** | 07-MAY-2001
04 | GEORGIA | ROSWELL, CITY OF | 13121CIND2** | 07-MAY-2001
04 | GEORGIA | STONE MOUNTAIN, CITY OF | 13089C0083H | 07-MAY-2001
04 | GEORGIA | STONE MOUNTAIN, CITY OF | 13089C0091H | 07-MAY-2001
04 | GEORGIA | STONE MOUNTAIN, CITY OF | 13089CIND0 | 07-MAY-2001
04 | GEORGIA | SUMTER COUNTY* | 13261C0060B | 09-FEB-2001
04 | GEORGIA | SUMTER COUNTY* | 13261C0100B | 09-FEB-2001
04 | GEORGIA | SUMTER COUNTY* | 13261C0134B | 09-FEB-2001
04 | GEORGIA | SUMTER COUNTY* | 13261C0135B | 09-FEB-2001
04 | GEORGIA | SUMTER COUNTY* | 13261C0153B | 09-FEB-2001
04 | GEORGIA | SUMTER COUNTY* | 13261C0154B | 09-FEB-2001
04 | GEORGIA | SUMTER COUNTY* | 13261C0155B | 09-FEB-2001
04 | GEORGIA | SUMTER COUNTY* | 13261C0161B | 09-FEB-2001
04 | GEORGIA | SUMTER COUNTY* | 13261C0162B | 09-FEB-2001
04 | GEORGIA | SUMTER COUNTY* | 13261C0200B | 09-FEB-2001
04 | GEORGIA | SUMTER COUNTY* | 13261C0225B | 09-FEB-2001
04 | GEORGIA | SUMTER COUNTY* | 13261C0275B | 09-FEB-2001
04 | GEORGIA | SUMTER COUNTY* | 13261C0305B | 09-FEB-2001
04 | GEORGIA | SUMTER COUNTY* | 13261C0350B | 09-FEB-2001
04 | GEORGIA | SUMTER COUNTY* | 13261CIND0 | 09-FEB-2001
04 | GEORGIA | UNION CITY, CITY OF | 13121CIND1** | 07-MAY-2001
04 | GEORGIA | UNION CITY, CITY OF | 13121CIND2** | 07-MAY-2001
04 | NORTH CAROLINA | BUNN, TOWN OF | 37069C0350D | 19-JAN-2001
04 | NORTH CAROLINA | BUNN, TOWN OF | 37069C0355D | 19-JAN-2001
04 | NORTH CAROLINA | BUNN, TOWN OF | 37069CIND0 | 19-JAN-2001
04 | NORTH CAROLINA | BURKE COUNTY * | 3700340260D | 07-MAY-2001
04 | NORTH CAROLINA | BURKE COUNTY * | 370034IND0 | 07-MAY-2001
04 | NORTH CAROLINA | BURKE COUNTY * | 3700340168E | 07-MAY-2001
04 | NORTH CAROLINA | BURKE COUNTY * | 3700340175E | 07-MAY-2001
04 | NORTH CAROLINA | BURKE COUNTY * | 3700340256D | 07-MAY-2001
04 | NORTH CAROLINA | BURKE COUNTY * | 3700340257D | 07-MAY-2001
04 | NORTH CAROLINA | BURKE COUNTY * | 3700340275D | 07-MAY-2001
04 | NORTH CAROLINA | CENTERVILLE, TOWN OF | 37069C0175D | 19-JAN-2001
04 | NORTH CAROLINA | CENTERVILLE, TOWN OF | 37069CIND0 | 19-JAN-2001
04 | NORTH CAROLINA | FRANKLIN COUNTY* | 37069C0365D | 19-JAN-2001
04 | NORTH CAROLINA | FRANKLIN COUNTY* | 37069C0375D | 19-JAN-2001
04 | NORTH CAROLINA | FRANKLIN COUNTY* | 37069C0400D | 19-JAN-2001
04 | NORTH CAROLINA | FRANKLIN COUNTY* | 37069CIND0 | 19-JAN-2001
04 | NORTH CAROLINA | FRANKLIN COUNTY* | 37069C0025D | 19-JAN-2001
04 | NORTH CAROLINA | FRANKLIN COUNTY* | 37069C0050D | 19-JAN-2001
04 | NORTH CAROLINA | FRANKLIN COUNTY* | 37069C0090D | 19-JAN-2001
04 | NORTH CAROLINA | FRANKLIN COUNTY* | 37069C0095D | 19-JAN-2001
04 | NORTH CAROLINA | FRANKLIN COUNTY* | 37069C0100D | 19-JAN-2001
04 | NORTH CAROLINA | FRANKLIN COUNTY* | 37069C0115D | 19-JAN-2001
04 | NORTH CAROLINA | FRANKLIN COUNTY* | 37069C0125D | 19-JAN-2001
04 | NORTH CAROLINA | FRANKLIN COUNTY* | 37069C0150D | 19-JAN-2001
04 | NORTH CAROLINA | FRANKLIN COUNTY* | 37069C0175D | 19-JAN-2001
04 | NORTH CAROLINA | FRANKLIN COUNTY* | 37069C0200D | 19-JAN-2001
04 | NORTH CAROLINA | FRANKLIN COUNTY* | 37069C0225D | 19-JAN-2001
04 | NORTH CAROLINA | FRANKLIN COUNTY* | 37069C0230D | 19-JAN-2001
04 | NORTH CAROLINA | FRANKLIN COUNTY* | 37069C0231D | 19-JAN-2001
04 | NORTH CAROLINA | FRANKLIN COUNTY* | 37069C0232D | 19-JAN-2001
04 | NORTH CAROLINA | FRANKLIN COUNTY* | 37069C0233D | 19-JAN-2001
04 | NORTH CAROLINA | FRANKLIN COUNTY* | 37069C0234D | 19-JAN-2001
04 | NORTH CAROLINA | FRANKLIN COUNTY* | 37069C0240D | 19-JAN-2001
04 | NORTH CAROLINA | FRANKLIN COUNTY* | 37069C0245D | 19-JAN-2001
04 | NORTH CAROLINA | FRANKLIN COUNTY* | 37069C0265D | 19-JAN-2001
04 | NORTH CAROLINA | FRANKLIN COUNTY* | 37069C0275D | 19-JAN-2001
04 | NORTH CAROLINA | FRANKLIN COUNTY* | 37069C0300D | 19-JAN-2001
04 | NORTH CAROLINA | FRANKLIN COUNTY* | 37069C0325D | 19-JAN-2001
04 | NORTH CAROLINA | FRANKLIN COUNTY* | 37069C0350D | 19-JAN-2001
04 | NORTH CAROLINA | FRANKLIN COUNTY* | 37069C0355D | 19-JAN-2001
04 | NORTH CAROLINA | FRANKLINTON, TOWN OF | 37069C0225D | 19-JAN-2001
04 | NORTH CAROLINA | FRANKLINTON, TOWN OF | 37069CIND0 | 19-JAN-2001
04 | NORTH CAROLINA | LOUISBURG, CITY | 37069C0125D | 19-JAN-2001
04 | NORTH CAROLINA | LOUISBURG, CITY | 37069C0230D | 19-JAN-2001
04 | NORTH CAROLINA | LOUISBURG, CITY | 37069C0231D | 19-JAN-2001
04 | NORTH CAROLINA | LOUISBURG, CITY | 37069C0232D | 19-JAN-2001
04 | NORTH CAROLINA | LOUISBURG, CITY | 37069C0233D | 19-JAN-2001
04 | NORTH CAROLINA | LOUISBURG, CITY | 37069C0234D | 19-JAN-2001
04 | NORTH CAROLINA | LOUISBURG, CITY | 37069CIND0 | 19-JAN-2001
04 | NORTH CAROLINA | MACON COUNTY * | 3701500009B | 01-JUN-2001
04 | NORTH CAROLINA | MACON COUNTY * | 3701500010B | 01-JUN-2001
04 | NORTH CAROLINA | MACON COUNTY * | 3701500011B | 01-JUN-2001
04 | NORTH CAROLINA | MACON COUNTY * | 3701509999B | 01-JUN-2001
04 | NORTH CAROLINA | MACON COUNTY * | 370150IND0 | 01-JUN-2001
04 | NORTH CAROLINA | MACON COUNTY * | 3701500001B | 01-JUN-2001
04 | NORTH CAROLINA | MACON COUNTY * | 3701500002B | 01-JUN-2001
04 | NORTH CAROLINA | MACON COUNTY * | 3701500003B | 01-JUN-2001
04 | NORTH CAROLINA | MACON COUNTY * | 3701500004B | 01-JUN-2001
04 | NORTH CAROLINA | MACON COUNTY * | 3701500005B | 01-JUN-2001
04 | NORTH CAROLINA | MACON COUNTY * | 3701500006B | 01-JUN-2001
04 | NORTH CAROLINA | MACON COUNTY * | 3701500007B | 01-JUN-2001
04 | NORTH CAROLINA | MACON COUNTY * | 3701500008B | 01-JUN-2001
04 | NORTH CAROLINA | WARREN COUNTY* | 3703960002C | 20-JUN-2001
04 | NORTH CAROLINA | WARREN COUNTY* | 370396IND0 | 20-JUN-2001
04 | NORTH CAROLINA | YOUNGSVILLE, TOWN OF | 37069C0225D | 19-JAN-2001
04 | NORTH CAROLINA | YOUNGSVILLE, TOWN OF | 37069CIND0 | 19-JAN-2001
04 | TENNESSEE | BELLE MEADE, CITY OF | 47037C0328F | 20-APR-2001
04 | TENNESSEE | BELLE MEADE, CITY OF | 47037CIND0 | 20-APR-2001
04 | TENNESSEE | BELLE MEADE, CITY OF | 47037C0326F | 20-APR-2001
04 | TENNESSEE | BELLE MEADE, CITY OF | 47037C0327F | 20-APR-2001
04 | TENNESSEE | BERRY HILL, CITY OF | 47037C0219F | 20-APR-2001
04 | TENNESSEE | BERRY HILL, CITY OF | 47037C0332F | 20-APR-2001
04 | TENNESSEE | BERRY HILL, CITY OF | 47037CIND0 | 20-APR-2001
04 | TENNESSEE | COTTAGE GROVE, CITY OF | 47079C0050D | 06-JUN-2001
04 | TENNESSEE | COTTAGE GROVE, CITY OF | 47079C0175D | 06-JUN-2001
04 | TENNESSEE | COTTAGE GROVE, CITY OF | 47079CIND0 | 06-JUN-2001
04 | TENNESSEE | FOREST HILLS, CITY OF | 47037C0317F | 20-APR-2001
04 | TENNESSEE | FOREST HILLS, CITY OF | 47037C0328F | 20-APR-2001
04 | TENNESSEE | FOREST HILLS, CITY OF | 47037C0329F | 20-APR-2001
04 | TENNESSEE | FOREST HILLS, CITY OF | 47037C0333F | 20-APR-2001
04 | TENNESSEE | FOREST HILLS, CITY OF | 47037C0336F | 20-APR-2001
04 | TENNESSEE | FOREST HILLS, CITY OF | 47037C0337F | 20-APR-2001
04 | TENNESSEE | FOREST HILLS, CITY OF | 47037CIND0 | 20-APR-2001
04 | TENNESSEE | GOODLETTSVILLE, CITY OF | 47037C0126F | 20-APR-2001
04 | TENNESSEE | GOODLETTSVILLE, CITY OF | 47037C0127F | 20-APR-2001
04 | TENNESSEE | GOODLETTSVILLE, CITY OF | 47037C0128F | 20-APR-2001
04 | TENNESSEE | GOODLETTSVILLE, CITY OF | 47037C0129F | 20-APR-2001
04 | TENNESSEE | GOODLETTSVILLE, CITY OF | 47037C0133F | 20-APR-2001
04 | TENNESSEE | GOODLETTSVILLE, CITY OF | 47037C0136F | 20-APR-2001
04 | TENNESSEE | GOODLETTSVILLE, CITY OF | 47037C0137F | 20-APR-2001
04 | TENNESSEE | GOODLETTSVILLE, CITY OF | 47037CIND0 | 20-APR-2001
04 | TENNESSEE | HENRY COUNTY | 47079C0025D | 06-JUN-2001
04 | TENNESSEE | HENRY COUNTY | 47079C0050D | 06-JUN-2001
04 | TENNESSEE | HENRY COUNTY | 47079C0075D | 06-JUN-2001
04 | TENNESSEE | HENRY COUNTY | 47079C0100D | 06-JUN-2001
04 | TENNESSEE | HENRY COUNTY | 47079C0125D | 06-JUN-2001
04 | TENNESSEE | HENRY COUNTY | 47079C0150D | 06-JUN-2001
04 | TENNESSEE | HENRY COUNTY | 47079C0175D | 06-JUN-2001
04 | TENNESSEE | HENRY COUNTY | 47079C0180D | 06-JUN-2001
04 | TENNESSEE | HENRY COUNTY | 47079C0185D | 06-JUN-2001
04 | TENNESSEE | HENRY COUNTY | 47079C0190D | 06-JUN-2001
04 | TENNESSEE | HENRY COUNTY | 47079C0195D | 06-JUN-2001
04 | TENNESSEE | HENRY COUNTY | 47079C0225D | 06-JUN-2001
04 | TENNESSEE | HENRY COUNTY | 47079C0250D | 06-JUN-2001
04 | TENNESSEE | HENRY COUNTY | 47079C0275D | 06-JUN-2001
04 | TENNESSEE | HENRY COUNTY | 47079C0300D | 06-JUN-2001
04 | TENNESSEE | HENRY COUNTY | 47079C0325D | 06-JUN-2001
04 | TENNESSEE | HENRY COUNTY | 47079C0350D | 06-JUN-2001
04 | TENNESSEE | HENRY COUNTY | 47079C0375D | 06-JUN-2001
04 | TENNESSEE | HENRY COUNTY | 47079CIND0 | 06-JUN-2001
04 | TENNESSEE | HENRY, TOWN OF | 47079C0300D | 06-JUN-2001
04 | TENNESSEE | HENRY, TOWN OF | 47079CIND0 | 06-JUN-2001
04 | TENNESSEE | LAKEWOOD, CITY OF | 47037C0144F | 20-APR-2001
04 | TENNESSEE | LAKEWOOD, CITY OF | 47037C0232F | 20-APR-2001
04 | TENNESSEE | LAKEWOOD, CITY OF | 47037C0251F | 20-APR-2001
04 | TENNESSEE | LAKEWOOD, CITY OF | 47037CIND0 | 20-APR-2001
04 | TENNESSEE | NASHVILLE & DAVIDSON COUNTY, CITY OF | 47037C0387F | 20-APR-2001
04 | TENNESSEE | NASHVILLE & DAVIDSON COUNTY, CITY OF | 47037C0388F | 20-APR-2001
04 | TENNESSEE | NASHVILLE & DAVIDSON COUNTY, CITY OF | 47037C0389F | 20-APR-2001
04 | TENNESSEE | NASHVILLE & DAVIDSON COUNTY, CITY OF | 47037C0400F | 20-APR-2001
04 | TENNESSEE | NASHVILLE & DAVIDSON COUNTY, CITY OF | 47037C0406F | 20-APR-2001
04 | TENNESSEE | NASHVILLE & DAVIDSON COUNTY, CITY OF | 47037C0407F | 20-APR-2001
04 | TENNESSEE | NASHVILLE & DAVIDSON COUNTY, CITY OF | 47037C0427F | 20-APR-2001
04 | TENNESSEE | NASHVILLE & DAVIDSON COUNTY, CITY OF | 47037CIND0 | 20-APR-2001
04 | TENNESSEE | NASHVILLE & DAVIDSON COUNTY, CITY OF | 47037C0304F | 20-APR-2001
04 | TENNESSEE | NASHVILLE & DAVIDSON COUNTY, CITY OF | 47037C0306F | 20-APR-2001
04 | TENNESSEE | NASHVILLE & DAVIDSON COUNTY, CITY OF | 47037C0307F | 20-APR-2001
04 | TENNESSEE | NASHVILLE & DAVIDSON COUNTY, CITY OF | 47037C0308F | 20-APR-2001
04 | TENNESSEE | NASHVILLE & DAVIDSON COUNTY, CITY OF | 47037C0309F | 20-APR-2001
04 | TENNESSEE | NASHVILLE & DAVIDSON COUNTY, CITY OF | 47037C0311F | 20-APR-2001
04 | TENNESSEE | NASHVILLE & DAVIDSON COUNTY, CITY OF | 47037C0312F | 20-APR-2001
04 | TENNESSEE | NASHVILLE & DAVIDSON COUNTY, CITY OF | 47037C0316F | 20-APR-2001
04 | TENNESSEE | NASHVILLE & DAVIDSON COUNTY, CITY OF | 47037C0317F | 20-APR-2001
04 | TENNESSEE | NASHVILLE & DAVIDSON COUNTY, CITY OF | 47037C0326F | 20-APR-2001
04 | TENNESSEE | NASHVILLE & DAVIDSON COUNTY, CITY OF | 47037C0327F | 20-APR-2001
04 | TENNESSEE | NASHVILLE & DAVIDSON COUNTY, CITY OF | 47037C0328F | 20-APR-2001
04 | TENNESSEE | NASHVILLE & DAVIDSON COUNTY, CITY OF | 47037C0329F | 20-APR-2001
04 | TENNESSEE | NASHVILLE & DAVIDSON COUNTY, CITY OF | 47037C0331F | 20-APR-2001
04 | TENNESSEE | NASHVILLE & DAVIDSON COUNTY, CITY OF | 47037C0332F | 20-APR-2001
04 | TENNESSEE | NASHVILLE & DAVIDSON COUNTY, CITY OF | 47037C0333F | 20-APR-2001
04 | TENNESSEE | NASHVILLE & DAVIDSON COUNTY, CITY OF | 47037C0334F | 20-APR-2001
04 | TENNESSEE | NASHVILLE & DAVIDSON COUNTY, CITY OF | 47037C0336F | 20-APR-2001
04 | TENNESSEE | NASHVILLE & DAVIDSON COUNTY, CITY OF | 47037C0337F | 20-APR-2001
04 | TENNESSEE | NASHVILLE & DAVIDSON COUNTY, CITY OF | 47037C0351F | 20-APR-2001
04 | TENNESSEE | NASHVILLE & DAVIDSON COUNTY, CITY OF | 47037C0352F | 20-APR-2001
04 | TENNESSEE | NASHVILLE & DAVIDSON COUNTY, CITY OF | 47037C0353F | 20-APR-2001
04 | TENNESSEE | NASHVILLE & DAVIDSON COUNTY, CITY OF | 47037C0354F | 20-APR-2001
04 | TENNESSEE | NASHVILLE & DAVIDSON COUNTY, CITY OF | 47037C0356F | 20-APR-2001
04 | TENNESSEE | NASHVILLE & DAVIDSON COUNTY, CITY OF | 47037C0357F | 20-APR-2001
04 | TENNESSEE | NASHVILLE & DAVIDSON COUNTY, CITY OF | 47037C0358F | 20-APR-2001
04 | TENNESSEE | NASHVILLE & DAVIDSON COUNTY, CITY OF | 47037C0359F | 20-APR-2001
04 | TENNESSEE | NASHVILLE & DAVIDSON COUNTY, CITY OF | 47037C0361F | 20-APR-2001
04 | TENNESSEE | NASHVILLE & DAVIDSON COUNTY, CITY OF | 47037C0362F | 20-APR-2001
04 | TENNESSEE | NASHVILLE & DAVIDSON COUNTY, CITY OF | 47037C0364F | 20-APR-2001
04 | TENNESSEE | NASHVILLE & DAVIDSON COUNTY, CITY OF | 47037C0366F | 20-APR-2001
04 | TENNESSEE | NASHVILLE & DAVIDSON COUNTY, CITY OF | 47037C0367F | 20-APR-2001
04 | TENNESSEE | NASHVILLE & DAVIDSON COUNTY, CITY OF | 47037C0368F | 20-APR-2001
04 | TENNESSEE | NASHVILLE & DAVIDSON COUNTY, CITY OF | 47037C0369F | 20-APR-2001
04 | TENNESSEE | NASHVILLE & DAVIDSON COUNTY, CITY OF | 47037C0378F | 20-APR-2001
04 | TENNESSEE | NASHVILLE & DAVIDSON COUNTY, CITY OF | 47037C0386F | 20-APR-2001
04 | TENNESSEE | NASHVILLE & DAVIDSON COUNTY, CITY OF | 47037C0214F | 20-APR-2001
04 | TENNESSEE | NASHVILLE & DAVIDSON COUNTY, CITY OF | 47037C0216F | 20-APR-2001
04 | TENNESSEE | NASHVILLE & DAVIDSON COUNTY, CITY OF | 47037C0217F | 20-APR-2001
04 | TENNESSEE | NASHVILLE & DAVIDSON COUNTY, CITY OF | 47037C0219F | 20-APR-2001
04 | TENNESSEE | NASHVILLE & DAVIDSON COUNTY, CITY OF | 47037C0226F | 20-APR-2001
04 | TENNESSEE | NASHVILLE & DAVIDSON COUNTY, CITY OF | 47037C0227F | 20-APR-2001
04 | TENNESSEE | NASHVILLE & DAVIDSON COUNTY, CITY OF | 47037C0229F | 20-APR-2001
04 | TENNESSEE | NASHVILLE & DAVIDSON COUNTY, CITY OF | 47037C0231F | 20-APR-2001
04 | TENNESSEE | NASHVILLE & DAVIDSON COUNTY, CITY OF | 47037C0232F | 20-APR-2001
04 | TENNESSEE | NASHVILLE & DAVIDSON COUNTY, CITY OF | 47037C0233F | 20-APR-2001
04 | TENNESSEE | NASHVILLE & DAVIDSON COUNTY, CITY OF | 47037C0234F | 20-APR-2001
04 | TENNESSEE | NASHVILLE & DAVIDSON COUNTY, CITY OF | 47037C0236F | 20-APR-2001
04 | TENNESSEE | NASHVILLE & DAVIDSON COUNTY, CITY OF | 47037C0237F | 20-APR-2001
04 | TENNESSEE | NASHVILLE & DAVIDSON COUNTY, CITY OF | 47037C0238F | 20-APR-2001
04 | TENNESSEE | NASHVILLE & DAVIDSON COUNTY, CITY OF | 47037C0239F | 20-APR-2001
04 | TENNESSEE | NASHVILLE & DAVIDSON COUNTY, CITY OF | 47037C0241F | 20-APR-2001
04 | TENNESSEE | NASHVILLE & DAVIDSON COUNTY, CITY OF | 47037C0242F | 20-APR-2001
04 | TENNESSEE | NASHVILLE & DAVIDSON COUNTY, CITY OF | 47037C0243F | 20-APR-2001
04 | TENNESSEE | NASHVILLE & DAVIDSON COUNTY, CITY OF | 47037C0244F | 20-APR-2001
04 | TENNESSEE | NASHVILLE & DAVIDSON COUNTY, CITY OF | 47037C0251F | 20-APR-2001
04 | TENNESSEE | NASHVILLE & DAVIDSON COUNTY, CITY OF | 47037C0252F | 20-APR-2001
04 | TENNESSEE | NASHVILLE & DAVIDSON COUNTY, CITY OF | 47037C0253F | 20-APR-2001
04 | TENNESSEE | NASHVILLE & DAVIDSON COUNTY, CITY OF | 47037C0254F | 20-APR-2001
04 | TENNESSEE | NASHVILLE & DAVIDSON COUNTY, CITY OF | 47037C0261F | 20-APR-2001
04 | TENNESSEE | NASHVILLE & DAVIDSON COUNTY, CITY OF | 47037C0275F | 20-APR-2001
04 | TENNESSEE | NASHVILLE & DAVIDSON COUNTY, CITY OF | 47037C0281F | 20-APR-2001
04 | TENNESSEE | NASHVILLE & DAVIDSON COUNTY, CITY OF | 47037C0282F | 20-APR-2001
04 | TENNESSEE | NASHVILLE & DAVIDSON COUNTY, CITY OF | 47037C0283F | 20-APR-2001
04 | TENNESSEE | NASHVILLE & DAVIDSON COUNTY, CITY OF | 47037C0284F | 20-APR-2001
04 | TENNESSEE | NASHVILLE & DAVIDSON COUNTY, CITY OF | 47037C0291F | 20-APR-2001
04 | TENNESSEE | NASHVILLE & DAVIDSON COUNTY, CITY OF | 47037C0292F | 20-APR-2001
04 | TENNESSEE | NASHVILLE & DAVIDSON COUNTY, CITY OF | 47037C0293F | 20-APR-2001
04 | TENNESSEE | NASHVILLE & DAVIDSON COUNTY, CITY OF | 47037C0294F | 20-APR-2001
04 | TENNESSEE | NASHVILLE & DAVIDSON COUNTY, CITY OF | 47037C0301F | 20-APR-2001
04 | TENNESSEE | NASHVILLE & DAVIDSON COUNTY, CITY OF | 47037C0302F | 20-APR-2001
04 | TENNESSEE | NASHVILLE & DAVIDSON COUNTY, CITY OF | 47037C0303F | 20-APR-2001
04 | TENNESSEE | NASHVILLE & DAVIDSON COUNTY, CITY OF | 47037C0129F | 20-APR-2001
04 | TENNESSEE | NASHVILLE & DAVIDSON COUNTY, CITY OF | 47037C0133F | 20-APR-2001
04 | TENNESSEE | NASHVILLE & DAVIDSON COUNTY, CITY OF | 47037C0136F | 20-APR-2001
04 | TENNESSEE | NASHVILLE & DAVIDSON COUNTY, CITY OF | 47037C0137F | 20-APR-2001
04 | TENNESSEE | NASHVILLE & DAVIDSON COUNTY, CITY OF | 47037C0138F | 20-APR-2001
04 | TENNESSEE | NASHVILLE & DAVIDSON COUNTY, CITY OF | 47037C0139F | 20-APR-2001
04 | TENNESSEE | NASHVILLE & DAVIDSON COUNTY, CITY OF | 47037C0141F | 20-APR-2001
04 | TENNESSEE | NASHVILLE & DAVIDSON COUNTY, CITY OF | 47037C0142F | 20-APR-2001
04 | TENNESSEE | NASHVILLE & DAVIDSON COUNTY, CITY OF | 47037C0143F | 20-APR-2001
04 | TENNESSEE | NASHVILLE & DAVIDSON COUNTY, CITY OF | 47037C0144F | 20-APR-2001
04 | TENNESSEE | NASHVILLE & DAVIDSON COUNTY, CITY OF | 47037C0176F | 20-APR-2001
04 | TENNESSEE | NASHVILLE & DAVIDSON COUNTY, CITY OF | 47037C0177F | 20-APR-2001
04 | TENNESSEE | NASHVILLE & DAVIDSON COUNTY, CITY OF | 47037C0178F | 20-APR-2001
04 | TENNESSEE | NASHVILLE & DAVIDSON COUNTY, CITY OF | 47037C0179F | 20-APR-2001
04 | TENNESSEE | NASHVILLE & DAVIDSON COUNTY, CITY OF | 47037C0181F | 20-APR-2001
04 | TENNESSEE | NASHVILLE & DAVIDSON COUNTY, CITY OF | 47037C0182F | 20-APR-2001
04 | TENNESSEE | NASHVILLE & DAVIDSON COUNTY, CITY OF | 47037C0183F | 20-APR-2001
04 | TENNESSEE | NASHVILLE & DAVIDSON COUNTY, CITY OF | 47037C0184F | 20-APR-2001
04 | TENNESSEE | NASHVILLE & DAVIDSON COUNTY, CITY OF | 47037C0186F | 20-APR-2001
04 | TENNESSEE | NASHVILLE & DAVIDSON COUNTY, CITY OF | 47037C0187F | 20-APR-2001
04 | TENNESSEE | NASHVILLE & DAVIDSON COUNTY, CITY OF | 47037C0189F | 20-APR-2001
04 | TENNESSEE | NASHVILLE & DAVIDSON COUNTY, CITY OF | 47037C0191F | 20-APR-2001
04 | TENNESSEE | NASHVILLE & DAVIDSON COUNTY, CITY OF | 47037C0192F | 20-APR-2001
04 | TENNESSEE | NASHVILLE & DAVIDSON COUNTY, CITY OF | 47037C0193F | 20-APR-2001
04 | TENNESSEE | NASHVILLE & DAVIDSON COUNTY, CITY OF | 47037C0194F | 20-APR-2001
04 | TENNESSEE | NASHVILLE & DAVIDSON COUNTY, CITY OF | 47037C0201F | 20-APR-2001
04 | TENNESSEE | NASHVILLE & DAVIDSON COUNTY, CITY OF | 47037C0202F | 20-APR-2001
04 | TENNESSEE | NASHVILLE & DAVIDSON COUNTY, CITY OF | 47037C0203F | 20-APR-2001
04 | TENNESSEE | NASHVILLE & DAVIDSON COUNTY, CITY OF | 47037C0204F | 20-APR-2001
04 | TENNESSEE | NASHVILLE & DAVIDSON COUNTY, CITY OF | 47037C0206F | 20-APR-2001
04 | TENNESSEE | NASHVILLE & DAVIDSON COUNTY, CITY OF | 47037C0207F | 20-APR-2001
04 | TENNESSEE | NASHVILLE & DAVIDSON COUNTY, CITY OF | 47037C0208F | 20-APR-2001
04 | TENNESSEE | NASHVILLE & DAVIDSON COUNTY, CITY OF | 47037C0209F | 20-APR-2001
04 | TENNESSEE | NASHVILLE & DAVIDSON COUNTY, CITY OF | 47037C0211F | 20-APR-2001
04 | TENNESSEE | NASHVILLE & DAVIDSON COUNTY, CITY OF | 47037C0212F | 20-APR-2001
04 | TENNESSEE | NASHVILLE & DAVIDSON COUNTY, CITY OF | 47037C0213F | 20-APR-2001
04 | TENNESSEE | NASHVILLE & DAVIDSON COUNTY, CITY OF | 47037C0025F | 20-APR-2001
04 | TENNESSEE | NASHVILLE & DAVIDSON COUNTY, CITY OF | 47037C0050F | 20-APR-2001
04 | TENNESSEE | NASHVILLE & DAVIDSON COUNTY, CITY OF | 47037C0063F | 20-APR-2001
04 | TENNESSEE | NASHVILLE & DAVIDSON COUNTY, CITY OF | 47037C0100F | 20-APR-2001
04 | TENNESSEE | NASHVILLE & DAVIDSON COUNTY, CITY OF | 47037C0111F | 20-APR-2001
04 | TENNESSEE | NASHVILLE & DAVIDSON COUNTY, CITY OF | 47037C0112F | 20-APR-2001
04 | TENNESSEE | NASHVILLE & DAVIDSON COUNTY, CITY OF | 47037C0113F | 20-APR-2001
04 | TENNESSEE | NASHVILLE & DAVIDSON COUNTY, CITY OF | 47037C0114F | 20-APR-2001
04 | TENNESSEE | NASHVILLE & DAVIDSON COUNTY, CITY OF | 47037C0116F | 20-APR-2001
04 | TENNESSEE | NASHVILLE & DAVIDSON COUNTY, CITY OF | 47037C0117F | 20-APR-2001
04 | TENNESSEE | NASHVILLE & DAVIDSON COUNTY, CITY OF | 47037C0118F | 20-APR-2001
04 | TENNESSEE | NASHVILLE & DAVIDSON COUNTY, CITY OF | 47037C0119F | 20-APR-2001
04 | TENNESSEE | NASHVILLE & DAVIDSON COUNTY, CITY OF | 47037C0125F | 20-APR-2001
04 | TENNESSEE | NASHVILLE & DAVIDSON COUNTY, CITY OF | 47037C0126F | 20-APR-2001
04 | TENNESSEE | NASHVILLE & DAVIDSON COUNTY, CITY OF | 47037C0127F | 20-APR-2001
04 | TENNESSEE | NASHVILLE & DAVIDSON COUNTY, CITY OF | 47037C0128F | 20-APR-2001
04 | TENNESSEE | OAK HILL, TOWN OF | 47037C0331F | 20-APR-2001
04 | TENNESSEE | OAK HILL, TOWN OF | 47037C0332F | 20-APR-2001
04 | TENNESSEE | OAK HILL, TOWN OF | 47037C0333F | 20-APR-2001
04 | TENNESSEE | OAK HILL, TOWN OF | 47037C0334F | 20-APR-2001
04 | TENNESSEE | OAK HILL, TOWN OF | 47037CIND0 | 20-APR-2001
04 | TENNESSEE | PARIS, CITY OF | 47079C0180D | 06-JUN-2001
04 | TENNESSEE | PARIS, CITY OF | 47079C0185D | 06-JUN-2001
04 | TENNESSEE | PARIS, CITY OF | 47079C0190D | 06-JUN-2001
04 | TENNESSEE | PARIS, CITY OF | 47079C0195D | 06-JUN-2001
04 | TENNESSEE | PARIS, CITY OF | 47079CIND0 | 06-JUN-2001
04 | TENNESSEE | PURYEAR, TOWN OF | 47079C0075D | 06-JUN-2001
04 | TENNESSEE | PURYEAR, TOWN OF | 47079CIND0 | 06-JUN-2001
05 | FLORIDA | KISSIMMEE, CITY OF | 12097C0055F | 06-JUN-2001
05 | FLORIDA | KISSIMMEE, CITY OF | 12097C0060F | 06-JUN-2001
05 | FLORIDA | KISSIMMEE, CITY OF | 12097C0065F | 06-JUN-2001
05 | FLORIDA | KISSIMMEE, CITY OF | 12097C0066F | 06-JUN-2001
05 | FLORIDA | KISSIMMEE, CITY OF | 12097C0067F | 06-JUN-2001
05 | FLORIDA | KISSIMMEE, CITY OF | 12097C0068F | 06-JUN-2001
05 | FLORIDA | KISSIMMEE, CITY OF | 12097CIND0 | 06-JUN-2001
05 | FLORIDA | OSCEOLA COUNTY * | 12097C0010F | 06-JUN-2001
05 | FLORIDA | OSCEOLA COUNTY * | 12097C0020F | 06-JUN-2001
05 | FLORIDA | OSCEOLA COUNTY * | 12097C0030F | 06-JUN-2001
05 | FLORIDA | OSCEOLA COUNTY * | 12097C0035F | 06-JUN-2001
05 | FLORIDA | OSCEOLA COUNTY * | 12097C0040F | 06-JUN-2001
05 | FLORIDA | OSCEOLA COUNTY * | 12097C0045F | 06-JUN-2001
05 | FLORIDA | OSCEOLA COUNTY * | 12097C0055F | 06-JUN-2001
05 | FLORIDA | OSCEOLA COUNTY * | 12097C0060F | 06-JUN-2001
05 | FLORIDA | OSCEOLA COUNTY * | 12097C0065F | 06-JUN-2001
05 | FLORIDA | OSCEOLA COUNTY * | 12097C0066F | 06-JUN-2001
05 | FLORIDA | OSCEOLA COUNTY * | 12097C0067F | 06-JUN-2001
05 | FLORIDA | OSCEOLA COUNTY * | 12097C0068F | 06-JUN-2001
05 | FLORIDA | OSCEOLA COUNTY * | 12097C0069F | 06-JUN-2001
05 | FLORIDA | OSCEOLA COUNTY * | 12097C0080F | 06-JUN-2001
05 | FLORIDA | OSCEOLA COUNTY * | 12097C0085F | 06-JUN-2001
05 | FLORIDA | OSCEOLA COUNTY * | 12097C0090F | 06-JUN-2001
05 | FLORIDA | OSCEOLA COUNTY * | 12097C0095F | 06-JUN-2001
05 | FLORIDA | OSCEOLA COUNTY * | 12097C0105F | 06-JUN-2001
05 | FLORIDA | OSCEOLA COUNTY * | 12097C0110F | 06-JUN-2001
05 | FLORIDA | OSCEOLA COUNTY * | 12097C0115F | 06-JUN-2001
05 | FLORIDA | OSCEOLA COUNTY * | 12097C0120F | 06-JUN-2001
05 | FLORIDA | OSCEOLA COUNTY * | 12097C0150F | 06-JUN-2001
05 | FLORIDA | OSCEOLA COUNTY * | 12097C0175F | 06-JUN-2001
05 | FLORIDA | OSCEOLA COUNTY * | 12097C0200F | 06-JUN-2001
05 | FLORIDA | OSCEOLA COUNTY * | 12097C0225F | 06-JUN-2001
05 | FLORIDA | OSCEOLA COUNTY * | 12097C0230F | 06-JUN-2001
05 | FLORIDA | OSCEOLA COUNTY * | 12097C0235F | 06-JUN-2001
05 | FLORIDA | OSCEOLA COUNTY * | 12097C0240F | 06-JUN-2001
05 | FLORIDA | OSCEOLA COUNTY * | 12097C0245F | 06-JUN-2001
05 | FLORIDA | OSCEOLA COUNTY * | 12097C0252F | 06-JUN-2001
05 | FLORIDA | OSCEOLA COUNTY * | 12097C0255F | 06-JUN-2001
05 | FLORIDA | OSCEOLA COUNTY * | 12097C0256F | 06-JUN-2001
05 | FLORIDA | OSCEOLA COUNTY * | 12097C0257F | 06-JUN-2001
05 | FLORIDA | OSCEOLA COUNTY * | 12097C0260F | 06-JUN-2001
05 | FLORIDA | OSCEOLA COUNTY * | 12097C0265F | 06-JUN-2001
05 | FLORIDA | OSCEOLA COUNTY * | 12097C0270F | 06-JUN-2001
05 | FLORIDA | OSCEOLA COUNTY * | 12097C0280F | 06-JUN-2001
05 | FLORIDA | OSCEOLA COUNTY * | 12097C0285F | 06-JUN-2001
05 | FLORIDA | OSCEOLA COUNTY * | 12097C0290F | 06-JUN-2001
05 | FLORIDA | OSCEOLA COUNTY * | 12097C0295F | 06-JUN-2001
05 | FLORIDA | OSCEOLA COUNTY * | 12097C0325F | 06-JUN-2001
05 | FLORIDA | OSCEOLA COUNTY * | 12097C0350F | 06-JUN-2001
05 | FLORIDA | OSCEOLA COUNTY * | 12097C0375F | 06-JUN-2001
05 | FLORIDA | OSCEOLA COUNTY * | 12097C0400F | 06-JUN-2001
05 | FLORIDA | OSCEOLA COUNTY * | 12097C0410F | 06-JUN-2001
05 | FLORIDA | OSCEOLA COUNTY * | 12097C0425F | 06-JUN-2001
05 | FLORIDA | OSCEOLA COUNTY * | 12097C0430F | 06-JUN-2001
05 | FLORIDA | OSCEOLA COUNTY * | 12097C0450F | 06-JUN-2001
05 | FLORIDA | OSCEOLA COUNTY * | 12097C0475F | 06-JUN-2001
05 | FLORIDA | OSCEOLA COUNTY * | 12097C0500F | 06-JUN-2001
05 | FLORIDA | OSCEOLA COUNTY * | 12097C0525F | 06-JUN-2001
05 | FLORIDA | OSCEOLA COUNTY * | 12097C0550F | 06-JUN-2001
05 | FLORIDA | OSCEOLA COUNTY * | 12097C0575F | 06-JUN-2001
05 | FLORIDA | OSCEOLA COUNTY * | 12097C0600F | 06-JUN-2001
05 | FLORIDA | OSCEOLA COUNTY * | 12097C0625F | 06-JUN-2001
05 | FLORIDA | OSCEOLA COUNTY * | 12097C0650F | 06-JUN-2001
05 | FLORIDA | OSCEOLA COUNTY * | 12097C0675F | 06-JUN-2001
05 | FLORIDA | OSCEOLA COUNTY * | 12097C0700F | 06-JUN-2001
05 | FLORIDA | OSCEOLA COUNTY * | 12097C0725F | 06-JUN-2001
05 | FLORIDA | OSCEOLA COUNTY * | 12097C0750F | 06-JUN-2001
05 | FLORIDA | OSCEOLA COUNTY * | 12097C0775F | 06-JUN-2001
05 | FLORIDA | OSCEOLA COUNTY * | 12097C0800F | 06-JUN-2001
05 | FLORIDA | OSCEOLA COUNTY * | 12097C0825F | 06-JUN-2001
05 | FLORIDA | OSCEOLA COUNTY * | 12097C0850F | 06-JUN-2001
05 | FLORIDA | OSCEOLA COUNTY * | 12097C0875F | 06-JUN-2001
05 | FLORIDA | OSCEOLA COUNTY * | 12097C0900F | 06-JUN-2001
05 | FLORIDA | OSCEOLA COUNTY * | 12097CIND0 | 06-JUN-2001
05 | FLORIDA | REEDY CREEK, IMPROVEMENT DISTRICT | 12097C0030F | 06-JUN-2001
05 | FLORIDA | REEDY CREEK, IMPROVEMENT DISTRICT | 12097C0035F | 06-JUN-2001
05 | FLORIDA | REEDY CREEK, IMPROVEMENT DISTRICT | 12097C0040F | 06-JUN-2001
05 | FLORIDA | REEDY CREEK, IMPROVEMENT DISTRICT | 12097C0045F | 06-JUN-2001
05 | FLORIDA | REEDY CREEK, IMPROVEMENT DISTRICT | 12097CIND0 | 06-JUN-2001
05 | FLORIDA | ST. CLOUD, CITY OF | 12097C0090F | 06-JUN-2001
05 | FLORIDA | ST. CLOUD, CITY OF | 12097C0095F | 06-JUN-2001
05 | FLORIDA | ST. CLOUD, CITY OF | 12097C0252F | 06-JUN-2001
05 | FLORIDA | ST. CLOUD, CITY OF | 12097C0255F | 06-JUN-2001
05 | FLORIDA | ST. CLOUD, CITY OF | 12097C0256F | 06-JUN-2001
05 | FLORIDA | ST. CLOUD, CITY OF | 12097C0257F | 06-JUN-2001
05 | FLORIDA | ST. CLOUD, CITY OF | 12097C0260F | 06-JUN-2001
05 | FLORIDA | ST. CLOUD, CITY OF | 12097C0280F | 06-JUN-2001
05 | FLORIDA | ST. CLOUD, CITY OF | 12097CIND0 | 06-JUN-2001
05 | ILLINOIS | ANCHOR, VILLAGE OF | 17113C0400D | 09-FEB-2001
05 | ILLINOIS | ANCHOR, VILLAGE OF | 17113CIND0 | 09-FEB-2001
05 | ILLINOIS | ARROWSMITH, VILLAGE OF | 17113C0575D | 09-FEB-2001
05 | ILLINOIS | ARROWSMITH, VILLAGE OF | 17113CIND0 | 09-FEB-2001
05 | ILLINOIS | BELLFLOWER, VILLAGE OF | 17113C0800D | 09-FEB-2001
05 | ILLINOIS | BELLFLOWER, VILLAGE OF | 17113CIND0 | 09-FEB-2001
05 | ILLINOIS | CARLOCK, VILLAGE OF | 17113C0260D | 09-FEB-2001
05 | ILLINOIS | CARLOCK, VILLAGE OF | 17113CIND0 | 09-FEB-2001
05 | ILLINOIS | CHENOA, CITY OF | 17113C0075D | 09-FEB-2001
05 | ILLINOIS | CHENOA, CITY OF | 17113C0200D | 09-FEB-2001
05 | ILLINOIS | CHENOA, CITY OF | 17113CIND0 | 09-FEB-2001
05 | ILLINOIS | COLFAX, VILLAGE OF | 17113C0390D | 09-FEB-2001
05 | ILLINOIS | COLFAX, VILLAGE OF | 17113C0400D | 09-FEB-2001
05 | ILLINOIS | COLFAX, VILLAGE OF | 17113CIND0 | 09-FEB-2001
05 | ILLINOIS | COOKSVILLE, VILLAGE OF | 17113C0375D | 09-FEB-2001
05 | ILLINOIS | COOKSVILLE, VILLAGE OF | 17113CIND0 | 09-FEB-2001
05 | ILLINOIS | DANVERS, VILLAGE OF | 17113C0270D | 09-FEB-2001
05 | ILLINOIS | DANVERS, VILLAGE OF | 17113CIND0 | 09-FEB-2001
05 | ILLINOIS | DOWNS, VILLAGE OF | 17113C0520D | 09-FEB-2001
05 | ILLINOIS | DOWNS, VILLAGE OF | 17113C0550D | 09-FEB-2001
05 | ILLINOIS | DOWNS, VILLAGE OF | 17113CIND0 | 09-FEB-2001
05 | ILLINOIS | ELLSWORTH, VILLAGE OF | 17113C0575D | 09-FEB-2001
05 | ILLINOIS | ELLSWORTH, VILLAGE OF | 17113CIND0 | 09-FEB-2001
05 | ILLINOIS | GRIDLEY, VILLAGE OF | 17113C0150D | 09-FEB-2001
05 | ILLINOIS | GRIDLEY, VILLAGE OF | 17113C0175D | 09-FEB-2001
05 | ILLINOIS | GRIDLEY, VILLAGE OF | 17113CIND0 | 09-FEB-2001
05 | ILLINOIS | HEYWORTH, VILLAGE OF | 17113C0705D | 09-FEB-2001
05 | ILLINOIS | HEYWORTH, VILLAGE OF | 17113C0715D | 09-FEB-2001
05 | ILLINOIS | HEYWORTH, VILLAGE OF | 17113CIND0 | 09-FEB-2001
05 | ILLINOIS | HUDSON, VILLAGE OF | 171130305D | 09-FEB-2001
05 | ILLINOIS | HUDSON, VILLAGE OF | 17113CIND0 | 09-FEB-2001
05 | ILLINOIS | LEROY, CITY OF | 17113C0750D | 09-FEB-2001
05 | ILLINOIS | LEROY, CITY OF | 17113C0775D | 09-FEB-2001
05 | ILLINOIS | LEROY, CITY OF | 17113CIND0 | 09-FEB-2001
05 | ILLINOIS | LEXINGTON, CITY OF | 17113C0175D | 09-FEB-2001
05 | ILLINOIS | LEXINGTON, CITY OF | 17113CIND0 | 09-FEB-2001
05 | ILLINOIS | MCLEAN COUNTY * | 17113C0390D | 09-FEB-2001
05 | ILLINOIS | MCLEAN COUNTY * | 17113C0400D | 09-FEB-2001
05 | ILLINOIS | MCLEAN COUNTY * | 17113C0425D | 09-FEB-2001
05 | ILLINOIS | MCLEAN COUNTY * | 17113C0450D | 09-FEB-2001
05 | ILLINOIS | MCLEAN COUNTY * | 17113C0475D | 09-FEB-2001
05 | ILLINOIS | MCLEAN COUNTY * | 17113C0481D | 09-FEB-2001
05 | ILLINOIS | MCLEAN COUNTY * | 17113C0482D | 09-FEB-2001
05 | ILLINOIS | MCLEAN COUNTY * | 17113C0483D | 09-FEB-2001
05 | ILLINOIS | MCLEAN COUNTY * | 17113C0484D | 09-FEB-2001
05 | ILLINOIS | MCLEAN COUNTY * | 17113C0500D | 09-FEB-2001
05 | ILLINOIS | MCLEAN COUNTY * | 17113C0501D | 09-FEB-2001
05 | ILLINOIS | MCLEAN COUNTY * | 17113C0502D | 09-FEB-2001
05 | ILLINOIS | MCLEAN COUNTY * | 17113C0503D | 09-FEB-2001
05 | ILLINOIS | MCLEAN COUNTY * | 17113C0504D | 09-FEB-2001
05 | ILLINOIS | MCLEAN COUNTY * | 17113C0510D | 09-FEB-2001
05 | ILLINOIS | MCLEAN COUNTY * | 17113C0515D | 09-FEB-2001
05 | ILLINOIS | MCLEAN COUNTY * | 17113C0520D | 09-FEB-2001
05 | ILLINOIS | MCLEAN COUNTY * | 17113C0550D | 09-FEB-2001
05 | ILLINOIS | MCLEAN COUNTY * | 17113C0575D | 09-FEB-2001
05 | ILLINOIS | MCLEAN COUNTY * | 17113C0600D | 09-FEB-2001
05 | ILLINOIS | MCLEAN COUNTY * | 17113C0625D | 09-FEB-2001
05 | ILLINOIS | MCLEAN COUNTY * | 17113C0650D | 09-FEB-2001
05 | ILLINOIS | MCLEAN COUNTY * | 17113C0675D | 09-FEB-2001
05 | ILLINOIS | MCLEAN COUNTY * | 17113C0700D | 09-FEB-2001
05 | ILLINOIS | MCLEAN COUNTY * | 17113C0705D | 09-FEB-2001
05 | ILLINOIS | MCLEAN COUNTY * | 17113C0715D | 09-FEB-2001
05 | ILLINOIS | MCLEAN COUNTY * | 17113C0725D | 09-FEB-2001
05 | ILLINOIS | MCLEAN COUNTY * | 17113C0750D | 09-FEB-2001
05 | ILLINOIS | MCLEAN COUNTY * | 17113C0775D | 09-FEB-2001
05 | ILLINOIS | MCLEAN COUNTY * | 17113C0800D | 09-FEB-2001
05 | ILLINOIS | MCLEAN COUNTY * | 17113C0825D | 09-FEB-2001
05 | ILLINOIS | MCLEAN COUNTY * | 17113CIND0 | 09-FEB-2001
05 | ILLINOIS | MCLEAN COUNTY * | 17113C0075D | 09-FEB-2001
05 | ILLINOIS | MCLEAN COUNTY * | 17113C0125D | 09-FEB-2001
05 | ILLINOIS | MCLEAN COUNTY * | 17113C0150D | 09-FEB-2001
05 | ILLINOIS | MCLEAN COUNTY * | 17113C0175D | 09-FEB-2001
05 | ILLINOIS | MCLEAN COUNTY * | 17113C0200D | 09-FEB-2001
05 | ILLINOIS | MCLEAN COUNTY * | 17113C0225D | 09-FEB-2001
05 | ILLINOIS | MCLEAN COUNTY * | 17113C0250D | 09-FEB-2001
05 | ILLINOIS | MCLEAN COUNTY * | 17113C0260D | 09-FEB-2001
05 | ILLINOIS | MCLEAN COUNTY * | 17113C0270D | 09-FEB-2001
05 | ILLINOIS | MCLEAN COUNTY * | 17113C0275D | 09-FEB-2001
05 | ILLINOIS | MCLEAN COUNTY * | 17113C0292D | 09-FEB-2001
05 | ILLINOIS | MCLEAN COUNTY * | 17113C0293D | 09-FEB-2001
05 | ILLINOIS | MCLEAN COUNTY * | 17113C0294D | 09-FEB-2001
05 | ILLINOIS | MCLEAN COUNTY * | 17113C0300D | 09-FEB-2001
05 | ILLINOIS | MCLEAN COUNTY * | 17113C0305D | 09-FEB-2001
05 | ILLINOIS | MCLEAN COUNTY * | 17113C0310D | 09-FEB-2001
05 | ILLINOIS | MCLEAN COUNTY * | 17113C0311D | 09-FEB-2001
05 | ILLINOIS | MCLEAN COUNTY * | 17113C0312D | 09-FEB-2001
05 | ILLINOIS | MCLEAN COUNTY * | 17113C0313D | 09-FEB-2001
05 | ILLINOIS | MCLEAN COUNTY * | 17113C0314D | 09-FEB-2001
05 | ILLINOIS | MCLEAN COUNTY * | 17113C0318D | 09-FEB-2001
05 | ILLINOIS | MCLEAN COUNTY * | 17113C0320D | 09-FEB-2001
05 | ILLINOIS | MCLEAN COUNTY * | 17113C0350D | 09-FEB-2001
05 | ILLINOIS | MCLEAN COUNTY * | 17113C0375D | 09-FEB-2001
05 | ILLINOIS | MCLEAN, VILLAGE OF | 17311C0675D | 09-FEB-2001
05 | ILLINOIS | MCLEAN, VILLAGE OF | 17113CIND0 | 09-FEB-2001
05 | ILLINOIS | NORMAL, TOWN OF | 17113C0292D | 09-FEB-2001
05 | ILLINOIS | NORMAL, TOWN OF | 17113C0294D | 09-FEB-2001
05 | ILLINOIS | NORMAL, TOWN OF | 17113C0311D | 09-FEB-2001
05 | ILLINOIS | NORMAL, TOWN OF | 17113C0313D | 09-FEB-2001
05 | ILLINOIS | NORMAL, TOWN OF | 17113C0314D | 09-FEB-2001
05 | ILLINOIS | NORMAL, TOWN OF | 17113C0482D | 09-FEB-2001
05 | ILLINOIS | NORMAL, TOWN OF | 17113C0501D | 09-FEB-2001
05 | ILLINOIS | NORMAL, TOWN OF | 17113C0502D | 09-FEB-2001
05 | ILLINOIS | NORMAL, TOWN OF | 17113CIND0 | 09-FEB-2001
05 | ILLINOIS | SAYBROOK, VILLAGE OF | 17113C0600D | 09-FEB-2001
05 | ILLINOIS | SAYBROOK, VILLAGE OF | 17113CIND0 | 09-FEB-2001
05 | ILLINOIS | STANFORD, VILLAGE OF | 17113C0475D | 09-FEB-2001
05 | ILLINOIS | STANFORD, VILLAGE OF | 17113CIND0 | 09-FEB-2001
05 | ILLINOIS | TOWANDA, VILLAGE OF | 17113CIND0 | 09-FEB-2001
05 | ILLINOIS | TOWANDA, VILLAGE OF | 17113C0310D | 09-FEB-2001
05 | ILLINOIS | TOWANDA, VILLAGE OF | 17113C0320D | 09-FEB-2001
05 | ILLINOIS | WINNEBAGO COUNTY * | 1707200020C | 21-MAY-2001
05 | ILLINOIS | WINNEBAGO COUNTY * | 1707200065C | 21-MAY-2001
05 | ILLINOIS | WINNEBAGO COUNTY * | 1707200070C | 21-MAY-2001
05 | ILLINOIS | WINNEBAGO COUNTY * | 170720IND0 | 21-MAY-2001
05 | INDIANA | BEECH GROVE, CITY OF | 18097C0251E | 05-JAN-2001
05 | INDIANA | BEECH GROVE, CITY OF | 18097C0252E | 05-JAN-2001
05 | INDIANA | BEECH GROVE, CITY OF | 18097C0253E | 05-JAN-2001
05 | INDIANA | BEECH GROVE, CITY OF | 18097C0254E | 05-JAN-2001
05 | INDIANA | BEECH GROVE, CITY OF | 18097C0258E | 05-JAN-2001
05 | INDIANA | BEECH GROVE, CITY OF | 18097CIND0 | 05-JAN-2001
05 | INDIANA | INDIANAPOLIS, CITY OF | 18097C0234E | 05-JAN-2001
05 | INDIANA | INDIANAPOLIS, CITY OF | 18097C0240E | 05-JAN-2001
05 | INDIANA | INDIANAPOLIS, CITY OF | 18097C0241E | 05-JAN-2001
05 | INDIANA | INDIANAPOLIS, CITY OF | 18097C0242E | 05-JAN-2001
05 | INDIANA | INDIANAPOLIS, CITY OF | 18097C0243E | 05-JAN-2001
05 | INDIANA | INDIANAPOLIS, CITY OF | 18097C0244E | 05-JAN-2001
05 | INDIANA | INDIANAPOLIS, CITY OF | 18097C0251E | 05-JAN-2001
05 | INDIANA | INDIANAPOLIS, CITY OF | 18097C0252E | 05-JAN-2001
05 | INDIANA | INDIANAPOLIS, CITY OF | 18097C0253E | 05-JAN-2001
05 | INDIANA | INDIANAPOLIS, CITY OF | 18097C0254E | 05-JAN-2001
05 | INDIANA | INDIANAPOLIS, CITY OF | 18097C0256E | 05-JAN-2001
05 | INDIANA | INDIANAPOLIS, CITY OF | 18097C0258E | 05-JAN-2001
05 | INDIANA | INDIANAPOLIS, CITY OF | 18097C0260E | 05-JAN-2001
05 | INDIANA | INDIANAPOLIS, CITY OF | 18097C0261E | 05-JAN-2001
05 | INDIANA | INDIANAPOLIS, CITY OF | 18097C0262E | 05-JAN-2001
05 | INDIANA | INDIANAPOLIS, CITY OF | 18097C0263E | 05-JAN-2001
05 | INDIANA | INDIANAPOLIS, CITY OF | 18097C0264E | 05-JAN-2001
05 | INDIANA | INDIANAPOLIS, CITY OF | 18097C0270E | 05-JAN-2001
05 | INDIANA | INDIANAPOLIS, CITY OF | 18097C0280E | 05-JAN-2001
05 | INDIANA | INDIANAPOLIS, CITY OF | 18097C0290E | 05-JAN-2001
05 | INDIANA | INDIANAPOLIS, CITY OF | 18097CIND0 | 05-JAN-2001
05 | INDIANA | INDIANAPOLIS, CITY OF | 18097C0138E | 05-JAN-2001
05 | INDIANA | INDIANAPOLIS, CITY OF | 18097C0139E | 05-JAN-2001
05 | INDIANA | INDIANAPOLIS, CITY OF | 18097C0141E | 05-JAN-2001
05 | INDIANA | INDIANAPOLIS, CITY OF | 18097C0142E | 05-JAN-2001
05 | INDIANA | INDIANAPOLIS, CITY OF | 18097C0143E | 05-JAN-2001
05 | INDIANA | INDIANAPOLIS, CITY OF | 18097C0144E | 05-JAN-2001
05 | INDIANA | INDIANAPOLIS, CITY OF | 18097C0153E | 05-JAN-2001
05 | INDIANA | INDIANAPOLIS, CITY OF | 18097C0154E | 05-JAN-2001
05 | INDIANA | INDIANAPOLIS, CITY OF | 18097C0155E | 05-JAN-2001
05 | INDIANA | INDIANAPOLIS, CITY OF | 18097C0159E | 05-JAN-2001
05 | INDIANA | INDIANAPOLIS, CITY OF | 18097C0160E | 05-JAN-2001
05 | INDIANA | INDIANAPOLIS, CITY OF | 18097C0161E | 05-JAN-2001
05 | INDIANA | INDIANAPOLIS, CITY OF | 18097C0162E | 05-JAN-2001
05 | INDIANA | INDIANAPOLIS, CITY OF | 18097C0163E | 05-JAN-2001
05 | INDIANA | INDIANAPOLIS, CITY OF | 18097C0164E | 05-JAN-2001
05 | INDIANA | INDIANAPOLIS, CITY OF | 18097C0166E | 05-JAN-2001
05 | INDIANA | INDIANAPOLIS, CITY OF | 18097C0167E | 05-JAN-2001
05 | INDIANA | INDIANAPOLIS, CITY OF | 18097C0168E | 05-JAN-2001
05 | INDIANA | INDIANAPOLIS, CITY OF | 18097C0169E | 05-JAN-2001
05 | INDIANA | INDIANAPOLIS, CITY OF | 18097C0180E | 05-JAN-2001
05 | INDIANA | INDIANAPOLIS, CITY OF | 18097C0186E | 05-JAN-2001
05 | INDIANA | INDIANAPOLIS, CITY OF | 18097C0188E | 05-JAN-2001
05 | INDIANA | INDIANAPOLIS, CITY OF | 18097C0190E | 05-JAN-2001
05 | INDIANA | INDIANAPOLIS, CITY OF | 18097C0205E | 05-JAN-2001
05 | INDIANA | INDIANAPOLIS, CITY OF | 18097C0207E | 05-JAN-2001
05 | INDIANA | INDIANAPOLIS, CITY OF | 18097C0209E | 05-JAN-2001
05 | INDIANA | INDIANAPOLIS, CITY OF | 18097C0210E | 05-JAN-2001
05 | INDIANA | INDIANAPOLIS, CITY OF | 18097C0215E | 05-JAN-2001
05 | INDIANA | INDIANAPOLIS, CITY OF | 18097C0220E | 05-JAN-2001
05 | INDIANA | INDIANAPOLIS, CITY OF | 18097C0226E | 05-JAN-2001
05 | INDIANA | INDIANAPOLIS, CITY OF | 18097C0227E | 05-JAN-2001
05 | INDIANA | INDIANAPOLIS, CITY OF | 18097C0228E | 05-JAN-2001
05 | INDIANA | INDIANAPOLIS, CITY OF | 18097C0229E | 05-JAN-2001
05 | INDIANA | INDIANAPOLIS, CITY OF | 18097C0231E | 05-JAN-2001
05 | INDIANA | INDIANAPOLIS, CITY OF | 18097C0232E | 05-JAN-2001
05 | INDIANA | INDIANAPOLIS, CITY OF | 18097C0233E | 05-JAN-2001
05 | INDIANA | INDIANAPOLIS, CITY OF | 18097C0117E | 05-JAN-2001
05 | INDIANA | INDIANAPOLIS, CITY OF | 18097C0118E | 05-JAN-2001
05 | INDIANA | INDIANAPOLIS, CITY OF | 18097C0119E | 05-JAN-2001
05 | INDIANA | INDIANAPOLIS, CITY OF | 18097C0126E | 05-JAN-2001
05 | INDIANA | INDIANAPOLIS, CITY OF | 18097C0127E | 05-JAN-2001
05 | INDIANA | INDIANAPOLIS, CITY OF | 18097C0128E | 05-JAN-2001
05 | INDIANA | INDIANAPOLIS, CITY OF | 18097C0129E | 05-JAN-2001
05 | INDIANA | INDIANAPOLIS, CITY OF | 18097C0134E | 05-JAN-2001
05 | INDIANA | INDIANAPOLIS, CITY OF | 18097C0135E | 05-JAN-2001
05 | INDIANA | INDIANAPOLIS, CITY OF | 18097C0136E | 05-JAN-2001
05 | INDIANA | INDIANAPOLIS, CITY OF | 18097C0137E | 05-JAN-2001
05 | INDIANA | INDIANAPOLIS, CITY OF | 18097C0067E | 05-JAN-2001
05 | INDIANA | INDIANAPOLIS, CITY OF | 18097C0068E | 05-JAN-2001
05 | INDIANA | INDIANAPOLIS, CITY OF | 18097C0069E | 05-JAN-2001
05 | INDIANA | INDIANAPOLIS, CITY OF | 18097C0086E | 05-JAN-2001
05 | INDIANA | INDIANAPOLIS, CITY OF | 18097C0087E | 05-JAN-2001
05 | INDIANA | INDIANAPOLIS, CITY OF | 18097C0088E | 05-JAN-2001
05 | INDIANA | INDIANAPOLIS, CITY OF | 18097C0089E | 05-JAN-2001
05 | INDIANA | INDIANAPOLIS, CITY OF | 18097C0105E | 05-JAN-2001
05 | INDIANA | INDIANAPOLIS, CITY OF | 18097C0107E | 05-JAN-2001
05 | INDIANA | INDIANAPOLIS, CITY OF | 18097C0109E | 05-JAN-2001
05 | INDIANA | INDIANAPOLIS, CITY OF | 18097C0110E | 05-JAN-2001
05 | INDIANA | INDIANAPOLIS, CITY OF | 18097C0112E | 05-JAN-2001
05 | INDIANA | INDIANAPOLIS, CITY OF | 18097C0114E | 05-JAN-2001
05 | INDIANA | INDIANAPOLIS, CITY OF | 18097C0116E | 05-JAN-2001
05 | INDIANA | INDIANAPOLIS, CITY OF | 18097C0015E | 05-JAN-2001
05 | INDIANA | INDIANAPOLIS, CITY OF | 18097C0020E | 05-JAN-2001
05 | INDIANA | INDIANAPOLIS, CITY OF | 18097C0036E | 05-JAN-2001
05 | INDIANA | INDIANAPOLIS, CITY OF | 18097C0037E | 05-JAN-2001
05 | INDIANA | INDIANAPOLIS, CITY OF | 18097C0038E | 05-JAN-2001
05 | INDIANA | INDIANAPOLIS, CITY OF | 18097C0039E | 05-JAN-2001
05 | INDIANA | INDIANAPOLIS, CITY OF | 18097C0041E | 05-JAN-2001
05 | INDIANA | INDIANAPOLIS, CITY OF | 18097C0042E | 05-JAN-2001
05 | INDIANA | INDIANAPOLIS, CITY OF | 18097C0043E | 05-JAN-2001
05 | INDIANA | INDIANAPOLIS, CITY OF | 18097C0044E | 05-JAN-2001
05 | INDIANA | INDIANAPOLIS, CITY OF | 18097C0061E | 05-JAN-2001
05 | INDIANA | INDIANAPOLIS, CITY OF | 18097C0062E | 05-JAN-2001
05 | INDIANA | INDIANAPOLIS, CITY OF | 18097C0063E | 05-JAN-2001
05 | INDIANA | INDIANAPOLIS, CITY OF | 18097C0064E | 05-JAN-2001
05 | INDIANA | INDIANAPOLIS, CITY OF | 18097C0066E | 05-JAN-2001
05 | INDIANA | LAWRENCE, CITY OF | 18097C0068E | 05-JAN-2001
05 | INDIANA | LAWRENCE, CITY OF | 18097C0069E | 05-JAN-2001
05 | INDIANA | LAWRENCE, CITY OF | 18097C0087E | 05-JAN-2001
05 | INDIANA | LAWRENCE, CITY OF | 18097C0088E | 05-JAN-2001
05 | INDIANA | LAWRENCE, CITY OF | 18097C0089E | 05-JAN-2001
05 | INDIANA | LAWRENCE, CITY OF | 18097C0159E | 05-JAN-2001
05 | INDIANA | LAWRENCE, CITY OF | 18097C0160E | 05-JAN-2001
05 | INDIANA | LAWRENCE, CITY OF | 18097C0180E | 05-JAN-2001
05 | INDIANA | LAWRENCE, CITY OF | 18097CIND0 | 05-JAN-2001
05 | INDIANA | SOUTHPORT, CITY OF | 18097C0242E | 05-JAN-2001
05 | INDIANA | SOUTHPORT, CITY OF | 18097C0261E | 05-JAN-2001
05 | INDIANA | SOUTHPORT, CITY OF | 18097C0263E | 05-JAN-2001
05 | INDIANA | SOUTHPORT, CITY OF | 18097CIND0 | 05-JAN-2001
05 | INDIANA | SPEEDWAY, TOWN OF | 18097C0136E | 05-JAN-2001
05 | INDIANA | SPEEDWAY, TOWN OF | 18097C0138E | 05-JAN-2001
05 | INDIANA | SPEEDWAY, TOWN OF | 18097CIND0 | 05-JAN-2001
05 | INDIANA | SPEEDWAY, TOWN OF | 18097C0117E | 05-JAN-2001
05 | INDIANA | SPEEDWAY, TOWN OF | 18097C0119E | 05-JAN-2001
05 | MINNESOTA | HOUSTON COUNTY * | 2701900065C | 06-JUN-2001
05 | MINNESOTA | HOUSTON COUNTY * | 2701900070C | 06-JUN-2001
05 | MINNESOTA | HOUSTON COUNTY * | 2701900105C | 06-JUN-2001
05 | MINNESOTA | HOUSTON COUNTY * | 2701900110C | 06-JUN-2001
05 | MINNESOTA | HOUSTON COUNTY * | 270190IND0 | 06-JUN-2001
05 | OHIO | FORT RECOVERY, VILLAGE OF | 3903950001C | 06-JUN-2001
05 | OHIO | MERCER COUNTY * | 3903920125C | 06-JUN-2001
05 | OHIO | MERCER COUNTY * | 3903920103C | 06-JUN-2001
05 | OHIO | MERCER COUNTY * | 390392IND0 | 06-JUN-2001
05 | WISCONSIN | BARABOO, CITY OF | 55111C0385D | 07-MAR-2001
05 | WISCONSIN | BARABOO, CITY OF | 55111C0405D | 07-MAR-2001
05 | WISCONSIN | BARABOO, CITY OF | 55111CIND0 | 07-MAR-2001
05 | WISCONSIN | IRONTON, VILLAGE OF | 55111C0175D | 07-MAR-2001
05 | WISCONSIN | IRONTON, VILLAGE OF | 55111CIND0 | 07-MAR-2001
05 | WISCONSIN | LAKE DELTON, VILLAGE OF | 55111C0231D | 07-MAR-2001
05 | WISCONSIN | LAKE DELTON, VILLAGE OF | 55111C0250D | 07-MAR-2001
05 | WISCONSIN | LAKE DELTON, VILLAGE OF | 55111C0275D | 07-MAR-2001
05 | WISCONSIN | LAKE DELTON, VILLAGE OF | 55111CIND0 | 07-MAR-2001
05 | WISCONSIN | LAVALLE, VILLAGE OF | 55111C0160D | 07-MAR-2001
05 | WISCONSIN | LAVALLE, VILLAGE OF | 55111C0200D | 07-MAR-2001
05 | WISCONSIN | LAVALLE, VILLAGE OF | 55111CIND0 | 07-MAR-2001
05 | WISCONSIN | LIME RIDGE, VILLAGE OF | 55111C0325D | 07-MAR-2001
05 | WISCONSIN | LIME RIDGE, VILLAGE OF | 55111CIND0 | 07-MAR-2001
05 | WISCONSIN | LOGANVILLE, VILLAGE OF | 55111C0350D | 07-MAR-2001
05 | WISCONSIN | LOGANVILLE, VILLAGE OF | 55111CIND0 | 07-MAR-2001
05 | WISCONSIN | MERRIMAC, VILLAGE OF | 55111C0425D | 07-MAR-2001
05 | WISCONSIN | MERRIMAC, VILLAGE OF | 55111C0450D | 07-MAR-2001
05 | WISCONSIN | MERRIMAC, VILLAGE OF | 55111C0575D | 07-MAR-2001
05 | WISCONSIN | MERRIMAC, VILLAGE OF | 55111CIND0 | 07-MAR-2001
05 | WISCONSIN | NORTH FREEDOM, VILLAGE OF | 55111C0380D | 07-MAR-2001
05 | WISCONSIN | NORTH FREEDOM, VILLAGE OF | 55111CIND0 | 07-MAR-2001
05 | WISCONSIN | PLAIN, VILLAGE OF | 55111C0500D | 07-MAR-2001
05 | WISCONSIN | PLAIN, VILLAGE OF | 55111CIND0 | 07-MAR-2001
05 | WISCONSIN | PRAIRIE DU SAC, VILLAGE OF | 55111C0575D | 07-MAR-2001
05 | WISCONSIN | PRAIRIE DU SAC, VILLAGE OF | 55111CIND0 | 07-MAR-2001
05 | WISCONSIN | REEDSBURG, CITY OF | 55111C0195D | 07-MAR-2001
05 | WISCONSIN | REEDSBURG, CITY OF | 55111C0215D | 07-MAR-2001
05 | WISCONSIN | REEDSBURG, CITY OF | 55111CIND0 | 07-MAR-2001
05 | WISCONSIN | ROCK SPRINGS, VILLAGE OF | 55111C0360D | 07-MAR-2001
05 | WISCONSIN | ROCK SPRINGS, VILLAGE OF | 55111CIND0 | 07-MAR-2001
05 | WISCONSIN | SAUK CITY, VILLAGE OF | 55111C0575D | 07-MAR-2001
05 | WISCONSIN | SAUK CITY, VILLAGE OF | 55111CIND0 | 07-MAR-2001
05 | WISCONSIN | SAUK COUNTY * | 55111C0025D | 07-MAR-2001
05 | WISCONSIN | SAUK COUNTY * | 55111C0050D | 07-MAR-2001
05 | WISCONSIN | SAUK COUNTY * | 55111C0075D | 07-MAR-2001
05 | WISCONSIN | SAUK COUNTY * | 55111C0125D | 07-MAR-2001
05 | WISCONSIN | SAUK COUNTY * | 55111C0150D | 07-MAR-2001
05 | WISCONSIN | SAUK COUNTY * | 55111C0160D | 07-MAR-2001
05 | WISCONSIN | SAUK COUNTY * | 55111C0175D | 07-MAR-2001
05 | WISCONSIN | SAUK COUNTY * | 55111C0195D | 07-MAR-2001
05 | WISCONSIN | SAUK COUNTY * | 55111C0200D | 07-MAR-2001
05 | WISCONSIN | SAUK COUNTY * | 55111C0215D | 07-MAR-2001
05 | WISCONSIN | SAUK COUNTY * | 55111C0225D | 07-MAR-2001
05 | WISCONSIN | SAUK COUNTY * | 55111C0231D | 07-MAR-2001
05 | WISCONSIN | SAUK COUNTY * | 55111C0250D | 07-MAR-2001
05 | WISCONSIN | SAUK COUNTY * | 55111C0275D | 07-MAR-2001
05 | WISCONSIN | SAUK COUNTY * | 55111C0300D | 07-MAR-2001
05 | WISCONSIN | SAUK COUNTY * | 55111C0325D | 07-MAR-2001
05 | WISCONSIN | SAUK COUNTY * | 55111C0350D | 07-MAR-2001
05 | WISCONSIN | SAUK COUNTY * | 55111C0360D | 07-MAR-2001
05 | WISCONSIN | SAUK COUNTY * | 55111C0375D | 07-MAR-2001
05 | WISCONSIN | SAUK COUNTY * | 55111C0380D | 07-MAR-2001
05 | WISCONSIN | SAUK COUNTY * | 55111C0385D | 07-MAR-2001
05 | WISCONSIN | SAUK COUNTY * | 55111C0400D | 07-MAR-2001
05 | WISCONSIN | SAUK COUNTY * | 55111C0405D | 07-MAR-2001
05 | WISCONSIN | SAUK COUNTY * | 55111C0425D | 07-MAR-2001
05 | WISCONSIN | SAUK COUNTY * | 55111C0450D | 07-MAR-2001
05 | WISCONSIN | SAUK COUNTY * | 55111C0475D | 07-MAR-2001
05 | WISCONSIN | SAUK COUNTY * | 55111C0500D | 07-MAR-2001
05 | WISCONSIN | SAUK COUNTY * | 55111C0525D | 07-MAR-2001
05 | WISCONSIN | SAUK COUNTY * | 55111C0550D | 07-MAR-2001
05 | WISCONSIN | SAUK COUNTY * | 55111C0575D | 07-MAR-2001
05 | WISCONSIN | SAUK COUNTY * | 55111C0600D | 07-MAR-2001
05 | WISCONSIN | SAUK COUNTY * | 55111C0625D | 07-MAR-2001
05 | WISCONSIN | SAUK COUNTY * | 55111C0650D | 07-MAR-2001
05 | WISCONSIN | SAUK COUNTY * | 55111C0675D | 07-MAR-2001
05 | WISCONSIN | SAUK COUNTY * | 55111CIND0 | 07-MAR-2001
05 | WISCONSIN | SAUK COUNTY * | 5503910040B | 07-MAR-2001
05 | WISCONSIN | SPRING GREEN, VILLAGE OF | 55111C0625D | 07-MAR-2001
05 | WISCONSIN | SPRING GREEN, VILLAGE OF | 55111CIND0 | 07-MAR-2001
05 | WISCONSIN | WEST BARABOO, VILLAGE OF | 55111C0385D | 07-MAR-2001
05 | WISCONSIN | WEST BARABOO, VILLAGE OF | 55111CIND0 | 07-MAR-2001
05 | WISCONSIN | WISCONSIN DELLS, CITY OF | 55111C0125D | 07-MAR-2001
05 | WISCONSIN | WISCONSIN DELLS, CITY OF | 55111C0231D | 07-MAR-2001
05 | WISCONSIN | WISCONSIN DELLS, CITY OF | 55111C0250D | 07-MAR-2001
05 | WISCONSIN | WISCONSIN DELLS, CITY OF | 55111CIND0 | 07-MAR-2001
06 | AR | BAXTER COUNTY | 05005C0050D | 06-JUN-2001
06 | AR | BAXTER COUNTY | 05005C0055D | 06-JUN-2001
06 | AR | BAXTER COUNTY | 05005C0070D | 06-JUN-2001
06 | AR | BAXTER COUNTY | 05005CIND0 ** | 06-JUN-2001
06 | AR | GASSVILLE, CITY OF | 05005C0070D | 06-JUN-2001
06 | AR | GASSVILLE, CITY OF | 05005CIND0 ** | 06-JUN-2001
06 | AR | HUNTINGTON, CITY OF | 0503340005A | 07-MAY-2001
06 | AR | MANSFIELD, CITY OF | 0502020005C | 07-MAY-2001
06 | AR | MOUNTAIN HOME, CITY OF | 05005C0050D | 06-JUN-2001
06 | AR | MOUNTAIN HOME, CITY OF | 05005C0055D | 06-JUN-2001
06 | AR | MOUNTAIN HOME, CITY OF | 05005C0070D | 06-JUN-2001
06 | AR | MOUNTAIN HOME, CITY OF | 05005CIND0 ** | 06-JUN-2001
06 | AR | SEBASTIAN COUNTY* | 050462 D | 07-MAY-2001
06 | NM | PORTALES, CITY OF | 3500540001D | 06-JUN-2001
06 | NM | PORTALES, CITY OF | 3500540002D | 06-JUN-2001
06 | NM | PORTALES, CITY OF | 350054IND0 ** | 06-JUN-2001
06 | NM | RATON, CITY OF | 3500080012C | 07-MAY-2001
06 | NM | RATON, CITY OF | 3500080014C | 07-MAY-2001
06 | NM | RATON, CITY OF | 3500080016C | 07-MAY-2001
06 | NM | RATON, CITY OF | 3500080018C | 07-MAY-2001
06 | NM | RATON, CITY OF | 350008IND0 ** | 07-MAY-2001
06 | NM | RED RIVER, TOWN OF | 3500790008C | 06-JUN-2001
06 | NM | RED RIVER, TOWN OF | 3500790009C | 06-JUN-2001
06 | NM | RED RIVER, TOWN OF | 350079IND0 ** | 06-JUN-2001
06 | TX | HUNTSVILLE, CITY OF | 4806390017C | 07-MAY-2001
06 | TX | HUNTSVILLE, CITY OF | 4806390019C | 07-MAY-2001
06 | TX | HUNTSVILLE, CITY OF | 4806390025C | 07-MAY-2001
06 | TX | HUNTSVILLE, CITY OF | 4806390040C | 07-MAY-2001
06 | TX | HUNTSVILLE, CITY OF | 4806390041C | 07-MAY-2001
06 | TX | HUNTSVILLE, CITY OF | 4806390042C | 07-MAY-2001
06 | TX | HUNTSVILLE, CITY OF | 4806390045C | 07-MAY-2001
06 | TX | HUNTSVILLE, CITY OF | 4806390063C | 07-MAY-2001
06 | TX | HUNTSVILLE, CITY OF | 4806390085C | 07-MAY-2001
06 | TX | HUNTSVILLE, CITY OF | 4806390105C | 07-MAY-2001
06 | TX | HUNTSVILLE, CITY OF | 4806390106C | 07-MAY-2001
06 | TX | HUNTSVILLE, CITY OF | 4806390107C | 07-MAY-2001
06 | TX | HUNTSVILLE, CITY OF | 4806390108C | 07-MAY-2001
06 | TX | HUNTSVILLE, CITY OF | 4806390109C | 07-MAY-2001
06 | TX | HUNTSVILLE, CITY OF | 4806390115C | 07-MAY-2001
06 | TX | HUNTSVILLE, CITY OF | 4806390120C | 07-MAY-2001
06 | TX | HUNTSVILLE, CITY OF | 4806390130C | 07-MAY-2001
06 | TX | HUNTSVILLE, CITY OF | 4806390140C | 07-MAY-2001
06 | TX | HUNTSVILLE, CITY OF | 4806390200C | 07-MAY-2001
06 | TX | HUNTSVILLE, CITY OF | 480639IND0 ** | 07-MAY-2001
06 | TX | WALKER COUNTY* | 4810420006C | 07-MAY-2001
06 | TX | WALKER COUNTY* | 4810420007C | 07-MAY-2001
06 | TX | WALKER COUNTY* | 4810420009C | 07-MAY-2001
06 | TX | WALKER COUNTY* | 4810420010C | 07-MAY-2001
06 | TX | WALKER COUNTY* | 481042IND0 ** | 07-MAY-2001
07 | IA | AKRON, CITY OF | 1902230001D | 06-JUN-2001
07 | IA | BEACON, CITY OF | 190452 A*** | 01-MAR-2001
07 | IA | BEACON, CITY OF | 1904529999A*** | 01-MAR-2001
07 | IA | GRAY, CITY OF | 190318 B | 02-APR-2001
07 | IA | GRAY, CITY OF | 1903189999B | 02-APR-2001
07 | IA | JEWELL, CITY OF | 190600 A*** | 01-MAR-2001
07 | IA | JEWELL, CITY OF | 1906009999A*** | 01-MAR-2001
07 | IA | PLYMOUTH COUNTY* | 1908990025C | 06-JUN-2001
07 | IA | PLYMOUTH COUNTY* | 1908990125C | 06-JUN-2001
07 | IA | PLYMOUTH COUNTY* | 1908990225C | 06-JUN-2001
07 | IA | PLYMOUTH COUNTY* | 190899IND0 ** | 06-JUN-2001
07 | IA | SIOUX CITY, CITY OF | 1902980018C | 06-JUN-2001
07 | IA | SIOUX CITY, CITY OF | 1902980019C | 06-JUN-2001
07 | IA | SIOUX CITY, CITY OF | 190298IND0 ** | 06-JUN-2001
07 | IA | WESTFIELD, CITY OF | 1904820001B | 06-JUN-2001
07 | KS | AUGUSTA, CITY OF | 2000380001D | 21-MAY-2001
07 | KS | AUGUSTA, CITY OF | 2000380002D | 21-MAY-2001
07 | KS | AUGUSTA, CITY OF | 200038IND0 ** | 21-MAY-2001
07 | KS | BUTLER COUNTY * | 2000370115D | 20-JUN-2001
07 | KS | BUTLER COUNTY * | 2000370160C | 20-JUN-2001
07 | KS | BUTLER COUNTY * | 2000370165C | 20-JUN-2001
07 | KS | BUTLER COUNTY * | 2000370170C | 20-JUN-2001
07 | KS | BUTLER COUNTY * | 2000370180D | 20-JUN-2001
07 | KS | BUTLER COUNTY * | 2000370230C | 20-JUN-2001
07 | KS | BUTLER COUNTY * | 2000370240C | 20-JUN-2001
07 | KS | BUTLER COUNTY * | 200037IND0 ** | 20-JUN-2001
07 | KS | EL DORADO, CITY OF | 2000390001D | 20-JUN-2001
07 | KS | EL DORADO, CITY OF | 2000390003D | 20-JUN-2001
07 | KS | EL DORADO, CITY OF | 200039IND0 ** | 20-JUN-2001
07 | KS | HOXIE, CITY OF | 200508 A*** | 01-MAR-2001
07 | KS | HOXIE, CITY OF | 2005089999A*** | 01-MAR-2001
07 | MO | BATES COUNTY * | 2907860001B*** | 01-MAR-2001
07 | MO | BATES COUNTY * | 2907860002B*** | 01-MAR-2001
07 | MO | BATES COUNTY * | 2907860003B*** | 01-MAR-2001
07 | MO | BATES COUNTY * | 2907860004B*** | 01-MAR-2001
07 | MO | BATES COUNTY * | 2907860005B*** | 01-MAR-2001
07 | MO | BATES COUNTY * | 2907860006B*** | 01-MAR-2001
07 | MO | BATES COUNTY * | 2907860007B*** | 01-MAR-2001
07 | MO | BATES COUNTY * | 2907860008B*** | 01-MAR-2001
07 | MO | BATES COUNTY * | 2907860009B*** | 01-MAR-2001
07 | MO | BATES COUNTY * | 2907860010B*** | 01-MAR-2001
07 | MO | BATES COUNTY * | 2907860011B*** | 01-MAR-2001
07 | MO | BATES COUNTY * | 2907860012B*** | 01-MAR-2001
07 | MO | BATES COUNTY * | 2907869999B*** | 01-MAR-2001
07 | MO | BATES COUNTY * | 290786IND0 *** | 01-MAR-2001
07 | MO | HOLDEN, CITY OF | 290714 A*** | 01-MAR-2001
07 | MO | HOLDEN, CITY OF | 2907149999A*** | 01-MAR-2001
07 | MO | IRONDALE, TOWN OF | 290446 B | 02-APR-2001
07 | MO | IRONDALE, TOWN OF | 2904469999B | 02-APR-2001
07 | NE | BURWELL, CITY OF | 310354 A | 02-APR-2001
07 | NE | BURWELL, CITY OF | 3103549999A | 02-APR-2001
07 | NE | BUSHNELL, VILLAGE OF | 310255 A | 02-APR-2001
07 | NE | BUSHNELL, VILLAGE OF | 3102559999A | 02-APR-2001
07 | NE | CAMPBELL, VILLAGE OF | 310256 A*** | 01-MAR-2001
07 | NE | CAMPBELL, VILLAGE OF | 3102569999A*** | 01-MAR-2001
07 | NE | GREELEY, VILLAGE OF | 310373 A | 02-APR-2001
07 | NE | GREELEY, VILLAGE OF | 3103739999A | 02-APR-2001
07 | NE | GUIDE ROCK, VILLAGE OF | 310234 A*** | 01-MAR-2001
07 | NE | GUIDE ROCK, VILLAGE OF | 3102349999A*** | 01-MAR-2001
07 | NE | RIVERTON, VILLAGE OF | 310084 A*** | 01-MAR-2001
07 | NE | RIVERTON, VILLAGE OF | 3100849999A*** | 01-MAR-2001
07 | NE | TABLE ROCK, VILLAGE OF | 310172 B | 02-APR-2001
07 | NE | TABLE ROCK, VILLAGE OF | 3101729999B | 02-APR-2001
08 | CO | BRECKENRIDGE, TOWN OF | 0801720001C | 20-JUN-2001
08 | CO | BRECKENRIDGE, TOWN OF | 0801720002C | 20-JUN-2001
08 | CO | BRECKENRIDGE, TOWN OF | 0801720003C | 20-JUN-2001
08 | CO | BRECKENRIDGE, TOWN OF | 080172IND0 ** | 20-JUN-2001
08 | CO | DURANGO, CITY OF | 0800990005E | 21-MAY-2001
08 | CO | LA PLATA COUNTY * | 0800970383C | 21-MAY-2001
08 | CO | LA PLATA COUNTY * | 0800970384C | 21-MAY-2001
08 | CO | LA PLATA COUNTY * | 0800970389D | 21-MAY-2001
08 | CO | LA PLATA COUNTY * | 0800970391C | 21-MAY-2001
08 | CO | LA PLATA COUNTY * | 0800970393C | 21-MAY-2001
08 | CO | LA PLATA COUNTY * | 0800970506C | 21-MAY-2001
08 | CO | LA PLATA COUNTY * | 0800970508C | 21-MAY-2001
08 | CO | LA PLATA COUNTY * | 080097IND0 ** | 21-MAY-2001
08 | CO | SILVER PLUME, TOWN OF | 0802000001B | 06-JUN-2001
08 | MT | MUSSELLSHELL COUNTY * | 3001740011B*** | 01-MAR-2001
08 | MT | MUSSELLSHELL COUNTY * | 3001740012B*** | 01-MAR-2001
08 | MT | MUSSELLSHELL COUNTY * | 3001740014B*** | 01-MAR-2001
08 | MT | MUSSELLSHELL COUNTY * | 3001749999B*** | 01-MAR-2001
08 | MT | MUSSELLSHELL COUNTY * | 300174IND0 *** | 01-MAR-2001
08 | MT | SUPERIOR, TOWN OF | 3001280005A | 05-JAN-2001
08 | ND | BENSON COUNTY* | 38005C0075C | 20-JUN-2001
08 | ND | BENSON COUNTY* | 38005C0150C** | 20-JUN-2001
08 | ND | BENSON COUNTY* | 38005C0150C | 20-JUN-2001
08 | ND | BENSON COUNTY* | 38005C0225C** | 20-JUN-2001
08 | ND | BENSON COUNTY* | 38005C0225C | 20-JUN-2001
08 | ND | BENSON COUNTY* | 38005C0250C | 20-JUN-2001
08 | ND | BENSON COUNTY* | 38005C0275C | 20-JUN-2001
08 | ND | BENSON COUNTY* | 38005C0375C | 20-JUN-2001
08 | ND | BENSON COUNTY* | 38005C0400C** | 20-JUN-2001
08 | ND | BENSON COUNTY* | 38005C0400C | 20-JUN-2001
08 | ND | BENSON COUNTY* | 38005CIND0 ** | 20-JUN-2001
08 | ND | BRINSMADE, CITY OF | 38005C0150C** | 20-JUN-2001
08 | ND | BRINSMADE, CITY OF | 38005C0150C | 20-JUN-2001
08 | ND | BRINSMADE, CITY OF | 38005CIND0 ** | 20-JUN-2001
08 | ND | CHURCHS FERRY, CITY OF | 38071C0125D** | 20-JUN-2001
08 | ND | CHURCHS FERRY, CITY OF | 38071C0125D | 20-JUN-2001
08 | ND | CHURCHS FERRY, CITY OF | 38071C0225D** | 20-JUN-2001
08 | ND | CHURCHS FERRY, CITY OF | 38071C0225D | 20-JUN-2001
08 | ND | CHURCHS FERRY, CITY OF | 38071CIND0 ** | 20-JUN-2001
08 | ND | COULEE, TOWNSHIP OF | 38071C0125D** | 20-JUN-2001
08 | ND | COULEE, TOWNSHIP OF | 38071C0125D | 20-JUN-2001
08 | ND | COULEE, TOWNSHIP OF | 38071C0225D** | 20-JUN-2001
08 | ND | COULEE, TOWNSHIP OF | 38071C0225D | 20-JUN-2001
08 | ND | COULEE, TOWNSHIP OF | 38071CIND0 ** | 20-JUN-2001
08 | ND | CREEL, TOWNSHIP OF | 38071C0250D** | 20-JUN-2001
08 | ND | CREEL, TOWNSHIP OF | 38071C0250D | 20-JUN-2001
08 | ND | CREEL, TOWNSHIP OF | 38071C0330D** | 20-JUN-2001
08 | ND | CREEL, TOWNSHIP OF | 38071C0330D | 20-JUN-2001
08 | ND | CREEL, TOWNSHIP OF | 38071C0350D** | 20-JUN-2001
08 | ND | CREEL, TOWNSHIP OF | 38071C0350D | 20-JUN-2001
08 | ND | CREEL, TOWNSHIP OF | 38071CIND0 ** | 20-JUN-2001
08 | ND | DEVILS LAKE, CITY OF | 38071C0330D** | 20-JUN-2001
08 | ND | DEVILS LAKE, CITY OF | 38071C0330D | 20-JUN-2001
08 | ND | DEVILS LAKE, CITY OF | 38071CIND0 ** | 20-JUN-2001
08 | ND | MADDOCK, CITY OF | 38005CIND0 ** | 20-JUN-2001
08 | ND | MAZA, CITY OF | 38095C0650A | 19-JAN-2001
08 | ND | MAZA, CITY OF | 38095C0775A | 19-JAN-2001
08 | ND | MAZA, CITY OF | 38095CIND0 ** | 19-JAN-2001
08 | ND | MINNEWAUKAN, CITY OF | 38005C0225C** | 20-JUN-2001
08 | ND | MINNEWAUKAN, CITY OF | 38005C0225C | 20-JUN-2001
08 | ND | MINNEWAUKAN, CITY OF | 38005CIND0 ** | 20-JUN-2001
08 | ND | NELSON COUNTY* | 3806830175B | 19-JAN-2001
08 | ND | NELSON COUNTY* | 3806830300B | 19-JAN-2001
08 | ND | NELSON COUNTY* | 3806830325B | 19-JAN-2001
08 | ND | NELSON COUNTY* | 3806830350B | 19-JAN-2001
08 | ND | NELSON COUNTY* | 3806830475B | 19-JAN-2001
08 | ND | NELSON COUNTY* | 3806830500B | 19-JAN-2001
08 | ND | NELSON COUNTY* | 380683IND0 ** | 19-JAN-2001
08 | ND | RAMSEY COUNTY* | 38071C0125D** | 20-JUN-2001
08 | ND | RAMSEY COUNTY* | 38071C0125D | 20-JUN-2001
08 | ND | RAMSEY COUNTY* | 38071C0150D | 20-JUN-2001
08 | ND | RAMSEY COUNTY* | 38071C0225D** | 20-JUN-2001
08 | ND | RAMSEY COUNTY* | 38071C0225D | 20-JUN-2001
08 | ND | RAMSEY COUNTY* | 38071C0250D** | 20-JUN-2001
08 | ND | RAMSEY COUNTY* | 38071C0250D | 20-JUN-2001
08 | ND | RAMSEY COUNTY* | 38071C0325D | 20-JUN-2001
08 | ND | RAMSEY COUNTY* | 38071C0330D** | 20-JUN-2001
08 | ND | RAMSEY COUNTY* | 38071C0330D | 20-JUN-2001
08 | ND | RAMSEY COUNTY* | 38071C0350D** | 20-JUN-2001
08 | ND | RAMSEY COUNTY* | 38071C0350D | 20-JUN-2001
08 | ND | RAMSEY COUNTY* | 38071C0375D** | 20-JUN-2001
08 | ND | RAMSEY COUNTY* | 38071C0375D | 20-JUN-2001
08 | ND | RAMSEY COUNTY* | 38071C0450D | 20-JUN-2001
08 | ND | RAMSEY COUNTY* | 38071CIND0 ** | 20-JUN-2001
08 | ND | SPIRIT LAKE TRIBE | 38005C0075C | 20-JUN-2001
08 | ND | SPIRIT LAKE TRIBE | 38005C0225C** | 20-JUN-2001
08 | ND | SPIRIT LAKE TRIBE | 38005C0225C | 20-JUN-2001
08 | ND | SPIRIT LAKE TRIBE | 38005C0250C | 20-JUN-2001
08 | ND | SPIRIT LAKE TRIBE | 38005C0275C | 20-JUN-2001
08 | ND | SPIRIT LAKE TRIBE | 38005C0375C | 20-JUN-2001
08 | ND | SPIRIT LAKE TRIBE | 38005C0400C** | 20-JUN-2001
08 | ND | SPIRIT LAKE TRIBE | 38005C0400C | 20-JUN-2001
08 | ND | SPIRIT LAKE TRIBE | 38005CIND0 ** | 20-JUN-2001
08 | ND | TOWNER COUNTY* | 38095C0650A | 19-JAN-2001
08 | ND | TOWNER COUNTY* | 38095C0675A | 19-JAN-2001
08 | ND | TOWNER COUNTY* | 38095C0700A | 19-JAN-2001
08 | ND | TOWNER COUNTY* | 38095C0775A | 19-JAN-2001
08 | ND | TOWNER COUNTY* | 38095C0800A | 19-JAN-2001
08 | ND | TOWNER COUNTY* | 38095CIND0 ** | 19-JAN-2001
08 | SD | DEADWOOD, CITY OF | 4600450001C | 07-MAY-2001
08 | SD | DEADWOOD, CITY OF | 4600450002C | 07-MAY-2001
08 | SD | DEADWOOD, CITY OF | 460045IND0 ** | 07-MAY-2001
08 | SD | NORTH SIOUX CITY, CITY OF | 4600870005D | 23-FEB-2001
08 | SD | UNION COUNTY* | 460242 D | 23-FEB-2001
08 | WY | SHERIDAN, CITY OF | 5600440005D | 19-JAN-2001
09 | AZ | CAMP VERDE, TOWN OF | 04025C1815F | 06-JUN-2001
09 | AZ | CAMP VERDE, TOWN OF | 04025C1820F | 06-JUN-2001
09 | AZ | CAMP VERDE, TOWN OF | 04025C1840F | 06-JUN-2001
09 | AZ | CAMP VERDE, TOWN OF | 04025C2185F | 06-JUN-2001
09 | AZ | CAMP VERDE, TOWN OF | 04025C2195F | 06-JUN-2001
09 | AZ | CAMP VERDE, TOWN OF | 04025C2200F | 06-JUN-2001
09 | AZ | CAMP VERDE, TOWN OF | 04025C2205F | 06-JUN-2001
09 | AZ | CAMP VERDE, TOWN OF | 04025C2215F | 06-JUN-2001
09 | AZ | CAMP VERDE, TOWN OF | 04025C2220F | 06-JUN-2001
09 | AZ | CAMP VERDE, TOWN OF | 04025C2600F | 06-JUN-2001
09 | AZ | CAMP VERDE, TOWN OF | 04025CIND0 ** | 06-JUN-2001
09 | AZ | CHINO VALLEY, TOWN OF | 04025C1340F | 06-JUN-2001
09 | AZ | CHINO VALLEY, TOWN OF | 04025C1345F | 06-JUN-2001
09 | AZ | CHINO VALLEY, TOWN OF | 04025C1705F | 06-JUN-2001
09 | AZ | CHINO VALLEY, TOWN OF | 04025C1710F | 06-JUN-2001
09 | AZ | CHINO VALLEY, TOWN OF | 04025CIND0 ** | 06-JUN-2001
09 | AZ | CLARKDALE, TOWN OF | 04025C1414F | 06-JUN-2001
09 | AZ | CLARKDALE, TOWN OF | 04025C1415F | 06-JUN-2001
09 | AZ | CLARKDALE, TOWN OF | 04025C1416F | 06-JUN-2001
09 | AZ | CLARKDALE, TOWN OF | 04025C1418F | 06-JUN-2001
09 | AZ | CLARKDALE, TOWN OF | 04025C1419F | 06-JUN-2001
09 | AZ | CLARKDALE, TOWN OF | 04025C1781F | 06-JUN-2001
09 | AZ | CLARKDALE, TOWN OF | 04025C1800F | 06-JUN-2001
09 | AZ | CLARKDALE, TOWN OF | 04025CIND0 ** | 06-JUN-2001
09 | AZ | COTTONWOOD, TOWN OF | 04025C1418F | 06-JUN-2001
09 | AZ | COTTONWOOD, TOWN OF | 04025C1419F | 06-JUN-2001
09 | AZ | COTTONWOOD, TOWN OF | 04025C1781F | 06-JUN-2001
09 | AZ | COTTONWOOD, TOWN OF | 04025C1782F | 06-JUN-2001
09 | AZ | COTTONWOOD, TOWN OF | 04025C1784F | 06-JUN-2001
09 | AZ | COTTONWOOD, TOWN OF | 04025C1800F | 06-JUN-2001
09 | AZ | COTTONWOOD, TOWN OF | 04025C1805F | 06-JUN-2001
09 | AZ | COTTONWOOD, TOWN OF | 04025CIND0 ** | 06-JUN-2001
09 | AZ | PRESCOTT VALLEY, TOWN OF | 04025C1720F | 06-JUN-2001
09 | AZ | PRESCOTT VALLEY, TOWN OF | 04025C1738F | 06-JUN-2001
09 | AZ | PRESCOTT VALLEY, TOWN OF | 04025C1739F | 06-JUN-2001
09 | AZ | PRESCOTT VALLEY, TOWN OF | 04025C1743F | 06-JUN-2001
09 | AZ | PRESCOTT VALLEY, TOWN OF | 04025C1750F | 06-JUN-2001
09 | AZ | PRESCOTT VALLEY, TOWN OF | 04025C2085F | 06-JUN-2001
09 | AZ | PRESCOTT VALLEY, TOWN OF | 04025C2101F | 06-JUN-2001
09 | AZ | PRESCOTT VALLEY, TOWN OF | 04025C2102F | 06-JUN-2001
09 | AZ | PRESCOTT VALLEY, TOWN OF | 04025C2103F | 06-JUN-2001
09 | AZ | PRESCOTT VALLEY, TOWN OF | 04025C2104F | 06-JUN-2001
09 | AZ | PRESCOTT VALLEY, TOWN OF | 04025C2106F | 06-JUN-2001
09 | AZ | PRESCOTT VALLEY, TOWN OF | 04025C2110F | 06-JUN-2001
09 | AZ | PRESCOTT VALLEY, TOWN OF | 04025C2115F | 06-JUN-2001
09 | AZ | PRESCOTT VALLEY, TOWN OF | 04025C2120F | 06-JUN-2001
09 | AZ | PRESCOTT VALLEY, TOWN OF | 04025CIND0 ** | 06-JUN-2001
09 | AZ | PRESCOTT, CITY OF | 04025C1720F | 06-JUN-2001
09 | AZ | PRESCOTT, CITY OF | 04025C2060F | 06-JUN-2001
09 | AZ | PRESCOTT, CITY OF | 04025C2070F | 06-JUN-2001
09 | AZ | PRESCOTT, CITY OF | 04025C2080F | 06-JUN-2001
09 | AZ | PRESCOTT, CITY OF | 04025C2085F | 06-JUN-2001
09 | AZ | PRESCOTT, CITY OF | 04025C2090F | 06-JUN-2001
09 | AZ | PRESCOTT, CITY OF | 04025C2095F | 06-JUN-2001
09 | AZ | PRESCOTT, CITY OF | 04025CIND0 ** | 06-JUN-2001
09 | AZ | SEDONA, CITY OF | 04025C1115F | 06-JUN-2001
09 | AZ | SEDONA, CITY OF | 04025C1120F | 06-JUN-2001
09 | AZ | SEDONA, CITY OF | 04025C1140F | 06-JUN-2001
09 | AZ | SEDONA, CITY OF | 04025C1455F | 06-JUN-2001
09 | AZ | SEDONA, CITY OF | 04025C1460F | 06-JUN-2001
09 | AZ | SEDONA, CITY OF | 04025CIND0 ** | 06-JUN-2001
09 | AZ | YAVAPAI COUNTY * | 04025C0300F | 06-JUN-2001
09 | AZ | YAVAPAI COUNTY * | 04025C0325F | 06-JUN-2001
09 | AZ | YAVAPAI COUNTY * | 04025C0450F | 06-JUN-2001
09 | AZ | YAVAPAI COUNTY * | 04025C0475F | 06-JUN-2001
09 | AZ | YAVAPAI COUNTY * | 04025C0500F | 06-JUN-2001
09 | AZ | YAVAPAI COUNTY * | 04025C0510F | 06-JUN-2001
09 | AZ | YAVAPAI COUNTY * | 04025C0525F | 06-JUN-2001
09 | AZ | YAVAPAI COUNTY * | 04025C0530F | 06-JUN-2001
09 | AZ | YAVAPAI COUNTY * | 04025C0550F | 06-JUN-2001
09 | AZ | YAVAPAI COUNTY * | 04025C0575F | 06-JUN-2001
09 | AZ | YAVAPAI COUNTY * | 04025C0675F | 06-JUN-2001
09 | AZ | YAVAPAI COUNTY * | 04025C0700F | 06-JUN-2001
09 | AZ | YAVAPAI COUNTY * | 04025C0725F | 06-JUN-2001
09 | AZ | YAVAPAI COUNTY * | 04025C0750F | 06-JUN-2001
09 | AZ | YAVAPAI COUNTY * | 04025C0775F | 06-JUN-2001
09 | AZ | YAVAPAI COUNTY * | 04025C0900F | 06-JUN-2001
09 | AZ | YAVAPAI COUNTY * | 04025C0925F | 06-JUN-2001
09 | AZ | YAVAPAI COUNTY * | 04025C0950F | 06-JUN-2001
09 | AZ | YAVAPAI COUNTY * | 04025C0955F | 06-JUN-2001
09 | AZ | YAVAPAI COUNTY * | 04025C0960F | 06-JUN-2001
09 | AZ | YAVAPAI COUNTY * | 04025C0965F | 06-JUN-2001
09 | AZ | YAVAPAI COUNTY * | 04025C0970F | 06-JUN-2001
09 | AZ | YAVAPAI COUNTY * | 04025C0980F | 06-JUN-2001
09 | AZ | YAVAPAI COUNTY * | 04025C0990F | 06-JUN-2001
09 | AZ | YAVAPAI COUNTY * | 04025C1000F | 06-JUN-2001
09 | AZ | YAVAPAI COUNTY * | 04025C1025F | 06-JUN-2001
09 | AZ | YAVAPAI COUNTY * | 04025C1100F | 06-JUN-2001
09 | AZ | YAVAPAI COUNTY * | 04025C1115F | 06-JUN-2001
09 | AZ | YAVAPAI COUNTY * | 04025C1120F | 06-JUN-2001
09 | AZ | YAVAPAI COUNTY * | 04025C1125F | 06-JUN-2001
09 | AZ | YAVAPAI COUNTY * | 04025C1140F | 06-JUN-2001
09 | AZ | YAVAPAI COUNTY * | 04025C1250F | 06-JUN-2001
09 | AZ | YAVAPAI COUNTY * | 04025C1275F | 06-JUN-2001
09 | AZ | YAVAPAI COUNTY * | 04025C1300F | 06-JUN-2001
09 | AZ | YAVAPAI COUNTY * | 04025C1320F | 06-JUN-2001
09 | AZ | YAVAPAI COUNTY * | 04025C1325F | 06-JUN-2001
09 | AZ | YAVAPAI COUNTY * | 04025C1330F | 06-JUN-2001
09 | AZ | YAVAPAI COUNTY * | 04025C1335F | 06-JUN-2001
09 | AZ | YAVAPAI COUNTY * | 04025C1340F | 06-JUN-2001
09 | AZ | YAVAPAI COUNTY * | 04025C1345F | 06-JUN-2001
09 | AZ | YAVAPAI COUNTY * | 04025C1375F | 06-JUN-2001
09 | AZ | YAVAPAI COUNTY * | 04025C1414F | 06-JUN-2001
09 | AZ | YAVAPAI COUNTY * | 04025C1415F | 06-JUN-2001
09 | AZ | YAVAPAI COUNTY * | 04025C1416F | 06-JUN-2001
09 | AZ | YAVAPAI COUNTY * | 04025C1417F | 06-JUN-2001
09 | AZ | YAVAPAI COUNTY * | 04025C1418F | 06-JUN-2001
09 | AZ | YAVAPAI COUNTY * | 04025C1419F | 06-JUN-2001
09 | AZ | YAVAPAI COUNTY * | 04025C1438F | 06-JUN-2001
09 | AZ | YAVAPAI COUNTY * | 04025C1445F | 06-JUN-2001
09 | AZ | YAVAPAI COUNTY * | 04025C1450F | 06-JUN-2001
09 | AZ | YAVAPAI COUNTY * | 04025C1455F | 06-JUN-2001
09 | AZ | YAVAPAI COUNTY * | 04025C1460F | 06-JUN-2001
09 | AZ | YAVAPAI COUNTY * | 04025C1465F | 06-JUN-2001
09 | AZ | YAVAPAI COUNTY * | 04025C1470F | 06-JUN-2001
09 | AZ | YAVAPAI COUNTY * | 04025C1490F | 06-JUN-2001
09 | AZ | YAVAPAI COUNTY * | 04025C1675F | 06-JUN-2001
09 | AZ | YAVAPAI COUNTY * | 04025C1685F | 06-JUN-2001
09 | AZ | YAVAPAI COUNTY * | 04025C1695F | 06-JUN-2001
09 | AZ | YAVAPAI COUNTY * | 04025C1700F | 06-JUN-2001
09 | AZ | YAVAPAI COUNTY * | 04025C1705F | 06-JUN-2001
09 | AZ | YAVAPAI COUNTY * | 04025C1710F | 06-JUN-2001
09 | AZ | YAVAPAI COUNTY * | 04025C1715F | 06-JUN-2001
09 | AZ | YAVAPAI COUNTY * | 04025C1720F | 06-JUN-2001
09 | AZ | YAVAPAI COUNTY * | 04025C1738F | 06-JUN-2001
09 | AZ | YAVAPAI COUNTY * | 04025C1739F | 06-JUN-2001
09 | AZ | YAVAPAI COUNTY * | 04025C1743F | 06-JUN-2001
09 | AZ | YAVAPAI COUNTY * | 04025C1750F | 06-JUN-2001
09 | AZ | YAVAPAI COUNTY * | 04025C1775F | 06-JUN-2001
09 | AZ | YAVAPAI COUNTY * | 04025C1781F | 06-JUN-2001
09 | AZ | YAVAPAI COUNTY * | 04025C1782F | 06-JUN-2001
09 | AZ | YAVAPAI COUNTY * | 04025C1784F | 06-JUN-2001
09 | AZ | YAVAPAI COUNTY * | 04025C1800F | 06-JUN-2001
09 | AZ | YAVAPAI COUNTY * | 04025C1805F | 06-JUN-2001
09 | AZ | YAVAPAI COUNTY * | 04025C1810F | 06-JUN-2001
09 | AZ | YAVAPAI COUNTY * | 04025C1815F | 06-JUN-2001
09 | AZ | YAVAPAI COUNTY * | 04025C1820F | 06-JUN-2001
09 | AZ | YAVAPAI COUNTY * | 04025C1840F | 06-JUN-2001
09 | AZ | YAVAPAI COUNTY * | 04025C1845F | 06-JUN-2001
09 | AZ | YAVAPAI COUNTY * | 04025C1850F | 06-JUN-2001
09 | AZ | YAVAPAI COUNTY * | 04025C1875F | 06-JUN-2001
09 | AZ | YAVAPAI COUNTY * | 04025C1975F | 06-JUN-2001
09 | AZ | YAVAPAI COUNTY * | 04025C2000F | 06-JUN-2001
09 | AZ | YAVAPAI COUNTY * | 04025C2040F | 06-JUN-2001
09 | AZ | YAVAPAI COUNTY * | 04025C2045F | 06-JUN-2001
09 | AZ | YAVAPAI COUNTY * | 04025C2050F | 06-JUN-2001
09 | AZ | YAVAPAI COUNTY * | 04025C2060F | 06-JUN-2001
09 | AZ | YAVAPAI COUNTY * | 04025C2070F | 06-JUN-2001
09 | AZ | YAVAPAI COUNTY * | 04025C2080F | 06-JUN-2001
09 | AZ | YAVAPAI COUNTY * | 04025C2085F | 06-JUN-2001
09 | AZ | YAVAPAI COUNTY * | 04025C2090F | 06-JUN-2001
09 | AZ | YAVAPAI COUNTY * | 04025C2095F | 06-JUN-2001
09 | AZ | YAVAPAI COUNTY * | 04025C2101F | 06-JUN-2001
09 | AZ | YAVAPAI COUNTY * | 04025C2102F | 06-JUN-2001
09 | AZ | YAVAPAI COUNTY * | 04025C2103F | 06-JUN-2001
09 | AZ | YAVAPAI COUNTY * | 04025C2104F | 06-JUN-2001
09 | AZ | YAVAPAI COUNTY * | 04025C2106F | 06-JUN-2001
09 | AZ | YAVAPAI COUNTY * | 04025C2110F | 06-JUN-2001
09 | AZ | YAVAPAI COUNTY * | 04025C2115F | 06-JUN-2001
09 | AZ | YAVAPAI COUNTY * | 04025C2120F | 06-JUN-2001
09 | AZ | YAVAPAI COUNTY * | 04025C2140F | 06-JUN-2001
09 | AZ | YAVAPAI COUNTY * | 04025C2150F | 06-JUN-2001
09 | AZ | YAVAPAI COUNTY * | 04025C2175F | 06-JUN-2001
09 | AZ | YAVAPAI COUNTY * | 04025C2185F | 06-JUN-2001
09 | AZ | YAVAPAI COUNTY * | 04025C2195F | 06-JUN-2001
09 | AZ | YAVAPAI COUNTY * | 04025C2200F | 06-JUN-2001
09 | AZ | YAVAPAI COUNTY * | 04025C2205F | 06-JUN-2001
09 | AZ | YAVAPAI COUNTY * | 04025C2210F | 06-JUN-2001
09 | AZ | YAVAPAI COUNTY * | 04025C2215F | 06-JUN-2001
09 | AZ | YAVAPAI COUNTY * | 04025C2220F | 06-JUN-2001
09 | AZ | YAVAPAI COUNTY * | 04025C2250F | 06-JUN-2001
09 | AZ | YAVAPAI COUNTY * | 04025C2325F | 06-JUN-2001
09 | AZ | YAVAPAI COUNTY * | 04025C2350F | 06-JUN-2001
09 | AZ | YAVAPAI COUNTY * | 04025C2375F | 06-JUN-2001
09 | AZ | YAVAPAI COUNTY * | 04025C2400F | 06-JUN-2001
09 | AZ | YAVAPAI COUNTY * | 04025C2415F | 06-JUN-2001
09 | AZ | YAVAPAI COUNTY * | 04025C2425F | 06-JUN-2001
09 | AZ | YAVAPAI COUNTY * | 04025C2450F | 06-JUN-2001
09 | AZ | YAVAPAI COUNTY * | 04025C2495F | 06-JUN-2001
09 | AZ | YAVAPAI COUNTY * | 04025C2500F | 06-JUN-2001
09 | AZ | YAVAPAI COUNTY * | 04025C2515F | 06-JUN-2001
09 | AZ | YAVAPAI COUNTY * | 04025C2525F | 06-JUN-2001
09 | AZ | YAVAPAI COUNTY * | 04025C2550F | 06-JUN-2001
09 | AZ | YAVAPAI COUNTY * | 04025C2575F | 06-JUN-2001
09 | AZ | YAVAPAI COUNTY * | 04025C2600F | 06-JUN-2001
09 | AZ | YAVAPAI COUNTY * | 04025C2625F | 06-JUN-2001
09 | AZ | YAVAPAI COUNTY * | 04025C2650F | 06-JUN-2001
09 | AZ | YAVAPAI COUNTY * | 04025C2675F | 06-JUN-2001
09 | AZ | YAVAPAI COUNTY * | 04025C2700F | 06-JUN-2001
09 | AZ | YAVAPAI COUNTY * | 04025C2725F | 06-JUN-2001
09 | AZ | YAVAPAI COUNTY * | 04025C2750F | 06-JUN-2001
09 | AZ | YAVAPAI COUNTY * | 04025C2770F | 06-JUN-2001
09 | AZ | YAVAPAI COUNTY * | 04025C2775F | 06-JUN-2001
09 | AZ | YAVAPAI COUNTY * | 04025C2790F | 06-JUN-2001
09 | AZ | YAVAPAI COUNTY * | 04025C2800F | 06-JUN-2001
09 | AZ | YAVAPAI COUNTY * | 04025C2805F | 06-JUN-2001
09 | AZ | YAVAPAI COUNTY * | 04025C2810F | 06-JUN-2001
09 | AZ | YAVAPAI COUNTY * | 04025C2815F | 06-JUN-2001
09 | AZ | YAVAPAI COUNTY * | 04025C2820F | 06-JUN-2001
09 | AZ | YAVAPAI COUNTY * | 04025C2850F | 06-JUN-2001
09 | AZ | YAVAPAI COUNTY * | 04025C2875F | 06-JUN-2001
09 | AZ | YAVAPAI COUNTY * | 04025C2885F | 06-JUN-2001
09 | AZ | YAVAPAI COUNTY * | 04025C2900F | 06-JUN-2001
09 | AZ | YAVAPAI COUNTY * | 04025C2905F | 06-JUN-2001
09 | AZ | YAVAPAI COUNTY * | 04025C2915F | 06-JUN-2001
09 | AZ | YAVAPAI COUNTY * | 04025C2925F | 06-JUN-2001
09 | AZ | YAVAPAI COUNTY * | 04025C2975F | 06-JUN-2001
09 | AZ | YAVAPAI COUNTY * | 04025C3000F | 06-JUN-2001
09 | AZ | YAVAPAI COUNTY * | 04025C3025F | 06-JUN-2001
09 | AZ | YAVAPAI COUNTY * | 04025C3050F | 06-JUN-2001
09 | AZ | YAVAPAI COUNTY * | 04025C3075F | 06-JUN-2001
09 | AZ | YAVAPAI COUNTY * | 04025C3100F | 06-JUN-2001
09 | AZ | YAVAPAI COUNTY * | 04025C3110F | 06-JUN-2001
09 | AZ | YAVAPAI COUNTY * | 04025C3125F | 06-JUN-2001
09 | AZ | YAVAPAI COUNTY * | 04025C3130F | 06-JUN-2001
09 | AZ | YAVAPAI COUNTY * | 04025C3150F | 06-JUN-2001
09 | AZ | YAVAPAI COUNTY * | 04025C3175F | 06-JUN-2001
09 | AZ | YAVAPAI COUNTY * | 04025C3200F | 06-JUN-2001
09 | AZ | YAVAPAI COUNTY * | 04025C3250F | 06-JUN-2001
09 | AZ | YAVAPAI COUNTY * | 04025C3275F | 06-JUN-2001
09 | AZ | YAVAPAI COUNTY * | 04025C3325F | 06-JUN-2001
09 | AZ | YAVAPAI COUNTY * | 04025C3350F | 06-JUN-2001
09 | AZ | YAVAPAI COUNTY * | 04025C3425F | 06-JUN-2001
09 | AZ | YAVAPAI COUNTY * | 04025C3450F | 06-JUN-2001
09 | AZ | YAVAPAI COUNTY * | 04025C3475F | 06-JUN-2001
09 | AZ | YAVAPAI COUNTY * | 04025C3500F | 06-JUN-2001
09 | AZ | YAVAPAI COUNTY * | 04025C3505F | 06-JUN-2001
09 | AZ | YAVAPAI COUNTY * | 04025C3510F | 06-JUN-2001
09 | AZ | YAVAPAI COUNTY * | 04025C3515F | 06-JUN-2001
09 | AZ | YAVAPAI COUNTY * | 04025C3520F | 06-JUN-2001
09 | AZ | YAVAPAI COUNTY * | 04025C3540F | 06-JUN-2001
09 | AZ | YAVAPAI COUNTY * | 04025C3550F | 06-JUN-2001
09 | AZ | YAVAPAI COUNTY * | 04025C3635F | 06-JUN-2001
09 | AZ | YAVAPAI COUNTY * | 04025C3645F | 06-JUN-2001
09 | AZ | YAVAPAI COUNTY * | 04025C3650F | 06-JUN-2001
09 | AZ | YAVAPAI COUNTY * | 04025C3655F | 06-JUN-2001
09 | AZ | YAVAPAI COUNTY * | 04025C3675F | 06-JUN-2001
09 | AZ | YAVAPAI COUNTY * | 04025C3725F | 06-JUN-2001
09 | AZ | YAVAPAI COUNTY * | 04025C3750F | 06-JUN-2001
09 | AZ | YAVAPAI COUNTY * | 04025C3775F | 06-JUN-2001
09 | AZ | YAVAPAI COUNTY * | 04025C3805F | 06-JUN-2001
09 | AZ | YAVAPAI COUNTY * | 04025C3875F | 06-JUN-2001
09 | AZ | YAVAPAI COUNTY * | 04025C3900F | 06-JUN-2001
09 | AZ | YAVAPAI COUNTY * | 04025C3925F | 06-JUN-2001
09 | AZ | YAVAPAI COUNTY * | 04025CIND0 ** | 06-JUN-2001
09 | CA | CARLSBAD, CITY OF | 06073CIND0 ** | 19-JAN-2001
09 | CA | CERES, CITY OF | 060384IND0 ** | 07-MAY-2001
09 | CA | CHULA VISTA, CITY OF | 06073CIND0 ** | 19-JAN-2001
09 | CA | CORCORAN, CITY OF | 060384IND0 ** | 07-MAY-2001
09 | CA | CORONADO, CITY OF | 06073CIND0 ** | 19-JAN-2001
09 | CA | DEL MAR, CITY OF | 06073CIND0 ** | 19-JAN-2001
09 | CA | EL CAJON, CITY OF | 06073CIND0 ** | 19-JAN-2001
09 | CA | ENCINITAS, CITY OF | 06073CIND0 ** | 19-JAN-2001
09 | CA | ESCONDIDO, CITY OF | 06073CIND0 ** | 19-JAN-2001
09 | CA | IMPERIAL BEACH, CITY OF | 06073CIND0 ** | 19-JAN-2001
09 | CA | LEMON GROVE, CITY OF | 06073CIND0 ** | 19-JAN-2001
09 | CA | MADERA COUNTY* | 0601700635C | 06-JUN-2001
09 | CA | MADERA COUNTY* | 0601700645C | 06-JUN-2001
09 | CA | MADERA COUNTY* | 0601700735C | 06-JUN-2001
09 | CA | MADERA COUNTY* | 0601700755C | 06-JUN-2001
09 | CA | MADERA COUNTY* | 060170IND0 ** | 06-JUN-2001
09 | CA | MODESTO, CITY OF | 0603870005D | 07-MAY-2001
09 | CA | MODESTO, CITY OF | 0603870015D | 07-MAY-2001
09 | CA | MODESTO, CITY OF | 0603870020D | 07-MAY-2001
09 | CA | MODESTO, CITY OF | 060387IND0 ** | 07-MAY-2001
09 | CA | NATIONAL CITY, CITY OF | 06073CIND0 ** | 19-JAN-2001
09 | CA | OCEANSIDE, CITY OF | 06073C0468G | 19-JAN-2001
09 | CA | OCEANSIDE, CITY OF | 06073C0734G | 19-JAN-2001
09 | CA | OCEANSIDE, CITY OF | 06073C0751G | 19-JAN-2001
09 | CA | OCEANSIDE, CITY OF | 06073C0752G | 19-JAN-2001
09 | CA | OCEANSIDE, CITY OF | 06073C0753G | 19-JAN-2001
09 | CA | OCEANSIDE, CITY OF | 06073C0754G | 19-JAN-2001
09 | CA | OCEANSIDE, CITY OF | 06073C0756G | 19-JAN-2001
09 | CA | OCEANSIDE, CITY OF | 06073CIND0 ** | 19-JAN-2001
09 | CA | POWAY, CITY OF | 06073CIND0 ** | 19-JAN-2001
09 | CA | SAN DIEGO COUNTY * | 06073C0468G | 19-JAN-2001
09 | CA | SAN DIEGO COUNTY * | 06073C0734G | 19-JAN-2001
09 | CA | SAN DIEGO COUNTY * | 06073C0751G | 19-JAN-2001
09 | CA | SAN DIEGO COUNTY * | 06073C0752G | 19-JAN-2001
09 | CA | SAN DIEGO COUNTY * | 06073C0753G | 19-JAN-2001
09 | CA | SAN DIEGO COUNTY * | 06073C0754G | 19-JAN-2001
09 | CA | SAN DIEGO COUNTY * | 06073C0756G | 19-JAN-2001
09 | CA | SAN DIEGO COUNTY * | 06073CIND0 ** | 19-JAN-2001
09 | CA | SAN DIEGO, CITY OF | 06073CIND0 ** | 19-JAN-2001
09 | CA | SAN MARCOS, CITY OF | 06073CIND0 ** | 19-JAN-2001
09 | CA | SANTEE, CITY OF | 06073CIND0 ** | 19-JAN-2001
09 | CA | SOLANA BEACH,CITY OF | 06073CIND0 ** | 19-JAN-2001
09 | CA | SOLANO COUNTY * | 0606310136C | 07-MAY-2001
09 | CA | SOLANO COUNTY * | 0606310137D | 07-MAY-2001
09 | CA | SOLANO COUNTY * | 0606310139D | 07-MAY-2001
09 | CA | SOLANO COUNTY * | 0606310141C | 07-MAY-2001
09 | CA | SOLANO COUNTY * | 0606310143D | 07-MAY-2001
09 | CA | SOLANO COUNTY * | 0606310144C | 07-MAY-2001
09 | CA | SOLANO COUNTY * | 060631IND0 ** | 07-MAY-2001
09 | CA | STANISLAUS COUNTY * | 0603840275C | 07-MAY-2001
09 | CA | STANISLAUS COUNTY * | 0603840290B | 07-MAY-2001
09 | CA | STANISLAUS COUNTY * | 0603840295B | 07-MAY-2001
09 | CA | STANISLAUS COUNTY * | 0603840480B | 07-MAY-2001
09 | CA | STANISLAUS COUNTY * | 0603840485B | 07-MAY-2001
09 | CA | STANISLAUS COUNTY * | 0603840505B | 07-MAY-2001
09 | CA | STANISLAUS COUNTY * | 0603840510B | 07-MAY-2001
09 | CA | STANISLAUS COUNTY * | 060384IND0 ** | 07-MAY-2001
09 | CA | VACAVILLE, CITY OF | 0603730002D | 07-MAY-2001
09 | CA | VACAVILLE, CITY OF | 0603730003D | 07-MAY-2001
09 | CA | VACAVILLE, CITY OF | 0603730004D | 07-MAY-2001
09 | CA | VACAVILLE, CITY OF | 0603730006D | 07-MAY-2001
09 | CA | VACAVILLE, CITY OF | 060373IND0 ** | 07-MAY-2001
09 | CA | VISTA, CITY OF | 06073CIND0 ** | 19-JAN-2001
09 | NV | RENO, CITY OF | 32031C2813F | 19-JAN-2001
09 | NV | RENO, CITY OF | 32031C2976F | 19-JAN-2001
09 | NV | RENO, CITY OF | 32031C2977F | 19-JAN-2001
09 | NV | RENO, CITY OF | 32031C2981F | 19-JAN-2001
09 | NV | RENO, CITY OF | 32031C2984F | 19-JAN-2001
09 | NV | RENO, CITY OF | 32031C3176F | 19-JAN-2001
09 | NV | RENO, CITY OF | 32031CIND0 ** | 19-JAN-2001
09 | NV | SPARKS, CITY OF | 32031C2984F | 19-JAN-2001
09 | NV | SPARKS, CITY OF | 32031CIND0 ** | 19-JAN-2001
09 | NV | WASHOE COUNTY* | 32031C2813F | 19-JAN-2001
09 | NV | WASHOE COUNTY* | 32031C2976F | 19-JAN-2001
09 | NV | WASHOE COUNTY* | 32031C2977F | 19-JAN-2001
09 | NV | WASHOE COUNTY* | 32031C2981F | 19-JAN-2001
09 | NV | WASHOE COUNTY* | 32031C2982F | 19-JAN-2001
09 | NV | WASHOE COUNTY* | 32031C2984F | 19-JAN-2001
09 | NV | WASHOE COUNTY* | 32031C3176F | 19-JAN-2001
09 | NV | WASHOE COUNTY* | 32031C3177F | 19-JAN-2001
09 | NV | WASHOE COUNTY* | 32031C3226F | 06-JUN-2001
09 | NV | WASHOE COUNTY* | 32031C3227F | 06-JUN-2001
09 | NV | WASHOE COUNTY* | 32031C3231F | 06-JUN-2001
09 | NV | WASHOE COUNTY* | 32031C3250F** | 06-JUN-2001
09 | NV | WASHOE COUNTY* | 32031CIND0 ** | 06-JUN-2001
10 | WA | CLALLAM COUNTY * | 5300210315E | 23-FEB-2001
10 | WA | CLALLAM COUNTY * | 5300210320E | 23-FEB-2001
10 | WA | CLALLAM COUNTY * | 5300210485E | 23-FEB-2001
10 | WA | CLALLAM COUNTY * | 530021IND0 ** | 23-FEB-2001
10 | WA | LOWER ELWHA KLALLAM TRIBE | 5303160001D | 23-FEB-2001

[FR Doc. 01-21590 Filed 8-27-01; 8:45 am]

BILLING CODE 6718-04-F